DEPARTMENT OF HEALTH AND HUMAN SERVICES

Centers for Medicare & Medicaid Services

42 CFR Parts 405, 412, 413, 482, 485, and 489

[CMS-1203-P]

RIN 0938-AL23

Medicare Program; Changes to the Hospital Inpatient Prospective Payment Systems and Fiscal Year 2003 Rates

AGENCY: Centers for Medicare & Medicaid Services (CMS), HHS.

ACTION: Proposed rule.

SUMMARY: We are proposing to revise the Medicare acute care hospital inpatient prospective payment systems for operating and capital costs to implement changes arising from our continuing experience with these systems. In addition, in the Addendum to this proposed rule, we describe the proposed changes to the amounts and factors used to determine the rates for Medicare hospital inpatient services for operating costs and capital-related costs. These changes would be applicable to discharges occurring on or after October 1, 2002. We also are setting forth proposed rate-of-increase limits as well as proposed policy changes for hospitals and hospital units excluded from the acute care hospital inpatient prospective payment systems.

In addition, we are proposing changes to other hospital payment policies, which include policies governing: payments to hospitals for the direct and indirect costs of graduate medical education; pass-through payments for the services of nonphysician anesthetists in some rural hospitals; clinical requirements for swing-bed services in critical access hospitals (CAHs); payments to provider-based entities; and implementation of the Emergency Medical Treatment and Active Labor Act (EMTALA).

DATES: Comments will be considered if received at the appropriate address, as provided below, no later than 5 p.m. on July 8, 2002.

ADDRESSES: Mail written comments (an original and three copies) to the following address ONLY:

Centers for Medicare & Medicaid Services, Department of Health and Human Services, Attention: CMS-1203-P, P.O. Box 8010, Baltimore, MD 21244-1850.

If you prefer, you may deliver, by hand or courier, your written comments (an original and three copies) to one of the following addresses:

Room 443-G, Hubert H. Humphrey Building, 200 Independence Avenue, SW, Washington, DC 20201, or

Room C5-14-03, Central Building, 7500 Security Boulevard, Baltimore, MD 21244-1850.

(Because access to the interior of the Humphrey Building is not readily available to persons without Federal Government identification, commenters are encouraged to leave their comments in the CMS drop slots located in the main lobby of the building. A stamp-in clock is available for commenters who wish to retain proof of filing by stamping in and keeping an extra copy of the comments being filed.)

Comments mailed to those addresses specified as appropriate for courier delivery may be delayed and could be considered late.

Because of staffing and resource limitations, we cannot accept comments by facsimile (FAX) transmission. In commenting, please refer to file code CMS-1203-P.

For information on viewing public comments, see the beginning of the SUPPLEMENTARY INFORMATION section.

For comments that relate to information collection requirements, mail a copy of comments to the following addresses:

Centers for Medicare & Medicaid Services, Office of Information Services, Security and Standards Group, Division of CMS Enterprise Standards, Room N2-14-26, 7500 Security Boulevard, Baltimore, Maryland 21244-1850. Attn: John Burke, CMS-1203-P; and

Office of Information and Regulatory Affairs, Office of Management and Budget, Room 3001, New Executive Office Building, Washington, DC 20503, Attn: Allison Herron Eydt, CMS Desk Officer.

FOR FURTHER INFORMATION CONTACT: Stephen Phillips, (410) 786-4548, Operating Prospective Payments, Diagnosis-Related Groups (DRGs), Wage Index, New Medical Services and Technology, Hospital Geographic Reclassifications, and Postacute Transfer Issues. Tzvi Hefter, (410) 786-4487, Capital Prospective Payment, Excluded Hospitals, Graduate Medical Education, Provider-Based Entities, Critical Access Hospital (CAH), EMTALA Issues. Stephen Heffler, (410) 786-1211, Hospital Market Basket Rebasing. Jeannie Miller, (410) 786-3164, Clinical Standards for CAHs. Tom Hutchinson, (410) 786-8953, Hospital Communication with Medicare+Choice Organizations.

SUPPLEMENTARY INFORMATION:

Inspection of Public Comments

Comments received timely will be available for public inspection as they are received, generally beginning approximately 3 weeks after publication of a document, in Room C5-12-08 of the Centers for Medicare & Medicaid Services, 7500 Security Blvd., Baltimore, MD, on Monday through Friday of each week from 8:30 a.m. to 5 p.m. Please call (410) 786-7197 to schedule an appointment to view public comments.

Availability of Copies and Electronic Access

Copies: To order copies of the Federal Register containing this document, send your request to: New Orders, Superintendent of Documents, P.O. Box 371954, Pittsburgh, PA 15250-7954. Specify the date of the issue requested and enclose a check or money order payable to the Superintendent of Documents, or enclose your Visa or Master Card number and expiration date. Credit card orders can also be placed by calling the order desk at (202) 512-1800 or by faxing to (202) 512-2250. The cost for each copy is $9.00. As an alternative, you can view and photocopy the Federal Register document at most libraries designated as Federal Depository Libraries and at many other public and academic libraries throughout the country that receive the Federal Register.

This Federal Register document is also available from the Federal Register online database through GPO Access, a service of the U.S. Government Printing Office. Free public access is available on a Wide Area Information Server (WAIS) through the Internet and via asynchronous dial-in. Internet users can access the database by using the World Wide Web; the Superintendent of Documents home page address is http://www.access.gpo.gov/nara_docs/, by using local WAIS client software, or by telnet to swais.access.gpo.gov, then login as guest (no password required). Dial-in users should use communications software and modem to call (202) 512-1661; type swais, then login as guest (no password required).

I. Background

A. Summary

1. Acute Care Hospital Inpatient Prospective Payment System

Section 1886(d) of the Social Security Act (the Act) sets forth a system of payment for the operating costs of acute care hospital inpatient stays under Medicare Part A (Hospital Insurance) based on prospectively set rates. Section 1886(g) of the Act requires the Secretary to pay for the capital-related costs of hospital inpatient stays under a prospective payment system. Under these prospective payment systems, Medicare payment for hospital inpatient operating and capital-related costs is made at predetermined, specific rates for each hospital discharge. Discharges are classified according to a list of diagnosis-related groups (DRGs).

The base payment rate is comprised of a standardized amount that is divided into a labor-related share and a nonlabor-related share. The labor-related share is adjusted by the wage index applicable to the area where the hospital is located; and if the hospital is located in Alaska or Hawaii, the nonlabor share is adjusted by a cost-of-living adjustment factor. This base payment rate is multiplied by the DRG relative weight.

If the hospital is recognized as serving a disproportionate share of low-income patients, it receives a percentage add-on payment for each case paid through the acute care hospital inpatient prospective payment system. This percentage varies, depending on several factors which include the percentage of low-income patients served. It is applied to the DRG-adjusted base payment rate, plus any outlier payments received.

If the hospital is an approved teaching hospital, it receives a percentage add-on payment for each case paid through the acute care hospital inpatient prospective payment system. This percentage varies, depending on the ratio of residents to beds.

The costs incurred by the hospital for a case are evaluated to determine whether the hospital is eligible for an additional payment as an outlier case. This additional payment is designed to protect the hospital from large financial losses due to unusually expensive cases. Any outlier payment due is added to the DRG-adjusted base payment rate.

Although payments to most hospitals under the acute care hospital inpatient prospective payment system are made on the basis of the standardized amounts, some categories of hospitals are paid the higher of a hospital-specific rate based on their costs in a base year (the higher of Federal fiscal year (FY) 1982, FY 1987, or FY 1996) or the prospective payment system rate based on the standardized amount. For example, sole community hospitals (SCHs) are the sole source of care in their areas, and Medicare-dependent, small rural hospitals (MDHs) are a major source of care for Medicare beneficiaries in their areas. Both of these categories of hospitals are afforded this special payment protection in order to maintain access to services for beneficiaries (although MDHs receive only 50 percent of the difference between the prospective payment system rate and their hospital-specific rates, if the hospital-specific rate is higher than the prospective payment system rate).

The existing regulations governing payments to hospitals under the acute care hospital inpatient prospective payment system are located in 42 CFR part 412, Subparts A through M.

2. Hospitals and Hospital Units Excluded From the Acute Care Hospital Inpatient Prospective Payment System

Under section 1886(d)(1)(B) of the Act, as amended, certain specialty hospitals and hospital units are excluded from the acute care hospital inpatient prospective payment system. These hospitals and units are: psychiatric hospitals and units; rehabilitation hospitals and units; long-term care hospitals; children's hospitals; and cancer hospitals. Various sections of the Balanced Budget Act of 1997 (Public Law 105-33), the Medicare, Medicaid, and SCHIP [State Children's Health Insurance Program] Balanced Budget Refinement Act of 1999 (Public Law 106-113), and the Medicare, Medicaid, and SCHIP Benefits Improvement and Protection Act of 2000 (Public Law 106-554) provide for the implementation of prospective payment systems for rehabilitation hospitals and units, psychiatric hospitals and units, and long-term care hospitals, as discussed below. Children's hospitals and cancer hospitals will continue to be paid on a cost-based reimbursement basis.

The existing regulations governing payments to excluded hospitals and hospital units are located in 42 CFR parts 412 and 413.

Under section 1886(j) of the Act, as amended, rehabilitation hospitals and units are being transitioned from a blend of reasonable cost-based reimbursement subject to a hospital-specific annual limit under section 1886(b) of the Act and Federal prospective payments for cost reporting periods beginning January 1, 2002 through September 30, 2002, to payment on a fully Federal prospective rate effective for cost reporting periods beginning on or after October 1, 2002 (66 FR 41316, August 7, 2001). The statute also provides that IRFs may elect to receive the full prospective payment instead of a blended payment. The existing regulations governing payment under the inpatient rehabilitation facility prospective payment system (for rehabilitation hospitals and units) are located in 42 CFR part 412, subpart P.

Under the broad authority conferred to the Secretary by section 123 of Public Law 106-113 and section 307(b) of Public Law 106-554, we are proposing to transition long-term care hospitals from payments based on reasonable cost-based reimbursement under section 1886(b) of the Act to fully Federal prospective rates during a 5-year period. For cost reporting periods beginning on or after October 1, 2006, we are proposing to pay long-term care hospitals under the fully Federal prospective payment rate. (See the proposed rule issued in the Federal Register on March 22, 2002 (67 FR 13416).) Under the proposed rule, long-term care hospitals would also be permitted to elect to be paid based on full Federal prospective rates. The proposed regulations governing payments under the long-term care hospital prospective payment system would be located in 42 CFR part 412, subpart O.

Sections 124(a) and (c) of Public Law 106-113 provide for the development of a per diem prospective payment system for payment for inpatient hospital services furnished by psychiatric hospitals and units under the Medicare program, effective for cost reporting periods beginning on or after October 1, 2002. This system must include an adequate patient classification system that reflects the differences in patient resource use and costs among these hospitals and must maintain budget neutrality. We are in the process of developing a proposed rule, to be followed by a final rule, to implement the prospective payment system for psychiatric hospitals and units.

3. Critical Access Hospitals

Under sections 1814, 1820, and 1834(g) of the Act, payments are made to critical access hospitals (CAHs) (that is, rural hospitals or facilities that meet certain statutory requirements) for inpatient and outpatient services on a reasonable cost basis. Reasonable cost is determined under the provisions of section 1861(v)(1)(A) of the Act and existing regulations under 42 CFR parts 413 and 415.

4. Payments for Graduate Medical Education

Under section 1886(a)(4) of the Act, costs of approved educational activities are excluded from the operating costs of inpatient hospital services. Hospitals with approved graduate medical education (GME) programs are paid for the direct costs of GME in accordance with section 1886(h) of the Act; the amount of payment for direct GME costs for a cost reporting period is based on the hospital's number of residents in that period and the hospital's costs per resident in a base year.

The existing regulations governing GME payments are located in 42 CFR part 413.

B. Major Contents of This Proposed Rule

In this proposed rule, we are setting forth proposed changes to the Medicare hospital inpatient prospective payment systems for operating costs and for capital-related costs in FY 2003. We also are proposing changes relating to payments for GME costs; payments to excluded hospitals and units; policies implementing EMTALA; clinical requirements for swing beds in CAHs; and other hospital payment policy changes. The proposed changes would be effective for discharges occurring on or after October 1, 2002.

The following is a summary of the major changes that we are proposing to make:

1. Proposed Changes to the DRG Reclassifications and Recalibrations of Relative Weights

As required by section 1886(d)(4)(C) of the Act, we adjust the DRG classifications and relative weights annually. Based on analyses of Medicare claims data, we are proposing to establish a number of new DRGs and to make changes to the designation of diagnosis and procedure codes under other existing DRGs. Our proposed changes for FY 2003 are set forth in section II. of this preamble.

Among the proposed changes discussed are:

• Revisions of DRG 1 (Craniotomy Age >17 Except for Trauma) and DRG 2 (Craniotomy for Trauma Age >17) to reflect the current assignment of cases involving head trauma patients with other significant injuries to MDC 24;

• Reconfiguration of DRG 14 (Specific Cerebrovascular Disorders Except Transient Ischemic Attack) and DRG 15 (Transient Ischemic Attack and Precerebral Occlusions) and creation of a new DRG 524 (Transient Ischemia);

• Creation of a new DRG for heart assist devices;

• Reassignment of the diagnosis code for rheumatic heart failure with cardiac catheterization;

• Assignment of new, and reassignment of existing, cystic fibrosis principal diagnosis codes;

• Designation of a code for insertion of totally implantable vascular access device (VAD);

• Changes in the DRG assignment for the bladder reconstruction procedure code.

• Changes in DRG and MDC assignments for numerous newborn and neonate diagnosis codes; and

• Changes in DRG assignment for cases of tracheostomy and continuous mechanical ventilation greater than 96 hours.

We also are presenting our analysis of applicants for add-on payments for high-cost new medical technologies.

2. Proposed Changes to the Hospital Wage Index

In section III. of this preamble, we discuss proposed revisions to the wage index and the annual update of the wage data. Specific issues addressed in this section include the following:

• The FY 2003 wage index update, using FY 1999 wage data.

• Exclusion from the wage index of Part A physician wage costs that are teaching-related, as well as resident and Part A certified registered nurse anesthetist (CRNA) costs.

• Collection of data for contracted administrative and general, housekeeping, and dietary services.

• Revisions to the wage index based on hospital redesignations and reclassifications by the Medicare Geographic Classification Review Board (MGCRB).

• Requests for wage data corrections, including clarification of our policies on mid-year corrections.

3. Revision and Rebasing of the Hospital Market Basket

In section IV. of this preamble, we discuss issues relating to our proposed rebasing and revision of the hospital market basket in developing the recommended FY 2003 update factor for the operating prospective payment rates and the excluded hospital rate-of-increase limits. We also set forth the data sources used to determine the proposed revised market basket relative weights and choice of price proxies.

4. Other Decisions and Proposed Changes to the Prospective Payment System for Inpatient Operating and Graduate Medical Education Costs

In section V. of this preamble, we discuss several provisions of the regulations in 42 CFR Parts 412 and 413 and set forth certain proposed changes concerning the following:

• Options for expanding the postacute care transfer policy.

• Refinement of the application of a hospital bed-count policy that would more accurately reflect the size of a hospital's operations.

• Clarification of the application of the statutory provisions on the calculation of hospital-specific rates for SCHs.

• Technical change regarding additional payments for outlier cases.

• Rural referral centers proposed case-mix index values for FY 2003.

• Changes relating to the IME adjustment, including resident-to-bed ratio caps and counting beds for IME and DSH adjustments.

• Clarification and codification of classification requirements for MDHs and intermediary evaluations of cost reports for these hospitals.

• Changes to policies on pass-through payments for the costs of nonphysician anesthetists in some rural hospitals.

• Clarification of policies relating to implementing 3-year reclassifications of hospitals and other policies related to hospital reclassifications decisions made by the MGCRB.

• Changes relating to payment for the direct costs of GME.

• Changes related to emergency medical conditions in hospital emergency department under the EMTALA provisions.

• Criteria for and payments to provider-based entities.

• CMS-directed reopening of intermediary determinations and hearing decisions on provider reimbursements.

5. Prospective Payment System for Capital-Related Costs

In section VI. of this preamble, we specify the proposed payment requirements for capital-related costs which include:

• Capital-related costs for new hospitals.

• Additional payments for extraordinary circumstances.

• Restoration of the 2.1 percent reduction to the standard Federal capital prospective payment system rate.

• Clarification of the special exceptions payment policy.

6. Proposed Changes for Hospitals and Hospital Units Excluded From the Prospective Payment Systems

In section VII. of this preamble, we discuss the following proposals concerning excluded hospitals and hospital units and CAHs:

• Payments for existing excluded hospitals and hospital units for FY 2003.

• Updated caps for new excluded hospitals and hospital units.

• Revision of criteria for exclusion of satellite facilities from the acute care hospital inpatient prospective payment system.

• The prospective payment systems for inpatient rehabilitation hospitals and units and long-term care hospitals.

• Changes in the advance notification period for CAHs electing the optional payment methodology.

• Removal of the requirement on CAHs to use a State resident assessment instrument (RAI) for patient assessments for swing-bed patients.

7. Determining Prospective Payment Operating and Capital Rates and Rate-of-Increase Limits

In the Addendum to this proposed rule, we set forth proposed changes to the amounts and factors for determining the FY 2003 prospective payment rates for operating costs and capital-related costs. We also establish the proposed threshold amounts for outlier cases. In addition, we address update factors for determining the rate-of-increase limits for cost reporting periods beginning in FY 2003 for hospitals and hospital units excluded from the acute care hospital inpatient prospective payment system.

8. Impact Analysis

In Appendix A, we set forth an analysis of the impact that the proposed changes described in this proposed rule would have on affected entities.

9. Report to Congress on the Update Factor for Hospitals Under the Prospective Payment System and Hospitals and Units Excluded From the Prospective Payment System

Section 1886(e)(3) of the Act requires the Secretary to report to Congress on our initial estimate of a recommended update factor for FY 2003 for payments to hospitals included in the acute care hospital inpatient prospective payment system, and hospitals excluded from this prospective payment system. This report is included as Appendix B to this proposed rule.

10. Proposed Recommendation of Update Factor for Hospital Inpatient Operating Costs

As required by sections 1886(e)(4) and (e)(5) of the Act, appendix C provides our recommendation of the appropriate percentage change for FY 2003 for the following:

• Large urban area and other area average standardized amounts (and hospital-specific rates applicable to SCHs and MDHs) for hospital inpatient services paid under the prospective payment system for operating costs.

• Target rate-of-increase limits to the allowable operating costs of hospital inpatient services furnished by hospitals and hospital units excluded from the acute care hospital inpatient prospective payment system.

11. Discussion of Medicare Payment Advisory Commission Recommendations

Under section 1805(b) of the Act, the Medicare Payment Advisory Commission (MedPAC) is required to submit a report to Congress, not later than March 1 of each year, that reviews and makes recommendations on Medicare payment policies. This annual report makes recommendations concerning hospital inpatient payment policies. In section VIII. of this preamble, we discuss the MedPAC recommendations and any actions we are proposing to take with regard to them (when an action is recommended). For further information relating specifically to the MedPAC March 1 report or to obtain a copy of the report, contact MedPAC at (202) 653-7220 or visit MedPAC's website at: www.medpac.gov.

II. Proposed Changes to DRG Classifications and Relative Weights

A. Background

Under the acute care hospital inpatient prospective payment system, we pay for inpatient hospital services on a rate per discharge basis that varies according to the DRG to which a beneficiary's stay is assigned. The formula used to calculate payment for a specific case multiplies an individual hospital's payment rate per case by the weight of the DRG to which the case is assigned. Each DRG weight represents the average resources required to care for cases in that particular DRG relative to the average resources used to treat cases in all DRGS.

Congress recognized that it would be necessary to recalculate the DRG relative weights periodically to account for changes in resource consumption. Accordingly, section 1886(d)(4)(C) of the Act requires that the Secretary adjust the DRG classifications and relative weights at least annually. These adjustments are made to reflect changes in treatment patterns, technology, and any other factors that may change the relative use of hospital resources. The proposed changes to the DRG classification system and the proposed recalibration of the DRG weights for discharges occurring on or after October 1, 2002 are discussed below.

B. DRG Reclassification

1. General

Cases are classified into DRGs for payment under the acute care hospital inpatient prospective payment system based on the principal diagnosis, up to eight additional diagnoses, and up to six procedures performed during the stay, as well as age, sex, and discharge status of the patient. The diagnosis and procedure information is reported by the hospital using codes from the International Classification of Diseases, Ninth Revision, Clinical Modification (ICD-9-CM).

For FY 2002, cases are assigned to one of 506 DRGs in 25 major diagnostic categories (MDCs). Most MDCs are based on a particular organ system of the body. For example, MDC 6 is Diseases and Disorders of the Digestive System. However, some MDCs are not constructed on this basis because they involve multiple organ systems (for example, MDC 22 (Burns)).

In general, cases are assigned to an MDC based on the patients' principal diagnosis before assignment to a DRG. However, for FY 2002, there are eight DRGs to which cases are directly assigned on the basis of ICD-9-CM procedure codes. These are the DRGs for heart, liver, bone marrow, lung transplants, simultaneous pancreas/kidney, and pancreas transplants (DRGs 103, 480, 481, 495, 512, and 513, respectively) and the two DRGs for tracheostomies (DRGs 482 and 483). Cases are assigned to these DRGs before classification to an MDC.

Within most MDCs, cases are then divided into surgical DRGs and medical DRGs. Surgical DRGs are based on a hierarchy that orders operating room (O.R.) procedures or groups of O.R. procedures, by resource intensity. Medical DRGs generally are differentiated on the basis of diagnosis and age. Some surgical and medical DRGs are further differentiated based on the presence or absence of complications or comorbidities (CC).

Generally, nonsurgical procedures and minor surgical procedures not usually performed in an operating room are not treated as O.R. procedures. However, there are a few non-O.R. procedures that do affect DRG assignment for certain principal diagnoses, such as extracorporeal shock wave lithotripsy for patients with a principal diagnosis of urinary stones.

Patients' diagnosis, procedure, discharge status, and demographic information is fed into the Medicare claims processing systems and subjected to a series of automated screens called the Medicare Code Editor (MCE). These screens are designed to identify cases that require further review before classification into a DRG.

After screening through the MCE and any further development of the claims, cases are classified into the appropriate DRG by the Medicare GROUPER software program. The GROUPER program was developed as a means of classifying each case into a DRG on the basis of the diagnosis and procedure codes and, for a limited number of DRGs, demographic information (that is, sex, age, and discharge status). The GROUPER is used both to classify current cases for purposes of determining payment and to classify past cases in order to measure relative hospital resource consumption to establish the DRG weights.

The records for all Medicare hospital inpatient discharges are maintained in the Medicare Provider Analysis and Review (MedPAR) file. The data in this file are used to evaluate possible DRG classification changes and to recalibrate the DRG weights. However, in the July 30, 1999 final rule (64 FR 41500), we discussed a process for considering non-MedPAR data in the recalibration process. In order for the use of particular data to be feasible, we must have sufficient time to evaluate and test the data. The time necessary to do so depends upon the nature and quality of the data submitted. Generally, however, a significant sample of the data should be submitted by mid-October, so that we can test the data and make a preliminary assessment as to the feasibility of using the data. Subsequently, a complete database should be submitted no later than December 1 for consideration in conjunction with next year's proposed rule.

The major changes we are proposing to the DRG classification system for FY 2003 GROUPER version 20.0 and to the methodology to recalibrate the DRG weights are set forth below. Unless otherwise noted, our DRG analysis is based on data from 100 percent of the FY 2001 MedPAR file, which contains hospital bills received through May 31, 2001, for discharges in FY 2001.

2. MDC 1 (Diseases and Disorders of the Nervous System)

a. Proposed Revisions of DRGs 1 and 2

Currently, adult craniotomy patients are assigned to either DRG 1 (Craniotomy Age >17 Except for Trauma) or DRG 2 (Craniotomy for Trauma Age >17). The trauma distinction recognizes that head trauma patients requiring a craniotomy often have multiple injuries affecting other body parts. However, we note that the structure of these DRGs predates the creation in FY 1991 of MDC 24 (Multiple Significant Trauma). The creation of MDC 24 resulted in head trauma patients with other significant injuries being assigned to MDC 24 and removed from DRG 2. In FY 1990, there was a 16-percent difference in the DRG weights for DRG l and DRG 2. In FY 1992, after the creation of MDC 24, the percentage difference in the DRG weights for DRG 1 and DRG 2 had declined to 1.2 percent. The FY 2002 payment weight for DRG 1 is 3.2713 and for DRG 2 is 3.3874, a 3.5 percent difference.

For FY 2003, we reevaluated the GROUPER logic for DRGs 1 and 2 by combining the patients assigned to these DRGs and examining the impact of other patient attributes on patient charges. The presence or absence of a CC was found to have a substantial impact on patient charges.

Cases in DRGs 1 and 2 | Number of patients | Average charges
With CC | 19,012 | $49,659
Without CC | 9,618 | 26,824

Thus, there is an 85.1 percent difference in average charges for the groups with and without CC for the combined DRGs 1 and 2. On this basis, we are proposing to redefine and retitle DRGs 1 and 2 as follows: DRG 1 (Craniotomy Age >17 with CC); and DRG 2 (Craniotomy Age >17 without CC).

b. Proposed Revisions of DRGs 14 and 15

To assess the appropriate classification of patients with stroke symptoms, we evaluated the assignment of cases to DRGs 14 (Specific Cerebrovascular Disorders Except Transient Ischemic Attack (TIA) and DRG 15 (Transient Ischemic Attack and Precerebral Occlusions). Our data review indicated that the cases in DRGs 14 and 15 fell into three discrete groups. The first group included cases in which the patients were very sick, with severe intracranial lesions or subarachnoid hemorrhage and severe consequences. The second group included cases in which patients had not suffered a debilitating stroke but instead may have experienced a transient ischemic attack. The patients in the second group had one half of the average length of stay in the hospital as the first group. The third group of cases included patients who appeared to suffer strokes with minor consequences, as well as those having occluded vessels without having a full-blown stroke.

We found that patients who have intracranial hemorrhage and patients who have infarction are similar in severity. These cases are more frequent in occurrence than cases with patients who have subarachnoid hemorrhage. Therefore, we are proposing to continue to group patients with intracranial hemorrhage and infarction together. These types of cases are different from patients with, for example, an occlusive carotid artery without infarction. In this common group of cases, patients are not as severely ill because they typically have lesser degrees of functional status deficits.

Our analysis indicates that we can improve the clinical and resource cohesiveness of DRGs 14 and 15 by reassigning several specific ICD-9-CM codes. For example, code 436 (Acute, but ill-defined, cerebrovascular disease) is not a specific code and contains patients with a wide range of deficits and anatomic problems. Our data show that these cases consume fewer resources and have shorter lengths of stay than other cases in DRG 14. Therefore, we are proposing to remove code 436 from DRG 14 and reassign it to DRG 15. We also are proposing to create a third new DRG to further identify these cases. The proposed revised or new DRG titles are as follows: DRG 14 (Intracranial Hemorrhage and Stroke with Infarction); DRG 15 (Nonspecific Cerebrovascular and Precerebral Occlusion without Infarction); and DRG 524 (Transient Ischemia).

The following table represents a proposed reconfiguration of DRGs 14 and 15 and the creation of a new DRG 524 reflecting these three categorizations:

Proposed DRG and title | Number of cases | Average length of stay (days) | Average charge
Revised DRG 14 (Intracranial Hemorrhage and Stroke with Infarction) | 164,786 | 6.1 | $15,643
Revised DRG 15 (Nonspecific Cerebrovascular and Precerebral Occlusion without Infarction) | 70,866 | 4.9 | 11,595
New DRG 524 (Transient Ischemia) | 92,835 | 3.3 | 8,633

The proposed reconfiguration of DRGs 14 and 15 would result in the following codes being designated as principal diagnosis codes in proposed revised DRG 14:

• 430, Subarachnoid hemorrhage

• 431, Intracerebral hemorrhage

• 432.0, Nontraumatic extradural hemorrhage

• 432.1, Subdural hemorrhage

• 432.9, Unspecified intracranial hemorrhage

• 433.01, Occlusion and stenosis of basilar artery, with cerebral infarction

• 433.11, Occlusion and stenosis of carotid artery, with cerebral infarction

• 433.21, Occlusion and stenosis of vertebral artery, with cerebral infarction

• 433.31, Occlusion and stenosis of multiple and bilateral arteries, with cerebral infarction

• 433.81, Occlusion and stenosis of other specified precerebral artery, with cerebral infarction

• 433.91, Occlusion and stenosis of unspecified precerebral artery, with cerebral infarction

• 434.01, Cerebral thrombosis with cerebral infarction

• 434.11, Cerebral embolism with cerebral infarction

• 434.91, Cerebral artery occlusion, unspecified, with cerebral infarction

In addition, we are proposing that the following two codes be moved from DRG 14 to DRG 34 (Other Disorders of Nervous System with CC) and DRG 35 (Other Disorders of Nervous System without CC): Code 437.3 (Cerebral aneurysm, nonruptured) and Code 784.3 (Aphasia). These codes do not represent acute conditions. Aphasia, for example, could result from a cerebral infarction, but if it does, the infarction should be correctly coded as the principal diagnosis.

The proposed redefined DRG 15 would contain the following principal diagnosis codes:

• 433.00, Occlusion and stenosis of basilar artery, without mention of cerebral infarction

• 433.10, Occlusion and stenosis of carotid artery, without mention of cerebral infarction

• 433.20, Occlusion and stenosis of vertebral artery, without mention of cerebral infarction

• 433.30, Occlusion and stenosis of multiple and bilateral arteries, without mention of cerebral infarction

• 433.80, Occlusion and stenosis of other specified precerebral artery, without mention of cerebral infarction

• 433.90, Occlusion and stenosis of unspecified precerebral artery, without mention of cerebral infarction

• 434.00, Cerebral thrombosis without mention of cerebral infarction

• 434.10, Cerebral embolism without mention of cerebral infarction

• 434.90, Cerebral artery occlusion, unspecified, without mention of cerebral infarction

• 436, Acute, but ill-defined, cerebrovascular disease

In addition, we are proposing to remove the following codes from the existing DRG 15 and place them in the proposed newly created DRG 524:

• 435.0, Basilar artery syndrome

• 435.1, Vertebral artery syndrome

• 435.2, Subclavian steal syndrome

• 435.3, Vertebrobasilar artery syndrome

• 435.8, Other specified transient cerebral ischemias

• 435.9, Unspecified transient cerebral ischemia

We are proposing to move code 437.1 (Other generalized ischemic cerebrovascular disease) from DRG 16 (Nonspecific Cerebrovascular Disorders with CC) and DRG 17 (Nonspecific Cerebrovascular Disorders without CC) and add it to the proposed new DRG 524. This proposed change represents a modification to improve clinical coherence and seems to be a logical change for the construction of the proposed new DRG 524.

3. MDC 5 (Diseases and Disorders of the Circulatory System)

a. Heart Assist Systems

Heart failure is typically caused by persistent high blood pressure (hypertension), heart attack, valve disease, other forms of heart disease, or birth defects. It is a chronic condition in which the lower chambers of the heart (ventricles) cannot pump sufficient amounts of blood to the body. This causes the organs of the body to progressively fail, resulting in numerous medical complications and frequently death. DRG 127 (Heart Failure and Shock), to which heart failure cases are assigned, is the single most common DRG in the Medicare population, and represents the medical, not surgical, treatment options for this group of patients.

In many cases, heart transplantation would be the treatment of choice. However, the low number of donor hearts limits this treatment option. Circulatory support devices, also known as heart assist systems or left ventricular assist devices (LVADs), offer a surgical alternative for end-stage heart failure patients. This type of device is often implanted near a patient's native heart and assumes the pumping function of the weakened heart's left ventricle. Studies are currently underway to evaluate LVADs as permanent support for end-stage heart failure patients.

We have reviewed the payment and DRG assignment of this type of device in the past. Originally, these cases were assigned to DRG 110 (Major Cardiovascular Procedures with CC) and DRG 111 (Major Cardiovascular Procedures without CC) in the September 1, 1994 final rule (59 FR 45345). A more specific procedure code, 37.66 (Implant of an implantable, pulsatile heart assist system) was made effective for use with hospital discharges occurring on or after October 1, 1995. In the August 29, 1997 final rule (62 FR 45973), we reassigned these cases to DRG 108 (Other Cardiothoracic Procedures), because it was the most clinically similar DRG with the best match in resource consumption according to our data. In the July 31, 1998 final rule (63 FR 40956), we again reviewed our data and discovered that the charges for implantation of an LVAD were increasing at a greater rate than the average charges for DRG 108. The length of stay for cases with code 37.66 was approximately 32 days, or three times as long as all other DRG 108 cases. Therefore, we decided to move LVAD cases from DRG 108 to DRG 104 (Cardiac Valve and Other Major Cardiothoracic Procedures with Cardiac Catheterization) and DRG 105 (Cardiac Valve and Other Major Cardiothoracic Procedures without Cardiac Catheterization). We continued to review our data and discuss this topic in the FY 1999 and FY 2000 annual final rules: July 30, 1999 (64 FR 41498) and August 1, 2000 (65 FR 47058).

In the August 1, 2001 final rule (66 FR 39838), we remodeled MDC 5 to add five new DRGs. We also added procedure codes 37.62 (Implant of other heart assist system), 37.63 (Replacement and repair of heart assist system), and 37.65 (Implant of an external, pulsatile heart assist system) to DRGs 104 and 105. We removed defibrillator cases from DRGs 104 and 105 and assigned them to DRG 514 (Cardiac Defibrillator Implant with Cardiac Catheterization) and DRG 515 (Cardiac Defibrillator Implant without Cardiac Catheterization) to make these DRGs more clinically coherent. This also increased the relative weights for DRGs 104 and 105, as the defibrillator cases had lower average charges than other cases in those two DRGs.

In the FY 2001 MedPAR data file, we found 185 LVAD cases in DRG 104 and 90 cases in DRG 105, for a total of 275 cases. These cases represent 1.3 percent of the total cases in DRG 104, and approximately 0.5 percent of the total cases in DRG 105. However, the average charges for these cases are approximately $36,000 and $85,000 higher than the average charges for cases in DRGs 104 and 105, respectively.

This situation presents a dilemma, in that the technology has been available since 1995 and is gradually increasing in utilization, while LVAD cases involving the technology remain a small part of the total cases in these two DRGs. In fact, removing LVAD cases from the calculation of the average charge changes the average by only -0.4 percent and -0.5 percent for DRGs 104 and 105, respectively. Therefore, despite the dramatically higher average charges for LVADs compared to the DRG averages, the relative volume is insufficient to affect the average to any great degree.

Therefore, we are proposing to create a new DRG 525 (Heart Assist System Implant), which would contain these cases. The proposed FY 2003 relative weight for proposed new DRG 525 is 11.3787.

The new DRG would consist of any principal diagnosis in MDC 5, plus one of the following surgical procedures:

• 37.62, Implant of other heart assist system

• 37.63, Replacement and repair of heart assist system

• 37.65, Implant of an external, pulsatile heart assist system

• 37.66, Implant of an implantable, pulsatile heart assist system

Cases in which a subsequent heart transplant occurs during the hospitalization episode would continue to be assigned to DRG 103 (Heart Transplant) because cases involving procedure codes 336 (Combined heart/lung transplant) and 375 (Heart transplant) are assigned to DRG 103, regardless of other codes included on the bill.

We reiterate a discussion we included in the August 1, 2000 final rule (65 FR 47058) regarding placement of code 37.66 in the MCE screening software as a noncovered procedure. The default designation for that code will continue to be “noncovered” because of the stringent conditions that must be met by hospitals in order to receive payment for implantation of the device.

Section 65-15 of the Medicare Coverage Issues Manual (Artificial Hearts and Relative Devices) provides the national coverage determination regarding Medicare coverage of these devices. This section may be accessed online at www.hcfa.gov/pubforms/06_cim/ci00.htm.

b. Moving Diagnosis Code 398.91 (Rheumatic Heart Failure) From DRG 125 to DRG 124

DRG 124 (Circulatory Disorders Except Acute Myocardial Infarction (AMI), with Cardiac Catheterization and Complex Diagnosis) and DRG 125 (Circulatory Disorders Except Acute Myocardial Infarction (AMI) with Cardiac Catheterization without Complex Diagnosis) have a somewhat complex DRG logic. In order to be assigned to DRG 124 or 125, the patient must first have a circulatory disorder, which would be one of the diagnoses included in MDC 5. However, these DRGs exclude acute myocardial infarctions. Therefore, these DRGs are comprised of cases with a diagnosis from MDC 5, excluding acute myocardial infarction, but also with a cardiac catheterization during the stay.

DRGs 124 and 125 are then further defined by whether or not the patient had a complex diagnosis. If the patient had a complex diagnosis, the case is assigned to DRG 124. If the patient does not have a complex diagnosis, the case is assigned to DRG 125. A list of diagnoses that comprise complex diagnoses is identified within DRG 124. These diagnoses can be listed as either a principal or secondary diagnosis.

We have received correspondence regarding the current assignment of diagnosis code 398.91 (Rheumatic heart failure). The correspondent pointed out that, while other forms of heart failure are listed as complex diagnoses under DRG 124, rheumatic heart failure is not included as a complex diagnosis within that DRG. Currently, if a patient with rheumatic heart failure receives a cardiac catheterization, the case is assigned to DRG 125.

The correspondent had conducted a study and found that patients with rheumatic heart failure who receive a cardiac catheterization have lengths of stay that are significantly longer than patients with other forms of heart failure who receive a cardiac catheterization and who are assigned to DRG 125. The correspondent found that these patients have lengths of stay more similar to those cases assigned to DRG 124 (which have other forms of heart failure), and recommended that diagnosis code 398.91 be added to the list of complex diagnoses within DRG 124.

Within our claims data, we found 439 cases of patients in DRG 125 with rheumatic heart failure who received a cardiac catheterization. The average charges for these rheumatic heart failure cases were almost twice as much as for other cardiac patients in DRG 125 who received a cardiac catheterization and who did not have a diagnosis of rheumatic heart failure. We also conferred with our medical consultants and they agree that rheumatic heart failure with cardiac catheterization is a complex diagnosis and should be assigned to DRG 124 along with the other complex forms of heart failure cases involving cardiac catheterization.

We are proposing to add code 398.91 to DRG 124 as a complex diagnosis. As a result, catheterization cases with rheumatic heart disease would no longer be assigned to DRG 125.

c. Radioactive Element Implant

In the August 1, 2001 final rule, we created DRG 517 (Percutaneous Cardiovascular Procedure without Acute Myocardial Infarction (AMI) with Coronary Artery Stent Implant) as a result of the overall DRG splits based on the presence of AMI (66 FR 39839). We assigned code 92.27 (Implantation or insertion of radioactive elements) to DRG 517 because we believed that code 92.27 would always accompany cases involving a percutaneous cardiovascular procedure and intravascular radiation treatment. We have since determined that code 92.27 can also be present as a stand-alone code in other types of cases. When cases with code 92.27 do not meet the criteria for DRG 517, they are currently directed into DRG 468 (Extensive O.R. Procedure Unrelated to Principal Diagnosis). Because DRG 468 is for cases in which the O.R. procedure is unrelated to the principal diagnosis, rather than assign cases with code 92.27 that would otherwise be assigned to MDC 5 to DRG 468 because they do not meet the criteria for assignment to DRG 517, we are proposing to assign these cases to DRG 120 (Other Circulatory System O.R. Procedures).

4. MDC 10 (Endocrine, Nutritional, and Metabolic Diseases and Disorders)

Currently, when ICD-9-CM code 277.00 (Cystic Fibrosis without mention of meconium ileus) is reported as the principal diagnosis, it is assigned to the following DRG series in MDC 10: DRG 296 (Nutritional and Metabolic Disease, Age >17 with CC); DRG 297 (Nutritional and Metabolic Disease, Age >17 without CC); and DRG 298 (Nutritional and Metabolic Disease, Age 0-17).

As part of our annual review of DRG assignments and based on correspondence that we have received, we examined claims relating to cases involving code 277.00 as a principal diagnosis in DRGs 296, 297, and 298. Our analysis of the average charges for cases in which code 277.00 was the principal diagnosis in DRGs 296, 297, and 298 indicates that resource utilization for these cases is quite different from resource utilization for other cases in the three DRGs. We believe that this difference in resource utilization is due to the fact it is not uncommon for cystic fibrosis patients to be admitted with pulmonary complications. Our findings on the number of cases and the average charges in the three DRGs when code 277.00 is assigned as the principal diagnosis, and our findings for all cases in the three DRGs, are indicated in the charts below.

Cases in DRG 296, 297, and 298 With Code 277.00 as the Principal Diagnosis
DRG and description | Number of cases | Average charges
DRG 296 (Nutritional & Metabolic Disease Age >17 with CC) | 271 | $34,111
DRG 297 (Nutritional & Metabolic Disease Age >17 with CC) | 133 | 21,998
DRG 298 (Nutritional & Metabolic Disease Age 0-17) | 0 |

All Cases in DRG 296, 297, 298
DRG and description | Number of cases | Average charges
DRG 296 (Nutritional & Metabolic Disease Age >17 with CC) | 169,768 | $10,480
DRG 297 (Nutritional & Metabolic Disease Age >17 without CC) | 31,560 | 6,190
DRG 298 (Nutritional & Metabolic Disease Age 0-17) | 17 | 8,603

Based on the results of our analysis, we are proposing that three new cystic fibrosis principal diagnosis codes be assigned to specific DRGs and MDCs, and that other changes be made to DRG and MDC assignments of existing cystic fibrosis codes, as discussed below.

We are proposing to create the following three new principal diagnosis codes:

• 277.02 (Cystic fibrosis with pulmonary manifestations)

• 277.03 (Cystic fibrosis with gastrointestinal manifestations)

• 277.09 (Cystic fibrosis with other manifestations)

We are proposing that existing code 277.01 (Cystic fibrosis with mention of meconium ileus) would continue to be assigned to DRG 387 (Prematurity with Major Problems) and DRG 389 (Full Term Neonate with Major Problems) in MDC 15 (Newborns and Other Neonates with Conditions Originating in the Perinatal Period), since it is a newborn diagnosis code.

Because proposed new code 277.02 would identify those patients with cystic fibrosis who have pulmonary manifestations, we are proposing to assign cases in which the principal diagnosis is the proposed new code 277.02 to DRG 79 (Respiratory Infection and Inflammations Age >17 with CC), DRG 80 (Respiratory Infections and Inflammations Age >17 without CC), or DRG 81 (Respiratory Infections and Inflammations Age 0-17) in MDC 4 (Diseases and Disorders of the Respiratory System).

We are proposing that proposed new code 277.03 would be assigned to DRG 188 (Other Digestive System Diagnoses Age >17 with CC), DRG 189 (Other Digestive System Diagnoses Age >17 without CC), and DRG 190 (Other Digestive System Diagnoses Age 0-17) in MDC 6 (Diseases and Disorders of the Digestive System), because of its specific relationship to the digestive system.

Since proposed new code 277.09 could involve a number of manifestations (excluding pulmonary and gastrointestinal), we are proposing to assign this proposed new code to DRGs 296, 297, and 298 in MDC 10, where we are retaining the current assignment of existing code 277.00.

The following chart summarizes our proposed DRG and MDC assignments for new and existing cystic fibrosis principal diagnosis codes:

Principal diagnosis code and description | Proposed MDC assignment | Proposed DRG assignments
Existing 277.00 (Cystic fibrosis without mention of meconium ileus) | 10 | 296, 297, 298
Existing 277.01 (Cystic fibrosis with mention of meconium ileus) | 15 | 387, 389
Proposed new 277.02 (Cystic fibrosis with pulmonary manifestations) | 4 | 79, 80, 81
Proposed new 277.03 (Cystic fibrosis with gastrointestinal manifestations) | 6 | 188, 189, 190
Proposed new 277.09 (Cystic fibrosis with other manifestations) | 10 | 296, 297, 298

5. MDC 11 (Diseases and Disorders of the Kidney and Urinary Tract)

a. Insertion of Totally Implantable Vascular Access Device (VAD)

In the August 1, 2001 final rule (66 FR 39844), we discussed our review of the DRG assignment of code 86.07 (Insertion of totally implantable vascular access device (VAD)). Code 86.07 is considered a nonoperative procedure when it occurs in MDC 11. Therefore, patients in renal (kidney) failure requiring implantation of this device for dialysis are grouped to medical DRG 316 (Renal Failure). We examined whether implantation of this device should be removed from DRG 316 and placed into surgical DRG 315 (Other Kidney and Urinary Tract O.R. Procedures).

Implantation of a VAD into the chest wall and blood vessels of a patient's upper body allows access to a patient's vessels via an implanted valve and cannula. Two devices are implanted during one operative session. One system is implanted arterially (the “draw”), while the other is implanted venously (the “return”). Typically, the VAD allows access to the patient's blood for hemodialysis purposes when other sites in the body have been exhausted. The device is usually inserted in the outpatient setting. Operative time is approximately 1 to 1.5 hours.

In the FY 2002 final rule (66 FR 39844-39845), we pointed out that cases where the VAD was inserted as an inpatient procedure also involved other complications, leading to higher average charges. Therefore, we indicated that we were not assigning code 86.07 to DRG 315 at that time, but we would consider other alternative adjustments to DRGs 315 and 316.

For FY 2003, we explored whether DRG 315 should be split based on existence or nonexistence of CCs. However, during our consideration of this alternative, we discovered that DRG 315 does not lend itself to a CC split due to the high occurrence of cases in this DRG that already have complications identified on the CC list. Therefore, we reexamined cases in DRGs 315 and 316 in the FY 2001 MedPAR file. The results are reflected in the chart below:

| With Code 86.07 | Without Code 86.07
DRG 315 (surgical):
Number of Cases | 354 | 21,089.
Average Length of Stay | 12.6 days | 6.7 days.
Average Charges | $47,251 | $25,622.
DRG 316 (Medical):
Number of Cases | 887 | 76,676.
Average Length of Stay | 10.3 | 6.6 days.
Average Charges | $31,904 | $16,934.

These results are similar to the findings included in the FY 2002 final rule that were based on data from the FY 2000 MedPAR file (66 FR 39845).

We found that the average length of stay in DRG 315 for patients not receiving the VAD is 6.7 days, while those patients who received the VAD had an average length of stay of 12.6 days. We found the average charges in DRG 315 for patients not receiving the VAD were approximately $25,622, while the average charges for those patients who received the VAD were $47,251.

We found that the cases receiving the VAD as an inpatient procedure are significantly more costly than other cases in DRG 316. Therefore, we are proposing to designate code 86.07 as an O.R. procedure under MDC 11. Specifically, code 86.07 would be recognized as an O.R. procedure code in MDC 11 and assigned to DRG 315 when combined with the following principal diagnosis codes from DRG 316:

• 403.01, Malignant hypertensive renal disease with renal failure

• 403.11, Benign hypertensive renal disease with renal failure

• 403.91, Unspecified hypertensive renal disease with renal failure

• 404.02, Malignant hypertensive heart and renal disease with renal failure

• 404.12, Malignant hypertensive heart and renal disease with renal failure

• 404.92, Unspecified hypertensive heart and renal disease with renal failure

• 584.5, Acute renal failure with lesion of tubular necrosis

• 584.6, Acute renal failure with lesion of renal cortical necrosis

• 584.7, Acute renal failure with lesion of renal medullary (papillary) necrosis

• 584.8, Acute renal failure with other specified pathological lesion in kidney

• 584.9, Acute renal failure, unspecified

• 585, Chronic renal failure

• 586, Renal failure, unspecified

• 788.5, Oliguria and anuria

• 958.5, Traumatic anuria

b. Bladder Reconstruction

We received correspondence regarding the current classification of procedure code 57.87 (Reconstruction of urinary bladder) as a minor bladder procedure and the assignment of the code under DRG 308 (Minor Bladder Procedures with CC) and DRG 309 (Minor Bladder Procedures without CC). The correspondent believed that bladder reconstruction is not a minor procedure, submitted individual hospital charges to support this contention, and recommended that the code be classified as a major procedure and assigned to a higher weighted DRG.

Our clinical advisors indicated that reconstruction of the bladder is a more extensive procedure than the other minor bladder procedures in DRGs 308 and 309. They agree that the bladder reconstruction procedure is as complex as the procedures under code 57.79 (Total cystectomy) and the other major bladder procedures in DRGs 303 through 305.

As indicated in the chart below, we found that the average charges for bladder reconstruction are significantly higher than the average charges for other minor procedures within DRGs 308 and 309:

| With Code 57.87 | Without Code 57.87
DRG 308 (minor bladder procedure with CC):
Number of Cases | 64 | 5,066
Average Charges | $36,560 | $19,923
DRG 309 (minor bladder procedures without CC):
Number of Cases | 25 | 3,021
Average Charges | $23,390 | $11,200

We found that procedure code 57.87 may be more appropriately placed in DRG 303 (Kidney, Ureter and Major Bladder Procedures for Neoplasm), 304 (Kidney, Ureter and Major Bladder Procedures for Nonneoplasm with CC), and DRG 305 (Kidney, Ureter and Major Bladder Procedures for Nonneoplasm without CC), based on average charges for procedures in these three DRGS as indicated in the following chart:

DRG | Number of cases | Average charges
303 (Kidney, Ureter and Major Bladder Procedures for Neoplasm) | 14,116 | $30,691
304 (Kidney, Ureter and Major Bladder Procedures for Nonneoplasm with CC) | 8,060 | 30,577
305 (Kidney, Ureter and Major Bladder Procedures for Nonneoplasm without CC) | 2,029 | 15,492

Based on the results of our analysis and the advice of our medical consultants discussed above, we are proposing to classify code 57.87 as a major bladder procedure and to assign it to DRGs 303, 304, and 305.

6. MDC 15 (Newborns and Other Neonates with Conditions Originating in the Perinatal Period)

The primary focus of updates to the Medicare DRG classification system is for changes relating to the Medicare patient population, not the pediatric or neonatal patient populations. However, the Medicare DRGs are sometimes used to classify other patient populations. Over the years, we have received comments about aspects of the Medicare newborn DRGs that appear problematic, and we have responded to these on an individual basis. Some correspondents have requested that we take a closer overall look at the DRGs within MDC 15.

To respond to this request relating to review of MDC 15, we contacted the National Association of Children's Hospitals and Related Institutions (NACHRI), along with our own medical advisors, to obtain proposals for possible revisions of the existing DRG categories in MDC 15. The focus of the requested proposals was to refine category definitions within the framework of the existing seven broadly defined neonatal DRGs. The proposals also were to take advantage of the new, more specific neonatal diagnosis codes to be adopted, effective October 1, 2002, to assist with refinements to the existing DRG category definitions.

In preparing these proposed changes to MDC 15, we have considered comments and suggestions previously received, including suggestions from NACHRI on how to make improvements within the existing framework of seven very broadly defined neonatal DRGs. In the future, we may consider broader changes to MDC 15.

a. Definition of MDC 15

The existing diagnosis definitions for MDC 15 include certain diagnoses that may be present at the time of birth but may also continue beyond the perinatal period.

These diagnoses are basically congenital anomalies, and even though they may continue beyond the perinatal period, they are assigned to MDC 15 which is specific to newborns and neonates.

The diagnosis codes assigned to the DRGs under MDC 15 have been a source of confusion because older children and adults can be admitted with these principal diagnoses and assigned to newborn or neonate DRGs in MDC 15 as if they were newborns.

Our medical consultants and NACHRI have reviewed the listing of diagnosis codes and identified those that should not be routinely classified under MDC 15. As a result of this review, we are proposing that the following list of diagnosis codes be removed from MDC 15:

• 758.9, Conditions due to anomaly of unspecified chromosome

• 759.4, Conjoined twins

• 759.7, Multiple congenital anomalies, so described

• 759.81, Prader-Willi Syndrome

• 759.83, Fragile X Syndrome

• 759.89, Other specified anomalies

• 759.9, Congenital anomaly, unspecified

• 779.7, Periventricular leukomalacia

• 795.2, Nonspecific abnormal findings on chromosomal analysis

We are proposing to assign the nine diagnosis codes listed above to the following MDCs and DRGs (if medical):

Diagnosis code | Title | Proposed MDC assignment | Proposed DRG assignment
758.9 | Conditions due to anomaly of unspecified chromosome | 23 | 467 (Other Factors Influencing Health Status).
759.4 | Conjoined twins | 6 | 188, 189, 190 (Other Digestive System Diagnoses, age >17 with CC, Age >17 without CC, and Age 0-17, respectively).
759.7 | Multiple congenital anomalies, so described | 8 | 256 (Other Musculoskeletal System and Connective Tissue Diagnoses).
759.81 | Prader-Willi Syndrome | 8 | 256 (Other Musculoskeletal System and Connective Tissue Diagnoses).
759.83 | Fragile x Syndrome | 19 | 429 (Organic Disturbances and Mental Retardation)
759.89 | Other specified anomalies | 8 | 256 (Other Musculoskeletal System and Connective Tissue Diagnoses).
759.9 | Congenital anomaly, unspecified | 23 | 467 (Other Factors Influencing Health Status).
779.7 | Periventricular leukomalacia | 1 | 34, 35 (Other Disorders of the Nervous System with CC and without CC, respectively).
795.2 | Nonspecific abnormal findings on chromosomal analysis | 23 | 467 (Other Factors Influencing Health Status).

The following three specific 4-digit diagnosis codes have been determined invalid by the ICD-9-CM Coordination and Maintenance Committee, effective October 1, 2002, and we are proposing to remove them from MDC 15.

• 770.8, Other newborn respiratory problems

• 771.8, Other infection specific to the perinatal period

• 779.8, Other specified conditions originating in the perinatal period

The above three codes are being replaced by 5-digit codes to capture more detail. These new 5-digit codes are assigned to DRGs within MDC 15 and are listed among the codes in Table 6A—New Diagnosis Codes in the Addendum of this proposed rule.

In addition, the ICD-9-CM Coordination and Maintenance Committee created a number of new codes, effective October 1, 2002, to capture newborn and neonatal conditions. Therefore, we are proposing to add the following new 23 diagnosis codes to MDC 15:

• 747.83, Persistent fetal circulation

• 765.20, Unspecified weeks of gestation

• 765.21, Less than 24 completed weeks of gestation

• 765.22, 24 completed weeks of gestation

• 765.23, 25-26 completed weeks of gestation

• 765.24, 27-28 completed weeks of gestation

• 765.25, 29-30 completed weeks of gestation

• 765.26, 31-32 completed weeks of gestation

• 765.27, 33-34 completed weeks of gestation

• 765.28, 35-36 completed weeks of gestation

• 765.29, 37 or more completed weeks of gestation

• 770.81, Primary apnea of newborn

• 770.82, Other apnea of newborn

• 770.83, Cyanotic attacks of newborn

• 770.84, Respiratory failure of newborn

• 770.89, Other respiratory problems after birth

• 771.81, Septicemia [sepsis] of newborn

• 771.82, Urinary tract infection of newborn

• 771.83, Bacteremia of newborn

• 771.89, Other infections specific to the perinatal period

• 779.81, Neonatal bradycardia

• 779.82, Neonatal tachycardia

• 779.89, Other specified conditions originating in perinatal period

b. DRG 386 (Extreme Immaturity or Respiratory Distress Syndrome, Neonate)

The existing DRG 386 is defined by the presence of one of the ICD-9-CM extreme prematurity codes (765.01 through 765.05) with the fifth digit indicating birthweight less than 1,500 grams (3.3 pounds). NACHRI has identified two weaknesses in the use of the fifth digit to define prematurity.

One weakness relates to determining extreme immaturity, which, in part, is limited by the existing ICD-9-CM diagnosis codes. The existing ICD-9-CM definition for the extreme immaturity codes “usually implies birthweight less than 1,000 grams (2.2 pounds) or gestational age less than 28 completed weeks,” or both. The fifth digit provides range values for birthweight but gives no information on gestational age. A specific and distinct set of ICD-9-CM diagnosis codes for gestational age is to be introduced effective October 1, 2002. These new codes will provide a clearer basis for differentiating extreme immaturity or gestational age, or both.

The second weakness is that diagnosis code 769 (Respiratory distress syndrome in newborn) is currently only associated with DRG 386, which requires extreme prematurity, but respiratory distress syndrome in newborns can occur with all levels of prematurity. Therefore, we believe that code 769 should not be used to classify a diagnosis under DRG 386.

The proposed revision to DRG 386 would reflect the upcoming new ICD-9-CM diagnosis codes. We are proposing to redefine DRG 386 to include those newborns whose preterm birthweight is less than 1,000 grams or gestational age is less than 27-28 completed weeks, or both. Therefore, we would remove diagnosis code 769 from DRG 386, as this code is associated with all levels of prematurity, not just extreme immaturity. In addition, we are proposing to revise the title of DRG 386 to read “Extreme Immaturity”.

Because birthweight for neonates varies at all gestational ages, some neonates will meet the DRG 386 criteria for preterm extremely low birthweight (less than 1,000 grams) but not the DRG 386 criteria for extremely short gestation age (less than 27-28 completed weeks). The reverse may also occur, where a neonate meets the DRG 386 criteria for extremely short gestational age (less than 27-28 completed weeks) but not for preterm extremely low birthweight (less than 1,000 grams). In either situation, the neonate would be assigned to the proposed retitled DRG 386 (Extreme Immaturity).

NACHRI provided the following information on the measurement of gestational age and its use in the definition of Medicare neonatal DRGs. First, they noted that gestational age can be as powerful a predictor of a newborn's hospitalization course as birthweight and corresponds more directly to organ system immaturity. Second, while gestational age can be identified with a reasonable level of accuracy, it cannot be measured as precisely as birthweight. These two considerations led NACHRI to recommend the inclusion of gestational age in the definition of the Medicare neonatal DRGs, but in a conservative manner. Specifically, extremely short gestational age, as identified earlier, usually implies gestational age less than 28 weeks. The proposed new definition of DRG 386 includes only the gestational age codes for less than 27 to 28 completed weeks. Thus, there is a 1-week conservative bias in the use of the new gestational age codes for DRG 386. It is also important to note that the existing DRG 386 definition includes existing codes 765.01 through 765.05, which include extreme immaturity without a specific identification of gestational age and birthweight up to 1,499 grams (3.3 pounds). Thus, the proposed revised definition of DRG 386 is actually somewhat more stringent as well as more specific.

To implement these changes, we are proposing to remove the following diagnosis codes from the list of “principal or secondary diagnosis” under DRG 386:

• 765.04, Extreme immaturity, 1,000-1,249 grams

• 765.05, Extreme immaturity, 1,250-1,499 grams

• 769, Respiratory distress syndrome in newborn

Note, as explained above, while we are proposing to remove diagnosis codes 765.04, 765.05, and 769 from the list of principal or secondary diagnosis under DRG 386, a neonate would still be assigned to DRG 386 if there is a diagnosis of gestational age less than 27 to 28 completed weeks reported (765.21 through 765.23).

We are proposing to add the following diagnosis codes to the list of “principal or secondary diagnosis” under DRG 386:

• 765.11, Other preterm infants, less than 500 grams

• 765.12, Other preterm infants, 500-749 grams

• 765.13, Other preterm infants, 750-999 grams

• 765.21, Less than 24 completed weeks of gestation

• 765.22, 24 completed weeks of gestation

• 765.23, 25-26 completed weeks of gestation

c. DRG 387 (Prematurity With Major Problems)

The existing definition of DRG 387 has the following three components: (1) Principal or secondary diagnosis of prematurity; (2) Principal or secondary diagnosis of major problem (these are diagnoses that define MDC 15); or (3) secondary diagnosis of major problem (these are diagnoses that do not define MDC 15 so they can only be secondary diagnosis codes for patients assigned to MDC 15). We are proposing changes for each component of the definition for DRG 387.

We are proposing to revise the definition for the first component of DRG 387, “principal or secondary diagnosis of prematurity”, to include all preterm low birthweight codes with fifth digit range code values indicating birthweight between 1,000 grams (2.2 pounds) and 2,499 grams (5.5 pounds), or gestational age between 27 to 28 and 35 to 36 completed weeks, or both. This would include all of the preterm low birthweight and gestational age codes except those assigned to the proposed revised DRG 386 and except for the following four preterm and gestational age codes: 765.10, 765.19, 765.20, and 765.29.

It is possible for a neonate to be premature and greater than 2,500 grams (5.5 pounds). In this instance, one of the new gestational age codes that specifically identifies the newborn to be less than 37 completed weeks of gestation would need to be present to meet the criteria for inclusion in DRG 387. This is not a conceptual change for DRG 387, in that diagnosis codes 765.10 and 765.19 should both refer to newborns less than 37 completed weeks of gestation. Therefore, we are proposing to take into consideration the new ICD-9-CM codes that require a more specific affirmation that the newborn is less than 37 completed weeks of gestation. Because DRG 387 is a broadly defined category (1,000-2,499 grams or 27-36 completed weeks of gestation), NACHRI recommends that it is important to require specific information for inclusion of patients at the high end of the birthweight/gestational age range.

We are proposing to remove the following diagnosis codes from the list of diagnoses defined as “principal or secondary diagnosis of prematurity” for DRG 387:

• 765.10, Other preterm infants, unspecified (weight)

• 765.11, Other preterm infants, less than 500 grams

• 765.12, Other preterm infants, 500-749 grams

• 765.13, Other preterm infants, 750-999 grams

• 765.19, Other preterm infants, 2,500+ grams

We are proposing to add the following diagnosis codes to the list of diagnoses defined as “principal or secondary diagnosis of prematurity” for DRG 387:

• 765.04, Extreme immaturity, 1000-1249 grams

• 765.05, Extreme immaturity, 1250-1499 grams

• 765.24, 27-28 completed weeks of gestation

• 765.25, 29-30 completed weeks of gestation

• 765.26, 31-32 completed weeks of gestation

• 765.27, 33-34 completed weeks of gestation

• 765.28, 35-36 completed weeks of gestation

We are proposing to revise the definition for the second component of DRG 387, “principal or secondary diagnosis of major problem”, to remove certain diagnosis codes and to add other diagnosis codes. We are proposing to remove three groups of diagnosis codes. The first group of diagnosis codes that we are proposing to remove includes the fetal malnutrition codes for the birthweight ranges less than 2500 grams. NACHRI indicates that these newborns are not necessarily more complicated than preterm infants of the same birthweight range. These newborns have fewer problems related to organ system immaturity and often demonstrate excellent catch-up growth after delivery. Some of the fetal malnutrition diagnosis neonates may have serious problems. Therefore, it is best for the classification system to look for other more specific, major problem diagnoses than to include all of these newborns in DRG 387. We are proposing to remove the following diagnosis codes from DRG 387.

• 764.11, “Light-for-dates” with signs of fetal malnutrition, less than 500 grams

• 764.12, “Light-for-dates” with signs of fetal malnutrition, 500-749 grams

• 764.13, “Light-for-dates” with signs of fetal malnutrition, 750-999 grams

• 764.14, “Light-for-dates” with signs of fetal malnutrition, 1,000-1,249 grams

• 764.15, “Light-for-dates” with signs of fetal malnutrition, 1,250-1,499 grams

• 764.16, “Light-for-dates” with signs of fetal malnutrition, 1,500-1,749 grams

• 764.17, “Light-for-dates” with signs of fetal malnutrition, 1,750-1,999 grams

• 764.18, “Light-for-dates” with signs of fetal malnutrition, 2,000-2,499 grams

• 764.21, Fetal malnutrition without mention of “light-for-dates”, less than 500 grams

• 764.22, Fetal malnutrition without mention of “light-for-dates”, 500-749 grams

• 764.23, Fetal malnutrition without mention of “light-for-dates”, 750-999 grams

• 764.24, Fetal malnutrition without mention of “light-for-dates”, 1,000-1,249 grams

• 764.25, Fetal malnutrition without mention of “light-for-dates”, 1,250-1,499 grams

• 764.26, Fetal malnutrition without mention of “light-for-dates”, 1,500-1,749 grams

• 764.27, Fetal malnutrition without mention of “light-for-dates”, 1,750-1,999 grams

• 764.28, Fetal malnutrition without mention of “light-for-dates”, 2,000-2,499 grams

The second group of codes we are proposing to remove from the list of “principal or secondary diagnosis of major problems” under DRG 387 consists of the following 13 diagnosis codes. The majority of these diagnosis codes do not represent a major problem for a newborn at or shortly after birth. NACHRI believes that costs associated with newborns with these conditions are similar to costs associated with neonates without a major problem.

• 763.4, Cesarean delivery affecting fetus or newborn

• 770.1, Meconium aspiration syndrome

• 770.8, Other newborn respiratory problems

• 771.8, Other infection specific to the perinatal period

• 772.0, Fetal blood loss

• 773.2, Hemolytic disease due to other and unspecified isoimmunization of fetus or newborn

• 773.5, Late anemia due to isoimmunization of fetus or newborn

• 775.5, Other transitory neonatal electrolyte disturbances

• 775.6, Neonatal hypoglycemia

• 776.0, Hemorrhagic disease of newborn

• 776.6, Anemia of prematurity

• 777.1, Meconium obstruction in fetus or newborn

• 777.2, Intestinal obstruction due to inspissated milk in newborn

We note that diagnosis code 770.8 (Other newborn respiratory problems) and diagnosis code 771.8 (Other infection specific to the perinatal period) are 4-digit codes that are being replaced by a series of more specific 5-digit codes, effective October 1, 2002. (See Table 6C in the Addendum of this proposed rule.) The listing of the codes on the second group above includes some of these new 5-digit codes.

The third group of diagnosis codes that we are proposing to remove from the list of diagnosis defined as “principal or secondary diagnosis of major problem” under DRG 387 includes the following two diagnosis codes. These codes are no longer assigned to MDC 15 when they are the principal diagnosis.

• 759.4, Conjoined twins

• 779.7, Periventricular leukomalacia

We are proposing to add the following nine new and existing diagnosis codes to the list of “principal or secondary diagnosis of major problem” that defines DRG 387. These nine diagnosis codes generally represent major problems at the time of birth and have costs more similar to those of neonates with major problems than neonates without major problems. Many of these diagnosis codes are related to congenital anomaly conditions.

• 747.83, Persistent fetal circulation (new code)

• 769, Respiratory distress syndrome in newborn

• 770.84, Respiratory failure of newborn (new code)

• 771.3, Tetanus neonatorum

• 771.81, Septicemia of newborn (new code)

• 771.82, Neonatal urinary tract infection (new code)

• 771.83, Bacteremia of newborn (new code)

• 771.89, Other infections specific to perinatal period (new code)

• 776.7, Transient neonatal neutropenia

Of special note is the handling of diagnosis code 769 (Respiratory distress syndrome in newborn). Earlier in this preamble, we discussed the proposed removal of this diagnosis code from the definition of proposed retitled DRG 386 (Extreme Immaturity) because, even though it is usually associated with prematurity, it may occur with all levels of prematurity. We are proposing to add respiratory distress syndrome (which was previously assigned to existing DRG 386) to the list of diagnoses that define “principal or secondary diagnosis of major problem” for DRG 387. We are not proposing to add it to the list of diagnoses that define “principal or secondary diagnosis of prematurity” for DRG 387. The rationale for not adding code 769 as a prematurity diagnosis is that it occurs in only a small subset of neonates in the birthweight range of 1,000 to 2,499 grams (2.2 to 5.5 pounds), and the vast majority of occurrences is in the upper end of this birthweight range. Respiratory distress syndrome might not be indicative of a major problem for neonates at the low end of this range (for example, those closer to 1,000 to 1,249 grams), because these neonates will most likely have multiple significant problems. Therefore, we are proposing that respiratory distress syndrome be classified as a major problem and included among the list of “principal or secondary diagnosis of major problem” for DRG 387.

In addition, we are proposing to revise the definition for the third defining component of DRG 387, “secondary diagnosis of major problem”. This list of major problem diagnoses can only be secondary diagnoses because they are not among the list of principal diagnoses that defines MDC 15 for the Medicare DRG classification system. Based on NACHRI's recommendations, we are proposing to add and remove diagnoses from this list on the same basis as previously described for the list of “principal or secondary diagnosis of major problems” for DRG 387. That is, diagnoses are removed if, in the majority of instances, the condition does not represent a major problem for a newborn at or shortly after birth, and on average exhibits costs similar to the costs associated with neonates without a major problem. In addition, we are proposing to remove the asthma with status asthmaticus diagnosis codes, as these diagnosis codes pertain to newborns or other conditions arising in the perinatal period.

We are proposing to remove the following diagnosis codes from the list of “secondary diagnosis of major problem” for DRG 387:

• 276.5, Volume depletion

• 349.0, Reaction to spinal or lumbar puncture

• 457.2, Lymphangitis

• 493.01, Extrinsic asthma with status asthmaticus

• 493.11, Intrinsic asthma with status asthmaticus

• 493.91, Asthma, unspecified type, with status asthmaticus

• 578.1, Blood in stool

• 683, Acute lymphadenitis

• 693.0, Dermatitis due to drugs and medicines taken internally

• 695.0, Toxic erythema

• 708.0, Allergic urticaria

• 745.4, Ventricular septal defect

• 785.0, Tachycardia, unspecified

• 995.2, Unspecified adverse effect of drug, medicinal and biological substance, not elsewhere classified

• 999.5, Other serum reaction, not elsewhere classified

• 999.6, ABO incompatibility reaction, not elsewhere classified

• 999.7, Rh incompatibility reaction, not elsewhere classified

• 999.8, Other transfusion reaction, not elsewhere classified

We are proposing to add the following 65 diagnosis codes to the list of “secondary diagnosis of major problem” for DRG 387:

• 416.0, Primary pulmonary hypertension

• 416.8, Other chronic pulmonary heart diseases

• 425.3, Endocardial fibroelastosis

• 425.4, Other primary cardiomyopathies

• 427.0, Paroxysmal supraventricular tachycardia

• 427.1, Paroxysmal ventricular tachycardia

• 466.11, Acute bronchiolitis due to respiratory syncytial virus (RSV)

• 466.19, Acute bronchiolitis due to other infectious organisms

• 478.74, Stenosis of larynx

• 480.0, Pneumonia due to adenovirus

• 480.1, Pneumonia due to respiratory syncytial virus

• 480.2, Pneumonia due to parainfluenza virus

• 480.8, Pneumonia due to other virus not elsewhere classified

• 480.9, Viral pneumonia, unspecified

• 745.0, Common truncus

• 745.10, Complete transposition of great vessels

• 745.11, Double outlet right ventricle

• 745.12, Corrected transposition of great vessels

• 745.19, Other transposition of great vessels

• 745.2, Tetralogy of Fallot

• 745.3, Common ventricle

• 745.60, Endocardial cushion defect, unspecified type

• 745.61, Ostium primum defect

• 745.69, Other endocardial cushion defects

• 746.01, Atresia of pulmonary valve, congenital

• 746.1, Tricuspid atresia and stenosis, congenital

• 746.2, Ebstein's anomaly

• 746.7, Hypoplastic left heart syndrome

• 746.81, Subaortic stenosis, congenital

• 746.82, Cor triatriatum

• 746.84, Obstructive anomalies of heart, congenital, not elsewhere classified

• 746.86, Congenital heart block

• 747.10, Coarctation of aorta (preductal) (postductal)

• 747.11, Interruption of aortic arch

• 747.41, Total anomalous pulmonary venous connection

• 747.81, Anomalies of cerebrovascular system, congenital

• 748.3, Other congenital anomalies of larynx, trachea, and bronchus

• 748.4, Cystic lung, congenital

• 748.5, Agenesis, hypoplasia, and dysplasia of lung, congenital

• 750.3, Tracheoesophageal fistula, esophageal atresia and stenosis, congenital

• 751.1, Atresia and stenosis of small intestine, congenital

• 751.2, Atresia and stenosis of large intestine, rectum, and anal canal, congenital

• 751.3, Hirschsprung's disease and other congenital functional disorders of colon

• 751.4, Anomalies of intestinal fixation, congenital

• 751.62, Congenital cystic disease of liver

• 751.69, Other congenital anomalies of gall bladder, bile ducts, and liver

• 751.7, Anomalies of pancreas, congenital

• 753.0, Renal agenesis and dysgenesis

• 753.5, Exstrophy of urinary bladder

• 756.51, Osteogenesis imperfecta

• 756.6, Anomalies of diaphragm, congenital

• 756.70, Congenital anomaly of abdominal wall, unspecified

• 756.71, Prune belly syndrome

• 756.79, Other congenital anomalies of abdominal wall

• 758.1, Patau's Syndrome

• 758.2, Edwards' Syndrome

• 758.3, Autosomal deletion syndromes

• 759.4, Conjoined twins

• 759.7, Multiple congenital anomalies, so described

• 759.81, Prader-Willi Syndrome

• 759.89, Other specified anomalies

• 7797, Periventricular leukomalacia

• 785.51, Cardiogenic shock

• 785.59, Other shock without mention of trauma

• 789.5, Ascites

d. DRG 388 (Prematurity Without Major Problems)

We are proposing to revise the definition for prematurity for DRG 388 ((Prematurity without Major Problems) in the same manner that we proposed to revise the definition of prematurity for DRG 387 (Prematurity with Major Problems).

We are proposing to remove the following five diagnosis codes from the list of codes pertaining to the “principal or secondary diagnosis of prematurity” for DRG 388:

• 765.10, Other preterm infants unspecified (weight)

• 765.11, Other preterm infants, less than 500 grams

• 765.12, Other preterm infants, 500-749 grams

• 765.13, Other preterm infants, 750-999 grams

• 765.19, Other preterm infants, 2,500+ grams

We are proposing to add the following seven diagnosis codes to the definition of principal or secondary diagnosis of prematurity for DRG 388:

• 765.04, Extreme immaturity, 1000-1249 grams

• 765.05, Extreme immaturity, 1250-1499 grams

• 765.24, 27-28 completed weeks of gestation

• 765.25, 29-30 completed weeks of gestation

• 765.26, 31-32 completed weeks of gestation

• 765.27, 33-34 completed weeks of gestation

• 765.28, 35-36 completed weeks of gestation

e. DRG 389 (Full Term Neonate With Major Problem)

We are proposing to revise the definition of “principal or secondary diagnosis of major problem” for DRG 389 (Full Term Neonate with Major Problem) in the same manner that we proposed to revise the definition for DRG 387 (Prematurity with Major Problem).

f. DRG 390 (Neonate With Other Significant Problems)

DRG 390 is defined as patients with “principal or secondary diagnosis of newborn or neonate, with other significant problems, not assigned to DRG 385 through 389, 391, or 469 (principal diagnosis invalid as discharge diagnosis). As a result of our proposed changes to other neonatal DRGs, we are proposing to make conforming changes related to diagnosis codes assigned to DRG 390.

g. DRG 391 (Normal Newborn)

DRG 391 (Normal Newborn) is defined by a list of principal diagnoses (for example, V30, Newborn codes plus certain minor newborn problems) and no secondary diagnoses or only certain secondary diagnoses (that is, minor problem diagnoses). NACHRI recommended that the definition of DRG 391 be modified to expand the number of minor problem newborn diagnoses included in both the list of principal diagnoses and the list of only certain secondary diagnoses that define DRG 391. The diagnoses that we are proposing to add to DRG 391 are conditions that NACHRI has identified as occurring with some frequency in the newborn population and having costs more similar to that of DRG 391 than DRG 390 (Neonates with Other Significant Problems).

We are proposing to add the following diagnosis codes to the list of “principal diagnosis” that defines DRG 391:

• 764.00, “Light-for-dates” without mention of fetal malnutrition, unspecified (weight)

• 764.90, Fetal growth retardation unspecified (weight)

• 765.10, Other preterm infants unspecified (weight)

• 765.19, Other preterm infants, 2,500+ grams

• 765.20, Unspecified weeks of gestation

• 765.29, 37 or more completed weeks of gestation

We also are proposing to add the above six diagnosis codes to the list of “only certain secondary diagnosis” that defines DRG 391, as indicated below. Of these diagnosis codes, NACHRI indicates that the highest volume diagnosis code is 765.19 (Other preterm infants, 2,500+ grams). NACHRI notes that when this diagnosis code is recorded and no major problem or significant problem diagnosis is recorded, these patients have costs that are not much different than those for other normal newborns.

We are proposing to add the following codes to the list of “only certain secondary diagnosis” that defines DRG 391:

• 216.0, Benign neoplasm of skin of lip

• 216.1, Benign neoplasm of eyelid, including canthus

• 216.2, Benign neoplasm of ear and external auditory canal

• 216.3, Benign neoplasm of skin of other and unspecified parts of face

• 216.4, Benign neoplasm of scalp and skin of neck

• 216.5, Benign neoplasm of skin of trunk, except scrotum

• 216.6, Benign neoplasm of skin of upper limb, including shoulder

• 216.7, Benign neoplasm of skin of lower limb, including hip

• 216.8, Benign neoplasm of other specified sites of skin

• 216.9, Benign neoplasm of skin, site unspecified

• 228.00, Hemangioma of unspecified site

• 228.01, Hemangioma of skin and subcutaneous tissue

• 228.1, Lymphangioma, any site

• 379.8, Other specified disorders of eye and adnexa

• 379.90, Disorder of eye, unspecified

• 379.92, Swelling or mass of eye

• 379.93, Redness or discharge of eye

• 379.99, Other ill-defined disorders of eye

• 427.60, Premature beats, unspecified

• 427.61, Supraventricular premature beats

• 427.9, Cardiac dysrhythmia, unspecified

• 528.4, Cysts of oral soft tissues

• 553.1, Umbilical hernia without mention of obstruction or gangrene

• 603.8, Other specified types of hydrocele

• 603.9, Hydrocele, unspecified

• 607.89, Other specified disorders of penis

• 607.9, Unspecified disorder of penis and perineum

• 624.9, Unspecified noninflammatory disorder of vulva and perineum

• 692.9, Contact dermatitis and other eczema unspecified cause

• 701.1, Keratoderma, acquired

• 701.3, Striae atrophicae

• 701.8, Other specified hypertrophic and atrophic conditions of skin

• 701.9, Unspecified hypertrophic and atrophic conditions of skin

• 702.8, Other specified dermatoses

• 705.1, Prickly heat

• 706.1, Other acne

• 706.2, Sebaceous cyst

• 709.8, Other specified disorders of skin

• 709.9, Unspecified disorder of skin and subcutaneous tissue

• 719.61, Other symptoms referable to joint of shoulder region

• 719.65, Other symptoms referable to joint of pelvic region and thigh

• 755.00, Polydactyly, unspecified digits

• 755.01, Polydactyly of fingers

• 755.02, Polydactyly of toes

• 755.10, Syndactyly of multiple and unspecified sites

• 755.11, Syndactyly of fingers without fusion of bone

• 755.12, Syndactyly of fingers with fusion of bone

• 755.13, Syndactyly of toes without fusion of bone

• 755.14, Syndactyly of toes with fusion of bone

• 755.66, Other congenital anomalies of toes

• 755.67, Anomalies of foot, congenital, not elsewhere classified

• 755.9, Unspecified congenital anomaly of unspecified limb

• 757.2, Dermatoglyphic anomalies

• 757.32, Vascular hamartomas

• 757.39, Other specified congenital anomalies of skin

• 757.4, Specified congenital anomalies of hair

• 757.5, Specified congenital anomalies of nails

• 757.6, Specified congenital anomalies of breast

• 757.8, Other specified congenital anomalies of the integument

• 757.9, Unspecified congenital anomaly of the integument

• 760.0, Maternal hypertensive disorders affecting fetus or newborn

• 760.1, Maternal renal and urinary tract diseases affecting fetus or newborn

• 760.2, Maternal infections affecting fetus or newborn

• 760.3, Other chronic maternal circulatory and respiratory diseases affecting fetus or newborn

• 760.4, Maternal nutritional disorders affecting fetus or newborn

• 760.5, Maternal injury affecting fetus or newborn

• 760.6, Surgical operation on mother affecting fetus or newborn

• 760.70, Unspecified noxious substance affecting fetus or newborn via placenta or breast milk

• 760.74, Anti-infectives affecting fetus or newborn via placenta or breast milk

• 760.76, Diethylstilbestrol (DES) exposure affecting fetus or newborn via placenta or breast milk

• 760.79, Other noxious influences affecting fetus or newborn via placenta or breast milk

• 760.8, Other specified maternal conditions affecting fetus or newborn

• 760.9, Unspecified maternal condition affecting fetus or newborn

• 761.0, Incompetent cervix affecting fetus or newborn

• 761.1, Premature rupture of membranes affecting fetus or newborn

• 761.5, Multiple pregnancy affecting fetus or newborn

• 761.7, Malpresentation before labor affecting fetus or newborn

• 761.8, Other specified maternal complications of pregnancy affecting fetus or newborn

• 761.9, Unspecified maternal complication of pregnancy affecting fetus or newborn

• 762.8, Other specified abnormalities of chorion and amnion affecting fetus or newborn

• 762.9, Unspecified abnormality of chorion and amnion affecting fetus or newborn

• 763.4, Cesarean delivery affecting fetus or newborn

• 763.5, Maternal anesthesia and analgesia affecting fetus or newborn

• 763.7, Abnormal uterine contractions affecting fetus or newborn

• 763.89, Other specified complications of labor and delivery affecting fetus or newborn

• 764.00, “Light-for-dates” without mention of fetal malnutrition, unspecified (weight)

• 764.90, Fetal growth retardation unspecified (weight)

• 765.10, Other preterm infants unspecified (weight)

• 765.19, Other preterm infants, 2,500+ grams

• 765.20, Unspecified weeks of gestation

• 765.29, 37 or more completed weeks of gestation

• 767.2, Fracture of clavicle due to birth trauma

• 767.3, Other injuries to skeleton due to birth trauma

• 767.8, Other specified birth trauma

• 767.9, Unspecified birth trauma

• 768.2, Fetal distress before onset of labor, in liveborn infant

• 768.3, Fetal distress first noted during labor, in liveborn infant

• 768.4, Fetal distress, unspecified as to time of onset, in liveborn infant

• 768.9, Unspecified severity of birth asphyxia in liveborn infant

• 70.9, Unspecified respiratory condition of fetus and newborn

• 772.8, Other specified hemorrhage of fetus or newborn

• 772.9, Unspecified hemorrhage of newborn

• 773.1, Hemolytic disease due to ABO isoimmunization of fetus or newborn

• 773.2, Hemolytic disease due to other and unspecified isoimmunization of fetus or newborn

• 773.5, Late anemia due to isoimmunization of fetus or newborn

• 775.6, Neonatal hypoglycemia

• 775.9, Unspecified endocrine and metabolic disturbances specific to the fetus and newborn

• 776.4, Polycythemia neonatorum

• 776.8, Other specified transient hematological disorders of fetus or newborn

• 776.9, Unspecified hematological disorder specific to fetus or newborn

• 777.1, Meconium obstruction in fetus or newborn

• 777.3, Hematemesis and melena due to swallowed maternal blood of newborn

• 777.8, Other specified perinatal disorders of digestive system

• 777.9, Unspecified perinatal disorder of digestive system

• 778.3, Other hypothermia of newborn

• 778.4, Other disturbances of temperature regulation of newborn

• 778.6, Congenital hydrocele

• 778.7, Breast engorgement in newborn

• 778.9, Unspecified condition involving the integument and temperature regulation of fetus and newborn

• 779.9, Unspecified condition originating in the perinatal period

• 780.6, Fever

• 781.0, Abnormal involuntary movements

• 781.3, Lack of coordination

• 782.1, Rash and other nonspecific skin eruption

• 782.2, Localized superficial swelling, mass, or lump

• 782.4, Jaundice, unspecified, not of newborn

• 782.61, Pallo

• 782.62, Flushin

• 782.7, Spontaneous ecchymose

• 782.8, Changes in skin texture

• 782.9, Other symptoms involving skin and integumentary tissues

• 783.3, Feeding difficulties and mismanagement

• 784.2, Swelling, mass, or lump in head and neck

• 784.9, Other symptoms involving head and neck

• 785.2, Undiagnosed cardiac murmurs

• 785.3, Other abnormal heart sounds

• 785.9, Other symptoms involving cardiovascular system

• 786.00, Respiratory abnormality, unspecified

• 786.7, Abnormal chest sounds

• 786.9, Other symptoms involving respiratory system and chest

• 787.3, Flatulence, eructation, and gas pain

• 790.6, Other abnormal blood chemistry

• 790.7, Bacteremia

• 790.99, Other nonspecific findings on examination of blood

• 795.6, False positive serological test for syphilis

• 795.79, Other and unspecified nonspecific immunological findings

• 796.1, Abnormal reflex

• 910.0, Abrasion or frictions burn of face, neck, and scalp except eye, without mention of infection

• 910.2, Blister of face, neck, and scalp except eye, without mention of infection

• 910.8, Other and unspecified superficial injury of face, neck, and scalp, without mention of infection

• 920, Contusion of face, scalp, and neck except eye(s)

• 999.5, Other serum reaction, not elsewhere classified

• 999.6, ABO incompatibility reaction, not elsewhere classified

• V01.1, Contact with or exposure to tuberculosis

• V01.6, Contact with or exposure to venereal diseases

• V01.7, Contact with or exposure to other viral diseases

• V01.81, Contact with or exposure to communicable diseases, anthrax

• V01.89, Contact with or exposure to communicable diseases, other communicable diseases

• V01.9, Contact with or exposure to unspecified communicable disease

• V02.3, Carrier or suspected carrier of other gastrointestinal pathogens

• V05.3, Need for prophylactic vaccination and inoculation against viral hepatitis

• V05.4, Need for prophylactic vaccination and inoculation against varicella

• V05.8, Need for prophylactic vaccination and inoculation against other specified disease

• V05.9, Need for prophylactic vaccination and inoculation against unspecified single disease

• V07.8, Need for other specified prophylactic measure

• V07.9, Need for unspecified prophylactic measure

• V18.0, Family history of diabetes mellitus

• V18.1, Family history of other endocrine and metabolic diseases

• V18.2, Family history of anemia

• V18.3, Family history of other blood disorders

• V18.8, Family history of infectious and parasitic diseases

• V19.2, Family history of deafness or hearing loss

• V19.8, Family history of other condition

• V71.9, Observation for unspecified suspected condition

• V72.0, Examination of eyes and vision

• V72.6, Laboratory examination

• V73.89, Special screening examination for other specified viral diseases

• V73.99, Special screening examination for unspecified viral disease

7. MDC 23 (Factors Influencing Health Status and Other Contacts With Health Services)

In the August 1, 2001 final rule, we included in Table 6A—New Diagnosis Codes (66 FR 40064) code V10.53 (History of malignancy, renal pelvis), which was approved by the ICD-9-CM Coordination and Maintenance Committee as a new code effective October 1, 2001. We assigned the code to DRG 411 (History of Malignancy without Endoscopy) and DRG 412 (History of Malignancy with Endoscopy).

We received correspondence which suggested that we should have also assigned code V10.53 to DRG 465 (Aftercare with History of Malignancy as Secondary Diagnosis). The correspondent pointed out that all other codes for a history of malignancy are included in DRG 465.

We agree that code V10.53 should be included in the list of the history of malignancy codes within DRG 465. Therefore, we are proposing to add V10.53 to the list of secondary diagnosis in DRG 465.

8. Pre-MDC: Tracheostomy

DRG 483 (Tracheostomy Except for Face, Mouth and Neck Diagnoses) is used to classify patients who require long-term mechanical ventilation. Mechanical ventilation can be administered through an endotracheal tube for a limited period of time. When an endotracheal tube is used for an extended period of time (beyond 7 to 10 days), the patient runs a high risk of permanent damage to the trachea. In order to maintain a patient on mechanical ventilation for a longer period of time, the endotracheal tube is removed and a tracheostomy is performed. The mechanical ventilation is then administered through the tracheostomy.

A tracheostomy also may be performed on patients for therapeutic purposes unrelated to the administration of mechanical ventilation. Patients with certain face, mouth, and neck disease may have a tracheostomy performed as part of the treatment for the face, mouth, or neck disease. These patients are assigned to DRG 482 (Tracheostomy for Face, Mouth and Neck Diagnoses).

Therefore, patients assigned to DRGs 482 and 483 are differentiated based on the principal diagnosis of the patient. At certain times, selecting the appropriate principal diagnosis for the patients receiving tracheostomies for assignment to a DRG can be difficult. The overall number of tracheostomy patients increased by 13 percent between 1994 and 1999. During the same period, the percent of tracheostomy patients in DRG 483 (patients without certain face, mouth, or neck diseases) versus DRG 482 increased from 83.6 percent to 87.6 percent.

The payment weight for DRG 483 is more than four times greater than the DRG 482 payment weight, and this has led to concerns about coding compliance. Specifically, the fact that cases are assigned to DRG 483 based on the absence of a code indicating face, mouth, or neck diagnosis creates an incentive to omit codes indicating these diagnoses.

To address issues of possible coding noncompliance, we are proposing to modify DRGs 482 and 483 to differentiate the assignment to either DRG based on the presence or absence of continuous mechanical ventilation that lasts more than 96 hours (code 96.72). This modification would ensure that the patients assigned to DRG 483 are patients who had the tracheostomy for long-term mechanical ventilation. Based on an examination of claims data from the FY 2001 MedPAR file, we found that many patients assigned to DRG 483 do not have the code 96.72 for mechanical ventilation greater than 96 hours recorded. In part, this is the result of the limited number of procedure codes (six) that can be submitted on the current uniform hospital claim form, and the fact that code 96.72 does not currently affect the DRG assignment.

We found that many of the patients who are assigned to DRG 483 have multiple procedures, making it impossible for all procedures performed to be submitted on the hospital claim form. Because of the current underreporting of code 96.72 for continuous mechanical ventilation greater than 96 hours, we do not believe we can accurately determine the payment weights for modified DRGs 482 and 483 as described above.

In order to encourage the reporting of the code 96.72 for continuous mechanical ventilation for greater than 96 hours, we are proposing to change the definition of DRG 483 so that patients who have a tracheostomy and continuous mechanical ventilation greater than 96 hours (code 96.72) with a principal diagnosis unrelated to disease of the face, mouth, or neck would be assigned to DRG 483. DRG 483 would be retitled “Tracheostomy/Mechanical Ventilation 96+ Hours Except Face, Mouth, and Neck Diagnosis.”

We will give future consideration to modifying DRGs 482 and DRG 483 based on the presence of code 96.72, and invite comments on this area.

9. Medicare Code Editor (MCE) Change

As explained under section II.B.1. of this preamble, the MCE is a software program that detects and reports errors in the coding of Medicare claims data.

The MCE includes an edit for “nonspecific principal diagnosis” that identifies a group of codes that are valid according to the ICD-9-CM coding scheme, but are not as specific as the coding scheme permits. The fiscal intermediaries use cases identified in this edit for educational purposes for hospitals only. That is, when a hospital reaches a specific threshold of cases (usually 25) in this edit, the fiscal intermediary will contact the hospital and educate it on how to code diagnoses using more specific codes in the ICD-9-CM coding scheme. The claims identified in this nonspecific principal diagnosis edit are neither denied nor returned to the hospital.

Code 436 (Acute, but ill-defined, cerebrovascular disease) is one of the codes included in the groups of codes identified in the nonspecific principal diagnosis edit, and is widely used in smaller hospitals where testing mechanisms are not available to more specifically identify the location and condition of cerebral and precerebral vessels. Because of the frequent use of code 436 among smaller hospitals, we are proposing to remove the code from the nonspecific principal diagnosis edit in the MCE. We address the use of code 436 in section II.B.3. of this proposed rule under the discussion of MDC 5 changes with regard to the remodeling of DRGs 14 and 15.

10. Surgical Hierarchies

Some inpatient stays entail multiple surgical procedures, each one of which, occurring by itself, could result in assignment of the case to a different DRG within the MDC to which the principal diagnosis is assigned. Therefore, it is necessary to have a decision rule within the GROUPER by which these cases are assigned to a single DRG. The surgical hierarchy, an ordering of surgical classes from most resource-intensive to least resource-intensive, performs that function. Its application ensures that cases involving multiple surgical procedures are assigned to the DRG associated with the most resource-intensive surgical class.

Because the relative resource intensity of surgical classes can shift as a function of DRG reclassification and recalibrations, we reviewed the surgical hierarchy of each MDC, as we have for previous reclassifications and recalibrations, to determine if the ordering of classes coincides with the intensity of resource utilization.

A surgical class can be composed of one or more DRGs. For example, in MDC 11, the surgical class “kidney transplant” consists of a single DRG (DRG 302) and the class “kidney, ureter and major bladder procedures” consists of three DRGs (DRGs 303, 304, and 305). Consequently, in many cases, the surgical hierarchy has an impact on more than one DRG. The methodology for determining the most resource-intensive surgical class involves weighting the average resources for each DRG by frequency to determine the weighted average resources for each surgical class. For example, assume surgical class A includes DRGs 1 and 2 and surgical class B includes DRGs 3, 4, and 5. Assume also that the average charge of DRG 1 is higher than that of DRG 3, but the average charges of DRGs 4 and 5 are higher than the average charge of DRG 2. To determine whether surgical class A should be higher or lower than surgical class B in the surgical hierarchy, we would weight the average charge of each DRG in the class by frequency (that is, by the number of cases in the DRG) to determine average resource consumption for the surgical class. The surgical classes would then be ordered from the class with the highest average resource utilization to that with the lowest, with the exception of “other O.R. procedures” as discussed below.

This methodology may occasionally result in assignment of a case involving multiple procedures to the lower-weighted DRG (in the highest, most resource-intensive surgical class) of the available alternatives. However, given that the logic underlying the surgical hierarchy provides that the GROUPER searches for the procedure in the most resource-intensive surgical class, this result is unavoidable.

We note that, notwithstanding the foregoing discussion, there are a few instances when a surgical class with a lower average charge is ordered above a surgical class with a higher average charge. For example, the “other O.R. procedures” surgical class is uniformly ordered last in the surgical hierarchy of each MDC in which it occurs, regardless of the fact that the average charge for the DRG or DRGs in that surgical class may be higher than that for other surgical classes in the MDC. The “other O.R. procedures” class is a group of procedures that are only infrequently related to the diagnoses in the MDC but are still occasionally performed on patients in the MDC with these diagnoses. Therefore, these procedures should only be considered if no other procedure more closely related to the diagnoses in the MDC has been performed.

A second example occurs when the difference between the average charges for two surgical classes is very small. We have found that small differences generally do not warrant reordering of the hierarchy since, as a result of the hierarchy change, the average charges are likely to shift such that the higher-ordered surgical class has a lower average charge than the class ordered below it.

Based on the preliminary recalibration of the DRGs, we are proposing modifications of the surgical hierarchy as set forth below.

At this time, we are proposing to revise the surgical hierarchy for the pre-MDC DRGs and for MDC 5 (Diseases and Disorders of the Circulatory System) as follows:

• In the pre-MDC DRGs, we are proposing to reorder DRG 495 (Lung Transplant) above DRG 512 (Simultaneous Pancreas/Kidney Transplant).

• In MDC 5, we are proposing to reorder DRG 525 (Heart Assist System Implant) above DRGs 104 and 105 (Cardiac Valve and Other Major Cardiothoracic Procedures with and without Cardiac Catheterization, respectively).

11. Refinement of Complications and Comorbidities (CC) List

In the September 1, 1987 final notice (52 FR 33143) concerning changes to the DRG classification system, we modified the GROUPER logic so that certain diagnoses included on the standard list of CCs would not be considered valid CCs in combination with a particular principal diagnosis. Thus, we created the CC Exclusions List. We made these changes for the following reasons: (1) To preclude coding of CCs for closely related conditions; (2) to preclude duplicative coding or inconsistent coding from being treated as CCs; and (3) to ensure that cases are appropriately classified between the complicated and uncomplicated DRGs in a pair. We developed this standard list of diagnoses using physician panels to include those diagnoses that, when present as a secondary condition, would be considered a substantial complication or comorbidity. In previous years, we have made changes to the standard list of CCs, either by adding new CCs or deleting CCs already on the list. At this time, we are not proposing to delete any of the diagnosis codes on the CC list.

In the May 19, 1987 proposed notice (52 FR 18877) concerning changes to the DRG classification system, we explained that the excluded secondary diagnoses were established using the following five principles:

• Chronic and acute manifestations of the same condition should not be considered CCs for one another (as subsequently corrected in the September 1, 1987 final notice (52 FR 33154)).

• Specific and nonspecific (that is, not otherwise specified (NOS)) diagnosis codes for the same condition should not be considered CCs for one another.

• Codes for the same condition that cannot coexist, such as partial/total, unilateral/bilateral, obstructed/ unobstructed, and benign/malignant, should not be considered CCs for one another.

• Codes for the same condition in anatomically proximal sites should not be considered CCs for one another.

• Closely related conditions should not be considered CCs for one another.

The creation of the CC Exclusions List was a major project involving hundreds of codes. The FY 1988 revisions were intended only as a first step toward refinement of the CC list in that the criteria used for eliminating certain diagnoses from consideration as CCs were intended to identify only the most obvious diagnoses that should not be considered CCs of another diagnosis. For that reason, and in light of comments and questions on the CC list, we have continued to review the remaining CCs to identify additional exclusions and to remove diagnoses from the master list that have been shown not to meet the definition of a CC. (See the September 30, 1988 final rule (53 FR 38485) for the revision made for the discharges occurring in FY 1989; the September 1, 1989 final rule (54 FR 36552) for the FY 1990 revision; the September 4, 1990 final rule (55 FR 36126) for the FY 1991 revision; the August 30, 1991 final rule (56 FR 43209) for the FY 1992 revision; the September 1, 1992 final rule (57 FR 39753) for the FY 1993 revision; the September 1, 1993 final rule (58 FR 46278) for the FY 1994 revisions; the September 1, 1994 final rule (59 FR 45334) for the FY 1995 revisions; the September 1, 1995 final rule (60 FR 45782) for the FY 1996 revisions; the August 30, 1996 final rule (61 FR 46171) for the FY 1997 revisions; the August 29, 1997 final rule (62 FR 45966) for the FY 1998 revisions; the July 31, 1998 final rule (63 FR 40954) for the FY 1999 revisions, the August 1, 2000 final rule (65 FR 47064) for the FY 2001 revisions; and the August 1, 2001 final rule (66 FR 39851) for the FY 2002 revisions. In the July 30, 1999 final rule (64 FR 41490), we did not modify the CC Exclusions List for FY 2000 because we did not make any changes to the ICD-9-CM codes for FY 2000.

We are proposing a limited revision of the CC Exclusions List to take into account the proposed changes that will be made in the ICD-9-CM diagnosis coding system effective October 1, 2002. (See section II.B.13. of this preamble for a discussion of ICD-9-CM changes.) These proposed changes are being made in accordance with the principles established when we created the CC Exclusions List in 1987.

Tables 6G and 6H in the Addendum to this proposed rule contain the revisions to the CC Exclusions List that would be effective for discharges occurring on or after October 1, 2002. Each table shows the principal diagnoses with changes to the excluded CCs. Each of these principal diagnoses is shown with an asterisk, and the additions or deletions to the CC Exclusions List are provided in an indented column immediately following the affected principal diagnosis.

CCs that are added to the list are in Table 6G—Additions to the CC Exclusions List. Beginning with discharges on or after October 1, 2002, the indented diagnoses would not be recognized by the GROUPER as valid CCs for the asterisked principal diagnosis.

CCs that are deleted from the list are in Table 6H—Deletions from the CC Exclusions List. Beginning with discharges on or after October 1, 2002, the indented diagnoses would be recognized by the GROUPER as valid CCs for the asterisked principal diagnosis.

Copies of the original CC Exclusions List applicable to FY 1988 can be obtained from the National Technical Information Service (NTIS) of the Department of Commerce. It is available in hard copy for $133.00 plus shipping and handling. A request for the FY 1988 CC Exclusions List (which should include the identification accession number (PB) 88-133970) should be made to the following address: National Technical Information Service, United States Department of Commerce, 5285 Port Royal Road, Springfield, VA 2216l; or by calling (800) 553-6847.

Users should be aware of the fact that all revisions to the CC Exclusions List (FYs 1989, 1990, 1991, 1992, 1993, 1994, 1995, 1996, 1997, 1998, 1999, 2000, and 2002) and those in Tables 6F and 6G of the final rule for FY 2003 must be incorporated into the list purchased from NTIS in order to obtain the CC Exclusions List applicable for discharges occurring on or after October 1, 2002. (Note: There was no CC Exclusions List in FY 2001 because we did not make changes to the ICD-9-CM codes for FY 2001.)

Alternatively, the complete documentation of the GROUPER logic, including the current CC Exclusions List, is available from 3M/Health Information Systems (HIS), which, under contract with CMS, is responsible for updating and maintaining the GROUPER program. The current DRG Definitions Manual, Version 19.0, is available for $225.00, which includes $15.00 for shipping and handling. Version 20.0 of this manual, which includes the final FY 2002 DRG changes, is available for $225.00. These manuals may be obtained by writing 3M/HIS at the following address: 100 Barnes Road, Wallingford, CT 06492; or by calling (203) 949-0303. Please specify the revision or revisions requested.

12. Review of Procedure Codes in DRGs 468, 476, and 477

Each year, we review cases assigned to DRG 468 (Extensive O.R. Procedure Unrelated to Principal Diagnosis), DRG 476 (Prostatic O.R. Procedure Unrelated to Principal Diagnosis), and DRG 477 (Nonextensive O.R. Procedure Unrelated to Principal Diagnosis) to determine whether it would be appropriate to change the procedures assigned among these DRGs.

DRGs 468, 476, and 477 are reserved for those cases in which none of the O.R. procedures performed are related to the principal diagnosis. These DRGs are intended to capture atypical cases, that is, those cases not occurring with sufficient frequency to represent a distinct, recognizable clinical group. DRG 476 is assigned to those discharges in which one or more of the following prostatic procedures are performed and are unrelated to the principal diagnosis:

60.0 Incision of prostate

60.12 Open biopsy of prostate

60.15 Biopsy of periprostatic tissue

60.18 Other diagnostic procedures on prostate and periprostatic tissue

60.21 Transurethral prostatectomy

60.29 Other transurethral prostatectomy

60.61 Local excision of lesion of prostate

60.69 Prostatectomy NEC

60.81 Incision of periprostatic tissue

60.82 Excision of periprostatic tissue

60.93 Repair of prostate

60.94 Control of (postoperative) hemorrhage of prostate

60.95 Transurethral balloon dilation of the prostatic urethra

60.99 Other operations on prostate

All remaining O.R. procedures are assigned to DRGs 468 and 477, with DRG 477 assigned to those discharges in which the only procedures performed are nonextensive procedures that are unrelated to the principal diagnosis. The original list of the ICD-9-CM procedure codes for the procedures we consider nonextensive procedures, if performed with an unrelated principal diagnosis, was published in Table 6C in section IV. of the Addendum to the September 30, 1988 final rule (53 FR 38591). As part of the final rules published on September 4, 1990 (55 FR 36135), August 30, 1991 (56 FR 43212), September 1, 1992 (57 FR 23625), September 1, 1993 (58 FR 46279), September 1, 1994 (59 FR 45336), September 1, 1995 (60 FR 45783), August 30, 1996 (61 FR 46173), and August 29, 1997 (62 FR 45981), we moved several other procedures from DRG 468 to 477, and some procedures from DRG 477 to 468. No procedures were moved in FY 1999, as noted in the July 31, 1998 final rule (63 FR 40962); in FY 2000, as noted in the July 30, 1999 final rule (64 FR 41496); in FY 2001, as noted in the August 1, 2000 final rule (65 FR 47064); or in FY 2002, as noted in the August 1, 2001 final rule (66 FR 39852).

a. Moving Procedure Codes From DRGs 468 or 477 to MDCs

We annually conduct a review of procedures producing assignment to DRG 468 or DRG 477 on the basis of volume, by procedure, to see if it would be appropriate to move procedure codes out of these DRGs into one of the surgical DRGs for the MDC into which the principal diagnosis falls. The data are arrayed two ways for comparison purposes. We look at a frequency count of each major operative procedure code. We also compare procedures across MDCs by volume of procedure codes within each MDC.

We identified those procedures occurring in conjunction with certain principal diagnoses with sufficient frequency to justify adding them to one of the surgical DRGs for the MDC in which the diagnosis falls. Based on this year's review, we did not identify any necessary changes in procedures under DRG 477. Therefore, we are not proposing to move any procedures from DRG 477 to one of the surgical DRGs. However, we have identified a number of procedure codes that should be removed from DRG 468 and put into more clinically coherent DRGs. The proposed assignments of these codes are specified in the charts below.

Movement of Procedure Codes From DRG 468
Procedure Code | Description | Included in DRG | Description
MDC 6—Diseases and Disorders of the Digestive System
387 | Interruption vena cava | 170 | Other Digestive System O.R. Procedures with CC.
387 | Interruption vena cava | 171 | Other Digestive System O.R. Procedures without CC.
3950 | Angioplasty or atherectomy of noncoronary vessel | 170 | Other Digestive System O.R. Procedures with CC.
3950 | Angioplasty or atherectomy of noncoronary vessel | 171 | Other Digestive System O.R. Procedures without CC.
MDC 7—Diseases and Disorders of the Hepatobiliary System and Pancreas
387 | Interruption vena cava | 201 | Other Hepatobiliary & Pancreas Procedures.
3949 | Other revision of vascular procedure | 201 | Other Hepatobiliary & Pancreas Procedures.
3950 | Angioplasty or atherectomy of noncoronary vessel | 201 | Other Hepatobiliary & Pancreas Procedures.
MDC 8—Diseases and Disorders of the Musculoskeletal System and Connective Tissue
387 | Interruption vena cava | 233 | Other Musculoskeletal System & Connective Tissue O.R. Procedures with CC.
387 | Interruption vena cava | 234 | Other Musculoskeletal System & Connective Tissue O.R. Procedures without CC.
3950 | Angioplasty or atherectomy of noncoronary vessel | 233 | Other Musculoskeletal System & Connective Tissue O.R. Procedures with CC.
3950 | Angioplasty or atherectomy of noncoronary vessel | 234 | Other Musculoskeletal System & Connective Tissue O.R. Procedures without CC.
MDC 9—Diseases and Disorders of the Skin, Subcutaneous Tissue and Breast
8344 | Other fasciectomy | 269 | Other Skin, Subcutaneous Tissue & Breast Procedures with CC.
8344 | Other fasciectomy | 270 | Other Skin, Subcutaneous Tissue & Breast Procedures without CC.
8345 | Other myectomy | 269 | Other Skin, Subcutaneous Tissue & Breast Procedures with CC.
8345 | Other myectomy | 270 | Other Skin, Subcutaneous Tissue & Breast Procedures without CC.
8382 | Muscle or fascia graft | 269 | Other Skin, Subcutaneous Tissue & Breast Procedures with CC.
8382 | Muscle or fascia graft | 270 | Other Skin, Subcutaneous Tissue & Breast Procedures without CC.
MDC 10—Endocrine, Nutritional and Metabolic Diseases and Disorders
387 | Interruption vena cava | 292 | Other Endocrine, Nutritional, & Metabolic O.R. Procedures with CC.
387 | Interruption vena cava | 293 | Other Endocrine, Nutritional, & Metabolic O.R. Procedures without CC.
5459 | Other Lysis of Peritoneal adhesions | 292 | Other Endocrine, Nutritional, & Metabolic O.R. Procedures with CC.
5459 | Other Lysis of Peritoneal adhesions | 293 | Other Endocrine, Nutritional, & Metabolic O.R. Procedures without CC.
MC 11—Diseases and Disorders of the Kidney and Urinary Tract
0492 | Implantation or replacement of peripheral neurostimulator | 315 | Other Kidney & Urinary Tract O.R. Procedures.
3821 | Blood vessel biopsy | 315 | Other Kidney & Urinary Tract O.R. Procedures.
387 | Interruption vena cava | 315 | Other Kidney & Urinary Tract O.R. Procedures.
3949 | Other revision of vascular procedure | 315 | Other Kidney & Urinary Tract O.R. Procedures.
MDC 12—Diseases and Disorders Male Reproductive System
387 | Interruption vena cava | 344 | Other Male Reproductive System O.R. Procedures for Malignancy.
387 | Interruption vena cava | 345 | Other Male Reproductive System O.R. Procedures Except for Malignancy.
8622 | Excisional debridement of wound, infection, or burn | 344 | Other Male Reproductive System O.R. Procedures for Malignancy.
8622 | Excisional debridement of wound, infection, or burn | 345 | Other Male Reproductive System O.R. Procedures Except for Malignancy.
MDC 13—Diseases and Disorders of the Female Reproductive System
387 | Interruption vena cava | 365 | Other Female Reproductive System O.R. Procedures.
MDC 16—Diseases and Disorders of the Blood, Blood Forming Organs, Immunological Disorders
387 | Interruption vena cava | 394 | Other O.R. Procedures of the Blood & Blood Forming Organs.

b. Reassignment of Procedures Among DRGs 468, 476, and 477

We also annually review the list of ICD-9-CM procedures that, when in combination with their principal diagnosis code, result in assignment to DRGs 468, 476, and 477, to ascertain if any of those procedures should be reassigned from one of these DRGs to another of these DRGs based on average charges and length of stay. We look at the data for trends such as shifts in treatment practice or reporting practice that would make the resulting DRG assignment illogical. If we find these shifts, we would propose moving cases to keep the DRGs clinically similar or to provide payment for the cases in a similar manner. Generally, we move only those procedures for which we have an adequate number of discharges to analyze the data. Based on our review this year, we are not proposing to move any procedures from DRG 468 to DRGs 476 or 477, from DRG 476 to DRGs 468 or 477, or from DRG 477 to DRGs 468 or 476.

c. Adding Diagnosis Codes to MDCs

Based on our review this year, we are not proposing to add any diagnosis codes to MDCs.

13. Changes to the ICD-9-CM Coding System

As described in section II.B.1. of this preamble, the ICD-9-CM is a coding system that is used for the reporting of diagnoses and procedures performed on a patient. In September 1985, the ICD-9-CM Coordination and Maintenance Committee was formed. This is a Federal interdepartmental committee, co-chaired by the National Center for Health Statistics (NCHS) and CMS, charged with maintaining and updating the ICD-9-CM system. The Committee is jointly responsible for approving coding changes, and developing errata, addenda, and other modifications to the ICD-9-CM to reflect newly developed procedures and technologies and newly identified diseases. The Committee is also responsible for promoting the use of Federal and non-Federal educational programs and other communication techniques with a view toward standardizing coding applications and upgrading the quality of the classification system.

The NCHS has lead responsibility for the ICD-9-CM diagnosis codes included in the Tabular List and Alphabetic Index for Diseases, while CMS has lead responsibility for the ICD-9-CM procedure codes included in the Tabular List and Alphabetic Index for Procedures.

The Committee encourages participation in the above process by health-related organizations. In this regard, the Committee holds public meetings for discussion of educational issues and proposed coding changes. These meetings provide an opportunity for representatives of recognized organizations in the coding field, such as the American Health Information Management Association (AHIMA) (formerly American Medical Record Association (AMRA)), the American Hospital Association (AHA), and various physician specialty groups as well as physicians, medical record administrators, health information management professionals, and other members of the public, to contribute ideas on coding matters. After considering the opinions expressed at the public meetings and in writing, the Committee formulates recommendations, which then must be approved by the agencies.

The Committee presented proposals for coding changes for implementation in FY 2003 at public meetings held on May 17 and 18, 2001, and November 1 and 2, 2001, and finalized the coding changes after consideration of comments received at the meetings and in writing by January 8, 2002.

Copies of the Coordination and Maintenance Committee minutes of the 2001 meetings can be obtained from the CMS home page at: http://www.cms.gov/medicare/icd9cm.htm. Paper copies of these minutes are no longer available and the mailing list has been discontinued. We encourage commenters to address suggestions on coding issues involving diagnosis codes to: Donna Pickett, Co-Chairperson; ICD-9-CM Coordination and Maintenance Committee; NCHS; Room 1100; 6525 Belcrest Road; Hyattsville, MD 20782. Comments may be sent by E-mail to: dfp4@cdc.gov.

Questions and comments concerning the procedure codes should be addressed to: Patricia E. Brooks, Co-Chairperson; ICD-9-CM Coordination and Maintenance Committee; CMS, Center for Medicare Management, Purchasing Policy Group, Division of Acute Care; C4-08-06; 7500 Security Boulevard; Baltimore, MD 21244-1850. Comments may be sent by E-mail to: pbrooks@cms.hhs.gov.

The ICD-9-CM code changes that have been approved will become effective October 1, 2002. The new ICD-9-CM codes are listed, along with their DRG classifications, in Tables 6A and 6B (New Diagnosis Codes and New Procedure Codes, respectively) in the Addendum to this proposed rule. As we stated above, the code numbers and their titles were presented for public comment at the ICD-9-CM Coordination and Maintenance Committee meetings. Both oral and written comments were considered before the codes were approved. In this proposed rule, we are only soliciting comments on the proposed DRG classification of these new codes.

Further, the Committee has approved the expansion of certain ICD-9-CM codes to require an additional digit for valid code assignment. Diagnosis codes that have been replaced by expanded codes or other codes or have been deleted are in Table 6C (Invalid Diagnosis Codes). These invalid diagnosis codes will not be recognized by the GROUPER beginning with discharges occurring on or after October 1, 2002. For codes that have been replaced by new or expanded codes, the corresponding new or expanded diagnosis codes are included in Table 6A (New Diagnosis Codes). New procedure codes are shown in Table 6B. Table 6C contains invalid diagnosis codes. There are no invalid procedure codes for FY 2002 (Table 6D). Revisions to diagnosis code titles are in Table 6E (Revised Diagnosis Code Titles), which also includes the DRG assignments for these revised codes. Revisions to procedure code titles are in Table 6F (Revised Procedure Codes Titles).

14. Other Issues

In addition to the specific topics discussed in section II.B.1. through 13. of this proposed rule, we examined a number of other DRG-related issues. Below is a summary of the issues that were addressed. However, we are not proposing any changes at this time.

a. Intestinal Transplantation

We examined our data to determine whether it is appropriate to propose a new intestinal transplant DRG. There were nine intestinal transplantation cases reported by two facilities. Two of the cases involved a liver transplant during the same admission and, therefore, would be assigned to DRG 480 (Liver Transplant). We do not believe that this is a sufficient sample size to warrant the creation of a new DRG.

b. Myasthenia Gravis

Myasthenia Gravis is an autoimmune disease manifested by a syndrome of fatigue and exhaustion of the muscles that is aggravated by activity and relieved by rest. The weakness of the muscles can range from very mild to life-threatening.

This disease is classified to ICD-9-CM diagnosis code 358.0 and is assigned to DRG 12 (Degenerative Nervous System Disorders). Myasthenia Gravis in crisis patients is being treated with extensive plasmapheresis. We received a request to analyze the charges associated with Myasthenia Gravis in crisis patients receiving plasmapheresis to determine whether DRG 12 is an equitable DRG assignment for these cases. We are currently unable to differentiate between the mild and severe forms of this disease because all types are classified to code 358.0. Therefore, we have requested the NCHS to create a new diagnosis code for Myasthenia Gravis in crisis so that we can uniquely identify these cases to ensure the DRG assignment is appropriate.

c. Cardiac Mapping and Ablation

In the August 1, 2001 final rule (66 FR 39840), in response to a comment received, we agreed to continue to evaluate DRGs 516 (Percutaneous Cardiovascular Procedure with Acute Myocardial Infarction (AMI)), 517 (Percutaneous Cardiovascular Procedure with Coronary Artery Stent without AMI), and 518 (Percutaneous Cardiovascular Procedure without Coronary Artery Stent or AMI) in MDC 5. We reviewed code 37.26 (Cardiac electrophysiologic stimulation and recording studies), code 37.27 (Cardiac mapping), and code 37.34 (Catheter ablation of lesion or tissues of heart). The commenter had recommended that CMS either create a separate DRG for cardiac mapping and ablation procedures, or assign codes 37.27 and 37.34 to DRG 516 after retitling the DRG. We have reviewed FY 2001 MedPAR data on these specific codes. Over 97 percent of cases with these codes were assigned to DRG 518 and had average charges of $1,741 below the average for all cases in the DRG. Therefore, the data do not support making any DRG changes for these procedure codes.

d. Aortic Endograft

In the August 1, 2001 final rule (66 FR 39841), we responded to a comment concerning the placement of aortic endografts in DRG 110 (Major Cardiovascular Procedures with CC) and DRG 111 (Major Cardiovascular Procedures without CC). The commenter noted that the cost of the device alone is greater than the entire payment for DRG 111 and recommended that these cases be assigned specifically to DRG 110. Our response at that time was that DRGs 110 and 111 are paired DRGs, differing only in the presence or absence of a CC.

We reviewed the MedPAR data again for FY 2001 using the following criteria: all cases were either in DRG 110 or 111, had a principal diagnosis of 441.4 (Abdominal aneurysm without mention of rupture), and included procedure code 39.71 (Endovascular implantation of graft in abdominal aorta). Our conclusion is that the majority of aneurysm cases are already grouped to DRG 110, where they are appropriately compensated. Therefore, we are not proposing to assign cases without CCs from DRG 111 to DRG 110. We reiterate that hospitals should code their records completely and record and submit all relevant diagnosis and procedure codes that have a bearing on the current admission (in particular, any complications or comorbidities associated with a case).

e. Platelet Inhibitors

In the August 1, 2002 final rule (66 FR 39840), we addressed a commenter's concern that modifications to MDC 5 involving percutaneous cardiovascular procedures would fail to account for the use of GP IIB-IIIA platelet inhibiting drugs for cases with acute coronary syndromes. GROUPER does not recognize procedure code 99.20 (Injection or infusion of platelet inhibitor) as a procedure. Therefore, its presence on a claim does not affect DRG assignment. We agreed to continue to evaluate this issue.

We reviewed cases in the FY 2001 MedPAR file for DRG 121 (Circulatory Disorders with AMI and Major Complication, Discharged Alive), DRG 122 (Circulatory Disorders with AMI without Major Complication, Discharged Alive) and DRGs 516, 517, and 518. We looked at all cases in these DRGs containing procedure code 99.20 by total number of procedures and by average charges. There were a total of 73,480 cases where platelet inhibitors were administered, with 70,216 of these cases in DRGs 516, 517, and 518. The average charges for platelet inhibitor cases in these three DRGs are actually slightly below the average for all cases in the respective DRGs. Therefore, we believe these cases are appropriately placed in the current DRGs, and are not proposing any changes to the assignment of these procedure codes.

f. Drug-Eluting Stents

The drug-eluting stents technology has been developed to combat the problem of restenosis of previously treated blood vessels. The drug is placed onto the stent with a special polymer and slowly released into the vessel wall tissue over a period of 30 to 45 days, and is intended to prevent the build-up of scar tissue that can narrow the reopened artery.

In Table 6B of the Addendum to this proposed rule, we list a new procedure code 36.07 (Insertion of drug-eluting coronary artery stents(s)) that will be effective for use October 1, 2002. We also are proposing to add code 00.55 (Insertion of drug-eluting noncoronary artery stent).

A manufacturer of this technology requested that code 36.07 be assigned to DRG 516 (Percutaneous Cardiovascular Procedure with Acute Myocardial Infarction (AMI)) even without the presence of AMI. The manufacturer asserted that this technology is significantly more costly than other technologies currently assigned to DRG 517 (Percutaneous Cardiovascular Procedure with Coronary Artery Stent without AMI) (average charges of $29,189 compared to average charges of $22,998), and warrants this DRG assignment.

In addition, the manufacturer argued that this technology should be given preferential treatment because it will fundamentally change the treatment of multivessel disease. Specifically, the manufacturer stated that due to the absence of restenosis in patients treated with the drug-eluting stents based on the preliminary trial results, bypass surgery may no longer be the preferred treatment for many patients.¹ The manufacturer believes lower payments due to the decline in Medicare bypass surgeries will offset the higher payments associated with assigning all cases receiving the drug-eluting stent to DRG 516.

¹ “Comparison of Coronary-Artery Bypass Surgery and Stenting for the Treatment of Multiveasel Disease,” Serruys, P. W., Unger, F., et. al., The New England Journal of Medicine, April 12, 2001, Vol. 344, No. 15, p. 1117.

Currently, this technology has not been approved for use by the FDA. If the technology is approved by the FDA and further evidence is presented to us regarding the clinical efficacy and the impact that this technology has on the treatment of multivessel disease, we may reassign this code to another DRG or reassess the construct of all affected DRGs. We also are specifically soliciting comments on our proposal to treat the new codes cited above consistent with the current DRG assignment for stents.

g. Cardiac Resynchronization Therapy

Cardiac resynchronization therapy for heart failure provides strategic electrical stimulation to the right atrium, right ventricle, and left ventricle, in order to coordinate ventricular contractions and improve cardiac output. This therapy includes cardiac resynchronization therapy pacemakers (CRT-P) and cardiac resynchronization therapy defibrillators (CRT-D). While similar to conventional pacemakers and internal cardioverter-defibrillators, cardiac resynchronization therapy is different because it requires the implantation of a special electrode within the coronary vein, so that it can be attached to the exterior wall of the left ventricle.

Currently, defibrillator cases are assigned to either DRG 514 (Cardiac Defibrillator Implant with Cardiac Catheterization) or DRG 515 (Cardiac Defibrillator Implant without Cardiac Catheterization). DRG 514 has a higher relative weight than DRG 515. We received a recommendation that we assign implantation of CRT-D (code 00.51, effective October 1, 2002) to either DRG 104 (Cardiac Valve and Other Major Cardiothoracic Procedure with Cardiac Catheterization) or DRG 514 (Cardiac Defibrillator Implant With Cardiac Catheterization). It is argued that the change should be made because the current DRG structure for cardioverter-defibrillator implants does not recognize the significant amount of additional surgical resources required for cases involving patients with heart failure.

The recommendation supported assigning new code 00.50 (Implantation of cardiac resynchronization pacemaker without mention of defibrillation, total system [CRT-P]) to DRG 115 (Permanent Cardiac Pacemaker Implantation With AMI, Heart Failure, or Shock, or AICD Lead or Generator Procedure). Currently, pacemaker implantation procedures are assigned to either DRG 115 (Permanent Cardiac Pacemaker Implant with AMI, Heart Failure, or Stroke, or AICD Lead or Generator Procedure) or DRG 116 (Other Permanent Cardiac Pacemaker Implant). DRG 115 has the higher relative weight. Because DRG 115 recognizes patients with heart failure, the manufacturer believed CRT-P cases would be appropriately classified to DRG 115.

Our proposed DRG assignment for code 00.51 would be to DRG 514 or 515. Our proposed DRG assignment for code 00.50 would be to DRG 115 and 116. However, we are soliciting comments on these proposed DRG assignments and will carefully consider any relevant evidence about the clinical efficacy and costs of this technology.

h. Hip and Knee Revisions

We received a request to consider assigning hip and knee revisions (codes 81.53 and 81.55) out of DRG 209 (Major Joint and Limb Reattachment Procedures of Lower Extremity) because these revisions are significantly more resource intensive and costly than initial insertions of these joints.

We examined claims data and concluded that, while the charges for the hip and knee revision cases were somewhat higher than other cases within DRG 209, they do not support the establishment of a separate DRG.

i. Multiple Level Spinal Fusions

We received a comment suggesting that we create new spinal fusion DRGs that differentiate by the number of discs that are fused in a spinal fusion. The commenter indicated that the existing ICD-9-CM codes do not identify the number of discs that are fused. Codes were modified for FY 2002 to clearly differentiate between fusions and refusions, and new codes were created for the insertion of interbody spinal fusion device (84.51), 360 degree spinal fusion, single incision approach (81.61), and the insertion of recombinant bone morphogenetic protein (84.52) (66 FR 39841 through 39844).

ICD-9-CM codes have not historically been used to differentiate among cases by the number of repairs or manipulations performed in the course of a single procedure. However, we will explore the possibility of creating codes to differentiate cases by the number of discs fused during a spinal fusion procedure at the scheduled April 18 and 19, 2002 meeting of the ICD-9-CM Coordination and Maintenance Committee.

We also note that DRGs generally do not segregate cases based on the number of repairs or devices that occur in the course of a single procedure. For instance, DRGs are not split based on the number of vessels bypassed in cardiac surgery, nor are they split based on the number of cardiac valves repaired. Therefore, we are not proposing DRG changes for multiple level spinal fusions in this proposed rule.

j. Open Wound of the Hand

We received a recommendation that we move code 882.0 (Open Wound of Hand Except Finger(s) Alone Without Mention of Complication) from its current location in MDC 9 (Diseases and Disorders of the Skin, Subcutaneous Tissue and Breast) under DRGs 280 through 282 (Trauma to the Skin, Subcutaneous Tissue and Breast Age >17 with CC, Age >17 without CC, and Age 0-17, respectively) into MDC 21 (Injuries, Poisonings and Toxic Effects of Drugs) under DRGs 444 through 446 (Traumatic Injury Age >17 with CC, Age >17 without CC, and Age 0-17, respectively).

In examining our data, we found relatively few cases with code 882.0. These cases had charges that were less than the average charges for DRGs to which they are currently assigned. The data do not support a DRG change. Our medical consultants also believe that the cases are appropriately assigned to DRGs 280 through 282.

k. Cavernous Nerve Stimulation

As discussed in August 1, 2001 final rule (66 FR 39845), we reviewed data in MDC 12 (Diseases and Disorders of the Male Reproductive System). We looked specifically for code 89.58 (Plethysmogram) in DRG 334 (Major Male Pelvic Procedures with CC), and DRG 335 (Major Male Pelvic Procedures without CC).

Our data show that very few (six) of these procedures were reported on FY 2001 claims. It is not clear whether the small number reflects the fact that the procedure is not being performed, the ICD-9-CM code is not recorded, or the code is recorded but it is not in the top six procedures being performed. However, in all six cases where this procedure was performed, it occurred in conjunction with radical prostatectomy, so we are confident that these cases are consistent with the DRGs to which they have been grouped. Therefore, we are not proposing any DRG assignment changes to code 89.58 or DRGs 334 and 335.

C. Recalibration of DRG Weights

We are proposing to use the same basic methodology for the FY 2003 recalibration as we did for FY 2002 (August 1, 2001 final rule (66 FR 39828)). That is, we would recalibrate the weights based on charge data for Medicare discharges. However, we are proposing to use the most current charge information available, the FY 2001 MedPAR file. (For the FY 2002 recalibration, we used the FY 2000 MedPAR file.) The MedPAR file is based on fully coded diagnostic and procedure data for all Medicare inpatient hospital bills.

FY 2001 MedPAR data include discharges occurring between October 1, 2000 and September 30, 2001, based on bills received by CMS through December 31, 2001, from all hospitals subject to the acute care hospital inpatient prospective payment system and short-term acute care hospitals in waiver States. The FY 2001 MedPAR file includes data for approximately 11,420,001 Medicare discharges. The data include hospitals that subsequently became CAHs, although no data are included for hospitals after the point they are certified as CAHs. Section IX. of this preamble contains information about how to obtain the MedPAR data.

The proposed methodology used to calculate the DRG relative weights from the FY 2001 MedPAR file is as follows:

• To the extent possible, all the claims were regrouped using the DRG classification revisions discussed in section II.B. of this preamble.

• Charges were standardized to remove the effects of differences in area wage levels, indirect medical education and disproportionate share payments, and, for hospitals in Alaska and Hawaii, the applicable cost-of-living adjustment. (See section IX.A.15. of this proposed rule for information on the availability of the prospective payment system standardizing file.)

• The average standardized charge per DRG was calculated by summing the standardized charges for all cases in the DRG and dividing that amount by the number of cases classified in the DRG. A transfer case is counted as a fraction of a case based on the ratio of its transfer payment under the per diem payment methodology to the full DRG payment for nontransfer cases. That is, transfer cases paid under the transfer methodology equal to half of what the case would receive as a nontransfer would be counted as 0.5 of a total case.

• We then eliminated statistical outliers, using the same criteria used in computing the current weights. That is, all cases that are outside of 3.0 standard deviations from the mean of the log distribution of both the charges per case and the charges per day for each DRG are eliminated.

• The average charge for each DRG was then recomputed (excluding the statistical outliers) and divided by the national average standardized charge per case to determine the relative weight.

• We established the relative weight for heart and heart-lung, liver, and lung transplants (DRGs 103, 480, and 495) in a manner consistent with the methodology for all other DRGs except that the transplant cases that were used to establish the weights were limited to those Medicare-approved heart, heart-lung, liver, and lung transplant centers that have cases in the FY 1999 MedPAR file. (Medicare coverage for heart, heart-lung, liver, and lung transplants is limited to those facilities that have received approval from CMS as transplant centers.)

• Acquisition costs for kidney, heart, heart-lung, liver, lung, and pancreas transplants continue to be paid on a reasonable cost basis. Unlike other excluded costs, the acquisition costs are concentrated in specific DRGs: DRG 302 (Kidney Transplant); DRG 103 (Heart Transplant); DRG 480 (Liver Transplant); DRG 495 (Lung Transplant); and DRGs 512 (Simultaneous Pancreas/Kidney Transplant) and 513 (Pancreas Transplant). Because these acquisition costs are paid separately from the prospective payment rate, it is necessary to make an adjustment to exclude them from the relative weights for these DRGs. Therefore, we subtracted the acquisition charges from the total charges on each transplant bill that showed acquisition charges before computing the average charge for the DRG and before eliminating statistical outliers.

When we recalibrated the DRG weights for previous years, we set a threshold of 10 cases as the minimum number of cases required to compute a reasonable weight. We used that same case threshold in recalibrating the proposed DRG weights for FY 2003. Using the FY 2001 MedPAR data set, there are 41 DRGs that contain fewer than 10 cases. We computed the weights for these 41 low-volume DRGs by adjusting the FY 2002 weights of these DRGs by the percentage change in the average weight of the cases in the other DRGs.

The proposed new weights are normalized by an adjustment factor (1.43430) so that the average case weight after recalibration is equal to the average case weight before recalibration. This adjustment is intended to ensure that recalibration by itself neither increases nor decreases total payments under the prospective payment system.

Section 1886(d)(4)(C)(iii) of the Act requires that, beginning with FY 1991, reclassification and recalibration changes be made in a manner that assures that the aggregate payments are neither greater than nor less than the aggregate payments that would have been made without the changes. Although normalization is intended to achieve this effect, equating the average case weight after recalibration to the average case weight before recalibration does not necessarily achieve budget neutrality with respect to aggregate payments to hospitals because payments to hospitals are affected by factors other than average case weight. Therefore, as we have done in past years and as discussed in section II.A.4.a. of the Addendum to this proposed rule, we are proposing to make a budget neutrality adjustment to ensure that the requirement of section 1886(d)(4)(C)(iii) of the Act is met.

D. Proposed Add-On Payments for New Services and Technologies

1. Background

Section 533(b) of Public Law 106-554 amended section 1886(d)(5) of the Act to add subparagraphs (K) and (L) to establish a process of identifying and ensuring adequate payment for new medical services and technologies under Medicare. Section 1886(d)(5)(K)(ii)(I) of the Act specifies that the process must apply to a new medical service or technology if, “based on the estimated costs incurred with respect to discharges involving such service or technology, the DRG prospective payment rate otherwise applicable to such discharges . . . is inadequate.” Section 1886(d)(5)(K)(vi) of the Act specifies that a medical service or technology will be considered “new” if it meets criteria established by the Secretary (after notice and opportunity for public comment).

In the September 7, 200l final rule (66 FR 46902), we established that a new technology would be an appropriate candidate for an additional payment when it represents an advance in medical technology that substantially improves, relative to technologies previously available, the diagnosis or treatment of Medicare beneficiaries (§ 412.87(b)(1)).

We also established that new technologies meeting this clinical definition must be demonstrated to be inadequately paid otherwise under the DRG system to receive special payment treatment (§ 412.87(b)(3)). To assess whether technologies would be inadequately paid under the DRGs, we established this threshold at one standard deviation beyond the geometric mean standardized charge for all cases in the DRGs to which the new technology is assigned (or the case-weighted average of all relevant DRGs, if the new technology occurs in many different DRGs) (§ 412.87(b)(3)).

Table 10 in the Addendum to this proposed rule lists the proposed qualifying criteria by DRG based on the discharge data used to calculate the proposed FY 2003 DRG weights. The thresholds published in the final rule will be used to evaluate applicants for new technology add-on payments during FY 2004 (beginning October 1, 2003). Similar to the timetable for applying for new technology add-on payments during FY 2003, we are proposing that applicants for FY 2004 must submit a significant sample of the data no later than early October 2002. Subsequently, we are proposing that a complete database must be submitted no later than mid-December 2002.

In addition to the clinical and cost criteria, we established that, in order to qualify for the special payment treatment, a specific technology must be “new” under the requirements of § 412.87(b)(2) of our regulations. The statutory provision contemplated the special payment treatment for new technologies until such time as data are available to reflect the cost of the technology in the DRG weights through recalibration (no less than 2 years and no more than 3 years). There is a lag of 2 to 3 years from the point a new technology is first introduced on the market and when data reflecting the use of the technology are used to calculate the DRG weights. For example, data from discharges occurring during FY 2001 are used to calculate the proposed FY 2003 DRG weights in this proposed rule.

Technology may be considered “new” for purposes of this provision within 2 or 3 years after the point at which data begin to become available reflecting the ICD-9-CM code assigned to the technology. After CMS has recalibrated the DRGs to reflect the costs of an otherwise new technology, the special add-on payment for new technology will cease (§ 412.87(b)(2)). For example, an approved new technology that received FDA approval in October 2001 would be eligible to receive add-on payments as a new technology until FY 2004 (discharges occurring before October 1, 2003), when data reflecting the costs of the technology would be used to recalibrate the DRG weights. Because the FY 2004 DRG weights will be calculated using FY 2002 MedPAR data, the costs of such a new technology would be reflected in the FY 2004 DRG weights.

For technologies that do not qualify for special payments under § 412.87, we will continue our past practice of evaluating whether existing procedures are appropriately classified to a DRG. To the extent the introduction of a new code for existing technology helps to better identify higher costs associated with a procedure, we would work to expedite the appropriate assignment of that code (for example, using more recent MedPAR data).

In the September 7, 2001 final rule, we established that Medicare would provide higher payments for cases with higher costs involving identified new technologies, while preserving some of the incentives under the average-based payment system. The payment mechanism is based on the cost to hospitals for the new technology. Under § 412.88, Medicare would pay a marginal cost factor of 50 percent for the costs of the new technology in excess of the full DRG payment. If the costs of a new technology case exceed the DRG payment by more than the estimated costs of the new technology, Medicare payment would be limited to the DRG payment plus 50 percent of the estimated costs of the new technology.

The report language accompanying section 533 of Public Law 106-554 indicated Congressional intent that the Secretary implement the new mechanism on a budget neutral basis (H.R. Conf. Rep. No. 106-1033, 106th Cong., 2d Sess. at 897 (2000)). Section 1886(d)(4)(C)(iii) of the Act requires that the adjustments to annual DRG classifications and relative weights must be made in a manner that ensures that aggregate payments to hospitals are not affected. Therefore, we account for projected payments under this provision for new technology during the upcoming fiscal year at the same time we estimate the payment effect of changes to the DRG classifications and recalibration. The impact of additional payments under this provision would then be included in the budget neutrality factor, which is applied to the standardized amounts.

Because any additional payments directed toward new technology under this provision would be offset to ensure budget neutrality, it is important to carefully consider the extent of this provision and ensure that only technologies representing substantial advances are recognized for additional payments. In that regard, we indicated that we will discuss in the annual proposed and final rules those technologies that were considered under this provision; our determination as to whether a particular new technology meets our criteria for a new technology; whether it is determined further that cases involving the new technology would be inadequately paid under the existing DRG payment; and any assumptions that went into the budget neutrality calculations related to additional payments for that new technology, including the expected number, distribution, and costs of these cases.

To appropriately balance Congress' intent to increase Medicare's payments for eligible new technologies with concern that the total size of those payments not result in significantly reduced payments for other cases, we set a target limit for estimated special payments for new technology under the provisions of section 533(b) of Public Law 106-554 at 1.0 percent of estimated total operating prospective payments.

If invoked, the target limit would reduce the level of payments for approved technologies across the board, to ensure estimated payments do not exceed the limit. Using this approach, all cases involving approved new technologies that would otherwise receive additional payments would still receive special payments, albeit at a reduced amount. Although the marginal payment rate for individual technologies will be reduced, this would be offset by large overall payments to hospitals for new technologies under this provision.

2. Applicants for FY 2003

We received five applications for new technologies to be designated eligible for inpatient add-on payments under the policy we implemented in the September 7, 2001 final rule. One of these applications was subsequently withdrawn. The remaining four applicants are discussed below.

a. Drotrecogin Alfa (Activated)—Xigris™

Eli Lilly and Company (Lilly) developed drotrecogin alfa (activated), trade name Xigris™, as a new technology and submitted an application to us for consideration under the new technology add-on provision. Xigris™ is used to treat patients with severe sepsis.

According to the application—

“Approximately 750,000 cases of sepsis associated with acute organ dysfunction (severe sepsis) occur annually in the United States. The mortality rates associated with severe sepsis in the United States range from 28 percent to 50 percent and have remained essentially unchanged for several decades. Each year, 215,000 deaths are associated with severe sepsis; deaths after acute myocardial infarction occur at approximately an equal rate.”

Xigris™ is a biotechnology product that is a recombinant version of naturally occurring Activated Protein C (APC). APC is needed to ensure the control of inflammation and clotting in the blood vessels. In patients with severe sepsis, Protein C cannot be converted in sufficient quantities to the activated form. It appears that Xigris™ has the ability to bring blood clotting and inflammation back into balance and restore blood flow to the organs.

In support of its application, Lilly submitted data from the Phase III Protein C Worldwide Evaluation in Severe Sepsis (PROWESS) trial. According to Lilly, this was “an international, multicenter, randomized, double-blind, placebo-controlled trial in which 1,690 patients with severe sepsis received either placebo (n = 840) or drotrecogin alfa (activated) (n = 850).” The results of the trial were published in an article in the March 8, 2001 edition of The New England Journal of Medicine (Bernard, G. R., Vincent, J. L., et. al., “Efficacy and Safety of Recombinant Human Activated Protein C for Severe Sepsis,” Vol. 344, No, 10, p. 699).

A 6.1 percent reduction in mortality was reported. This conclusion was based on a measure of 28-day all-cause mortality. However, at 28 days, over 10 percent of the study participants were still hospitalized. Whether these patients subsequently went on to recover or died was not reported.

Because the reduction in mortality was the result of a treatment effect in a relatively small number of patients and mortality was looked at only 28 days after treatment, we plan to review unpublished data on all-cause mortality at the time of hospital discharge for all patients enrolled in the study using an intent-to-treat analysis. We have asked the trial sponsor to provide CMS with these unpublished data and the analyses performed in the original report, including confidence intervals and Kaplan-Meier curve with log-rank statistics, for death from any cause assessed at the time of hospital discharge. A small increase in the number of deaths among treated patients still hospitalized at 28 days could nullify the survival advantage attributed to the use of Xigris™.

The study had a number of other important methodological limitations that also merit further consideration. Therefore, we are unable to conclude, based on the published data, that Xigris™ represents an advance that substantially improves, relative to technology previously available, treatment for Medicare beneficiaries. However, we are continuing our assessment and will announce our final determination in the final rule. If we subsequently determine that Xigris™ represents a substantial improvement, payment would likely be limited to a subpopulation of patients with severe sepsis, consistent with the FDA labeling and possible other restrictions.

Detailed bills were available for 604 of 705 patients in the United States in the PROWESS clinical trial (303 placebo patients and 301 treatment patients). In all, 83 hospitals submitted detailed bills. These data included an indicator whether the patient received the treatment or a placebo, total charges and standardized charges for the stay as well as for the biological, and the patients' APACHE II scores (an assessment of the risk of mortality based on acute physiology and chronic health evaluation). The FDA's approval letter (issued November 21, 2001) stated “drotrecogin alfa (activated) is indicated for the reduction of mortality in adult patients with severe sepsis (sepsis associated with acute organ dysfunction) who have a high risk of death (e.g., as determined by APACHE II).”

Of the 604 cases with detailed billing data, 274 were patients age 65 or older. The average total charge for these 274 cases, including the average standardized charge for the biological, was $86,184 (adjusted for inflation using the applicable hospital market baskets, as patients were enrolled in the trial from July 1998 through June 2000). The inflated average standardized charge of the biological only for these cases was $15,562.

Lilly also submitted detailed ICD-9-CM diagnosis and procedure codes for a subset of 157 of the 604 U.S. patients with billing data from the PROWESS trial. These data were not requested as part of the trial, but were sent in separately. Of these 157 patients, 82 were over 65 years of age. These 82 patients grouped into 23 DRGs. Approximately 75 percent of these 82 cases were in 5 DRGs: 29 percent were in DRG 475 (Respiratory System Diagnosis with Ventilator Support); 17 percent were in DRG 483 (Tracheostomy Except for Face, Mouth, and Neck Diagnoses); 15 percent were in DRG 416 (Septicemia Age >17); 7 percent were in DRG 415 (OR Procedure for Infectious and Parasitic Diseases); and 5 percent were in DRG 148 (Major Small and Large Bowel Procedures With CC).

Using the methodology described in the September 7, 2001 final rule (66 FR 46918), we calculated a case-weighted threshold based on the distribution of these 82 cases across 23 DRGs. In order to qualify for new technology payments based on these DRGs, the threshold would be $82,882 (compared to the average standardized charge of $86,184 noted above).

In the September 7, 2001 final rule, we stated that the data submitted must be of a sufficient sample size to demonstrate a significant likelihood that the sample mean approximates the true mean across all cases likely to receive the new technology. Using a standard statistical methodology for determining the needed (random) sample size based on the standard deviations of the DRGs identified in the trial as likely to include cases receiving XigrisTM, we have determined that a random sample of 274 cases can be reasonably expected to produce an estimate within $3,500 of the true mean.¹ Of course, the data submitted do not represent a random sample.

¹ The formula is n = 4σ²/β², where σ is the standard deviation of the population, and β is the bound on the error of the estimate (the range within which the sample means can reliably predict the population mean). See Statistics for Management and Economics, Fifth Edition, by Mendenhall, W., Reinmuth, J., Beaver, R., and Duhan, D.

The 274 case sample was for all U.S. patients over age 65 included in the PROWESS trial. In the September 7, 2001 final rule, we indicated our preference for using Medicare cases identifiable in our MedPAR database, although data from a trial without matching MedPAR data could be considered. We also indicated our intention to independently verify the data submitted.

According to Lilly, the patient consent agreements for the PROWESS trial did not provide for the collection and submission of data to CMS. Therefore, we have been unable to identify matching cases in our MedPAR database, or independently verify the data. Due to the passage of Public Law 106-554 in December 2000 and the publication of the final rule in September 2001, it is understandable that our data requirements in order to analyze applicants for new technology add-on payments were not accommodated in the design of the PROWESS trial. We will continue to work with Lilly to independently verify the data in the event it is determined that Xigris™ does represent a substantial clinical improvement.

In particular, we note that, even without the biological charges, the standardized mean charge for the cases submitted for analysis is well above the standardized case-weighted DRG mean ($70,623 for the PROWESS trial cases compared to $54,058 for all cases in the relevant DRGs). We are analyzing our MedPAR data to develop a cohort group of patients to assess the validity of the charges reported for the patients in the PROWESS trial and will report the result of our analysis in the final rule. We solicit comments on this and other approaches to verifying these data.

Cases where Xigris™ is administered will be identified by use of the new ICD-9-CM procedure code 00.11 (Infusion of drotrecogin alfa (activated)). According to Lilly, “(t)he net wholesale price for drotrecogin alfa (activated) is $210 for a 5-milligram vial and $840 for a 20-milligram vial. The average cost for a one-time 96-hour course of therapy for an average adult patient is $6,800 (24 ug/kg/hr for 96 hours for a 70 kg person).” Because code 00.11 does not identify the actual amount of the drug administered per patient, any additional payment would be based on the average cost per patient of $6,800. If this technology were to be approved for add-on payment under § 412.88, cases involving the administration of Xigris™ would be eligible for additional payments of up to $3,400 (50 percent of the average cost of the drug).

For purposes of budget neutrality, we need to estimate the additional payments that would be made under this provision during FY 2003. Lilly has estimated that, initially, 25,000 Medicare patients would receive drotrecogin alfa (activated). If the maximum $3,400 add-on payment is made for all 25,000 of these patients, the total amount that would be paid for these cases would be an additional $85 million. However, comparing the total standardized charges for the 274 patients age 65 or older, 56 percent had average standardized charges below the weighted average standardized charges for the 23 DRGs into which these cases were categorized. Therefore, assuming the costs for these cases would be below the payment received, these 56 percent of cases would not receive any additional payment. Therefore, for purposes of budget neutrality, we estimate the total payments likely to be made under this provision during FY 2003 for cases involving the administration of drotrecogin alfa (activated) would be $37.4 million (44 percent of $85 million).

b. Bone Morphogenetic Proteins (BMPs) for Spinal Fusions

BMPs have been isolated and shown to have the capacity to induce new bone formation. Using recombinant techniques, some BMPs (referred to as rhBMPs) can be produced in large quantities. This has cleared the way for their potential use in a variety of clinical applications such as in delayed unions and nonunions of fractured bones and spinal fusions. One such product, rhBMP-2, is developed for use instead of a bone graft with spinal fusions.

An application was submitted by Medtronic Sofamor Danek for the InFUSE™ Bone Graft/LT-CAGE™ Lumbar Tapered Fusion Device for approval as a new technology eligible for add-on payments. The product is applied through use of an absorbable collagen sponge and an interbody fusion device, which is then implanted at the fusion site. The patient undergoes a spinal fusion, and the product is placed at the fusion site to promote bone growth. This is done in place of the more traditional use of autogenous iliac crest bone graft.

In 1997, in a pilot study conducted under a FDA approved device exemption, 14 patients were enrolled at 4 investigational sites. Eleven patients received rhBMP-2, with 3 control patients. Radiographs and computed tomography scans at 6, 12, and 24 months after surgery showed that all 11 patients who received rhBMP-2 had solid fusions, whereas only 2 of the 3 patients who received autogeneous bone graft had solid fusions. Scores from the Oswestry Low Back Pain Disability Questionnaire showed that 6 of 11 patients treated with rhBMP-2 had a successful outcome at 3 months after surgery, compared with 0 of 3 control patients. After 6 months, the results had changed to 7 of 11 rhBMP-2 patients and 2 control patients with successful treatments; and at 12 months, 10 rhBMP-2 patients and 2 control patients were judged successful. The results were unchanged at 24 months. The trial results were presented in an article in the February 1, 2000 edition of SPINE (Bone, S., Zdeblick, T., et. al., “The Use of rhBMP-2 in Interbody Fusion Cages-Definitive Evidence of Osteoinduction in Humans: A Preliminary Report”), Vol. 25, No. 3, p. 376.

The above study was then expanded to involve 281 patients at 16 sites, with 143 patients in the rhBMP-2 group and 138 patients in the autogenous iliac crest bone graft group. In the rhBMP-2 group, 76.9 percent of the patients showed an improvement of at least 15 points in their disability scores at 12 months postoperatively. This compared favorably to 75 percent of patients in the control group. At 6 months following surgery, 97 percent of patients in the rhBMP-2 group showed evidence of interbody fusion, as compared to 95.8 percent in the control group. At 12 months, 96.9 percent of patients in the rhBMP-2 group were fused as compared to 92.5 percent in the control group. At this time, the results of this study are unpublished.

On January 10, 2002, the FDA issued an approvable letter for this technology. At this point, however, the technology has not been approved by the FDA for general use. Therefore, we are not proposing to approve this technology for add-on payments in this proposed rule. We discuss thoroughly the data submitted with the application below. However, if the FDA approves the product for general use prior to our issuance of the final rule by August 1, 2002, we will issue a determination whether this technology represents a substantial clinical improvement under the criteria outlined in the September 7, 2001 final rule.

Cost data were submitted for 88 patients participating in the followup study described above. This trial was a single-level, anterior lumbar interbody fusion clinical study. Of these 88 bills with cost data, the applicant calculated an average standardized charge for these single-level fusion cases of $33,757. According to the applicant, “it is anticipated that a large number, if not the majority, of cases using BMP technology will, in practice, be multi-level fusions”. The applicant reported the estimated hospital charges (based on general charging practices) to be $17,780 for each level. In order to account for the use of this technology in multilevel spinal fusions, the applicant assumed 47 percent of spinal fusions were multilevel (based on analysis of Medicare spinal fusion cases). Increasing the average standardized charge for the cases in the trial by $17,780, the applicant calculated a weighted average standardized charge (53 percent single-level and 47 percent multilevel) of $45,556.

Of these 88 cases, 11 were assigned to DRG 497 (Spinal Fusion Except Cervical With CC) and 77 were assigned to DRG 498 (Spinal Fusion Except Cervical Without CC). In order to qualify for new technology payments based on these DRGs, the threshold would be $37,815.

The applicant has submitted data that estimate between 2,300 and 4,600 Medicare spinal fusion procedures involving this technology in FY 2003. The cost of the technology is $3,900 per level. For approximately 45 percent of spinal fusion involving multilevel fusions, the weighted cost of the technology is $5,686, resulting in a maximum add-on payment amount of $2,843. In reference to the utilization estimates above, the total amount for these cases if each case qualified for a new technology payment would be between $6.5 million and $13.0 million.

c. Zyvox™

Zyvox™ is the first antibiotic in the oxazolidinone class and is widely used by hospitals in the United States and other countries against the medically significant gram-positive bacteria, including those that are resistant to other therapies. Gram-positive bacterial infections have become increasingly prevalent in recent years, most commonly implicated in infections in the lower respiratory tract, skin and soft tissue, bone and bloodstream, and in meningitis. Significant morbidity and mortality trends are associated with such pathogens. Epinomics Research, Inc., submitted the application on behalf of Pharmacia Corporation (Pharmacia), which markets the drug.

The FDA approved Zyvox™ on April 18, 2000, for the treatment of serious infections caused by antibiotic-resistant bacteria. The applicant contends that this qualifies Zyvox™ for approval within the 2-year to 3-year period referenced at § 412.87(b)(2). Furthermore, the applicant notes that the approval of the new ICD-9-CM code 00.14 (Injection or infusion of oxazolidinone class of antibiotics) effective October 1, 2002, will permit a more precise identification of these cases. However, as noted previously, technology will no longer be considered new after the costs of the technology are reflected in the DRG weights. Because the costs of Zyvox™ are currently reflected in the DRG weights, Zyvox™ does not meet our criterion that a medical service or technology be “new”. The FY 2001 MedPAR data used to calculate the proposed DRG weights for FY 2003 include cases where Zyvox™ was administered. The application itself noted that the use of Zyvox™ is widespread. Therefore, even though the existing code, 99.21 (Injection of antibiotic) is a general code used for the administration of various antibiotics including Zyvox™, and does not separately identify the administration of Zyvox™ as will be possible with the new code 00.14, the charges associated with these cases are reflected in the proposed FY 2003 DRG weights.

As stated above, we note that the applicant itself points out that Zyvox™ is widely used currently by hospitals. In its 4th quarter 2001 earnings report, Pharmacia reports total sales in the United States of $97 million, which is an increase of 105 percent over the previous year. This would indicate expanding access to the drug.

We would point out that, in response to a comment that technologies should qualify as “new” beginning with the assignment of an appropriate tracking code, we clarified in the September 7, 2001 final rule that we would not consider technologies that have been on the market for more than 2 or 3 years to be “new” on the basis that a more precise ICD-9-CM procedure code has been created (66 FR 46914). However, although such technologies would not qualify for add-on payments under this provision, we did indicate that we would evaluate whether the existing DRG assignments of the technology are appropriate.

For example, currently the administration of Zyvox™ does not affect the DRG to which a case is assigned. In its application for add-on payments, Epinomics provided CMS data that included clinical trials as well as data from a sample that spanned MedPAR files from FY 2000 through FY 2002. For its sample study, Epinomics obtained patient records from 70 hospitals that used Zyvox™ treatment on 832 Medicare patients. The cases were distributed across 151 DRGs. Epinomics calculated that the mean standardized charge for these 485 cases was $74,174. The case-weighted mean standardized charge for all cases in these DRGs would be $33,740 (based on the distribution of Zyvox™ cases across the 151 DRGs).

The unit price for the drug varies from approximately $30 for a 100 milliliter bag (200 milligram linezolid) to approximately $1,350 for 600 milligram tablets (unit doses of 30 tablets). Nevertheless, it appears the high average charges associated with patients receiving the drug are not directly attributable to the administration of Zyvox™. Therefore, we are not proposing any changes to the DRG assignment of these cases at this time. To the extent these cases are more expensive due to the severity of illness of the patients being treated, the current outlier policy will offset any extraordinarily high costs incurred.

d. Renew™ Radio Frequency Spinal Cord Stimulation Therapy

An application was submitted by Advanced Neuromodulation Systems (ANS) for the Renew™ Spinal Cord Stimulation Therapy for approval as a new technology eligible for add-on payments. ANS is a medical device company that deals with management of chronic pain that is severe, persistent, and unresponsive to drugs or surgery. Spinal cord stimulation (SCS) offers a treatment alternative to expensive ongoing comprehensive care. Renew™ SCS was introduced in July 1999 as a device for the treatment of chronic intractable pain of the trunk and limbs.

According to the applicant:

“SCS is a reversible method of pain control that works well for certain types of chronic intractable pain. SCS requires a surgical procedure to implant a receiver and leads. These implanted devices generate electrical stimulation that interrupts pain signals to the brain. SCS is considered to be a treatment of last resort, and is usually undertaken only when first and second-line therapies for chronic pain fail to provide adequate relief. SCS uses low-intensity electrical impulses to trigger nerve fibers selectively along the spinal cord. The stimulation of these nerve fibers diminishes or blocks the intensity of the pain message being transmitted to the brain. SCS replaces areas of intense pain with a more pleasant sensation * * *,” masking the pain that is normally present.

Prior to Renew™, SCS systems offered few technical capabilities for treating complex chronic pain patients who suffered with pain that spanned noncontiguous areas (multi-focal) or that varied in intensity over the painful area. The Renew™ system features a multiplex output mode that controls separate stimulation programs to allow outputs of varying frequencies to be used at the same time. According to ANS, “The significance of this technology is that it is now possible to multiplex (link and cycle) up to 8 programs to provide pain relieving paresthesia overlap of anatomical regions that are not contiguous or that cannot be captured by a single program.”

The Renew™ technology also allows the concomitant use of separate programs for patients who require different power settings for different areas that have pain. With this technology, separate programs can be programmed from the same unit, with electrical output parameters customized for each painful region. ANS contends that the clinical significance of this technology is that patients who find satisfactory pain relief will require fewer alternative treatments to treat unrelieved pain.

The ANS application specifically requests add-on payments for the costs of the Radio Frequency System (RF System). This system only requires one surgical placement and does not require additional surgeries to replace batteries as do other internal SCS systems. ANS estimates that there are 2,900 RF Systems implanted annually; only 10 percent are in the inpatient setting. ANS is the only company that offers a 16-channel/electrode system.

ANS provided the 2001 hospital acquisition cost for ANS Renew™ 8 and 16 Channel/Electrode RF SCS Systems as follows:

| ANS 2001 List Price
8 Channel/Electrode System:
One Lead (8 Electrode) | $2,750
One Extension (8 Electrode) | 695
Receiver (8 Channel) | 4,995
Transmitter (8 Channel) | 4,995
Total System | 13,435
16 Channel/Electrode System: |
Two Leads (16 Electrodes) | 5,500
Two Extensions (16 Electrodes) | 1,390
Receiver (16 Channel) | 7,295
Transmitter (16 Channel) | 7,295
Total System | 21,480

Currently, implanting the ANS 8 or 16 Channel/Electrode SCS System falls into DRG 4 (Spinal Procedures) under ICD-9-CM procedure code, 03.93 (Insertion or replacement, spinal neurostimulation). According to the September 7, 2001 Federal Register, the threshold to qualify for additional new technology payments for services classified to DRG 4 would be $38,242 (based on adding the geometric mean and the standard deviation of standardized charges) (66 FR 46922).

Relative to hospital invoice information, ANS provided the following estimates:

“* * * 90% of the U.S. hospital cost-to-charge ratios fall between .24 and .69, and 75% fall between .29 and .58. The median is .41. This median costs-to-charge ratio equates to an average hospital markup of 144%. If you apply the average hospital markup of 144% to the device acquisition cost plus the estimated facility cost, the result is an estimated hospital invoice for the SCS implant procedure of $40,101.00, for the 8 Channel/Electrode System and $59,731.00 for the 16 Channel/Electrode System.”

In support of its application, ANS provided detailed bills for 12 patients. Of the 12 cases with detailed billing data, 3 patients were age 65 or older. The average total charge for these 3 cases, including the average standardized charge for operating room costs, was $42,820.

As noted previously, technology will no longer be considered new after the costs of the technology are reflected in the DRG weights. Because the Renew™ RF System was introduced in July 1999, the FY 2001 MedPAR data used to calculate the proposed DRG weights for FY 2003 includes any Medicare cases that involved the implantation of the Renew™ RF System. The charges associated with these cases are reflected in the proposed FY 2003 DRG weights. Therefore, the Renew™ RF System is not considered “new” under our criteria. However, we will continue to monitor these cases in DRG 4 to determine whether this is the most appropriate DRG assignment.

III. Proposed Changes to the Hospital Wage Index

A. Background

Section 1886(d)(3)(E) of the Act requires that, as part of the methodology for determining prospective payments to hospitals, the Secretary must adjust the standardized amounts “for area differences in hospital wage levels by a factor (established by the Secretary) reflecting the relative hospital wage level in the geographic area of the hospital compared to the national average hospital wage level.” In accordance with the broad discretion conferred under the Act, we currently define hospital labor market areas based on the definitions of Metropolitan Statistical Areas (MSAs), Primary MSAs (PMSAs), and New England County Metropolitan Areas (NECMAs) issued by the Office of Management and Budget (OMB). OMB also designates Consolidated MSAs (CMSAs). A CMSA is a metropolitan area with a population of one million or more, comprising two or more PMSAs (identified by their separate economic and social character). For purposes of the hospital wage index, we use the PMSAs rather than CMSAs since they allow a more precise breakdown of labor costs. If a metropolitan area is not designated as part of a PMSA, we use the applicable MSA. Rural areas are areas outside a designated MSA, PMSA, or NECMA. For purposes of the wage index, we combine all of the rural counties in a State to calculate a rural wage index for that State.

We note that, effective April 1, 1990, the term Metropolitan Area (MA) replaced the term MSA (which had been used since June 30, 1983) to describe the set of metropolitan areas consisting of MSAs, PMSAs, and CMSAs. The terminology was changed by OMB in the March 30, 1990 Federal Register to distinguish between the individual metropolitan areas known as MSAs and the set of all metropolitan areas (MSAs, PMSAs, and CMSAs) (55 FR 12154). For purposes of the prospective payment system, we will continue to refer to these areas as MSAs.

Under section 1886(d)(8)(B) of the Act, hospitals in certain rural counties adjacent to one or more MSAs are considered to be located in one of the adjacent MSAs if certain standards are met. Under section 1886(d)(10) of the Act, the Medicare Geographic Classification Review Board (MGCRB) considers applications by hospitals for geographic reclassification from a rural area to a MSA, one rural area to another rural area, or from one MSA to another MSA, for purposes of payment under the acute care hospital inpatient prospective payment system.

In a December 27, 2000 notice published in the Federal Register (65 FR 82228), OMB issued its revised standards for defining MSAs. In that notice, OMB indicated that it plans to announce in calendar year 2003 definitions of MSAs based on the new standards and the Census 2000 data. We will evaluate the new area designations and their possible effects on the Medicare wage index, as well as other provider payment implications. Although the final construct of the redefined MSAs will not be known until 2003, we intend to work closely with OMB to begin to assess the potential ramifications of these changes.

Beginning October 1, 1993, section 1886(d)(3)(E) of the Act requires that we update the wage index annually. Furthermore, this section provides that the Secretary base the update on a survey of wages and wage-related costs of short-term, acute care hospitals. The survey should measure, to the extent feasible, the earnings and paid hours of employment by occupational category, and must exclude the wages and wage-related costs incurred in furnishing skilled nursing services. As discussed below in section III.F. of this preamble, we also take into account the geographic reclassification of hospitals in accordance with sections 1886(d)(8)(B) and 1886(d)(10) of the Act when calculating the wage index.

Section 304(c) of Public Law 106-554 amended section 1886(d)(3)(E) of the Act to provide for the collection of data every 3 years on the occupational mix of employees for each short-term, acute care hospital participating in the Medicare program, in order to construct an occupational mix adjustment to the wage index. The initial collection of these data must be completed by September 30, 2003, for application beginning October 1, 2004 (the FY 2005 wage index).

In the May 4, 2001 proposed rule (66 FR 22674), we suggested possible occupational categories from the Occupational Employment Statistics (OES) survey conducted by the Bureau of Labor Statistics. In response to comments on the proposed rule, we agreed to work with the health care industry to develop a workable data collection tool. After we develop a method that appropriately balances the need to collect accurate and reliable data with the need to collect data that hospitals can be reasonably expected to have available, we will issue instructions as to the type of data to be collected, in advance of actually requiring hospitals to begin providing the data.

B. Proposed FY 2003 Wage Index Update

The proposed FY 2003 wage index values in section V. of the Addendum to this proposed rule (effective for hospital discharges occurring on or after October 1, 2002 and before October 1, 2003) are based on the data collected from the Medicare cost reports submitted by hospitals for cost reporting periods beginning in FY 1999 (the FY 2002 wage index was based on FY 1998 wage data).

The proposed FY 2003 wage index includes the following categories of data associated with costs paid under the hospital inpatient prospective payment system (as well as outpatient costs), which were also included in the FY 2002 wage index:

• Salaries and hours from short-term, acute care hospitals.

• Home office costs and hours.

• Certain contract labor costs and hours.

• Wage-related costs.

Consistent with the wage index methodology for FY 2002, the proposed wage index for FY 2003 also continues to exclude the direct and overhead salaries and hours for services such as skilled nursing facility (SNF) services, home health services, and other subprovider components that are not paid under the hospital inpatient prospective payment system.

We calculate a separate Puerto Rico-specific wage index and apply it to the Puerto Rico standardized amount. (See 62 FR 45984 and 46041.) This wage index is based solely on Puerto Rico's data. Finally, section 4410 of Public Law 105-33 provides that, for discharges on or after October 1, 1997, the area wage index applicable to any hospital that is not located in a rural area may not be less than the area wage index applicable to hospitals located in rural areas in that State.

C. FY 2003 Wage Index Proposal

1. Removal of Wage Costs and Hours Related to Graduate Medical Education (GME) and Certified Registered Nurse Anesthetists (CRNAs)

Because the hospital wage index is used to adjust payments to hospitals under the acute care hospital inpatient prospective payment system, the wage index should, to the extent possible, reflect the wage costs associated with those cost centers and units paid under the hospital inpatient prospective payment system. Costs related to graduate medical education (GME) (teaching physicians and residents) and certified registered nurse anesthetists (CRNAs) are paid by Medicare separately from the hospital inpatient prospective payment system. In 1998, the AHA convened a workgroup to develop a consensus recommendation on this issue. The workgroup, which consisted of representatives from national and State hospital associations, recommended that costs related to GME and CRNAs be phased out of the wage index calculation over a 5-year period. Based upon our analysis of hospitals' FY 1996 wage data, and consistent with the AHA workgroup's recommendation, we specified in the July 30, 1999 final rule (64 FR 41505) that we would phase out these costs from the calculation of the wage index over a 5-year period, beginning in FY 2000.

FY 2003 would be the fourth year of the phaseout. Therefore, the wage index calculation for FY 2003 would blend 20 percent of a wage index with GME and CRNA costs included and 80 percent of a wage index with GME and CRNA costs removed. FY 2004 would begin the calculation with 100 percent of the GME and CRNA costs removed. However, we are proposing to remove 100 percent of GME and CRNA costs from the FY 2003 wage index, as discussed below.

We have analyzed the FY 2003 wage index both with 100 percent of GME and CRNA costs removed and with 80 percent of these costs removed. We found that the majority of labor market areas, both rural and urban, would benefit by the removal of all of these costs (298 out of 373). Only two rural labor market areas would be negatively impacted by this change (Pennsylvania by −0.01 percent, and New Hampshire by −0.12 percent). We note that, as part of its Report to the Congress on Medicare in Rural America (June 2001), the MedPAC recommended fully implementing this phaseout during FY 2002. Similar to our findings, MedPAC found the effect of completely eliminating GME and CRNA costs “might not be negligible for some areas, but it would not be large in any case” (page 76). Of the urban labor market areas that would be negatively affected, the impacts on all but two areas are less than 0.50 percent, and the largest negative impact is 1.12 percent.

Because we believe removing GME and CRNA costs from the wage index calculation is appropriate, and the impact is generally positive and relatively small, we are proposing to remove 100 percent of GME and CRNA costs beginning with FY 2003 wage index.

2. Contract Labor for Indirect Patient Care Services

Our policy concerning the inclusion of contract labor costs for purposes of calculating the wage index has evolved with the increasing role of contract labor in meeting special personnel needs of many hospitals. In addition, improvements in the wage data have allowed us to more accurately identify contract labor costs and hours. As a result, effective with the FY 1994 wage index, we included the costs for direct patient care contract services in the wage index calculation, and with the FY 1999 wage index, we included the costs for certain management contract services. (The August 30, 1996 final rule (61 FR 46181) provided an in-depth discussion of the issues related to the inclusion of contract labor costs in the wage index calculation.) Further, the FY 1999 wage index included the costs for contract physician Part A services, and the FY 2002 wage index included the costs for contract pharmacy and laboratory services.

We continue to consider whether to expand our contract labor definition to include more types of contract services in the wage index. In particular, we have examined whether to include the costs for acquired dietary and housekeeping services, as many hospitals now provide these services through contracts. Costs for these services tend to be below the average wages for all hospital employees. Therefore, excluding the costs and hours for these services if they are provided under contract, while including them if the services are provided directly by the hospital, creates an incentive for hospitals to contract for these services in order to increase their average hourly wage for wage index purposes.

It has also been suggested that we expand our definition to include all contract services, including both direct and indirect patient care services, in order to more appropriately calculate relative hospital wage costs. Our goal is to ensure that our wage index policy continues to be responsive to the changing need for contract labor and allow those hospitals that must depend on contract labor to supply needed services to reflect those costs in their wage data. At the same time, we are concerned about hospitals' ability to provide documentation that sufficiently details contract costs and hours. The added overhead, supplies, and miscellaneous costs typically associated with contract labor may result in higher costs for contract labor compared to salaried labor. If these costs are not separately identifiable and removed, they may cause distortions in the wage index.

We agree that it may be appropriate to include indirect patient care contract labor costs in the wage index. However, in light of concerns about hospitals' ability to accurately document and report these costs, we believe the best approach is to assess and include these costs incrementally. Through incremental changes, we can better determine the impact that specific costs have on area wage index values. Also, by including these costs incrementally, hospitals and fiscal intermediaries are able to adjust to the additional documentation and review requirements associated with reporting the additional contract costs and hours.

In this proposed rule, we are proposing to begin collecting contract labor costs and hours for management services and the following overhead services: administrative and general, housekeeping, and dietary. We selected these three overhead services because they are provided at all hospitals, either directly or through contracts, and together they comprise about 60 percent of a hospital's overhead hours. In addition, consistent with our consideration of administrative and general services, we propose to collect costs and hours associated with contract management services that are not currently included on Worksheet S-3, Part II, Line 9 (that is, management services other than those of the chief executive officer, chief financial officer, chief operating officer, and nurse administrator).

We propose to revise the FY 2002 Medicare cost report (or the next available cost report) to provide for the separate reporting of contract management, administrative and general, housekeeping, and dietary costs and hours. After evaluating these data, we will determine the feasibility of adding these categories of contract labor to the wage index calculation.

D. Verification of Wage Data From the Medicare Cost Report

The data for the proposed FY 2003 wage index were obtained from Worksheet S-3, Parts II and III of the FY 1999 Medicare cost reports. The data file used to construct the wage index includes FY 1999 data submitted to us as of February 15, 2002. As in past years, we performed an intensive review of the wage data, mostly through the use of edits designed to identify aberrant data.

We asked our fiscal intermediaries to revise or verify data elements that resulted in specific edit failures. Some unresolved data elements are included in the calculation of the proposed FY 2003 wage index, pending their resolution before calculation of the final FY 2003 wage index. We have instructed the intermediaries to complete their verification of questionable data elements and to transmit any changes to the wage data no later than April 5, 2002. We expect that all unresolved data elements will be resolved by that date. The revised data will be reflected in the final rule.

Also, as part of our editing process, we removed data for 96 hospitals that failed edits. For 6 of these hospitals, we were unable to obtain sufficient documentation to verify or revise the data because the hospitals are no longer participating in the Medicare program, are under new ownership and the data cannot be verified, or are in bankruptcy status. We identified 90 hospitals with incomplete or inaccurate data resulting in zero or negative average hourly wages. Therefore, they were removed from the calculation. The data for these hospitals will be included in the final wage index if we receive corrected data that pass our edits. As a result, the proposed FY 2003 wage index is calculated based on FY 1999 wage data for 4,718 hospitals.

E. Computation of the Proposed FY 2003 Wage Index

The method used to compute the proposed FY 2003 wage index follows.

Step 1—As noted above, we based the proposed FY 2003 wage index on wage data reported on the FY 1999 Medicare cost reports. We gathered data from each of the non-Federal, short-term, acute care hospitals for which data were reported on the Worksheet S-3, Parts II and III of the Medicare cost report for the hospital's cost reporting period beginning on or after October 1, 1998 and before October 1, 1999. In addition, we included data from some hospitals that had cost reporting periods beginning before October 1998 and reported a cost reporting period covering all of FY 1999. These data were included because no other data from these hospitals would be available for the cost reporting period described above, and because particular labor market areas might be affected due to the omission of these hospitals. However, we generally describe these wage data as FY 1999 data. We note that, if a hospital had more than one cost reporting period beginning during FY 1999 (for example, a hospital had two short cost reporting periods beginning on or after October 1, 1998 and before October 1, 1999), we included wage data from only one of the cost reporting periods, the longest, in the wage index calculation. If there was more than one cost reporting period and the periods were equal in length, we included the wage data from the latest period in the wage index calculation.

Step 2—Salaries—Beginning with the FY 2003 wage index, the method used to compute a hospital's average hourly wage excludes all GME and CRNA costs.

In calculating a hospital's average salaries plus wage-related costs, we subtracted from Line 1 (total salaries) the GME and CRNA costs reported on lines 2, 4.01, and 6, the Part B salaries reported on Lines 3 and 5, home office salaries reported on Line 7, and excluded salaries reported on Lines 8 and 8.01 (that is, direct salaries attributable to SNF services, home health services, and other subprovider components not subject to the acute care hospital inpatient prospective payment system). We also subtracted from Line 1 the salaries for which no hours were reported on Line 4. To determine total salaries plus wage-related costs, we added to the net hospital salaries the costs of contract labor for direct patient care, certain top management, pharmacy, laboratory, and nonteaching physician Part A services (Lines 9, 9.01, 9.02, and 10), home office salaries and wage-related costs reported by the hospital on Lines 11 and 12, and nonexcluded area wage-related costs (Lines 13, 14, and 18).

We note that contract labor and home office salaries for which no corresponding hours are reported were not included. In addition, wage-related costs for nonteaching physician Part A employees (Line 18) are excluded if no corresponding salaries are reported for those employees on Line 4.

Step 3—Hours—With the exception of wage-related costs, for which there are no associated hours, we computed total hours using the same methods as described for salaries in Step 2.

Step 4—For each hospital reporting both total overhead salaries and total overhead hours greater than zero, we then allocated overhead costs to areas of the hospital excluded from the wage index calculation. First, we determined the ratio of excluded area hours (sum of Lines 8 and 8.01 of Worksheet S-3, Part II) to revised total hours (Line 1 minus the sum of Part II, Lines 2, 3, 4.01, 5, 6, 7, and Part III, Line 13 of Worksheet S-3). We then computed the amounts of overhead salaries and hours to be allocated to excluded areas by multiplying the above ratio by the total overhead salaries and hours reported on Line 13 of Worksheet S-3, Part III. Next, we computed the amounts of overhead wage-related costs to be allocated to excluded areas using three steps: (1) we determined the ratio of overhead hours (Part III, Line 13) to revised hours (Line 1 minus the sum of Lines 2, 3, 4.01, 5, 6, and 7); (2) we computed overhead wage-related costs by multiplying the overhead hours ratio by wage-related costs reported on Part II, Lines 13, 14, and 18; and (3) we multiplied the computed overhead wage-related costs by the above excluded area hours ratio. Finally, we subtracted the computed overhead salaries, wage-related costs, and hours associated with excluded areas from the total salaries (plus wage-related costs) and hours derived in Steps 2 and 3.

Step 5—For each hospital, we adjusted the total salaries plus wage-related costs to a common period to determine total adjusted salaries plus wage-related costs. To make the wage adjustment, we estimated the percentage change in the employment cost index (ECI) for compensation for each 30-day increment from October 14, 1998 through April 15, 2000 for private industry hospital workers from the Bureau of Labor Statistics' Compensation and Working Conditions. We use the ECI because it reflects the price increase associated with total compensation (salaries plus fringes) rather than just the increase in salaries. In addition, the ECI includes managers as well as other hospital workers. This methodology to compute the monthly update factors uses actual quarterly ECI data and assures that the update factors match the actual quarterly and annual percent changes. The factors used to adjust the hospital's data were based on the midpoint of the cost reporting period, as indicated below.

Midpoint of Cost Reporting Period
After | Before | Adjustment factor
10/14/98 | 11/15/98 | 1.04550
11/14/98 | 12/15/98 | 1.04325
12/14/98 | 01/15/99 | 1.04111
01/14/99 | 02/15/99 | 1.03880
02/14/99 | 03/15/99 | 1.03632
03/14/99 | 04/15/99 | 1.03369
04/14/99 | 05/15/99 | 1.03092
05/14/99 | 06/15/99 | 1.02801
06/14/99 | 07/15/99 | 1.02509
07/14/99 | 08/15/99 | 1.02230
08/14/99 | 09/15/99 | 1.01962
09/14/99 | 10/15/99 | 1.01687
10/14/99 | 11/15/99 | 1.01385
11/14/99 | 12/15/99 | 1.01056
12/14/99 | 01/15/2000 | 1.00710
01/14/2000 | 02/15/2000 | 1.00358
02/14/2000 | 03/15/2000 | 1.00000
03/14/2000 | 04/15/2000 | 0.99638

For example, the midpoint of a cost reporting period beginning January 1, 1999 and ending December 31, 1999 is June 30, 1999. An adjustment factor of 1.02509 would be applied to the wages of a hospital with such a cost reporting period. In addition, for the data for any cost reporting period that began in FY 1999 and covered a period of less than 360 days or more than 370 days, we annualized the data to reflect a 1-year cost report. Annualization is accomplished by dividing the data by the number of days in the cost report and then multiplying the results by 365.

Step 6—Each hospital was assigned to its appropriate urban or rural labor market area before any reclassifications under section 1886(d)(8)(B) or section 1886(d)(10) of the Act. Within each urban or rural labor market area, we added the total adjusted salaries plus wage-related costs obtained in Step 5 for all hospitals in that area to determine the total adjusted salaries plus wage-related costs for the labor market area.

Step 7—We divided the total adjusted salaries plus wage-related costs obtained under both methods in Step 6 by the sum of the corresponding total hours (from Step 4) for all hospitals in each labor market area to determine an average hourly wage for the area.

Step 8—We added the total adjusted salaries plus wage-related costs obtained in Step 5 for all hospitals in the nation and then divided the sum by the national sum of total hours from Step 4 to arrive at a national average hourly wage. Using the data as described above, the national average hourly wage is $22.9949.

Step 9—For each urban or rural labor market area, we calculated the hospital wage index value by dividing the area average hourly wage obtained in Step 7 by the national average hourly wage computed in Step 8.

Step 10—Following the process set forth above, we developed a separate Puerto Rico-specific wage index for purposes of adjusting the Puerto Rico standardized amounts. (The national Puerto Rico standardized amount is adjusted by a wage index calculated for all Puerto Rico labor market areas based on the national average hourly wage as described above.) We added the total adjusted salaries plus wage-related costs (as calculated in Step 5) for all hospitals in Puerto Rico and divided the sum by the total hours for Puerto Rico (as calculated in Step 4) to arrive at an overall average hourly wage of $10.8935 for Puerto Rico. For each labor market area in Puerto Rico, we calculated the Puerto Rico-specific wage index value by dividing the area average hourly wage (as calculated in Step 7) by the overall Puerto Rico average hourly wage.

Step 11—Section 4410 of Public Law 105-33 provides that, for discharges on or after October 1, 1997, the area wage index applicable to any hospital that is located in an urban area of a State may not be less than the area wage index applicable to hospitals located in rural areas in that State. Furthermore, this wage index floor is to be implemented in such a manner as to ensure that aggregate prospective payment system payments are not greater or less than those that would have been made in the year if this section did not apply. For FY 2003, this change affects 163 hospitals in 40 MSAs. The MSAs affected by this provision are identified by a footnote in Table 4A in the Addendum of this proposed rule.

F. Revisions to the Wage Index Based on Hospital Redesignation

1. General

Under section 1886(d)(10) of the Act, the Medicare Geographic Classification Review Board (MGCRB) considers applications by hospitals for geographic reclassification for purposes of payment under the prospective payment system. Hospitals can elect to reclassify for the wage index or the standardized amount, or both, and as individual hospitals or as rural groups. Generally, hospitals must be proximate to the labor market area to which they are seeking reclassification and must demonstrate characteristics similar to hospitals located in that area. Hospitals must apply for reclassification to the MGCRB, which issues its decisions by the end of February for reclassification to become effective for the following fiscal year (beginning October 1). The regulations applicable to reclassifications by the MGCRB are in §§ 412.230 through 412.280.

Section 1886(d)(10)(D)(v) of the Act provides that, beginning with FY 2001, a MGCRB decision on a hospital reclassification for purposes of the wage index is effective for 3 fiscal years, unless the hospital elects to terminate the reclassification. Section 1886(d)(10)(D)(vi) of the Act provides that the MGCRB must use the 3 most recent years' average hourly wage data in evaluating a hospital's reclassification application for FY 2003 and any succeeding fiscal year.

Section 304(b) of Public Law 106-554 provides that, by October 1, 2001, the Secretary must establish a mechanism under which a statewide entity may apply to have all of the geographic areas in the State treated as a single geographic area for purposes of computing and applying a single wage index, for reclassifications beginning in FY 2003.

Beginning October 1, 1988, section 1886(d)(8)(B) of the Act permits a hospital located in a rural county adjacent to one or more urban areas to be designated as being located in the MSA to which the greatest number of workers in the county commute, if the rural county would otherwise be considered part of an urban area under the standards published in the Federal Register on January 3, 1980 (45 FR 956) for designating MSAs (and for designating NECMAs), and if the commuting rates used in determining outlying counties (or, for New England, similar recognized area) were determined on the basis of the aggregate number of resident workers who commute to (and, if applicable under the standards, from) the central county or counties of all contiguous MSAs (or NECMAs). Hospitals that met the criteria using the January 3, 1980 version of these OMB standards were deemed urban for purposes of the standardized amounts and for purposes of assigning the wage index.

Section 402 of Public Law 106-113 provided that, for FYs 2001 and 2002, hospitals could elect whether to apply standards developed by OMB in 1980 or 1990 in order to qualify for redesignation under section 1886(d)(8)(B) of the Act. However, we are proposing that, beginning with FY 2003, redesignation under section 1886(d)(8)(B) of the Act will be based on the standards published in the Federal Register by the Director of OMB based on the most recent decennial census.

2. Effects of Reclassification

The methodology for determining the wage index values for redesignated hospitals is applied jointly to the hospitals located in those rural counties that were deemed urban under section 1886(d)(8)(B) of the Act and those hospitals that were reclassified as a result of the MGCRB decisions under section 1886(d)(10) of the Act. Section 1886(d)(8)(C) of the Act provides that the application of the wage index to redesignated hospitals is dependent on the hypothetical impact that the wage data from these hospitals would have on the wage index value for the area to which they have been redesignated. Therefore, as provided in section 1886(d)(8)(C) of the Act, the wage index values were determined by considering the following:

• If including the wage data for the redesignated hospitals would reduce the wage index value for the area to which the hospitals are redesignated by 1 percentage point or less, the area wage index value determined exclusive of the wage data for the redesignated hospitals applies to the redesignated hospitals.

• If including the wage data for the redesignated hospitals reduces the wage index value for the area to which the hospitals are redesignated by more than 1 percentage point, the area wage index determined inclusive of the wage data for the redesignated hospitals (the combined wage index value) applies to the redesignated hospitals.

• If including the wage data for the redesignated hospitals increases the wage index value for the area to which the hospitals are redesignated, both the area and the redesignated hospitals receive the combined wage index value.

• The wage index value for a redesignated urban or rural hospital cannot be reduced below the wage index value for the rural areas of the State in which the hospital is located.

• Rural areas whose wage index values would be reduced by excluding the wage data for hospitals that have been redesignated to another area continue to have their wage index values calculated as if no redesignation had occurred.

• Rural areas whose wage index values increase as a result of excluding the wage data for the hospitals that have been redesignated to another area have their wage index values calculated exclusive of the wage data of the redesignated hospitals.

• The wage data for a reclassified urban hospital is included in both the wage index calculation of the area to which the hospital is reclassified (subject to the rules described above) and the wage index calculation of the urban area where the hospital is physically located.

The proposed wage index values for FY 2003 are shown in Tables 4A, 4B, 4C, and 4F in the Addendum to this proposed rule. Hospitals that are redesignated should use the wage index values shown in Table 4C. Areas in Table 4C may have more than one wage index value because the wage index value for a redesignated urban or rural hospital cannot be reduced below the wage index value for the rural areas of the State in which the hospital is located.

Tables 3A and 3B in the Addendum of this proposed rule list the 3-year average hourly wage for each labor market area before the redesignation of hospitals, based on FY 1997, 1998, and 1999 wage data. Table 3A lists these data for urban areas and Table 3B lists these data for rural areas. In addition, Table 2 in the Addendum to this proposed rule includes the adjusted average hourly wage for each hospital from the FY 1997 and FY 1998 cost reporting periods, as well as the FY 1999 period used to calculate the FY 2003 wage index. The 3-year averages are calculated by dividing the sum of the dollars (adjusted to a common reporting period using the method described previously under computation of the proposed FY 2003 wage index) across all 3 years, by the sum of the hours. If a hospital is missing data for any of the previous years, its average hourly wage for the 3-year period is calculated based on the data available during that period.

At the time this proposed wage index was constructed, the MGCRB had completed its review of FY 2003 reclassification requests. We have included in this proposed rule a new Table 9, which shows hospitals that have been reclassified under either section 1886(d)(8)(B) or section 1886(d)(10)(D) of the Act. This table includes hospitals reclassified for FY 2003 by the MGCRB, as well as hospitals that were reclassified for the wage index in either FY 2001 or FY 2002 and are, therefore, in either the third or second year of their 3-year reclassification. There are 60 hospitals reclassified for the wage index beginning during FY 2003. In addition, 369 hospitals are reclassified for FY 2003 based on their 3-year reclassification that became effective during FY 2001, and 170 hospitals are reclassified for FY 2003 based on their 3-year reclassification that became effective during FY 2002. There are 124 hospitals included in the 3-year reclassification from FY 2001 that were reclassified in accordance with section 152(b) of Public Law 106-113. In addition, there are 38 rural hospitals redesignated to an urban area under section 1886(d)(8)(B) of the Act, and 14 urban hospitals that have been designated rural in accordance with section 1886(d)(8)(E) of the Act. Finally, there are 61 hospitals reclassified by the MGCRB for the standardized amount for FY 2003 (including one hospital that is also redesignated under section 1886(d)(8)(B) of the Act to a different MSA). The final number of reclassifications may vary because some MGCRB decisions are still under review by the Administrator and because some hospitals may withdraw their requests for reclassification.

Table 9 shows the various reclassifications and redesignations discussed above by individual hospital. The table does not reflect any hospital withdrawals from reclassifications approved by the MGCRB or decisions of the CMS Administrator. In the final rule to be published by August 1, 2002, we will include a similar table that will include all final reclassifications for FY 2003.

Under § 412.273, hospitals that have been reclassified by the MGCRB are permitted to withdraw their applications within 45 days of the publication of this proposed rule in the Federal Register. In addition, hospitals may terminate an existing 3-year reclassification within 45 days of the publication of this proposed rule. The request for withdrawal of an application for reclassification or termination of an existing 3-year reclassification that would be effective in FY 2003 must be received by the MGCRB by June 24, 2002. A hospital that withdraws its application or terminates an existing 3-year reclassification may not later request reinstatement of the MGCRB decision, except by canceling such a withdrawal or termination in a subsequent year (see § 412.273(b)(2)(i), and the proposed changes and clarifications to the cancellation procedures in section V. of this preamble).

Any changes to the wage index that result from withdrawals of requests for reclassification, wage index corrections, appeals, and the Administrator's review process will be incorporated into the wage index values published in the final rule following this proposed rule. The changes may affect not only the wage index value for specific geographic areas, but also the wage index value redesignated hospitals receive; that is, whether they receive the wage index value for the area to which they are redesignated, or a wage index value that includes the data for both the hospitals already in the area and the redesignated hospitals. Further, the wage index value for the area from which the hospitals are redesignated may be affected.

We are proposing limited changes and clarifications to the policies related to withdrawals, terminations, and cancellations of the 3-year wage index reclassifications. These are discussed in section V. of this preamble.

3. OMB Standards for Hospitals To Qualify for Redesignation

In the August 1, 2001 final rule, we implemented section 402 of Public Law 106-113. Section 402 provided that hospitals could elect whether to apply standards developed by OMB in 1980 or 1990 in order to qualify for redesignation under section 1886(d)(8)(B) of the Act. However, section 402 also states that, beginning with FY 2003, hospitals will be required to use the standards published in the Federal Register by the Director of OMB based on the most recent decennial census.

At this time, the 1990 standards are the most recent available. Although OMB is working to develop updated standards based on the 2000 census, that work is not yet completed. If the 2000 census population data become available prior to the preparation and publication of the final rule by August 1, 2002, CMS will work with the Population Distribution Branch within the Population Division of the U.S. Census Bureau to compile a list of hospitals that meet the established standards using the 2000 census population data. Otherwise, for purposes of redesignation for FY 2003 under section 1886(d)(8)(B) of the Act, qualifying hospitals must be located in counties meeting the 1990 standards.

In the August 1, 2001 final rule, we determined that three counties that qualified for redesignation under the 1980 standards qualified for redesignation to a different MSA using the 1990 standards (66 FR 39869). These counties, which will be redesignated to the MSA to which they qualify based on the 1990 standards, are as follows:

12
Rural county | 1980 MSA designation | 1990 MSA designation
Ionia, MI | Lansing-East Lansing, MI | Grand Rapids-Muskegon-Hollan, MI.
Caswell, NC | Danville, VA. | Greensboro-Winston Salem-High Point, NC.
Harnett, NC | Fayetteville, NC | Raleigh-Durham-Chapel Hill, NC.

Section 402 of Public Law 106-113 allowed hospitals to elect to use either the January 3, 1980 standards or March 30, 1990 standards for payments during FY 2001 and FY 2002. Several hospitals in counties that did not qualify under the January 3, 1980 standards elected to use those older standards so they would not receive the urban designation accorded them under section 402 because they would lose their special rural designation (that is, a sole community hospital (SCH) or Medicare-dependent hospital (MDH)). Under section 402, the option to make such an election was available only for FY 2001 and FY 2002. Effective for FY 2003, we are proposing that hospitals located in counties qualifying for redesignation under section 1886(d)(8)(B) of the Act based on the 1990 standards would be redesignated under this provision.

We also noted in the August 1, 2001 final rule that five rural counties no longer meet the qualifying criteria when we apply the 1990 OMB standards (66 FR 39870). These rural counties are as follows: Indian River, FL; Mason, IL; Owen, IN; Morrow, OH; and Lincoln, WV. Therefore, beginning FY 2003, hospitals in these counties will not be eligible for redesignation unless the counties again qualify when the standards based on the 2000 census data are available.

G. Requests for Wage Data Corrections

As stated in section II.D. of this preamble, the data used to construct the proposed wage index includes FY 1999 data submitted to CMS as of February 15, 2002. In a memorandum dated December 19, 2001, we instructed all Medicare intermediaries to inform the prospective payment hospitals they service of the availability of the wage data file and the process and timeframe for requesting revisions. The wage data file was made available on January 12, 2002, through the Internet at CMS's home page (http://www.hcfa.gov). We also instructed the intermediaries to advise hospitals of the availability of these data either through their representative hospital organizations or directly from CMS. Additional details on ordering this data file are discussed in section IX.A. of this preamble, “Requests for Data from the Public.”

In addition, Table 2 in the Addendum to this proposed rule contains each hospital's adjusted average hourly wage used to construct the proposed wage index values for the past 3 years, including the FY 1999 data used to construct the proposed FY 2003 wage index. It should be noted that the hospital average hourly wages shown in Table 2 only reflect changes made to a hospital's data and transmitted to CMS prior to February 15, 2002. Changes approved by a hospital's fiscal intermediary and forwarded to CMS by April 5, 2002, will be reflected in the final public use wage data file scheduled to be made available on or about May 10, 2002.

We believe hospitals have sufficient time to ensure the accuracy of their FY 1999 wage data. Moreover, the ultimate responsibility for accurately completing the cost report rests with the hospital, which must attest to the accuracy of the data at the time the cost report is filed. Hospitals should know what wage data were submitted on their cost reports. In addition, they are notified of any changes to their data as a result of their fiscal intermediary's review. However, if a hospital believed that its FY 1999 wage data were incorrectly reported, the hospital was to submit corrections along with complete, detailed supporting documentation to its intermediary by February 8, 2002. Hospitals were notified of this deadline, and of all other possible deadlines and requirements, through the December 19, 2001 memorandum referenced above.

After reviewing requested changes submitted by hospitals, fiscal intermediaries transmitted any revised cost reports to CMS and forwarded a copy of the revised Worksheet S-3, Parts II and III to the hospitals. In addition, fiscal intermediaries were to notify hospitals of the changes or the reasons that changes were not accepted. This procedure ensures that hospitals have every opportunity to verify the data that will be used to construct their wage index values. We believe that fiscal intermediaries are generally in the best position to make evaluations regarding the appropriateness of a particular cost and whether it should be included in the wage index data. However, if a hospital disagrees with the fiscal intermediary's resolution of a policy issue (whether a general category of cost is allowable in the wage data), the hospital may contact CMS in an effort to resolve policy disputes. We note that the April 5, 2002 deadline also applies to these requested changes. During this review, we will not consider issues such as the adequacy of a hospital's supporting documentation, as these types of issues should have been resolved earlier in the process.

These deadlines are necessary to allow sufficient time to review and process the data so that the final wage index calculation can be completed for development of the final FY 2003 prospective payment rates to be published by August 1, 2002.

We have created the process described above to resolve all substantive wage data correction disputes before we finalize the wage data for the FY 2003 payment rates. Accordingly, hospitals that do not meet the procedural deadlines set forth above will not be afforded a later opportunity to submit wage data corrections or to dispute the intermediary's decision with respect to requested changes. Specifically, our policy is that hospitals that do not meet the procedural deadlines set forth above will not be permitted to later challenge, before the Provider Reimbursement Review Board, CMS's failure to make a requested data revision (See W. A. Foote Memorial Hospital v. Shalala, No. 99-CV-75202-DT (E.D. Mich. 2001)).

The final wage data public use file will be released on approximately May 10, 2002. Hospitals should examine both Table 2 of this proposed rule and the May 2002 final public use wage data file (which reflects revisions to the data used to calculate the values in Table 2) to verify the data CMS is using to calculate the wage index.

As with the file made available in January 2002, CMS will make the final wage data file released in May 2002 available to hospital associations and the public on the Internet. However, the May 2002 public use file will be made available solely for the limited purpose of identifying any potential errors made by CMS or the fiscal intermediary in the entry of the final wage data that result from the correction process described above (with the February 8 deadline). Hospitals are encouraged to review their hospital wage data promptly after the release of the May 2002 file. Data presented at this time cannot be used by hospitals to initiate new wage data correction requests.

If, after reviewing the final file, a hospital believes that its wage data are incorrect due to a fiscal intermediary or CMS error in the entry or tabulation of the final wage data, it should send a letter to both its fiscal intermediary and CMS. The letters should outline why the hospital believes an error exists and provide all supporting information, including dates. These requests must be received by CMS and the fiscal intermediaries no later than June 7, 2002. Requests mailed to CMS should be sent to: Center for Medicare & Medicaid Services, Center for Health Plans and Providers, Attention: Wage Index Team, Division of Acute Care, C4-07-05, 7500 Security Boulevard, Baltimore, MD 21244-1850. Each request must also be sent to the hospital's fiscal intermediary. The intermediary will review requests upon receipt and contact CMS immediately to discuss its findings.

At this point in the process, that is, between release of the May 2002 wage index file and June 7, 2002, changes to the hospital wage data will only be made in those very limited situations involving an error by the intermediary or CMS that the hospital could not have known about before its review of the final wage data file. Specifically, neither the intermediary nor CMS will accept the following types of requests at this stage of the process:

• Requests for wage data corrections that were submitted too late to be included in the data transmitted to CMS by fiscal intermediaries on or before April 5, 2002.

• Requests for correction of errors that were not, but could have been, identified during the hospital's review of the January 2002 wage data file.

• Requests to revisit factual determinations or policy interpretations made by the intermediary or CMS during the wage data correction process.

Verified corrections to the wage index received timely (that is, by June 7, 2002) will be incorporated into the final wage index to be published by August 1, 2002 and effective October 1, 2002.

Again, we believe the wage data correction process described above provides hospitals with sufficient opportunity to bring errors in their wage data to the fiscal intermediaries' attention. Moreover, because hospitals will have access to the final wage data by May 2002, they will have the opportunity to detect any data entry or tabulation errors made by the fiscal intermediary or CMS before the development and publication of the FY 2003 wage index by August 1, 2002, and the implementation of the FY 2003 wage index on October 1, 2002. If hospitals avail themselves of this opportunity, the wage index implemented on October 1 should be accurate. Nevertheless, in the event that errors are identified after that date, we retain the right to make midyear changes to the wage index under very limited circumstances.

Specifically, in accordance with § 412.63(x)(2) of our existing regulations, we make midyear corrections to the wage index only in those limited circumstances in which a hospital can show (1) that the intermediary or CMS made an error in tabulating its data; and (2) that the hospital could not have known about the error, or did not have an opportunity to correct the error, before the beginning of FY 2003 (that is, by the June 7, 2002 deadline). As indicated earlier, since a hospital will have the opportunity to verify its data, and the fiscal intermediary will notify the hospital of any changes, we do not expect that midyear corrections would be necessary. However, if the correction of a data error changes the wage index value for an area, the revised wage index value is effective prospectively from the date the correction is approved.

This policy for applying prospective corrections to the wage index was originally set forth in the preamble to the January 3, 1984 final rule (49 FR 258) implementing the hospital inpatient prospective payment system. It has been our longstanding policy to make midyear corrections to the hospital wage data and adjust the wage index for the affected areas on a prospective basis.

Section 412.63(x)(3) states that revisions to the wage index resulting from midyear corrections to the wage index values are incorporated in the wage index values for other areas at the beginning of the next Federal fiscal year. Prior to October 1, 1993, the wage index was based on a wage data survey submitted by all hospitals (prior to that, the data came from the Bureau of Labor Statistics' hospital wage and employment data file). Beginning October 1, 1993, as required by section 1886(d)(3)(E) of the Act, we began updating the wage index data on an annual basis. Because the wage index has been updated annually since FY 1994, § 412.63(x)(3) is no longer necessary, and we are proposing to delete it. Similarly, § 412.63(x)(4) provides that the effect on program payments of midyear corrections to the wage index values is taken into account in establishing the standardized amounts for the following year. Again, the wage data are now updated annually. Therefore, § 412.63(x)(4) is no longer necessary, and we are proposing to delete it as well.

Finally, we are proposing to revise § 412.63(x)(2) to clarify that CMS will make a midyear correction to the wage index for an area only if a hospital can show that the intermediary or CMS made an error in tabulating the hospital's own data. That is, this provision is not available to a hospital seeking to revise another hospital's data that may be affecting the requesting hospital's wage index. As described above, the requesting hospital must show that it could not have known about the error, or that it did not have the opportunity to correct the error, before the beginning of the Federal fiscal year.

IV. Proposed Rebasing and Revision of the Hospital Market Baskets

A. Operating Costs

1. Background

Effective for cost reporting periods beginning on or after July 1, 1979, we developed and adopted a hospital input price index (that is, the hospital “market basket”) for operating costs. Although “market basket” technically describes the mix of goods and services used to produce hospital care, this term is also commonly used to denote the input price index (that is, cost category weights and price proxies combined) derived from that market basket. Accordingly, the term “market basket” as used in this document refers to the hospital input price index.

The percentage change in the market basket reflects the average change in the price of goods and services hospitals purchased in order to furnish inpatient care. We first used the market basket to adjust hospital cost limits by an amount that reflected the average increase in the prices of the goods and services used to furnish hospital inpatient care. This approach linked the increase in the cost limits to the efficient utilization of resources.

With the inception of the acute care hospital inpatient prospective payment system, the projected change in the hospital market basket has been the integral component of the update factor by which the prospective payment rates are updated every year. For FY 2003, payment rates will be updated by the projected increase in the hospital market basket minus 0.55 percentage points. A detailed explanation of the hospital market basket used to develop the prospective payment rates was published in the Federal Register on September 3, 1986 (51 FR 31461). We also refer the reader to the August 29, 1997 Federal Register (62 FR 45966) in which we discussed the previous rebasing of the hospital input price index.

The hospital market basket is a fixed-weight, Laspeyres-type price index that is constructed in three steps. First, a base period is selected and total base period expenditures are estimated for a set of mutually exclusive and exhaustive spending categories based upon type of expenditure. Then, the proportion of total operating costs that each category represents is determined. These proportions are called cost or expenditure weights. Second, each expenditure category is matched to an appropriate price or wage variable, referred to as a price proxy. These price proxies are price levels derived from publicly available statistical series and are published on a consistent schedule, preferably at least on a quarterly basis.

Finally, the expenditure weight for each category is multiplied by the level of the respective price proxy. The sum of these products (that is, the expenditure weights multiplied by the price levels) for all cost categories yields the composite index level of the market basket in a given year. Repeating this step for other years produces a series of market basket index levels over time. Dividing one index level by an earlier index level produces rates of growth in the input price index over that time.

The market basket is described as a fixed-weight index because it answers the question of how much it would cost, at another time, to purchase the same mix of goods and services that was purchased in the base period. The effects on total expenditures resulting from changes in the quantity or mix of goods and services (intensity) purchased subsequent to the base period are not measured. For example, shifting a traditionally inpatient type of care to an outpatient setting might affect the volume of inpatient goods and services purchased by the hospital, but would not be factored into the price change measured by a fixed weight hospital market basket. In this manner, the index measures only the pure price change. Only rebasing (changing the base year) the index would capture these quantity and intensity effects. Therefore, we rebase the market basket periodically so the cost weights reflect changes in the mix of goods and services that hospitals purchase (hospital inputs) in furnishing inpatient care. We last rebased the hospital market basket cost weights in 1997, effective for FY 1998 (62 FR 45993). This market basket, still used through FY 2002, reflects base year data from FY 1992 in the construction of the cost weights.

We note that there are separate market baskets for acute care hospital inpatient prospective payment system hospitals and excluded hospitals and hospital units. In addition, we are in the process of conducting the necessary research to determine if separate market baskets for the inpatient rehabilitation, long-term care, and psychiatric hospital prospective payment systems can be developed. However, for the purpose of this preamble, we are only discussing the market basket based on all excluded hospitals together.

2. Rebasing and Revising the Hospital Market Basket

The terms rebasing and revising, while often used interchangeably, actually denote different activities. Rebasing means moving the base year for the structure of costs of an input price index (for example, we are proposing to shift the base year cost structure from FY 1992 to FY 1997). Revising means changing data sources, cost categories, or price proxies used in the input price index.

We are proposing to use a rebased and revised hospital market basket in developing the FY 2003 update factor for the prospective payment rates. The new market basket would be rebased to reflect FY 1997, rather than FY 1992, cost data. The 1992-based market baskets contained expenditure data for hospitals from Medicare cost reports for cost reporting periods beginning on or after October 1, 1991, and before October 1, 1992. The 1997-based market baskets use data for hospitals from Medicare cost reports for cost reporting periods beginning on or after October 1, 1996, and before October 1, 1997. Fiscal year 1997 was selected as the new base year because 1997 is the most recent year for which relatively complete data are available. These include data from FY 1997 Medicare cost reports as well as 1997 data from two U.S. Department of Commerce publications: the Bureau of the Census' Business Expenditure Survey (BES) and the Bureau of Economic Analysis' Annual Input-Output Tables. In addition, preliminary analysis of FYs 1998 and 1999 Medicare cost report data showed little difference in cost shares from FY 1997 data.

In developing the proposed rebased and revised market baskets, we reviewed hospital operating expenditure data for the market basket cost categories in determining the cost weights. We relied primarily on Medicare hospital cost report data for the proposed rebasing. We prefer to use cost report data wherever possible because these are the cost data supplied directly from hospitals. Other data sources such as the BES and the input-output tables serve as secondary sources used to fill in where cost report data are not available or appear to be incomplete. Below we are providing a detailed discussion of the process for calculating cost share weights.

Cost category weights for the proposed FY 1997-based market baskets were developed in several stages. First, base weights for several of the categories (Wages and Salaries, Employee Benefits, Contract Labor, Pharmaceuticals and Blood and Blood Products) were derived from the FY 1997 Medicare cost reports for operating costs. The expenditures for these categories were calculated as a percentage of total operating costs from those hospitals covered under the inpatient hospital prospective payment system. These data were then edited to remove outliers and ensure that the hospital participated in the Medicare program and had Medicare costs. However, we were unable to measure only those operating costs attributable to the inpatient portion of the hospital, because many cost centers are utilized by both inpatients and outpatients in the hospital. Health Economics Research (HER), under contract with CMS, is currently in the process of researching the possibility of constructing a separate outpatient market basket for CMS' outpatient hospital prospective payment system. This research may provide some insight and guidance for separating inpatient and outpatient costs. We excluded hospital-based subprovider cost centers (for example, skilled nursing, nursing, hospice, psychiatric, rehabilitation, intermediate care/mental retardation, and other long-term care) as well as the portion of overhead and ancillary costs incurred by these subproviders.

Second, the weight for professional liability insurance was calculated using data from a survey conducted by ANASYS under contract to CMS. This survey, called the National Hospital Malpractice Insurance Survey (NHMIS), was conducted to estimate hospital malpractice insurance costs over time at the national level. A more detailed description of this survey is found later in this preamble.

Third, data from the 1997 Business Expenditure Survey (BES) was used to develop a weight for the utilities and telephone services categories. Like most other data sources, the BES includes data for all hospitals and does not break out data by payer. However, we believe the overall data from the BES does not produce results that are inconsistent with the prospective payment system hospitals, particularly at the detailed cost category level with which we are working.

Fourth, the sum of the weights for wages and salaries, employee benefits, contract labor, professional liability insurance, utilities, pharmaceuticals, blood and blood products, and telephone services was subtracted from other operating expenses to obtain a portion for all other expenses.

Finally, the remainder of the weight for all other expenses was divided into subcategories using relative cost shares from the 1997 Annual Input-Output Table for the hospital industry, produced by the Bureau of Economic Analysis, U.S. Department of Commerce. The 1997 Benchmark Input-Output data will be available, at the earliest, in late 2002, so we will be unable to incorporate these data in the final rule.

Below, we further describe the sources of the six main category weights and their subcategories in the proposed FY 1997-based market basket. We note the differences between the methodologies used to develop the FY 1992-based and the FY 1997-based market baskets.

• Wages and Salaries: The cost weight for the wages and salaries category was derived using Worksheet S-3 from the FY 1997 Medicare cost reports. Contract labor, which is also derived from the FY 1997 Medicare cost reports, is split between the wages and salaries and employee benefits cost categories, using the relationship for employed workers. An example of contract labor is registered nurses who are employed and paid by firms that contract for their work with the hospital. The wages and salaries category in the FY 1992-based market basket was developed from the FY 1992 Medicare cost reports. In addition, we used the 1992 Current Population Survey to break out more detailed occupational subcategories. These subcategories were not broken out for the proposed FY 1997-based market basket.

• Employee Benefits: The cost weight for the employee benefits category was derived from Worksheet S-3 of the FY 1997 Medicare cost reports. The employee benefits category in the FY 1992-based market basket was developed from FY 1992 Medicare cost reports and used the 1992 Current Population Survey to break out various occupational subcategories. These subcategories were not broken out for the proposed FY 1997-based market basket.

• Nonmedical Professional Fees: This category refers to various types of nonmedical professional fees such as legal, accounting, engineering and management and consulting fees. Management and consulting and legal fees make up the majority of professional fees in the hospital sector. The cost weight for the nonmedical professional fees category was derived from the Bureau of Economic Analysis Input-Output data for 1997. The FY 1992-based index used a combination of data from the American Hospital Association (AHA) and the Medicare cost reports to arrive at a weight. However, because the AHA survey data for professional fees are no longer published, we were unable to duplicate this method. Had we used the proposed methodology to calculate the FY 1992 nonmedical professional fees component, the proportion would have been similar to the FY 1997 share.

• Professional Liability Insurance: The proposed FY 1997-based market basket uses a weight for professional liability insurance derived from a survey conducted by ANASYS under contract to CMS (Contract Number 500-98-005). This survey attempted to estimate hospital malpractice insurance costs over time at the national level for years 1996 and 1997. The population universe of the survey was defined as all non-Federal short-term, acute care prospective payment system hospitals. A statistical sample of hospitals was drawn from this universe and data collected from those hospitals. This sample of hospitals was then matched to the appropriate cost report data so that a malpractice cost weight could be calculated. The questions used in the survey were based on a 1986 General Accounting Office (GAO) malpractice survey questionnaire that was modified so data could be collected to calculate a malpractice cost weight and the rate of change for a constant level of malpractice coverage at a national level. The 1997 proportion as calculated by ANASYS was compared to limited data for FYs 1998 and 1999 contained in the Medicare Health Care System Cost Report Information System (HCRIS). The percentages are relatively comparable. However, since this field was virtually incomplete in the FY 1997 cost report file, we were unable to use this cost report data.

In contrast, the FY 1992-based market basket professional liability insurance weight was determined using the cost report data for PPS-6 (cost reporting periods beginning in FY 1989), the last year these costs had to be treated separately from all other administrative and general costs, trended forward to FY 1992 based on the relative importance of malpractice costs found in the previous market basket.

• Utilities: For the proposed FY 1997-based market baskets, the cost weight for utilities was derived from the Bureau of the Census' Business Expenditures Survey. For the FY 1992-based market baskets, the cost weight for utilities was derived from the Bureau of the Census' Asset and Expenditures Survey. The Business Expenditure Survey replaced the Asset and Expenditure Survey and the categories and results are similar.

• All Other Products and Services: The all other products and services category includes the remainder of products and services that hospitals purchase in providing care. Products found in this category include: direct service food, contract service food, pharmaceuticals, blood and blood products, chemicals, medical instruments, photo supplies, rubber and plastics, paper products, apparel, machinery and equipment, and miscellaneous products. Services found in this category include: telephone, postage, other labor-intensive services, and other nonlabor-intensive services. Labor-intensive services include those services for which local labor markets would likely influence prices. A complete discussion of the labor-related share is presented later in this preamble. The shares for pharmaceuticals and blood and blood products were derived from the FY 1997 Medicare cost reports, while the share for telephone services was derived from the BES. Relative shares for the other subcategories were derived from the 1997 Bureau of Economic Analysis Annual Input-Output Table for the hospital industry.

The calculation of these subcategories involved calculating a residual from the Input/Output Table using categories similar to those not yet accounted for in the market basket. Subcategory weights were then calculated as a proportion of this residual and applied to the similar residual in the market basket.

• Blood and blood products: When the market basket was last revised and rebased to FY 1992, the component for blood services was discontinued because of the lack of appropriate data to determine a weight. The Medicare, Medicaid, and SCHIP Benefits Improvement and Protection Act of 2000 (BIPA) required that CMS consider the prices of blood and blood products purchased by hospitals and determine whether those prices are adequately reflected in the market basket. In accordance with this requirement, CMS has done considerable research to determine if a component for blood and blood products should be added to the market basket and, if so, how the weight should be determined. CMS has studied four alternative data sources to possibly determine a weight for blood in the market basket. If none of these data sources was deemed acceptable, we could conclude that a component for blood should not be reintroduced in the hospital market basket. In a December 2001 report by the MedPAC entitled “Blood Safety in Hospitals and Medicare Inpatient Payment,” MedPAC recommended that the market basket should explicitly account for the cost of blood and blood products by reintroducing a separate component for their prices.

The first alternative data source studied was using data from the Medicare cost reports. The cost reports have two cost centers where the costs of blood can be recorded: (1) whole blood and packed red blood cells (nonsalary); and (2) blood storing, processing, and transfusion (nonsalary). Although all prospective payment system hospitals submit a cost report, less than half of these hospitals reported data in either of the two blood cost centers. However, if we can determine that the hospitals reporting blood are representative of all prospective payment system hospitals, then a cost share can be computed using the cost reports.

The second alternative involves constructing weights from the Input-Output Table from the BEA, Department of Commerce. These data were used to construct the weight when the market basket was revised before FY 1992. Unfortunately, BEA stopped reporting blood separately in their Input-Output Table in 1987. One possible use of these data would be to calculate a weight by updating the prior weight by the relative price change for blood between the last data point available and 1997. However, by using this method, only the escalation in prices, not the changes in quantity or intensity of use of blood products, would be captured.

The third alternative was using data from the MedPAR files. This option was discussed in MedPAC's December 2001 report, and involves using claims data or data on hospital charges. In order to construct a weight for the market basket, the underlying costs of blood must be calculated from the claims data. An analysis of cost-to-charge ratios of hospitals can determine if this is feasible.

The final alternative data source is the Bureau of the Census' quinquennial Business Expenditure Survey and the Economic Census. A weight can be obtained indirectly by taking the ratio of receipts of nonprofit blood collectors to total operating expenses of hospitals. Some adjustments would be needed in order for the weight calculated in this way to be completely valid. In addition, this method assumes that all blood used by hospitals comes from nonprofit sources. However, in 1999, hospitals collected 7 percent of the donated units.

After a thorough analysis, CMS has determined that the Medicare cost reports, after minor adjustments, are the best option. The data from the Input-Output Table are not optimal because they are not current and would have to be aged using only price data, which do not reflect quantity and intensity changes over this period. Although the MedPAR data could be adjusted to compute a cost share, using claims data is not the preferred alternative. Census data would be an attractive option if the cost reports were not available.

The main weakness of the Medicare cost reports is the inconsistent reporting of hospitals in the two blood cost centers. In 1997, only 48.0 percent of all hospitals reported blood in one or both cost centers. However, these hospitals accounted for 62.2 percent of the operating costs of all hospitals. In order for the calculation of the blood cost share weight to be acceptable, the hospitals that reported blood would need to be adjusted to be representative of all hospitals, including those that did not report blood on the cost reports.

Because of the similarity of data in the two blood cost centers, the assumption was made that if a hospital reported blood in only one of the two cost centers, all of its blood costs were reported in that cost center. In the FY 1997 cost reports, of the hospitals that reported blood, 41.3 percent reported only in the blood cells cost center, 58.2 percent reported only in the blood storing cost center, and only 0.5 percent reported in both blood cost centers. To calculate a weight, the numerator was the summation of the data in both blood cost centers. The denominator was the summation of the operating costs of each hospital that reported blood in each cost center minus the operating costs of the few hospitals that reported blood in both cost centers to avoid double counting.

The blood cost share calculated from these data was then adjusted so that the hospitals reporting blood had the same characteristics of all other hospitals. Adjustments were necessary because the hospitals that reported blood were more likely to be urban and teaching hospitals than those hospitals that did not report blood. The adjustments made less than a 0.1 percent difference in the cost share.

The weight produced using the cost report for FY 1997 was 0.875 percent. We also looked at cost report data from FYs 1996 and 1998. The weights calculated in these years were similar to the FY 1997 weight. The calculation of the blood cost share using the alternative data sources cited above was similar to the results using the cost reports. Given the consistency with these other sources, the representativeness of our estimate, and the stability of the cost share, we are proposing to use the Medicare cost reports to determine a weight for blood and blood products in the proposed hospital market basket.

Overall, our work resulted in the identification of 23 separate cost categories that represent the rebased weights in the proposed rebased and revised hospital market basket. There is one more category than was included in the FY 1992-based market basket (FY 1992-based had 22). The differences between the weights of the major categories determined from the Medicare cost reports for the proposed FY 1997-based index and the previous FY 1992-based index are summarized in Table 1.

Table 1.—FY 1992-Based and Proposed FY 1997-Based Prospective Payment Hospital Operating Major Cost Categories and Weights as Determined From the Medicare Cost Reports
Expense categories | Proposed rebased FY 1997 hospital market basket | FY 1992-based hospital market basket
Wages and Salaries | 50.686 | 50.244
Employee Benefits | 10.970 | 11.146
Pharmaceuticals | 5.416 | 4.162
Blood and Blood Products | 0.875 |
All Other | 32.053 | 34.448
Total | 100.000 | 100.000

Table 2 sets forth all of the proposed market basket cost categories and weights. For comparison purposes, the 1992-based cost categories and weights are included in the table.

Table 2.—FY 1992-Based and Proposed FY 1997-Based Prospective Payment Hospital Operating Cost Categories and Weights
Expense categories | Proposed rebased FY 1997 hospital market basket weights | FY 1992-based hospital market basket weights
1. Compensation | 61.656 | 61.390
A. Wages and Salaries* | 50.686 | 50.244
B. Employee Benefits* | 10.970 | 11.146
2. Professional Fees* | 5.401 | 2.127
3. Utilities | 1.353 | 1.542
A. Fuel, Oil, and Gasoline | 0.284 | 0.369
B. Electricity | 0.833 | 0.927
C. Water and Sewerage | 0.236 | 0.246
4. Professional Liability Insurance | 0.840 | 1.189
5. All Other | 30.749 | 33.752
A. All Other Products | 19.537 | 24.825
(1.) Pharmaceuticals | 5.416 | 4.162
(2.) Direct Purchase Food | 1.370 | 2.314
(3.) Contract Service Food | 1.274 | 1.072
(4.) Chemicals | 2.604 | 3.666
(5.) Blood and Blood Products | 0.875 |
(6.) Medical Instruments | 2.192 | 3.080
(7.) Photographic Supplies | 0.204 | 0.391
(8.) Rubber and Plastics | 1.668 | 4.750
(9.) Paper Products | 1.355 | 2.078
(10.) Apparel | 0.583 | 0.869
(11.) Machinery and Equipment | 1.040 | 0.207
(12.) Miscellaneous Products | 0.956 | 2.236
B. All Other Services | 11.212 | 8.927
(1.) Telephone Services | 0.398 | 0.581
(2.) Postage | 0.857 | 0.272
(3.) All Other: Labor Intensive* | 5.438 | 7.277
(4.) All Other: Non-Labor Intensive | 4.519 | 0.796
Total | 100.000 | 100.000
* Labor-related.
Note: Due to rounding, weights may not sum to total.

3. Selection of Price Proxies

After computing the FY 1997 cost weights for the proposed rebased hospital market basket, it is necessary to select appropriate wage and price proxies to monitor the rate of change for each expenditure category. Most of the indicators are based on Bureau of Labor Statistics (BLS) data and are grouped into one of the following BLS categories:

• Producer Price Indexes—Producer Price Indexes (PPIs) measure price changes for goods sold in other than retail markets. PPIs are preferable price proxies for goods that hospitals purchase as inputs in producing their outputs because a PPI would better reflect the prices faced by hospitals. For example, we used the PPI for ethical (prescription) drugs, rather than the Consumer Price Index (CPI) for prescription drugs, because hospitals generally purchase drugs directly from the wholesaler. The PPIs that we use measure price change at the final stage of production.

• Consumer Price Indexes—Consumer Price Indexes (CPIs) measure change in the prices of final goods and services bought by the typical consumer. Because they may not represent the price faced by a producer, the consumer price indexes were used only if an appropriate PPI was not available, or if the expenditure was more similar to that of retail consumers in general rather than a purchase at the wholesale level. For example, the CPI for food purchased away from home was used as a proxy for contracted food services.

• Employment Cost Indexes—Employment Cost Indexes (ECIs) measure the rate of change in employee wage rates and employer costs for employee benefits per hour worked. These indexes are fixed-weight indexes and strictly measure the change in wage rates and employee benefits per hour. They are appropriately not affected by shifts in employment mix.

Table 3 sets forth the complete proposed hospital market basket including cost categories, weights, and price proxies. For comparison purposes, the respective FY 1992-based market basket price proxies are listed as well. A summary outlining the choice of the various proxies follows the table.

Table 3.—Proposed FY 1997-Based Prospective Payment Hospital Operating Cost Categories, and Weights, and FY 1992-Based and Proposed FY 1997-Based Price Proxies
Expense categories | Proposed rebased FY 1997 hospital market basket weights | Proposed rebased FY 1997 hospital market basket price proxy | FY 1992 hospital market basket price proxy
1. Compensation | 61.656 |
A. Wages and salaries * | 50.686 | ECI-wages and salaries, civilian hospital workers | CMS occupational wage proxy.
B. Employee benefits * | 10.970 | ECI—benefits, civilian hospital workers | CMS occupational benefit proxy.
2. Professional fees * | 5.401 | ECI—compensation for professional specialty & technical | ECI—compensation for professional, specialty & technical.
3. Utilities | 1.353 |
A. Fuel, oil, and gasoline | 0.284 | PPI refined petroleum products | PPI refined petroleum products.
B. Electricity | 0.833 | PPI commercial electric power | PPI commercial electric power.
C. Water and sewerage | 0.236 | CPI-U water & sewerage maintenance | CPI-U water & sewerage maintenance.
4. Professional liability insurance | 0.840 | CMS professional liability insurance premium index | CMS professional liability insurance premium index.
5. All other products | 30.749 |
A. All other products | 19.537 |
(1.) Pharmaceuticals | 5.416 | PPI ethical (prescription) drugs | PPI ethical (prescription) drugs.
(2.) Direct purchase food | 1.370 | PPI processed foods and feeds | PPI processed foods and feeds.
(3.) Contract service food | 1.274 | CPI-U food away from home | CPI-U food away from home.
(4.) Chemicals | 2.604 | PPI industrial chemicals | PPI industrial chemicals.
(5.) Blood and blood products | 0.875 | PPI blood and blood derivatives, human use | N/A.
(6.) Medical instruments | 2.192 | PPI medical instruments & equipment | PPI medical instruments and equipment.
(7.) Photographic supplies | 0.204 | PPI photographic supplies | PPI photographic supplies.
(8.) Rubber and plastics | 1.668 | PPI rubber & plastic products | PPI rubber and plastic products.
(9.) Paper products | 1.355 | PPI converted paper and paperboard products | PPI converted paper and paperboard products.
(10.) Apparel | 0.583 | PPI apparel | PPI apparel.
(11.) Machinery and equipment | 1.040 | PPI machinery and equipment | PPI machinery and equipment.
(12.) Miscellaneous products | 0.956 | PPI finished goods less food and energy | PPI finished goods.
B. All other services | 11.212 |
(1.) Telephone services | 0.398 | CPI-U telephone services | CPI-U telephone services.
(2.) Postage | 0.857 | CPI-U postage | CPI-U postage.
(3.) All other: labor intensive * | 5.438 | ECI—Compensation for private service occupations | ECI—compensation for private service occupations.
(4.) All other: non-labor intensive | 4.519 | CPI-U all items | CPI-U all items.
Total | 100.000 |
* Labor related.

a. Wages and Salaries

For measuring the price growth of wages in the FY 1997-based market basket, we are proposing to use the ECI for civilian hospitals. This differs from the proxy used in the FY 1992-based index in which a blended occupational wage index was used. The blended occupational wage proxy used in the FY 1992-based index and the ECI for wages and salaries for hospitals both reflect a fixed distribution of occupations within the hospital. The major difference between the two proxies is in the treatment of professional and technical wages. In the blended occupational wage proxy, the professional and technical category is blended evenly between the ECI for wages and salaries for hospitals and the ECI for wages and salaries for professional and technical occupations in the overall economy, instead of hospital-specific occupations as reflected in the ECI for hospitals. This blend was done to create a normative price index that did not reflect the market imperfections in the hospital labor markets that existed for much of the 1980s and early 1990s.

Between 1987 (the first year the ECI for hospitals was available, although the pattern existed before then using other measures of hospital wages) and 1994, the ECI for wages and salaries for hospital workers grew faster than the blended occupational wage proxy. This trend then reversed for the 1995 through 2000 period when the ECI grew slower than the blended occupational wage proxy each year. This is the apparent result of the shift of private insurance enrollees from fee-for-service plans to managed care plans and the tighter controls these plans exhibited over hospital utilization and incentives to shift care out of the inpatient hospital setting. More recently, the ECI for wages and salaries for hospital workers is again growing faster than the blended occupational wage proxy, raising the question of whether the relationship between hospital wages and the occupational wage blend from 1994 through 2000 was the signaling of a new era in the competitiveness of the hospital labor market, or simply the temporary reversal of the long-term pattern of labor market imperfections in hospitals.

In order to answer this question, we researched the historical determinants of this relationship and estimated what the future market conditions are likely to be. Our analysis indicated that the driving force behind the long-term differential between hospital wages and the blended occupational wage proxy was the increased demand for hospital services and the subsequent increase in hospital utilization, particularly in outpatient settings. However, during the 1994-2000 period, the major force behind the reversal of the differential was the shift of enrollees to managed care plans that had tighter restrictions on hospital utilization and encouraged the shift of care out of the hospital setting. To a lesser extent, the robust economic growth and tight economy-wide labor markets that accompanied this period helped to reverse the differential as well. Over the last year or two, there has been a move back towards less restrictive plans, and a subsequent increase in the utilization of medical services. This recent surge appears to reflect the true underlying fundamentals of health care demand. This concept is reinforced by the similar patterns being observed for nursing homes and other health sectors as well. This is an important development, specifically when compared to the ECI for wages and salaries for nursing homes, which reflect less skilled occupations, yet still experienced a similar acceleration in wage growth. Thus, we would expect that this recent surge in hospital wages is reflective of competitive labor market conditions, and would likely persist only as long as the underlying demand for health care was accelerating.

While the shift to managed care plans had a noticeable one-time effect, we do feel that the hospital labor market is more competitive than prior to this period and that the expected shift towards more restrictive insurance plans over the coming decade will act to create a wage differential that reflects the underlying increases in demand for hospital services. As shown in Table 5, using the ECI has only a minor overall impact (0.1 percentage point per year) from FY 1995 through FY 2001 on the hospital market basket. For FY 2003, the proposed hospital market basket is forecast to increase 0.2 percentage points faster (3.3 vs. 3.1) than it would have if the occupational blend had been used. Based on this, we are proposing to use the ECI for wages and salaries for hospitals and the ECI for benefits for hospitals as the proxies in the hospital market basket for wages and benefits, respectively. The ECI met our criteria of relevance, reliability, availability, and timeliness. Relevance means that the proxy is applicable and representative of the cost category that it proxies. Reliability indicates that the index is based on valid statistical methods and has low sampling variability. Availability means that the proxy is publicly available. Timeliness implies that the proxy is published regularly, at least once a quarter.

b. Employee Benefits

The proposed FY 1997-based hospital market basket uses the ECI for employee benefits for civilian hospitals. This differs from the FY 1992-based index in which a blended occupational index was used. Our conclusions were based on a similar analysis that was done for the wages and salaries proxy described above.

c. Nonmedical Professional Fees

The ECI for compensation for professional and technical workers in private industry is applied to this category since it includes occupations such as management and consulting, legal, accounting and engineering services. The same price measure was used in the FY 1992-based market basket.

d. Fuel, Oil, and Gasoline

The percentage change in the price of gas fuels as measured by the PPI (Commodity Code #0552) was applied to this component. The same price measure was used in the FY 1992-based market basket.

e. Electricity

The percentage change in the price of commercial electric power as measured by the PPI (Commodity Code #0542) was applied to this component. The same price measure was used in the FY 1992-based market basket.

f. Water and Sewerage

The percentage change in the price of water and sewerage maintenance as measured by the Consumer Price Index (CPI) for all urban consumers (CPI Code # CUUR0000SEHG01) was applied to this component. The same price measure was used in the FY 1992-based market basket.

g. Professional Liability Insurance

The percentage change in the hospital professional liability insurance price as estimated by the CMS Hospital Malpractice Index was applied. In the FY 1992-based market basket, the same proxy was used.

We are currently conducting research into improving our proxy for professional liability insurance. This research includes subcontracting with ANASYS through a contract with DRI-WEFA to extend the results of its NHMIS survey to set up a sample of hospitals from which malpractice insurance premium data will be directly collected. This new information, which would include liability estimates for hospitals that self-insure, would be combined with our current proxy data to obtain a more accurate price measure. Depending on the timing of this new information, the proxy for professional liability insurance in the market basket may be modified for the final rule. In addition, we are researching a BLS PPI for malpractice premiums that may be a more appropriate proxy for this cost category.

h. Pharmaceuticals

The percentage change in the price of prescription drugs as measured by the PPI (Commodity Code # PPI283D#RX) was applied to this variable. This is a special index produced by BLS. The previous price proxy used in the FY 1992-based index (Commodity Code #0635) was discontinued after BLS revised its indexes.

i. Food, Direct Purchases

The percentage change in the price of processed foods and foods as measured by the PPI (Commodity Code #02) was applied to this component. The same price measure was used in the FY 1992-based market basket.

j. Food, Contract Services

The percentage change in the price of food purchased away from home as measured by the CPI for all urban consumers (CPI Code # CUUR0000SEFV) was applied to this component. The same price measure was used in the FY 1992-based market basket.

k. Chemicals

The percentage change in the price of industrial chemical products as measured by the PPI (Commodity Code #061) was applied to this component. While the chemicals in this category include industrial as well as other types of chemicals, the industrial chemicals component constitutes the largest proportion by far. Thus, Commodity Code #061 is the appropriate proxy. The same price measure was used in the FY 1992-based market basket.

l. Blood and Blood Products

The percentage change in the price of blood and derivatives for human use as measured by the PPI (Commodity Code #063711) was applied to this component. As discussed earlier in this preamble, a comparable cost category was not available in the FY 1992-based market basket.

We are proposing that the blood and blood products cost category use the PPI for blood and blood derivatives as its price proxy. This proxy is relevant, reliable, available, and timely. We considered placing the blood weight in the Chemicals or Pharmaceuticals cost category, but found this made only minor changes to the total index. We also considered constructing an index based on blood cost data received from the American Red Cross, America's Blood Centers, and Zeman and Company. However, these data are collected annually and not widely available. The PPI for blood and blood derivatives was the only index we found that met all of our criteria.

m. Surgical and Medical Equipment

The percentage change in the price of medical and surgical instruments as measured by the PPI (Commodity Code #1562) was applied to this component. The same price measure was used in the FY 1992-based market basket.

n. Photographic Supplies

The percentage change in the price of photographic supplies as measured by the PPI (Commodity Code #1542) was applied to this component. The same price measure was used in the FY 1992-based market basket.

o. Rubber and Plastics

The percentage change in the price of rubber and plastic products as measured by the PPI (Commodity Code #07) was applied to this component. The same price measure was used in the FY 1992-based market basket.

p. Paper Products

The percentage change in the price of converted paper and paperboard products as measured by the PPI (Commodity Code #0915) was used. The same price measure was used in the FY 1992-based market basket.

q. Apparel

The percentage change in the price of apparel as measured by the PPI (Commodity Code #381) was applied to this component. The same price measure was used in the FY 1992-based market basket.

r. Machinery and Equipment

The percentage change in the price of machinery and equipment as measured by the PPI (Commodity Code #11) was applied to this component. The same price measure was used in the FY 1992-based market basket.

s. Miscellaneous Products

The percentage change in the price of all finished goods less food and energy as measured by the PPI (Commodity Code #SOP3500) was applied to this component. The percentage change in the price of all finished goods was used in the FY 1992-based market basket. This change was made to remove the effect of food and energy prices, which are already captured elsewhere in the market basket.

t. Telephone

The percentage change in the price of telephone services as measured by the CPI for all urban consumers (CPI Code # CUUR0000SEED) was applied to this component. The same price measure was used in the FY 1992-based market basket.

u. Postage

The percentage change in the price of postage as measured by the CPI for all urban consumers (CPI Code # CUUR0000SEEC01) was applied to this component. The same price measure was used in the FY 1992-based market basket.

v. All Other Services, Labor Intensive

The percentage change in the ECI for compensation paid to service workers employed in private industry was applied to this component. The same price measure was used in the FY 1992-based market basket.

w. All Other Services, Nonlabor Intensive

The percentage change in the all-items component of the CPI for all urban consumers (CPI Code # CUUR0000SA0) was applied to this component. The same price measure was used in the FY 1992-based market basket.

For further discussion of the rationale for choosing many of the specific price proxies, we reference the August 30, 1996 final rule (61 FR 46326). Table 4 shows the historical and forecasted updates under both the proposed FY 1997-based and the FY 1992-based market baskets. For comparison purposes, the FY 1997-based index incorporating different wage and benefit proxies is included in Table 5.

Table 4.—FY 1992-Based and Proposed FY 1997-Based Prospective Payment Hospital Operating Index Percent Change, 1995-2004
Fiscal year (FY) | Prospective rebased 1997 hospital market basket | FY 1992-based market basket
Historical data:
FY 1995 | 2.8 | 3.1
FY 1996 | 2.3 | 2.4
FY 1997 | 1.6 | 2.1
FY 1998 | 2.7 | 2.9
FY 1999 | 2.7 | 2.5
FY 2000 | 3.3 | 3.6
FY 2001 | 4.2 | 4.1
Average FYs 1995-2001 | 2.8 | 3.0
Forecast:
FY 2002 | 3.7 | 2.8
FY 2003 | 3.3 | 3.0
FY 2004 | 2.9 | 3.2
Average FYs 2002-2004 | 3.3 | 3.0
Source: Global Insights, Inc, DRI-WEFA, 1st Qtr. 2002; @USMACRO/MODTREND @CISSIM/TRENDLONG0202.

Table 5 indicates that switching the proxy for wages and benefits to the ECI for Civilian Hospitals has a minimal effect on the FY 2003 update and a minimal effect over time. However, we believe that it is a more appropriate measure of price change in hospital wages and benefit prices given the current labor market conditions facing hospitals.

Table 5.—Proposed 1997-Based Prospective Payment Hospital Operating Index Percent Change, Using Different Wage and Benefit Proxies, 1995-2004
Fiscal year (FY) | Proposed rebased 1997 hospital market basket using ECIs for wages and benefits | Proposed rebased 1997 market basket using occupational wage and benefit proxies
Historical data:
FY 1995 | 2.8 | 2.9
FY 1996 | 2.3 | 2.5
FY 1997 | 1.6 | 2.3
FY 1998 | 2.7 | 3.2
FY 1999 | 2.7 | 2.9
FY 2000 | 3.3 | 3.5
FY 2001 | 4.2 | 4.0
Average FYs 1995-2001 | 2.8 | 3.0
Forecast:
FY 2002 | 3.7 | 3.0
FY 2003 | 3.3 | 3.1
FY 2004 | 2.9 | 3.1
Average FYs 2002-2004 | 3.3 | 3.
Source: Global Insights, Inc, DRI-WEFA, 1st Qtr. 2002; @USMACRO/MODTREND @CISSIM/TRENDLONG0202.

The reintroduction of a cost component for blood and blood products in the market basket also does not make a noticeable impact on the market basket. Table 6 shows the proposed FY 1997-based market basket percentage change with blood broken out separately compared to market baskets with blood included in either chemicals or drugs.

Table 6.—Proposed 1997-Based Prospective Payment Hospital Operating Index Percent Change, Using Cost Categories for Blood and Blood Products, 1995-2004
Fiscal year (FY) | Proposed FY 1997-based market basket: With blood as a separate category | Proposed FY 1997-based market basket: With blood included in chemicals | Proposed FY 1997-based market basket: With blood included in drugs
Historical data:
FY 1995 | 2.8 | 2.9 | 2.8
FY 1996 | 2.3 | 2.3 | 2.4
FY 1997 | 1.6 | 1.6 | 1.6
FY 1998 | 2.7 | 2.7 | 2.8
FY 1999 | 2.7 | 2.5 | 2.7
FY 2000 | 3.3 | 3.4 | 3.3
FY 2001 | 4.2 | 4.2 | 4.2
Average FYs 1995-2001 | 2.8 | 2.8 | 2.8
Forecast:
FY 2002 | 3.7 | 3.6 | 3.7
FY 2003 | 3.3 | 3.3 | 3.3
FY 2004 | 2.9 | 3.0 | 3.0
Average FYs 2002-2004 | 3.3 | 3.3 | 3.3
Source: Global Insights, Inc, DRI-WEFA, 1st Qtr. 2002; @USMACRO/MODTREND @CISSIM/TRENDLONG0202.

4. Labor-Related Share

Sections 1886(d)(2)(H) and (d)(3)(E) of the Act direct the Secretary to estimate from time to time the proportion of payments that are labor-related: “The Secretary shall adjust the proportion (as estimated by the Secretary from time to time) of hospitals' costs which are attributable to wages and wage-related costs of the DRG prospective payment rates * * *”.

In its June 2001 Report to Congress, MedPAC recommended that “To ensure accurate input-price adjustments in Medicare's prospective payment systems, the Secretary should reevaluate current assumptions about the proportions of providers' costs that reflect resources purchased in local and national markets.” (Report to the Congress: Medicare in Rural America, p. 80, Recommendation 4D.) MedPAC believes that the labor-related share is an estimate of the national average proportion of providers' costs associated with inputs that are only affected by local market wage levels. MedPAC recommended the labor-related share include the weights for wages and salaries, fringe benefits, contract labor, and other labor-related costs for locally purchased inputs only. By changing the definition, and thereby lowering the labor-related share, funds would be transferred from urban to rural hospitals, which generally have wage index values less than 1.0.

Given the recommendation by MedPAC and our proposal to rebase and revise the hospital market basket, we have reviewed the definition and methodology of the labor-related share. In addition, we reviewed the differences between urban and rural hospitals, updated regression results, and began reviewing possible alternative methodologies for calculating the labor-related share.

The labor-related share is used to determine the proportion of the national prospective payment system base payment rate to which the area wage index is applied. In the past we have defined the labor-related share for prospective payment system acute care hospitals as the national average proportion of operating costs that are related to, influenced by, or vary with the local labor market. The labor-related share for the acute care hospital inpatient prospective payment system market basket has been the sum of the weights for wages and salaries, fringe benefits, professional fees, contract labor, postage, business services, and labor-intensive services.

The difference between the CMS definition of the labor-related share and MedPAC's recommendation is that MedPAC includes inputs that can only be purchased in the local labor market, while CMS' includes inputs that are related to, influenced by, or vary with the local labor market, even if those services may be purchased at the national level. We believe our measure of the labor-related share reflects the cost of those inputs that are likely purchased in the local market, and is consistent with the requirements under sections 1886(d)(2)(H) and (d)(3)(E) of the Act described at the beginning of section IV.A.4. of this proposed rule.

In connection with the rebasing and revising of the prospective payment system hospital market basket to 1997 data, we are proposing to recalculate the labor-related share of the standardized amounts. Our methodology is consistent with that used in the past to determine the labor-related share, which is the summation of the cost categories from the market basket deemed to vary with the local labor market. Based on the relative weights listed in Table 7, the proposed labor-related portion (wages and salaries, employee benefits, professional fees, and all other labor-intensive services) of the prospective payment system hospital market basket is 72.5 percent, and the nonlabor-related portion is 27.5 percent. By capturing more than just the direct labor costs that are available from the Medicare cost reports, our definition captures the “buy-versus-hire” decisions hospitals make in the purchase of their inputs. Accordingly, effective with discharges occurring on or after October 1, 2002, we are proposing to use these revised labor-related and nonlabor-related shares of the large urban and other areas' standardized amounts used to establish the prospective payment rates. Table 7 compares the FY 1992-based labor-related share with the proposed FY 1997-based labor-related share. As shown in Table 7, we have removed postage costs from the proposed FY 1997-based labor-related share because we do not believe these costs are likely to vary with the local labor market. Also, by changing the data source used to determine professional fees, the weight for that category has increased significantly.

Table 7.—Labor-Related Share
Cost category | FY 1992-based weight | Proposed 1997-based weight | Difference
Wages and salaries | 50.244 | 50.686 | 0.442
Fringe benefits | 11.146 | 10.970 | −0.176
Nonmedical professional fees | 2.127 | 5.401 | 3.274
Postal services* | 0.272 |  | −0.272
Other labor-intensive services** | 7.277 | 5.438 | −1.839
Total labor-related | 71.066 | 72.495 | 1.429
Total nonlabor-related | 28.934 | 27.505 | −1.429
* No longer considered to be labor-related.
** Other labor-intensive services includes landscaping services, services to buildings, detective and protective services, repair services, insurance services, laundry services, auto parking and repairs, physical fitness facilities, other medical services, colleges and professional schools, and other government enterprises.

We are concerned that the result of this methodology could have negative impacts that would fall predominantly on rural hospitals and are interested in public comments on alternative methodologies. While we are not proposing to change the methodology for calculating the labor-related share in this proposed rule, we have begun the research necessary to reevaluate the current assumptions used in determining this share. This reevaluation is consistent with the MedPAC recommendation in MedPAC's June 2001 report. Our research involves analyzing the compensation share separately for urban and rural hospitals, using regression analysis to determine the proportion of costs influenced by the area wage index, and exploring alternative methodologies to determine whether all or just a portion of professional fees and nonlabor intensive services should be considered labor-related. Although we have not completed our research into this issue, we are summarizing some of our preliminary findings below. We encourage comments on this research and any information that is available to help determine the most appropriate measure.

The compensation share of costs for hospitals in rural areas was higher on average than the compensation share for hospitals in urban areas. Using FY 1997 Medicare cost report data, rural areas had an average compensation share of 62.7 percent, while urban areas had a share of 61.5 percent. This compares to a share of 61.7 percent for all hospitals. These findings were validated consistently through our regression analysis, described in more detail below, as the coefficient on the wage index was higher when the regressions were run only for rural hospitals compared to when the regressions were run only for urban hospitals. Based on these findings, it does not appear that using a national average labor share for all hospitals to adjust the national payment rate by the area wage index disadvantages rural hospitals that tend to have a wage index value below 1.0.

Our research attempted to validate our national average labor share by conducting regression analysis to determine the proportion of hospital's costs that varied with the area wage index. We have conducted this type of regression analysis before in helping to determine the labor-related share, most recently for the SNF prospective payment system (66 FR 39585). Our first step was to edit the data, which had significant outliers in some of the variables we used in the regressions. We originally began with an edit that excluded the top and bottom 5 percent of reports based on average Medicare cost per discharge and number of discharges. We also used edits to exclude reports that did not meet basic criteria for use, such as having costs greater than 0 for total, operating, and capital for the overall facility and for only the Medicare proportion. We also required that the hospital occupancy rate, length of stay, number of beds, full-time equivalents (FTEs), and overall and Medicare discharges be greater than 0. Finally, we excluded reports with occupancy rates greater than 1.

Our initial regression specification (in log form) was the Medicare operating cost per Medicare discharge as the dependent variable and the independent variables being the area wage index, the case mix index, the ratio of interns and residents per bed (as proxy for IME status), and a dummy for large urban hospitals. This regression produced a coefficient for all hospitals for the area wage index of 0.638 (which is equivalent to the labor share and can be interpreted as an elasticity because of the log specification) with an adjusted R-squared of 64.3. While on the surface this would appear to be a reasonable result, this same specification for urban hospitals had a coefficient of 0.532 (adjusted R-squared = 53.2) and a coefficient of 0.709 (adjusted R-squared = 36.4) for rural hospitals. This highlighted some apparent problems with the specification because the overall regression results appear to be masking underlying problems. It would not seem reasonable that urban hospitals would have a labor share below their actual compensation share or that the discrepancy between urban and rural hospitals would be this large. The other major problem with the regression was that the coefficient on the case-mix index was significantly below 1.0 for each specification. When we standardized the Medicare operating cost per Medicare discharge for case mix, the fit fell dramatically and the urban/rural discrepancy became even larger.

Based on this initial result, we tried two modifications to the regressions to correct for the underlying problems. First, we edited the data differently to determine if a few reports were causing the inconsistent results. We found that when we tightened the edits, the wage index coefficient was lower and the fit was worse. When we loosened the edits, we found higher wage index coefficients and still a worse fit. Second, we added variables to the regression equation to attempt to explain some of the variation that was not being captured. We found the best fit occurred when the following variables were added: the occupancy rate, the number of hospital beds, a dummy for control status, the Medicare length of stay, the number of FTEs per bed, and the age of fixed assets. The result of this specification was a wage index coefficient of 0.620 (adjusted R-squared = 68.7), with the regression on rural hospitals having a coefficient of 0.772 (adjusted R-squared = 45.0) and the regression on urban hospitals having a coefficient of 0.474 (adjusted R-squared = 60.9). Neither of these alternatives seemed to help the underlying difficulties with the regression analysis.

Because the market basket method determines the proportion of labor-related costs for the entire hospital, not just Medicare costs (due to the unavailability of Medicare specific data for such detailed cost categories) we also ran the regressions on overall hospital operating cost per discharge. The initial specification (only 4 independent variables) produced similar results to those discussed above, that is, what appeared to be a reasonable overall share but with major problems underlying the data. The more detailed specification also did not improve the results over the previous runs.

Because of these problems, we did not believe the regression analysis was producing enough sound evidence at this point for us to make the decision to change from the current method for calculating the labor-related share using market basket categories. We plan to continue to analyze these data and work on alternative specifications, including working with MedPAC, which has done a similar analysis in its studies of payment adequacy in the past. We welcome comments on this approach, given the difficulties we have encountered.

We also have been examining ways to refine our market basket approach to more accurately account for the proportion of costs influenced by the local labor market. Specifically, we have been looking at the professional fees and labor intensive cost categories to determine if only a proportion of the costs in these categories should be considered labor-related, not the entire cost category. Professional fees include management and consulting fees, legal services, accounting services, and engineering services. Labor-intensive services are mostly building services, but also include other maintenance and repair and insurance services. While we have identified some possible approaches for accomplishing this, we do not believe at this point that we have completely validated them and thus are not proposing to change from our current method. Below we briefly describe the possible approaches and some of the issues surrounding these approaches.

One possible option would be to only include in the labor-related share the compensation portion of the cost category for each industry included in professional fees and labor-intensive services. This could be done using data from the 1997 BES, which reports detailed cost categories by industry (SIC) code. For example, management and consulting fees (SIC 874) is one of the major pieces of professional fees. The BES indicates that compensation accounts for 59.2 percent of operating costs in management and consulting fees. If we only considered for inclusion in the labor-related share the portion that is compensation, this would result in a lower labor share. However, at this point, there does not appear to be enough information available from the BES to do this for every industry code. It is also not clear that at least some proportion of noncompensation costs of these inputs for hospitals would not vary with the local labor market. We are still researching the appropriateness of this option and whether it could be used to assist in determining the labor-related share.

Another possible option would be to use data from the Bureau of the Census' 1992 Enterprise Statistics to attempt to determine the proportion of costs for professional fees and labor-intensive services associated with centrally located overhead. That is, could we identify the proportion of costs that are borne in a central location such that they would not be related to the local labor market? The Enterprise Statistics include payroll data for both auxiliary establishments of a multiestablishment company and the entire company. Since auxiliary establishments primarily manage, administer, service, and support the activities of other establishments of the company, we were considering using this information to estimate the proportion of professional fees and labor-intensive services associated with central locations instead of with the location of the hospital. The Enterprise Statistics data are available for specific enterprise industry codes (EIC) that could seemingly be matched to the industry codes from the I-O used to determine professional fees and labor-intensive services. The methodology would consist of determining the auxiliary establishments payroll share of the total establishment, and subtracting that portion from the compensation portion of expenses for each I-O industry code. The initial research into this method is pointing out some difficulties in matching industry and EIC codes since the Enterprise Statistics do not contain as much detail as the I-O. In addition, it is not clear yet that this method would remove the appropriate amount of central office labor costs. We will continue to research this option, but at this time we are not proposing to use it in the calculation of the labor-related share.

We plan to continue researching whether an alternative methodology for determining the labor-related share would be more appropriate than our current methodology, including working with MedPAC. We plan to complete this research prior to August 1 and would make the appropriate changes in the final rule if we found another methodology to be superior to our current methodology. At this time, we are proposing to continue to use our existing methodology in determining the labor-related share.

5. Separate Market Basket for Hospitals and Hospital Units Excluded From the Acute Care Hospital Inpatient Prospective Payment System

In its March 1, 1990 report, ProPAC recommended that we establish a separate market basket for hospitals and hospital units excluded from the acute care hospital inpatient prospective payment system. Effective with FY 1991, we adopted ProPAC's recommendation to implement separate market baskets. (See the September 4, 1990 final rule (55 FR 36049).) Prospective payment system hospitals and excluded hospitals and units tend to have different case mixes, practice patterns, and composition of inputs. The fact that excluded hospitals are not included under the acute care hospital inpatient prospective payment system in part reflects these differences. Studies completed by CMS, ProPAC, and the hospital industry have documented different weights for excluded hospitals and units and prospective payment system hospitals.

The excluded hospital market basket is a composite set of weights for Medicare-participating psychiatric hospitals and units, rehabilitation hospitals and units, long-term care hospitals, children's hospitals, and cancer hospitals. We are proposing to use cost report data for excluded freestanding hospitals whose Medicare average length of stay is within 15 percent (that is, 15 percent higher or lower) of the total facility average length of stay for excluded hospitals, except psychiatric hospitals. A tighter measure of Medicare length of stay within 8 percent (that is, 8 percent higher or lower) of the total facility average length of stay is proposed for freestanding psychiatric hospitals. This was done because psychiatric hospitals have a relatively small proportion of costs from Medicare and a relatively small share of Medicare psychiatric cases. While the 15 percent length of stay edit was used for the FY 1992-based index, the tighter, 8 percent edit for psychiatric hospitals was not. We believe that limiting our sample to hospitals with a Medicare average length of stay within a comparable range to the total facility average length of stay provides a more accurate reflection of the structure of costs for treating Medicare patients.

Table 8 compares major weights in the proposed rebased FY 1997 market basket for excluded hospitals with weights in the proposed rebased FY 1997 market basket for acute care prospective payment system hospitals. Wages and salaries are 51.998 percent of total operating costs for excluded hospitals compared to 50.686 percent for acute care prospective payment hospitals. Employee benefits are 11.253 percent for excluded hospitals compared to 10.970 percent for acute care prospective payment hospitals. As a result, compensation costs (wages and salaries plus employee benefits) for excluded hospitals are 63.251 percent of costs compared to 61.656 percent for acute care prospective payment hospitals, reflecting the more labor-intensive services conducted in excluded hospitals.

A significant difference in the category weights also occurs in pharmaceuticals. Pharmaceuticals represent 5.416 percent of costs for acute care prospective payment hospitals and 6.940 percent for excluded hospitals. The weights for the excluded hospital market basket were derived using the same data sources and methods as for the acute care prospective payment market basket as outlined previously. Differences in weights between the proposed excluded hospital and acute care prospective payment hospital market baskets do not necessarily lead to significant differences in the rate of price growth for the two market baskets. If individual wages and prices move at approximately the same annual rate, both market baskets may have about the same overall price growth, even though the weights may differ substantially, because both market baskets use the same wage and price proxies. Also, offsetting price increases for various cost components can result in similar composite price growth in both market baskets.

Table 8.—Proposed FY 1997-Based Excluded Hospital and Prospective Payment Hospital Market Baskets, Comparison of Significant Weights
Category | Proposed rebased 1997 excluded hospital market basket | Proposed rebased 1997 Prospective Payment System hospital market basket
Wages and salaries | 51.998 | 50.686
Employee benefits | 11.253 | 10.970
Professional fees | 4.859 | 5.401
Pharmaceuticals | 6.940 | 5.416
All other | 24.950 | 25.527
Total | 100.000 | 100.000

Table 9 lists the cost categories, weights, and proxies for the proposed FY 1997-based excluded hospital market basket. For comparison, the FY 1992-based cost category weights are included. The proxies are the same used in the proposed FY 1997-based acute care hospital inpatient prospective payment system market basket discussed above.

Table 9.—FY 1992-Based and Proposed FY 1997-Based Excluded Hospital Operating Cost Categories, Weights, and Price Proxies
Expense categories | Proposed rebased 1997 excluded hospital market basket weights | FY 1992-based excluded hospital market basket weights | FY 1997-based price proxy
1. Compensation | 63.251 | 63.721 |
A. Wages and salaries* | 51.998 | 52.152 | ECI-wages and salaries, civilian hospitals.
B. Employee benefits* | 11.253 | 11.569 | ECI-benefits, civilian hospitals.
2. Professional fees* | 4.859 | 2.098 | ECI-compensation for professional, specialty & technical.
3. Utilities | 1.296 | 1.675 | —
A. Fuel, oil, and gasoline | 0.272 | 0.401 | PPI commercial natural gas.
B. Electricity | 0.798 | 1.007 | PPI commercial electric power.
C. Water and sewerage | 0.226 | 0.267 | CPI-U water and sewerage maintenance.
4. Professional liability insurance | 0.805 | 1.081 | CMS professional liability insurance premiums index.
5. All other | 29.790 | 31.425 | —
A. All other products | 19.680 | 24.227 | —
(1) Pharmaceuticals | 6.940 | 3.070 | PPI ethical (prescription) drugs.
(2) Direct purchase food | 1.233 | 2.370 | PPI processed foods & feeds.
(3) Contract service food | 1.146 | 1.098 | CPI-U food away from home.
(4) Chemicals | 2.343 | 3.754 | PPI industrial chemicals.
(5) Blood and blood products | 0.821 | N/A | PPI blood and blood derivatives, human use.
(6) Medical instruments | 1.972 | 3.154 | PPI medical instruments & equipment.
(7) Photographic supplies | 0.184 | 0.400 | PPI photographic supplies.
(8) Rubber and plastics | 1.501 | 4.865 | PPI rubber & plastic products.
(9) Paper products | 1.219 | 2.182 | PPI converted paper & paperboard products.
(10) Apparel | 0.525 | 0.890 | PPI apparel.
(11) Machinery and equipment | 0.936 | 0.212 | PPI machinery & equipment.
(12) Miscellaneous products | 0.860 | 2.232 | PPI finished goods less food and energy.
B. All other services | 10.110 | 7.198 | —
(1) Telephone services | 0.382 | 0.631 | CPI-U telephone services.
(2) Postage | 0.771 | 0.295 | CPI-U postage.
(3) All other: labor intensive* | 4.892 | 5.439 | ECI-compensation for private service occupations.
(4) All other: Non-labor intensive | 4.065 | 0.833 | CPI-U all items.
Total | 100.000 | 100.000 | —
*Labor-related.
Note: Due to rounding, weights may not sum to total.

Table 10 shows the historical and forecasted updates under both the proposed FY 1997-based and the FY 1992-based excluded hospital market baskets.

Table 10.—FY 1992-Based and Proposed FY 1997-Based Excluded Hospital Operating Index Percent Change, 1995-2004
Fiscal year (FY) | Proposed rebased 1997 excluded hospital market basket | FY 1992-based excluded hospital market basket
Historical data:
FY 1995 | 2.7 | 3.2
FY 1996 | 2.4 | 2.5
FY 1997 | 1.7 | 2.0
FY 1998 | 3.0 | 2.7
FY 1999 | 2.9 | 2.4
FY 2000 | 3.3 | 3.6
FY 2001 | 4.3 | 4.1
Average FYs 1995-2001 | 2.9 | 2.9
Forecast:
FY 2002 | 3.7 | 2.8
FY 2003 | 3.4 | 3.0
FY 2004 | 3.0 | 3.1
Average FYs 2002-2004 | 3.4 | 3.0
Source: Global Insights, Inc, DRI-WEFA, 1st Qtr. 2002; @USMACRO/MODTREND @CISSIM/TRENDLONG0202.

A comparison of the proposed FY 1997-based index incorporating the new wage and benefits proxies (ECIs) and updated occupational wage proxies is included in Table 11.

Table 11.—Proposed FY 1997-Based Excluded Hospital Operating Index Percent Change, Using Different Wage and Benefit Proxies, 1995-2004
Fiscal year (FY) | Proposed rebased 1997 excluded hospital market basket: Using ECIs for hospital wages and nenefits | Proposed rebased 1997 excluded hospital market basket: Using occupational wage and benefit proxies
Historical data:
FY 1995 | 2.7 | 2.9
FY 1996 | 2.4 | 2.5
FY 1997 | 1.7 | 2.3
FY 1998 | 3.0 | 3.4
FY 1999 | 2.9 | 3.1
FY 2000 | 3.3 | 3.5
FY 2001 | 4.3 | 4.0
Average FYs 1995-2001 | 2.9 | 3.1
Forecast:
FY 2002 | 3.7 | 3.1
FY 2003 | 3.4 | 3.2
FY 2004 | 3.0 | 3.2
Average FYs 2002-2004 | 3.4 | 3.2
Source: Global Insights, Inc, DRI-WEFA, 1st Qtr. 2002; @USMACRO/MODTREND @CISSIM/TRENDLONG0202.

Like the proposed FY 1997-based prospective payment hospital index showed, there is little difference in the index over time when different compensation proxies are used. Table 12 shows the labor-related share for excluded hospitals.

Table 12.—Labor-Related Share, Excluded Hospitals
Cost category | FY 1992-based weight | Proposed FY 1997-based weight | Difference
Wages and salaries | 52.152 | 51.998 | −0.154
Fringe benefits | 11.569 | 11.253 | −0.316
Nonmedical professional fees | 2.098 | 4.859 | 2.761
Postal services* | 0.295 |  | −0.295
Other labor intensive services** | 5.439 | 4.892 | −0.547
Total labor-related | 71.553 | 73.002 | 1.449
Total nonlabor-related | 28.447 | 26.998 | −1.449
* No longer considered to be labor-related.
** Other labor-intensive services includes landscaping services, services to buildings, detective and protective services, repair services, insurance services, laundry services, auto parking and repairs, physical fitness facilities, other medical services, colleges and professional schools, and other government enterprises.

B. Capital Input Price Index

The Capital Input Price Index (CIPI) was originally detailed in the September 1, 1992 Federal Register (57 FR 40016). There have been subsequent discussions of the CIPI presented in the May 26, 1993 (58 FR 30448), September 1, 1993 (58 FR 46490), May 27, 1994 (59 FR 27876), September 1, 1994 (59 FR 45517), June 2, 1995 (60 FR 29229), September 1, 1995 (60 FR 45815), May 31, 1996 (61 FR 27466), and August 30, 1996 (61 FR 46196) rules in the Federal Register. The August 30, 1996 rule discussed the most recent revision and rebasing of the CIPI to a FY 1992 base year, which reflects the capital cost structure facing hospitals in that year.

We are proposing to revise and rebase the CIPI to a FY 1997 base year to reflect the more recent structure of capital costs. To do this, we reviewed hospital expenditure data for the capital cost categories of depreciation, interest, and other capital expenses. As with the FY 1992-based index, we have developed two sets of proposed weights in order to calculate the proposed FY 1997-based CIPI. The first set of proposed weights identifies the proportion of hospital capital expenditures attributable to each capital expenditure category, while the second set of proposed weights is a set of relative vintage weights for depreciation and interest. The set of vintage weights is used to identify the proportion of capital expenditures within a cost category that is attributable to each year over the useful life of capital assets in that category. A more thorough discussion of vintage weights is provided later in this section.

Both sets of weights are developed using the best data sources available. In reviewing source data, we determined that the Medicare cost reports provided accurate data for all capital expenditure cost categories. We are proposing to use the FY 1997 Medicare cost reports for acute care prospective payment system hospitals, excluding expenses from hospital-based subproviders, to determine weights for all three cost categories: Depreciation, interest, and other capital expenses. We compared the weights determined from the Medicare cost reports to other data sources for 1997, specifically the Bureau of the Census' BES and the AHA Annual Survey, and found the weights to be consistent with those data sources.

Lease expenses are not a separate cost category in the CIPI, but are distributed among the cost categories of depreciation, interest, and other, reflecting the assumption that the underlying cost structure of leases is similar to capital costs in general. We assumed 10 percent of lease expenses are overhead and assigned them to the other capital expenses cost category as overhead, as was done in previous capital market baskets. The remaining lease expenses were distributed to the three cost categories based on the weights of depreciation, interest, and other capital expenses not including lease expenses.

Depreciation contains two subcategories: Building and fixed equipment and movable equipment. The split between building and fixed equipment and movable equipment was determined using the Medicare cost reports. This methodology was also used to compute the FY 1992-based index.

Table 13 presents a comparison of the proposed rebased FY 1997 capital cost weights and the FY 1992 capital cost weights.

Table 13.—Comparison of FY 1992 and Proposed Rebased FY 1997 Cost Category Weights
Expense categories | FY 1992 weights | Proposed rebased FY 1997 weights | Price proxy
Total | 1.0000 | 1.0000 |
Total depreciation | 0.6484 | 0.7135 |
Building and fixed equipment depreciation | 0.3009 | 0.3422 | Boeckh Institutional Construction Index—vintage weighted (23 years).
Movable equipment depreciation | 0.3475 | 0.3713 | PPI for machinery and equipment—vintage weighted (11 years).
Total interest | 0.3184 | 0.2346
Government/nonprofit interest | 0.2706 | 0.1994 | Average yield on domestic municipal bonds (Bond Buyer 20 bonds)—vintage weighted (23 years).
For-profit interest | 0.0478 | 0.0352 | Average yield on Moody's Aaa bonds—vintage weighted (23 years).
Other | 0.0332 | 0.0519 | CPI—Residential Rent.

Because capital is acquired and paid for over time, capital expenses in any given year are determined by past and present purchases of physical and financial capital. The vintage-weighted CIPI is intended to capture the long-term consumption of capital, using vintage weights for depreciation (physical capital) and interest (financial capital). These vintage weights reflect the purchase patterns of building and fixed equipment and movable equipment over time. Because depreciation and interest expenses are determined by the amount of past and current capital purchases, we used the vintage weights to compute vintage-weighted price changes associated with depreciation and interest expense.

Vintage weights are an integral part of the CIPI. Capital costs are inherently complicated and are determined by complex capital purchasing decisions over time, based on such factors as interest rates and debt financing. Capital is depreciated over time instead of being consumed in the same period it is purchased. The CIPI accurately reflects the annual price changes associated with capital costs, and is a useful simplification of the actual capital accumulation process. By accounting for the vintage nature of capital, we are able to provide an accurate, stable annual measure of price changes. Annual nonvintage price changes for capital are unstable due to the volatility of interest rate changes. These unstable annual price changes do not reflect the actual annual price changes for Medicare capital-related costs. CMS's CIPI reflects the underlying stability of the capital acquisition process and provides hospitals with the ability to plan for changes in capital payments.

To calculate the vintage weights for depreciation and interest expenses, we used a time series of capital purchases for building and fixed equipment and movable equipment. We found no single source that provides the best time series of capital purchases by hospitals for all of the above components of capital purchases. The early Medicare cost reports did not have sufficient capital data to meet this need. While the AHA Panel Survey provided a consistent database back to 1963, it did not provide annual capital purchases. The AHA Panel Survey did provide time series of depreciation and interest expenses that could be used to infer capital purchases over time. Although the AHA Panel Survey was discontinued after September 1997, we were able to use all of the available historical data from this survey since our proposed base year is FY 1997.

In order to estimate capital purchases from AHA data on depreciation and interest expenses, the expected life for each cost category (building and fixed equipment, movable equipment, debt instruments) is needed. The expected life is used in the calculation of vintage weights. We used FY 1997 Medicare cost reports to determine the expected life of building and fixed equipment and movable equipment. The expected life of any piece of equipment can be determined by dividing the value of the fixed asset (excluding fully depreciated assets) by its current year depreciation amount. This calculation yields the estimated useful life of an asset if depreciation were to continue at current year levels, assuming straight-line depreciation. From the FY 1997 cost reports, we determined the expected life of building and fixed equipment to be 23 years, and the expected life of movable equipment to be 11 years. By comparison, the FY 1992-based index showed that the expected life for building and fixed equipment was 22 years, while that for movable equipment was 10 years. Our analysis of data for FYs 1996, 1998, and 1999 indicates very little change in these measures over time.

We used the fixed and movable weights derived from the FY 1997 Medicare cost reports to separate the AHA Panel Survey depreciation expenses into annual amounts of building and fixed equipment depreciation and movable equipment depreciation. By multiplying the annual depreciation amounts by the expected life calculations from the FY 1997 Medicare cost reports, we determined year-end asset costs for building and fixed equipment and movable equipment. We subtracted the previous year asset costs from the current year asset costs and estimated annual purchases of building and fixed equipment and movable equipment back to 1963. From this capital purchase time series, we were able to calculate the vintage weights for building and fixed equipment, movable equipment, and debt instruments. Each of these sets of vintage weights is explained in detail below.

For building and fixed equipment vintage weights, we used the real annual capital purchase amounts for building and fixed equipment derived from the AHA Panel Survey. The real annual purchase amount was used to capture the actual amount of the physical acquisition, net of the effect of price inflation. This real annual purchase amount for building and fixed equipment was produced by deflating the nominal annual purchase amount by the building and fixed equipment price proxy, the Boeckh institutional construction index. Because building and fixed equipment has an expected life of 23 years, the vintage weights for building and fixed equipment are deemed to represent the average purchase pattern of building and fixed equipment over 23-year periods.

Vintage weights for each 23-year period are calculated by dividing the real building and fixed capital purchase amount in any given year by the total amount of purchases in the 23-year period. This calculation is done for each year in the 23-year period, and for each of the twelve 23-year periods from 1963 to 1997. The average of the twelve 23-year periods is used to determine the 1997 average building and fixed equipment vintage weights.

For movable equipment vintage weights, we used the real annual capital purchase amounts for movable equipment derived from the AHA Panel Survey. The real annual purchase amount was used to capture the actual amount of the physical acquisition, net of price inflation. This real annual purchase amount for movable equipment was calculated by deflating the nominal annual purchase amount by the movable equipment price proxy, the PPI for machinery and equipment. Because movable equipment has an expected life of 11 years, the vintage weights for movable equipment are deemed to represent the average purchase pattern of movable equipment over 11-year periods.

Vintage weights for each 11-year period are calculated by dividing the real movable capital purchase amount for any given year by the total amount of purchases in the 11-year period. This calculation is done for each year in the 11-year period, and for each of the twenty-four 11-year periods from 1963 to 1997. The average of the twenty-four 11-year periods is used to determine the FY 1997 average movable equipment vintage weights.

For interest vintage weights, we used the nominal annual capital purchase amounts for total equipment (building and fixed, and movable) derived from the AHA Panel Survey. Nominal annual purchase amounts were used to capture the value of the debt instrument. Because debt instruments have an expected life of 23 years, the vintage weights for interest are deemed to represent the average purchase pattern of total equipment over 23-year periods.

Vintage weights for each 23-year period are calculated by dividing the nominal total capital purchase amount for any given year by the total amount of purchases in the 23-year period. This calculation is done for each year in the 23-year period and for each of the twelve 23-year periods from 1963 to 1997. The average of the twelve 23-year periods is used to determine the FY 1997 average interest vintage weights. The vintage weights for the FY 1992 CIPI and the proposed FY 1997 CIPI are presented in Table 14.

Table 14.—Current and Proposed Vintage Weights for Capital-Related Price Proxies
Year (from farthest to most recent) | Building and fixed equipment: FY 1992 22 years | Building and fixed equipment: Proposed FY 1997 23 years | Movable equipment: FY 1992 10 years | Movable equipment: Proposed FY 1997 11 years | Interest: FY 1992 22 years | Interest: Proposed FY 1992 23 years
1 | 0.019 | 0.018 | 0.069 | 0.063 | 0.007 | 0.007
2 | 0.020 | 0.021 | 0.075 | 0.068 | 0.008 | 0.009
3 | 0.023 | 0.023 | 0.083 | 0.074 | 0.010 | 0.011
4 | 0.026 | 0.025 | 0.091 | 0.080 | 0.012 | 0.012
5 | 0.028 | 0.026 | 0.097 | 0.085 | 0.014 | 0.014
6 | 0.030 | 0.028 | 0.103 | 0.091 | 0.016 | 0.016
7 | 0.031 | 0.030 | 0.109 | 0.096 | 0.018 | 0.019
8 | 0.032 | 0.032 | 0.115 | 0.101 | 0.021 | 0.022
9 | 0.036 | 0.035 | 0.124 | 0.108 | 0.024 | 0.026
10 | 0.039 | 0.039 | 0.133 | 0.114 | 0.029 | 0.030
11 | 0.043 | 0.042 |  | 0.119 | 0.035 | 0.035
12 | 0.047 | 0.044 |  |  | 0.041 | 0.039
13 | 0.050 | 0.047 |  |  | 0.047 | 0.045
14 | 0.052 | 0.049 |  |  | 0.052 | 0.049
15 | 0.055 | 0.051 |  |  | 0.059 | 0.053
16 | 0.059 | 0.053 |  |  | 0.067 | 0.059
17 | 0.062 | 0.057 |  |  | 0.074 | 0.065
18 | 0.065 | 0.060 |  |  | 0.081 | 0.072
19 | 0.067 | 0.062 |  |  | 0.088 | 0.077
20 | 0.069 | 0.063 |  |  | 0.093 | 0.081
21 | 0.072 | 0.065 |  |  | 0.099 | 0.085
22 | 0.073 | 0.064 |  |  | 0.103 | 0.087
23 |  | 0.065 |  |  |  | 0.090
Total | 1.000 | 1.000 | 1.000 | 1.000 | 1.000 | 1.000

After the capital cost category weights were computed, it was necessary to select appropriate price proxies to reflect the rate of increase for each expenditure category. Our proposed price proxies for the FY 1997-based CIPI are the same as those for the FY 1992-based CIPI. We still believe these are the most appropriate proxies for hospital capital costs that meet our selection criteria of relevance, timeliness, availability, and reliability. We ran the proposed FY 1997-based index using the Moody's Aaa bonds average yield and using the Moody's Baa bonds average yield as proxy for the for-profit interest cost category. There was no difference in the two sets of index percent changes either historically or forecasted. The rationale for selecting the price proxies is explained more fully in the August 30, 1996 final rule (61 FR 46196). The proposed proxies are presented in Table 13.

Global Insights, Inc., DRI-WEFA forecasts a 0.7 percent increase in the proposed rebased FY 1997 CIPI for FY 2003, as shown in Table 15.

Table 15.—FY 1992 and Proposed FY 1997-Based Capital Input Price Index, Percent Change, 1995-2004
Federal fiscal year | CIPI, FY 1992-based | Proposed CIPI, FY 1997-based
1995 | 1.2 | 1.5
1996 | 1.0 | 1.3
1997 | 0.9 | 1.2
1998 | 0.7 | 0.9
1999 | 0.7 | 0.9
2000 | 0.9 | 1.1
2001 | 0.7 | 0.9
Average: FYs 1995-2001 | 0.9 | 1.1
Forecast:
2002 | 0.6 | 0.8
2003 | 0.5 | 0.7
2004 | 0.6 | 0.7
Average: FYs 2002-2004 | 0.6 | 0.7
Source: Global Insights, Inc, DRI-WEFA, 1st Qtr. 2002; @USMACRO/MODTREND @CISSIM/TRENDLONG0202.

This 0.7 percent increase is the result of a 1.3 percent increase in projected vintage-weighted depreciation prices (building and fixed equipment, and movable equipment) and a 2.7 percent increase in other capital expense prices, partially offset by a 2.2 percent decrease in vintage-weighted interest rates in FY 2003, as indicated in Table 16.

Table 16.—CMS Proposed Capital Input Price Index Percent Changes, Total and Components, Fiscal Years 1985-2005
Fiscal year | Total | Total depreciation | Depreciation, building and fixed equipment | Depreciation, movable equipment | Interest | Other
Wgts FY 1997 | 1.000 | 0.7135 | 0.3422 | 0.3713 | 0.2346 | 0.0519
Vintage-Weighted Price Changes
1995 | 1.5 | 2.7 | 4.0 | 1.6 | −1.8 | 2.5
1996 | 1.3 | 2.5 | 3.8 | 1.4 | −2.3 | 2.6
1997 | 1.2 | 2.3 | 3.6 | 1.2 | −2.4 | 2.8
1998 | 0.9 | 2.1 | 3.3 | 0.9 | −3.0 | 3.2
1999 | 0.9 | 1.9 | 3.2 | 0.7 | −2.8 | 3.2
2000 | 1.1 | 1.7 | 3.1 | 0.4 | −1.6 | 3.4
2001 | 0.9 | 1.5 | 2.9 | 0.1 | −2.2 | 4.3
Forecast:
2002 | 0.8 | 1.4 | 2.8 | 0.0 | −2.2 | 4.0
2003 | 0.7 | 1.3 | 2.7 | −0.1 | −2.2 | 2.7
2004 | 0.7 | 1.3 | 2.5 | −0.1 | −2.1 | 2.8
2005 | 0.7 | 1.3 | 2.5 | −0.1 | −2.0 | 2.8

Rebasing the CIPI from FY 1992 to FY 1997 increased the percent change in the FY 2003 forecast by 0.2 percentage points, from 0.5 to 0.7 as shown in Table 15. The difference is caused mostly by changes in cost category weights, particularly the smaller weight for interest and larger weight for depreciation. Because the interest component has a negative price change associated with it for FY 2003, the smaller share it accounts for in the FY 1997-based index means it has less of an impact than in the FY 1992-based index. The changes in the expected life and vintage weights have only a minor impact on the overall percent change in the index.

V. Other Decisions and Proposed Changes to the Prospective Payment System for Inpatient Operating Costs and Graduate Medical Education Costs

A. Transfer Payment Policy

1. Expanding the Postacute Care Transfer Policy to Additional DRGs (§ 412.4)

Existing regulations at § 412.4(a) define discharges under the acute care hospital inpatient prospective payment system as situations in which a patient is formally released from an acute care hospital or dies in the hospital. Section 412.4(b) defines transfers from one acute care hospital to another, and § 412.4(c) defines transfers to certain postacute care providers. Our policy provides that, in transfer situations, full payment is made to the final discharging hospital and each transferring hospital is paid a per diem rate for each day of the stay, not to exceed the full DRG payment that would have been made if the patient had been discharged without being transferred.

Under section 1886(d)(5)(J) of the Act, which was added by section 4407 of Public Law 105-33, a “qualified discharge” from one of 10 DRGs selected by the Secretary to a postacute care provider is treated as a transfer case beginning with discharges on or after October 1, 1998. This section requires the Secretary to define and pay as transfers all cases assigned to one of 10 DRGs selected by the Secretary if the individuals are discharged to one of the following postacute care settings:

• A hospital or hospital unit that is not a subsection 1886(d) hospital. (Section 1886(d)(1)(B) of the Act identifies the hospitals and hospital units that are excluded from the term “subsection (d) hospital” as psychiatric hospitals and units, rehabilitation hospitals and units, children's hospitals, long-term care hospitals, and cancer hospitals.)

• A skilled nursing facility (as defined at section 1819(a) of the Act).

• Home health services provided by a home health agency, if the services relate to the condition or diagnosis for which the individual received inpatient hospital services, and if the home health services are provided within an appropriate period (as determined by the Secretary).

In the July 31, 1998 final rule (63 FR 40975 through 40976), we specified the appropriate time period during which we would consider postacute home health services to constitute a transfer situation as within 3 days after the date of discharge. Also, in the July 31, 1998 final rule, we did not include in the definition of postacute transfer cases patients transferred to a swing-bed for skilled nursing care (63 FR 40977).

The Conference Agreement that accompanied Public Law 105-33 noted that “(t)he Conferees are concerned that Medicare may in some cases be overpaying hospitals for patients who are transferred to a postacute care setting after a very short acute care hospital stay. The conferees believe that Medicare's payment system should continue to provide hospitals with strong incentives to treat patients in the most effective and efficient manner, while at the same time, adjust PPS [prospective payment system] payments in a manner that accounts for reduced hospital lengths of stay because of a discharge to another setting.” (H.R. Report No. 105-217, 105th Cong., 1st Sess., 740 (1997).)

In the July 31, 1998 final rule (63 FR 40975), we implemented section 1886(d)(5)(J) of the Act, which directed the Secretary to select 10 DRGs based upon a high volume of discharges to postacute care and a disproportionate use of postacute care services. As discussed in the July 31, 1998 final rule, these 10 DRGs were selected in 1998 based on the MedPAR data from FY 1996. Using that information, we identified and selected the first 20 DRGs that had the largest proportion of discharges to postacute care (and at least 14,000 such transfer cases). In order to select 10 DRGs from the 20 DRGs on our list, we considered the volume and percentage of discharges to postacute care that occurred before the mean length of stay and whether the discharges occurring early in the stay were more likely to receive postacute care. We identified the following DRGs to be subject to the special 10 DRG transfer rule:

• DRG 14 (Specific Cerebrovascular Disorders Except Transient Ischemic Attack);

• DRG 113 (Amputation for Circulatory System Disorders Except Upper Limb and Toe);

• DRG 209 (Major Joint Limb Reattachment Procedures of Lower Extremity);

• DRG 210 (Hip and Femur Procedures Except Major Joint Procedures Age >17 with CC);

• DRG 211 (Hip and Femur Procedures Except Major Joint Procedures Age >17 without CC);

• DRG 236 (Fractures of Hip and Pelvis);

• DRG 263 (Skin Graft and/or Debridement for Skin Ulcer or Cellulitis with CC);

• DRG 264 (Skin Graft and/or Debridement for Skin Ulcer or Cellulitis without CC);

• DRG 429 (Organic Disturbances and Mental Retardation); and

• DRG 483 (Tracheostomy Except for Face, Mouth and Neck Diagnoses).

Similar to our existing policy for transfers between two acute care hospitals, the transferring hospital in a postacute transfer for 7 of the 10 DRGs receives twice the per diem rate the first day and the per diem rate for each following day of the stay prior to the transfer, up to the full DRG payment. However, 3 of the 10 DRGs exhibit a disproportionate share of costs very early in the hospital stay in postacute transfer situations. For these 3 DRGs, hospitals receive 50 percent of the full DRG payment for the first day of the stay and 50 percent of the per diem for the remaining days of the stay, up to the full DRG payment. This is consistent with section 1886(d)(5)(J)(i) of the Act, which recognizes that in some cases “a substantial portion of the costs of care are incurred in the early days of the inpatient stay.”

The statute provides that, after FY 2000, the Secretary is authorized to expand this policy to additional DRGs. In July 1999, the previous Administration committed to not expanding the number of DRGs included in the policy until FY 2003. Therefore, CMS did not propose any change to the postacute care settings or the 10 DRGs in FY 2001 or FY 2002.

Under contract with CMS (Contract No. 500-95-0006), Health Economics Research, Inc. (HER) conducted an analysis of the impact on hospitals and hospital payments of the postacute care transfer provision. We included in the August 1, 2000 final rule (65 FR 47079) a summary of that analysis. Among other issues, the analysis sought to evaluate the reasonableness of expanding the transfer payment policy beyond the current 10 selected DRGs.

The analysis supported the initial 10 DRGs selected as being consistent with the nature of the Congressional mandate. According to HER, “[t]he top 10 DRGs chosen initially by HCFA exhibit very large PAC [postacute care] levels and PAC discharge rates (except for DRG 264, Skin Graft and/or Debridement for Skin Ulcer or Cellulitis without CC, which was paired with DRG 263). All 10 appear to be excellent choices based on the other criteria as well. Most have fairly high short-stay PAC rates (except possibly for Strokes, DRG 14, and Mental Retardation, DRG 429).”

The HER report discussed the issues related to potentially expanding the postacute care transfer policy to all DRGs. In favor of this expansion, HER pointed to the following benefits:

• A simple, uniform, formula-driven policy;

• The same policy rationale exists for all DRGs;

• DRGs with little utilization of short-stay postacute care would not be harmed by the policy;

• Less confusion in discharge destination coding; and

• Hospitals that happen to be disproportionately treating the current 10 DRGs may be harmed more than hospitals with an aggressive, short-stay, postacute care transfer policy for other DRGs.

The complete HER report may be obtained at: http://www.cms.gov/medicare/ippsmain.htm.

Consistent with HER's findings, we believe expanding the postacute care transfer policy to all DRGs may be the most equitable approach at this time, since a policy that is limited to certain DRGs may result in disparate payment treatment across hospitals, depending on the types of cases treated. We are considering implementing this expansion of the postacute transfer policy in the final rule. For example, a hospital specializing in some of the types of cases included in the current 10 DRG transfer policy would receive reduced payments for those cases transferred for postacute care after a brief acute inpatient stay, while a hospital specializing in cases not included in the current 10 DRGs may be just as aggressive in transferring its patients for postacute care, but it would receive full payment for those cases.

Another aspect of the issue is that some hospitals have fewer postacute care options available for their patients. In its June 2001 Report to Congress: Medicare in Rural America, MedPAC wrote: “[a] shortage of ambulatory and post-acute care resources may prevent rural hospitals from discharging patients as early in the episode of care as urban hospitals would” (page 68). MedPAC went on to note that the decline in length of stay for urban hospitals since 1989 was greater for urban hospitals than for rural hospitals (34 percent compared with 25 percent through 1999), presumably due to earlier discharges to postacute care settings. Although MedPAC contemplated returning money saved by expanding the policy to the base payment rate, thereby increasing payments for nontransfer cases, currently section 1886(d)(5)(I)(ii) of the Act provides that any expansion to the postacute transfer policy would not be budget neutral. (Budget neutrality refers to adjusting the base payment rates to ensure total aggregate payments are the same after implementing a policy change as they were prior to the change.) Nevertheless, over the long run, reducing the Medicare Trust Fund expenditures for patients who are transferred to a postacute care setting after a very short acute care hospital stay will improve the program's overall financial stability. Our analysis indicates that expanding the postacute care transfer policy to all DRGs would reduce program payments for these cases by approximately $1.9 billion for FY 2002.

If we were to expand the transfer policy to all DRGs, we would expand the list of those DRGs where a disproportionate share of the costs of the entire stay occurs early in the stay. We conducted analysis to identify those DRGs that would be eligible for the special transfer payment methodology specified in § 412.4(f)(2). As stated above, currently, three DRGs (DRGs 209, 210, and 211) are paid under a special transfer payment calculation whereby they receive 50 percent of the full DRG payment amount on the first day of the stay for cases transferred to a postacute care provider.

We identified cases that were transferred to home health care, SNFs, or long-term care, matching records by beneficiary identification numbers and discharge and admission dates. We standardized charges to account for differences in area wage levels, indirect medical education costs, and disproportionate share payments, and we reduced charges to costs using the available cost-to-charge ratios.

We then grouped the costs by DRG and length of stay. The average costs for transfer cases with a length of stay of 1 day were compared to the costs of transfer cases whose length of stay approximated the geometric mean length of stay for that particular DRG. The average costs for the transfer cases with a length of stay of 1 day were also compared to costs for all cases with a length of stay approximating the geometric mean length of stay across the DRG. Based on this analysis, we identified the following DRGs that, if the postacute care transfer policy were to be expanded, would qualify for the special postacute care transfer payment policy of 50 percent of the full DRG payment for the first day of the stay:

• DRG 7 (Peripheral and Cranial Nerve and Other Nervous System Procedures with CC);

• DRG 159 (Hernia Procedures Except Inguinal and Femoral Age >17 with CC);

• DRG 218 (Lower Extremity and Humerus Procedure Except Hip, Foot, Femur Age >17 with CC);

• DRG 226 (Soft Tissue Procedures with CC);

• DRG 263 (Skin Graft and/or Debridement for Skin Ulcer or Cellulitis with CC);

• DRG 264 (Skin Graft and/or Debridement for Skin Ulcer or Cellulitis without CC);

• DRG 306 (Prostatectomy with CC);

• DRG 308 (Minor Bladder Procedures with CC);

• DRG 315 (Other Kidney and Urinary Tract O.R. Procedures);

• DRG 493 (Laparoscopic Cholecystectomy without C.D.E. with CC); and

• DRG 497 (Spinal Fusion Except Cervical with CC).

This list contains DRGs not currently paid under the special formula (DRGs 209, 210, and 211 will continue to receive the special payment). All of the DRGs in the list meet the following criteria: The average costs of transfer cases on the first day equals the average costs of cases staying the geometric mean length of stay; the geometric mean length of stay is 4 days or greater; and there were at least 50 transfer cases occurring on the first day of the stay.

We also note that DRGs 263 and 264 (which are included in the current list of 10 DRGs subject to the postacute care transfer policy) would qualify for special payment, even though both DRGs have not previously received payment under the special payment provision. However, DRG 264 does qualify under the criteria described above for identifying cases for the potential expanded postacute care transfer policy. Because DRGs 263 and 264 are paired DRGs (that is, the only difference in the cases assigned to DRG 263 as opposed to DRG 264 is that the patient has a complicating or comorbid condition), we would include both DRGs under this expanded policy. If we were to include only DRG 264, there would be an incentive not to include a code identifying a complicating or comorbid condition, so that a transfer case would be assigned to DRG 264 instead of DRG 263 due to the higher per diem payment for DRG 264.

Rather than expand the postacute care transfer policy to all DRGs, another option that we are considering for the final rule is expanding the postacute care transfer policy only to additional DRGs that have high rates of transfers, similar to the initial implementation of only 10 DRGs. For example, an incremental expansion would be to add another 10 DRGs to the policy. Using the same criteria to identify DRGs with high postacute care transfer rates, we identified additional DRGs to include in the postacute care transfer policy. We note that three of the DRGs we identified are paired DRGs (that is, they contain a CC/no-CC split). For the same reason given above for treating paired DRGS consistently, we would include the pairs for the 10 DRGs identified. We estimate the impact of this approach would be to reduce payments to hospitals by approximately $916 million for FY 2002. Under this approach, discharges from the following 13 DRGs (in addition to the 10 DRGs already subject to the postacute care transfer policy) could be considered to be subject to an alternative postacute care transfer policy:

• DRG 12 (Degenerative Nervous System Disorders);

• DRG 79 (Respiratory Infections and Inflammations Age >17 with CC);

• DRG 80 (Respiratory Infections and Inflammations Age >17 without CC);

• DRG 107 (Coronary Bypass with Cardiac Catheterization);

• DRG 109 (Coronary Bypass with PTCA or Cardiac Catheterization);

• DRG 148 (Major Small and Large Bowel Procedures with CC);

• DRG 149 (Major Small and Large Bowel Procedures without CC);

• DRG 239 (Pathological Fractures and Musculoskeletal System and Connective Tissue Malignancy);

• DRG 243 (Medical Back Problems);

• DRG 320 (Kidney and Urinary Tract Diagnoses Age >17 with CC);

• DRG 321 (Kidney and Urinary Tract Diagnoses Age >17 without CC);

• DRG 415 (O.R. Procedure for Infections and Parasitic Diseases); and

• DRG 468 (Extensive O.R. Procedure Unrelated to Principal Diagnosis).

Expanding the postacute care transfer policy in this limited manner, however, would retain many of the potential inequities of the current system. Although we are concerned about the potential for a large impact of implementing any expansion of the postacute care transfer payment policy, we believe that the current policy may create payment inequities across patients and across hospitals. By expanding the postacute transfer policy, we would expect to reduce or eliminate these possible inequities. Therefore, we are soliciting comments on the two options we have identified and discussed in this proposed rule. In the final rule, we could adopt one of the approaches discussed above, or some other approach based on comments received on this proposal for addressing this issue. If commenters submit comments on alternate approaches, we are asking them to also provide useful data relating to alternative DRGs to which the expansion should or should not apply and detailed supporting explanations.

If we adopt either of the proposals discussed above or a variation based on comments submitted, we would follow procedures similar to those that are currently followed for treating cases identified as transfers in the DRG recalibration process. That is, as described in the discussion of DRG recalibration in section II.C. of this proposed rule, additional transfer cases would be counted as a fraction of a case based on the ratio of a hospital's transfer payment under the per diem payment methodology to the full DRG payment for nontransfer cases.

2. Technical Correction

When we revised our regulations on payments for discharges and transfers under § 412.4 in the July 31, 1998 final rule (63 FR 41003), we inadvertently did not exclude discharges from one hospital area or unit to another inpatient area or unit of the hospital that is paid under the acute care hospital inpatient prospective payment system (§ 412.4(b)(2)) from the types of cases paid under the general rule for transfer cases. We are proposing to correct the regulation text to reflect our policy (as reflected in prior preamble language) that transfers from one area or unit within a hospital to another are not paid as transfers (except as described under the special 10 DRG rule at § 412.4(c)). We are proposing to correct this error by revising § 412.4(f)(1) to provide that only the circumstances described in paragraph (b)(1) and (c) of § 412.4 are paid as transfers under the general transfer rule. This proposed correction would reflect the fact that transfers under § 412.4(b)(2) are to be paid as discharges and not transfers.

B. Sole Community Hospitals (SCHs) (§§ 412.77 and 412.92)

1. Phase-In of FY 1996 Hospital-Specific Rates

Under the acute care hospital inpatient prospective payment system, special payment protections are provided to a sole community hospital (SCH). Section 1886(d)(5)(D)(iii) of the Act defines an SCH as a hospital that, by reason of factors such as isolated location, weather conditions, travel conditions, absence of other like hospitals (as determined by the Secretary), or historical designation by the Secretary as an essential access community hospital, is the sole source of inpatient hospital services reasonably available to Medicare beneficiaries. The regulations that set forth the criteria that a hospital must meet to be classified as an SCH are located in § 412.92.

To be classified as an SCH, a hospital either must have been designated as an SCH prior to the beginning of the hospital inpatient prospective payment system on October 1, 1983, or must be located more than 35 miles from other like hospitals, or the hospital must be located in a rural area and meet one of the following requirements:

• It is located between 25 and 35 miles from other like hospitals, and it—

—Serves at least 75 percent of all inpatients, or at least 75 percent of Medicare beneficiary inpatients, within a 35-mile radius or, if larger, within its service area; or

—Has fewer than 50 beds and would qualify on the basis of serving at least 75 percent of its area's inpatients except that some patients seek specialized care unavailable at the hospital.

• It is located between 15 and 35 miles from other like hospitals, and because of local topography or extreme weather conditions, the other like hospitals are inaccessible for at least 30 days in each of 2 out of 3 years.

• The travel time between the hospital and the nearest like hospital is at least 45 minutes because of distance, posted speed limits, and predictable weather conditions.

Effective with hospital cost reporting periods beginning on or after April 1, 1990, section 1886(d)(5)(D)(i) of the Act, as amended by section 6003(e) of Public Law 101-239, provides that SCHs are paid based on whichever of the following rates yields the greatest aggregate payment to the hospital for the cost reporting period:

• The Federal rate applicable to the hospital;

• The updated hospital-specific rate based on FY 1982 costs per discharge; or

• The updated hospital-specific rate based on FY 1987 costs per discharge.

Section 405 of Public Law 106-113 added section 1886(b)(3)(I) to the Act, and section 213 of Public Law 106-554 made further amendments to that section of the Act extending to all SCHs the ability to rebase their hospital-specific rates using their FY 1996 operating costs, effective for cost reporting periods beginning on or after October 1, 2000. The provisions of section 1886(b)(3)(I) of the Act were addressed in the June 13, 2001 interim final rule with comment period (66 FR 32177) and were finalized in the August 1, 2001 final rule (66 FR 39872).

In the June 13, 2001 interim final rule, we correctly described the provisions of section 1886(b)(3)(I) of the Act, as amended, and their implementation. However, in the August 1, 2001 final rule, in summarizing the numerous legislative provisions that had affected payments to SCHs, we incorrectly described the application of the statutory provisions in the background section of the preamble on SCHs (66 FR 39872). (We wish to point out that the Addendum to the August 1, 2001 final rule accurately describes the calculation of the hospital-specific rate (66 FR 39944).) Specifically, the payment options that we described in the August 1, 2001 preamble language on SCHs were incorrect in that we did not include the Federal rate in the blends. Therefore, we are providing below a correct description of the provisions of section 1886(b)(3)(I) of the Act and clarifying their application in determining which of the payment options will yield the highest rate of payment for SCHs.

For purposes of payment to SCHs for which the FY 1996 hospital-specific rate yields the greatest aggregate payment, the Federal rate is included in the blend, as set forth below:

• For discharges during FY 2001, 75 percent of the greater of the Federal amount or the updated FY 1982 or FY 1987 hospital-specific rates (identified in the statute as the subsection (d)(5)(D)(i) amount), plus 25 percent of the updated FY 1996 hospital-specific rate (identified in the statute as the “rebased target amount”).

• For discharges during FY 2002, 50 percent of the greater of the Federal amount or the updated FY 1982 or FY 1987 hospital-specific rates, plus 50 percent of the updated FY 1996 hospital-specific rate.

• For discharges during FY 2003, 25 percent of the greater of the Federal amount or the updated FY 1982 or FY 1987 hospital-specific rates, plus 75 percent of the updated FY 1996 hospital-specific rate.

• For discharges during FY 2004 and subsequent fiscal years, the hospital-specific rate would be determined based on 100 percent of the updated FY 1996 hospital-specific rate.

For each cost reporting period, the fiscal intermediary determines which of the payment options will yield the highest rate of payment. Payments are automatically made at the highest rate using the best data available at the time the fiscal intermediary makes the determination. However, it may not be possible for the fiscal intermediary to determine in advance precisely which of the rates will yield the highest payment by year's end. In many instances, it is not possible to forecast the outlier payments, the amount of the disproportionate share hospital (DSH) adjustment, or the indirect medical education (IME) adjustment, all of which are applicable only to payments based on the Federal rate. The fiscal intermediary makes a final adjustment at the close of the cost reporting period to determine precisely which of the payment rates would yield the highest payment to the hospital.

If a hospital disagrees with the fiscal intermediary's determination regarding the final amount of program payment to which it is entitled, it has the right to appeal the fiscal intermediary's decision in accordance with the procedures set forth in Subpart R of Part 405, which concern provider payment determinations and appeals.

The regulation text of § 412.77 and § 412.92(d) that was revised to incorporate the provisions of section 1886(b)(3)(I) of the Act, as amended, and published in the June 13, 2001 interim final rule with comment period (66 FR 32192 through 32193) and finalized in the August 1, 2001 final rule (66 FR 39932), is accurate.

2. SCH Like Hospitals

Section 1886(d)(5)(D)(iii) of the Act provides that, to qualify as a SCH, a hospital must be not more than 35 road miles from another hospital. There are several other conditions under which a hospital may qualify as a SCH, including if it is the “* * * sole source of inpatient hospital services reasonably available to individuals in a geographic area * * *” because of factors such as the “* * * absence of other like hospitals * * *” We have defined a “like hospital” in regulations as a hospital furnishing short-term, acute care (§ 412.92(c)(2)). Like hospitals refers to hospitals paid under the acute care hospital inpatient prospective payment system.

We have become aware that, in some cases, new specialty hospitals that offer a very limited range of services have opened within the service area of a SCH and may be threatening the special status of the SCH. For example, a hospital that offers only a select type of surgery on an inpatient basis would qualify under our existing rules as an SCH “like hospital” if it met the hospital conditions of participation and was otherwise eligible for payment under the acute care hospital inpatient prospective payment system. Under our existing regulations, a SCH could lose its special status due to the opening of such a specialty hospital, even though there is little, if any, overlap in the types of services offered by the SCH and the specialty hospital.

We believe that limiting eligibility for SCH status to hospitals without SCH like hospitals in their service area is a way to identify those hospitals that truly are the sole source of short-term acute-care inpatient services in the community. A limited-service, specialty hospital, by definition, would not offer an alternate source of care in the community for most inpatient services and therefore, we believe, should not be considered a “like” hospital with the effect of negating SCH status of a hospital that is the sole source of short-term acute care inpatient services in the community. Therefore, we are proposing to amend the definition of SCH like hospitals under § 412.92(c)(2), effective with cost reporting periods beginning on or after October 1, 2002, to exclude any hospital that provides no more than a very small percent of the services furnished by the limited-service facility that overlap with the services provided by the SCH. We believe the percentage of overlapping services should be sufficiently small so that we can ensure that only hospitals that truly are the sole source of short-term acute-care in their community qualify for SCH status. Therefore, we are proposing that this percentage be set at 3 percent. However, we are soliciting public comments on alternate appropriate levels of service overlap, as well as on the overall proposed change to the definition of like hospitals.

C. Outlier Payments: Technical Change (§ 412.80)

Sections 1886(d)(5)(A) and (d)(5)(K) of the Act provide for payments, in addition to the basic prospective payments, for “outlier” cases; that is, cases involving extraordinarily high costs. Cases qualify for outlier payments by demonstrating costs that exceed a fixed loss cost outlier threshold equal to the prospective payment rate for the DRG plus any IME (§ 412.105) and DSH (§ 412.106) payments for the case and, for discharges on or after October 1, 2001, additional payments for new technologies or services.

Implementing regulations for outlier payments are located in subpart F of part 412. Paragraph (a) of § 412.80 specifies the basic rules for making the additional outlier payments, broken down into three applicable effective periods. We have become aware that in paragraph (a)(2), which relates to outlier payments for discharges occurring on or after October 1, 1997, and before October 1, 2001, we did not include language to specify that the additional costs of outlier cases must exceed the standard DRG payment and any additional payment the hospital would receive for IME and for DSH, plus a fixed loss dollar threshold. Therefore, we are proposing to make a technical change by revising § 412.80(a)(2), applicable for discharges occurring during the period between October 1, 1997 and October 1, 2001, to include the appropriate language regarding additional payments for IME and payments for DSH. (We note that when we amended § 412.80 to incorporate the provisions on the additional payments for new technology under paragraph (a)(3) (66 FR 46924, September 7, 2001), effective October 1, 2001, we did include this language.)

D. Rural Referral Centers (§ 412.96)

Under the authority of section 1886(d)(5)(C)(i) of the Act, the regulations at § 412.96 set forth the criteria that a hospital must meet in order to qualify under the prospective payment system as a rural referral center. For discharges occurring before October 1, 1994, rural referral centers received the benefit of payment based on the other urban amount rather than the rural standardized amount. Although the other urban and rural standardized amounts were the same for discharges beginning with that date, rural referral centers continue to receive special treatment under both the DSH payment adjustment and the criteria for geographic reclassification.

Section 1886(d)(8)(E) of the Act, as amended, creates a mechanism, separate and apart from the MGCRB, permitting an urban hospital to apply to the Secretary to be treated as being located in the rural area of the State in which the hospital is located. The statute directs the Secretary to treat a qualifying hospital as being located in the rural area for purposes of provisions under section 1886(d) of the Act. One of the criteria under section 1886(d)(8)(E) of the Act is that the hospital would qualify as an SCH or a rural referral center if it were located in a rural area. An SCH would be eligible to be paid on the basis of the higher of its hospital-specific rate or the Federal rate. On the other hand, a primary benefit under section 1886(d) of the Act for an urban hospital to become a rural referral center would be waiver of the proximity requirements that are otherwise applicable under the MGCRB process, as set forth in § 412.230(a)(3)(i).

Although hospitals that are reclassified as rural under section 1886(d)(8)(E) of the Act are not permitted to reclassify through the MGCRB, effective October 1, 2000, hospitals located in what is now an urban area if they were ever a rural referral center, were reinstated to rural referral center status. These hospitals may then take advantage of the waiver from the proximity requirements for reclassification.

In addition, as discussed in 62 FR 45999 and 63 FR 26317, under section 4202 of Public Law 105-33, a hospital that was classified as a rural referral center for FY 1991 is to be classified as a rural referral center for FY 1998 and later years so long as that hospital continued to be located in a rural area and did not voluntarily terminate its rural referral center status. Otherwise, a hospital seeking rural referral center status must satisfy applicable criteria. One of the criteria under which a hospital may qualify as a rural referral center is to have 275 or more beds available for use. A rural hospital that does not meet the bed size requirement can qualify as a rural referral center if the hospital meets two mandatory prerequisites (specifying a minimum case-mix index and a minimum number of discharges) and at least one of three optional criteria (relating to specialty composition of medical staff, source of inpatients, or referral volume). With respect to the two mandatory prerequisites, a hospital may be classified as a rural referral center if—

• The hospital's case-mix index is at least equal to the lower of the median case-mix index for urban hospitals in its census region, excluding hospitals with approved teaching programs, or the median case-mix index for all urban hospitals nationally; and

• The hospital's number of discharges is at least 5,000 per year, or, if fewer, the median number of discharges for urban hospitals in the census region in which the hospital is located. (The number of discharges criterion for an osteopathic hospital is at least 3,000 discharges per year.)

1. Case-Mix Index

Section 412.96(c)(1) provides that CMS will establish updated national and regional case-mix index values in each year's annual notice of prospective payment rates for purposes of determining rural referral center status. The methodology we use to determine the proposed national and regional case-mix index values is set forth in regulations at § 412.96(c)(1)(ii). The proposed national mean case-mix index value includes all urban hospitals nationwide, and the proposed regional values are the median values of urban hospitals within each census region, excluding those with approved teaching programs (that is, those hospitals receiving indirect medical education payments as provided in § 412.105). These values are based on discharges occurring during FY 2001 (October 1, 2000 through September 30, 2001) and include bills posted to CMS's records through December 2001.

We are proposing that, in addition to meeting other criteria, hospitals with fewer than 275 beds, if they are to qualify for initial rural referral center status for cost reporting periods beginning on or after October 1, 2002, must have a case-mix index value for FY 2001 that is at least—

• 1.3229; or

• The median case-mix index value for urban hospitals (excluding hospitals with approved teaching programs as identified in § 412.105) calculated by CMS for the census region in which the hospital is located.

The median case-mix index values by region are set forth in the following table:

Region | Case-Mix index value
1. New England (CT, ME, MA, NH, RI, VT) | 1.2089
2. Middle Atlantic (PA, NJ, NY) | 1.2235
3. South Atlantic (DE, DC, FL, GA, MD, NC, SC, VA, WV) | 1.2985
4. East North Central (IL, IN, MI, OH, WI) | 1.2377
5. East South Central (AL, KY, MS, TN) | 1.2459
6. West North Central (IA, KS, MN, MO, NE, ND, SD) | 1.1616
7. West South Central (AR, LA, OK, TX) | 1.2641
8. Mountain (AZ, CO, ID, MT, NV, NM, UT, WY) | 1.3255
9. Pacific (AK, CA, HI, OR, WA) | 1.2779

The preceding numbers will be revised in the final rule to the extent required to reflect the updated FY 2001 MedPAR file, which will contain data from additional bills received through March 31, 2002.

Hospitals seeking to qualify as rural referral centers or those wishing to know how their case-mix index value compares to the criteria should obtain hospital-specific case-mix index values from their fiscal intermediaries. Data are available on the Provider Statistical and Reimbursement (PS&R) System. In keeping with our policy on discharges, these case-mix index values are computed based on all Medicare patient discharges subject to DRG-based payment.

2. Discharges

Section 412.96(c)(2)(i) provides that CMS will set forth the national and regional numbers of discharges in each year's annual notice of prospective payment rates for purposes of determining rural referral center status. As specified in section 1886(d)(5)(C)(ii) of the Act, the national standard is set at 5,000 discharges. We are proposing to update the regional standards based on discharges for urban hospitals' cost reporting periods that began during FY 2001 (that is, October 1, 2000 through September 30, 2001). That is the latest year for which we have complete discharge data available.

Therefore, we are proposing that, in addition to meeting other criteria, a hospital, if it is to qualify for initial rural referral center status for cost reporting periods beginning on or after October 1, 2002, must have as the number of discharges for its cost reporting period that began during FY 2001 a figure that is at least—

• 5,000; or

• The median number of discharges for urban hospitals in the census region in which the hospital is located, as indicated in the following table:

Region | Number of discharges
1. New England (CT, ME, MA, NH, RI, VT) | 6,905
2. Middle Atlantic (PA, NJ, NY) | 8,648
3. South Atlantic (DE, DC, FL, GA, MD, NC, SC, VA, WV) | 8,914
4. East North Central (IL, IN, MI, OH, WI) | 8,040
5. East South Central (AL, KY, MS, TN) | 6,748
6. West North Central (IA, KS, MN, MO, NE, ND, SD) | 5,696
7. West South Central (AR, LA, OK, TX) | 6,220
8. Mountain (AZ, CO, ID, MT, NV, NM, UT, WY) | 9,167
9. Pacific (AK, CA, HI, OR, WA) | 7,053

We note that the median number of discharges for hospitals in each census region is greater than the national standard of 5,000 discharges. Therefore, 5,000 discharges is the minimum criterion for all hospitals. These numbers will be revised in the final rule based on the latest FY 2001 cost report data.

We reiterate that an osteopathic hospital, if it is to qualify for rural referral center status for cost reporting periods beginning on or after October 1, 2002, must have at least 3,000 discharges for its cost reporting period that began during FY 2001.

E. Indirect Medical Education (IME) Adjustment (§ 412.105)

1. Background

Section 1886(d)(5)(B) of the Act provides that prospective payment hospitals that have residents in an approved graduate medical education (GME) program receive an additional payment for a Medicare discharge to reflect the higher indirect operating costs of teaching hospitals relative to nonteaching hospitals. The existing regulations regarding the calculation of this additional payment, known as the indirect medical education (IME) adjustment, are located at § 412.105. The additional payment is based on the IME adjustment factor. The IME adjustment factor is calculated using a hospital's ratio of residents to beds, which is represented as r, and a multiplier, which is represented as c, in the following equation: c × [(1 + r).405 − 1]. The formula is traditionally described in terms of a certain percentage increase in payment for every 10-percent increase in the resident-to-bed ratio. Section 1886(d)(5)(B)(ii)(VII) of the Act provides that, for discharges occurring during FY 2003 and thereafter, the “c” variable, or formula multiplier, is 1.35. The formula multiplier of 1.35 represents a 5.5-percent increase in IME payment for every 10-percent increase in the resident-to-bed ratio.

2. Temporary Adjustments to the FTE Cap To Reflect Residents Affected by Residency Program Closure: Resident-to-Bed Ratio for Displaced Residents (§§ 412.105(a) and (f)(1)(ix))

In the August 1, 2001 hospital inpatient prospective payment system final rule (66 FR 39899), we expanded the policy at existing § 413.86(g)(8) (proposed to be redesignated as § 413.86(g)(9) in this proposed rule), which allows a temporary adjustment to a hospital's FTE cap when a hospital trains additional residents because of another hospital's closure, to also allow a temporary adjustment when a hospital trains residents displaced by the closure of another hospital's residency program (but the hospital itself remains open). We revised regulations at existing § 413.86(g)(8) to state that, if a hospital that closes its residency training program agrees to temporarily reduce its FTE cap, another hospital(s) may receive a temporary adjustment to its FTE cap to reflect residents added because of the closure of the former hospital's residency training program. We defined “closure of a hospital residency training program” as when the hospital ceases to offer training for residents in a particular approved medical residency training program. The methodology for adjusting the caps for the “receiving” hospital and the “hospital that closed its program” as they apply to the IME adjustment and direct GME payments is set forth in the regulations at existing §§ 412.105(f)(1)(ix) and 413.86(g)(8)(iii), respectively.

In the August 1, 2001 rule, we noted a commenter who requested that CMS further revise the regulations to grant temporary relief to hospitals in calculating the IME adjustment with regard to application of the resident-to-bed ratio cap (66 FR 39900). The commenter believed that while the cap on the number of residents has been temporarily adjusted, if the receiving hospital is not allowed to also adjust its resident-to-bed ratio in the prior year, the lower resident-to-bed ratio from the prior year would act to reduce the IME payments to the receiving hospital. The commenter suggested that, similar to the exception for residents in hospitals that begin new programs under § 412.105(a)(1), an adjustment should be made to the prior year's FTE residents equal to the increase in the current year's FTEs that is attributable to the transferred residents. In response to the commenter, we stated that we had decided not to allow the exclusion of these displaced residents in applying the resident-to-bed ratio cap. We explained that, while we believed that the receiving hospital may be held to a lower cap in the first year of training the displaced residents, the receiving hospital would benefit from the higher cap in the subsequent years as the displaced residents complete their training and leave that hospital. However, we indicated that we would consider suggestions for possible future changes to this policy.

We have revisited this policy and now realize that our rationale for not allowing the adjustment for displaced residents to the resident-to-bed ratio cap may have been faulty. We initially believed that, in the year following the last year in which displaced residents trained at the receiving hospital, the receiving hospital would benefit from the higher resident-to-bed ratio cap. However, we have determined that, while it is correct that the hospital will have a higher resident-to-bed ratio cap because of the higher number of displaced residents in the prior year, the receiving hospital's FTE count decreases as the displaced residents finish their training. Therefore, the receiving hospital would not need a higher resident-to-bed ratio cap to accommodate the remaining FTEs. Consequently, the higher resident-to-bed ratio cap in fact would not benefit the receiving hospital. Thus, we are now proposing to allow the exclusion of residents displaced by either the closure of another hospital's program or another hospital's closure in applying the resident-to-bed ratio cap. Specifically, assuming a hospital is eligible to receive a temporary adjustment to its FTE cap as described in existing § 413.86(g)(8), we are proposing that, solely for purposes of applying the resident-to-bed ratio cap in the first year in which the receiving hospital is training the displaced residents, the receiving hospital may adjust the numerator of the prior year's resident-to-bed ratio by the number of FTE residents that has caused the receiving hospital to exceed its FTE cap. (We note that this adjustment to the resident-to-bed ratio cap does not apply to changes in bed size). In the years subsequent to the first year in which the receiving hospital takes in the displaced residents, we believe an adjustment to the numerator of the prior year's resident-to-bed ratio is unnecessary because the receiving hospital's actual FTE count in those years would either stay the same or, as the displaced residents complete their training or leave that hospital, decrease each year. If all other variables remain constant, an increase in the current year's resident-to-bed ratio will establish a higher cap for the following year. In the second and subsequent years of training the displaced residents, the receiving hospital's resident-to-bed ratio for the current year would not be higher than the prior year's ratio and thus would not be limited by the resident-to-bed ratio cap.

In the cost reporting period following the departure of the last displaced residents, when the temporary FTE cap adjustment is no longer applicable, we are proposing that, solely for purposes of applying the resident-to-bed ratio cap, the resident-to-bed ratio be calculated as if the displaced residents had not trained at the receiving hospital in the prior year. In other words, in the year that the hospital is no longer training displaced residents, the attendant FTEs should be removed from the numerator of the resident-to-bed ratio from the prior year (that is, the resident-to-bed ratio cap). We believe that because we are proposing to allow the adjustment to the resident-to-bed ratio cap in the first year in which the receiving hospital trains displaced residents, it is equitable to remove those FTEs when calculating the resident-to-bed ratio cap after all the displaced residents have completed their training at the receiving hospital.

The following is an example of how the receiving hospital's IME resident-to-bed ratio cap would be adjusted for displaced residents coming from either a closed hospital or a closed program:

Example: Hospital A has a family practice program with 3 residents. On June 30, 2002, Hospital A closes. Hospital B, which also has a family practice program, agrees to continue the training of Hospital A's residents beginning July 1, 2002. Its fiscal year end is June 30. As of July 1, 2002, the 3 residents displaced by the closure of Hospital A include 1 PGY1 resident, 1 PGY2 resident, and 1 PGY3 resident. In addition, Hospital B has 5 of its own residents, an IME FTE resident cap of 5, and 100 beds. Subject to the criteria under existing § 413.86(g)(8), Hospital B's FTE cap is temporarily increased to 8 FTEs. According to the proposed policy stated above, Hospital B's resident-to-bed ratio and resident-to-bed ratio cap would be determined as follows:

July 1, 2002 through June 30, 2003

• Resident-to-bed ratio: 5 FTEs + 3 displaced FTEs / 100 beds = .08 (line 3.18 of Worksheet E, Part A of the Medicare cost report, Form CMS 2552-96).

(Note: For purposes of applying the rolling average calculation at § 412.105(f)(1)(v) to this example, it is assumed that Hospital B had 5 FTE residents in both the prior and the penultimate cost reporting periods. Therefore, 5 FTEs are used in the numerator of the resident-to-bed ratio. Under § 412.105(f)(1)(v), displaced residents are added to the receiving hospital's rolling average FTE count in each year that the displaced residents are training at the receiving hospital.)

• Resident-to-bed ratio cap: 5 FTEs (from fiscal year end June 30, 2002) + 3 displaced FTEs (from fiscal year end June 30, 2003) / 100 beds = .08 (line 3.19 of Worksheet E, Part A of Form CMS 2552-96).

• The lower of the resident-to-bed ratio from the current year (.08) or the resident-to-bed ratio cap from the prior year (.08) is used to calculate the IME adjustment. Therefore, Hospital B would use a resident-to-bed ratio of .08 (line 3.20 of Worksheet E, Part A of Form CMS 2552-96).

July 1, 2003 through June 30, 2004

The PGY3 displaced resident has completed his or her family practice training on June 30, 2003 and has left Hospital B. Hospital B continues to train a displaced (now) PGY2 resident, and a displaced (now) PGY3 resident.

• Resident-to-bed ratio: 5 FTEs + 2 displaced FTEs / 100 beds = .07 (line 3.18 of Worksheet E, Part A of Form CMS 2552-96).

• Resident-to-bed ratio cap: 5 FTEs (from fiscal year end June 30, 2003) + 3 displaced FTEs (from fiscal year end June 30, 2003) / 100 beds = .08 (line 3.19 of Worksheet E, Part A of Form CMS 2552-96).

• The lower of the resident-to-bed ratio from the current year (.07) or the resident-to-bed ratio cap from the prior year (.08) is used to calculate the IME adjustment. Hospital B would use a resident-to-bed ratio of .07 (line 3.20 of Worksheet E, Part A of Form CMS 2552-96).

July 1, 2004 through June 30, 2005

Another of the remaining displaced residents has completed his or her family practice training on June 30, 2004 and has left Hospital B. Hospital B continues to train one displaced (now) PGY3 resident.

• Resident-to-bed ratio: 5 FTEs + 1 displaced FTE / 100 beds = .06 (line 3.18 of Worksheet E, Part A of Form CMS 2552-96).

• Resident-to-bed ratio cap: 5 FTEs (from fiscal year end June 30, 2004) + 2 displaced FTEs (from fiscal year end June 30, 2004) / 100 beds = .07 (line 3.19 of Worksheet E, Part A of Form CMS 2552-96).

• The lower of the resident-to-bed ratio from the current year (.06) or the resident-to-bed ratio cap from the prior year (.07) is used to calculate the IME adjustment. Hospital B would use a resident-to-bed ratio of .06 (line 3.20 of Worksheet E, Part A of Form CMS 2552-96).

July 1, 2005 through June 30, 2006

The last displaced resident has completed his or her family practice training on June 30, 2005 and has left Hospital B. Hospital B no longer trains any displaced residents, and, therefore, the last displaced resident is removed from the numerator of the resident-to-bed ratio cap.

• Resident-to-bed ratio: 5 FTEs + 0 displaced FTEs / 100 beds = .05

• Resident-to-bed ratio cap: 5 FTEs (from fiscal year end June 30, 2005) + 0 displaced FTEs (subtract 1 displaced FTE from FYE June 30, 2005) / 100 beds = .05

• The lower of the resident-to-bed ratio from the current year (.05) or the resident-to-bed ratio cap from the prior year (.05) is used to calculate the IME adjustment. Hospital B would use a resident-to-bed ratio of .05.

We are proposing that this exception to the resident-to-bed ratio cap for residents coming from a closed hospital or a closed program would be effective for cost reporting periods beginning on or after October 1, 2002. We are proposing to revise § 412.105(a)(1) accordingly.

3. Counting Beds for the IME and DSH Adjustments (§ 412.105(b) and § 412.106(a)(l)(i))

As discussed under section V.E.2. of this proposed rule, the regulations for determining the number of beds to be used in calculating the resident-to-bed ratio for the IME adjustment are located at § 412.105(b). These regulations also are used to determine the number of beds for other purposes, including calculating the DSH adjustment at § 412.106(a)(l)(i). Section 412.105(b) specifies that the number of beds in a hospital is determined by counting the number of available bed days during the cost reporting period and dividing that number by the number of days in the cost reporting period. The number of available bed days does not include beds or bassinets in the healthy newborn nursery, custodial care beds, or beds in excluded distinct part hospital units.

Section 2405.3G of Part I of the Medicare Provider Reimbursement Manual (PRM) further defines “available” beds. Specifically, section 2405.3G states that an available bed is a bed that is permanently maintained and is available for use to lodge inpatients. However, there has been some uncertainty concerning the application of this definition of “available.” For example, a question arises as to whether beds in rooms or entire units that are unoccupied for extended periods of time should continue to be counted on the basis that, if there would ever be a need, they could be put into use.

Counting the number of beds in a hospital is intended to measure the size of a hospital's routine acute care inpatient operations. While hospitals necessarily maintain some excess capacity, we believe there is a point where excess capacity may distort the bed count. Therefore, we are proposing to revise our policy concerning the determination of a hospital's bed size to exclude beds that represent an excessive level of unused capacity. We believe this proposed refinement of our bed counting policy would better capture the size of a hospital's inpatient operations as described above.

We analyzed Medicare hospital data and found that, among hospitals that have between 100 and 130 beds, hospitals receiving DSH payments have lower occupancy rates than similar hospitals not receiving DSH payments. Because DSH payments are higher for urban hospitals with more than 100 beds, there may be an incentive for these hospitals to maintain excess capacity in order to qualify for those higher payments. Among 189 urban hospitals in this bed-size range that did not receive DSH payments during FY 1999, the average occupancy rate was 55 percent. However, among 294 urban hospitals in this bed-size range that did receive DSH payments during FY 1999, the average occupancy rate was 47 percent. Twenty-five percent of this group of hospitals (those receiving DSH payments) had occupancy rates below 35 percent. Among the hospitals not receiving DSH payments, 25 percent had occupancy rates below 43 percent. We believe this is indicative of a tendency among some small urban hospitals to maintain excess capacity in order to qualify for higher DSH payments. Therefore, we are proposing that if a hospital's reported bed count results in an occupancy rate (average daily census of patients divided by number of beds) below 35 percent, the applicable bed count, for purposes of establishing the number of available beds for that hospital, would exclude beds that would result in an average annual occupancy rate below 35 percent (proposed § 412.105(b)(3)).

For example, if a hospital reports 105 beds for a cost reporting period, but has an average daily census of 26 patients for that same cost reporting period, its occupancy rate equals 24.8 percent (that is, 26/105). Because its occupancy rate is below the proposed minimum threshold of 35 percent, its maximum available bed count would be 74, which is the number of beds that would result in an occupancy rate of 35 percent, given an average daily census of 26 patients (that is, 26/.35).

We would otherwise continue to determine a hospital's bed size using existing regulations and program manual instructions, including the application of the available bed policy.

Following are the steps a hospital would undertake in determining its number of beds in a cost reporting period under our proposed policy:

Step 1: Determine the number of available beds using the existing regulations at § 412.105(b) and PRM instructions.

Step 2: Determine the average daily census by dividing the total number of inpatient acute care days in the hospital by the number of days in the cost reporting period.

Step 3: Divide the average daily census determined in step 2 by 35 percent.

Step 4: Use the lower of the number of beds as determined under step 1, or the result of step 3 for purposes of the IME and DSH calculations.

We believe that this proposed policy more accurately indicates the size of a hospital's operations. We are proposing to specify under proposed § 412.105(b)(3) that if a hospital's reported bed count results in an occupancy rate below 35 percent, the applicable bed count for that hospital would be the number of beds that would result in an occupancy rate of 35 percent. We are proposing to make this proposed policy effective for discharges occurring on or after October 1, 2002.

F. Medicare-Dependent, Small Rural Hospitals: Ongoing Review of Eligibility Criteria (§ 412.108(b))

Section 6003(f) of the Omnibus Budget Reconciliation Act of 1989 (Public Law 101-239) added section 1886(d)(5)(G) to the Act and created the category of Medicare-dependent, small rural hospitals (MDHs). MDHs are eligible for a special payment adjustment under the acute care hospital inpatient prospective payment system. Initially, in order to be classified as an MDH, a hospital must have met all of the following criteria:

• The hospital is located in a rural area (as defined in § 412.63(b);

• The hospital has 100 or fewer beds (as defined at § 412.105(b)) during the cost reporting period;

• The hospital is not classified as an SCH (as defined at § 412.92); and

• The hospital has no less than 60 percent of its inpatient days or discharges attributable to inpatients receiving Medicare Part A benefits during its cost reporting period beginning in FY 1987.

MDHs were eligible for a special payment adjustment under the acute care hospital inpatient prospective payment system, effective for cost reporting periods beginning on or after April 1, 1990, and ending on or before March 31, 1993. Hospitals classified as MDHs were paid using the same methodology applicable to SCHs, that is, based on whichever of the following rates yielded the greatest aggregate payment for the cost reporting period:

• The national Federal rate applicable to the hospital.

• The updated hospital-specific rate based on FY 1982 costs per discharge.

• The updated hospital-specific rate based on FY 1987 costs per discharge.

Section 13501(e)(1) of the Omnibus Budget Reconciliation Act of 1993 (Public Law 103-66) extended the MDH provision through FY 1994 and provided that, after the hospital's first three 12-month cost reporting periods beginning on or after April 1, 1990, the additional payment to an MDH whose applicable hospital-specific rate exceeded the Federal rate was limited to 50 percent of the amount by which the hospital-specific rate exceeded the Federal rate. The MDH provision expired effective with cost reporting periods beginning on or after October 1, 1994.

Section 4204(a)(3) of Public Law 105-33 reinstated the MDH special payment for discharges occurring on or after October 1, 1997 and before October 1, 2001, but did not revise the qualifying criteria for these hospitals or the payment methodology.

Section 404(a) of Public Law 106-113 extended the MDH provision to discharges occurring before October 1, 2006.

As specified in the June 13, 2001 interim final rule with comment period (66 FR 32172) and finalized in the August 1, 2001 final rule (66 FR 39883), section 212 of Public Law 106-554 provided that, effective with cost reporting periods beginning on or after April 1, 2001, a hospital has the option to base MDH eligibility on two of the three most recently audited cost reporting periods for which the Secretary has a settled cost report, rather than on the cost reporting period that began during FY 1987 (section 1886(d)(5)(G)(iv)(IV) of the Act). According to section 1886(d)(5)(G)(iv)(IV) of the Act, the criteria for at least 60 percent Medicare utilization will be met if, in at least “2 of the 3 most recently audited cost reporting periods for which the Secretary has a settled cost report”, at least 60 percent of the hospital's inpatient days or discharges were attributable to individuals receiving Medicare Part A benefits.

We would like to point out that cost reports undergo different levels of review. For example, some cost reports are settled with a desk review; others, through a full field audit. We believe the intention of the law is to provide hospitals the ability to qualify for MDH status based on their most recent settled cost reporting periods, each of which undergoes a level of audit in its settlement.

Hospitals that qualify under section 1886(d)(5)(G)(iv)(IV) of the Act are subject to the other provisions already in place for MDHs. That is, all MDHs are paid using the payment methodology as defined in § 412.108(c) and may be eligible for the volume decrease provision as defined in § 412.108(d).

Under existing classification procedures at § 412.108(b), a hospital must submit a written request to its fiscal intermediary to be considered for MDH status based on at least two of its three most recently audited cost reporting periods for which the Secretary has a settled cost report (as specified in § 412.108(a)(1)(iii)(c)). The fiscal intermediary will make its determination and notify the hospital within 90 days from the date it receives the hospital's request and all of the required documentation. The intermediary's determination is subject to review under 42 CFR Part 405, Subpart R. MDH status is effective 30 days after the date of written notification of approval.

We are proposing to clarify and to codify in the regulations (proposed § 412.108(b)(4)) that an approved classification as an MDH remains in effect unless there is a change in the circumstances under which the classification was approved. That is, in order to maintain its eligibility for MDH status, a hospital must continue to be a small (100 or fewer beds), rural hospital, with no less than 60 percent Medicare inpatient days or discharges during either its cost reporting period beginning in FY 1987 or during at least two of its three most recently settled cost reporting periods.

We also are proposing to clarify and to codify in the regulations (proposed § 412.108(b)(5)) that the fiscal intermediary will evaluate on an ongoing basis whether or not a hospital continues to qualify for MDH status. This proposed clarification would include evaluating whether or not a hospital that qualified for MDH status under section 1886(d)(5)(G)(iv)(IV) of the Act continues to qualify for MDH status based on at least two of its three most recently settled cost reporting periods.

In addition, we are proposing, (proposed § 412.108(b)(6)) that if a hospital loses its MDH status, that change in status would become effective 30 days after the fiscal intermediary provides written notification to the hospital that it no longer meets the MDH criteria. If the hospital would like to be considered for MDH status after another cost reporting period has been audited and settled, we are proposing to require that the hospital must reapply by submitting a written request to its fiscal intermediary (proposed § 412.108(b)(7)). An MDH that continues to meet the criteria would not have to reapply.

G. Eligibility Criteria for Reasonable Cost Payments to Rural Hospitals for Nonphysician Anesthetists (§ 412.113(c))

Currently, a rural hospital can qualify and be paid on a reasonable cost basis for qualified nonphysician anesthetists (certified registered nurse anesthetists (CRNAs) and anesthesiologist assistants) services for a calendar year beyond 1990 and subsequent years as long as it can establish before January 1 of that year that it did not provide more than 500 surgical procedures requiring anesthesia services, both inpatient and outpatient.

In the September 1, 1983 interim final rule with comment period that implemented the acute care hospital inpatient prospective payment system, we established the general policy to include, under that prospective payment system, inpatient hospital services furnished incident to a physician's service, with a time-limited exception for the inpatient hospital services of anesthetists (48 FR 39794). The purpose of this exception, which originally was for cost reporting periods beginning before October 1, 1986, was that the practice of physician-employer and anesthetist-employee was so widespread that we believed “it would be disruptive of medical practice and adverse to the quality of patient care to require all such contracts to be renegotiated in the limited time available before the implementation of the prospective payment system.”

Section 2312 of Public Law 98-369 provided for reimbursement to hospitals on a reasonable cost basis as a pass-through for the costs that hospitals incur in connection with 27 the services of CRNAs.³ Section 2312(c) provided that the amendment was effective for cost reporting periods beginning on or after October 1, 1984, and before October 1, 1987.

³ We noted in the August 31, 1984 final rule that section 2312 and the Conference Report used the term “CRNA” throughout. However, we believed it was Congressional intent to apply this pass-through payment amount to the services of all qualified hospital-employed nonphysician anesthetists (49 FR 34748).

Section 9320 of Public Law 99-509 (which established a fee schedule for the services of nurse anesthetists) amended section 2312(c) of Public Law 98-369 by extending the pass-through provision for cost reporting periods beginning before January 1, 1989. Section 608 of Public Law 100-485 limited the pass-through provision effective during 1989, 1990, and 1991, to hospitals meeting the following criteria:

• As of January 1, 1988, the hospital employed or contracted with a certified nonphysician anesthetist;

• In 1987, the hospital had a volume of surgical procedures (including inpatient and outpatient procedures) requiring anesthesia services that did not exceed 250 (or such higher number as the Secretary determines to be appropriate); and

• Each certified nonphysician anesthetist employed by, or under contract with, the hospital has agreed not to bill under Part B of Medicare for professional services furnished by the anesthetist at the hospital.

Subsequently, section 6132 of Public Law 101-239 amended section 608 of Public Law 100-458 by raising the established 250-procedure threshold to 500 procedures (effective for anesthesia services furnished on or after January 1, 1990), and extended the cost pass-through indefinitely. However, section 6132 of Public Law 101-239 left intact the requirement that the hospital must have not exceeded a maximum number of surgical procedures (effectively raised to 500), both inpatient and outpatient, requiring anesthesia services during 1987. Also, the statutory authority for the Secretary to adopt such other appropriate maximum threshold volume of procedures as determined appropriate was not affected by section 6132.

In light of the age of this provision, we undertook to reexamine the appropriateness of the current 500-procedure threshold. Nonphysician anesthetists who are not employed by or have a contractual relationship with a hospital paid under this provision may receive payments under a fee schedule. Payments under the fee schedule are generally somewhat lower than those made on a reasonable cost basis. Therefore, hospitals that exceed 500 procedures may have difficulty retaining access to nonphysician anesthetists' services because cost reimbursement is unavailable. According to data from the American Association of Nurse Anesthetists (AANA), the average total annual compensation for a CRNA in 2001 was approximately $155,000. The AANA estimates that, based on payments under the Medicare fee schedule, a CRNA would have to provide at least 800 anesthesia procedures to reach this average level of compensation.

The statute provides the Secretary with the authority to determine the appropriateness of the volume threshold, in part, so that changes necessary to meet the needs of rural hospitals can be made. As we have found that hospitals that exceed the 500 surgical procedures may have difficulty in retaining access to nonphysician anesthetists' services, we believe that the appropriate maximum threshold for surgical procedures should be raised in order for the payment exception to apply to those hospitals most in need of this payment treatment. Based upon the data available to us concerning the best estimates of average total compensation to a CRNA, we believe that the maximum volume threshold for surgical procedures requiring anesthesia services should be raised to 800. Therefore, to ensure continued access to nonphysician anesthetists' services in rural hospitals, we are proposing to revise §§ 412.113(c)(2)(ii) and (c)(2)(iii) to raise the 500-procedure threshold to 800 procedures.

H. Medicare Geographic Classification Review Board (MGCRB) Reclassification Process (§§ 412.230, 412.232, and 412.273)

With the creation of the MGCRB, beginning in FY 1991, under section 1886(d)(10) of the Act, hospitals could request reclassification from one geographic location to another for the purpose of using the other area's standardized amount for inpatient operating costs or the wage index value, or both (September 6, 1990 interim final rule with comment period (55 FR 36754), June 4, 1991 final rule with comment period (56 FR 25458), and June 4, 1992 proposed rule (57 FR 23631)). Implementing regulations in Subpart L of Part 412 (§§ 412.230 et seq.) set forth criteria and conditions for redesignations from rural to urban, rural to rural, or from an urban area to another urban area, with special rules for SCHs and rural referral centers.

1. Withdrawals, Teminations, and Cancellations

Under § 412.273(a) of our regulations, a hospital, or group of hospitals, may withdraw its application for reclassification at any time before the MGCRB issues its decision or, if after the MGCRB issues its decision, within 45 days of publication of our annual notice of proposed rulemaking concerning changes to the acute care hospital inpatient prospective payment system for the upcoming fiscal year (for example, this proposed rule for FY 2003). In the August 1, 2001 final rule, we specified that, for purposes of implementing section 304 of Public Law 106-554, the withdrawal procedures and the applicable timeframes in the existing regulations would apply to hospitals that receive 3-year reclassification for wage index purposes (66 FR 39886). Once effective, a withdrawal means that the hospital would not be reclassified for purposes of the wage index for FY 2003 (and would not receive continued reclassification for FYs 2004 and 2005), unless the hospital subsequently cancels its withdrawal.

Consistent with section 1886(d)(10)(D)(v) of the Act, a hospital may terminate its approved 3-year reclassification during the second or third years (§ 412.273(b)). This is a separate action from a reclassification withdrawal that occurs in accordance with the timeframes described above. Currently, in order to terminate an approved 3-year reclassification, we require the hospital to notify the MGCRB in writing within 45 days of the publication date of the annual proposed rule for changes to the hospital inpatient prospective payment system (§ 412.273(b)(1)(i)). A termination, unless subsequently cancelled, is effective for the full fiscal years remaining in the 3-year period.

We also provided that a hospital may apply for reclassification to a different area for the year corresponding to the second or third year of the reclassification (that is, an area different from the one to which it was originally reclassified) and, if successful, the reclassification would be for 3 years. Since the publication of the final rule, we received an inquiry regarding a situation where a hospital with an existing 3-year wage index reclassification successfully reclassifies to a different area, then withdraws from that second reclassification within the allowable timeframe for withdrawals. This scenario raises several issues not specifically addressed in the August 1, 2001 final rule, which we are proposing to clarify in this proposed rule.

For example, the question arises, at what point does a hospital's termination of a 3-year reclassification become effective when a hospital applies for reclassification to another area? As noted above, the August 1, 2001 final rule specified that a hospital must file a written request with the MGCRB within 45 days of publication of the annual proposed rule to terminate the reclassification. However, the rules do not specify at what point a previous 3-year reclassification is terminated when a hospital applies for reclassification to another area in subsequent years. One might conclude that an application for a wage index reclassification to another area constitutes a written notification of a hospital's intent to terminate an existing 3-year reclassification. Under this scenario, however, if the application to the second area were denied, it would then be necessary for the hospital to formally cancel the termination of its reclassification to the first area within 45 days of publication of the proposed rule to avoid a lapse in reclassification status the following year. Therefore, we are proposing to clarify, in § 412.273(b)(2)(iii), that, in a situation where a hospital with an existing 3-year wage index reclassification applies to be reclassified to another area, its existing 3-year reclassification will be terminated when a second 3-year wage index reclassification goes into effect for payments for discharges on or after the following October 1. In such a case, it will not be necessary for the hospital to submit a separate written notice of its intent to terminate its existing 3-year reclassification. Of course, a hospital also may still terminate an existing 3-year reclassification through written notice to the MGCRB, regardless of whether it successfully reclassifies to a different area.

The scenario of a hospital with an existing 3-year reclassification seeking reclassification to a second area raises another issue. If the hospital's request is approved by the MGCRB, but the hospital withdraws from that successful reclassification and “falls back” to its original 3-year reclassification, does the hospital retain the right to cancel that withdrawal the next year? In this way, a hospital could accumulate multiple reclassifications from which it could choose in any given year through canceling prior withdrawals or terminations to one area and withdrawing or terminating reclassifications to other areas.

We do not believe section 304 of Public Law 106-554 was intended to be used in such a manner. Therefore, we are proposing to clarify existing policy that a previous 3-year reclassification may not be reinstated after a subsequent 3-year reclassification to another area takes effect. This would mean that a hospital that is reclassified to an area for purposes of the wage index may have only one active 3-year reclassification at a time. Once a 3-year reclassification to a second area becomes effective, a previously terminated 3-year reclassification may not be reinstated by terminating or withdrawing the reclassification to the second area and then canceling the termination or withdrawal of the reclassification to the first area.

As we stated in the August 1, 2001 final rule, we believe the 3-year wage index reclassification policy was intended to provide consistency and predictability in hospital reclassifications and the wage index data. Allowing hospitals multiple reclassification options to choose from would create a situation where many hospitals move in unpredictable ways between the proposed and final rules based on their calculation of which of several areas would yield the highest wage index. This would reduce the predictability of the system, hampering the ability of the majority of hospitals to adequately project their future revenues. Therefore, we are proposing to amend § 412.273(b)(2)(ii) to provide that, once a 3-year reclassification becomes effective, a hospital may no longer cancel a withdrawal or termination of another 3-year reclassification, even within 3 years from the date of such withdrawal or termination. We are also proposing a technical correction to § 412.273(b)(2)(i) to correct the terminology regarding canceling (rather than terminating) a withdrawal.

Finally, the August 1, 2001 final rule did not specifically describe the process to cancel a withdrawal or termination. Therefore, we are proposing to add a new § 412.273(d) (existing paragraph (d) would be redesignated as paragraph (e)) to describe the process whereby a hospital may cancel a previous withdrawal or termination of a 3-year wage index reclassification. Specifically, a hospital may cancel a previous withdrawal or termination by submitting written notice of its intent to the MGCRB no later than the deadline for submitting reclassification applications for reclassifications effective at the start of the following fiscal year (§ 412.256(a)(2)).

2. Effect of Change of Ownership on Hospital Reclassifications

Sections 412.230(e)(2)(ii) and 412.232(d)(2)(ii) provide that, for reclassifications effective beginning FY 2003, a hospital must provide a 3-year average of its average hourly wages using wage survey data from the CMS hospital wage survey used to construct the wage index in effect for prospective payment purposes.

As discussed in the August 1, 2001 final rule, we received a comment suggesting that, for purposes of calculating the 3-year average hourly wages, we permit a hospital that has changed ownership the option of excluding prior years' wage data submitted by a previous owner in order for the new hospital to qualify for reclassification. Although we responded to the comment (66 FR 39890), we have now determined that there is a need to further clarify our policy regarding change of ownership and hospitals that do not accept assignment of the previous owner's provider agreement.

In our response to the comment, we stated that, where a hospital has simply changed ownership and the new owners have acquired the financial assets and liabilities of the previous owners, all of the applicable wage data associated with that hospital are included in the calculation of its 3-year average hourly wage. Where this is not the case and there is no obligation on the part of the new hospital to claim the financial assets or assume the liabilities of a predecessor hospital, the wage data associated with the previous hospital's provider number would not be used in calculating the new hospital's 3-year average hourly wage.

Section 489.18(c) provides that, when there is a change of ownership, the existing provider agreement will automatically be assigned to the new owner. Our regulations at § 412.230(e)(2) do not specifically address the situation of new hospitals seeking to reclassify for wage index purposes, in light of the requirement that reclassification is based on a 3-year average hourly wage. Therefore, we are proposing to revise § 412.230(e)(2), by adding a new paragraph (e)(2)(iii), to clarify our existing policy to specify that, in situations where a hospital does not accept assignment of the existing hospital's provider agreement under § 489.18, the hospital would be treated as a new hospital with a new provider number. In that case, the wage data associated with the previous hospital's provider number would not be used in calculating the new hospital's 3-year average hourly wage. As we stated in the August 1, 2001 final rule, we believe this policy clarification is consistent with how we treat hospitals whose ownership has changed for other Medicare payment purposes. We are proposing to revise § 412.230 to clarify, under proposed new paragraph (e)(2)(iii), that once a new hospital has accumulated at least 1 year of wage data using survey data from the CMS hospital wage survey used to determine the wage index, it is eligible to apply for reclassification on the basis of those data.

I. Payment for Direct Costs of Graduate Medical Education (§ 413.86)

1. Background

Under section 1886(h) of the Act, Medicare pays hospitals for the direct costs of graduate medical education (GME). The payments are based in part on the number of residents trained by the hospital. Section 1886(h) of the Act caps the number of residents that hospitals may count for direct GME.

Section 1886(h)(2) of the Act, as amended by section 9202 of the Consolidated Omnibus Reconciliation Act (COBRA) of 1985 (Public Law 99-272), and implemented in regulations at § 413.86(e), establishes a methodology for determining payments to hospitals for the costs of approved GME programs. Section 1886(h)(2) of the Act, as amended by COBRA, sets forth a payment methodology for the determination of a hospital-specific, base-period per resident amount (PRA) that is calculated by dividing a hospital's allowable costs of GME for a base period by its number of residents in the base period. The base period is, for most hospitals, the hospital's cost reporting period beginning in FY 1984 (that is, the period of October 1, 1983 through September 30, 1984). The PRA is multiplied by the weighted number of full-time equivalent (FTE) residents working in all areas of the hospital complex (or nonhospital sites, when applicable), and the hospital's Medicare share of total inpatient days to determine Medicare's direct GME payments. In addition, as specified in section 1886(h)(2)(D)(ii) of the Act, for cost reporting periods beginning on or after October 1, 1993, through September 30, 1995, each hospital's PRA for the previous cost reporting period is not updated for inflation for any FTE residents who are not either a primary care or an obstetrics and gynecology resident. As a result, hospitals with both primary care and obstetrics and gynecology residents and nonprimary care residents in FY 1994 or FY 1995 have two separate PRAs: one for primary care and obstetrics and gynecology and one for nonprimary care.

Section 1886(h)(2) of the Act was further amended by section 311 of Public Law 106-113 to establish a methodology for the use of a national average PRA in computing direct GME payments for cost reporting periods beginning on or after October 1, 2000, and on or before September 30, 2005. Generally, section 1886(h)(2)(D) of the Act establishes a “floor” and a “ceiling” based on a locality-adjusted, updated, weighted average PRA. Each hospital's PRA is compared to the floor and ceiling to determine whether its PRA should be revised. For cost reporting periods beginning on or after October 1, 2000, and before October 1, 2001, the floor PRA is 70 percent of the locality-adjusted, updated, weighted average PRA. For cost reporting periods beginning on or after October 1, 2001, and before October 1, 2002, section 511 of Public Law 106-554 amended the floor PRA to equal 85 percent of the locality-adjusted, updated, weighted average PRA. PRAs that are below the applicable floor PRA for a particular cost reporting period would be adjusted to equal the floor PRA. PRAs that exceed the ceiling, that is, 140 percent of the locality-adjusted, updated, weighted average PRA, would, depending on the fiscal year, either be frozen and not increased for inflation, or increased by a reduced inflation factor. Existing regulations at § 413.86(e)(4) specify the methodology for calculating each hospital's weighted average PRA and the steps for determining whether a hospital's PRA will be revised.

2. Determining the Weighted Average PRAs for Newly Participating Hospitals (§ 413.86(e)(5))

As stated earlier, under section 1886(h) of the Act and implementing regulations, in most cases Medicare pays hospitals for the direct costs of GME on the basis of per resident costs in a 1984 base year. However, under existing § 413.86(e)(5), if a hospital did not have residents in an approved residency training program, or did not participate in Medicare during the base period, the hospital's base period for its PRA is its first cost reporting period during which the hospital participates in Medicare and the residents are on duty during the first month of that period. If there are at least three existing teaching hospitals with PRAs in the same geographic wage area (MSA), as that term is used in 42 CFR Part 412, the fiscal intermediary will calculate a PRA based on the lower of the new teaching hospital's actual cost per resident in its base period or a weighted average of all the PRAs of existing teaching hospitals in the same MSA. There must be at least three existing teaching hospitals with PRAs in the MSA for this calculation. If there are less than three existing teaching hospitals with PRAs within the new teaching hospital's MSA, effective for cost reporting periods beginning on or after October 1, 1997, the fiscal intermediary uses the updated regional weighted average PRA (determined for each of the nine census regions established by the Bureau of Census for statistical and reporting purposes) for the new teaching hospital's MSA (see 62 FR 46004, August 29, 1997). A new teaching hospital is assigned a PRA equal to the lower of its actual allowable direct GME costs per resident or the weighted average PRA as calculated by the fiscal intermediary. Using a methodology based on a weighted average ensures that a new teaching hospital receives a PRA that is representative of the costs of training residents within its specific geographic wage area.

Under existing policy, to calculate the weighted average PRA of teaching hospitals within a particular MSA, the fiscal intermediary begins by determining the base year PRA and the base year FTE count of each respective teaching hospital within that MSA. The weighted average PRA is (a) the sum of the products of each existing teaching hospital's base year PRA in the MSA and its base year FTEs, (b) divided by the sum of the base year FTEs from each of those hospitals. While a methodology using base year PRAs and FTEs was appropriate and workable in the years closely following the implementation of hospital-specific PRAs, it has become administratively burdensome for both CMS and the fiscal intermediaries to recreate base year information in calculating a weighted average. The methodology is particularly problematic in instances where there are large numbers of teaching hospitals in an MSA.

In addition, as discussed in section V.I.1. of this proposed rule, hospitals that were training nonprimary care residents during FYs 1994 and 1995 have a distinct nonprimary care PRA, because there was no update in the inflation factor for these years (§ 413.86(e)(3)(ii)). Thus, most teaching hospitals currently have two PRAs: one for primary care and obstetrics and gynecology; and one for all other residents. (Hospitals that first train residents after FY 1995 only have a single PRA, regardless of whether they train primary care or other residents.) However, since the current methodology for calculating weighted average PRAs is based on data from FY 1984, which was prior to the years during which the PRAs were not adjusted for inflation to reflect nonprimary care residents, the methodology does not account for all PRAs (both primary care and obstetrics and gynecology and nonprimary care) within an MSA.

Accordingly, we are proposing to simplify and revise the weighted average PRA methodology under § 413.86(e)(5)(i)(B) to reflect the average of all PRAs in an MSA, both primary care and obstetrics and gynecology, and nonprimary care. We would continue to calculate a weighted average PRA. However, rather than using 1984 base year data, we are proposing to use PRAs (both primary care and obstetrics and gynecology and nonprimary care) and FTE data from the most recently settled cost reports of teaching hospitals in an MSA. We are proposing that the intermediary would calculate the weighted average PRA using the following steps:

Step 1: Identify all teaching hospitals (including those serviced by another intermediary(ies)) in the same MSA as the new teaching hospital.

Step 2: Identify the respective primary care and obstetrics and gynecology FTE counts, the nonprimary care FTE counts, or the total FTE count (for hospitals with a single PRA) of each teaching hospital in step 1 from the most recently settled cost reports. (Use the FTE counts from line 3.07 and line 3.08 of the Medicare cost report, CMS-2552-96, Worksheet E-3, Part IV.)

Step 3: Identify the PRAs (either a hospital's primary care and obstetrics and gynecology PRA and nonprimary care PRA, or a hospital's single PRA) from the most recently settled cost reports of the hospitals in step 1, and update the PRAs using the CPI-U inflation factor to coincide with the fiscal year end of the new teaching hospital's base year cost reporting period. For example, if the base year fiscal year end of a new teaching hospital is December 31, 2003, and the most recently settled cost reports of the teaching hospitals within the MSA are from the fiscal year ending June 30, 2000, September 30, 2000, or December 31, 2000, the PRAs from these cost reports would be updated for inflation to December 31, 2003.

Step 4: Calculate the weighted average PRA using the PRAs and FTE counts from steps 2 and 3. For each hospital in the calculation:

(a) Multiply the primary care PRA by the primary care and obstetrics and gynecology FTEs.

(b) Multiply the nonprimary care PRA by the nonprimary care FTEs.

(c) For hospitals with a single PRA, multiply the single PRA by the hospital's total number of FTEs.

(d) Add the products from steps (a), (b), and (c) for all hospitals.

(e) Add the FTEs from step 3 for all hospitals.

(f) Divide the sum from step (d) by the sum from step (e). The result is the weighted average PRA for hospitals within an MSA.

The following is an example of how to calculate a weighted average PRA under the proposed methodology:

Example

Assume that new Hospital A has a June 30 fiscal year end and begins training residents for the first time on July 1, 2003. Thus, new Hospital A's base year for purposes of establishing a PRA is the fiscal year ending June 30, 2004. New Hospital A is located in MSA 1234, in which three other teaching hospitals exist, Hospital B, Hospital C, and Hospital D. These three hospitals also have a fiscal year end of June 30 and their most recently settled cost reports are for the fiscal year ending June 30, 2000. For fiscal year ending June 30, 2000, Hospital B has 200 primary care and obstetrics and gynecology FTEs, 150 nonprimary care FTEs, and 150 nonprimary care FTEs. Hospital C has 50 primary care and obstetrics and gynecology FTEs and 60 nonprimary care FTEs. Hospital D has 25 FTEs. After updating the PRAs for inflation by the CPI-U to June 30, 2004, Hospital B has a primary care and obstetrics and gynecology PRA of $120,000 and a nonprimary care PRA of $115,000, Hospital C has a primary care and obstetrics and gynecology PRA of $100,000 and a nonprimary care PRA of $97,000, and Hospital D has a single PRA of $90,000.

(a) Primary care:

Hospital B: $120,000 × 200 FTEs = $24,000,000

Hospital C: $100,000 × 50 FTEs = $5,000,000

(b) Nonprimary care:

Hospital B: $115,000 × 150 FTEs = $17,250,000

Hospital C: $97,000 × 60 FTEs = $5,820,000

(c) Single PRA:

Hospital D: $90,000 × 25 FTEs = $2,250,000

(d) $24,000,000 + 5,000,000 + $17,250,000 + $5,820,000 + $2,250,000 = $54,320,000.

(e) 200 + 50 + 150 + 60 + 25 = 485 total FTEs.

(f) $54,320,000/485 FTEs = $112,000, the weighted average PRA for MSA1234 for fiscal year ending June 30, 2004.

New Hospital A's PRA would be the lower of $112,000 or its actual base year GME costs per resident.

We are proposing that this new weighted average calculation would be effective for hospitals with direct GME base years that begin on or after October 1, 2002.

In addition, we are taking the opportunity to clarify the language under existing § 413.86(e)(5)(i)(B), which relates to calculating the weighted average under existing policy. Specifically, existing § 413.86(e)(5)(i)(B) states: “The weighted mean value of per resident amounts of all hospitals located in the same geographic wage area, as that term is used in the prospective payment system under part 412 of this chapter, for cost reporting periods beginning in the same fiscal years [emphasis added].” We believe this language could be misinterpreted to imply that only those PRAs of hospitals in the same geographic wage area (MSA) that have the same fiscal year end as the new teaching hospital should be used in the weighted average calculation. However, the PRAs of all hospitals within the MSA of the new teaching hospital should be used, not just the PRAs of hospitals with the same fiscal year end as the new teaching hospital. The proposed revision appears under a proposed new § 413.86(e)(5)(i)(c).

3. Aggregate FTE Limit for Affiliated Groups (§§ 413.86 (b) and (g)(7))

Section 1886(h)(4)(H)(ii) of the Act permits, but does not require, the Secretary to prescribe rules that allow institutions that are member of the same affiliated group (as defined by the Secretary) to elect to apply the FTE resident limit on an aggregate basis. This provision allows the Secretary to permit hospitals flexibility in structuring rotations within a combined cap when they share residents' time. In accordance with the broad authority conferred by the statute, we created criteria for defining “affiliated group” and “affiliation agreements” in both the August 29, 1997 final rule (62 FR 45965) and the May 12, 1998 final rule (63 FR 26317). Because we have received many inquiries from the hospital industry on this policy, we are proposing to clarify in regulations the requirements for participating in an affiliated group. These requirements are explicitly derived from the policy explained in the August 29, 1997 and May 12, 1998 final rules.

Specifically, we are proposing to add under § 413.86(b) a new definition of “Affiliation agreement.” This new proposed definition would state that an affiliation agreement is a written, signed, and dated agreement by responsible representatives of each respective hospital in an affiliated group (as defined in § 413.86(b)), that specifies—

• The term of the agreement, which, at a minimum must be one year, beginning on July 1 of a year.

• Each participating hospital's direct and indirect FTE cap.

• The annual adjustment to each hospital's FTE caps, for both direct GME and IME. This adjustment must reflect the fact that any positive adjustment to one hospital's direct and indirect FTE caps must be offset by a negative adjustment to the other hospital's (or hospitals') direct and indirect FTE caps of at least the same amount.

• The names of the participating hospitals and their Medicare provider numbers.

In addition, we are proposing to add a new § 413.86(g)(5)(iv) and a new § 413.86(g)(7) to clarify the requirements for a hospital to receive a temporary adjustment to its FTE cap through an affiliation agreement. (Existing § 413.86(g)(5)(iv) through (vi) are proposed to be redesignated as § 413.86(g)(5)(v) through (vii), respectively; and existing §§ 413.86(g)(7) through (g)(12) are proposed to be redesignated as §§ 413.86(g)(8) through (g)(13), respectively, to accommodate these additions.) Specifically, we are proposing that a hospital may receive a temporary adjustment to its FTE cap, which is subject to the averaging rules, to reflect residents added or subtracted because the hospital is participating in an affiliated group (as that term is defined under § 413.86(b)). Under this proposed provision—

• Each hospital in the affiliated group must submit the affiliation agreement (as that term is proposed to be defined under § 413.86(b)), to the CMS fiscal intermediary servicing the hospital and send a copy to CMS's Central Office no later than July 1 of the residency program year during which the affiliation agreement will be in effect.

• There must be a rotation of a resident(s) among the hospitals participating in the affiliated group during the term of the affiliation agreement, such that more than one of the hospitals counts the proportionate amount of the time spent by the resident(s) in their FTE resident counts. (However, no resident may be counted in the aggregate as more than one FTE.) This requirement is intended to ensure that the participating hospitals maintain a “cross-training” relationship during the term of the affiliation agreement.

• The net effect of the adjustments (positive or negative) on the affiliated hospitals' aggregate FTE cap for each affiliation agreement must not exceed zero.

• If the affiliation agreement terminates for any reason, the FTE cap for each hospital in the affiliated group will revert to the individual hospital's pre-affiliation FTE cap.

Except for the proposed new § 413.86(g)(7)(iv) regarding the treatment of FTE caps after termination of the affiliation agreement, each provision of proposed new § 413.86(g)(7) is explicitly derived from policy stated in the May 12, 1998 final rule (63 FR 26336). We are proposing to incorporate in regulations policy that was previously established under the formal rulemaking process.

We are proposing a change in policy concerning what happens to each participating affiliated hospital's FTE cap when an affiliation agreement terminates (proposed new § 413.86(g)(7)(iv)). In the preamble of the May 12, 1998 final rule (63 FR 26339), we stated: “Each agreement must also specify the adjustment to each respective hospital cap in the event the agreement terminates, dissolves, or, if the agreement is for a specified time period, for residency training years and cost reporting periods subsequent to the period of the agreement for purposes of applying the FTE cap on an aggregate basis. In the absence of an agreement on the FTE caps for each respective institution following the end of the agreement, each hospital's FTE cap will be the indirect and direct medical education FTE count from each hospital's cost reporting period ending in 1996 and the cap will not be applied on an aggregate basis.” Our purpose for allowing hospitals to redistribute their FTE caps (within the limits of the aggregate FTE caps) upon the termination of an affiliation was to enable hospitals by agreement to more closely reflect the realities of the residency rotational arrangement. However, in practice, very few hospitals have altered their FTE caps following termination of affiliation agreements. Rather, the vast majority of hospitals opted to revert to their respective 1996 FTE caps upon the termination of an affiliation. In addition, we have found that our existing policy is susceptible to the following abusive practice that does not comport with our original purpose for allowing redistribution of FTE caps among hospitals following termination of an affiliation agreement. We have learned of a number of instances in which one hospital (Hospital A) affiliated with another hospital (Hospital B) in anticipation of Hospital B's closure at some point during the residency program year. In these instances, the affiliation agreement was made solely for the purpose of obtaining a permanent adjustment to Hospital A's FTE cap through the terms of the termination clause. We do not believe these permanent FTE cap adjustments that result from hospital closures (or any other circumstances) were intended when Congress passed the provision on affiliation agreements. As stated above, we believe affiliations were meant to provide flexibility for hospitals in the rotations of residents where, in the normal course of an affiliation between two or more hospitals, the actual number of residents training at each hospital may vary somewhat from year to year. Affiliations were not intended to be used as a vehicle for circumventing the statutory FTE cap on the number of residents. In addition, we have separately addressed issues that arise when residents are displaced because of a pending hospital closure. We have in place a policy at existing § 413.86(g)(8) (proposed to be redesignated as § 413.86(g)(9) in this proposed rule) that permits temporary FTE cap adjustments for hospitals that take on the training of residents displaced by the closure of another hospital.

Therefore, we are proposing that, effective October 1, 2002, for hospitals with affiliation agreements that terminate (for any reason) on or after that date, the direct and indirect FTE caps for each hospital in the affiliated group will revert back to each individual hospital's original FTE cap prior to the affiliation (proposed new § 413.86(g)(7)(iv)). This policy would not preclude the participating hospitals from entering into additional affiliation agreements for later residency years.

Since this proposed policy would be effective for agreements that terminate on or after October 1, 2002, hospitals that have already received a permanent FTE cap adjustment from their fiscal intermediaries through the existing termination clause policy would retain those cap adjustments.

We also are proposing to make a conforming clarification at § 412.105(f)(1)(vi) for purposes of IME payments.

4. Rotating Residents to Other Hospitals

At existing § 413.86(f), we state, in part, that a hospital may count residents training in all areas of the hospital complex; no individual may be counted as more than one FTE; and, if a resident spends time in more than one hospital or in a nonprovider setting, the resident counts as a partial FTE based on the proportion of time worked at the hospital to the total time worked (emphasis added). A similar policy exists at §§ 412.105(f)(1)(ii) and (iii) for purposes of counting resident FTEs for IME payment. Although these policies concerning the counting of the number of FTE residents for IME and direct GME payment purposes have been in effect since October 1985, we continue to receive questions about whether residents can be counted by a hospital for the time during which the resident is rotated to other hospitals.

We would like to clarify that it is longstanding Medicare policy, based on language in both the regulations and the statute, to prohibit one hospital from claiming the FTEs training at another hospital for IME and direct GME payment. This policy applies even when the hospital that proposes to count the FTE resident(s) actually incurs the costs of training the residents(s) (such as salary and other training costs) at another hospital.

First, section 1886(h)(4)(B) of the Act states that the rules governing the direct GME count of the number of FTE residents “shall take into account individuals who serve as residents for only a portion of a period with a hospital or simultaneously with more than one hospital.” In the September 4, 1990 Federal Register (55 FR 36064), we stated that ” * * * regardless of which teaching hospital employs a resident who rotates among hospitals, each hospital would count the resident in proportion to the amount of time spent at its facility.” Therefore, another hospital cannot count the time spent by residents training at another hospital. Only the hospital where the residents are actually training can count those FTEs for that portion of time. For example, if, during a cost reporting year, a resident spends 3 months training at Hospital A and 9 months training at Hospital B, Hospital A can only claim .25 FTE and Hospital B can only claim .75 FTE. Over the course of the entire cost reporting year, the resident would add up to 1.0 FTE.

We have been made aware of some instances where an urban hospital may incur all the training costs of residents while those residents train at a rural hospital, because the rural hospital may not have the resources or infrastructure to claim those costs and FTEs on a Medicare cost report. However, even in this scenario, the urban hospital is precluded from claiming any FTEs for the proportion of time spent in training at that rural hospital, or at any other hospital.

We note, however, that, consistent with the statutory provisions of section 1886(d)(5)(B)(iv) of the Act for IME payment and section 1886(h)(4)(E) of the Act for direct GME payment, a hospital may count the time residents spend training in a nonhospital setting if the hospital complies with the regulatory criteria at § 413.86(f)(4).

J. Responsibilities of Medicare-Participating Hospitals in Emergency Cases (EMTALA)

1. Background

Sections 1866(a)(1)(I), 1866(a)(1)(N), and 1867 of the Act impose specific obligations on Medicare-participating hospitals that offer emergency services. These obligations concern individuals who come to a hospital emergency department and request examination or treatment for medical conditions, and apply to all of these patients, regardless of whether or not they are beneficiaries of any program under the Act. Section 1867 of the Act sets forth requirements for medical screening examinations for medical conditions, as well as necessary stabilizing treatment or appropriate transfer. In addition, section 1867 of the Act specifically prohibits a delay in providing required screening or stabilization services in order to inquire about the individual's payment method or insurance status. Section 1867 of the Act also provides for the imposition of civil monetary penalties on hospitals and physicians responsible for the following: (a) Negligently failing to appropriately screen a patient seeking emergency medical care; (b) negligently failing to provide stabilizing treatment to an individual with an emergency medical condition; or (c) negligently transferring a patient in an inappropriate manner. (Section 1867(e)(4) of the Act defines “transfer” to include both transfers to other health care facilities and cases in which the patient is released from the care of the hospital without being moved to another health care facility.)

These provisions, taken together, are frequently referred to as the Emergency Medical Treatment and Labor Act (EMTALA), also known as the patient antidumping statute. EMTALA was passed in 1986 as part of the Consolidated Omnibus Budget Reconciliation Act of 1986 (COBRA). As a result, many people initially referred to EMTALA as “COBRA” or the “COBRA antidumping” statute. Congress enacted these antidumping provisions in the Social Security Act because of its concern with an “increasing number of reports” that hospital emergency rooms were refusing to accept or treat patients with emergency conditions if the patients did not have insurance:

“* * * The Committee is most concerned that medically unstable patients are not being treated appropriately. There have been reports of situations where treatment was simply not provided. In numerous other situations, patients in an unstable condition have been transferred improperly, sometimes without the consent of the receiving hospital.

“There is some belief that this situation has worsened since the prospective payment system for hospitals became effective. The Committee wants to provide a strong assurance that pressures for greater hospital efficiency are not to be construed as license to ignore traditional community responsibilities and loosen historic standards.

“[Under the statute] [a]ll participating hospitals with emergency departments would be required to provide an appropriate medical screening examination for any individual who requests it (or has a request made on his behalf) to determine whether an emergency medical condition exists or if the patient is in active labor.” (H.R. Rept. No. 99-241, Part 1, 99th Cong., 1st Sess. (1985), p. 27.)

The regulations implementing section 1867 of the Act are found at 42 CFR 489.24, Special responsibilities of Medicare hospitals in emergency cases. Section 489.24 provides for the following:

• Paragraph (a) requires that when an individual presents to a hospital's emergency department and a request is made on the individual's behalf for examination or treatment of a medical condition, the hospital must provide for an appropriate medical screening examination to determine whether or not an emergency medical condition exists.

• Paragraph (b) provides the definitions of terms, including “comes to the emergency department,” “emergency medical condition,” “stabilized,” and “to stabilize.”

• Paragraph (c) addresses procedures a hospital must follow when it determines that an emergency medical condition exists. If the hospital determines that an emergency medical condition exists, the hospital must provide for further medical examination and treatment as required to stabilize the patient. If the hospital does not have the capabilities to stabilize the patient, an appropriate transfer to another facility is permitted. A transfer is appropriate when the medical benefits of the transfer outweigh the medical risks of the transfer and other requirements, specified in the regulation at paragraph (d), are met. Also, the hospital may transfer an unstable patient who makes an informed written request. Paragraph (c) further states that a hospital may not delay an appropriate medical screening examination, or further examination or treatment, to inquire about the individual's payment method or insurance status.

In addition, § 489.24 addresses: (a) Restriction of a transfer until the individual is stabilized; (b) the responsibilities of the receiving hospital; (c) termination of the provider agreement for failure to comply with EMTALA requirements; and (d) matters concerning consultation with Peer Review Organizations (paragraphs (d) through (h), respectively).

Some EMTALA-related requirements are implemented under regulations at §§ 489.20(l), (m), (q), and (r)(1), (r)(2), and (r)(3). Those regulations deal with a hospital's obligations to report the receipt of patients that it has reason to believe may have been transferred inappropriately; to post signs in the emergency department describing a patient's rights to emergency treatment under section 1867 of the Act; and to maintain patient records, physician on-call lists, and emergency room logs. We are including this brief description for informational purposes but, because we are not proposing to change the regulations in § 489.20, they will not be discussed further in this document.

In promulgating these cited regulatory sections and in enforcing the provisions of EMTALA, we are aware of the necessary balance between the hospital's and a physician's legal duty to provide examination and treatment under the statute and the practical realities of the manner in which hospitals and medical staffs are organized and operated on a day-to-day basis, as well as proper mobilization of resources within hospitals in order to comply with these legal duties. Reports of overcrowding in hospital emergency departments are common in many parts of the country. Within the requirements of EMTALA, individuals should be treated at the appropriate site of care.

Hospitals and physicians have now had over 15 years of experience in organizing themselves to comply with the provisions of EMTALA. Throughout this section of this proposed rule relating to EMTALA, we solicit comments from hospitals, physicians, patients, and beneficiary groups on the proposed changes to the EMTALA policies.

2. Special Advisory Bulletin on EMTALA Obligations

On November 10, 1999, CMS (previously, HCFA) and the Office of the Inspector General (OIG) published jointly in the Federal Register a Special Advisory Bulletin addressing the requirements of the patient antidumping statute and the obligations of hospitals to medically screen all patients seeking emergency services and provide stabilizing medical treatment as necessary to all patients, including enrollees of managed care plans, whose conditions warrant it (64 FR 61353). The Special Advisory Bulletin addressed issues of dual staffing of hospital emergency rooms by managed care and nonmanaged care physicians, prior authorization requirements of some managed care plans, use of advance beneficiary notices (ABNs) or other financial responsibility forms, handling of individuals' inquiries about financial liability for emergency services, and voluntary withdrawal of a treatment request. Although it does not amend the Code of Federal Regulations, the Special Advisory Bulletin informs individuals of HHS policy regarding application of the patient antidumping statute and offers advice on the best practices to follow to avoid violation of the requirements imposed under that statute.

As discussed further in section V.J.4. of this preamble, we are now proposing to codify certain policies on prior authorization that are currently stated only in the Special Advisory Bulletin. We believe these changes in the regulations are needed to ensure uniform and consistent application of policy and to avoid any misunderstanding of EMTALA requirements by patients, physicians, or hospital employees.

3. EMTALA Provisions in This Proposed Rule

Recently, a number of questions have been raised about the applicability of § 489.24 to specific situations. These questions arise in the context of managed care plans' requirements for prior authorization, case experiences involving elective procedures, and situations when patients have been admitted as inpatients but are not stabilized, or later experience a deterioration in their medical condition. Some hospitals are uncertain whether various conditions of participation found in 42 CFR part 482 apply to these situations or whether the EMTALA requirements included in the provider agreement regulations at § 489.24 apply, or both. Some representatives of the provider community have asked us to reexamine CMS policy on the applicability of EMTALA to provider-based departments. Finally, there have also been questions concerning the applicability of EMTALA to physicians who are “on call” and to hospitals that own ambulances when those ambulances operate under communitywide emergency medical services (EMS) protocols. To help promote consistent application of the regulations concerning the special responsibilities of Medicare hospitals in emergency cases, we are proposing changes to § 489.24 to clarify its application to these situations and at the same time address concerns about EMTALA raised by the Secretary's Advisory Committee on Regulatory Reform. These changes are discussed more fully below and include the following:

• We are proposing to change the requirements relating to emergency patients presenting at those off-campus outpatient clinics that do not routinely provide emergency services. We believe these changes would enhance the quality and promptness of emergency care by permitting individuals to be referred to appropriately equipped emergency facilities close to such clinics.

• We are proposing to clarify when EMTALA applies to both inpatients and outpatients. We believe these clarifications would enhance overall patient access to emergency services by helping to relieve administrative burdens on frequently overcrowded emergency departments.

• We are proposing to clarify the circumstances in which physicians, particularly specialty physicians, must serve on hospital medical staff “on-call” lists. We expect these clarifications would help improve access to physician services for all hospital patients by permitting hospitals local flexibility to determine how best to maximize their available physician resources. We are currently aware of reports of physicians, particularly specialty physicians, severing their relationships with hospitals, especially when those physicians belong to more than one hospital medical staff. Physician attrition from these medical staffs could result in hospitals having no specialty physician service coverage for their patients. Our proposed clarification of the on-call list requirement would permit hospitals to continue to attract physicians to serve on their medical staffs and thereby continue to provide services to emergency room patients.

• We are proposing to clarify the responsibilities of hospital-owned ambulances so that these ambulances can be more fully integrated with citywide and local community EMS procedures for responding to medical emergencies and thus use these resources more efficiently for the benefit of these communities.

We solicit comments on all of these proposed changes.

4. Prior Authorization

Some managed care plans may seek to pay hospitals for services only if the hospitals obtain approval from the plan for the services before providing the services. Requirements for this approval are frequently referred to as “prior authorization” requirements. However, EMTALA (specifically, section 1867(h) of the Act and our regulation at § 489.24(c)(3)) explicitly prohibit hospitals from delaying screening or stabilization services in order to inquire about the individual's method of payment or insurance status. Thus, prior authorization requirements are a matter of concern because hospitals could, in seeking prior authorization from an insurer, present a barrier to or delay in the provision of services required by EMTALA.

After review of these considerations, we believe that our existing policy will best implement the intent of the statute by prohibiting a participating hospital from seeking authorization from the individual's insurance company for screening services or services required to stabilize an emergency medical condition until after the hospital has provided the appropriate medical screening examination required by EMTALA to the patient and has initiated any further medical examination and treatment that may be required to stabilize the patient's emergency medical condition.

We are soliciting comments as to whether the regulations should be further revised to state that the hospital may seek other information (apart from information about payment) from the insurer about the individual, and may seek authorization for all services concurrently with providing any stabilizing treatment, as long as doing so does not delay required screening and stabilization services.

In addition, we are proposing to specify that an emergency physician is not precluded from contacting the patient's physician at any time to seek advice regarding the patient's medical history and needs that may be relevant to the medical screening and treatment of the patient, as long as this consultation does not inappropriately delay required screening or stabilization services.

As explained earlier, this policy was stated in a Special Advisory Bulletin published jointly by CMS (then HCFA) and the OIG. However, we are now proposing to clarify existing language at § 489.24(c)(3) (proposed to be redesignated as paragraph (d)(4)) in this proposed rule to include this policy in the regulations.

5. Hospital Responsibility for Communication With Medicare+Choice Organizations Concerning Post-Stabilization Care Services

Section 422.113 of our existing regulations establishes rules concerning the responsibility of Medicare+Choice organizations for emergency and post-stabilization care services provided to Medicare+Choice enrollees (65 FR 40170, June 29, 2000). Under § 422.113(c)(2), a Medicare+Choice organization is financially responsible for post-stabilization care under certain circumstances, including situations in which the organization cannot be contacted or does not respond timely to a hospital's request for preapproval of this care.

It has come to our attention that, in some instances, hospitals may have failed to contact Medicare+Choice organizations on a timely basis to seek authorization for post-stabilization services. In such a case, the Medicare+Choice organization does not have the opportunity provided for under the regulations to decide whether to approve the provision of post-stabilization services at the hospital where the emergency services were provided, or to require that the enrollee instead be transferred to another hospital for such services. Therefore, we are proposing to add a new paragraph (d)(6) under § 489.24 to specify that a hospital must promptly contact the Medicare+Choice organization after a Medicare+Choice enrollee who is treated for an emergency medical condition is stabilized.

6. Clarification of “Comes to the Emergency Department”

Section 1867(a) of the Act and our regulations at § 489.24(a) provide, in part, that if any individual comes to the emergency department of a hospital and a request is made on that individual's behalf for examination or treatment of a medical condition, the hospital must provide an appropriate medical screening examination within the capability of the hospital's emergency department. If the hospital determines that such an individual has an emergency medical condition, the hospital is further obligated to provide either necessary stabilizing treatment or an appropriate transfer. Occasionally, questions have arisen as to whether these EMTALA requirements apply to situations in which a patient comes to a hospital, but does not present to the hospital's emergency department. We are proposing to clarify under what circumstances a hospital is obligated under EMTALA to screen, stabilize, or transfer an individual who comes to a hospital, presenting either at its dedicated emergency department, as proposed to be defined below, or elsewhere on hospital property, seeking examination or treatment.

Sometimes individuals come to hospitals seeking examination or treatment for medical conditions that could be emergency medical conditions, but present for examination or treatment at areas of the hospital other than the emergency department. For example, a woman in labor may go directly to the labor and delivery department of a hospital or a psychiatric outpatient experiencing a psychiatric crisis may present at the psychiatry department. In the June 22, 1994 final rule (59 FR 32098), we defined “comes to the emergency department” at § 489.24(b) to clarify that a hospital's EMTALA obligations are triggered whenever an individual presents on hospital property in this manner in an attempt to gain access to the hospital for emergency care and requests examination or treatment for an emergency medical condition. At the time we adopted this interpretation of “comes to the emergency department,” we explained:

“We believe that section 1867 of the Act also applies to all individuals who attempt to gain access to the hospital for emergency care. An individual may not be denied services simply because the person failed to actually enter the facility's designated emergency department.” (59 FR 32098)

We repeated this standard for situations in which a hospital becomes bound to meet EMTALA's screening and stabilization or transfer requirements with respect to individuals who present on hospital property in an attempt to gain access to the hospital for emergency care, but outside of a hospital's emergency department, in interpretative guidelines published in the State Operations Manual:

“If an individual arrives at a hospital and is not technically in the emergency department, but is on the premises (including the parking lot, sidewalk and driveway) of the hospital and requests emergency care, he or she is entitled to a medical screening examination.” (State Operations Manual Appendix V—Responsibilities of Medicare Participating Hospitals in Emergency Cases, V-16)

Thus, an individual can “come to the emergency department,” creating an EMTALA obligation on the part of the hospital, in one of two ways: The individual can present at a hospital's dedicated emergency department (as proposed to be defined below) and request examination or treatment for a medical condition; or the individual can present elsewhere on hospital property in an attempt to gain access to the hospital for emergency care (that is, at a location that is on hospital property but is not part of a dedicated emergency department), and request examination or treatment for what may be an emergency medical condition.

Because of the need to clarify the applicability of EMTALA to a particular individual depending on where he or she presents on hospital property in order to obtain emergency care, we are proposing to define “dedicated emergency department.” “Dedicated emergency department” would mean a specially equipped and staffed area of the hospital that is used a significant portion of the time for the initial evaluation and treatment of outpatients for emergency medical conditions, as defined in § 489.24(b), and is either located: (1) On the main hospital campus; or (2) off the main hospital campus and is treated by Medicare under § 413.65(b) as a department of the hospital. The EMTALA statute was intended to apply to individuals presenting to a hospital for emergency care services. Accordingly, we believe it is irrelevant whether the dedicated emergency department is located on or off the hospital main campus, as long as the individual is presenting to “a hospital” for those services. Therefore, we are proposing in our definition of “dedicated emergency department” that such a department may be located on the main hospital campus, or it may be a department of the hospital located off the main campus. (We note that this proposed definition would encompass not only what is generally thought of as a hospital's “emergency room,” but would also include other departments of hospitals, such as labor and delivery departments and psychiatric units of hospitals, that provide emergency or labor and delivery services, or both, or other departments that are held out to the public as an appropriate place to come for medical services on an urgent, nonappointment basis.)

We are soliciting public comment on whether this proposed definition should more explicitly define what is a “dedicated emergency department.” Specifically, we are seeking comment on whether a “significant portion of the time” should be defined more objectively; for example, in terms of some minimum number or minimum percentage of patients (20, 30, 40 percent or more of all patients seen) presenting for emergency care at a particular area of the hospital in order for it to qualify as a “dedicated emergency department.” As an alternative, we could also consider a qualifying criteria that is based on determining whether the facility is used “regularly” for the evaluation or treatment of emergency medical conditions. Similarly, we are seeking comments on how we could define “regularly” more objectively in our consideration of this alternative. We further seek comments from hospitals, physicians, and others on how hospitals currently organize themselves to react to situations in which individuals come to a hospital requesting a screening examination or medical treatment, or both.

This proposed rule would clarify for hospitals that they must provide at least a medical screening examination to all individuals who present to an area of a hospital meeting the definition of dedicated emergency department and request examination or treatment for a medical condition, or have such a request made on their behalf. As we explain in section V.J.7. of this preamble, individuals who present to an area of a hospital other than a dedicated emergency department on hospital property must receive a medical screening examination under EMTALA, only when the individual requests examination or treatment for what may be an emergency medical condition, or has such a request made on his or her behalf, as provided in the proposed changes to § 489.24(b) in this proposed rule.

7. Applicability of EMTALA: Individual Comes to the Dedicated Emergency Department for Nonemergency Services

We sometimes receive questions as to whether EMTALA's requirements apply to situations in which an individual comes to a hospital's dedicated emergency department, but no request is made on the individual's behalf for emergency medical evaluation or treatment. In view of the specific language of section 1867 of the Act and the discussion in section V.J.6. of this proposed rule, which proposes to define a hospital's dedicated emergency department as a specially equipped and staffed area of the hospital that is used a significant portion of the time for the initial evaluation and treatment of outpatients for emergency medical conditions located on the main hospital campus or at an off-campus department of the hospital, we believe that a hospital must be seen as having an EMTALA obligation with respect to any individual who comes to the dedicated emergency department, if a request is made on the individual's behalf for examination or treatment for a medical condition, whether or not the treatment requested is explicitly for an emergency condition. A request on behalf of the individual would be considered to exist if a prudent layperson observer would believe, based on the individual's appearance or behavior, that the individual needs examination or treatment for a medical condition. This does not mean, of course, that all EMTALA screenings must be equally extensive. The statute plainly states that the objective of the appropriate medical screening examination is to determine whether or not an emergency medical condition exists. Therefore, hospitals are not obligated to provide screening services beyond those needed to determine that there is no emergency.

In general, a medical screening examination is the process required to reach, with reasonable clinical confidence, a determination about whether a medical emergency does or does not exist. We expect that in most cases in which a request is made for medical care that clearly is unlikely to involve an emergency condition, an individual's statement that he or she is not seeking emergency care, together with brief questioning by qualified medical personnel, would be sufficient to establish that there is no emergency condition and that the hospital's EMTALA obligation would thereby be satisfied.

To clarify our policy in this area, we are proposing to redesignate paragraphs (c) through (h) of § 489.24 as paragraphs (d) through (i) (we are proposing to remove existing paragraph (i), as explained in section V.J.10. of this preamble) and to add a new paragraph (c) to state that if an individual comes to a hospital's dedicated emergency department and a request is made on his or her behalf for examination or treatment for a medical condition, but the nature of the request makes it clear that the medical condition is not of an emergency nature, the hospital is required only to perform such screening as would be appropriate for any individual presenting in that manner, to determine that the individual does not have an “emergency medical condition” as defined in paragraph (b). (See example 1 below.)

Example 1: A woman walks up to the front desk of a hospital's emergency room, a dedicated emergency department, and tells the hospital employee attending the front desk that she had a wound sutured several days earlier and was directed by her doctor to have the sutures removed that day. The front desk attendant registers the woman according to the hospital's normal registration procedure and directs the woman to the waiting area. An emergency nurse, who has been designated by the hospital as a “qualified medical person” (as provided for in existing § 489.24(a)), calls the woman into the examination area of the emergency room. The nurse asks the woman if she has experienced any discomfort or noticed any problems in the area sutured. The woman explains that she is feeling fine, and the wound is not causing her any discomfort, but that her doctor had directed her a week ago to have the sutures removed that day. The nurse physically inspects the sutures and determines that the wound is healing appropriately. The nurse explains to the woman that she does not have an emergency medical condition and may direct the woman to an outpatient clinic where nonemergency personnel will provide the services the woman has requested.

Application: In this case, the woman presented at the hospital's dedicated emergency department and requested examination or treatment for a medical condition—specifically, she asked that her sutures be removed. Therefore, the hospital is bound under section 1867(a) of the Act to provide her a medical screening examination in order to determine whether or not she has an emergency medical condition. The actions of the nurse, “a qualified medical person,” constitute an appropriate medical screening examination under EMTALA because the nurse has determined, with reasonable clinical confidence, that the woman has no emergency medical condition. This appropriate medical screening examination fully satisfies the hospital's EMTALA obligations as to that woman; because the screening examination revealed no emergency medical condition, the hospital properly referred the woman to an outpatient clinic for nonemergency care.

8. Applicability of EMTALA: Individual Presents at an Area of the Hospital on the Hospital's Main Campus Other Than the Dedicated Emergency Department

Routinely, individuals come to hospitals as outpatients for many nonemergency medical purposes, and if such an individual initially presents at an on-campus area of the hospital other than a dedicated emergency department, we would expect that the individual typically would not be seeking emergency care. Under most of these circumstances, EMTALA would therefore not apply (this concept is further discussed in section V.J.8. of this preamble). A hospital would, however, incur an EMTALA obligation with respect to an individual presenting at that area who requests examination or treatment for what may be an emergency medical condition, or had such a request made on his or her behalf. This policy would not require that an emergency medical condition be found, upon subsequent medical examination, to exist. Rather, EMTALA is triggered in on-campus areas of the hospital other than a dedicated emergency department where, in an attempt to gain access to the hospital for emergency care, an individual comes to a hospital and requests an examination or treatment for a medical condition that may be an emergency.

We are proposing to specify in the regulations that such a request would be considered to exist if the individual requests examination or treatment for what the individual believes to be an emergency medical condition. Where there is no actual request because, for example, the individual is unaccompanied and is physically incapable of making a request, the request from the individual would be considered to exist if a prudent layperson observer would believe, based upon the individual's appearance or behavior, that the individual needs emergency examination or treatment. We believe this proposed policy is appropriate because it would not be consistent with the intent of section 1867 of the Act to deny its protections to those individuals whose need for emergency services arises upon arrival on hospital on-campus property at the hospital's main campus but have not been presented to the dedicated emergency department.

Under the proposed policies discussed above, a request for examination or treatment by an individual presenting for what may be an emergency medical condition at an on-campus area of the hospital other than the dedicated emergency department would not have to be expressed verbally in all cases, but in some cases should be inferred from what a prudent layperson observer would conclude from an individual's appearance or behavior. While there may be a request (either through the individual or a prudent layperson), thereby triggering an EMTALA obligation on the part of the hospital, this policy does not mean that the hospital must maintain emergency medical screening or treatment capabilities in each department or at each door of the hospital, nor anywhere else on hospital property other than the dedicated emergency department. If an individual presents at an on-campus area of the hospital other than the dedicated emergency department in an attempt to gain access to the hospital for emergency care, EMTALA would mandate that the hospital (as a whole) would provide for screening and stabilizing the individual. For example, upon presentation of an individual requesting emergency care, if the department to which the individual presents cannot readily provide screening and, if needed, stabilization services, the department may arrange for appropriate staff to provide these services. Care required to be provided under EMTALA should be provided in the most appropriate setting, as determined by the hospital.

Example 2: An individual bleeding profusely from a severe scalp laceration enters a hospital through the main entry for hospital visitors, and says to one of the receptionists: “I need help.” The receptionist sees that the individual's head is bleeding and, noting his request, arranges to have the individual taken to the dedicated emergency department. Minutes later, the staff from the emergency department arrive and transport the individual to the hospital's emergency department to complete the screening and to give any necessary stabilizing treatment.

Application: The individual presented at an on-campus area of the hospital other than the dedicated emergency department (in this case, the main entry for hospital visitors), with his head bleeding profusely, asking for help. The receptionist, a prudent layperson observing the individual, believed that the individual was seeking emergency examination or treatment, thereby triggering an EMTALA obligation on the part of the hospital. (We note that EMTALA would have been triggered even if no verbal request had been made, since the individual's appearance indicated the clear possibility of an emergency medical condition.) Since the main entry for hospital visitors did not have emergency examination or treatment capabilities, the receptionist appropriately called the hospital's emergency department to summon emergency department staff to provide emergency care for that individual. Once the emergency department staff arrived and transported the individual to the hospital's emergency department, and provided him with the emergency care needed and stabilized the individual, the hospital had satisfied its EMTALA obligation to that individual.

Again, we solicit comments from hospitals and physicians that give examples of ways in which hospitals presently react to situations such as for the example noted above.

Most individuals who come to hospitals as outpatients come for many nonemergency purposes; under most circumstances, EMTALA would not apply. We are proposing that EMTALA would not apply to such an individual who then experiences what may be an emergency medical condition if the individual is an outpatient (as that term is defined at 42 CFR § 410.2) who has come to the hospital outpatient department for the purpose of keeping a previously scheduled appointment. We would consider such an individual to be an outpatient if he or she has begun an encounter (as that term is defined at § 410.2) with a health professional at the outpatient department. Because such individuals are patients of the hospital already, that is, they have a previously established relationship with the hospital, and have come to the hospital for previously scheduled medical appointments, we believe it is inappropriate that they be considered to have “come to the hospital” for purposes of EMTALA. However, we note that such an outpatient under this proposal who experiences what may be an emergency medical condition after the start of an encounter with a health professional would have all protections afforded to patients of a hospital under the Medicare hospital conditions of participation (as discussed in section V.J.13. of this proposed rule). Hospitals that fail to provide treatment to these patients could face termination of their Medicare provider agreements for a violation of the conditions of participation. In addition, as patients of a health care provider, these individuals are accorded protections under State statutes or common law as well as under general rules of ethics governing the medical professions.

Example 3: A patient who had been discharged from inpatient status following knee replacement surgery comes to the hospital outpatient department for a physical therapy session which had been scheduled 2 weeks earlier. While undergoing therapy, the patient complains of chest pains and lightheadedness. Acting under protocols established by the hospital, staff of the outpatient department contact the hospital's dedicated emergency department, which dispatches appropriate personnel to the department. The patient is taken to the hospital's dedicated emergency department for examination. Upon arrival in the dedicated emergency department, she is given a medical screening examination, which reveals that she has an emergency medical condition related to coronary artery disease. She is stabilized in the dedicated emergency department and is released to the care of her daughter.

Application: In this case, the individual is an outpatient. While she is in a physical therapy session in an outpatient department of the hospital, she experiences what may be an emergency medical condition—chest pains and lightheadedness. This outpatient is under the care of the hospital; she is in a previously scheduled physical therapy appointment and clearly has a previously established relationship with the hospital. In addition, the encounter with hospital staff has begun since her condition arose while she was undergoing therapy. Therefore, although the individual may be experiencing what may be an emergency medical condition, the hospital is not obligated under EMTALA. However, the hospital appropriately provided treatment for this patient, as required under the Medicare conditions of participation (specifically, 42 CFR § 482.55, which requires the hospital to fulfill its condition of participation responsibility for emergency care by contacting the hospital's dedicated emergency department and providing care to the individual through staff of that department). We solicit comments from hospitals and physicians as to what current practices are when an outpatient with a previously scheduled appointment experiences an emergency medical condition.

We are proposing to retitle the definition of “property” at § 489.24(b) to “hospital property” and relocate it as a separate definition. In addition, we are proposing to clarify which areas and facilities are not considered hospital property.

9. Scope of EMTALA Applicability to Hospital Inpatients

While most issues regarding EMTALA arise in connection with ambulatory patients, questions have occasionally been raised about whether EMTALA applies to inpatients. In late 1998, the United States Supreme Court considered a case (Roberts v. Galen of Virginia) that involved, in part, the question of whether EMTALA applies to inpatients in a hospital. In the context of that case, the United States Solicitor General advised the Supreme Court that the Department of Health and Human Services (DHHS) would develop a regulation clarifying its position on that issue. After reviewing the issue in the light of the EMTALA statute, we are proposing that EMTALA would apply to inpatients only under limited circumstances, as described in the following paragraphs.

As noted earlier, once a hospital has incurred an EMTALA obligation with respect to an individual, that obligation continues while the individual remains at the hospital, so that any transfer to another medical facility or discharge of the individual must be in compliance with the rules restricting transfer until the individual is stabilized under existing § 489.24(d). In many cases, medical judgment will dictate that a patient be admitted to the hospital for further treatment on an inpatient basis because the patient's emergency medical condition has not yet been stabilized.

In these cases, the hospital continues to be obligated under section 1867, irrespective of the inpatient admission. Admitting an individual whose emergency medical condition has not been stabilized does not relieve the hospital of further responsibility to the individual under this section. An individual's emergency medical condition will be considered to have been stabilized only when the criteria in § 489.24(b) are met; that is, the individual's condition must be such that no material deterioration of the condition is likely, within reasonable medical probability, to result from or occur during a transfer of the individual from the facility or, if the patient is a pregnant woman who is having contractions, that the woman has delivered the child and the placenta.

Consistent with the above policy, we emphasize that an admission to inpatient status cannot be used to evade EMTALA responsibilities. Indeed, permitting inpatient admission to end EMTALA obligations would provide an obvious means of circumventing these requirements that would seemingly contradict the point of the statute to protect emergency patient health and safety. This point should be particularly evident in the case of a woman in labor, a central focus of the statute. Such women are frequently admitted, and the statute clearly contemplated protecting them until completion of the delivery (that is, stabilization). In addition, if an inpatient who had been admitted from the dedicated emergency department with an unstabilized emergency medical condition was never stabilized as an inpatient and is transferred, we would still apply EMTALA in reviewing the transfer. In this context, stability for transfer reflects a complex medical judgment that can be made only based on review of all relevant information in each particular case, including all conditions that could cause the patient to be medically unstable. A patient who goes in and out of apparent stability with sufficient rapidity or frequency would not be considered “stabilized” within the meaning of § 489.24; transient stability of such a patient does not relieve the hospital of its EMTALA obligation. Such a patient would continue to be covered by EMTALA until the patient's overall medical stability with respect to all conditions is achieved.

Except for the limited circumstances described above, we are proposing to clarify that EMTALA does not apply to hospital inpatients. We believe EMTALA does not apply to hospital inpatients because we interpret section 1867 of the Act by reading the statutory language as a whole, with the requirements of paragraphs (b), “Necessary Stabilizing Treatment for Emergency Medical Conditions and Labor,” and (c), “Restricting Transfer Until Individual is Stabilized,” applying only to those individuals who satisfy the threshold requirement of coming to the hospital and requesting emergency care (as interpreted in this proposed regulation). This interpretation is based upon the statutory language and the legislative history. First, the Congress defined “emergency medical condition” at section 1867(e)(1) of the Act by referring solely to “acute symptoms,” which are self-identified, and did not mention other potentially relevant indications, in particular, signs or objective data. “Signs” are observable findings that are identified or confirmed by a clinician based on examination and use of objective data (for example, physiologic measurements, x-ray results). When a patient's condition deteriorates in the inpatient setting, awareness of a situation potentially requiring emergency care is based on any symptoms, signs, and objective data, reflecting a situation that is not captured by the targeted definition at section 1867(e)(1) of the Act. If the Congress had intended EMTALA to apply to transfers at any time during an inpatient stay, it would not have used a definition of emergency medical condition that focuses exclusively on symptoms and that uniquely defines the individual's status at the time of his or her initial presentation to the hospital, not his or her status as an inpatient. Furthermore, the definition of “appropriate transfer” in paragraph (c)(2) of section 1867 of the Act includes a variety of terms (observation, signs, symptoms, preliminary diagnosis) associated with patient information that is gathered at the initial stage of clinical intervention, when the course of treatment is just beginning. Thus, it would appear to be clear that the authors of this legislation understood the precise meanings of these clinical terms and utilized them accordingly. Further indication that Congress intended this result is the language in section 1867(b)(1)(A) of the Act (stabilization), which requires that the hospital provide “for such further medical examination” as necessary to stabilize. Congress' use of the word “further” acknowledges that there was some initial treatment that occurred in the emergency department.

In addition, the legislative history of EMTALA is replete with references to the problem of individuals denied emergency medical care at hospital emergency rooms, whereas there is no explicit reference to similar problems faced by hospital inpatients. (See, for example, 131 Cong. Rec. 28.587 and 28.588 (1985)). When the Congress considered the need for EMTALA legislation, it noted that Medicare-participating hospitals were bound to meet hospital conditions of participation, but that no specific requirements then existed for appropriate treatment of emergency patients. (See H.R. Rept. No. 241 (I)(1985), reprinted in 1986 U.S.C.C.A.N. 579, 605.) Arguably, the Congress also considered other protections available to hospital inpatients (for example, private causes of action).

This interpretation that EMTALA was not intended to apply to transfers at any time during an inpatient's stay is further supported by the language of the appropriate transfer provisions of section 1867(c) of the Act. While that paragraph does refer to individuals at a “hospital,” rather than individuals at an “emergency department,” the same paragraph also makes reference to actions to be taken by “a physician * * * physically present in the emergency department.” This explicit mention of a hospital emergency department, even in a paragraph that generally cites an individual at a “hospital,” supports the view that EMTALA was not intended to apply to admitted inpatients who may become unstable subsequent to admission, but only to patients who initially come to the hospital's emergency department with an emergency medical condition, and only until the condition has been stabilized. Finally, we note that once a hospital admits an individual as a patient, that hospital has a variety of other legal, licensing, and professional obligations with respect to the continued proper care and treatment of such patients.

a. Admitted Emergency Patients. A related issue concerns whether a hospital may satisfy its EMTALA obligations to an admitted emergency inpatient only by effectuating an actual stable discharge or appropriate transfer. We are proposing to clarify that even when an admitted emergency patient is not actually transferred, a determination may be made as to whether or not the patient has been stabilized such that he or she could be transferred at a certain point without likely material deterioration of the patient's condition, as defined in section 1867(e)(3)(B) of the Act. Under our proposed policy, if the admitted emergency patient could have been transferred as “stable” under the statute and the period of stability is documented by relevant clinical data in the patient's medical record, the hospital has satisfied its EMTALA obligation by meeting the statutory requirement of providing stabilizing treatment to the point of stability for transfer, and the hospital's obligation under EMTALA ends, even though the patient may remain in inpatient status at the hospital. If, after stabilization, the individual who was admitted as an inpatient again has an apparent decline of his or her medical condition, either as a result of the injury or illness that created the emergency for which he or she initially came to the dedicated emergency department or as a result of another injury or illness, the hospital must comply with the conditions of participation under 42 CFR Part 482, but has no further responsibility under EMTALA with respect to the individual.

We also note that, just because a hospital may stabilize a patient for purposes of ending its EMTALA obligation to that patient, this does not relieve the hospital of any further health and safety obligations as to that patient under the Medicare program. While they remain patients in that hospital, these patients are still protected by a number of Medicare health and safety standards (conditions of participation), as explained further below. In addition, as explained above, nothing under EMTALA in any way changes a hospital's other legal, licensing, and professional obligations with respect to the continued proper care and treatment of its patients.

Example 4: A patient comes to Hospital C's emergency department and requests treatment for an emergency medical condition. The patient knows he has severe heart disease and his chest pains have become more frequent. The patient receives an appropriate medical screening examination and is found to have an emergency medical condition, as indicated by a pain pattern and EKG abnormalities consistent with unstable angina. Stabilizing treatment in the emergency department on an outpatient basis, consisting of oxygen, nitrates and heparin, is initiated.

After several hours of outpatient care, the emergency physician determines that the patient is still not stable for purposes of discharge to his home. The emergency physician concludes that the patient can be treated most effectively by being admitted to Hospital C where he is currently being treated as an outpatient. The patient is admitted as an inpatient for further treatment. The attending physician knows that patients with indications for coronary angioplasty are usually transferred to Hospital D in another city because Hospital D has specialized capabilities that are unavailable at admitting Hospital C. A trip to Hospital D typically requires 2 hours travel by ground ambulance. The physician determines that the patient is stable for purposes of this type of transfer; that is, such a transfer is not likely to result in a material deterioration of the patient's condition, and documents relevant clinical data in the patient's medical record. Even though patients with this degree of coronary arterial disease and acute infarction risk are usually transferred, the patient opposes transfer and wants to remain in the local community. In accordance with the wishes of the patient and his family, the attending physician agrees to treat the patient in Hospital C while informing the patient of the risks involved.

Application: In this situation, the admitted patient is not stable for purposes of discharge to his home but the attending physician determined that the patient is stable for the type of transfer usually undertaken by Hospital C for patients with unstable angina considered for angioplasty. This stabilization, which is documented by relevant clinical data in the patient's medical record, ends Hospital C's EMTALA obligation to the patient, and that obligation would not be reinstated by any subsequent deterioration in the patient's condition.

We are proposing to redesignate paragraph (c) of § 489.24 as paragraph (d), and include these stabilization requirements under a new proposed § 489.2(d)(2). (Proposed redesignated paragraph (d) would be revised further as explained in section V.K.9.b. of this preamble.)

b. Admitted Elective (Nonemergency) Patients. Most hospital admissions do not consist of emergency cases. In most cases, a patient who comes to the hospital and requests admission does so to obtain elective (nonemergency) diagnosis or treatment for a medical condition. Questions have arisen, however, as to whether a hospital would be bound under EMTALA in the situation in which an admitted nonemergency inpatient experiences a deterioration of his or her medical condition.

Under our interpretation of section 1867 of the Act as described above, we believe EMTALA was intended to provide protection to patients coming to a hospital to seek care for an emergency condition. Therefore, we believe that the EMTALA requirements do not extend to admitted nonemergency inpatients. These patients are protected by a number of the Medicare hospital conditions of participation, as explained further under section V.K.13. of this preamble. These patients are further protected by a hospital's other legal, licensing, and professional obligations with respect to the continued proper care and treatment of its patients.

We are proposing to also include these requirements under the proposed redesignated § 489.24(d)(2).

10. Applicability of EMTALA to Provider-Based Entities

On April 7, 2000, we published a final rule specifying the criteria that must be met for a determination regarding provider-based status (65 FR 18504). The regulations in that the April 2000 final rule were subsequently revised to incorporate changes mandated by section 404 of Public Law 106-554 (66 FR 59856, November 30, 2001). However, those revisions did not substantively affect hospitals' obligations with respect to off-campus departments.

a. Applicability of EMTALA to Off-Campus Hospital Departments. In the April 7, 2000 final rule (65 FR 18504), we also clarified the applicability of EMTALA to hospital departments not located on the main provider campus. At that time, we revised § 489.24 to include a new paragraph (i) to specify the antidumping obligations of hospitals with respect to individuals who come to off-campus hospital departments for the examination or treatment of a potential emergency medical condition. As explained in the preamble to the April 7, 2000 final rule, we made this change because we believed it was consistent with the intent of section 1867 of the Act to protect individuals who present on hospital property (including off-campus hospital property) for emergency medical treatment. Since publication of the April 7, 2000 final rule, it has become clear that many hospitals and physicians continue to have significant concerns with our policy on the applicability of EMTALA to these off-campus locations. After further consideration, we are proposing to clarify the scope of EMTALA's applicability in this scenario to those off-campus departments that are treated by Medicare under § 413.65(b) to be departments of the hospital, and that are equipped and staffed areas that are used a significant portion of the time for the initial evaluation and treatment of outpatients for emergency medical conditions. That is, we are proposing to narrow the applicability of EMTALA to only those off-campus departments that are “dedicated emergency departments” as defined in proposed revised § 489.24(b).

This proposed definition would include such departments whether or not the words “emergency room” or “emergency department” were used by the hospital to identify the departments. The definition would also be interpreted to encompass those off-campus hospital departments that would be perceived by a prudent layperson as appropriate places to go for emergency care. Therefore, we are proposing to revise the definition of “Hospital with an emergency department” at § 489.24(b) to account for these off-campus dedicated emergency departments and to also amend the definition of “Comes to the emergency department” at § 489.24(b) to include this same language. We believe this proposed change would enhance the quality of emergency care by facilitating the prompt delivery of emergency care in those cases, thus permitting individuals to be referred to nearby facilities with the capacity to offer appropriate emergency care.

In general, we expect that off-campus departments that meet the proposed definitions stated above would in practice be functioning as “off-campus emergency departments.” Therefore, we believe it is reasonable to expect the hospital to assume, with respect to these off-campus departments, all EMTALA obligations that the hospital must assume with respect to the main hospital campus emergency department. For instance, the screening and stabilization or transfer requirements described in section V.K.1. of this preamble (“Background”) would extend to the off-campus emergency departments, as well as to any such departments on the main hospital campus.

In conjunction with this proposed change in the extent of EMTALA applicability with respect to off-campus facilities, we are also proposing to delete all of existing § 489.24(i), which, as noted above, was established in the April 7, 2000 final rule. We are proposing to delete this paragraph in its entirety because its primary purpose is to describe a hospital's EMTALA obligations with respect to patients presenting to off-campus departments that do not routinely provide emergency care. Under the proposals outlined above, however, a hospital would have no EMTALA obligation with respect to individuals presenting to such departments. Therefore, it would no longer be necessary to impose the requirements in existing § 489.24(i). Even though off-campus provider-based departments that do not routinely offer services for emergency medical conditions would not be subject to EMTALA, some individuals may occasionally come to them to seek emergency care. Under such circumstances, we believe it would be appropriate for the department to call an emergency medical service (EMS) if it is incapable of treating the patient, and to furnish whatever assistance it can to the individual while awaiting the arrival of EMS personnel. Consistent with the hospital's obligation to the community and similar to our requirements under § 482.12(f)(2) that apply to hospitals that do not provide emergency services, we would expect the hospital to have appropriate protocols in place for dealing with individuals who come to off-campus nonemergency facilities to seek emergency care. To clarify a hospital's responsibility in this regard, we are proposing to revise § 482.12(f) by adding a new paragraph (3) to state that if emergency services are provided at the hospital but are not provided at one or more off-campus departments of the hospital, the governing body of the hospital must assure that the medical staff of the hospital has written policies and procedures in effect with respect to the off-campus department(s) for appraisal of emergencies and referral when appropriate. (We note that, in a separate document (62 FR 66758, December 16, 1997), we proposed to relocate the existing § 482.12(f) requirement to a new section of Part 482. Any change to the existing § 482.12(f) that is adopted as a result of the proposal described above will be taken into account in finalizing the December 19, 1997 proposal.) However, the hospital would not incur an EMTALA obligation with respect to the individual.

In summary, we are proposing in existing § 489.24(b) to revise the definitions of “comes to the emergency department” and “hospital with an emergency department”, and to include these off-campus departments in our new definition of “dedicated emergency department.” We welcome comments on whether this new term is needed or if the term “emergency department” could be defined more broadly to encompass other departments that provide urgent or emergent care services. We are proposing to delete all of existing § 489.24(i) and to make conforming revisions to § 413.65(g)(1).

b. On-Campus Provider-Based Applicability. At existing § 413.65(g)(1), we state, in part, that if any individual comes to any hospital-based entity (including an RHC) located on the main hospital campus, and a request is made on the individual's behalf for examination or treatment of a medical condition, the entity must comply with the antidumping rules at § 489.24. Since provider-based entities, as defined in § 413.65(b), are not under the certification and provider number of the main provider hospital, this language, read literally, would appear to impose EMTALA obligations on providers other than hospitals, a result that would not be consistent with section 1867, which restricts EMTALA applicability to hospitals. To avoid confusion on this point and to prevent any inadvertent extension of EMTALA requirements outside the hospital setting, we are proposing to clarify that EMTALA applies in this scenario to only those departments on the hospital's main campus that are provider-based; EMTALA would not apply to provider-based entities (such as RHCs) that are on the hospital campus.

In addition, we are proposing in § 489.24(b) to revise the definition of “Comes to the emergency department” to include an individual who presents on hospital property, in which “hospital property” is in part defined as “the entire main hospital campus as defined at § 413.65(b) of this chapter, including the parking lot, sidewalk, and driveway, but excluding other areas or structures that may be located within 250 yards of the hospital's main building but are not part of the hospital, such as physician offices, RHCs, SNFs, or other entities that participate separately in Medicare, or restaurants, shops, or other nonmedical facilities.” We are specifically seeking comments on this proposed revised definition. Generally, this proposed language would clarify that EMTALA does not apply to provider-based entities, whether or not they are located on a hospital campus. This language is also consistent with our policy as stated in questions and answers published on the CMS website: www.cms.gov (CMS EMTALA guidance, 7/20/01, Q/A # 1) that clarifies that EMTALA does not apply to other areas or structures located on the hospital campus that are not part of the hospital, such as fast food restaurants or independent medical practices.

If this proposed change limiting EMTALA applicability to only those on-campus departments of the hospital becomes finalized, we believe that if an individual comes to an on-campus provider-based entity or other area or structure on the campus not applicable under the new policy and presents for emergency care, it would be appropriate for the entity to call the emergency medical service if it is incapable of treating the patient, and to render whatever assistance it can to the individual while awaiting the arrival of emergency medical service personnel. However, the hospital on whose campus the entity is located would not incur an EMTALA obligation with respect to the individual.

We welcome comments from providers and other interested parties on the proper or best way to organize hospital resources to react to situations on campus where an individual patient or prospective patient requires immediate medical attention.

We are proposing in § 489.24(b) to revise the definition of “Comes to emergency department” (specifically, under proposed new paragraph (1)) and make conforming changes at § 413.65(g)(1).

11. EMTALA and On-Call Requirements

We have frequently received inquiries concerning the applicability of EMTALA for physicians on call. We believe there are a number of misconceptions in the provider industry concerning the extent to which EMTALA requires physicians to provide on-call coverage. Therefore, we are including a section in this preamble that clarifies what kinds of obligations physicians have to provide on-call coverage under EMTALA.

Section 1866(a)(1)(I)(iii) of the Act states, as a requirement for participation in the Medicare program, that hospitals must keep a list of physicians who are on call for duty after the initial examination to provide treatment necessary to stabilize an individual with an emergency medical condition. If a physician on the list is called by a hospital to provide emergency screening or treatment and either fails or refuses to appear within a reasonable period of time, the hospital and that physician may be in violation of EMTALA as provided for under section 1867(d)(1)(C) of the Act.

The CMS State Operations Manual (SOM) further clarifies a hospital's responsibility for the on-call physician. The SOM (Appendix V, page V-15, Tag A404) states:

• Each hospital has the discretion to maintain the on-call list in a manner to best meet the needs of its patients.

• Physicians, including specialists and subspecialists (for example, neurologists), are not required to be on call at all times. The hospital must have policies and procedures to be followed when a particular specialty is not available or the on-call physician cannot respond because of situations beyond his or her control.

Thus, hospitals are required to maintain a list of physicians on call at any one time and physicians or hospitals, or both, may be responsible under the EMTALA statute to provide emergency care if a physician who is on the on-call list fails to or refuses to appear within a reasonable period of time. However, Medicare does not set requirements on how frequently a hospital's staff of on-call physicians are expected to be available to provide on-call coverage. We are aware that practice demands in treating other patients, conferences, vacations, days off, and other similar factors must be considered in determining the availability of staff. We also are aware that some hospitals, particularly those in rural areas, have stated that they incur relatively high costs of compensating physician groups for providing on-call coverage to their emergency departments, and that doing so can strain their already limited financial resources. CMS allows hospitals flexibility to comply with EMTALA obligations by maintaining a level of on-call coverage that is within their capability.

We understand that some hospitals exempt senior medical staff physicians from being on call. This exemption is typically written into the hospital's medical staff bylaws or the hospital's rules and regulations, and recognizes a physician's active years of service (20 or more years) or age (that is, 60 years of age or older), or a combination of both. We wish to clarify that providing such exemptions to members of hospitals' medical staff does not necessarily violate EMTALA. On the contrary, we believe that the hospital is responsible for maintaining an on-call list in a manner that best meets the needs of its patients as long as the exemption does not affect patient care adversely. Thus, CMS allows hospitals flexibility in the utilization of their emergency personnel.

We also note that there is no predetermined “ratio” that CMS uses to identify how many days that a hospital must provide medical staff on-call coverage based on the number of physicians on staff for that particular specialty. In particular, CMS has no rule stating that whenever there are at least three physicians in a specialty, the hospital must provide 24 hour/7 day coverage. Generally, in determining EMTALA compliance, CMS will consider all relevant factors, including the number of physicians on staff, other demands on these physicians, the frequency with which the hospital's patients typically require services of on-call physicians, and the provisions the hospital has made for situations in which a physician in the specialty is not available or the on-call physician is unable to respond.

Example 5: Hospital D has 75 beds and is located in a rural area. The hospital provides on-call coverage of orthopedic services on all weekdays and the first 3 weekends of each month. On the fourth weekend of one month, an individual presents at Hospital D's dedicated emergency department and requests examination for a medical condition. The emergency physician on duty screens the individual and finds that she has an orthopedic emergency medical condition requiring the services of an orthopedist. Hospital D does not have on-call orthopedic physician coverage on this date and, therefore, transfers the individual to an urban hospital 20 miles away for necessary treatment. The transfer is arranged in accordance with procedures that Hospital D has for meeting patient needs when a particular specialty is not available or the physician cannot respond for reasons beyond his or her control.

Analysis: Hospital D incurred an EMTALA obligation when the individual presented at Hospital D's dedicated emergency department and requested examination for a medical condition. At that time, Hospital D did not have on-call coverage to provide necessary stabilizing treatment for what was an orthopedic emergency medical condition, even though an orthopedic physician was on-call at other times. The emergency physician at Hospital D weighed the risks involved to transfer the individual to an urban hospital with capabilities to treat the individual and found that it would be more beneficial to the individual to transfer him or her to the urban hospital 20 miles away, than to provide screening and stabilizing treatment within Hospital D's capabilities (which, at that time, did not include orthopedic services). Hospital D has satisfied its EMTALA obligation by providing screening services within its capability, followed by an appropriate transfer, under procedures developed in advance. To clarify our policies on EMTALA requirements regarding the availability of on-call physicians, we are proposing to add to § 489.24 a new paragraph (j) to specify that each hospital has the discretion to maintain the on-call list in a manner to best meet the needs of its patients. This paragraph would further specify that physicians, including specialists and subspecialists (for example, neurologists), are not required to be on call at all times, and that the hospital must have policies and procedures to be followed when a particular specialty is not available or the on-call physician cannot respond because of situations beyond his or her control.

12. EMTALA Applicability to Hospital-Owned Ambulances

We stated in the June 22, 1994 final rule (59 FR 32098) that if an individual is in an ambulance owned and operated by a hospital, the individual is considered to have come to the hospital's emergency department, even if the ambulance is not on hospital property. This policy, currently set forth at § 489.24(b), was necessary because we were concerned that some hospitals that owned and operated ambulances at that time were transporting individuals who had called for an ambulance to other hospitals, thereby evading their EMTALA responsibilities to the individuals.

Concerns have since been raised by the provider industry about applications of this policy to ambulances that are owned by hospitals but are operating under communitywide EMS protocols that may require the hospital-owned and other ambulances to transport individuals to locations other than the hospitals that own the ambulances. For instance, we understand that some community protocols require ambulances to transport individuals to the nearest hospital to the patient geographically, whether or not that hospital owns the ambulance.

To avoid imposing requirements that are inconsistent with local EMS requirements, we are proposing to clarify, at proposed revised § 489.24(b) in the definition of “Comes to the emergency department”, an exception to our existing rule requiring EMTALA applicability to hospitals that own and operate ambulances. Our proposal would account for hospital-owned ambulances operating under communitywide EMS protocols. Under our proposal, the rule on hospital-owned ambulances and EMTALA does not apply if the ambulance is operating under a communitywide EMS protocol that requires it to transport the individual to a hospital other than the hospital that owns the ambulance. In this case, the individual is considered to have come to the emergency department of the hospital to which the individual is transported, at the time the individual is brought onto hospital property.

13. Conditions of Participation for Hospitals

We are reminding hospitals and others that while this proposed regulation would make it clear that stabilizing an emergency inpatient relieves the hospital of its EMTALA obligations, it does not relieve the hospital of all further responsibility for the patient who is admitted or indicate that the hospital is thus free to improperly discharge or transfer him or her to another facility. Inpatients who experience acute medical conditions receive protections under the hospital conditions of participation, which are found at 42 CFR part 482. In addition, as noted earlier in this preamble, we believe that outpatients who experience what may be an emergency medical condition after the start of an encounter with a health professional would have all protections afforded to patients of a hospital under the Medicare conditions of participation. There are six conditions of participation that provide these protections: emergency services, governing body, discharge planning, quality assurance, medical staff, and outpatient services. We are not proposing in this proposed rule to make changes to any of the conditions of participation.

If a hospital inpatient develops an acute medical condition and the hospital is one that provides emergency services, the hospital is required to ensure that it meets the emergency needs of the patient in accordance with accepted standards of practice. Similarly, regardless of whether the hospital provides emergency services, if an inpatient develops an acute medical condition, the governing body condition of participation (§ 482.12(f)(2), which applies to all Medicare-participating hospitals) would apply. This condition of participation requires that the hospital governing body must ensure that the medical staff has written policies and procedures for appraisal of emergencies, initial treatment, and referral when appropriate.

The discharge planning condition of participation (§ 482.43, which applies to all Medicare-participating hospitals) requires hospitals to have a discharge planning process that applies to all patients. This condition of participation ensures that patient needs are identified and that transfers and referrals reflecting adequate discharge planning are made by the hospital. If an inpatient develops an acute medical condition and the hospital either does not offer emergency services or does not have the capability to provide necessary treatment, a transfer to another hospital with the capabilities to treat the emergency medical condition could be warranted. Hospitals are required to meet the discharge planning condition of participation in carrying out such a transfer.

The hospital condition of participation governing medical staff (§ 482.22) requires that the hospital have an organized medical staff that operates under bylaws approved by the governing body and is responsible to the governing body for the quality of medical care provided to patients by the hospital. Should the medical staff not be held accountable to the governing body for problems regarding a lack of provision of care to an inpatient who develops an emergency medical condition, this lack of accountability may be reviewed under the medical staff condition of participation, as well, and may result in a citation of noncompliance at the medical staff condition level for the hospital.

Finally, the quality assurance condition of participation (§ 482.21, which applies to all Medicare-participating hospitals) requires the governing body to ensure that there is an effective, hospital-wide quality assurance program to evaluate the provision of patient care. In order to comply with this condition of participation, the hospital must evaluate the care it provides hospital-wide. Complaints regarding a lack of provision of care to an inpatient who develops an emergency medical condition must be addressed under the hospital's quality assurance program and may be reviewed under the quality assurance condition of participation.

A hospital's failure to meet the conditions of participation requirements cited above may result in a finding of noncompliance at the condition level for the hospital and lead to termination of the hospital's Medicare provider agreement.

K. Provider-Based Entities

1. Background

a. The April 7, 2000 Final Rule

Since the beginning of the Medicare program, some providers, which we refer to as “main providers,” have functioned as a single entity while owning and operating multiple provider-based departments, locations, and facilities that were treated as part of the main provider for Medicare purposes. Having clear criteria for provider-based status is important because this designation can result in additional Medicare payments for services furnished at the provider-based facility, and may also increase the coinsurance liability of Medicare beneficiaries for those services.

In the April 7, 2000 Federal Register (65 FR 18504), we published a final rule specifying the criteria that must be met for a determination regarding provider-based status. The regulations at § 413.65(a)(2) define provider-based status as “the relationship between a main provider and a provider-based entity or a department of a provider, remote location of a hospital, or satellite facility, that complies with the provisions of this section.” The regulations at existing § 413.65(b)(2) state that before a main provider may bill for services of a facility as if the facility is provider-based, or before it includes costs of those services on its cost report, the facility must meet the criteria listed in the regulations at § 413.65(d). Among these criteria are the requirements that the main provider and the facility must have common licensure (when appropriate), the facility must operate under the ownership and control of the main provider, and the facility must be located in the immediate vicinity of the main provider.

The effective date of these regulations was originally October 10, 2000, but was subsequently delayed and is now in effect for new facilities or organizations for cost reporting periods beginning on or after January 10, 2001, as explained further below. Program instructions on provider-based status issued before that date, found in Section 2446 of the Provider Reimbursement Manual, Part 1 (PRM-1), Section 2004 of the Medicare State Operations Manual (SOM), and CMS Program Memorandum (PM) A-99-24, will apply to any facility for periods before the new regulations become applicable to it. (Some of these instructions will not be applied because they have been superseded by specific legislation on provider-based status, as described in section V.K.3. of this preamble).

b. Frequently Asked Questions Regarding Provider-Based Issues

Following publication of the April 7, 2000 final rule, we received many requests for clarification of policies on specific issues related to provider-based status. In response, we published a list of “Frequently Asked Questions” and the answers to them on the CMS website at www.hcfa.gov/medlearn/provqa.htm. (This document can also be obtained by contacting any of the CMS (formerly, HCFA) Regional Offices.) These questions and answers did not revise the regulatory criteria, but do provide subregulatory guidance for their implementation.

c. Medicare, Medicaid, and SCHIP Benefits Improvement and Protection Act of 2000 (Public Law 106-554)

On December 21, 2000, the Medicare, Medicaid, and SCHIP Benefits Improvement and Protection Act (BIPA) of 2000 (Public Law 106-554) was enacted. Section 404 of BIPA contains provisions that significantly affect the provider-based regulations at § 413.65. Section 404 includes a grandfathering provision for facilities treated as provider-based on October 1, 2000; alternative criteria for meeting the geographic location requirement; and criteria for temporary treatment as provider-based.

(1) Two-Year “Grandfathering”

Under section 404(a) of BIPA, any facilities or organizations that were “treated” as provider-based in relation to any hospital or CAH on October 1, 2000, will continue to be treated as such until October 1, 2002. For the purpose of this provision, we interpret “treated as provider-based” to include those facilities with formal CMS determinations, as well as those facilities without formal CMS determinations that were being paid as provider-based as of October 1, 2000. As a result, existing provider-based facilities and organizations may retain that status without meeting the criteria in the existing regulations under §§ 413.65(d), (e), (f), and (h) until October 1, 2002. These provisions concern provider-based status requirements, joint ventures, management contracts, and services under arrangement. Thus, the provider-based facilities and organizations affected under section 404(a) of BIPA are not required to submit an application for or obtain a provider-based status determination in order to continue receiving reimbursement as provider-based during this period.

These provider-based facilities and organizations are not exempt from the EMTALA responsibilities of provider-based facilities and organizations set forth at § 489.24, which we are proposing to revise as discussed above, or from the other obligations of hospital outpatient departments and hospital-based entities in existing § 413.65(g), such as the responsibility of off-campus facilities to provide written notices to Medicare beneficiaries of coinsurance liability. These rules are not preempted by the grandfathering provisions of section 404 of BIPA because they do not set forth criteria that must be met for provider-based status as a department of a hospital, but instead identify responsibilities that flow from that status. These responsibilities become effective for hospitals on the first day of the hospital's cost reporting period beginning on or after January 10, 2001.

(2) Geographic Location Criteria

Section 404(b) of BIPA provides that those facilities or organizations that are not included in the grandfathering provision at section 404(a) are deemed to comply with the “immediate vicinity” requirements of the existing regulations under § 413.65(d)(7) if they are located not more than 35 miles from the main campus of the hospital or CAH. Therefore, those facilities located within 35 miles of the main provider satisfy the immediate vicinity requirement as an alternative to meeting the “75/75 test” under existing § 413.65(d)(7).

In addition, BIPA provides that certain facilities or organizations are deemed to comply with the requirements for geographic proximity (either the “75/75 test” or the “35-mile test”) if they are owned and operated by a main provider that is a hospital with a disproportionate share adjustment percentage greater than 11.75 percent and is (1) owned or operated by a unit of State or local government, (2) a public or private nonprofit corporation that is formally granted governmental powers by a unit of State or local government, or (3) a private hospital that has a contract with a State or local government that includes the operation of clinics of the hospital to ensure access in a well-defined service area to health care services for low-income individuals who are not entitled to benefits under Medicare or Medicaid.

These geographic location criteria will continue indefinitely. While those facilities or organizations treated as provider-based on October 1, 2000 are covered by the 2-year grandfathering provision noted above, the geographic location criteria at section 404(b) of BIPA and the existing regulations at § 413.65(d)(7) will apply to facilities or organizations not treated as provider-based as of that date, effective with the hospital's cost reporting period beginning on or after January 10, 2001. On October 1, 2002, the statutory moratorium on application of these criteria to the grandfathered facilities will expire. In this proposed rule, we are proposing a further delay, as discussed below.

(3) Criteria for Temporary Treatment as Provider-Based

Section 404(c) of BIPA also provides that a facility or organization that seeks a determination of provider-based status on or after October 1, 2000, and before October 1, 2002, shall be treated as having provider-based status for any period before a determination is made. Thus, recovery for overpayments will not be made retroactively once a request for a determination during that time period has been made. For hospitals that do not qualify for grandfathering under section 404(a) of BIPA, a request for provider-based status should be submitted to the appropriate CMS Regional Office. Until a uniform application is available, at a minimum, the request should include the identity of the main provider and the facility or organization for which provider-based status is being sought and supporting documentation for purposes of applying the provider-based status criteria in effect at the time the application is submitted. Once such a request has been submitted on or after October 1, 2000, and before October 1, 2002, CMS will treat the facility or organization as being provider-based from the date it began operating as provider-based until the effective date of a CMS determination that the facility or organization is not provider-based.

Facilities requesting a provider-based status determination on or after October 1, 2002, will not be covered by the provision concerning temporary treatment as provider-based in section 404(c) of BIPA. Thus, as stated in § 413.65(n), the CMS Regional Offices will make provider-based status effective as of the earliest date on which a request for determination has been made and all requirements for provider-based status in effect as of the date of the request are shown to have been met, not on the date of the formal CMS determination. Under existing regulations at § 413.65(j), if a facility or organization does not qualify for provider-based status and CMS learns that the provider has treated the facility or organization as provider-based without having obtained a provider-based determination under applicable regulations, CMS will review all payments and may seek recovery for overpayments, including overpayments made for the period of time between submission of the request or application for provider-based status and the issuance of a formal CMS determination. (As explained in the previous paragraph, such retroactive recovery of payments would not be made for any period to the extent it is prohibited by section 404(c) of BIPA.)

d. The August 24, 2001 and November 30, 2001 Published Regulations

In August 24, 2001 Federal Register (66 FR 44672), we proposed to revise the provider-based regulations to reflect the changes mandated by section 404 of BIPA and to make other technical and clarifying changes in those regulations. In the November 30, 2001 Federal Register (66 FR 59856), following consideration of public comments received on the August 24, 2001 proposal, we published a final rule that revised the provider-based regulations. However, the only substantive changes in the provider-based regulations were those required by the BIPA legislation.

2. Proposed Changes

In the preamble to the proposed rule published on August 24, 2001 (66 FR 44709), we stated our intent to reexamine the EMTALA regulations and, in particular, to reconsider the appropriateness of applying EMTALA to off-campus locations. We announced that we planned to review these regulations with a view toward ensuring that these locations are treated in ways that are appropriate to the responsibility for EMTALA compliance of the hospital as a whole. We also pointed out that, at the same time, we want to ensure that those departments that Medicare pays as hospital-based departments are appropriately integrated with the hospital as a whole.

In addition, since the statutory grandfathering provision in the BIPA legislation remains in effect only until October 1, 2002, many hospital representatives have contacted CMS to request more guidance because they are concerned that their facilities are not in compliance with existing regulations and would not be able to continue billing as provider-based once the grandfathering provision expires. These hospital representatives are also concerned that the organizational and contractual changes needed to meet current provider-based requirements could take several months to complete. Moreover, resolution of some of the issues surrounding the provider-based regulations is needed in order to allow development of a uniform application form to enable the CMS Regional Offices to efficiently process the multitudes of requests for provider-based determinations that we expected as the grandfathering period expires.

To address the provider-based issues raised by the hospital industry and to allow for an orderly and uniform implementation strategy once grandfathering ends, we are proposing the following regulatory changes:

a. Scope of Provider-Based Requirements (§ 413.65(a))

Since publication of the April 2000 final rule, we have received many questions about which specific facilities or organizations are subject to the provider-based requirements. In the “Frequently Asked Questions” posted on the CMS website, we identified a number of facility types for which provider-based determinations would not be made, since such determinations would not affect either Medicare payment or Medicare beneficiary liability or scope of benefits. The regulations at § 413.65(a) were further revised to incorporate the exclusion of these facility types from review under the provider-based criteria. We now are proposing to further revise § 413.65(a)(1)(ii) to state that provider-based determinations will not be made with respect to independent diagnostic testing facilities that furnish only services paid under a fee schedule, such as facilities that furnish only screening mammography services, as defined in section 1861(jj) of the Act, facilities that furnish only clinical diagnostic laboratory tests, or facilities that furnish only some combination of these services. A provider-based determination would not be appropriate for a facility that furnishes only screening mammography because of a change made by section 104 of BIPA. That legislation, which amended section 1848(j)(3) of the Act, mandates that all payment for screening mammography services furnished on or after January 1, 2000, be made under the Medicare Physician Fee Schedule (MPFS). Under the MPFS methodology, Medicare payment for the service, regardless of the setting in which it is furnished, is set at the lesser of the fee schedule amount or the actual charge; and no Part B deductible applies. Regardless of the setting, Part B coinsurance is assessed at 20 percent of the lesser of the fee schedule amount or the actual charge. Because the status of a facility as provider-based or freestanding would not affect the amount of Medicare or Medicaid payment, the beneficiary's scope of benefits, or the beneficiary's liability for coinsurance or deductible amounts, it is not necessary to make a provider-based determination regarding facilities that furnish only screening mammography. We are also proposing to revise § 413.65(a)(1)(ii) by adding a new paragraph (J) to state that we will not make provider-based determinations with respect to departments of providers (for example, laundry or medical records departments) that do not furnish types of health care services for which separate payment could be claimed under Medicare or Medicaid. (Such services frequently are referred to as “billable” services.) As explained more fully below, we would not make determinations with respect to these departments because their status (that is, whether they are provider-based or not) would have no impact on Medicare or Medicaid payment or on the scope of benefits or beneficiary liability under either program.

Despite the previous clarifications described above, providers, associations, and their representatives have continued to state that they are confused as to which facilities or organizations will be the subject of provider-based determinations.

In this document, we are proposing to further clarify the types of facilities that are subject to the provider-based rules, by making several changes to the definitions of key terms in § 413.65(a)(2). First, we are proposing to revise the definition of “department of a provider” to remove the reference to a physician office as being a department of a provider. While a hospital outpatient department, in fact, may furnish services that are clinically indistinguishable from those of physician offices, physician offices and provider departments are paid through separate methods under Medicare and beneficiaries may be liable for different coinsurance amounts. Thus, it is essential to distinguish between these facility types, and we believe avoiding confusion on this issue requires us to remove the reference to a hospital department as a physician office.

We also are proposing to revise § 413.65(a)(2) to state that a “department of a provider”, “provider-based entity”, or “remote location of a hospital” comprises both the specific physical facility that serves as the site of services of a type for which separate payment could be claimed under the Medicare or Medicaid programs, and the personnel and equipment needed to deliver the services at that facility. We believe this change would help to clarify that we would make determinations with respect to entities considered in their role as sources of health care services and not simply as physical locations. We also wish to clarify that we do not intend to make provider-based determinations with respect to various organizational components or units of providers that may be designated as “departments” or “organizations” but do not themselves furnish types of services for which separate payment could be claimed under Medicare or Medicaid. Examples of components for which we would not make provider-based determinations include the medical records, housekeeping, and security departments of a hospital. Such departments do perform functions that are essential to the provision of inpatient and outpatient hospital services, but the departments do not provide health care services for which Medicare or Medicaid benefits are provided under title XVIII or title XIX of the Act, and for which separate payment therefore could be claimed, assuming certification and other applicable requirements were met, to one or both programs. Therefore, neither Medicare or Medicaid program liability nor beneficiary liability or scope of benefits would be affected by the ability or inability of these departments to qualify as “provider-based.” (We also would not make a provider-based determination with respect to any facility or organization that furnishes only types of health care services for which separate payment could be claimed under either Medicare or Medicaid, even if the facility or organization met all requirements for provider-based status. For example, if a hospital that is not eligible for DSH payments under Medicare or Medicaid or for IME payments under Medicare were to establish a dedicated facility providing only types of cosmetic surgery or experimental therapies that could not be covered under either Medicare or Medicaid, no determination would be made with respect to that facility.)

By contrast, Medicare or Medicaid payment (or both) to hospital departments that provide diagnostic or therapeutic radiology services to outpatients, or primary care, ophthalmology, or other specialty services to outpatients are affected by provider-based status, as would beneficiary liability for Medicare coinsurance amounts. Therefore, we would make provider-based determinations for these departments.

Similarly, if two acute care hospitals that have approved graduate medical education (GME) programs were to merge to form a single, multicampus hospital consisting of the main hospital campus and a remote location, it would be appropriate to make a determination as to whether the remote location is provider-based with respect to the main hospital campus. Such a determination would be needed because each hospital with an approved residency training program has its own hospital-specific cap on the number of residents (or FTE cap), its own PRA, and its own Medicare utilization used for purposes of receiving Medicare GME payments. A merger of the two hospitals would aggregate the two hospitals' individual FTE caps into a merged FTE cap under the main hospital's provider number, and would require recalculation of the hospital's PRA and a merging of these entities' respective Medicare utilization, resulting in a level of Medicare GME payment to the merged hospital that exceeds the sum of the payments that would be made to each hospital as separate entities. Thus, a provider-based determination would be appropriate and necessary in such a case, even though payment for services by both facilities would be made under the Medicare acute care hospital inpatient prospective payment system.

In deciding whether to make a provider-based determination with respect to a particular facility, it would not be significant that the facility might have a low rate of Medicare utilization, might be utilized by only Medicare or only Medicaid patients, or might not have admitted any Medicare or Medicaid patients in a particular period. The fact that the facility furnishes types of services that are billable under Medicare or Medicaid, or both, would be sufficient to make a determination appropriate.

We are proposing to retain the rules that a department of a provider or a remote location of a hospital (such as, for example, one campus of a multicampus hospital) may not by itself be qualified to participate in Medicare as a provider under the regulations on provider agreements in § 489.2, and the Medicare conditions of participation do not apply to a department as an independent entity. However, we are proposing to delete the requirement at § 413.65(a)(2) that such a department may not be licensed to provide services in its own right. Some States require separate licensing of facilities that Medicare would treat as a department of a hospital or other provider. In these States, we would not require a common license. We would retain the provision that, for purposes of Part 413, the term “department of a provider” does not include an RHC or, except as specified in § 413.65(m), an FQHC.

Questions have arisen regarding whether the provider-based criteria in § 413.65 are applicable in determining payment for ambulance services. Medicare is converting payment for ambulance services to a fee schedule, as described in a final rule published on February 27, 2002 (67 FR 9100). The ambulance fee schedule is effective April 1, 2001, and involves a transition period. During this transition period, the status of an ambulance supplier as provider-based could influence the amount of Medicare payment. However, the specific provider-based criteria in § 413.65 were not developed for ambulance suppliers, and we believe that many of these criteria could not reasonably be applied to them. Therefore, we are not proposing to apply the criteria at § 413.65 to ambulance services.

b. Further Delay in Effective Date of Provider-Based Rules

As noted earlier, § 413.65(b) was recently revised to reflect the “grandfathering” provision in section 404(a)(1) of BIPA. Under that provision, if a facility was treated as provider-based in relation to a hospital or CAH on October 1, 2000, it will continue to be considered provider-based in relation to that hospital or CAH until October 1, 2002.

It now appears likely that any new provider-based rules that may be adopted as the result of this rulemaking effort will not be published in final before mid-summer of 2002. To allow hospitals and other facilities the time they need to make contractual and organizational changes to comply with the new rules, and to ensure that CMS Regional Offices and contractors are able to provide for an orderly transition to the new provider-based rules, we believe an additional delay in the effective date of the provider-based criteria is needed. Therefore, we are proposing to revise § 413.65(b)(2) to state that if a facility was treated as provider-based in relation to a hospital or CAH on October 1, 2000, it will continue to be considered provider-based in relation to that hospital or CAH until the start of the hospital's first cost reporting period beginning on or after July 1, 2003. We are proposing to further provide that the requirements, limitations, and exclusions specified in § 413.65(d) through (j) (as proposed to be redesignated) will not apply to that hospital or CAH for that facility until the start of the hospital's first cost reporting period beginning on or after July 1, 2003. For purposes of paragraph (b)(2), a facility would be considered as having been provider-based on October 1, 2000, if on that date it either had a written determination from CMS that it was provider-based, or was billing and being paid as a provider-based department or entity of the hospital. We are proposing to make the new requirements effective on October 1, 2002, with respect to provider-based status for facilities not qualifying for the grandfathering provision.

c. Revision of Application Requirement

Existing regulations at § 413.65(b)(2) establish an explicit application requirement for all facilities seeking provider-based status, except for grandfathered facilities and those treated as provider-based pending a determination on an application filed on or after October 1, 2000, and before October 1, 2002. Under existing § 413.65(b)(3), a main provider or a facility must contact CMS, and the facility must be determined by CMS to be provider-based, before the main provider bills for services of the facility as if the facility were provider-based, or before it includes costs of those services on its cost report. Many providers and provider representatives have expressed concern that the requirement to file an application will increase paperwork burden for hospitals unnecessarily. In response to these concerns, we are proposing to revise the application requirements as follows:

First, we would delete the existing application requirement under § 413.65(b)(3). We are proposing to revise this section to state that except where payment is required to be made under BIPA, as specified in proposed revised § 413.65(b)(2) and (b)(5), if a potential main provider seeks an advance determination of provider-based status for a facility that is located on the main campus of the potential main provider, the provider would be required to submit an attestation stating that its facility meets the criteria in § 413.65(d) and, if it is a hospital, also attest that its facility will fulfill the obligations of hospital outpatient departments and hospital-based entities, as described in proposed § 413.65(g). The provider also would be required to maintain documentation of the basis for its attestations and to make that documentation available to CMS upon request. We note that, under our proposal, there would no longer be an explicit requirement that a provider-based approval be obtained before a facility is treated as provider-based for billing or cost reporting purposes. However, under the proposed revisions to existing § 413.65(k) (Correction of errors) as described below, CMS would provide a delay in the effective date for any facility that is found not to meet the provider-based criteria following a previous advance determination, if the reason the provider-based criteria are not met is a material change in the provider-facility relationship that was properly reported to CMS. The removal of provider-based status would be effective as of the first cost reporting period following notification of the redetermination, but not less than 6 months after the date of notification.

We are further proposing that if the facility is not located on the main campus of the potential main provider, the provider that wishes to obtain an advance determination of provider-based status would be required to submit an attestation stating that its facility meets the criteria in proposed revised §§ 413.65(d) and (e) and, if the facility is operated as a joint venture or under a management contract, the requirements in proposed §§ 413.65(f) and (h), as applicable. If the potential main provider is a hospital, the hospital also would be required to attest that it will fulfill the obligations of hospital outpatient departments and hospital-based entities described in proposed revised § 413.65(g). The provider seeking such an advance determination would be required to supply documentation of the basis for its attestations to CMS at the time it submits its attestations. We believe the use of a self-attestation process would strike an appropriate balance between the legitimate interests of hospitals in reducing paperwork and reporting, and the equally legitimate need of CMS to ensure proper accountability for compliance with the qualification requirements for a status that typically leads to a higher level of Medicare or Medicaid payment.

We note that, under these proposed revisions to the application procedures at § 413.65(b), a hospital would not be explicitly required to submit an application and receive a provider-based determination for a facility before the time at which the hospital may bill for services at that facility as provider-based. However, we are considering, alternatively, retaining the existing regulations at § 413.65(b)(2) which state that, except where payment is required to be made under BIPA as specified in proposed revised §§ 413.65(b)(2) and (b)(5), hospitals are explicitly required to submit provider-based applications, and to withhold billing as provider-based until CMS determines that a facility meets the provider-based rules. We are soliciting comments on the appropriateness of this or other alternative application procedures.

d. Requirements Applicable to All Facilities or Organizations

Under existing § 413.65, all facilities seeking provider-based status with respect to a hospital or other main provider must meet a common set of requirements. These include requirements relating to common licensure (paragraph (d)(1)), operation under the ownership and control of the main provider (paragraph (d)(2)), administration and supervision (paragraph (d)(3)), integration of clinical services (d)(4)), financial integration (paragraph (d)(5)), public awareness (paragraph (d)(6)), and location in the immediate vicinity of the main provider (paragraph (d)(7)). (In addition, as described more fully below, specific rules applicable to all facilities rule out provider-based status for facilities operated as joint ventures by two or more providers (paragraph (e)) and limit the types of management contracts that facilities seeking provider-based status may operate under (paragraph (f)).)

Since publication in final of the existing provider-based rules in April 2000, hospitals and other providers have expressed concern that the requirements outlined above are overly restrictive and do not allow them enough flexibility to enter into appropriate business arrangements with other facilities. We understand these concerns, and agree that Medicare rules should not restrict legitimate business arrangements that do not lead to abusive practices or disadvantage Medicare beneficiaries. At the same time, we believe our existing rules provide a high level of assurance that a facility complying with them is, in fact, an integral and subordinate part of the facility with which it is based, and do not accord provider-based status to facilities that are not integral and subordinate to a main provider, but in fact have only a nominal relationship with that provider.

After considering all comments received on these issues, we believe that further changes in the provider-based rules would be appropriate. In particular, we agree with those who argue that a facility's or organization's location relative to the main campus of the provider is relevant to the integration that is likely to exist between the facility or organization and the main provider. For example, if a facility or organization is located on the main campus of a provider, is operated under the main provider's State license, is medically and financially integrated with that provider, and is held out to the public and other payers as a part of that provider, we believe the necessary degree of integration of the facility or organization into the main provider can be assumed to exist. We also are concerned that further prescribing the types of management contracts or other business arrangements that may exist between the main provider and the facility or organization would unnecessarily restrict its flexibility to establish cost-effective agreements without significantly enhancing the integration of the facility or organization into the main provider. Therefore, we are proposing to simplify the requirements applicable to facilities or organizations located on the campus of the main provider (as campus is defined in existing regulations at § 413.65(a)(2)). Under our proposal, all facilities seeking provider-based status, including both on-campus and off-campus facilities, would be required to comply with the existing requirements regarding licensure, clinical services integration, financial integration, and public awareness. (These requirements are currently codified at §§ 413.65(d)(1), (d)(4), (d)(5), and (d)(6) and, under this proposed rule, would be redesignated as paragraphs (d)(1) through (d)(4), respectively, of § 413.65.)

With respect to financial integration, existing regulations at § 413.65(d)(5) require that the financial operations of the facility or organization be fully integrated within the financial system of the main provider, as evidenced by shared income and expenses between the main provider and the facility or organization. The regulations also require that costs of a provider-based facility or organization be reported in a cost center of the provider, and that the financial status of any provider-based facility or organization be incorporated and readily identified in the main provider's trial balance.

Some hospital representatives have questioned the appropriateness of requiring that the costs of a remote location of a hospital be reported in a single cost center, noting that such costs ordinarily would appear in multiple cost centers of the main provider, with (for example) employee health and welfare costs of the remote location being included in the corresponding cost center of the main provider. In recognition of this concern, we are proposing to revise the requirement to state that the costs of a facility or organization that is a hospital department must be reported in a cost center of the provider, and that costs of a provider-based facility or organization other than a hospital department must be reported in the appropriate cost center or cost centers of the main provider.

Paragraph (d) of § 413.65 would be retitled “Requirements applicable to all facilities or organizations” and, as indicated by its revised title, would set forth those core requirements that any facility or organization would have to meet to qualify for provider-based status.

We are proposing to delete from this paragraph (d) the requirements in existing paragraphs (d)(2) and (d)(3) relating to operation under the ownership and control of the main provider and administration and supervision because we are proposing to no longer apply these requirements to on-campus facilities or organizations. These requirements would be moved to paragraph (e) as described below to reflect the proposed limitation of their applicability to off-campus departments. The core requirements for all facilities or organizations, including facilities located on the main campus, also would not include the requirement regarding location in the immediate vicinity of the main provider (existing § 413.65(d)(7)). Because any facilities or organizations located on the campus of the main provider automatically meet the requirement regarding location in the immediate vicinity (existing § 413.65(d)(7)), the requirement is only of relevance to off-campus facilities or organizations. For clarity, we are proposing to relocate the requirement to paragraph (e) as described below.

We also are proposing to require, in paragraph (d)(5) of § 413.65, all hospital outpatient departments and hospital-based entities, including those located on campus and those located off the campus of the main provider hospital, to fulfill the obligations currently codified and proposed to be retained at § 413.65(g) in order to qualify for provider-based status. (Fulfillment of these obligations is currently required under § 413.65(g).) As explained further below, we also are proposing other changes to paragraph (g).

e. Additional Requirements Applicable to Off-Campus Facilities or Organizations

We recognize that facilities or organizations located off the main provider campus may also be sufficiently integrated with the main provider to justify provider-based designation. However, the off-campus location of the facilities or organizations may make such integration harder to achieve, and such integration should not simply be presumed to exist. Therefore, to ensure that off-campus facilities or organizations seeking provider-based status are appropriately integrated, we are proposing to retain for these facilities or organizations certain requirements that we are proposing to remove for on-campus facilities or organizations. These requirements are set forth in proposed new § 413.65(e). The requirements set forth in proposed paragraphs (e)(1), (e)(2), and (e)(3) include the requirements on operation under the ownership and control of the main provider (existing § 413.65(d)(2)), administration and supervision (existing § 413.65(d)(3)), and location (existing § 413.65(d)(7)). We also are proposing to include language in proposed new § 413.65(e) to state more clearly that a facility or organization seeking provider-based status must be located in the same State or, when consistent with the laws of both States, in adjacent States.

f. Joint Ventures

Consistent with our views as expressed earlier in this preamble regarding the assumption that a higher degree of integration can be presumed for on-campus facilities or organizations and in recognition of the need to promote reasonable cooperation among providers and avoid costly duplication of specialty services, we are proposing to revise the regulations on joint ventures (currently set forth under § 413.65(e)) to limit their scope to facilities or organizations not located on the campus of any potential main provider. Specifically, we would redesignate § 413.65(e) as § 413.65(f) and revise it to state that a facility or organization that is not located on the campus of the potential main provider cannot be considered provider-based if the facility or organization is owned by two or more providers engaged in a joint venture. We also are proposing to make minor changes to the second sentence of the redesignated paragraph (f) to clarify its meaning.

g. Clarification of Obligations of Hospital Outpatient Departments and Hospital-Based Entities

Existing regulations impose specific obligations for hospital outpatient departments and hospital-based entities, but do not specify the sanction that applies if the facility or organization does not fulfill its obligations. To clarify policy on this issue and emphasize the importance of compliance with the requirements in this area, we are proposing to revise existing § 413.65(g) to state that to qualify for provider-based status in relation to a hospital, a facility or organization must comply with these requirements. In regard to these obligations, we are proposing to make three changes in existing 413.65(g). First, for reasons explained in section V.J. of this preamble, we are proposing to revise paragraph (g)(1) by deleting the second sentence of that paragraph. In paragraph (g)(2), we are proposing to delete the reference to site-of-service reductions and instead refer to more accurately determined physician payment amounts, in order to more accurately describe how payment under the physician fee schedule is determined. In addition, we are proposing to revise the first sentence of paragraph (g)(7) to clarify that the notice requirements in it do not apply where a beneficiary is examined or treated for a medical condition in compliance with the antidumping rules in § 489.24. This clarification is needed because we believe it would be a violation of the antidumping requirements if examination or treatment required under § 489.24 was delayed in order to permit notification of the beneficiary or the beneficiary's authorized representative. We would further revise § 413.65(g)(7) to state that notice is required once the beneficiary has been appropriately screened and the existence of an emergency has been ruled out or the emergency condition has been stabilized.

h. Management Contracts

Under existing regulations, facilities or organizations operated under management contracts may be considered provider-based only if they meet specific requirements in § 413.65(f) (proposed to be redesignated as § 413.65(h)). In particular, staff of the facility or organization, other than management staff, may not be employed by the management company but must be employed either by the provider or by another organization, other than the main provider, which also employs the staff of the main provider. Under existing regulations, these requirements apply equally to on-campus and off-campus facilities or organizations.

Consistent with our intent to simplify provider-based requirements for on-campus facilities or organizations, we are proposing to restrict the applicability of proposed redesignated paragraph (h) to off-campus facilities or organizations. In addition, we are proposing two additional changes that we believe are needed to respond to questions that are raised frequently about the regulation. First, we would specify that a facility or organization operated under a management contract may be considered provider-based only if the main provider (or an organization that also employs the staff of the main provider and that is not the management company) employs the staff of the facility or organization who are directly involved in the delivery of patient care, except for management staff and staff who furnish patient care services of a type that would be paid for by Medicare under a fee schedule established by regulations at 42 CFR Part 414. We would not specify who may employ other support staff, such as maintenance or security personnel, and who are not directly involved in providing patient care, nor would we require licensed professional caregivers such as physicians, physician assistants, or certified registered nurse anesthetists to become provider employees. We also are proposing to revise the regulations to clarify at § 413.65(h)(2) that so-called “leased” employees (that is personnel who are actually employed by the management company but provide services for the provider under a staff leasing arrangement) are not considered to be employees of the provider for purposes of this provision.

i. Inappropriate Treatment of a Facility or Organization as Provider-Based

Below we describe the steps that we would take if we discover that a facility is billing as provider-based without having requested a determination, or if the facility received a provider-based determination but the main provider did not inform CMS of a subsequent material change that affected the provider-based status of its facility.

(1) Inappropriate Billing

The existing regulations at § 413.65(i) state that if we discover that a provider is billing inappropriately, we will recover the difference between the amount of payments that actually were made and the amount of payments that CMS estimates should have been made in the absence of a determination of provider-based status. Existing § 413.65(j)(2) states that we would adjust future payments to approximate as closely as possible the amounts that would be paid, in the absence of a provider-based determination, if all other requirements for billing are met. In addition, existing § 413.65(j)(5) describes a procedure under which CMS would continue payments to a provider for services of a facility or organization that had been found not to be provider-based, at an adjusted rate calculated as described in existing paragraph (j)(2), for up to 6 months in order to permit the facility or organization adequate time to meet applicable enrollment and other billing requirements. While CMS is not legally obligated to continue payments in this matter, we believe it would be appropriate to do so, on a time-limited basis, to allow for an orderly transition to either provider-based or freestanding status for the facility and to avoid disruption in the delivery of services to patients, particularly Medicare patients, who may be relying on the facility for their medical care.

We are proposing to adopt a policy concerning recoupment and continuation of payment that closely parallels the policy stated in existing regulations at § 413.65(j). Under proposed § 413.65(j)(1), if CMS learns that a provider has treated a facility or organization as provider-based and the provider did not request an advance determination of provider-based status from CMS under proposed § 413.65(b)(3), and CMS determines that the facility or organization did not meet the requirements for provider-based status under proposed § 413.65(d) through (i), as applicable (or, in any period before the effective date of these regulations, the provider-based requirements in effect under Medicare program regulations or instructions), CMS would take several actions. First, we are proposing to issue notice to the provider, in accordance with proposed paragraph (j)(3), that payments for past cost reporting periods may be reviewed and recovered as described in proposed paragraph (j)(2)(ii), that future payments for services in or at the facility or organization will be adjusted as described in proposed paragraph (j)(4), and that continued payments to the provider for services of the facility or organization will be made only in accordance with proposed paragraph (j)(5). In addition, as detailed in proposed § 413.65(j)(1)(ii), CMS would, except for providers protected under section 404(a) or (c) of BIPA (implemented at § 413.65(b)(2) and (b)(5)) or the exception for good faith effort at existing § 413.65(i)(2) and (i)(3)), recover the difference between the amount of payments that actually was made to that provider for services at the facility or organization and an estimate of the payments that CMS would have made to that provider for services at the facility or organization in the absence of compliance with the requirements for provider-based status. We are proposing to make recovery for all cost reporting periods subject to reopening in accordance with §§ 405.1885 and 405.1889. Also, we are proposing to adjust future payments to approximate the amounts that would be paid for the same services furnished by a freestanding facility.

Recovery of past payments would be limited in certain circumstances. If a provider did not request a provider-based determination for a facility by October 1, 2002, but is included in the grandfathering period under § 413.65(b)(2), we are proposing to recoup all payments subject to the reopening rules at §§ 405.1885 and 405.1889, but not for any period before the provider's cost reporting period beginning on or after July 1, 2003.

(2) Good Faith Effort

We are proposing to retain the existing exception for good faith effort (proposed redesignated § 413.65(j)(2)). Under this exception, we would not recover any payments for any period before the beginning of the hospital's first cost reporting period beginning on or after January 10, 2001 (the effective date of the existing provider-based regulations for providers not grandfathered under § 413.65(b)(2)) if during all of that period—

• The requirements regarding licensure and public awareness at § 413.65(d)(1) and proposed redesignated (d)(4) were met;

• All facility services were billed as if they had been furnished by a department of a provider, a remote location of a hospital, a satellite facility, or a provider-based entity of the main provider; and

• All professional services of physicians and other practitioners were billed with the correct site-of-service indicator, as described at proposed redesignated and revised § 413.65(h)(2).

Under proposed § 413.65(j)(5), CMS would continue payment to a provider for services of a facility or organization for a limited period of time, in order to allow the facility or organization or its practitioners to meet necessary enrollment and other requirements for billing on a freestanding basis. Specifically, the notice of denial of provider-based status sent to the provider would ask the provider to notify CMS in writing, within 30 days of the date the notice is issued, as to whether the provider intends to seek an advance determination of provider-based status for the facility or organization, or whether the facility or organization (or, where applicable, the practitioners who staff the facility or organization) will be seeking to enroll and meet other requirements to bill for services as a freestanding facility. If the provider indicates that it will not be seeking an advance determination or that the facility or organization or its practitioners will not be seeking to enroll, or if CMS does not receive a response within 30 days of the date the notice was issued, all payments under proposed paragraph (j)(5) would end as of the 30th day after the date of notice. If the provider indicates that it will be seeking an advance determination, or that the facility or organization or its practitioners will be seeking to meet enrollment and other requirements for billing for services in a freestanding facility, payment for services of the facility or organization would continue, at the adjusted amount described in proposed paragraph (j)(4) for as long as is required for all billing requirements to be met (but not longer than 6 months). Continued payment would be allowed only if the provider or the facility or organization or its practitioners submits, as applicable, a complete request for an advance provider-based determination or a complete enrollment application and provide all other required information within 90 days after the date of notice; and the facility or organization or its practitioners furnishes all other information needed by CMS to process the request for provider-based status or, as applicable, the enrollment application and verify that other billing requirements are met. If the necessary applications or information are not provided, CMS would terminate all payment to the provider, facility, or organization as of the date CMS issues notice that necessary applications or information have not been submitted.

j. Temporary Treatment as Provider-Based and Correction of Errors

Under proposed revised § 413.65(k), we would specify the procedures for payment for the period between the time a request is submitted until a provider-based determination is made, and the steps we would take if we discover that a facility for which a provider previously received a provider-based determination no longer meets the requirements for provider-based status.

First, we are proposing that, if a provider submits a complete request for a provider-based determination for a facility that has not previously been found by CMS to have been inappropriately treated as provider-based under proposed revised § 413.65(j), the provider may bill and be paid for services at the facility as provider-based from the date of the application until the date that we determine that the facility or organization does not meet the provider-based rules under § 413.65. If CMS determines that the requirements for provider-based status are not met, CMS will recover the difference between the amount of payments that actually was made since the date the complete request for a provider-based determination was submitted and the amount of payments that CMS estimates should have been made in the absence of compliance with the provider-based requirements. We would consider a request “complete” only if it included all information we need to make an advance determination of provider-based status under § 413.65(b)(3).

Second, similar to what we specify in existing § 413.65(k), if we determine that a facility or organization that previously received a provider-based determination no longer qualifies for provider-based status, and the failure to qualify for provider-based status resulted from a material change in the relationship between the provider and the facility or organization that the provider reported to CMS as is required under § 413.65(c), treatment of the facility or organization as provider-based ceases with the date that CMS determines that the facility or organization no longer qualifies for provider-based status.

Third, if we determine that a facility or organization that had previously received a provider-based determination no longer qualifies for provider-based status, and if the failure to qualify for provider-based status resulted from a material change in the relationship between the provider and the facility or organization that the provider did not report to CMS, as required under § 413.65(c), we are proposing to take the actions with respect to notice to the provider, adjustment of payments, and continuation of payment described in proposed paragraphs (j)(3), (j)(4), and (j)(5). In short, we would treat such cases in the same way as if the provider had never obtained an advance determination. However, with respect to recovery of past payments for providers included in the grandfathering provision at proposed revised § 413.65(b)(2), we would not recover payments for any period before the provider's first cost reporting period beginning on or after July 1, 2003.

Also, we are proposing that the exception for good faith effort concerning recovery of overpayments under proposed revised §§ 413.65(j)(2) described above would apply to any period before the beginning of the hospital's first cost reporting period beginning on or after January 10, 2001.

k. Technical Amendments

We are proposing to correct a typographical error in the heading of paragraph (m) of § 413.65 so that it reads “FQHCs and ‘look alikes’ ”.

In paragraph (n) of § 413.65, we are proposing to add a cross-reference to the requirements for provider-based status described in paragraph (b), for purposes of specifying the effective date of provider-based status.

L. CMS Authority Over Reopening of Intermediary Determinations and Intermediary Hearing Decisions on Provider Reimbursement

Our existing regulations provide various means for the reopening and revision of an intermediary determination or an intermediary hearing decision on provider reimbursement by the fiscal intermediary or the intermediary hearing officer(s) responsible for the determination or the hearing decision, respectively. (In this discussion, we will use the term “intermediary” to refer to, as applicable, the intermediary responsible for an intermediary determination (see §§ 405.1801(a) and 405.1803) or the intermediary hearing officer or panel of intermediary hearing officers responsible for an intermediary hearing decision (see §§ 405.1817 and 405.1831.)) Section 405.1885(a) provides that an intermediary “may” reopen an intermediary determination or an intermediary hearing decision, on its own initiative or at the request of a provider, within 3 years of the date of the notice of the intermediary determination or intermediary hearing decision. However, while § 405.1885(a) provides the intermediary with some discretion about whether to reopen an intermediary determination or an intermediary hearing decision, we have always considered the intermediary's discretion to be limited by any directives that may be issued by CMS. Thus, although § 405.1885(a) provides that the intermediary “may” reopen, that provision neither states nor implies that the Secretary lacks authority to direct the intermediary to reopen or not reopen a specific matter. Furthermore, CMS has prescribed, in Medicare Provider Reimbursement Manual, Part I (“PRM”), section 2931.2, criteria that guide the intermediary's reopening actions under “405.1885(a) in the absence of a particular directive from CMS. Also, given that the intermediaries are CMS' contractors, we have always believed that, under basic principles of agency law, we have inherent authority to direct the actions of our own agents with respect to reopening matters under “405.1885(a), just as for any other aspect of program administration. See also 42 U.S.C. 1395h and 1395kk(a); and 42 CFR 421.1(c), 421.5(b), 421.100(f), 421.124(a), and 421.126(b).

Under § 405.1885(b), an intermediary determination or an intermediary hearing decision “shall be reopened and revised by the intermediary if, within the aforementioned 3-year period, the Centers for Medicare & Medicaid Services notifies the intermediary that such determination or decision is inconsistent with the applicable law, regulations, or general instructions issued by the Centers for Medicare & Medicaid Services.” We have always considered the CMS notice, which is a precondition of mandatory intermediary reopening under § 405.1885(b), to be one in which we explicitly direct the intermediary to reopen. We have never considered a notice or other document from CMS that only states or implies that an intermediary determination or an intermediary hearing decision is inconsistent with law, regulations, CMS ruling, or CMS general instructions, sufficient to require intermediary reopening under § 405.1885(b). Moreover, our understanding has always been that the phrase “law, regulations, or general instructions” in § 405.1885(b) refers to the legal provisions in effect, as we understand such legal provisions, at the time the intermediary rendered the determination or hearing decision. Conversely, we have never considered changes in, or judicial explications of, “law, regulations, or general instructions,” that occur after the intermediary rendered the determination or hearing decision, sufficient to require intermediary reopening under § 405.1885(b). Also, § 405.1885(b) refers to the Secretary's agreement with an intermediary; we believe such agreement requires the intermediary to apply the law, regulations, CMS rulings, and CMS general instructions in effect, as we understand such legal provisions, when the intermediary determination or hearing decision was rendered. Accordingly, we have not instructed intermediaries to reopen and recover reimbursement, or to reopen and award additional reimbursement, due to a subsequent change in law or policy, whether the subsequent change is made in response to judicial precedent or otherwise.

Section 405.1885(c) provides: “Jurisdiction for reopening a determination or decision rests exclusively with that administrative body that rendered the last determination or decision.” We have always interpreted § 405.1885(c) to provide that authority to reopen an intermediary determination or an intermediary hearing decision is vested exclusively with the responsible intermediary, as distinct from the Provider Reimbursement Review Board (PRRB) and the Administrator of CMS (in the context of reviewing PRRB decisions (see § 405.1875)) which may not reopen an intermediary determination or hearing decision and may not review an intermediary's denial of reopening. However, we have never considered the intermediary's authority to reopen an intermediary determination or hearing decision, which is exclusive under § 405.1885(c) only as to the PRRB and the Administrator of CMS (in the context of reviewing PRRB decisions), to limit CMS' authority to direct the actions of its own agents with respect to reopening matters. See Your Home Visiting Nurse Services, Inc. v. Shalala, 525 U.S. 449, 452-53 (1999). (Section 405.1885(c) divests the PRRB of “appellate jurisdiction to review the intermediary's refusal” to reopen, but does not limit the Secretary's authority to direct an intermediary's “original jurisdiction” in the reopening area). As discussed previously, the regulations do not constrain CMS' authority to direct the intermediary to reopen or not reopen a specific matter; instead, CMS has placed generally applicable limits on the intermediary's discretion through the reopening criteria prescribed in section 2931.2 of the PRM. In addition, we have always believed that, under basic principles of agency law, the intermediary's discretion over a particular reopening matter is no less circumscribed by any directives that may be issued by CMS than would be the case for any other aspect of program administration.

Two recent court decisions conflict with our longstanding interpretation of the forgoing provisions of the reopening regulations. In Monmouth Medical Center v. Thompson, 257 F.3d 807 (D.C. Cir. 2001), the court found that a statement in a CMS ruling, changing CMS' interpretation of the statute in response to circuit court precedent, constituted a directive to the intermediary under § 405.1885(b) to reopen, notwithstanding an explicit directive in the CMS ruling that the change in interpretation was to be applied only prospectively. The court ordered the intermediary to reopen over the Secretary's objection. We disagree with the court's decision, which we believe does not comport with our settled interpretation (discussed above) of § 405.1885(b). Therefore, we are proposing to revise § 405.1885(b) to make clear that, in order to trigger the intermediary's obligation to reopen, the notice from CMS to the intermediary must explicitly direct the intermediary to reopen based on a finding that an intermediary determination or an intermediary hearing decision is inconsistent with the law, regulations, CMS ruling, or CMS general instructions in effect, and as we understood those legal provisions, at the time the determination or decision was rendered. We are also proposing to clarify § 405.1885 to reflect our longstanding interpretation (discussed above) that a change of legal interpretation or policy by CMS in a regulation, CMS ruling, or CMS general instruction, whether made in response to judicial precedent or otherwise, is not a basis for reopening an intermediary determination or an intermediary hearing decision under this section.

The Monmouth Medical Center decision was followed in Bartlett Memorial Medical Center v. Thompson, 171 F. Supp. 2d 1215 (W.D. Okla. 2001). In a subsequent order in the Bartlett Memorial Medical Center case, the court concluded that a CMS ruling, which prohibited intermediary reopening on a particular reimbursement issue, improperly interfered with the intermediary's discretion under § 405.1885(c) over provider requests for reopening under § 405.1885(a). Accordingly, the court ordered the intermediary to act on the provider reopening requests without regard to the CMS ruling or any other involvement of the Secretary. We disagree with the court's decision, which we believe is contrary to our settled interpretation (discussed above) of § 405.1885(a) and (c). We believe the court's decision is also inconsistent with CMS' inherent authority to direct the activities of its own contractor-agents, the fiscal intermediaries, with respect to particular reopening matters, just as with any other aspect of program administration. Therefore, we are proposing, in a new paragraph (e) of § 405.1885 (the existing paragraph is proposed to be redesignated as paragraph (f)), to clarify that, notwithstanding an intermediary's discretion to reopen or not reopen under paragraphs (a) and (c) of § 405.1885, CMS may direct an intermediary to reopen, or not to reopen, an intermediary determination or an intermediary hearing decision in accordance with paragraphs (a) and (c) of this section. To illustrate our proposal, revised § 405.1885(e) would clarify that CMS has full authority to direct an intermediary to reopen, or not to reopen, an intermediary determination or an intermediary hearing decision under § 405.1885(a) and (c) based on the reopening criteria of “new and material evidence” or “clear and obvious error.” See PRM § 2931.2.

VI. Proposed Changes to the Prospective Payment System for Capital-Related Costs

A. Background

Section 1886(g) of the Act requires the Secretary to pay for the capital-related costs of inpatient hospital services “in accordance with a prospective payment system established by the Secretary.” Under the statute, the Secretary has broad authority in establishing and implementing the capital prospective payment system. We initially implemented the capital prospective payment system in the August 30, 1991 final rule (56 FR 43358), in which we established a 10-year transition period to change the payment methodology for Medicare inpatient capital-related costs from a reasonable cost-based methodology to a prospective methodology (based fully on the Federal rate).

Federal fiscal year (FY) 2001 was the last year of the 10-year transition period established to phase in the prospective payment system for hospital capital-related costs. Beginning in FY 2001, capital prospective payment system payments were based solely on the Federal rate for the vast majority of hospitals. The basic methodology for determining capital prospective payments based on the Federal rate is set forth in § 412.312. For the purpose of calculating payments for each discharge, the standard Federal rate is adjusted as follows:

(Standard Federal Rate) × (DRG Weight) × (Geographic Adjustment Factor(GAF)) × (Large Urban Add-on, if applicable) × (COLA Adjustment for Hospitals Located in Alaska and Hawaii) × (1 + DSH Adjustment Factor + IME Adjustment Factor)

Hospitals also may receive outlier payments for those cases that qualify under the thresholds established for each fiscal year that are specified in § 412.312(c) of existing regulations. (Refer to the August 1, 2001 final rule (66 FR 39910) for a summary of the statutory basis for the system, the development and evolution of the system, the methodology used to determine capital-related payments to hospitals both during and after the transition period, and the policy for providing special exceptions.)

B. New Hospitals

Under the prospective payment system for capital-related costs, at § 412.300(b), a new hospital is defined as a hospital that is newly participating in the Medicare program (under current or previous ownership) for less than 2 years (see 56 FR 43418, August 30, 1991). During the 10-year transition period, under § 412.324(b), a new hospital was exempt from capital prospective payment system for its first 2 years of operation and was paid 85 percent of its reasonable costs during that period. Effective with its third cost reporting period, a new hospital was paid under the appropriate transition methodology (either hold-harmless or fully prospective) for the remainder of the transition period. (If the hold-harmless methodology was applicable, hold-harmless payments would be made for 8 years, even if they extend beyond the 10-year transition period, which ended beginning with cost reporting periods beginning during FY 2002.)

This payment provision was implemented to provide special protection to new hospitals during the transition period in response to concerns that prospective payments under a DRG system may not be adequate initially to cover the capital costs of newly built hospitals. These hospitals may not have sufficient occupancy in those initial 2 years and may have incurred significant capital startup costs, so that capital prospective payment system payments may not be sufficient. For instance, hospitals newly participating in the Medicare program may not initially have adequate Medicare utilization. Because capital prospective payment system payments are made on a per discharge basis, a hospital only receives payments for its capital-related costs upon discharge of its Medicare patients. In addition, these hospitals did not have an opportunity to reserve previous years' capital prospective payment system payments to finance capital projects.

While the regulations provided for payments based on a percentage of costs for new hospitals for the first 2 years during the 10-year transition period, no provision was made for new hospitals once the 10-year transition was completed. However, we believe that the rationale for the policy applies equally to new hospitals even after the completion of the 10-year transition period. Accordingly, we are proposing, under § 412.304(c)(2), to provide special payment to new hospitals for cost reporting periods beginning on or after October 1, 2002. That is, we would pay new hospitals, as defined under § 412.300(b), 85 percent of their reasonable costs for their first 2 years of operation. Effective with their third year of operation, a new hospital would be paid based on the Federal rate (that is, the same methodology used to pay all other hospitals subject to the capital prospective payment system). We believe this proposal would provide for more appropriate payments to new hospitals for their capital-related costs since initial capital expenditures may reasonably exceed the capital prospective payment system per discharge payment based on the Federal rate. The capital prospective payment Federal rate is based on industry-wide average capital costs rather than the experience of a new hospital. We believe this proposed policy would allow new hospitals to provide efficiency in the delivery of services and still make reasonable payments for their capital expenditures.

As was the case during the 10-year transition period, this proposed new hospital exemption would only be available to those hospitals that have not received reasonable cost-based payments under the Medicare program in the past, and would need special protection during their initial period of operation. This proposed exemption from the capital prospective payment system for the first 2 years of operation would not apply to a hospital that is “new” as an acute care hospital but that has operated in the past (under current or previous ownership) and has an historical Medicare asset base. Furthermore, a hospital that replaces its entire facility (regardless of a change of ownership) would not qualify for the new hospital exemption even though it may experience a significant change in its asset base. Thus, in accordance with § 412.300(b), a new hospital exemption would not apply in the following situations:

• A hospital that builds new or replacement facilities at the same or a new location, even if a change of ownership or a new leasing arrangement is involved;

• A hospital that closes and then reopens under the same or different ownership;

• A hospital that has been in operation for more than 2 years but has been participating in the Medicare program for less than 2 years; or

• A hospital that changes status from a prospective payment system-excluded hospital (paid under the TEFRA methodology) or another hospital prospective payment system (such as the inpatient rehabilitation facility prospective payment system) to a hospital that is subject to the capital prospective payment system for acute care hospitals.

C. Extraordinary Circumstances

When we implemented the capital prospective payment system in FY 1992, a number of commenters requested that we provide for a separate exceptions payment to account for extraordinary circumstances beyond a hospital's control that would require the hospital to make unanticipated major capital expenditures (56 FR 43411, August 30, 1991). In response to the commenters' request, we provided in the regulations at § 412.348(f) that a hospital may request an additional payment if the hospital incurs unanticipated capital expenditures in excess of $5 million due to extraordinary circumstances beyond the hospital's control. Extraordinary circumstances include, but are not limited to, a flood, a fire, or an earthquake. For more detailed information regarding this policy, refer to the August 30, 1991 Federal Register (56 FR 43411).

To clarify that this policy regarding additional payments for extraordinary circumstances also applies to periods beginning on or after October 1, 2001, we are proposing to revise § 412.312 by adding a new paragraph (e) to specify that payment is made for extraordinary circumstances as provided for in § 412.348(f) for cost reporting periods after the transition period, that is, on or after October 1, 2001.

D. Restoration of the 2.1 Percent Reduction to the Standard Federal Capital Prospective Payment System Payment Rate

Section 1886(g)(1)(A) of the Act, as amended by section 4402 of Public Law 105-33, requires the Secretary to reduce the unadjusted standard Federal capital prospective payment system payment rate (and the unadjusted hospital-specific rate) by 2.1 percent for discharges on or after October 1, 1997, and through September 30, 2002, in addition to applying the budget neutrality factor used to determine the Federal capital prospective payment system payment rate in effect on September 30, 1995. The budget neutrality factor effective for September 30, 1995, was 0.8432 (59 FR 45416). Therefore, application of the budget neutrality factor (as specified under section 1886(g)(1)(A) of the Act) was equivalent to a 15.68 percent reduction to the unadjusted standard Federal capital prospective payment system payment rate and the unadjusted hospital-specific rate in effect on September 30, 1997. The additional 2.1 reduction to the rates in effect on September 30, 1997 resulted in a total reduction of 17.78 percent. Accordingly, under the statute, the additional 2.1 percent reduction no longer applies to discharges occurring after September 30, 2002 (§ 412.308(b)(5)). Therefore, we are proposing to revise § 412.308(b) to add a new paragraph (b)(6) to restore the 2.1 percent reduction to the unadjusted standard Federal capital prospective payment system payment rate (as provided under § 412.308(c)) for discharges occurring on or after October 1, 2002, to the level that it would have been without the reduction. (Since FY 2001 was the final year of the 10-year transition period, we no longer update the hospital-specific rate and, therefore, we also no longer restore the 2.1 percent reduction to that rate as provided under § 412.328(e)(1).)

As described in the August 29, 1997 final rule (62 FR 46012), we determined the reduction factor for FY 1998 by deducting both the FY 1995 budget neutrality factor (0.1568) and the 2.1 percent reduction (0.021) from 1 (1− 0.1568−0.021 = 0.8222). We then applied the 0.8222 to the unadjusted standard Federal rate. Therefore, to determine the adjustment factor needed to restore the 2.1 percent reduction, we would divide the amount of the adjustment without the 2.1 percent reduction (1−0.1568 = 0.8432) by the amount of the adjustment with the 2.1 percent reduction (0.8222). Accordingly, we are proposing to restore the 2.1 percent reduction for discharges occurring on or after October 1, 2002, under proposed § 413.308(b)(6), by applying a factor of 1.02554 (0.8432/0.8222) to the unadjusted standard Federal capital prospective payment system payment rate under § 412.308(c), that was in effect on September 30, 2002.

E. Clarification of Special Exceptions Policy

Under the special exceptions provisions at § 412.348(g), an additional payment may be made through the 10th year beyond the end of the capital prospective payment system transition period for eligible hospitals that meet (1) a project need requirement as described at § 412.348(g)(2), which, in the case of certain urban hospitals, includes an excess capacity test described at § 412.348(g)(4); and (2) a project size requirement as described at § 412.348(g)(5). In accordance with § 412.348(g)(7), hospitals are eligible to receive special exceptions payments for the 10 years after the cost reporting year in which they complete their project, which can be no later than the hospital's cost reporting period beginning before October 1, 2001.

During the 10-year capital prospective payment system transition period, regular exceptions under §§ 412.348(b) through (e) paid the same as or more (between 70 percent and 90 percent of costs, depending on the type of hospital) than the special exceptions provision under § 412.348(g) (70 percent for all eligible hospitals). Therefore, it was not until cost reporting periods beginning on or after October 1, 2001 (the end of the transition period) that eligible hospitals could actually begin receiving additional payments under the special exceptions provision. As we stated in the July 30, 1999 final rule (64 FR 41528), we believe that, since any substantive changes to this policy could have a significant impact, the appropriate forum for addressing the special exceptions policy is through the legislative process in Congress rather than the regulations process. Since hospitals are beginning to receive additional payments under this provision, we have received several questions regarding current policy at § 412.348(g). Therefore, while we are not proposing any changes to the special exceptions policy, we are providing the following clarifications to the existing regulations.

Under § 412.348(g)(1), to be eligible for special exception payments, a hospital must be either a sole community hospital (SCH), an urban hospital with at least 100 beds that has a disproportionate share (DSH) percentage of at least 20.2 percent or qualify for DSH payments under § 412.106(c)(2), or a hospital with a combined Medicare and Medicaid inpatient utilization of at least 70 percent. Because a hospital's SCH status, DSH patient percentage, and combined utilization may fluctuate from one cost reporting year to the next, the special exceptions eligibility criteria are applied for each cost reporting period throughout the 10-year special exceptions period. A hospital receives special exceptions payments only for those years in the 10-year period in which it meets the eligibility requirements in § 412.348(g)(1). Therefore, a hospital might be eligible for a special exception payment in one year, not be eligible the next year, and then subsequently qualify during the 10-year special exceptions period.

The project need criteria in § 412.348(g)(2) also state that a hospital must obtain any required approval from a State or local planning authority. However, in States where a certificate of need or approval is not required by the State or local planning authority, the hospital must provide the fiscal intermediary with appropriate documentation (such as project plans from the hospital's board of directors) that demonstrates that the requirements of § 412.348(g)(3) concerning the age of assets test and § 412.348(g)(4) concerning the excess capacity test for urban hospitals are met. We understand that a State planning authority and a hospital may define a project differently. Accordingly, we would allow the hospital to use either the definition provided by the project within the certificate of need (in States where a certificate of need is required), or other appropriate documentation provided from the hospital's project plans (such as project plans as specified in the minutes of the meetings of the hospital's board of directors).

In determining a hospital's special exceptions payment amount, as described in § 412.348(g)(8), for each cost reporting period, the cumulative payments made to the hospital under the capital prospective payment system are compared to the cumulative minimum payment levels applicable to the hospital for each cost reporting period subject to the capital prospective payment system. This comparison is offset by any amount by which the hospital's current year Medicare inpatient operating and capital prospective payment system payments (excluding 75 percent of its operating DSH payments) exceed its Medicare inpatient operating and capital costs (or its Medicare inpatient margin). The minimum payment level is 70 percent for all hospitals, regardless of class, as set forth in § 412.348(g)(6), for the duration of the special exceptions provision.

In order to assist our fiscal intermediaries in determining the end of the 10-year period in which an eligible hospital will no longer be entitled to receive special exception payments, § 412.348(g)(9) requires that hospitals eligible for special exception payments submit documentation to the intermediary indicating the completion date of their project (the date the project was put in use for patient care) that meets the project need and project size requirements outlined in §§ 412.348(g)(2) through (g)(5). In order for an eligible hospital to receive special exception payments, this documentation had to be submitted in writing to the intermediary by the later of October 1, 2001, or within 3 months of the end of the hospital's last cost reporting period beginning before October 1, 2001, during which a qualifying project was completed.

VII. Proposed Changes for Hospitals and Hospital Units Excluded From the Acute Care Hospital Inpatient Prospective Payment System

A. Payments to Excluded Hospitals and Hospital Units (§§ 413.40(c), (d), and (f))

1. Payments to Existing Excluded Hospitals and Hospital Units

Section 1886(b)(3)(H) of the Act (as amended by section 4414 of Public Law 105-33) established caps on the target amounts for certain existing hospitals and hospital units excluded from the acute care hospital inpatient prospective payment system for cost reporting periods beginning on or after October 1, 1997 through September 30, 2002. For this period, the caps on the target amounts apply to the following three classes of excluded hospitals or units: psychiatric hospitals and units, rehabilitation hospitals and units, and long-term care hospitals.

In accordance with section 1886(b)(3)(H)(i) of the Act and effective for cost reporting periods beginning on or after October 1, 2002, payments to these classes of existing excluded hospitals or hospital units are no longer subject to caps on the target amounts. In accordance with existing §§ 413.40(c)(4)(ii) and (d)(1)(i) and (ii), these excluded hospitals and hospital units continue to be paid on a reasonable cost basis, and payments are based on their Medicare inpatient operating costs, not to exceed the ceiling. The ceiling would be computed using the hospital's or unit's target amount from the previous cost reporting period updated by the rate-of-increase specified in § 413.40(c)(3)(viii) of the regulations.

2. Updated Caps for New Excluded Hospitals and Units

Section 1886(b)(7) of the Act establishes a payment methodology for new psychiatric hospitals and units, new rehabilitation hospitals and units, and new long-term care hospitals. A discussion of how the payment limitation was calculated can be found in the August 29, 1997 final rule with comment period (62 FR 46019); the May 12, 1998 final rule (63 FR 26344); the July 31, 1998 final rule (63 FR 41000); and the July 30, 1999 final rule (64 FR 41529). Under the statutory methodology, a “new” hospital or unit is a hospital or unit that falls within one of the three classes of hospitals or units (psychiatric, rehabilitation or long-term care) that first receives payment as a hospital or unit excluded from the acute care hospital inpatient prospective payment system on or after October 1, 1997. The amount of payment for a “new” hospital or unit would be determined as follows:

• Under existing § 413.40(f)(2)(ii), for the first two 12-month cost reporting periods, the amount of payment is the lesser of: (1) the operating costs per case; or (2) 110 percent of the national median (as estimated by the Secretary) of the target amounts for the same class of hospital or unit for cost reporting periods ending during FY 1996, updated by the hospital market basket increase percentage to the fiscal year in which the hospital or unit first receives payments under section 1886 of the Act, as adjusted for differences in area wage levels.

• Under existing § 413.40(c)(4)(v), for cost reporting periods following the hospital's or unit's first two 12-month cost reporting periods, the target amount is equal to the amount determined under section 1886(b)(7)(A)(i) of the Act for the third period, updated by the applicable hospital market basket increase percentage.

The proposed amounts included in the following table reflect the updated 110 percent of the national median target amounts proposed for each class of new excluded hospitals and hospital units for cost reporting periods beginning during FY 2003. These figures are updated to reflect the proposed projected market basket increase percentage of 3.4 percent. This projected percentage change in the market basket reflects the average change in the price of goods and services purchased by hospitals to furnish inpatient hospital services (as projected by the CMS Office of the Actuary based on its historical experience with the hospital inpatient prospective payment system). For a new provider, the labor-related share of the target amount is multiplied by the appropriate geographic area wage index, without regard to prospective payment system reclassifications, and added to the nonlabor-related share in order to determine the per case limit on payment under the statutory payment methodology for new providers.

Class of excluded hospital or unit | FY 2003 proposed labor-related share | FY 2003 proposed nonlabor-related share
Psychiatric | $7,047 | $2,801
Long-Term Care | 17,269 | 6,866

Effective for cost reporting periods beginning on or after October 1, 2002, this payment limitation is no longer applicable to new rehabilitation hospitals and units since they will be paid under the inpatient rehabilitation facility prospective payment system.

3. Establishment of a Prospective Payment System for Inpatient Rehabilitation Hospitals and Units

Section 1886(j) of the Act, as added by section 4421(a) of Public Law 105-33, provided the phase-in of a case-mix adjusted prospective payment system for inpatient hospital services furnished by a rehabilitation hospital or a rehabilitation hospital unit (referred to in the statute as rehabilitation facilities) for cost reporting periods beginning on or after October 1, 2000 and before October 1, 2002, with a fully implemented prospective payment system for cost reporting periods beginning on or after October 1, 2002. Section 1886(j) of the Act was amended by section 125 of Public Law 106-113 to require the Secretary to use a discharge as the payment unit under the prospective payment system for inpatient hospital services furnished by rehabilitation facilities and to establish classes of patient discharges by functional-related groups. Section 305 of Public Law 106-554 further amended section 1886(j) of the Act to allow rehabilitation facilities to elect to be paid the full Federal prospective payment rather than the transitional period payments specified in the Act.

On August 7, 2001, we issued a final rule in the Federal Register (66 FR 41316) establishing the prospective payment system for inpatient rehabilitation facilities, effective for cost reporting periods beginning on or after January 1, 2002. Under the inpatient rehabilitation prospective payment system, for cost reporting periods beginning on or after January 1, 2002, and before October 1, 2002, payment will consist of 33⅓ percent of the facility-specific payment amount (based on the reasonable cost-based reimbursement methodology) and 66⅔ percent of the adjusted Federal prospective payment. For cost reporting periods beginning on or after October 1, 2002, payment will be based entirely on the Federal prospective payment rate determined under the inpatient rehabilitation facility prospective payment system.

4. Implementation of a Prospective Payment System for Long-Term Care Hospitals

In accordance with the requirements of section 123 of Public Law 106-113, as modified by section 307(b) of Public Law 106-554, we are proposing (as published in the March 22, 2002 proposed rule (67 FR 13415)) the establishment of a per discharge, DRG-based prospective payment system for long-term care hospitals as described in section 1886(d)(1)(B)(iv) of the Act for cost reporting periods beginning on or after October 1, 2002. As part of the implementation process, we are proposing a 5-year transition period from reasonable cost-based reimbursement to the long-term care hospital prospective payment system Federal rate. We are also proposing that a long-term care hospital may elect to be paid based on 100 percent of the Federal prospective rate. Under the March 22, 2002 proposed rule, a blend of the reasonable cost-based reimbursement percentage and the prospective payment Federal rate percentage would be used to determine a long-term care hospital's total payment under the prospective payment system during the transition period. We would expect long-term care hospitals to be paid under the full Federal prospective rate for cost reporting periods beginning on or after October 1, 2006.

B. Criteria for Exclusion of Satellite Facilities from the Hospital Inpatient Prospective Payment System

Existing regulations at 42 CFR 412.22(e) define a hospital-within-a-hospital as a hospital that occupies space in the same building as another hospital, or in one or more entire buildings located on the same campus as buildings used by another hospital. Section 412.22(h), relating to satellites of hospitals excluded from the acute care hospital inpatient prospective payment system, defines a satellite facility as a part of a hospital that provides inpatient services in a building also used by another hospital, or in one or more entire buildings located on the same campus as buildings used by another hospital. Section 412.25(e), relating to satellites of excluded hospital units, defines a satellite facility as a part of a hospital unit that provides inpatient services in a building also used by another hospital, or in one or more entire buildings located on the same campus as buildings used by another hospital. Because of the similarities between the definitions of the two types of satellite facilities and the definition of a hospital-within-a-hospital, questions have been raised as to whether satellite facilities must meet the “hospital-within-a-hospital” criteria in § 412.22(e) regarding having a governing body, chief medical officer, medical staff, and chief executive officer that are separate from those of the hospital with which space is shared.

Although the separateness of satellite facilities of excluded hospitals and satellite facilities of excluded units of hospitals is not explicitly required under existing regulations, we believe these two types of satellite facilities are similar enough to hospitals-within-hospitals to warrant application of more closely related criteria to all of them. Specifically, satellite facilities are like hospitals-within-hospitals in that the satellites are physically located in acute care hospitals that are paid for their inpatient services under the acute care hospital inpatient prospective payment system. Moreover, both satellite facilities and hospitals-within-hospitals provide inpatient hospital care that is paid for at higher rates than would apply if the facility were treated by Medicare as a part of the acute care hospital.

In view of these facts, it is important that we establish clear criteria for ensuring that these facilities are not merely units of the hospitals in which they are located, but are, in fact, organizationally and functionally separate from those hospitals. Therefore, we are proposing to revise § 412.22(h)(2) to specify that, effective for cost reporting periods beginning on or after October 1, 2002, a hospital having a satellite facility would qualify for exclusion from the acute care hospital inpatient prospective payment system only if that satellite facility is not under the authority or control of the governing body or chief executive officer of the hospital in which it is located, and it furnishes inpatient care through the use of medical personnel who are not under the authority or control of the medical staff or chief medical officer of the hospital in which it is located. We also are proposing to revise § 412.25(e)(2)(iii) to state that, effective for cost reporting periods beginning on or after October 1, 2002, a hospital unit having a satellite facility would qualify for exclusion from the acute care hospital inpatient prospective payment system only if it is not under the authority or control of the governing body or chief executive officer of the hospital in which it is located, and it furnishes inpatient care through the use of medical personnel who are not under the authority or control of the medical staff or chief medical officer of the hospital in which it is located.

C. Critical Access Hospitals (CAHs)

1. Background

Section 1820 provides for a nationwide Medicare Rural Hospital Flexibility Program (MRHF). (MRHF replaced the 7-State Essential Access Community Hospital/Rural Primary Care Hospital (EACH/RPCH) program.) Under section 1820 of the Act, as amended, certain rural providers may be designated as critical access hospitals (CAHs) under the MRHF program if they meet qualifying criteria and the conditions for designation specified in the statute. Implementing regulations for section 1820 of the Act are located at 42 CFR Part 485, Subpart F.

2. Election of Optional Payment Method

Under existing regulations at 42 CFR 413.70(b), CAHs may elect to be paid for services to their outpatients under an optional method. Facilities making this election are paid an amount for each outpatient visit that is the sum of the reasonable costs of facility services, as determined under applicable regulations, and, for professional services otherwise payable to the physician or other practitioner, 115 percent of the amounts that otherwise would be paid for the services if the CAH had not elected payment under the optional method. To enable intermediaries to make these payments accurately and to avoid possible delays in or duplications of payment, we specify in § 413.70(b)(3) that each CAH electing payment under the optional method must inform the intermediary in writing of that election annually, at least 60 days before the start of the affected cost reporting period (65 FR 47100, August 1, 2000, and 66 FR 31272, June 13, 2001).

Since the publication of this regulation, some CAHs have expressed concern that requiring a 60-day advance notice of the election of the optional payment method limits their flexibility, and have suggested that a shorter advance notice period would be appropriate. We have contacted our fiscal intermediaries to obtain feedback on the feasibility of changing the period of advance notification, since the fiscal intermediaries would need to make appropriate bill processing changes to allow any shorter time for notification of election of the optional method. Some fiscal intermediaries stated that requiring less than 60 days' advance notice is impractical, while others believed that needed changes could be made with as little as 2 weeks' advance notice. Given the diversity of feedback on this issue and our desire to allow CAHs as much flexibility as possible, we are proposing to revise § 412.30(b)(3) to allow the required advance notice period to be determined by each individual fiscal intermediary for the CAHs it services, as long as the required advance notice is not less than 14 days or more than 60 days before the start of each affected cost reporting period.

3. Use of the Resident Assessment Instrument (RAI) by CAHs

Among the existing regulations implementing section 1820 of the Act are specific conditions that a hospital must meet to be designated as a CAH. To help protect the health and safety of Medicare patients who are being furnished post-hospital skilled nursing facility (SNF) level of care in a CAH, our regulations require CAHs to comply with some, but not all, of the Medicare SNF conditions of participation at 42 CFR part 483, subpart B. Specifically, the regulations at § 485.645(d) provide that in order for a CAH to use its beds to provide post-hospital SNF care, the CAH must be in substantial compliance with nine of the SNF requirements contained in part 483, subpart B. Included among the nine requirements are requirements for comprehensive assessments, comprehensive care plans, and discharge planning as specified in § 483.20(b), (k), and (l). (We note that the existing § 485.645(d)(6) incorrectly cites these regulation cross-references as “§ 483.20(b), (d), and (e).” When we revised § 483.20 on December 23, 1997 (63 FR 53307), we inadvertently did not make conforming cross-reference changes in § 485.645(d)(6). In this proposed rule, we are proposing to make these conforming cross-reference changes.) Section 483.20(b) provides that a facility must make a comprehensive assessment of a resident's needs using the resident assessment instrument (RAI), specified by the State, on all its swing-bed patients.

We have received inquiries regarding the need for CAHs to use the RAI for patient assessment and care planning. The inquirers consider the RAI a lengthy and burdensome instrument and pointed out that CMS currently does not require CAHs to report data from the RAI for quality or payment purposes.

We required former RPCHs to use the RAI for the assessment of swing-bed patients to avoid the possibility of negative outcomes that might extend the length of stays in these hospitals, which provided limited services. In addition, we believed that the use of the RAI would help to ensure that patient needs are met when patients are in the facility for an extended period of time. Swing-bed hospitals were not required to use any patient assessment instrument because we believed that the hospital conditions of participation included requirements that were appropriate safeguards to protect the health and safety of Medicare patients. Currently, the regulations at § 483.20(f) require all long-term care facilities to collect and submit assessment data from the RAI to the State for quality and payment purposes. There are no such collection and submission requirements for CAHs.

We have gathered information from the provider community, State surveyors, and staff involved in the development of quality indicators and prospective payment system rates for SNFs to determine the feasibility of continuing to require CAHs to comply with the requirement for use of the RAI for patient assessments. Based on the information received, we have determined that there are no specific patient benefits involved in requiring CAHs to use the RAI for patient assessment purposes.

In the interest of reducing burden, where possible, and based on our analysis of the current significance of the requirement for use of the RAI for patient assessments in CAHs, we believe it is appropriate to propose the elimination of the requirement for CAHs to complete an RAI without jeopardizing patient health and safety. A CAH would still be required to capture assessment data for its SNF patients but would have the flexibility to document the assessment data in the medical record in a manner appropriate for its facility. We believe there are sufficient safeguards in the CAH regulations to ensure the health and safety of each SNF patient in a CAH. The facility would still be required to develop a comprehensive care plan for each SNF patient that includes measurable objectives and a timetable to meet a patient's medical, nursing, and psychosocial needs that are identified in an assessment. Also, a post-discharge plan of care would address post-hospital care needs of the patient. All of this information (assessment, plan of care, and discharge plans) must be maintained in the patient's medical record.

We are proposing to revise § 485.645 to specify that CAHs are required to complete a comprehensive assessment, comprehensive care plan, and discharge planning in accordance with the requirements of § 483.20(b), (k), and (l), except that the CAH is not required to use the RAI specified by the State, and is not required to comply with the requirements for frequency, scope, and number of assessments prescribed in § 413.343(b).

VIII. MedPAC Recommendations

We have reviewed the March 1, 2002 report submitted by MedPAC to Congress and have given it careful consideration in conjunction with the proposals set forth in this document. MedPAC's recommendations for payments for Medicare inpatient hospital services in its March 2002 report focused mainly on accounting for changes in input prices for the hospital market basket (Recommendation 2A) and on increases in the base rate for inpatient hospital services by applying the annual update factors (Recommendations 2B-1 and 2B-2).

In Recommendation 2A, MedPAC recommended that the Secretary should use wage and benefit proxies that most closely match the training and skill requirements of health care occupations in all input price indexes used for updating payments. MedPAC further indicated that, in determining index weights, measures specific to the health sector and to occupation categories in which health care plays a major role should be emphasized. Our proposal to rebase and revise the hospital market basket, including cost category weights and price proxies, that is used in determining the update factors for payments for inpatient hospital services is presented in section IV. of this proposed rule.

Recommendations 2B-1 and 2B-2 concerning the update factor for inpatient hospital operating costs and for hospitals and hospital distinct-part units excluded from the acute care hospital inpatient prospective payment system are discussed in Appendix C to this proposed rule.

IX. Other Required Information

A. Requests for Data From the Public

In order to respond promptly to public requests for data related to the prospective payment system, we have established a process under which commenters can gain access to raw data on an expedited basis. Generally, the data are available in computer tape or cartridge format; however, some files are available on diskette as well as on the Internet at http://www.hcfa.gov/stats/pufiles.htm. Data files, and the cost for each, are listed below. Anyone wishing to purchase data tapes, cartridges, or diskettes should submit a written request along with a company check or money order (payable to CMS-PUF) to cover the cost to the following address: Centers for Medicare & Medicaid Services, Public Use Files, Accounting Division, P.O. Box 7520, Baltimore, Maryland 21207-0520, (410) 786-3691. Files on the Internet may be downloaded without charge.

1. Expanded Modified MedPAR-Hospital (National)

The Medicare Provider Analysis and Review (MedPAR) file contains records for 100 percent of Medicare beneficiaries using hospital inpatient services in the United States. (The file is a Federal fiscal year file, that is, discharges occurring October 1 through September 30 of the requested year.) The records are stripped of most data elements that would permit identification of beneficiaries. The hospital is identified by the 6-position Medicare billing number. The file is available to persons qualifying under the terms of the Notice of Proposed New Routine Uses for an Existing System of Records published in the Federal Register on December 24, 1984 (49 FR 49941), and amended by the July 2, 1985 notice (50 FR 27361). The national file consists of approximately 11,420,000 records. Under the requirements of these notices, an agreement for use of CMS Beneficiary Encrypted Files must be signed by the purchaser before release of these data. For all files requiring a signed agreement, please write or call to obtain a blank agreement form before placing an order. Two versions of this file are created each year. They support the following:

• Notice of Proposed Rulemaking (NPRM) published in the Federal Register. This file, scheduled to be available by the end of April, is derived from the MedPAR file with a cutoff of 3 months after the end of the fiscal year (December file).

• Final Rule published in the Federal Register. The FY 2001 MedPAR file used for the FY 2003 final rule will be cut off 6 months after the end of the fiscal year (March file) and is scheduled to be available by the end of April.

Media: Tape/Cartridge.

File Cost: $3,655.00 per fiscal year.

Periods Available: FY 1988 through FY 2001.

2. Expanded Modified MedPAR-Hospital (State)

The State MedPAR file contains records for 100 percent of Medicare beneficiaries using hospital inpatient services in a particular State. The records are stripped of most data elements that will permit identification of beneficiaries. The hospital is identified by the 6-position Medicare billing number. The file is available to persons qualifying under the terms of the Notice of Proposed New Routine Uses for an Existing System of Records published in the December 24, 1984 Federal Register notice, and amended by the July 2, 1985 notice. This file is a subset of the Expanded Modified MedPAR-Hospital (National) as described above. Under the requirements of these notices, an agreement for use of CMS Beneficiary Encrypted Files must be signed by the purchaser before release of these data. Two versions of this file are created each year. They support the following:

• NPRM published in the Federal Register. This file, scheduled to be available by the end of April, is derived from the MedPAR file with a cutoff of 3 months after the end of the fiscal year (December file).

• Final Rule published in the Federal Register. The FY 2001 MedPAR file used for the FY 2003 final rule will be cut off 6 months after the end of the fiscal year (March file) and is scheduled to be available by the end of April.

Media: Tape/Cartridge.

File Cost: $1,130.00 per State per year.

Periods Available: FY 1988 through FY 2001.

3. CMS Wage Data

This file contains the hospital hours and salaries for FY 1999 used to create the proposed FY 2003 prospective payment system wage index. The file will be available by the beginning of January for the NPRM and the beginning of May for the final rule.

Processing year | Wage data year | PPS fiscal year
2002 | 1999 | 2003
2001 | 1998 | 2002
2000 | 1997 | 2001
1999 | 1996 | 2000
1998 | 1995 | 1999
1997 | 1994 | 1998
1996 | 1993 | 1997
1995 | 1992 | 1996
1994 | 1991 | 1995
1993 | 1990 | 1994
1992 | 1989 | 1993
1991 | 1988 | 1992

These files support the following:

• NPRM published in the Federal Register.

• Final Rule published in the Federal Register.

Media: Diskette/most recent year on the Internet.

File Cost: $165.00 per year.

Periods Available: FY 2003 PPS Update.

4. CMS Hospital Wages Indices (Formerly: Urban and Rural Wage Index Values Only)

This file contains a history of all wage indices since October 1, 1983.

Media: Diskette/most recent year on the Internet.

File Cost: $165.00 per year.

Periods Available: FY 2003 PPS Update.

5. PPS SSA/FIPS MSA State and County Crosswalk

This file contains a crosswalk of State and county codes used by the Social Security Administration (SSA) and the Federal Information Processing Standards (FIPS), county name, and a historical list of Metropolitan Statistical Area (MSA).

Media: Diskette/Internet.

File Cost: $165.00 per year.

Periods Available: FY 2003 PPS Update.

6. Reclassified Hospitals New Wage Index (Formerly: Reclassified Hospitals by Provider Only)

This file contains a list of hospitals that were reclassified for the purpose of assigning a new wage index. Two versions of these files are created each year. They support the following:

• NPRM published in the Federal Register.

• Final Rule published in the Federal Register.

Media: Diskette/Internet.

File Cost: $165.00 per year.

Periods Available: FY 2003 PPS Update.

7. PPS-IV to PPS-XII Minimum Data Set

The Minimum Data Set contains cost, statistical, financial, and other information from Medicare hospital cost reports. The data set includes only the most current cost report (as submitted, final settled, or reopened) submitted for a Medicare participating hospital by the Medicare fiscal intermediary to CMS. This data set is updated at the end of each calendar quarter and is available on the last day of the following month.

Media: Tape/Cartridge.

File Cost: $770.00 per year.

| Periods beginning on or after | and before
PPS-IV | 10/01/86 | 10/01/87
PPS-V | 10/01/87 | 10/01/88
PPS-VI | 10/01/88 | 10/01/89
PPS-VII | 10/01/89 | 10/01/90
PPS-VIII | 10/01/90 | 10/01/91
PPS-IX | 10/01/91 | 10/01/92
PPS-X | 10/01/92 | 10/01/93
PPS-XI | 10/01/93 | 10/01/94
PPS-XII | 10/01/94 | 10/01/95

(Note: The PPS-XIII, PPS-XIV, PPS-XV, PPS-XVI, and PPS-XVII Minimum Data Sets are part of the PPS-XIII, PPS-XIV, PPS-XV, PPS-XVI, and PPS-XVII Hospital Data Set Files (refer to item 9 below).)

8. PPS-IX to PPS-XII Capital Data Set

The Capital Data Set contains selected data for capital-related costs, interest expense and related information and complete balance sheet data from the Medicare hospital cost report. The data set includes only the most current cost report (as submitted, final settled or reopened) submitted for a Medicare certified hospital by the Medicare fiscal intermediary to CMS. This data set is updated at the end of each calendar quarter and is available on the last day of the following month.

Media: Tape/Cartridge.

File Cost: $770.00 per year.

| Periods beginning on or after | and before
PPS-IX | 10/01/91 | 10/01/92
PPS-X | 10/01/92 | 10/01/93
PPS-XI | 10/01/93 | 10/01/94
PPS-XII | 10/01/94 | 10/01/95

(Note: The PPS-XIII, PPS-XIV, PPS-XV, PPS-XVI, and PPS-XVII Capital Data Sets are part of the PPS-XIII, PPS-XIV, PPS-XV, PPS-XVI, and PPS-XVII Hospital Data Set Files (refer to item 9 below).)

9. PPS-XIII to PPS-XVII Hospital Data Set

The file contains cost, statistical, financial, and other data from the Medicare Hospital Cost Report. The data set includes only the most current cost report (as submitted, final settled, or reopened) submitted for a Medicare-certified hospital by the Medicare fiscal intermediary to CMS. The data set are updated at the end of each calendar quarter and is available on the last day of the following month.

Media: Diskette/Internet.

File Cost: $2,500.00.

| Periods beginning on or after | and before
PPS-XIII | 10/01/95 | 10/01/96
PPS-XIV | 10/01/96 | 10/01/97
PPS-XV | 10/01/97 | 10/01/98
PPS-XVI | 10/01/98 | 10/01/99
PPS-XVII | 10/01/99 | 10/01/00

10. Provider-Specific File

This file is a component of the PRICER program used in the fiscal intermediary's system to compute DRG payments for individual bills. The file contains records for all prospective payment system eligible hospitals, including hospitals in waiver States, and data elements used in the prospective payment system recalibration processes and related activities. Beginning with December 1988, the individual records were enlarged to include pass-through per diems and other elements.

Media: Diskette/Internet.

File Cost: $265.00.

Periods Available: FY 2003 PPS Update.

11. CMS Medicare Case-Mix Index File

This file contains the Medicare case-mix index by provider number as published in each year's update of the Medicare hospital inpatient prospective payment system. The case-mix index is a measure of the costliness of cases treated by a hospital relative to the cost of the national average of all Medicare hospital cases, using DRG weights as a measure of relative costliness of cases. Two versions of this file are created each year. They support the following:

• NPRM published in the Federal Register.

• Final rule published in the Federal Register.

Media: Diskette/most recent year on Internet.

Price: $165.00 per year/per file.

Periods Available: FY 1985 through FY 2001.

12. DRG Relative Weights (Formerly Table 5 DRG)

This file contains a listing of DRGs, DRG narrative description, relative weights, and geometric and arithmetic mean lengths of stay as published in the Federal Register. The hard copy image has been copied to diskette. There are two versions of this file as published in the Federal Register:

• NPRM.

• Final rule.

Media: Diskette/Internet.

File Cost: $165.00.

Periods Available: FY 2003 PPS Update.

13. PPS Payment Impact File

This file contains data used to estimate payments under Medicare's hospital inpatient prospective payment systems for operating and capital-related costs. The data are taken from various sources, including the Provider-Specific File, Minimum Data Sets, and prior impact files. The data set is abstracted from an internal file used for the impact analysis of the changes to the prospective payment systems published in the Federal Register. This file is available for release 1 month after the proposed and final rules are published in the Federal Register.

Media: Diskette/Internet.

File Cost: $165.00.

Periods Available: FY 2003 PPS Update.

14. AOR/BOR Tables

This file contains data used to develop the DRG relative weights. It contains mean, maximum, minimum, standard deviation, and coefficient of variation statistics by DRG for length of stay and standardized charges. The BOR tables are “Before Outliers Removed” and the AOR is “After Outliers Removed.” (Outliers refers to statistical outliers, not payment outliers.) Two versions of this file are created each year. They support the following:

• NPRM published in the Federal Register.

• Final rule published in the Federal Register.

Media: Diskette/Internet.

File Cost: $165.00.

Periods Available: FY 2003 PPS Update.

15. Prospective Payment System (PPS) Standardizing File

This file contains information that standardizes the charges used to calculate relative weights to determine payments under the prospective payment system. Variables include wage index, cost-of-living adjustment (COLA), case-mix index, disproportionate share, and the Metropolitan Statistical Area (MSA). The file supports the following:

• NPRM published in the Federal Register.

• Final rule published in the Federal Register.

Media: Internet.

File cost: No charge.

Periods Available: FY 2003 PPS Update.

For further information concerning these data tapes, contact the CMS Public Use Files Hotline at (410) 786-3691.

Commenters interested in obtaining or discussing any other data used in constructing this rule should contact Stephen Phillips at (410) 786-4548.

B. Information Collection Requirements

Under the Paperwork Reduction Act of 1995, we are required to provide 60-day notice in the Federal Register and solicit public comment before a collection of information requirement is submitted to the Office of Management and Budget (OMB) for review and approval. In order to fairly evaluate whether an information collection should be approved by OMB, section 3506(c)(2)(A) of the Paperwork Reduction Act of 1995 requires that we solicit comment on the following issues:

• The need for the information collection and its usefulness in carrying out the proper functions of our agency.

• The accuracy of our estimate of the information collection burden.

• The quality, utility, and clarity of the information to be collected.

• Recommendations to minimize the information collection burden on the affected public, including automated collection techniques.

However, the majority of the collection requirements contained in this proposed rule are currently approved.

Section IX.B.1. below lists the OMB approval numbers and the current expiration dates for the collection requirements, referenced by 42 CFR Part, in this proposed rule that are currently approved. In addition, as summarized below, section IX.B.2. of this proposed rule outlines the proposed collection requirements referenced in this proposed rule for which we are seeking public comment, as required under the PRA of 1995.

1. Currently Approved Requirements

Regulation references in 42 CFR | OMB approval No. | Current expiration date
Part 412 | 0938-0691 0938-0050 0938-0573 | September 30, 2002. May 31, 2004. September 30, 2002.
Part 413 | 0938-0050 0938-0667 0938-0477 | May 31, 2004. October 31, 2002. June 30, 2002.
Part 489 | 0938-0667 | October 31, 2002.

2. Proposed Requirements for Public Comment

Section 412.230 Criteria for an Individual Hospital Seeking Redesignation to Another Rural Area or an Urban Area.

Appropriate Wage Data

As specified in this section, a new hospital must accumulate and provide at least 1 year of wage data to CMS for the purposes of applying for reclassification. While this collection requirement is subject to the PRA, we believe the burden associated with this requirement is exempt from the PRA as stipulated under 5 CFR 1320.3(b)(2) and (b)(3).

Section 413.65 Requirements for a Determination That a Facility or an Organization Had Provider-Based Status

Responsibility for Obtaining Provider-Based Determinations

As summarized in this section, a potential main provider seeking an advance determination of provider-based status for a facility that is located on the main campus of the potential main provider would be required to submit an attestation stating that the facility meets the criteria in paragraph (d) of this section and, if it is a hospital, also attest that it will fulfill the obligations of hospital outpatient departments and hospital-based entities described in paragraph (g) of this section. In addition, the provider seeking such an advance determination would be required to maintain documentation of the basis for its attestations and to make that documentation available to CMS upon request.

We believe the burden associated with these requirements is estimated to average 1.5 hours per provider, for approximately 3,000 providers per year, for an annual burden of 4,500 annual burden hours. This estimate is based on fact the providers currently maintain the necessary data and that minimal effort would be required to locate and review the appropriate data.

Clinical Services

The clinical services of the facility or organization seeking provider-based status and the main provider would be required to maintain an unified retrieval system (or cross reference) of the main provider for all patient medical records for those patients treated in the facility or organization.

While this collection requirement is subject to the PRA, we believe the burden associated with this requirement is exempt from the PRA as stipulated under 5 CFR 1320.3(b) (2) and (b)(3).

Section 482.12 Conditions of Participation: Governing Body

Standard: Emergency Services

If emergency services are provided at the hospital but are not provided at one or more off-campus departments of the hospital, the governing body of the hospital would be required to assure that the medical staff have written policies and procedures in effect with respect to the off-campus department(s) for appraisal of emergencies and referral when appropriate.

While this collection requirement is subject to the PRA, we believe the burden associated with this requirement is exempt from the PRA as stipulated under 5 CFR 1320.3(b)(2) and (b)(3).

Section 489.24 Special Responsibilities of Medicare Hospitals in Emergency Cases

Application to Inpatients—Admitted Emergency Patients

If a hospital admits an individual with an unstable emergency medical condition for stabilizing treatment, as an inpatient, and stabilizes that individual's emergency medical condition, the period of stability would be required to be documented by relevant clinical data in the individual's medical record, before the hospital has satisfied its special responsibilities under this section with respect to that individual.

While this collection requirement is subject to the PRA, we believe the burden associated with this requirement is exempt from the PRA as stipulated under 5 CFR 1320.3(b)(2) and (b)(3).

If you comment on these information collection and recordkeeping requirements, please mail copies directly to the following:

Centers for Medicare & Medicaid Services, Office of Information Services, Information Technology Investment Management Group, Attn.: John Burke, Attn: CMS-1203-P, Room N2-14-26, 7500 Security Boulevard, Baltimore, MD 21244-1850.

Office of Information and Regulatory Affairs, Office of Management and Budget, Room 10235, New Executive Office Building, Washington, DC 20503, Attn: Allison Eydt, CMS Desk Officer Attn: CMS-1203-P.

C. Public Comments

Because of the large number of items of correspondence we normally receive on a proposed rule, we are not able to acknowledge or respond to them individually. However, in preparing the final rule, we will consider all comments concerning the provisions of this proposed rule that we receive by the date and time specified in the “DATES” section of this preamble and respond to those comments in the preamble to that rule. We emphasize that section 1886(e)(5) of the Act requires the final rule for FY 2003 to be published by August 1, 2002, and we will consider only those comments that deal specifically with the matters discussed in this proposed rule.

List of Subjects

42 CFR Part 405

Administrative practice and procedure, Health facilities, Health professions, Kidney diseases, Medicare, Reporting and recordkeeping requirements, Rural areas, X-rays.

42 CFR Part 412

Administrative practice and procedure, Health facilities, Medicare, Puerto Rico, Reporting and recordkeeping requirements.

42 CFR Part 413

Health facilities, Kidney diseases, Medicare, Puerto Rico, Reporting and recordkeeping requirements.

42 CFR Part 482

Grant program-health, Hospitals, Medicaid, Medicare, Reporting and recordkeeping requirements.

42 CFR Part 485

Grant programs-health, Health facilities, Medicaid, Medicare, Reporting and recordkeeping requirements.

42 CFR Part 489

Health facilities, Medicare, Reporting and recordkeeping requirements.

For the reasons stated in the preamble of this proposed rule, 42 CFR chapter IV is proposed to be amended as follows:

PART 405—FEDERAL HEALTH INSURANCE FOR THE AGED AND DISABLED

A. Part 405 is amended as follows:

1. The authority citation for Part 405, Subpart R continues to read as follows:

Authority: Secs. 205, 1102, 1814(b), 1815(a), 1833, 1861(v), 1871, 1872, 1878, and 1886 of the Social Security Act (42 U.S.C. 405, 1302, 1395f(b), 1395g(a), 1395l, 1395x(v), 1395hh, 1395ii, 1395oo, and 1395ww).

2. Section 405.1885 is amended by revising paragraph (b), redesignating paragraph (e) as paragraph (f), and adding a new paragraph (e), to read as follows:

§ 405.1885 Reopening a determination or decision.

* * * * *

(b)(1) An intermediary determination or an intermediary hearing decision shall be reopened and revised by the intermediary if, within the aforementioned 3-year period, CMS—

(i) Provides notice to the intermediary that the intermediary determination or the intermediary hearing decision is inconsistent with the applicable law, regulations, CMS ruling, or CMS general instructions in effect, and as CMS understood those legal provisions, at the time the determination or decision was rendered by the intermediary; and

(ii) Explicitly directs the intermediary to reopen and revise the intermediary determination or the intermediary hearing decision.

(2) A change of legal interpretation or policy by CMS in a regulation, CMS ruling, or CMS general instruction, whether made in response to judicial precedent or otherwise, is not a basis for reopening an intermediary determination or an intermediary hearing decision under this section.

* * * * *

(e) Nothwithstanding an intermediary's discretion to reopen or not reopen an intermediary determination or an intermediary hearing decision under paragraphs (a) and (c) of this section, CMS may direct an intermediary to reopen, or not to reopen, an intermediary determination or an intermediary hearing decision in accordance with paragraphs (a) and (c) of this section.

* * * * *

PART 412—PROSPECTIVE PAYMENT SYSTEMS FOR INPATIENT HOSPITAL SERVICES

B. Part 412 is amended as follows:

1. The authority citation for Part 412 continues to read as follows:

Authority: Secs. 1102 and 1871 of the Social Security Act (42 U.S.C. 1302 and 1395hh).

§ 412.4 [Amended]

2. In § 412.4 (f)(1), the reference “paragraph (b) or (c)” is removed and “paragraph (b)(1) or (c)” is added in its place.

3. Section 412.22 is amended by—

a. Revising the introductory text of paragraph (h)(2).

b. Republishing the introductory text of paragraph (h)(2)(iii).

c. Redesignating paragraphs (h)(2)(iii)(A) through (F) as paragraphs (h)(2)(iii)(B) through (G), respectively. d. Adding new paragraph (h)(2)(iii)(A).

§ 412.22 Excluded hospitals and hospital units: General rules.

* * * * *

(h) Satellite facilities. * * *

(2) Except as provided in paragraph (h)(3) of this section, effective for cost reporting periods beginning on or after October 1, 1999, a hospital that has a satellite facility must meet the following criteria in order to be excluded from the acute care hospital inpatient prospective payment systems for any period:

* * * * *

(iii) The satellite facility meets all of the following requirements:

(A) Effective for cost reporting periods beginning on or after October 1, 2002, it is not under the authority or control of the governing body or chief executive officer of the hospital in which it is located, and it furnishes inpatient care through the use of medical personnel who are not under the authority or control of the medical staff or chief medical officer of the hospital in which it is located.

* * * * *

4. Section 412.25 is amended by—

a. Revising the introductory text of paragraph (e)(2).

b. Republishing the introductory text of paragraph (e)(2)(iii).

c. Redesignating paragraphs (e)(2)(iii)(A) through (F) as paragraphs (e)(2)(iii)(B) through (G), respectively.

d. Adding new paragraph (e)(2)(iii)(A).

§ 412.25 Excluded hospitals units: Common requirements.

* * * * *

(e) Satellite facilities. * * *

(2) Except as provided in paragraph (e)(3) of this section, effective for cost reporting periods beginning on or after October 1, 1999, a hospital that has a satellite facility must meet the following criteria in order to be excluded from the acute care hospital inpatient prospective payment systems for any period:

* * * * *

(iii) The satellite facility meets all of the following requirements:

(A) Effective for cost reporting periods beginning on or after October 1, 2002, it is not under the authority or control of the governing body or chief executive officer of the hospital in which it is located, and it furnishes inpatient care through the use of medical personnel who are not under the authority or control of the medical staff or chief medical officer of the hospital in which it is located.

* * * * *

§ 412.63 [Amended]

5. Section 412.63 is amended by—

a. In paragraph (x)(2)(i)(A), removing the phrase “tabulating the hospital's data” and adding in its place “tabulating its data”.

b. Removing paragraphs (x)(3) and (x)(4).

c. Redesignating paragraph (x)(5) as paragraph (x)(3).

6. Section 412.80 is amended by revising paragraph (a)(2) to read as follows:

§ 412.80 Outlier cases: General provisions.

(a) Basic rule. * * *

(2) Discharges occurring on or after October 1, 1997 and before October 1, 2001. For discharges occurring on or after October 1, 1997 and before October 1, 2001, except as provided in paragraph (b) of this section concerning transfers, CMS provides for additional payment, beyond standard DRG payments, to a hospital for covered inpatient hospital services furnished to a Medicare beneficiary if the hospital's charges for covered services, adjusted to operating costs and capital costs by applying cost-to-charge ratios, as described in § 412.84(h), exceed the DRG payment for the case, payments for indirect costs of graduate medical education (§ 412.105), and payments for serving disproportionate share of low-income patients (§ 412.106), plus a fixed dollar amount (adjusted for geographic variation in costs) as specified by CMS.

* * * * *

7. Section 412.92 is amended by revising paragraph (c)(2), to read as follows:

§ 412.92 Special treatment: Sole community hospitals.

* * * * *

(c) Terminology. * * *

(2) The term like hospital means a hospital furnishing short-term, acute care. Effective with cost reporting periods beginning on or after October 1, 2002, if a hospital seeking sole community hospital designation can demonstrate that no more than 3 percent of the services it provides overlap with the services provided by a nearby hospital that would otherwise be considered a like hospital under this definition, CMS will not consider the nearby hospital to be a like hospital.

* * * * *

8. Section 412.105 is amended by—

A. Republishing the introductory text of paragraph (a).

B. Revising paragraph (a)(1).

C. Revising paragraph (b).

D. Revising paragraph (f)(1)(vi).

E. Making the following cross-reference changes in paragraph (f)(1):

i. In paragraph (f)(1)(vii), the reference “§ 413.86(g)(12)” is removed and “§ 413.86(g)(13)” is added in its place.

ii. In paragraph (f)(1)(viii), the reference “§ 413.86(g)(7)” is removed and “§ 413.86(g)(8)” is added in its place.

iii. In paragraph (f)(1)(ix), the reference “§§ 413.86(g)(8)(i) and (g)(8)(ii) of this subchapter” is removed and “§ 413.86(g)(9)(i) and (g)(9)(ii) of this subchapter” is added in its place; the reference “§§ 413.86(g)(8)(i) and (g)(8)(iii)(B) of this subchapter” is removed and “§ 413.86(g)(9)(i) and (g)(9)(iii)(B) of this subchapter” is added in its place; and the reference “§§ 413.86(g)(8)(i) and (g)(8)(iii)(A) of this subchapter” is removed and “§ 413.86(g)(9)(i) and (g)(9)(iii)(A) of this subchapter” is added it its place.

iv. In paragraph (f)(1)(x), the reference “§ 413.86(g)(12)” is removed and “§ 413.86(g)(13)” is added in its place; and the reference “§ 413.86(g)(11)” is removed and “§ 413.86(g)(12)” is added in its place.

v. In paragraph (f)(1)(xi), the reference “§ 413.86(g)(9)” is removed and “§ 413.86(g)(10)” is added in its place.

vi. In paragraph (f)(1)(xii), the reference “§ 413.86(g)(10)” is removed and “§ 413.86(g)(11)” is added in its place.

The revisions read as follows:

§ 412.105 Special treatment: Hospitals that incur indirect costs for graduate medical education programs.

* * * * *

(a) Basic data. CMS determines the following for each hospital:

(1) The hospital's ratio of full-time equivalent residents (except as limited under paragraph (f) of this section) to the number of beds (as determined under paragraph (b) of this section).

(i) Except for the special circumstances for affiliated groups and new programs described in paragraphs (f)(1)(vi) and (f)(1)(vii) of this section for cost reporting periods beginning on or after October 1, 1997, and for the special circumstances for closed hospitals or closed programs described in paragraph (f)(1)(ix) of this section for cost reporting periods beginning on or after October 1, 2002, this ratio may not exceed the ratio for the hospital's most recent prior cost reporting period after accounting for the cap on the number of allopathic and osteopathic full-time equivalent residents as described in paragraph (f)(1)(iv) of this section, and adding to the capped numerator any dental and podiatric full-time equivalent residents.

(ii) The exception for new programs described in paragraph (f)(1)(vii) of this section applies to each new program individually for which the full-time equivalent cap may be adjusted based on the period of years equal to the minimum accredited length of each new program.

(iii) The exception for closed hospitals and closed programs described in paragraph (f)(1)(ix) of this section applies only in the first cost reporting period in which the receiving hospital trains the displaced full-time equivalent residents.

(iv) In the cost reporting period following the last year the receiving hospital's full-time equivalent cap is adjusted for the displaced resident(s), the resident-to-bed ratio cap in paragraph (a)(1) of this section is calculated as if the displaced full-time equivalent residents had not trained at the receiving hospital in the prior year.

* * * * *

(b) Determination of number of beds. (1) For purposes of this section, subject to the provisions of paragraph (b)(2) of this section, the number of beds in a hospital is determined by counting the number of available bed days during the cost reporting period, not including beds or bassinets in the healthy newborn nursery, custodial care beds, or beds in excluded distinct part hospital units, and dividing that number by the number of days in the cost reporting period.

(2) Effective for discharges occurring on or after October 1, 2002, a hospital's number of beds is equal to the lower of the number of beds as determined under paragraph (b)(1) of this section, or the average daily census (as determined in accordance with § 412.322(a)(2) of this chapter) divided by 35 percent.

* * * * *

(f) Determining the total number of full-time equivalent residents for cost reporting periods beginning on or after July 1, 1991.

(1) * * *

(vi) Hospitals that are part of the same affiliated group (as defined in § 413.86(b) of this subchapter) may elect to apply the limit at paragraph (f)(1)(iv) of this section on an aggregate basis, as specified in § 413.86(g)(7) of this chapter.

* * * * *

9. Section 412.108 is amended by revising paragraph (b) to read as follows:

§ 412.108 Special treatment: Medicare-dependent, small rural hospitals.

* * * * *

(b) Classification procedures. (1) The fiscal intermediary determines whether a hospital meets the criteria specified in paragraph (a) of this section.

(2) A hospital must submit a written request along with qualifying documentation to its fiscal intermediary to be considered for MDH status based on the criterion under paragraph (a)(1)(iii)(C) of this section.

(3) The fiscal intermediary will make its determination and notify the hospital within 90 days from the date that it receives the hospital's request and all of the required documentation.

(4) A determination of MDH status made by the fiscal intermediary is effective 30 days after the date the fiscal intermediary provides written notification to the hospital. An approved MDH status determination remains in effect unless there is a change in the circumstances under which the status was approved.

(5) The fiscal intermediary will evaluate on an ongoing basis, whether or not a hospital continues to qualify for MDH status. This evaluation includes an ongoing review to ensure that the hospital continues to meet all of the criteria specified in paragraph (a) of this section.

(6) If the fiscal intermediary determines that a hospital no longer qualifies for MDH status, the change in status will become effective 30 days after the date the fiscal intermediary provides written notification to the hospital.

(7) A hospital may reapply for MDH status following its disqualification only after it has completed another cost reporting period that has been audited and settled. The hospital must reapply for MDH status in writing to its fiscal intermediary and submit the required documentation.

(8) If a hospital disagrees with an intermediary's determination regarding the hospital's initial or ongoing MDH status, the hospital may notify its fiscal intermediary and submit other documentable evidence to support its claim that it meets the MDH qualifying criteria.

(9) The fiscal intermediary's initial and ongoing determination is subject to review under subpart R of Part 405 of this chapter. The time required by the fiscal intermediary to review the request is considered good cause for granting an extension of the time limit for the hospital to apply for that review.

* * * * *

10. Section 412.113 is amended by revising paragraphs (c)(2)(ii) and (c)(2)(iii) to read as follows:

§ 412.113 Other payments.

* * * * *

(c) Anesthesia services furnished by hospital employed nonphysician anesthetists or obtained under arrangements. * * *

(2) * * *

(ii) To maintain its eligibility for reasonable cost payment under paragraph (c)(2)(i) of this section in calendar years after 1989, a qualified hospital or CAH must demonstrate prior to January 1 of each respective year that for the prior year its volume of surgical procedures requiring anesthesia service did not exceed 500 procedures; or, effective October 1, 2002, did not exceed 800 procedures.

(iii) A hospital or CAH that did not qualify for reasonable cost payment for nonphysician anesthetist services furnished in calendar year 1989 can qualify in subsequent years if it meets the criteria in paragraphs (c)(2)(i)(A), (B), and (D) of this section, and demonstrates to its intermediary prior to the start of the calendar year that it met these criteria. The hospital or CAH must provide data for its entire patient population to demonstrate that, during calendar year 1987 and the year immediately preceding its election of reasonable cost payment, its volume of surgical procedures (inpatient and outpatient) requiring anesthesia services did not exceed 500 procedures, or, effective October 1, 2002, did not exceed 800 procedures.

* * * * *

11. Section 412.230 is amended by adding a new paragraph (e)(2)(iii) to read as follows:

§ 412.230 Criteria for an individual hospital seeking redesignation to another rural area or an urban area.

* * * * *

(e) Use of urban or other rural area's wage index. * * *

(2) Appropriate wage data. * * *

(iii) For purposes of this paragraph (e)(2), if a new owner does not accept assignment of the existing hospital's provider agreement in accordance with § 489.18 of this chapter, the hospital will be treated as a new provider with a new provider number. In this case, the wage data associated with the previous owner of the hospital cannot be used in calculating the new hospital's 3-year average hourly wage. Once a new hospital has accumulated at least 1 year of wage data, it is eligible to apply for reclassification on the basis of those data.

* * * * *

12. Section 412.273 is amended by—

A. Revising the section heading.

B. Revising paragraph (b)(2).

C. Redesignating paragraph (d) as paragraph (e).

D. Add a new paragraph (d).

§ 412.273 Withdrawing an application, terminating an approved 3-year reclassification, or canceling a previous withdrawal or termination.

* * * * *

(b) Request for termination of approved 3-year wage index reclassifications. * * *

(2) Reapplication within the approved 3-year period. (i) If a hospital elects to withdraw its wage index application after the MGCRB has issued its decision, it may cancel its withdrawal in a subsequent year and request the MGCRB to reinstate its wage index reclassification for the remaining fiscal year(s) of the 3-year period.

(ii) A hospital may apply for reclassification for purposes of the wage index to a different area (that is, an area different from the one to which it was originally reclassified for the 3-year period). If the application is approved, the reclassification will be effective for 3 years. Once a 3-year reclassification becomes effective, a hospital may no longer cancel a withdrawal or termination of another 3-year reclassification, regardless of whether the withdrawal or termination request is made within 3 years from the date of the withdrawal or termination.

(iii) In a case in which a hospital with an existing 3-year wage index reclassification applies to be reclassified to another area, its existing 3-year reclassification will be terminated when a second 3-year wage index reclassification goes into effect for payments for discharges on or after the following October 1.

* * * * *

(d) Process for canceling a previous withdrawal or termination. A hospital may cancel a previous withdrawal or termination by submitting written notice of its intent to the MGCRB no later than the deadline for submitting reclassification applications for the following fiscal year, as specified in § 412.256(a)(2).

* * * * *

13. Section 412.304 is amended by revising paragraph (c) to read as follows:

§ 412.304 Implementation of the capital prospective payment system.

* * * * *

(c) Cost reporting periods beginning on or after October 1, 2001.

(1) General. Except as provided in paragraph (c)(2) of this section, for cost reporting periods beginning on or after October 1, 2001, the capital payment amount is based solely on the Federal rate determined under § 412.308(a) and (b) and updated under § 412.308(c).

(2) Payment to new hospitals. For cost reporting periods beginning on or after October 1, 2002—

(i) A new hospital, as defined under § 412.300(b), is paid 85 percent of its allowable Medicare inpatient hospital capital-related costs through its cost report ending at least 2 years after the hospital accepts its first patient.

(ii) For the third year and subsequent years, the hospital is paid based on the Federal rate as described under § 412.312.

* * * * *

14. Section 412.308 is amending by adding a new paragraph (b)(6) to read as follows:

§ 412.308 Determining and updating the Federal rate.

* * * * *

(b) Standard Federal rate. * * *

(6) For discharges occurring on or after October 1, 2002, the 2.1 percent reduction provided for under paragraph (b)(5) of this section is eliminated from the unadjusted standard Federal rate in effect on September 30, 2002, used to determine the Federal rate each year under paragraph (c) of this section.

* * * * *

15. Section 412.312 is amended by adding a new paragraph (e) to read as follows:

§ 412.312 Payment based on the Federal rate.

* * * * *

(e) Payment for extraordinary circumstances. Payment for extraordinary circumstances is made as provided for in § 412.348(f) for cost reporting periods beginning on or after October 1, 2001.

PART 413—PRINCIPLES OF REASONABLE COST REIMBURSEMENT; PAYMENT FOR END-STAGE RENAL DISEASE SERVICES; OPTIONAL PROSPECTIVELY DETERMINED PAYMENT RATES FOR SKILLED NURSING FACILITIES

C. Part 413 is amended as follows:

1. The authority citation for part 413 is revised to read as follows:

Authority: Secs. 1102, 1812(d), 1814(b), 1815, 1833(a), (i), and (n), 1871, 1881, 1883, and 1886 of the Social Security Act (42 U.S.C. 1302, 1395d(d), 1395f(b), 1395g, 1395l(a), (i), and (n), 1395hh, 1395rr, 1395tt, and 1395ww).

2. Section 413.65 is amended by—

A. Revising paragraph (a)(1)(ii)(G) and adding a new paragraph (a)(1)(ii)(J).

B. Revising the definition of “Department of a provider”, “Provider-based entity”, and “Remote location of a hospital” under paragraph (a)(2).

C. Revising paragraphs (b)(2), (b)(3), and (d).

D. Removing paragraph (j).

E. Redesignating paragraphs (h) and (i) as paragraphs (i) and (j), respectively.

F. Redesignating paragraph (f) as paragraph (h).

G. Redesignating paragraph (e) as paragraph (f).

H. Adding a new paragraph (e).

I. Revising redesignated paragraph (f).

J. Revising the introductory text of paragraph (g), and paragraphs (g)(1), (g)(2), and (g)(7).

K. Revising redesignated paragraphs (h), (i), and (j).

L. Revising paragraph (k).

M. Revising the heading of paragraph (m).

N. Revising paragraph (n).

§ 413.65 Requirements for a determination that a facility or an organization had provider-based status.

(a) Scope and definitions. (1) Scope. * * *

(ii) This section does not apply to the following facilities:

* * * * *

(G) Independent diagnostic testing facilities furnishing only services paid under a fee schedule, such as facilities that furnish only screening mammography services (as defined in section 1861(jj) of the Act), facilities that furnish only clinical diagnostic laboratory tests, or facilities that furnish only some combination of these services.

* * * * *

(J) Departments of providers that perform functions necessary for the successful operation of the providers but do not furnish services of a type for which separate payment could be claimed under Medicare or Medicaid (for example, laundry or medical records departments).

(2) Definitions. * * *

Department of a provider means a facility or organization that is either created by, or acquired by, a main provider for the purpose of furnishing health care services of the same type as those furnished by the main provider under the name, ownership, and financial and administrative control of the main provider, in accordance with the provisions of this section. A department of a provider comprises both the specific physical facility that serves as the site of services of a type for which payment could be claimed under the Medicare or Medicaid program, and the personnel and equipment needed to deliver the services at that facility. A department of a provider may not by itself be qualified to participate in Medicare as a provider under § 489.2 of this chapter, and the Medicare conditions of participation do not apply to a department as an independent entity. For purposes of this part, the term “department of a provider” does not include an RHC or, except as specified in paragraph (m) of this section, an FQHC.

* * * * *

Provider-based entity means a provider of health care services, or an RHC as defined in § 405.2401(b) of this chapter, that is either created by, or acquired by, a main provider for the purpose of furnishing health care services of a different type from those of the main provider under the name, ownership, and administrative and financial control of the main provider, in accordance with the provisions of this section. A provider-based entity comprises both the specific physical facility that serves as the site of services of a type for which payment could be claimed under the Medicare or Medicaid program, and the personnel and equipment needed to deliver the services at that facility. A provider-based entity may, by itself, be qualified to participate in Medicare as a provider under § 489.2 of this chapter, and the Medicare conditions of participation do apply to a provider-based entity as an independent entity.

* * * * *

Remote location of a hospital means a facility or an organization that is either created by, or acquired by, a hospital that is a main provider for the purpose of furnishing inpatient hospital services under the name, ownership, and financial and administrative control of the main provider, in accordance with the provisions of this section. A remote location of a hospital comprises both the specific physical facility that serves as the site of services for which separate payment could be claimed under the Medicare or Medicaid program, and the personnel and equipment needed to deliver the services at that facility. The Medicare conditions of participation do not apply to a remote location of a hospital as an independent entity. For purposes of this part, the term “remote location of a hospital” does not include a satellite facility as defined in § 412.22(h)(1) and § 412.25(e)(1) of this chapter.

(b) Responsibility for obtaining provider-based determinations. * * *

(2) If a facility was treated as provider-based in relation to a hospital or CAH on October 1, 2000, it will continue to be considered provider-based in relation to that hospital or CAH until the start of the hospital's first cost reporting period beginning on or after July 1, 2003. The requirements, limitations, and exclusions specified in paragraphs (d), (e), (f), (g), (h), and (i), of this section will not apply to that hospital or CAH until the start of the hospital's first cost reporting period beginning on or after July 1, 2003. For purposes of this paragraph (b)(2), a facility is considered as provider-based on October 1, 2000 if, on that date, it either had a written determination from CMS that it was provider-based, or was billing and being paid as a provider-based department or entity of the hospital.

(3)(i) Except as specified in paragraphs (b)(2) and (b)(5) of this section, if a potential main provider seeks an advance determination of provider-based status for a facility that is located on the main campus of the potential main provider, the provider would be required to submit an attestation stating that the facility meets the criteria in paragraph (d) of this section and if it is a hospital, also attest that it will fulfill the obligations of hospital outpatient departments and hospital-based entities described in paragraph (g) of this section. The provider seeking such an advance determination would also be required to maintain documentation of the basis for its attestations and to make that documentation available to CMS upon request.

(ii) If the facility is not located on the main campus of the potential main provider, the provider seeking an advance determination would be required to submit an attestation stating that the facility meets the criteria in paragraphs (d) and (e) of this section, and if the facility is operated as a joint venture or under a management contract, the requirements of paragraph (f) or paragraph (h) of this section, as applicable. If the potential main provider is a hospital, the hospital also would be required to attest that it will fulfill the obligations of hospital outpatient departments and hospital-based entities described in paragraph (g) of this section. The provider would be required to supply documentation of the basis for its attestations to CMS at the time it submits its attestations.

* * * * *

(d) Requirements applicable to all facilities or organizations. Any facility or organization for which provider-based status is sought, whether located on or off the campus of a potential main provider, must meet all of the following requirements to be determined by CMS to have provider-based status:

(1) Licensure. The department of the provider, the remote location of a hospital, or the satellite facility and the main provider are operated under the same license, except in areas where the State requires a separate license for the department of the provider, the remote location of a hospital, or the satellite facility, or in States where State law does not permit licensure of the provider and the prospective department of the provider, the remote location of a hospital, or the satellite facility under a single license. If a State health facilities' cost review commission or other agency that has authority to regulate the rates charged by hospitals or other providers in a State finds that a particular facility or organization is not part of a provider, CMS will determine that the facility or organization does not have provider-based status.

(2) Clinical services. The clinical services of the facility or organization seeking provider-based status and the main provider are integrated as evidenced by the following:

(i) Professional staff of the facility or organization have clinical privileges at the main provider.

(ii) The main provider maintains the same monitoring and oversight of the facility or organization as it does for any other department of the provider.

(iii) The medical director of the facility or organization seeking provider-based status maintains a reporting relationship with the chief medical officer or other similar official of the main provider that has the same frequency, intensity, and level of accountability that exists in the relationship between the medical director of a department of the main provider and the chief medical officer or other similar official of the main provider, and is under the same type of supervision and accountability as any other director, medical or otherwise, of the main provider.

(iv) Medical staff committees or other professional committees at the main provider are responsible for medical activities in the facility or organization, including quality assurance, utilization review, and the coordination and integration of services, to the extent practicable, between the facility or organization seeking provider-based status and the main provider.

(v) Medical records for patients treated in the facility or organization are integrated into a unified retrieval system (or cross reference) of the main provider.

(vi) Inpatient and outpatient services of the facility or organization and the main provider are integrated, and patients treated at the facility or organization who require further care have full access to all services of the main provider and are referred where appropriate to the corresponding inpatient or outpatient department or service of the main provider.

(3) Financial integration. The financial operations of the facility or organization are fully integrated within the financial system of the main provider, as evidenced by shared income and expenses between the main provider and the facility or organization. The costs of a facility or organization that is a hospital department are reported in a cost center of the provider, costs of a provider-based facility or organization other than a hospital department are reported in the appropriate cost center or cost centers of the main provider, and the financial status of any provider-based facility or organization is incorporated and readily identified in the main provider's trial balance.

(4) Public awareness. The facility or organization seeking status as a department of a provider, a remote location of a hospital, or a satellite facility is held out to the public and other payers as part of the main provider. When patients enter the provider-based facility or organization, they are aware that they are entering the main provider and are billed accordingly.

(5) Obligations of hospital outpatient departments and hospital-based entities. In the case of a hospital outpatient department or a hospital-based entity, the facility or organization must fulfill the obligations of hospital outpatient departments and hospital-based entities described in paragraph (g) of this section.

(e) Additional requirements applicable to off-campus facilities or organizations. Except as described in paragraphs (b)(2) and (b)(5) of this section, any facility or organization for which provider-based status is sought that is not located on the campus of a potential main provider must meet both the requirements in paragraph (d) of this section and all of the following additional requirements, in order to be determined by CMS to have provider-based status.

(1) Operation under the ownership and control of the main provider. The facility or organization seeking provider-based status is operated under the ownership and control of the main provider, as evidenced by the following:

(i) The business enterprise that constitutes the facility or organization is 100 percent owned by the provider.

(ii) The main provider and the facility or organization seeking status as a department of the provider, a remote location of a hospital, or a satellite facility have the same governing body.

(iii) The facility or organization is operated under the same organizational documents as the main provider. For example, the facility or organization seeking provider-based status must be subject to common bylaws and operating decisions of the governing body of the provider where it is based.

(iv) The main provider has final responsibility for administrative decisions, final approval for contracts with outside parties, final approval for personnel actions, final responsibility for personnel policies (such as fringe benefits or code of conduct), and final approval for medical staff appointments in the facility or organization.

(2) Administration and supervision. The reporting relationship between the facility or organization seeking provider-based status and the main provider must have the same frequency, intensity, and level of accountability that exists in the relationship between the main provider and one of its existing departments, as evidenced by compliance with all of the following requirements:

(i) The facility or organization is under the direct supervision of the main provider.

(ii) The facility or organization is operated under the same monitoring and oversight by the provider as any other department of the provider, and is operated just as any other department of the provider with regard to supervision and accountability. The facility or organization director or individual responsible for daily operations at the entity—

(A) Maintains a reporting relationship with a manager at the main provider that has the same frequency, intensity, and level of accountability that exists in the relationship between the main provider and its existing departments; and

(B) Is accountable to the governing body of the main provider, in the same manner as any department head of the provider.

(iii) The following administrative functions of the facility or organization are integrated with those of the provider where the facility or organization is based: billing services, records, human resources, payroll, employee benefit package, salary structure, and purchasing services. Either the same employees or group of employees handle these administrative functions for the facility or organization and the main provider, or the administrative functions for both the facility or organization and the entity are—

(A) Contracted out under the same contract agreement; or

(B) Handled under different contract agreements, with the contract of the facility or organization being managed by the main provider.

(3) Location. The facility or organization is located within a 35-mile radius of the main campus of the hospital or CAH that is the potential main provider, except when the requirements in paragraph (e)(3)(i), (e)(3)(ii), or (e)(3)(iii) of this section are met:

(i) The facility or organization is owned and operated by a hospital or CAH that has a disproportionate share adjustment (as determined under § 412.106 of this chapter) greater than 11.75 percent or is described in § 412.106(c)(2) of this chapter implementing section 1886(e)(5)(F)(i)(II) of the Act and is—

(A) Owned or operated by a unit of State or local government;

(B) A public or nonprofit corporation that is formally granted governmental powers by a unit of State or local government; or

(C) A private hospital that has a contract with a State or local government that includes the operation of clinics located off the main campus of the hospital to assure access in a well-defined service area to health care services for low-income individuals who are not entitled to benefits under Medicare (or medical assistance under a Medicaid State plan).

(ii) The facility or organization demonstrates a high level of integration with the main provider by showing that it meets all of the other provider-based criteria and demonstrates that it serves the same patient population as the main provider, by submitting records showing that, during the 12-month period immediately preceding the first day of the month in which the application for provider-based status is filed with CMS, and for each subsequent 12-month period—

(A) At least 75 percent of the patients served by the facility or organization reside in the same zip code areas as at least 75 percent of the patients served by the main provider;

(B) At least 75 percent of the patients served by the facility or organization who required the type of care furnished by the main provider received that care from that provider (for example, at least 75 percent of the patients of an RHC seeking provider-based status received inpatient hospital services from the hospital that is the main provider); or

(C) If the facility or organization is unable to meet the criteria in paragraph (e)(3)(ii)(A) or paragraph (e)(3)(ii)(B) of this section because it was not in operation during all of the 12-month period described in paragraph (e)(3)(ii) of this section, the facility or organization is located in a zip code area included among those that, during all of the 12-month period described in paragraph (e)(3)(ii) of this section, accounted for at least 75 percent of the patients served by the main provider.

(iv) A facility or organization may qualify for provider-based status under this section only if the facility or organization and the main provider are located in the same State or, when consistent with the laws of both States, in adjacent States.

(v) An RHC that is otherwise qualified as a provider-based entity of a hospital that is located in a rural area, as defined in § 412.62(f)(1)(iii) of this chapter, and has fewer than 50 beds, as determined under § 412.105(b) of this chapter, is not subject to the criteria in paragraphs (e)(3)(i) through (e)(3)(iii) of this section.

(f) Provider-based status for joint ventures. A facility or organization that is not located on the campus of the potential main provider cannot be considered provider-based if the facility or organization is owned by two or more providers engaged in a joint venture. For example, where a hospital has jointly purchased or jointly created a facility under joint venture arrangements with one or more other providers, and the facility is not located on the campus of the hospital or the campus of any other provider engaged in the joint venture arrangement, no party to the joint venture arrangement can claim the facility as provider-based.

(g) Obligations of hospital outpatient departments and hospital-based entities. To qualify for provider-based status in relation to a hospital, a facility or organization must comply with the following requirements:

(1) The following departments must comply with the antidumping rules of § 489.20(l), (m), (q), and (r) and § 489.24 of this chapter:

(i) Any facility or organization that is located on the main hospital campus and is treated by Medicare under this section as a department of the hospital; and

(ii) Any facility or organization that is located off the main hospital campus that is treated by Medicare under this section as a department of the hospital and is a dedicated emergency department, as defined in § 489.24(b) of this chapter.

(2) Physician services furnished in hospital outpatient departments or hospital-based entities (other than RHCs) must be billed with the correct site-of-service so that appropriate physician and practitioner payment amounts can be determined under the rules of part 414 of this chapter.

* * * * *

(7) When a Medicare beneficiary is treated in a hospital outpatient department of hospital-based entity (other than an RHC) that is not located on the main provider's campus, and the treatment is not required to be provided by the antidumping rules in § 489.24 of this chapter, the hospital must provide written notice to the beneficiary, before the delivery of services, of the amount of the beneficiary's potential financial liability (that is, that the beneficiary will incur a coinsurance liability for an outpatient visit to the hospital as well as for the physician service, and of the amount of that liability).

(i) The notice must be one that the beneficiary can read and understand.

(ii) If the exact type and extent of care needed is not known, the hospital may furnish a written notice to the patient that explains that the beneficiary will incur a coinsurance liability to the hospital that he or she would not incur if the facility were not provider-based.

(iii) The hospital may furnish an estimate based on typical or average charges for visits to the facility, while stating that the patient's actual liability will depend upon the actual services furnished by the hospital.

(iv) If the beneficiary is unconscious, under great duress, or for any other reason unable to read a written notice and understand and act on his or her own rights, the notice must be provided, before the delivery of services, to the beneficiary's authorized representative.

(v) In cases where a hospital outpatient department provides examination or treatment that is required to be provided by the antidumping rules of § 489.24 of this chapter, notice, as described in this paragraph (g)(7), must be given as soon as possible after the existence of an emergency has been ruled out or the emergency condition has been stabilized.

* * * * *

(h) Management contracts. A facility or organization that is not located on the campus of the potential main provider and otherwise meets the requirements of paragraphs (d) and (e) of this section, but is operated under management contracts, must also meet all of the following criteria:

(1) The main provider (or an organization that also employs the staff of the main provider and that is not the management company) employs the staff of the facility or organization who are directly involved in the delivery of patient care, except for management staff and staff who furnish patient care services of a type that would be paid for by Medicare under a fee schedule established by regulations at Part 414 of this chapter. “Leased” employees (that is, personnel who are actually employed by the management company but provide services for the provider under a staff leasing or similar agreement) are not considered to be employees of the provider for purposes of this paragraph.

(2) The administrative functions of the facility or organization are integrated with those of the main provider, as determined under criteria in paragraph (e)(2)(iii) of this section.

(3) The main provider has significant control over the operations of the facility or organization as determined under criteria in paragraph (e)(2)(ii) of this section.

(4) The management contract is held by the main provider itself, not by a parent organization that has control over both the main provider and the facility or organization.

(i) Furnishing all services under arrangement. A facility or organization may not qualify for provider-based status if all patient care services furnished at the facility or organization are furnished under arrangements.

(j) Inappropriate treatment of a facility or organization as provider-based. (1) Determination and review. If CMS learns that a provider has treated a facility or organization as provider-based and the provider did not request an advance determination of provider-based status from CMS under paragraph (b)(3) of this section and CMS determines that the facility or organization did not meet the requirements for provider-based status under paragraphs (d) through (i) of this section, as applicable (or, in any period before the effective date of these regulations, the provider-based requirements in effect under Medicare program regulations or instructions), CMS will—

(i) Issue notice to the provider in accordance with paragraph (j)(3) of this section, adjust the amount of future payments to the provider for services of the facility or organization in accordance with paragraph (j)(4) of this section, and continue payments to the provider for services of the facility or organization only in accordance with paragraph (j)(5) of this section; and

(ii) Except as otherwise provided in paragraphs (b)(2), (b)(5), or (j)(2) of this section, recover the difference between the amount of payments that actually was made and the amount of payments that CMS estimates should have been made, in the absence of compliance with the provider-based requirements, to that provider for services at the facility or organization for all cost reporting periods subject to reopening in accordance with §§ 405.1885 and 405.1889 of this chapter.

(2) Exception for good faith effort. CMS will not recover any payments for any period before the beginning of the hospital's first cost reporting period beginning on or after January 10, 2001, if, during all of that period—

(i) The requirements regarding licensure and public awareness in paragraphs (d)(1) and (d)(4) of this section were met;

(ii) All facility services were billed as if they had been furnished by a department of a provider, a remote location of a hospital, a satellite facility, or a provider-based entity of the main provider; and

(iii) All professional services of physicians and other practitioners were billed with the correct site-of-service indicator, as described in paragraph (g)(2) of this section.

(3) Notice to provider. CMS will issue written notice to the provider that payments for past cost reporting periods may be reviewed and recovered as described in paragraph (j)(1)(ii) of this section, and that future payments for services in or of the facility or organization will be adjusted as described in paragraph (j)(4) of this section.

(4) Adjustment of payments. CMS will adjust future payments to the provider or the facility or organization, or both, to approximate as closely as possible the amounts that would be paid for the same services furnished by a freestanding facility.

(5) Continuation of payment. (i) The notice of denial of provider-based status sent to the provider will ask the provider to notify CMS in writing, within 30 days of the date the notice is issued, of whether the provider intends to seek an advance determination of provider-based status for the facility or organization under paragraph (b)(3) of this section or whether the facility or organization (or, where applicable, the practitioners who staff the facility or organization) will be seeking to enroll and meet other requirements to bill for services in a freestanding facility.

(ii) If the provider indicates that it will not be seeking an advance determination for the facility or organization under paragraph (b) of this section or that the facility or organization or its practitioners will not be seeking to enroll, or if CMS does not receive a response within 30 days of the date the notice was issued, all payment under this paragraph (j)(5) will end as of the 30th day after the date of notice.

(iii) If the provider indicates that it will be seeking an advance determination for the facility or organization under paragraph (b) of this section or that the facility or organization or its practitioners will be seeking to meet enrollment and other requirements for billing for services in a freestanding facility, payment for services of the facility or organization will continue, at the adjusted amounts described in paragraph (j)(4) of this section, for as long as is required for all billing requirements to be met (but not longer than 6 months) if the provider or the facility or organization or its practitioners—

(A) Submits, as applicable, a complete request for an advance determination of provider-based status or a complete enrollment application and provide all other required information within 90 days after the date of notice; and

(B) Furnishes all other information needed by CMS to process the request for provider-based status or the enrollment application, as applicable, and verifies that other billing requirements are met.

(v) If the necessary applications or information are not provided, CMS will terminate all payment to the provider, facility, or organization as of the date CMS issues notice that necessary applications or information have not been submitted.

(k) Temporary treatment as provider-based and correction of errors. (1) If a provider submits a complete request for a provider-based determination for a facility or organization that has not previously been found by CMS to have been inappropriately treated as provider-based under paragraph (j) of this section, the provider may bill and be paid for services of the facility or organization as provider-based from the date of the application until the date that CMS determines that the facility or organization does not meet the provider-based rules. If CMS subsequently determines that the requirements for provider-based status are not met, CMS will recover the difference between the amount of payments that actually was made since the date the complete request for a provider-based determination was submitted and the amount of payments that CMS estimates should have been made in the absence of compliance with the provider-based requirements. For purposes of this paragraph (k), a complete request is one that includes all information needed to permit CMS to make an advance determination under paragraph (b)(3) of this section.

(2) If CMS determines that a facility or organization that had previously been determined to be provider-based under paragraph (b) of this section no longer qualifies for provider-based status, and the failure to qualify for provider-based status resulted from a material change in the relationship between the provider and the facility or organization that the provider did report to CMS as required under paragraph (c) of this section, treatment of the facility or organization as provider-based ceases with the date that CMS determines that the facility or organization no longer qualifies for provider-based status.

(3) If CMS determines that a facility or organization that had previously been determined to be provider-based under paragraph (b) of this section no longer qualifies for provider-based status, and if the failure to qualify for provider-based status resulted from a material change in the relationship between the provider and the facility or organization that the provider did not report to CMS, as required under paragraph (c) of this section, CMS will take the actions with respect to notice to the provider, adjustment of payments, and continuation of payment described in paragraphs (j)(3), (j)(4), and (j)(5) of this section, and will recover past payments to the provider to the extent described in paragraph (j)(1)(ii) of this section.

* * * * *

(m) FQHCs and “look alikes”. * * *

(n) Effective date of provider-based status. Provider-based status for a facility or organization is effective on the earliest date on which a request for provider-based status, as described in paragraph (b) of this section, has been made and all of the requirements of this part have been met.

3. Section 413.70 is amended by revising paragraph (b)(3)(i) to read as follows:

§ 413.70 Payment for services of a CAH.

* * * * *

(b) Payment for outpatient services furnished by CAH.

* * * * *

(3) Election to be paid reasonable costs for facility services plus fee schedule for professional services. (i) A CAH may elect to be paid for outpatient services in any cost reporting period under the method described in paragraphs (b)(3)(ii) and (b)(3)(iii) of this section. This election must be made in writing, made on an annual basis, and delivered to the intermediary servicing the CAH by a date determined by that intermediary, which may be no less than 14 days and no more than 60 days before the start of each affected cost reporting period. An election of this payment method, once made for a cost reporting period, remains in effect for all of that period and applies to all services furnished to outpatients during that period.

* * * * *

4. Section 413.86 is amended by—

A. Adding a definition of “Affiliation agreement” in alphabetical order under paragraph (b).

B. Revising the last sentence of the introductory text of paragraph (e)(5)(i).

C. Revising paragraph (e)(5)(i)(B).

D. Adding a new paragraph (e)(5)(i)(C).

E. Redesignating paragraphs (g)(5)(iv), (g)(5)(v), and (g)(5)(vi) as paragraphs (g)(5)(v), (g)(5)(vi), and (g)(5)(vii), respectively.

F. Republishing the introductory text of paragraph (g)(5) and adding a new paragraph (g)(5)(iv).

G. Redesignating paragraphs (g)(7) through (g)(12) as paragraphs (g)(8) through (g)(13), respectively.

H. Adding a new paragraph (g)(7).

I. Making the following cross-reference changes:

i. In redesignated paragraph (g)(5)(vii), “paragraph (g)(8)” is removed and “paragraph (g)(9)” is added in its place.

ii. In paragraph (g)(6), “paragraph (g)(12)” is removed and “paragraph (g)(13)” is added in its place.

iii. In redesignated paragraphs (g)(8)(iv) and (g)(8)(v), “paragraph (g)(7)” is removed and “paragraph (g)(8)” is added in its place.

iv. In redesignated paragraph (g)(9)(i), “paragraph (g)(8)” is removed and “paragraph (g)(9)” is added in its place.

v. In the introductory text of redesignated paragraph (g)(9)(iii), “paragraph (g)(8)(iii)(B)” is removed and “paragraph (g)(9)(iii)(B)” is added in its place; and “paragraph (g)(8)(iii)(A)” is removed and “paragraph (g)(9)(iii)(A)” is added in its place.

vi. In redesignated paragraph (g)(9)(iii)(A)(2), “paragraph (g)(8)(iii)(B)(2)” is removed and “paragraph (g)(9)(iii)(B)(2)” is added in its place.

vii. In the introductory text of redesignated paragraph (g)(12), “paragraph (g)(11)(i) through (g)(11)(vi)” is removed and “paragraph (g)(12)(i) through (g)(12)(vi)” is added in its place.

The additions and revisions read as follows:

§ 413.86 Direct graduate medical education payments.

* * * * *

(b) Definitions. * * *

Affiliation agreement means a written, signed, and dated agreement by responsible representatives of each respective hospital in an affiliated group, as defined in this section, that specifies—

(1) The term of the agreement (which, at a minimum is one year), beginning on July 1 of a year;

(2) Each participating hospital's direct and indirect FTE caps existing at the time of affiliation;

(3) The adjustment to each hospital's FTE caps in each year that the affiliation agreement is in effect, for both direct GME and IME, that reflects a positive adjustment to one hospital's direct and indirect FTE caps that is offset by a negative adjustment to the other hospital's (or hospitals') direct and indirect FTE caps of at least the same amount; and

(4) The names of the participating hospitals and their Medicare provider numbers.

* * * * *

(e) Determining per resident amounts for the base period. * * *

(5) Exceptions—(i) Base period for certain hospitals. * * * The per resident amount is based on the lower of the amount specified in paragraph (e)(5)(i)(A) or in paragraph (e)(5)(i)(B) of this section, subject to the provisions of paragraph (e)(5)(i)(C) of this section.

* * * * *

(B) Except as specified in paragraph (e)(5)(i)(C) of this section—

(1) For base periods that begin before October 1, 2002, the updated weighted mean value of per resident amounts of all hospitals located in the same geographic wage area, as that term is used in the prospective payment system under part 412 of this chapter.

(2) For base periods beginning on or after October 1, 2002, the weighted mean value of per resident amounts of all hospitals located in the same geographic wage area is calculated using all per resident amounts (including primary care and obstetrics and gynecology and nonprimary care) and FTE resident counts from the most recently settled cost reports of those teaching hospitals.

(C) If, under paragraph (e)(5)(i)(B)(1) or (e)(5)(i)(B)(2) of this section, there are fewer than three existing teaching hospitals with per resident amounts that can be used to calculate the weighted mean value per resident amount, for base periods beginning on or after October 1, 1997, the per resident amount equals the updated weighted mean value of per resident amounts of all hospitals located in the same census region as that term is used in § 412.62(f)(1)(i) of this chapter.

* * * * *

(g) Determining the weighted number of FTE residents. * * *

(5) For purposes of determining direct graduate medical education payment—

* * * * *

(iv) Hospitals that are part of the same affiliated group (as described under paragraph (b) of this section) may elect to apply the limit on an aggregate basis as described under paragraph (g)(7) of this section.

* * * * *

(7) A hospital may receive a temporary adjustment to its FTE cap, which is subject to the averaging rules under paragraph (g)(5)(iii) of this section, to reflect residents added or subtracted because the hospital is participating in an affiliated group (as defined under paragraph (b) of this section). Under this provision—

(i) Each hospital in the affiliated group must submit the affiliation agreement, as defined under paragraph (b) of this section, to the CMS fiscal intermediary servicing the hospital and send a copy to CMS's Central Office no later than July 1 of the residency program year during which the affiliation agreement will be in effect.

(ii) There must be a rotation of a resident(s) among the hospitals participating in the affiliated group during the term of the affiliation agreement such that more than one of the hospitals count the proportionate amount of the time spent by the resident(s) in their FTE resident counts. No resident may be counted in the aggregate as more than one FTE.

(iii) The net effect of the adjustments (positive or negative) on the affiliated hospitals' aggregate FTE cap for each affiliation agreement must not exceed zero.

(iv) If the affiliation agreement terminates for any reason, the FTE cap of each hospital in the affiliated group will revert to the individual hospital's pre-affiliation FTE cap that is determined under the provisions of paragraph (g)(4) of this section.

* * * * *

PART 482—CONDITIONS FOR PARTICIPATION FOR HOSPITALS

D. Part 482 is amended as follows:

1. The authority citation for part 482 continues to read as follows:

Authority: Secs. 1102 and 1871 of the Social Security Act (42 U.S.C. 1320 and 1395hh).

2. Section 482.12 is amended by adding a new paragraph (f)(3), to read as follows:

§ 482.12 Condition of participation: Governing body.

* * * * *

(f) Standard: Emergency services. * * *

(3) If emergency services are provided at the hospital but are not provided at one or more off-campus departments of the hospital, the governing body of the hospital must assure that the medical staff has written policies and procedures in effect with respect to the off-campus department(s) for appraisal of emergencies and referral when appropriate.

PART 485—CONDITIONS OF PARTICIPATION: SPECIALIZED PROVIDERS

E. Part 485 is amended as follows:

1. The authority citation for Part 485 continues to read as follows:

Authority: Secs. 1102 and 1871 of the Act (42 U.S.C. 1302 and 1396hh).

2. In § 485.645, the introductory text of paragraph (d) is republished and paragraph (d)(6) is revised, to read as follows.

§ 485.645 Special requirements for CAH providers of long-term care services (“swing-beds”).

* * * * *

(d) SNF services. The CAH is substantially in compliance with following SNF requirements contained in subpart B of part 483 of this chapter.

* * * * *

(6) Comprehensive assessment, comprehensive care plan, and discharge planning (§ 483.20(b), (k), and (l) of this chapter, except that the CAH is not required to use the resident assessment instrument (RAI) specified by the State that is required under § 483.20(b), or to comply with the requirements for frequency, scope, and number of assessments prescribed in § 413.343(b) of this chapter).

* * * * *

PART 489—PROVIDER AGREEMENTS AND SUPPLIER APPROVAL

F. Part 489 is amended as follows:

1. The authority citation for part 489 continues to read as follows:

Authority: Secs. 1102 and 1871 of the Act (42 U.S.C. 1302 and 1395hh).

2. Section 489.24 is amended by—

A. Revising paragraph (a).

B. Republishing the introductory text of paragraph (b) and revising the definitions of “Comes to the emergency department” and “Hospital with an emergency department”.

C. Adding definitions of “Dedicated emergency department”, “Hospital property”, and “Patient” in alphabetical order under paragraph (b).

D. Under the definition of “Emergency medical condition” under paragraph (b), redesignating paragraphs (i), (i)(A), (i)(B), (i)(C), (ii), (ii)(A), and (ii)(B) as paragraphs (1), (1)(i), (1)(ii), (1)(iii), (2), (2)(i), and (2)(ii), respectively.

E. Under the definition of “Participating hospital” under paragraph (b), redesignating paragraphs (i) and (ii) as paragraphs (1) and (2), respectively.

F. Under the definitions of “Stabilized” and “To stabilize” under paragraph (b), “paragraph (i)” is removed and “paragraph (1)” is added in its place; and “paragraph (ii)” is removed and “paragraph (2)” is added in its place.

G. Removing paragraph (i); and redesignating paragraph (c) through (h) as paragraphs (d) through (i), respectively.

H. Adding a new paragraph (c).

I. Revising newly redesignated paragraph (d).

J. Adding a new paragraph (j).

K. Making the following cross-reference changes:

i. In redesignated paragraph (e)(1)(i), “paragraph (d)(2)” is removed and “paragraph (e)(2)” is added in its place.

ii. In redesignated paragraph (e)(1)(ii)(C), “paragraph (d)(1)(ii)(B)” is removed and “paragraph (e)(1)(ii)(B)” is added in its place.

iii. In redesignated paragraph (e)(2)(iii), “paragraph (d)(1)(ii)” is removed and “paragraph (e)(1)(ii)” is added in its place.

iv. In redesignated paragraph (e)(2)(iii), “paragraph (f)” is removed and “paragraph (g)” is added in its place.

v. In redesignated paragraph (e)(3), “paragraph (d)(1)(ii)(C)” is removed and “paragraph (e)(1)(ii)(C) is added in its place.

vi. In redesignated paragraph (g), “paragraph (a) through (e)” is removed and “paragraphs (a) through (f)” is added in its place.

vii. In redesignated paragraph (h)(1), “paragraph (g)(3)” is removed and “paragraph (h)(3)” is added in its place; and “paragraph (g)(2)(iv) and (v)” is removed and “paragraphs (h)(2)(iv) and (v)” is added in its place.

viii. In redesignated paragraph (h)(2) introductory text, “paragraph (g)(1)” is removed and “paragraph (h)(1)” is added in its place.

ix. In redesignated paragraph (h)(2)(iii)(B), “paragraph (g)(2)(iii)(A)” is removed and “paragraph (h)(2)(iii)(A)” is added in its place.

x. In redesignated paragraph (h)(2)(vi), “paragraph (g)(2)(v)” is removed and “paragraph (h)(2)(v)” is added in its place.

xi. In redesignated paragraph (h)(4), “paragraph (g)” is removed and “paragraph (h)” is added in its place; and “paragraph (g)(2)(v)” is removed and “paragraph (h)(2)(v)” is added in its place.

The additions and revisions read as follows:

§ 489.24 Special responsibilities of Medicare hospitals in emergency cases.

(a) Application. In the case of a hospital that has an emergency department, if an individual (whether or not eligible for Medicare benefits and regardless of ability to pay) “comes to the emergency department”, as defined in paragraph (b) of this section, the hospital must—

(1) Provide an appropriate medical screening examination within the capability of the hospital's emergency department, including ancillary services routinely available to the emergency department, to determine whether or not an emergency medical condition exists. The examination must be conducted by an individual(s) determined qualified by hospital bylaws or rules and regulations and who meet the requirements of § 482.55 of this chapter concerning emergency services personnel and direction; and

(2) If an emergency medical condition is determined to exist, provide any necessary stabilizing treatment, as defined in paragraph (d) of this section, or an appropriate transfer as defined in paragraph (e) of this section.

(b) Definitions. As used in this subpart—

* * * * *

Comes to the emergency department means, with respect to an individual who is not a patient, the individual—

(1) Has presented at a hospital's dedicated emergency department, as defined in this section, and requests examination or treatment for a medical condition, or has such a request made on his or her behalf. In the absence of such a request by or on behalf of the individual, a request on behalf of the individual will be considered to exist if a prudent layperson observer would believe, based on the individual's appearance or behavior, that the individual needs examination or treatment for a medical condition;

(2) Has presented on hospital property, as defined in this section, other than the dedicated emergency department, and requests examination or treatment for what may be an emergency medical condition, or has such a request made on his or her behalf (except for certain outpatients as specified in paragraph (d)(3) of this section). In the absence of such a request by or on behalf of the individual, a request on behalf of the individual will be considered to exist if a prudent layperson observer would believe, based on the individual's appearance or behavior, that the individual needs emergency examination or treatment;

(3) Is in an ambulance owned and operated by the hospital for presentation for examination and treatment for a medical condition at a hospital's dedicated emergency department, even if the ambulance is not on hospital grounds. This provision does not apply if the ambulance is operating under communitywide EMS protocols that direct it to transport the individual to a hospital other than the hospital that owns the ambulance; for example, to the nearest hospital. In this latter case, the individual is considered to have come to the emergency department of the hospital to which the individual is transported, at the time the individual is brought onto hospital property; or

(4) Is in a nonhospital-owned ambulance on hospital property for presentation for examination and treatment for a medical condition at a hospital's dedicated emergency department. An individual in a nonhospital-owned ambulance off hospital property is not considered to have come to the hospital's emergency department, even if a member of the ambulance staff contacts the hospital by telephone or telemetry communications and informs the hospital that they want to transport the individual to the hospital for examination and treatment. In the latter circumstance, the hospital may deny access if it is in “diversionary status,” that is, it does not have the staff or facilities to accept any additional emergency patients. If, however, the ambulance staff disregards the hospital's instructions and transports the individual onto hospital property, the individual is considered to have come to the emergency department.

Dedicated emergency department means a specially equipped and staffed area of the hospital that is used a significant portion of the time for the initial evaluation and treatment of outpatients for emergency medical conditions, as defined in this section, and that is located—

(1) On the main hospital campus; or

(2) Off the main hospital campus and is treated by Medicare under § 413.65(b) of this chapter as a department of the hospital.

* * * * *

Hospital property means the entire main hospital campus as defined in § 413.65(b) of this chapter, including the parking lot, sidewalk, and driveway, but excluding other areas or structures that are located within 250 yards of the hospital's main building but are not part of the hospital, such as physician offices, rural health centers, skilled nursing facilities, or other entities that participate separately under Medicare, or restaurants, shops, or other nonmedical facilities.

Hospital with an emergency department means a hospital that offers services for emergency medical conditions (as defined in this paragraph (b)) within its capability to do so, including a hospital that offers these services at locations other than its main hospital campus.

* * * * *

Patient, for purposes of this section, means an individual who is either an outpatient as defined in § 410.2 of this chapter, or is receiving inpatient hospital services as defined in § 409.10(b) of this chapter.

* * * * *

(c) Use of dedicated emergency department for nonemergency services. If an individual comes to a hospital's dedicated emergency department and a request is made on his or her behalf for examination or treatment for a medical condition, but the nature of the request makes it clear that the medical condition is not of an emergency nature, the hospital is required only to perform such screening as would be appropriate for any individual presenting in that manner, to determine that the individual does not have an emergency medical condition.

(d) Necessary stabilizing treatment for emergency medical conditions.—(1) General. If any individual (whether or not eligible for Medicare benefits) comes to a hospital and the hospital determines that the individual has an emergency medical condition, the hospital must provide either—

(i) Within the capabilities of the staff and facilities available at the hospital, for further medical examination and treatment as required to stabilize the medical condition; or

(ii) For transfer of the individual to another medical facility in accordance with paragraph (e) of this section.

(2) Application to inpatients—admitted emergency patients.

(i) When an individual has been screened under paragraph (a) of this section and found to have an emergency medical condition, and the individual has not been stabilized as defined in paragraph (b) of this section, the provisions of this section would apply, even if the hospital admits the patient as an inpatient. Admitting an individual whose emergency medical condition has not been stabilized does not relieve the hospital of further responsibility to the individual under this section.

(ii) If a hospital admits an individual with an unstable emergency medical condition for stabilizing treatment, as an inpatient, stabilizes that individual's emergency medical condition, and this period of stability is documented by relevant clinical data in the individual's medical record, the hospital has satisfied its special responsibilities under this section with respect to that individual. If the patient is stable for a transfer of the type usually undertaken with respect to patients having the same medical conditions, the hospital's special responsibilities under this section are satisfied, even if no transfer occurs and the individual remains at the hospital as an inpatient for followup care. If, after stabilization, the individual who was admitted as an inpatient again has an apparent decline of his or her medical condition, either as a result of the injury or illness that created the emergency for which he or she initially came to the dedicated emergency department or as a result of another injury or illness, the hospital must comply with the conditions of participation for hospitals under part 482 of this chapter but has no further responsibility under this section with respect to the individual.

(iii) A hospital has no responsibility under this section with respect to an inpatient who was admitted for elective (nonemergency) diagnosis or treatment. If such an inpatient has an abrupt deterioration of his or her medical condition after admission, the hospital must comply with the conditions of participation for hospitals under part 482 of this chapter and is not required to comply with the special responsibilities of this section.

(3) Refusal to consent to treatment. A hospital meets the requirements of paragraph (d)(1)(i) of this section with respect to an individual if the hospital offers the individual the further medical examination and treatment described in that paragraph and informs the individual (or a person acting on the individual's behalf) of the risks and benefits to the individual of the examination and treatment, but the individual (or a person acting on the individual's behalf) refuses to consent to the examination and treatment. The medical record must contain a description of the examination, treatment, or both if applicable, that was refused by or on behalf of the individual. The hospital must take all reasonable steps to secure the individual's written informed refusal (or that of the person acting on his or her behalf). The written document should indicate that the person has been informed of the risks and benefits of the examination or treatment, or both.

(4) Delay in examination or treatment. (i) A participating hospital may not delay providing an appropriate medical screening examination required under paragraph (a) of this section or further medical examination and treatment required under paragraphs (d)(1) and (d)(2) of this section in order to inquire about the individual's method of payment or insurance status.

(ii) A participating hospital may not seek, or direct a patient to seek, authorization from the individual's insurance company for screening or stabilization services to an individual until after the hospital has provided the appropriate medical screening examination required under paragraph (a) of this section, and initiated any further medical examination and treatment that may be required to stabilize the emergency medical condition under paragraphs (d)(1) and (d)(2) of this section.

(iii) An emergency physician is not precluded from contacting the patient's physician at any time to seek advice regarding the patient's medical history and needs that may be relevant to the medical treatment and screening of the patient, as long as this consultation does not inappropriately delay services required under paragraph (a) or paragraphs (d)(1) and (d)(2) of this section.

(5) Refusal to consent to transfer. A hospital meets the requirements of paragraph (d)(1)(ii) of this section with respect to an individual if the hospital offers to transfer the individual to another medical facility in accordance with paragraph (e) of this section and informs the individual (or a person acting on his or her behalf) of the risks and benefits to the individual of the transfer, but the individual (or a person acting on the individual's behalf) refuses to consent to the transfer. The hospital must take all reasonable steps to secure the individual's written informed refusal (or that of a person acting on his or her behalf). The written document must indicate the person has been informed of the risks and benefits of the transfer and state the reasons for the individual's refusal. The medical record must contain a description of the proposed transfer that was refused by or on behalf of the individual.

(6) Hospital responsibility for communication with Medicare+Choice organizations after stabilization of an emergency medical condition. When an enrollee of a Medicare+Choice organization who is treated for an emergency medical condition is stabilized and needs further hospital care, the hospital must promptly contact the Medicare+Choice organization to obtain preapproval of the further hospital care, consistent with the provisions of § 422.113 of this chapter.

* * * * *

(j) Availability of on-call physicians. Each hospital must maintain an on-call list of physicians on its medical staff in a manner that best meets the needs of the hospital's patients. Physicians, including specialists and subspecialists, are not required to be on call at all times. The hospital must have written policies and procedures in place to respond to situations in which a particular specialty is not available or the on-call physician cannot respond because of circumstances beyond the physician's control.

(Catalog of Federal Domestic Assistance Program No. 93.773, Medicare—Hospital Insurance)

Dated: April 24, 2002.
Thomas A. Scully,
Administrator, Centers for Medicare & Medicaid Services.
Dated: April 26, 2002.
Tommy G. Thompson,
Secretary.

[Editorial Note: The following Addendum and appendixes will not appear in the Code of Federal Regulations.]

Addendum—Proposed Schedule of Standardized Amounts Effective with Discharges Occurring On or After October 1, 2002 and Update Factors and Rate-of-Increase Percentages Effective With Cost Reporting Periods Beginning On or After October 1, 2002

I. Summary and Background

In this Addendum, we are setting forth the proposed amounts and factors for determining prospective payment rates for Medicare hospital inpatient operating costs and Medicare hospital inpatient capital-related costs. We are also setting forth proposed rate-of-increase percentages for updating the target amounts for hospitals and hospital units excluded from the acute care hospital inpatient prospective payment system.

For discharges occurring on or after October 1, 2002, except for SCHs, MDHs, and hospitals located in Puerto Rico, each hospital's payment per discharge under the acute care hospital inpatient prospective payment system will be based on 100 percent of the Federal national rate.

SCHs are paid based on whichever of the following rates yields the greatest aggregate payment: the Federal national rate; the updated hospital-specific rate based on FY 1982 costs per discharge; the updated hospital-specific rate based on FY 1987 costs per discharge; or 75 percent of the updated hospital-specific rate based on FY 1996 costs per discharge, plus the greater of 25 percent of the updated FY 1982 or FY 1987 hospital-specific rate or 50 percent of the Federal DRG payment rate. Section 213 of Public Law 106-554 amended section 1886(b)(3) of the Act to allow all SCHs to rebase their hospital-specific rate based on their FY 1996 costs per discharge.

Under section 1886(d)(5)(G) of the Act, MDHs are paid based on the Federal national rate or, if higher, the Federal national rate plus 50 percent of the difference between the Federal national rate and the updated hospital-specific rate based on FY 1982 or FY 1987 costs per discharge, whichever is higher.

For hospitals in Puerto Rico, the payment per discharge is based on the sum of 50 percent of a Puerto Rico rate and 50 percent of a Federal national rate. (See section II.D.3. of this Addendum for a complete description.)

As discussed below in section II. of this Addendum, we are proposing to make changes in the determination of the prospective payment rates for Medicare inpatient operating costs for FY 2003. The changes, to be applied prospectively effective with discharges occurring on or after October 1, 2002, would affect the calculation of the Federal rates. In section III. of this Addendum, we discuss our proposed changes for determining the prospective payment rates for Medicare inpatient capital-related costs for FY 2003. Section IV. of this Addendum sets forth our proposed changes for determining the rate-of-increase limits for hospitals excluded from the prospective payment system for FY 2003. The tables to which we refer in the preamble to this final rule are presented at the end of this Addendum in section V.

II. Proposed Changes to Prospective Payment Rates for Hospital Inpatient Operating Costs for FY 2003

The basic methodology for determining prospective payment rates for hospital inpatient operating costs is set forth at § 412.63. The basic methodology for determining the prospective payment rates for hospital inpatient operating costs for hospitals located in Puerto Rico is set forth at §§ 412.210 and 412.212. Below, we discuss the factors used for determining the prospective payment rates.

In summary, the proposed standardized amounts set forth in Tables 1A and 1C of section V. of this Addendum reflect—

• Updates of 2.75 percent for all areas (that is, the market basket percentage increase of 3.3 percent minus 0.55 percentage points);

• An adjustment to ensure the proposed DRG recalibration and wage index update and changes are budget neutral, as provided for under sections 1886(d)(4)(C)(iii) and (d)(3)(E) of the Act, by applying new budget neutrality adjustment factors to the large urban and other standardized amounts;

• An adjustment to ensure the effects of geographic reclassification are budget neutral, as provided for in section 1886(d)(8)(D) of the Act, by removing the FY 2002 budget neutrality factor and applying a revised factor;

• An adjustment to apply the new outlier offset by removing the FY 2002 outlier offsets and applying a new offset; and

• An adjustment in the Puerto Rico standardized amounts to reflect the application of a Puerto Rico-specific wage index.

A. Calculation of Adjusted Standardized Amounts

1. Standardization of Base-Year Costs or Target Amounts

Section 1886(d)(2)(A) of the Act required the establishment of base-year cost data containing allowable operating costs per discharge of inpatient hospital services for each hospital. The preamble to the September 1, 1983 interim final rule (48 FR 39763) contained a detailed explanation of how base-year cost data were established in the initial development of standardized amounts for the acute care hospital inpatient prospective payment system.

Section 1886(d)(9)(B)(i) of the Act required us to determine the Medicare target amounts for each hospital located in Puerto Rico for its cost reporting period beginning in FY 1987. The September 1, 1987 final rule (52 FR 33043, 33066) contains a detailed explanation of how the target amounts were determined and how they are used in computing the Puerto Rico rates.

The standardized amounts are based on per discharge averages of adjusted hospital costs from a base period or, for Puerto Rico, adjusted target amounts from a base period, updated and otherwise adjusted in accordance with the provisions of section 1886(d) of the Act. Sections 1886(d)(2)(B) and (d)(2)(C) of the Act require us to update base-year per discharge costs for FY 1984 and then standardize the cost data in order to remove the effects of certain sources of cost variations among hospitals. These effects include case-mix, differences in area wage levels, cost-of-living adjustments for Alaska and Hawaii, indirect medical education costs, and costs to hospitals serving a disproportionate share of low-income patients.

Under sections 1886(d)(2)(H) and (d)(3)(E) of the Act, in making payments under the acute care hospital inpatient prospective payment system, the Secretary estimates from time to time the proportion of costs that are wages and wage-related costs. Since October 1, 1997, when the market basket was last revised, we have considered 71.1 percent of costs to be labor-related for purposes of the acute care hospital inpatient prospective payment system. As discussed in section IV. of the preamble to this proposed rule, we are proposing to revise the labor share of the standardized amount (the proportion adjusted by the wage index) to be 72.5 percent. The average labor share in Puerto Rico is 71.3 percent. We are proposing to revise the discharge-weighted national standardized amount for Puerto Rico to reflect the proportion of discharges in large urban and other areas from the FY 2001 MedPAR file.

2. Computing Large Urban and Other Area Averages

Sections 1886(d)(2)(D) and (d)(3) of the Act require the Secretary to compute two average standardized amounts for discharges occurring in a fiscal year: one for hospitals located in large urban areas and one for hospitals located in other areas. In addition, under sections 1886(d)(9)(B)(iii) and (d)(9)(C)(i) of the Act, the average standardized amount per discharge must be determined for hospitals located in large urban and other areas in Puerto Rico. Hospitals in Puerto Rico are paid a blend of 50 percent of the applicable Puerto Rico standardized amount and 50 percent of a national standardized payment amount.

Section 1886(d)(2)(D) of the Act defines “urban area” as those areas within a Metropolitan Statistical Area (MSA). A “large urban area” is defined as an urban area with a population of more than 1 million. In addition, section 4009(i) of Public Law 100-203 provides that a New England County Metropolitan Area (NECMA) with a population of more than 970,000 is classified as a large urban area. As required by section 1886(d)(2)(D) of the Act, population size is determined by the Secretary based on the latest population data published by the Bureau of the Census. Urban areas that do not meet the definition of a “large urban area” are referred to as “other urban areas.” Areas that are not included in MSAs are considered “rural areas” under section 1886(d)(2)(D) of the Act. Payment for discharges from hospitals located in large urban areas will be based on the large urban standardized amount. Payment for discharges from hospitals located in other urban and rural areas will be based on the other standardized amount.

Based on the latest available population estimates published by the Bureau of the Census, 63 areas meet the criteria to be defined as large urban areas for FY 2003. These areas are identified in Table 4A.

3. Updating the Average Standardized Amounts

Under section 1886(d)(3)(A) of the Act, we update the average standardized amounts each year. In accordance with section 1886(d)(3)(A)(iv) of the Act, we are proposing to update the large urban areas' and the other areas' average standardized amounts for FY 2003 using the applicable percentage increases specified in section 1886(b)(3)(B)(i) of the Act. Section 1886(b)(3)(B)(i)(XVIII) of the Act specifies that the update factor for the standardized amounts for FY 2003 is equal to the market basket percentage increase minus 0.55 percentage points for hospitals in all areas.

The percentage change in the market basket reflects the average change in the price of goods and services purchased by hospitals to furnish inpatient care. The most recent forecast of the hospital market basket increase for FY 2003 is 3.3 percent. Thus, for FY 2003, the update to the average standardized amounts equals 2.75 percent for hospitals in all areas.

As in the past, we are adjusting the FY 2002 standardized amounts to remove the effects of the FY 2002 geographic reclassifications and outlier payments before applying the FY 2003 updates. That is, we are increasing the standardized amounts to restore the reductions that were made for the effects of geographic reclassification and outliers. We then apply the new offsets to the standardized amounts for outliers and geographic reclassifications for FY 2003.

Although the update factors for FY 2003 are set by law, we are required by section 1886(e)(3) of the Act to report to the Congress our initial recommendation of update factors for FY 2003 for both prospective payment hospitals and hospitals excluded from the prospective payment system. For general information purposes, we have included the report to Congress as Appendix B to this proposed rule. Our proposed recommendation on the update factors (which is required by sections 1886(e)(4)(A) and (e)(5)(A) of the Act) is set forth as Appendix C to this proposed rule.

4. Other Adjustments to the Average Standardized Amounts

a. Recalibration of DRG Weights and Updated Wage Index—Budget Neutrality Adjustment

Section 1886(d)(4)(C)(iii) of the Act specifies that, beginning in FY 1991, the annual DRG reclassification and recalibration of the relative weights must be made in a manner that ensures that aggregate payments to hospitals are not affected. As discussed in section II. of the preamble, we normalized the recalibrated DRG weights by an adjustment factor, so that the average case weight after recalibration is equal to the average case weight prior to recalibration. However, equating the average case weight after recalibration to the average case weight before recalibration does not necessarily achieve budget neutrality with respect to aggregate payments to hospitals because payments to hospitals are affected by factors other than average case weight. Therefore, as we have done in past years, we are proposing to make a budget neutrality adjustment to ensure that the requirement of section 1886(d)(4)(C)(iii) of the Act is met.

Section 1886(d)(3)(E) of the Act requires us to update the hospital wage index on an annual basis beginning October 1, 1993. This provision also requires us to make any updates or adjustments to the wage index in a manner that ensures that aggregate payments to hospitals are not affected by the change in the wage index.

We note, however, that section 4410 of Public Law 105-33 provides that, for discharges on or after October 1, 1997, the area wage index applicable to any hospital that is not located in a rural area may not be less than the area wage index applicable to hospitals located in rural areas in that State. This provision is required by section 4410(b) of Public Law 105-33 to be budget neutral.

To comply with the requirement of section 1886(d)(4)(C)(iii) of the Act that DRG reclassification and recalibration of the relative weights be budget neutral, and the requirement in section 1886(d)(3)(E) of the Act that the updated wage index be budget neutral, we used FY 2001 discharge data to simulate payments and compared aggregate payments using the FY 2002 relative weights and wage index to aggregate payments using the proposed FY 2003 relative weights and wage index. The same methodology was used for the FY 2002 budget neutrality adjustment. Based on this comparison, we computed a proposed budget neutrality adjustment factor equal to 1.001026. We also adjust the Puerto Rico-specific standardized amounts for the effect of DRG reclassification and recalibration. We computed a budget neutrality adjustment factor for Puerto Rico-specific standardized amounts equal to 1.002689. These budget neutrality adjustment factors are applied to the standardized amounts without removing the effects of the FY 2002 budget neutrality adjustments. We do not remove the prior budget neutrality adjustment because estimated aggregate payments after the changes in the DRG relative weights and wage index should equal estimated aggregate payments prior to the changes. If we removed the prior year adjustment, we would not satisfy this condition.

In addition, we are proposing to apply these same adjustment factors to the hospital-specific rates that are effective for cost reporting periods beginning on or after October 1, 2002. (See the discussion in the September 4, 1990 final rule (55 FR 36073).)

b. Reclassified Hospitals—Budget Neutrality Adjustment

Section 1886(d)(8)(B) of the Act provides that, effective with discharges occurring on or after October 1, 1988, certain rural hospitals are deemed urban. In addition, section 1886(d)(10) of the Act provides for the reclassification of hospitals based on determinations by the Medicare Geographic Classification Review Board (MGCRB). Under section 1886(d)(10) of the Act, a hospital may be reclassified for purposes of the standardized amount or the wage index, or both.

Under section 1886(d)(8)(D) of the Act, the Secretary is required to adjust the standardized amounts so as to ensure that aggregate payments under the acute care hospital inpatient prospective payment system after implementation of the provisions of sections 1886(d)(8)(B) and (C) and 1886(d)(10) of the Act are equal to the aggregate prospective payments that would have been made absent these provisions. To calculate this budget neutrality factor, we used FY 2001 discharge data to simulate payments, and compared total prospective payments (including IME and DSH payments) prior to any reclassifications to total prospective payments after reclassifications. Based on these simulations, we are applying a proposed adjustment factor of 0.990536 to ensure that the effects of reclassification are budget neutral.

The adjustment factor is applied to the standardized amounts after removing the effects of the FY 2002 budget neutrality adjustment factor. We note that the proposed FY 2003 adjustment reflects wage index and standardized amount reclassifications approved by the MGCRB or the Administrator as of February 28, 2002, and the effects of section 304 of Public Law 106-554 to extend wage index reclassifications for 3 years. The effects of any additional reclassification changes that occur as a result of appeals and reviews of the MGCRB decisions for FY 2003 or from a hospital's request for the withdrawal of a reclassification request for FY 2003 will be reflected in the final budget neutrality adjustment required under section 1886(d)(8)(D) of the Act and published in the final rule for FY 2003.

c. Outliers

Section 1886(d)(5)(A) of the Act provides for payments in addition to the basic prospective payments for “outlier” cases, cases involving extraordinarily high costs (cost outliers). To qualify for outlier payments, a case must have costs above a threshold amount. To determine whether the costs of a case exceed the threshold, a hospital's cost-to-charge ratio is applied to the total covered charges for the case to convert the charges to costs. Payments for eligible cases are then made based on a marginal cost factor, which is a percentage of the costs above the threshold.

Under section 1886(d)(5)(A)(iv) of the Act, outlier payments for any year must be projected to be not less than 5 percent nor more than 6 percent of total operating DRG payments plus outlier payments. Section 1886(d)(3)(B) of the Act requires the Secretary to reduce both the large urban and other area national standardized amounts by the same factor to account for the estimated proportion of total DRG payments made to outlier cases. Similarly, section 1886(d)(9)(B)(iv) of the Act requires the Secretary to reduce the large urban and other standardized amounts applicable to hospitals in Puerto Rico to account for the estimated proportion of total DRG payments made to outlier cases.

i. FY 2003 outlier thresholds. For FY 2002, the threshold was equal to the prospective payment rate for the DRG plus any IME and DSH payments plus $21,025. The marginal cost factor for cost outliers (the percent of costs paid after costs for the case exceed the threshold) was 80 percent.

For FY 2003, we are proposing to establish a fixed loss cost outlier threshold equal to the prospective payment rate for the DRG plus any IME and DSH payments, and any add-on payments for new technology, plus $33,450. This single threshold would be applicable to qualify for both operating and capital outlier payments. We are proposing to maintain the marginal cost factor for cost outliers at 80 percent.

To calculate the proposed FY 2003 outlier thresholds, we simulated payments by applying proposed FY 2003 rates and policies to the December 2001 update of the FY 2001 MedPAR file and the December 2001 update of the Provider-Specific File. Therefore, it is necessary to inflate the charges on the MedPAR claims by 2 years.

Previously, inflation factors have been calculated by measuring the percent change in costs using the two most recent available cost report files. For example, the FY 2002 threshold was determined using the rate of cost increase measured using costs from hospitals' FY 1998 and FY 1999 cost reports. However, at the time of this proposed rule, the FY 2000 cost reports are not available to produce an updated cost inflation factor due to processing delays associated with implementing the hospital outpatient prospective payment system.

Rather than use the rate of cost increase from hospitals' FY 1998 and FY 1999 cost reports to project the rate of increase from FY 2001 to FY 2003, we are proposing to use a 3-year moving average of the rate of change in prior years to estimate the annual rates of increase from FY 2001 to FY 2003. The calculation is shown in the table below.

For example, the rate of change in cost per case from 1998 to 1999 was 1.0242 percent. This rate of change is then subtracted by the rate of change from 1997 to 1998 (1.0237) to calculate a difference in change of 0.005. A 3-year average of the annual rates of change was then computed based on the difference in the percent changes from the 3 most recent prior years. The difference in change for 1997 to 1998 is then averaged with the differences for 1996 to 1997, and for 1995 to 1996, to calculate a 3-year average of 0.0180. To project percent changes in costs for FY 2000 through FY 2003, the average of the differences in the percent changes for the 3 most recent years (0.0180) was added to the percent change in cost per case for the previous year (1.0242) to estimate the percent change in costs between fiscal years. This proposed methodology resulted in an estimated change of 1.066 (6.6 percent increase) for FY 2001 to FY 2002 and 1.079 (7.9 percent increase) for FY 2002 to FY 2003.

Cost reports begin in FY | Cost/case | Rate of change in cost per case | Difference in change | 3-year moving average of differences in change
1995 | 5818.50 |  |  |
1996 | 5644.52 | 0.9701 |  |
1997 | 5666.03 | 1.0038 | 0.0337 |
1998 | 5800.34 | 1.0237 | 0.0199 |
1999 | 5940.85 | 1.0242 | 0.0005 |
2000 |  | 1.0423 | 0.0180 | 0.0180
2001 |  | 1.0551 | 0.0128 | 0.0128
2002 |  | 1.0655 | 0.0105 | 0.0105
2003 |  | 1.0793 | 0.0138 | 0.0138

Based on this proposed methodology, we are proposing a 2-year cost inflation factor of 15.0 percent to inflate FY 2001 charges to FY 2003, determined by multiplying the annual projected inflation factors for FYs 2002 and 2003 of 1.0655 and 1.0793.

Using FY 2001 cases now available, our analysis indicates that this 3-year moving average methodology would have resulted in FY 2002 outlier payments very close to 5.1 percent of total operating DRG payments and outlier payments (the current projection of FY 2002 outlier payments is 6.8 percent of total DRG and outlier payments—see discussion below). We intend to update our analysis of FY 2002 outlier payments using actual FY 2002 claims available through March 2002 prior to publishing the final rule by August 1.

We want to emphasize that we are making this proposal due to the unavailability of the FY 2000 cost reports. If the proposed methodology is ultimately adopted in the final rule for FY 2003, this would not necessarily mean that we would apply the same methodology in future fiscal years when updated cost report information becomes available.

ii. Other changes concerning outliers. In accordance with section 1886(d)(5)(A)(iv) of the Act, we calculated outlier thresholds so that outlier payments are projected to equal 5.1 percent of total operating DRG payments plus outlier payments. In accordance with section 1886(d)(3)(B), we reduced the proposed FY 2003 standardized amounts by the same percentage to account for the projected proportion of payments paid to outliers.

As stated in the September 1, 1993 final rule (58 FR 46348), we establish outlier thresholds that are applicable to both hospital inpatient operating costs and hospital inpatient capital-related costs. When we modeled the combined operating and capital outlier payments, we found that using a common set of thresholds resulted in a higher percentage of outlier payments for capital-related costs than for operating costs. We project that the proposed thresholds for FY 2003 would result in outlier payments equal to 5.1 percent of operating DRG payments and 5.4 percent of capital payments based on the Federal rate.

The proposed outlier adjustment factors to be applied to the standardized amounts for FY 2003 are as follows:

| Operating standardized amounts | Capital Federal rate
National | 0.949004 | 0.945957
Puerto Rico | 0.982910 | 0.980994

We apply the outlier adjustment factors after removing the effects of the FY 2002 outlier adjustment factors on the standardized amounts.

To determine whether a case qualifies for outlier payments, we apply hospital-specific cost-to-charge ratios to the total covered charges for the case. Operating and capital costs for the case are calculated separately by applying separate operating and capital cost-to-charge ratios, then these costs are combined to compare with the fixed-loss outlier threshold.

For those hospitals for which the fiscal intermediary computes operating cost-to-charge ratios lower than 0.200 or greater than 1.262, or capital cost-to-charge ratios lower than 0.012 or greater than 0.167, statewide average ratios would be used to calculate costs to determine whether a hospital qualifies for outlier payments.¹ Table 8A in section V. of this Addendum contains the proposed statewide average operating cost-to-charge ratios for urban hospitals and for rural hospitals for which the fiscal intermediary is unable to compute a hospital-specific cost-to-charge ratio within the above range. These statewide average ratios would replace the ratios published in the August 1, 2001 final rule (66 FR 40083). Table 8B contains comparable statewide average capital cost-to-charge ratios. We note that the cost-to-charge ratios in Tables 8A and 8B would be used during FY 2003 when hospital-specific cost-to-charge ratios based on the latest settled cost report are either not available or are outside the three standard deviations range.

¹ This range represents 3.0 standard deviations (plus or minus) from the mean of the log distribution of cost-to-charge ratios for all hospitals.

iii. FY 2001 and FY 2002 outlier payments. In the August 1, 2001 final rule (66 FR 39942), we stated that, based on available data, we estimated that actual FY 2001 outlier payments would be approximately 6.2 percent of actual total DRG payments. This was computed based on simulations using the March 2001 update of the Provider-Specific File and the March 2001 update of the FY 2000 MedPAR file (discharge data for FY 2000 bills). That is, the estimate of actual outlier payments did not reflect actual FY 2001 bills but instead reflected the application of FY 2001 rates and policies to available FY 2000 bills.

Our current estimate, using available FY 2001 bills, is that actual outlier payments for FY 2001 were approximately 7.6 percent of actual total DRG payments. Thus, the data indicate that, for FY 2001, the percentage of actual outlier payments relative to actual total payments is higher than we projected before FY 2001 (and thus exceeds the percentage by which we reduced the standardized amounts for FY 2001). Nevertheless, consistent with the policy and statutory interpretation we have maintained since the inception of the acute care hospital inpatient prospective payment system, we do not plan to recoup money and make retroactive adjustments to outlier payments for FY 2001. We note that the MedPAR file for FY 2001 discharges continues to be updated, and we will update our estimate of actual FY 2001 outlier payments as a percentage of total payments in the final rule.

We currently estimate that actual outlier payments for FY 2002 will be approximately 6.8 percent of actual total DRG payments, 1.7 percentage points higher than the 5.1 percent we projected in setting outlier policies for FY 2002. This estimate is based on simulations using the December 2001 update of the Provider-Specific File and the December 2001 update of the FY 2001 MedPAR file (discharge data for FY 2001 bills). We used these data to calculate an estimate of the actual outlier percentage for FY 2002 by applying FY 2002 rates and policies to available FY 2001 bills.

5. FY 2003 Standardized Amounts

The adjusted standardized amounts are divided into labor and nonlabor portions. Table 1A contains the two national standardized amounts that we are proposing to be applicable to all hospitals, except hospitals in Puerto Rico. As described in section II.A.1. of this Addendum, we are proposing to revise the labor share of the national standardized amount from 71.1 percent to 72.5 percent.

Under section 1886(d)(9)(A)(ii) of the Act, the Federal portion of the Puerto Rico payment rate is based on the discharge-weighted average of the national large urban standardized amount and the national other standardized amount (as set forth in Table 1A). The labor and nonlabor portions of the national average standardized amounts for Puerto Rico hospitals are set forth in Table 1C. This table also includes the Puerto Rico standardized amounts. The labor share applied to the Puerto Rico standardized amount is 71.3 percent.

B. Adjustments for Area Wage Levels and Cost of Living

Tables 1A and 1C, as set forth in this Addendum, contain the labor-related and nonlabor-related shares that are proposed to be used to calculate the prospective payment rates for hospitals located in the 50 States, the District of Columbia, and Puerto Rico. This section addresses two types of adjustments to the standardized amounts that are made in determining the proposed prospective payment rates as described in this Addendum.

1. Adjustment for Area Wage Levels

Sections 1886(d)(3)(E) and 1886(d)(9)(C)(iv) of the Act require that we make an adjustment to the labor-related portion of the national and Puerto Rico prospective payment rates, respectively, to account for area differences in hospital wage levels. This adjustment is made by multiplying the labor-related portion of the adjusted standardized amounts by the appropriate wage index for the area in which the hospital is located. In section III. of this preamble, we discuss the data and methodology for the proposed FY 2003 wage index. The proposed wage index is set forth in Tables 4A, 4B, 4C, and 4F of this Addendum. In section IV. of this preamble we discuss our proposed revised estimate of the labor-related portion of the standardized amounts.

2. Adjustment for Cost-of-Living in Alaska and Hawaii

Section 1886(d)(5)(H) of the Act authorizes an adjustment to take into account the unique circumstances of hospitals in Alaska and Hawaii. Higher labor-related costs for these two States are taken into account in the adjustment for area wages described above. For FY 2003, we are proposing to adjust the payments for hospitals in Alaska and Hawaii by multiplying the nonlabor portion of the standardized amounts by the appropriate adjustment factor contained in the table below. If the Office of Personnel Management releases revised cost-of-living adjustment factors before July 1, 2002, we will publish them in the final rule and use them in determining FY 2003 payments.

Table of Cost-of-Living Adjustment Factors, Alaska and Hawaii Hospitals
Alaska—All areas | 1.25
Hawaii:
County of Honolulu | 1.25
County of Hawaii | 1.165
County of Kauai | 1.2325
County of Maui | 1.2375
County of Kalawao | 1.2375

(The above factors are based on data obtained from the U.S. Office of Personnel Management.)

C. DRG Relative Weights

As discussed in section II. of the preamble, we have developed a classification system for all hospital discharges, assigning them into DRGs, and have developed relative weights for each DRG that reflect the resource utilization of cases in each DRG relative to Medicare cases in other DRGs. Table 5 of section V. of this Addendum contains the relative weights that we are proposing to use for discharges occurring in FY 2003. These factors have been recalibrated as explained in section II. of the preamble.

D. Calculation of Prospective Payment Rates for FY 2003

General Formula for Calculation of Prospective Payment Rates for FY 2003

The operating prospective payment rate for all hospitals paid under the acute-care, short-term inpatient prospective payment system located outside of Puerto Rico, except SCHs and MDHs, equals the Federal rate based on the amounts in Table 1A.

For FY 2003, the prospective payment rate for SCHs equals whichever of the following rates yields the greatest aggregate payment: the Federal rate, the updated hospital-specific rate based on FY 1982 cost per discharge, the updated hospital-specific rate based on FY 1987 cost per discharge, or, if qualified, 75 percent of the updated hospital-specific rate based on FY 1996 cost per discharge, plus the greater of 25 percent of the updated FY 1982 or FY 1987 hospital-specific rate, or 25 percent of the Federal rate. Section 1886(b)(3) of the Act, as amended, allows all SCHs to rebase their hospital-specific rate based on their FY 1996 cost per discharge.

The prospective payment rate for MDHs equals 100 percent of the Federal rate, or, if the greater of the updated FY 1982 hospital-specific rate or the updated FY 1987 hospital-specific rate is higher than the Federal rate, 100 percent of the Federal rate plus 50 percent of the difference between the applicable hospital-specific rate and the Federal rate.

The proposed prospective payment rate for Puerto Rico equals 50 percent of the Puerto Rico rate plus 50 percent of the national rate from Table 1C.

1. Federal Rate

For discharges occurring on or after October 1, 2002 and before October 1, 2003, except for SCHs, MDHs, and hospitals in Puerto Rico, payment under the acute-care inpatient prospective payment system is based exclusively on the Federal national rate.

The payment amount is determined as follows:

Step 1—Select the appropriate national standardized amount considering the location of the hospital (large urban or other) (see Table 1A in section V. of this Addendum).

Step 2—Multiply the labor-related portion of the standardized amount by the applicable wage index for the geographic area in which the hospital is located or the area to which the hospital is reclassified (see Tables 4A, 4B, and 4C of section V. of this Addendum).

Step 3—For hospitals in Alaska and Hawaii, multiply the nonlabor-related portion of the standardized amount by the appropriate cost-of-living adjustment factor.

Step 4—Add the amount from Step 2 and the nonlabor-related portion of the standardized amount (adjusted, if appropriate, under Step 3).

Step 5—Multiply the final amount from Step 4 by the relative weight corresponding to the appropriate DRG (see Table 5 of section V. of this Addendum).

2. Hospital-Specific Rate (Applicable Only to SCHs and MDHs)

a. Calculation of Hospital-Specific Rate

Section 1886(b)(3)(C) of the Act provides that SCHs are paid based on whichever of the following rates yields the greatest aggregate payment: the Federal rate, the updated hospital-specific rate based on FY 1982 costs per discharge, the updated hospital-specific rate based on FY 1987 costs per discharge, or, for FY 2003, 75 percent of the updated hospital-specific rate based on FY 1996 costs per discharge, plus the greater of 25 percent of the updated FY 1982 or FY 1987 hospital-specific rate or 25 percent of the Federal DRG payment rate.

Section 1886(d)(5)(G) of the Act provides that MDHs are paid based on whichever of the following rates yields the greatest aggregate payment: the Federal rate or the Federal rate plus 50 percent of the difference between the Federal rate and the greater of the updated hospital-specific rate based on FY 1982 and FY 1987 cost per discharge.

Hospital-specific rates have been determined for each of these hospitals based on either the FY 1982 cost per discharge, the FY 1987 cost per discharge or, for SCHs, the FY 1996 cost per discharge. For a more detailed discussion of the calculation of the hospital-specific rates, we refer the reader to the September 1, 1983 interim final rule (48 FR 39772); the April 20, 1990 final rule with comment (55 FR 15150); the September 4, 1990 final rule (55 FR 35994); and the August 1, 2000 final rule (65 FR 47082). In addition, for both SCHs and MDHs, the hospital-specific rate is adjusted by the budget neutrality adjustment factor (that is, by 1.001026) as discussed in section II.A.4.a. of this Addendum. The resulting rate is used in determining the payment rate an SCH or MDH would be paid for its discharges beginning on or after October 1, 2002.

b. Updating the FY 1982, FY 1987, and FY 1996 Hospital-Specific Rates for FY 2003

We are proposing to increase the hospital-specific rates by 2.75 percent (the hospital market basket percentage increase minus 0.55 percentage points) for SCHs and MDHs for FY 2003. Section 1886(b)(3)(C)(iv) of the Act provides that the update factor applicable to the hospital-specific rates for SCHs equal the update factor provided under section 1886(b)(3)(B)(iv) of the Act, which, for SCHs in FY 2003, is the market basket rate of increase minus 0.55 percentage points. Section 1886(b)(3)(D) of the Act provides that the update factor applicable to the hospital-specific rates for MDHs equals the update factor provided under section 1886(b)(3)(B)(iv) of the Act, which, for FY 2003, is the market basket rate of increase minus 0.55 percentage points.

3. General Formula for Calculation of Prospective Payment Rates for Hospitals Located in Puerto Rico Beginning On or After October 1, 2002 and Before October 1, 2003

a. Puerto Rico Rate

The Puerto Rico prospective payment rate is determined as follows:

Step 1—Select the appropriate adjusted average standardized amount considering the large urban or other designation of the hospital (see Table 1C of section V. of the Addendum).

Step 2—Multiply the labor-related portion of the standardized amount by the appropriate Puerto Rico-specific wage index (see Table 4F of section VI. of the Addendum).

Step 3—Add the amount from Step 2 and the nonlabor-related portion of the standardized amount.

Step 4—Multiply the result in Step 3 by 50 percent.

Step 5—Multiply the amount from Step 4 by the appropriate DRG relative weight (see Table 5 of section V. of the Addendum).

b. National Rate

The national prospective payment rate is determined as follows:

Step 1—Multiply the labor-related portion of the national average standardized amount (see Table 1C of section V. of the Addendum) by the appropriate national wage index (see Tables 4A and 4B of section VI. of the Addendum).

Step 2—Add the amount from Step 1 and the nonlabor-related portion of the national average standardized amount.

Step 3—Multiply the result in Step 2 by 50 percent.

Step 4—Multiply the amount from Step 3 by the appropriate DRG relative weight (see Table 5 of section V. of the Addendum).

The sum of the Puerto Rico rate and the national rate computed above equals the prospective payment for a given discharge for a hospital located in Puerto Rico.

III. Proposed Changes to Payment Rates for Acute Care Hospital Inpatient Capital-Related Costs for FY 2003

The prospective payment system for acute care hospital inpatient capital-related costs was implemented for cost reporting periods beginning on or after October 1, 1991. Effective with that cost reporting period and during a 10-year transition period extending through FY 2001, acute care hospital inpatient capital-related costs were paid on the basis of an increasing proportion of the capital prospective payment system Federal rate and a decreasing proportion of a hospital's historical costs for capital.

The basic methodology for determining Federal capital prospective rates is set forth in regulations at §§ 412.308 through 412.352. Below we discuss the factors that we are proposing to use to determine the capital Federal rate for FY 2003, which will be effective for discharges occurring on or after October 1, 2002. The 10-year transition period ended with hospital cost reporting periods beginning on or after October 1, 2001 (FY 2002). Therefore, for cost reporting periods beginning in FY 2002, all hospitals (except “new” hospitals under § 412.324(b) and under proposed § 412.304(c)(2)) are paid based on 100 percent of the capital Federal rate.

For FY 1992, we computed the standard Federal payment rate for capital-related costs under the prospective payment system by updating the FY 1989 Medicare inpatient capital cost per case by an actuarial estimate of the increase in Medicare inpatient capital costs per case. Each year after FY 1992, we update the standard Federal rate, as provided in § 412.308(c)(1), to account for capital input price increases and other factors. Also, § 412.308(c)(2) provides that the Federal rate is adjusted annually by a factor equal to the estimated proportion of outlier payments under the Federal rate to total capital payments under the Federal rate. In addition, § 412.308(c)(3) requires that the Federal rate be reduced by an adjustment factor equal to the estimated proportion of payments for (regular and special) exceptions under § 412.348. Furthermore, § 412.308(c)(4)(ii) requires that the Federal rate be adjusted so that the annual DRG reclassification and the recalibration of DRG weights and changes in the geographic adjustment factor are budget neutral. For FYs 1992 through 1995, § 412.352 required that the Federal rate also be adjusted by a budget neutrality factor so that aggregate payments for inpatient hospital capital costs were projected to equal 90 percent of the payments that would have been made for capital-related costs on a reasonable cost basis during the fiscal year. That provision expired in FY 1996. Section 412.308(b)(2) describes the 7.4 percent reduction to the rate that was made in FY 1994, and § 412.308(b)(3) describes the 0.28 percent reduction to the rate made in FY 1996 as a result of the revised policy of paying for transfers. In the FY 1998 final rule with comment period (62 FR 45966), we implemented section 4402 of Public Law 105-33, which requires that, for discharges occurring on or after October 1, 1997, and before October 1, 2002, the unadjusted standard Federal rate is reduced by 17.78 percent. As we explained in section VI.D. of the preamble of this proposed rule, a small part of that reduction will be restored effective October 1, 2002.

To determine the appropriate budget neutrality adjustment factor and the regular exceptions payment adjustment during the 10-year transition period, we developed a dynamic model of Medicare inpatient capital-related costs, that is, a model that projected changes in Medicare inpatient capital-related costs over time. With the expiration of the budget neutrality provision, the capital cost model was only used to estimate the regular exceptions payment adjustment and other factors. As we explained in the August 1, 2001 final rule (66 FR 39911), beginning in FY 2003 an adjustment for regular exceptions is no longer necessary because regular exception payments were only made for cost reporting periods beginning on or after October 1, 1991, and before October 1, 2001 (see § 412.348(b)). Since payments are no longer being made under the regular exceptions policy in FY 2003, we are no longer using the capital cost model. The capital cost model and its application during the transition period are described in Appendix B of the August 1, 2001 final rule (66 FR 40099).

In accordance with section 1886(d)(9)(A) of the Act, under the prospective payment system for acute care hospital inpatient operating costs, hospitals located in Puerto Rico are paid for operating costs under a special payment formula. Prior to FY 1998, hospitals in Puerto Rico were paid a blended rate that consisted of 75 percent of the applicable standardized amount specific to Puerto Rico hospitals and 25 percent of the applicable national average standardized amount. However, effective October 1, 1997, as a result of section 4406 of Public Law 105-33, operating payments to hospitals in Puerto Rico are based on a blend of 50 percent of the applicable standardized amount specific to Puerto Rico hospitals and 50 percent of the applicable national average standardized amount. In conjunction with this change to the operating blend percentage, effective with discharges on or after October 1, 1997, we compute capital payments to hospitals in Puerto Rico based on a blend of 50 percent of the Puerto Rico rate and 50 percent of the Federal rate.

Section 412.374 provides for the use of this blended payment system for payments to Puerto Rico hospitals under the prospective payment system for acute care hospital inpatient capital-related costs. Accordingly, for capital-related costs, we compute a separate payment rate specific to Puerto Rico hospitals using the same methodology used to compute the national Federal rate for capital.

A. Determination of Federal Hospital Inpatient Capital-Related Prospective Payment Rate Update

In the August 1, 2001 final rule (66 FR 39947), we established a Federal rate of $390.74 for FY 2002. As a result of the changes we are proposing to the factors used to establish the Federal rate in this addendum, the proposed FY 2003 Federal rate is $408.90.

In the discussion that follows, we explain the factors that were used to determine the proposed FY 2003 Federal rate. In particular, we explain why the FY 2003 Federal rate has increased 4.6 percent compared to the FY 2002 Federal rate (published in the August 1, 2001 final rule (66 FR 39947)). We also estimate aggregate capital payments will increase by 5.72 percent during this same period. This increase is primarily due to the increase in the number of hospital admissions and the increase in case-mix. This increase in capital payments is slightly more than last year (4.27 percent) mostly due to the restoration of the 2.1 percent reduction to the capital Federal rate (see section VI.D. of the preamble of this proposed rule).

Total payments to hospitals under the prospective payment system are relatively unaffected by changes in the capital prospective payments. Since capital payments constitute about 10 percent of hospital payments, a 1 percent change in the capital Federal rate yields only about 0.1 percent change in actual payments to hospitals. Aggregate payments under the capital prospective payment system are estimated to increase in FY 2003 compared to FY 2002.

1. Standard Federal Rate Update

a. Description of the Update Framework

Under § 412.308(c)(1), the standard Federal rate is updated on the basis of an analytical framework that takes into account changes in a capital input price index (CIPI) and other factors. The update framework consists of a CIPI and several policy adjustment factors. Specifically, we have adjusted the projected CIPI rate of increase as appropriate each year for case-mix index-related changes, for intensity, and for errors in previous CIPI forecasts. The proposed update factor for FY 2003 under that framework is 1.1 percent. This update factor is based on a projected 0.7 percent increase in the CIPI, a 1.0 percent adjustment for intensity, a 0.0 percent adjustment for case-mix, a −-0.3 percent adjustment for the FY 2001 DRG reclassification and recalibration, and a forecast error correction of −0.3 percent. We explain the basis for the FY 2003 CIPI projection in section III.C. of this Addendum. Below we describe the policy adjustments that have been applied.

The case-mix index is the measure of the average DRG weight for cases paid under the acute care hospital inpatient prospective payment system. Because the DRG weight determines the prospective payment for each case, any percentage increase in the case-mix index corresponds to an equal percentage increase in hospital payments.

The case-mix index can change for any of several reasons:

• The average resource use of Medicare patients changes (“real” case-mix change);

• Changes in hospital coding of patient records result in higher weight DRG assignments (“coding effects”); and

• The annual DRG reclassification and recalibration changes may not be budget neutral (“reclassification effect”).

We define real case-mix change as actual changes in the mix (and resource requirements) of Medicare patients as opposed to changes in coding behavior that result in assignment of cases to higher weighted DRGs but do not reflect higher resource requirements. In the update framework for the prospective payment system for operating costs, we adjust the update upwards to allow for real case-mix change, but remove the effects of coding changes on the case-mix index. We also remove the effect on total payments of prior changes to the DRG classifications and relative weights, in order to retain budget neutrality for all case-mix index-related changes other than patient severity. (For example, we adjusted for the effects of the FY 2001 DRG reclassification and recalibration as part of our FY 2003 update recommendation.) We have adopted this case-mix index adjustment in the capital update framework as well.

For FY 2003, we are projecting a 1.0 percent total increase in the case-mix index. We estimate that real case-mix increase will equal 1.0 percent in FY 2003. Therefore, the net adjustment for case-mix change in FY 2003 is 0.0 percentage points.

We estimate that FY 2001 DRG reclassification and recalibration will result in a 0.3 percent change in the case-mix when compared with the case-mix index that would have resulted if we had not made the reclassification and recalibration changes to the DRGs. Therefore, we are making a −0.3 percent adjustment for DRG reclassification and recalibration in the update recommendation for FY 2003.

The capital update framework contains an adjustment for forecast error. The input price index forecast is based on historical trends and relationships ascertainable at the time the update factor is established for the upcoming year. In any given year, there may be unanticipated price fluctuations that may result in differences between the actual increase in prices and the forecast used in calculating the update factors. In setting a prospective payment rate under the framework, we make an adjustment for forecast error only if our estimate of the change in the capital input price index for any year is off by 0.25 percentage points or more. There is a 2-year lag between the forecast and the measurement of the forecast error. A forecast error of −0.3 percentage points was calculated for the FY 2001 update. That is, current historical data indicate that the forecasted FY 2001 CIPI used in calculating the FY 2001 update factor (0.9 percent) overstated the actual realized price increases (0.6 percent) by 0.3 percentage points. This over-prediction was due to prices from municipal bond yields declining faster than originally expected. Therefore, we are making a −0.3 percent adjustment for forecast error in the update for FY 2003.

Under the capital prospective payment system framework, we also make an adjustment for changes in intensity. We calculate this adjustment using the same methodology and data as in the framework for the operating prospective payment system. The intensity factor for the operating update framework reflects how hospital services are utilized to produce the final product, that is, the discharge. This component accounts for changes in the use of quality-enhancing services, changes in within-DRG severity, and expected modification of practice patterns to remove cost-ineffective services.

We calculate case-mix constant intensity as the change in total charges per admission, adjusted for price level changes (the CPI for hospital and related services), and changes in real case-mix. The use of total charges in the calculation of the proposed intensity factor makes it a total intensity factor, that is, charges for capital services are already built into the calculation of the factor. Therefore, we have incorporated the intensity adjustment from the operating update framework into the capital update framework. Without reliable estimates of the proportions of the overall annual intensity increases that are due, respectively, to ineffective practice patterns and to the combination of quality-enhancing new technologies and within-DRG complexity, we assume, as in the revised operating update framework, that one-half of the annual increase is due to each of these factors. The capital update framework thus provides an add-on to the input price index rate of increase of one-half of the estimated annual increase in intensity to allow for within-DRG severity increases and the adoption of quality-enhancing technology.

For FY 2003, we have developed a Medicare-specific intensity measure based on a 5-year average, using FY 1997 through 2001 data. In determining case-mix constant intensity, we found that observed case-mix increase was 0.3 percent in FY 1997, −0.4 percent in FY 1998, −0.3 percent in FY 1999, −0.7 in FY 2000, and −0.3 percent in FY 2001. Past studies of case-mix change by the RAND Corporation (“Has DRG Creep Crept Up? Decomposing the Case Mix Index Change Between 1987 and 1988” by G. M. Carter, J. P. Newhouse, and D. A. Relles, R-4098-HCFA/ProPAC (1991)) suggest that real case-mix change was not dependent on total change, but was usually a fairly steady 1.0 to 1.4 percent per year. We use 1.4 percent as the upper bound because the RAND study did not take into account that hospitals may have induced doctors to document medical records more completely in order to improve payment. Following that study, we consider up to 1.4 percent of observed case-mix change as real for FY 1997 through FY 2001. Since we did not find an increase in case-mix outside of the range of 1.0 to 1.4 percent, we believe that all of the observed case-mix increase for FYs 1997 through 2001 is real. Therefore, there was no need to employ the upper bound of 1.0 and 1.4 supported by the RAND study as we have done in the past since we did not find an increase in case-mix that was in excess of our estimate of real case-mix increase.

We calculate case-mix constant intensity as the change in total charges per admission, adjusted for price level changes (the CPI for hospital and related services), and changes in real case-mix. We estimate that case-mix constant intensity increased by an average of 1.0 percent during FYs 1997 through 2001, for a cumulative increase of 5.2 percent, given estimates of real case-mix of 0.3 percent for FY 1997, −0.4 percent for FY 1998, −0.3 percent for FY 1998, −0.7 percent for FY 2000, and −0.3 percent for FY 2001. Since we estimate that intensity has increased during that period, we are recommending a 1.0 percent intensity adjustment for FY 2003.

Above we described the basis of the components used to develop the proposed 1.1 percent capital update factor for FY 2003 as shown in Table 1 below.

Table 1.—CMS's Proposed FY 2003 Update Factor to the Capital Federal Rate—
Capital Input Price Index | 0.7
Intensity: | 1.0
Case-Mix Adjustment Factors:
Projected Case-Mix Change | −1.0
Real Across DRG Change | 1.0
Subtotal | 0.0
Effect of FY 2001 Reclassification and Recalibration | −0.3
Forecast Error Correction | −0.3
Total Proposed Update | 1.1

b. Comparison of CMS and MedPAC Update Recommendations

In the past, MedPAC has included an update recommendation for capital prospective payment system payments in a Report to Congress. In its March 2001 report, MedPAC presented a combined operating and capital update for hospital inpatient prospective payment systems for FY 2002. Currently, section 1886(b)(3)(B)(i)(XVIII) of the Act sets forth the FY 2003 percentage increase in prospective payment system operating cost standardized amounts. The prospective payment system capital update is set at the discretion of the Secretary under the framework outlined in § 412.308(c)(1). In its March 2002 Report to Congress, MedPAC did not make an update recommendation for capital prospective payment system payments. MedPAC states that, with the two updates (operating and capital) remaining separate, it focused on the operating update since it involves more money (92 percent of hospital's Medicare costs) and it commands the most attention in Congress (page 65).

2. Outlier Payment Adjustment Factor

Section 412.312(c) establishes a unified outlier methodology for inpatient operating and inpatient capital-related costs. A single set of thresholds is used to identify outlier cases for both inpatient operating and inpatient capital-related payments. Section 412.308(c)(2) provides that the standard Federal rate for inpatient capital-related costs be reduced by an adjustment factor equal to the estimated proportion of capital-related outlier payments to total inpatient capital-related prospective payment system payments. The outlier thresholds are set so that operating outlier payments are projected to be 5.1 percent of total operating DRG payments.

In the August 1, 2001 final rule, we estimated that outlier payments for capital in FY 2002 would equal 5.76 percent of inpatient capital-related payments based on the Federal rate (66 FR 39948). Accordingly, we applied an outlier adjustment factor of 0.9424 to the Federal rate. Based on the thresholds as set forth in section II.A.4.c. of this Addendum, we estimate that outlier payments for capital will equal 5.40 percent of inpatient capital-related payments based on the Federal rate in FY 2003. Therefore, we are proposing an outlier adjustment factor of 0.9460 to the Federal rate. Thus, the projected percentage of capital outlier payments to total capital standard payments for FY 2003 is lower than the percentage for FY 2002.

The outlier reduction factors are not built permanently into the rates; that is, they are not applied cumulatively in determining the Federal rate. Therefore, the net proposed change in the outlier adjustment to the Federal rate for FY 2003 is 1.0038 (0.9460/0.9424). The outlier adjustment increases the proposed FY 2003 Federal rate by 0.38 percent compared with the FY 2002 outlier adjustment.

3. Budget Neutrality Adjustment Factor for Changes in DRG Classifications and Weights and the Geographic Adjustment Factor

Section 412.308(c)(4)(ii) requires that the Federal rate be adjusted so that aggregate payments for the fiscal year based on the Federal rate after any changes resulting from the annual DRG reclassification and recalibration and changes in the geographic adjustment factor (GAF) are projected to equal aggregate payments that would have been made on the basis of the Federal rate without such changes.

Since we implemented a separate geographic adjustment factor for Puerto Rico, we apply separate budget neutrality adjustments for the national geographic adjustment factor and the Puerto Rico geographic adjustment factor. We apply the same budget neutrality factor for DRG reclassifications and recalibration nationally and for Puerto Rico. Separate adjustments were unnecessary for FY 1998 and earlier since the geographic adjustment factor for Puerto Rico was implemented in FY 1998.

In the past, we used the actuarial capital cost model (described in Appendix B of the August 1, 2001 final rule (66 FR 40099)) to estimate the aggregate payments that would have been made on the basis of the Federal rate with and without changes in the DRG classifications and weights and in the GAF to compute the adjustment required to maintain budget neutrality for changes in DRG weights and in the GAF. During the transition period, the capital cost model was also used to estimate the regular exceptions payment adjustment factor. As we explain below in section III.A.4. of this Addendum, beginning in FY 2003 an adjustment for regular exceptions is no longer necessary. Therefore, we are no longer using the capital cost model. Instead, we are using historical data based on hospitals' actual cost experiences to determine the exceptions adjustment factor for special exception payments.

To determine the proposed factors for FY 2003, we compared (separately for the national rate and the Puerto Rico rate) estimated aggregate Federal rate payments based on the FY 2002 DRG relative weights and the FY 2002 GAF to estimated aggregate Federal rate payments based on the FY 2003 relative weights and the FY 2003 GAF. For FY 2002, the budget neutrality adjustment factors were 0.9927 for the national rate and 0.9916 for the Puerto Rico rate (see the August 1, 2001 final rule (66 FR 40101)). In making the comparison, we set the regular and special exceptions reduction factors to 1.00.

To achieve budget neutrality for the changes in the national GAF, we propose to apply an incremental budget neutrality adjustment of 0.9990 for FY 2003 to the previous cumulative FY 2002 adjustment of (0.9927), yielding a proposed cumulative adjustment of 0.9917 through FY 2003. For the Puerto Rico GAF, we propose to apply an incremental budget neutrality adjustment of 1.0080 for FY 2003 to the previous cumulative FY 2002 adjustment (0.9916), yielding a proposed cumulative adjustment of 0.9996 through FY 2003.

We then compared estimated aggregate Federal rate payments based on the FY 2002 DRG relative weights and the FY 2002 GAF to estimated aggregate Federal rate payments based on the proposed FY 2003 DRG relative weights and the FY 2003 GAF. The proposed incremental adjustment for DRG classifications and changes in relative weights is 1.0034 nationally and for Puerto Rico. The proposed cumulative adjustments for DRG classifications and changes in relative weights and for changes in the GAF through FY 2003 are 0.9951 nationally and 1.0030 for Puerto Rico. The following table summarizes the adjustment factors for each fiscal year:

Budget Neutrality Adjustment for DRG Reclassifications and Recalibration and the Geographic Adjustment Factors
Fiscal year | National: Incremental adjustment: Geographic adjustment factor | National: Incremental adjustment: DRG reclassifications and recalibration | National: Incremental adjustment: Combined | National: Cumulative | Puerto Rico: Incremental adjustment: Geographic adjustment factor | Puerto Rico: Incremental adjustment: DRG reclassifications and recalibration | Puerto Rico: Incremental adjustment: Combined | Puerto Rico: Incremental adjustment: Cumulative
1992 |  |  |  | 1.00000 |  |  |  |
1993 |  |  | 0.99800 | 0.99800 |  |  |  |
1994 |  |  | 1.00531 | 1.00330 |  |  |  |
1995 |  |  | 0.99980 | 1.00310 |  |  |  |
1996 |  |  | 0.99940 | 1.00250 |  |  |  |
1997 |  |  | 0.99873 | 1.00123 |  |  |  |
1998 |  |  | 0.99892 | 1.00015 |  |  |  | 1.00000
1999 | 0.99944 | 1.00335 | 1.00279 | 1.00294 | 0.99898 | 1.00335 | 1.00233 | 1.00233
2000 | 0.99857 | 0.99991 | 0.99848 | 1.00142 | 0.99910 | 0.99991 | 0.99901 | 1.00134
2001 ¹ | 0.99846 | 1.00019 | 0.99865 | 0.99933 | 1.00365 | 1.00009 | 1.00374 | 1.00508
2001 ² | ³ 0.99771 | ³ 1.00009 | ³ 0.99780 | 0.99922 | ³ 1.00365 | ³ 1.00009 | ³ 1.00374 | 1.00508
2002 | ⁴ 0.99666 | ⁴ 0.99668 | ⁴ 0.99335 | 0.99268 | ⁴ 0.98991 | ⁴ 0.99668 | ⁴ 0.99662 | 0.99164
2003 | ⁵ 0.99902 | ⁵ 1.00342 | ⁵ 1.00244 | ⁵ 0.99510 | ⁵ 1.00804 | ⁵ 1.00342 | ⁵ 1.01149 | ⁵ 1.00303
¹ Factors effective for the first half of FY 2001 (October 2000 through March 2001).
² Factors effective for the second half of FY 2001 (April 2001 through September 2001).
³ Incremental factors are applied to FY 2000 cumulative factors.
⁴ Incremental factors are applied to the cumulative factors for the first half of FY 2001.
⁵ Proposed factors for FY 2003.

The methodology used to determine the proposed recalibration and geographic (DRG/GAF) budget neutrality adjustment factor for FY 2003 is similar to that used in establishing budget neutrality adjustments under the prospective payment system for operating costs. One difference is that, under the operating prospective payment system, the budget neutrality adjustments for the effect of geographic reclassifications are determined separately from the effects of other changes in the hospital wage index and the DRG relative weights. Under the capital prospective payment system, there is a single DRG/GAF budget neutrality adjustment factor (the national rate and the Puerto Rico rate are determined separately) for changes in the GAF (including geographic reclassification) and the DRG relative weights. In addition, there is no adjustment for the effects that geographic reclassification has on the other payment parameters, such as the payments for serving low-income patients, indirect medical education payments, or the large urban add-on payments.

For FY 2002, we calculated a GAF/DRG budget neutrality factor of 0.9934. For FY 2003, we are proposing a GAF/DRG budget neutrality factor of 1.0024. The GAF/DRG budget neutrality factors are built permanently into the rates; that is, they are applied cumulatively in determining the Federal rate. This follows from the requirement that estimated aggregate payments each year be no more or less than they would have been in the absence of the annual DRG reclassification and recalibration and changes in the GAF. The proposed incremental change in the adjustment from FY 2002 to FY 2003 is 1.0024. The proposed cumulative change in the rate due to this adjustment is 0.9951 (the product of the incremental factors for FY 1993, FY 1994, FY 1995, FY 1996, FY 1997, FY 1998, FY 1999, FY 2000, FY 2001, FY 2002, and the proposed incremental factor for FY 2003: 0.9980 × 1.0053 × 0.9998 × 0.9994 × 0.9987 × 0.9989 × 1.0028 × 0.9985 × 0.9979 × 0.9934 × 1.0024 = 0.9951).

This proposed factor accounts for DRG reclassifications and recalibration and for changes in the GAF. It also incorporates the effects on the GAF of FY 2003 geographic reclassification decisions made by the MGCRB compared to FY 2002 decisions. However, it does not account for changes in payments due to changes in the DSH and IME adjustment factors or in the large urban add-on.

4. Exceptions Payment Adjustment Factor

Section 412.308(c)(3) requires that the standard capital Federal rate be reduced by an adjustment factor equal to the estimated proportion of additional payments for both regular exceptions and special exceptions under § 412.348 relative to total capital prospective payment system payments. In estimating the proportion of regular exceptions payments to total capital prospective payment system payments during the transition period, we used the actuarial capital cost model originally developed for determining budget neutrality (described in Appendix B of the August 1, 2001 final rule (66 FR 40099)) to determine the exception adjustment factor, which was applied to both the Federal and hospital-specific rates.

An adjustment for regular exceptions is no longer necessary in determining the proposed FY 2003 capital Federal rate because, in accordance with § 412.348(b), regular exception payments were only made for cost reporting periods beginning on or after October 1, 1991 and before October 1, 2001. Accordingly, as we explained in the August 1, 2001 final rule (66 FR 39949), in FY 2003 and later, no payments will be made under the regular exceptions provision. However, in accordance with § 412.308(c), we still need to compute a budget neutrality adjustment for special exception payments under § 412.348(g). We describe our methodology for determining the special exceptions adjustment used in establishing the FY 2003 proposed capital Federal rate below.

Under the special exceptions provision specified at § 412.348(g)(1), eligible hospitals include SCHs, urban hospitals with at least 100 beds that have a disproportionate share percentage of at least 20.2 percent or qualify for DSH payments under § 412.106(c)(2), and hospitals with a combined Medicare and Medicaid inpatient utilization of at least 70 percent. An eligible hospital may receive special exception payments if it meets (1) a project need requirement as described at § 412.348(g)(2), which, in the case of certain urban hospitals, includes an excess capacity test as described at § 412.348(g)(4); (2) an age of assets test as described at § 412.348(g)(3); and (3) a project size requirement as described at § 412.348(g)(5).

As we explained in the August 1, 2001 final rule (66 FR 39912 through 39914), in order to determine the estimated proportion of special exceptions payments to total capital payments, we attempted to identify the universe of eligible hospitals that may potentially qualify for special exception payments. First, we identified hospitals that met the eligibility requirements at § 412.348(g)(1). Then we determined each hospital's average fixed asset age in the earliest available cost report starting in FY 1992 and later. For each of those hospitals, we calculated the average fixed asset age by dividing the accumulated depreciation by the current year's depreciation. In accordance with § 412.348(g)(3), a hospital must have an average age of buildings and fixed assets above the 75th percentile of all hospitals in the first year of the capital prospective payment system. In the September 1, 1994 final rule (59 FR 45385), we stated that, based on the June 1994 update of the cost report files in HCRIS, the 75th percentile for buildings and fixed assets for FY 1992 was 16.4 years. However, we noted that we would make a final determination of that value on the basis of more complete cost report information at a later date. In the August 29, 1997 final rule (62 FR 46012), based on the December 1996 update of HCRIS and the removal of outliers, we finalized the 75th percentile for buildings and fixed assets for FY 1992 as 15.4 years. Thus, we eliminated any hospitals from the potential universe of hospitals that may qualify for special exception payments if its average age of fixed assets did not exceed 15.4 years.

For the hospitals remaining in the potential universe, we estimated project-size by using the fixed capital acquisitions shown on Worksheet A7 from the following HCRIS cost reports updated through December 2001.

PPS year | Cost reports periods beginning in * * *
IX | FY 1992
X | FY 1993
XI | FY 1994
XII | FY 1995
XIII | FY 1996
XIV | FY 1997
XV | FY 1998
XVI | FY 1999

Because the project phase-in may overlap 2 cost reporting years, we added together the fixed acquisitions from sequential pairs of cost reports to determine project size. Under § 412.348(g)(5), the hospital's project cost must be at least $200 million or 100 percent of its operating cost during the first 12-month cost reporting period beginning on or after October 1, 1991. We calculated the operating costs from the earliest available cost report starting in FY 1992 and later by subtracting inpatient capital costs from inpatient costs (for all payers). We did not subtract the direct medical education costs as those costs are not available on every update of the HCRIS minimum data set. If the hospital met the project size requirement, we assumed that it also met the project need requirements at § 412.348(g)(2) and the excess capacity test for urban hospitals at § 412.348(g)(4).

Because we estimate that so few hospitals will qualify for special exceptions, projecting costs, payments, and margins would result in high statistical variance. Consequently, we decided to model the effects of special exceptions using historical data based on hospitals' actual cost experiences. If we determined that a hospital may qualify for special exceptions, we modeled special exceptions payments from the project start date through the last available cost report (FY 1999). For purposes of modeling we used the cost and payment data on the cost reports from HCRIS assuming that special exceptions would begin at the start of the qualifying project. In other words, when modeling costs and payment data, we ignored any regular exception payments that these hospitals may otherwise have received as if there had not been regular exceptions during the transition period. In projecting an eligible hospital's special exception payment, we applied the 70-percent minimum payment level, the cumulative comparison of current year capital prospective payment system payments and costs, and the cumulative operating margin offset (excluding 75 percent of operating DSH payments).

Our modeling of special exception payments for FY 2003 produced the following results:

Cost report | Number of hospitals eligible for special exceptions | Special exceptions as a fraction of capital payments to all hospitals
PPS IX |  |
PPS X |  |
PPS XI | 2 |
PPS XII | 6 | 0.0002
PPS XIII | 8 | 0.0001
PPS XIV | 16 | 0.0003
PPS XV | 20 | 0.0011
PPS XVI | 28 | 0.0019

We note that hospitals still have two more cost reporting periods (PPS XVII and PPS XVIII) to complete their projects in order to be eligible for special exceptions, and therefore, we estimate that about 30 additional hospitals could qualify for special exceptions. Thus, we project that special exception payments as a fraction of capital payments to all hospitals could be approximately 0.0040.

Because special exceptions are budget neutral, we propose to offset the proposed Federal capital rate by 0.40 percent for special exceptions for FY 2003. Therefore, the proposed exceptions adjustment factor for special exception payments would equal 0.9960 (1 − 0.0040) to account for special exception payments in FY 2003. We will revise this projection of the special exception adjustment factor in the final rule based on the latest available data.

For FY 2002, we estimated that total (regular and special) exceptions payments would equal 0.71 percent of aggregate payments based on the Federal rate. Therefore, we applied an exceptions reduction factor of 0.9929 (1−0.0071) in determining the Federal rate. As we stated above, we estimate that exceptions payments for FY 2003 will equal 0.40 percent of aggregate payments based on the Federal rate. Therefore, we are proposing an exceptions payment reduction factor of 0.9960 (1−0.0040) to the Federal rate for FY 2003. The proposed exceptions reduction factor for FY 2003 is 0.31 percent higher than the factor for FY 2002 published in the August 1, 2001 final rule. This increase is primarily due to the expiration of the regular exceptions provision and the narrowly defined nature of the special exceptions policy.

The exceptions reduction factors are not built permanently into the rates; that is, the factors are not applied cumulatively in determining the Federal rate. Therefore, the proposed net change in the exceptions adjustment to the FY 2003 Federal rate is 0.9960/0.9929, or 1.0031.

5. Special Adjustment To Restore the 2.1 Percent Reduction to the Standard Federal Capital Prospective Payment System Payment Rate

As we explained in section VI.D. of the preamble of this proposed rule, section 1886(g)(1)(A) of the Act, as amended by section 4402 of Public Law 105-33, requires the Secretary to reduce the unadjusted standard Federal capital prospective payment system payment rate by 2.1 percent for discharges on or after October 1, 1997, and through September 30, 2002. Therefore, under the statute the additional 2.1 percent reduction no longer applies to discharges occurring after September 30, 2002. Accordingly, we are proposing to revise § 412.308(b) to restore the 2.1 percent reduction to the unadjusted standard Federal capital prospective payment system payment rate for discharges occurring on or after October 1, 2002 to the level that it would have been without the reduction.

As we state in section VI.D. of the preamble of this proposed rule and in the August 29, 1997 final rule (62 FR 46012), we applied a factor of 0.8222 in FY 1998 to account for both the reduction equal to the FY 1995 budget neutrality factor (0.1568) and the 2.1 percent reduction (0.021) provided for under section 4402 of Public Law 105-33. In order to determine the adjustment factor needed to restore the 2.1 percent reduction, we would divide the amount of the adjustment without the 2.1 percent reduction (1− 0.1568 = 0.8432) by the amount of the adjustment with the 2.1 percent reduction (0.8222). Therefore, we are proposing to apply a factor of 1.02554 (0.8432/0.8222) to the unadjusted FY 2002 standard Federal capital prospective payment system payment rate to restore the 2.1 percent reduction for discharges occurring on or after October 1, 2002.

6. Standard Capital Federal Rate for FY 2003

For FY 2002, the capital Federal rate was $390.74. For FY 2003, we are proposing a capital Federal rate of $408.90. The proposed Federal rate for FY 2003 was calculated as follows:

• The proposed FY 2003 update factor is 1.0110; that is, the update is 1.10 percent.

• The proposed FY 2003 budget neutrality adjustment factor that is applied to the standard Federal payment rate for changes in the DRG relative weights and in the GAF is 1.0024.

• The proposed FY 2003 outlier adjustment factor is 0.9460.

• The proposed FY 2003 exceptions payments adjustment factor is 0.9960.

• The proposed special adjustment factor for FY 2003 to restore the 2.1 percent reduction to the standard Federal rate is 1.0255.

Since the Federal rate has already been adjusted for differences in case-mix, wages, cost-of-living, indirect medical education costs, and payments to hospitals serving a disproportionate share of low-income patients, we are proposing to make no additional adjustments in the standard Federal rate for these factors, other than the budget neutrality factor for changes in the DRG relative weights and the GAF.

We are providing a chart that shows how each of the proposed factors and adjustments for FY 2003 affected the computation of the proposed FY 2003 Federal rate in comparison to the FY 2002 Federal rate. The proposed FY 2003 update factor has the effect of increasing the Federal rate by 1.10 percent compared to the FY 2002 Federal rate, while the proposed geographic and DRG budget neutrality factor has the effect of increasing the Federal rate by 0.24 percent. The proposed FY 2003 outlier adjustment factor has the effect of increasing the Federal rate by 0.38 percent compared to the FY 2002 Federal rate. The proposed FY 2003 exceptions reduction factor has the effect of increasing the Federal rate by 0.31 percent compared to the exceptions reduction for FY 2002. The proposed special adjustment factor for FY 2003 to restore the 2.1 percent reduction to the standard Federal rate has the effect of increasing the Federal rate by 2.55 percent compared to the FY 2002 Federal rate. The combined effect of all the proposed changes is to increase the Federal rate by 4.65 percent compared to the FY 2002 Federal rate.

Comparison of Factors and Adjustments: FY 2002 Federal Rate and Proposed FY 2003 Federal Rate
| FY 2002 | Proposed FY 2003 | Change | Percent change
Update factor ¹ | 1.0130 | 1.0110 | 1.0110 | 1.10
GAF/DRG Adjustment Factor ¹ | 0.9934 | 1.0024 | 1.0024 | 0.24
Outlier Adjustment Factor ² | 0.9424 | 0.9460 | 1.0038 | 0.38
Exceptions Adjustment Factor ² | 0.9929 | 0.9960 | 1.0031 | 0.31
Special Adjustment ³ | N/A | 1.0255 | 1.0255 | 2.55
Federal Rate | $390.74 | $408.90 | 1.0465 | 4.65
¹ The update factor and the GAF/DRG budget neutrality factors are built permanently into the rates. Thus, for example, the incremental change from FY 2002 to FY 2003 resulting from the application of the 1.0024 GAF/DRG budget neutrality factor for FY 2003 is 1.0024.
² The outlier reduction factor and the exceptions reduction factor are not built permanently into the rates; that is, these factors are not applied cumulatively in determining the rates. Thus, for example, the net change resulting from the application of the FY 2003 outlier reduction factor is 0.9460/0.9424, or 1.0038.
³ Section 1886(g)(1)(A) of the Act requires, for discharges on or after October 1, 1997, and through September 30, 2002, the Secretary to reduce the unadjusted standard Federal capital prospective payment system payment rate by 2.1 percent. Thus, the 2.1 percent reduction no longer applies to discharges occurring after September 30, 2002, and we are proposing to restore the 2.1 percent reduction by applying a factor of 1.0255 (see section VI.D. of the preamble of this proposed rule).

7. Special Rate for Puerto Rico Hospitals

As explained at the beginning of section II.D. of this Addendum, hospitals in Puerto Rico are paid based on 50 percent of the Puerto Rico rate and 50 percent of the Federal rate. The Puerto Rico rate is derived from the costs of Puerto Rico hospitals only, while the Federal rate is derived from the costs of all acute care hospitals participating in the prospective payment system (including Puerto Rico). To adjust hospitals' capital payments for geographic variations in capital costs, we apply a GAF to both portions of the blended rate. The GAF is calculated using the operating prospective payment system wage index and varies, depending on the MSA or rural area in which the hospital is located. We use the Puerto Rico wage index to determine the GAF for the Puerto Rico part of the capital-blended rate and the national wage index to determine the GAF for the national part of the blended rate.

Because we implemented a separate GAF for Puerto Rico in FY 1998, we also apply separate budget neutrality adjustments for the national GAF and for the Puerto Rico GAF. However, we apply the same budget neutrality factor for DRG reclassifications and recalibration nationally and for Puerto Rico. As we stated in section III.A.4. of this Addendum, for Puerto Rico the proposed GAF budget neutrality factor is 1.0080, while the proposed DRG adjustment is 1.0034, for a proposed combined cumulative adjustment of 1.0115.

In computing the payment for a particular Puerto Rico hospital, the Puerto Rico portion of the rate (50 percent) is multiplied by the Puerto Rico-specific GAF for the MSA in which the hospital is located, and the national portion of the rate (50 percent) is multiplied by the national GAF for the MSA in which the hospital is located (which is computed from national data for all hospitals in the United States and Puerto Rico). In FY 1998, we implemented a 17.78 percent reduction to the Puerto Rico rate as a result of Public Law 105-33.

For FY 2002, before application of the GAF, the special rate for Puerto Rico hospitals was $187.73. With the changes we are proposing to the factors used to determine the rate, the proposed FY 2003 special rate for Puerto Rico is $199.70.

B. Calculation of Inpatient Capital-Related Prospective Payments for FY 2003

With the end of the capital prospective payment system transition period in FY 2001, all hospitals (except “new” hospitals under § 412.324(b) and under proposed § 412.304(c)(2)) are paid based on 100 percent of the Federal rate in FY 2003. The applicable Federal rate was determined by making adjustments as follows:

• For outliers, by dividing the standard Federal rate by the outlier reduction factor for that fiscal year; and

• For the payment adjustments applicable to the hospital, by multiplying the hospital's GAF, disproportionate share adjustment factor, and IME adjustment factor, when appropriate.

For purposes of calculating payments for each discharge during FY 2003, the standard Federal rate is adjusted as follows: (Standard Federal Rate) × (DRG weight) × (GAF) × (Large Urban Add-on, if applicable) × (COLA adjustment for hospitals located in Alaska and Hawaii) × (1 + Disproportionate Share Adjustment Factor + IME Adjustment Factor, if applicable). The result is the adjusted Federal rate.

Hospitals also may receive outlier payments for those cases that qualify under the thresholds established for each fiscal year. Section 412.312(c) provides for a single set of thresholds to identify outlier cases for both inpatient operating and inpatient capital-related payments. The outlier thresholds for FY 2003 are in section II.A.4.c. of this Addendum. For FY 2003, a case qualifies as a cost outlier if the cost for the case plus the IME and DSH payments is greater than the prospective payment rate for the DRG plus $33,450.

An eligible hospital may also qualify for a special exception payment under § 412.348(g) for up through the 10th year beyond the end of the capital transition period if it meets (1) a project need requirement described at § 412.348(g)(2), which in the case of certain urban hospitals includes an excess capacity test as described at § 412.348(g)(4); and (2) a project size requirement as described at § 412.348(g)(5). Eligible hospitals include sole community hospitals, urban hospitals with at least 100 beds that have a DSH patient percentage of at least 20.2 percent or qualify for DSH payments under § 412.106(c)(2), and hospitals that have a combined Medicare and Medicaid inpatient utilization of at least 70 percent. Under § 412.348(g)(8), the amount of a special exceptions payment is determined by comparing the cumulative payments made to the hospital under the capital prospective payment system to the cumulative minimum payment level. This amount is offset by (1) any amount by which a hospital's cumulative capital payments exceed its cumulative minimum payment levels applicable under the regular exceptions process for cost reporting periods beginning during which the hospital has been subject to the capital prospective payment system; and (2) any amount by which a hospital's current year operating and capital payments (excluding 75 percent of operating DSH payments) exceed its operating and capital costs. Under § 412.348(g)(6), the minimum payment level is 70 percent for all eligible hospitals.

During the transition period, new hospitals (as defined under § 412.300) were exempt from the capital prospective payment system for their first 2 years of operation and are paid 85 percent of their reasonable costs during that period. Effective with the third year of operation through the remainder of the transition period, under § 412.324(b) we paid the hospital under the appropriate transition methodology. If the hold-harmless methodology was applicable, the hold-harmless payment for assets in use during the base period would extend for 8 years, even if the hold-harmless payments extend beyond the normal transition period. As discussed in section VI.B. of the preamble of this proposed rule, we are proposing under § 412.304(c)(2) to pay new hospitals 85 percent of their reasonable costs during the first 2 years of operation. Effective with the third year of operation through the remainder of the transition period, we would pay the hospital based on 100 percent of the capital Federal (that is, the same methodology used to pay all other hospitals subject to capital prospective payment system).

C. Capital Input Price Index

1. Background

Like the operating input price index, the capital input price index (CIPI) is a fixed-weight price index that measures the price changes associated with costs during a given year. The CIPI differs from the operating input price index in one important aspect—the CIPI reflects the vintage nature of capital, which is the acquisition and use of capital over time. Capital expenses in any given year are determined by the stock of capital in that year (that is, capital that remains on hand from all current and prior capital acquisitions). An index measuring capital price changes needs to reflect this vintage nature of capital. Therefore, the CIPI was developed to capture the vintage nature of capital by using a weighted-average of past capital purchase prices up to and including the current year.

We periodically update the base year for the operating and capital input prices to reflect the changing composition of inputs for operating and capital expenses. The CIPI was last rebased to FY 1992 in the August 30, 1996 final rule (61 FR 46196). In this proposed rule, we are proposing to revise and rebase the CIPI to a FY 1997 base year to reflect the more recent structure of capital costs. For further details on the proposed rebasing and revision of the CIPI, see section IV.B. of this proposed rule.

2. Forecast of the CIPI for Federal Fiscal Year 2003

We are forecasting the proposed CIPI to increase 0.7 percent for FY 2003. This reflects a projected 1.3 percent increase in vintage-weighted depreciation prices (building and fixed equipment, and movable equipment) and a 2.7 percent increase in other capital expense prices in FY 2003, partially offset by a 2.2 percent decline in vintage-weighted interest rates in FY 2003. The weighted average of these three factors produces the 0.7 percent increase for the CIPI as a whole.

IV. Proposed Changes to Payment Rates for Excluded Hospitals and Hospital Units: Rate-of-Increase Percentages

The inpatient operating costs of hospitals and hospital units excluded from the acute care hospital inpatient prospective payment system are subject to rate-of-increase limits established under the authority of section 1886(b) of the Act, which is implemented in regulations at § 413.40. Under these limits, a hospital-specific target amount (expressed in terms of the inpatient operating cost per discharge) is set for each hospital, based on the hospital's own historical cost experience trended forward by the applicable rate-of-increase percentages (update factors).

Under existing § 413.40(c)(4)(iii)(B), for cost reporting periods beginning and during FYs 1998 and through 2002, in the case of a psychiatric hospital or hospital unit, a rehabilitation hospital or hospital unit, or a long-term care hospital, the target amount may not exceed the updated figure for the 75th percentile of target amounts adjusted to take into account the differences between average wage-related costs in the area of the hospital and the national average of such costs within the same class of hospitals for hospitals and hospital units in the same class (psychiatric, rehabilitation, and long-term care) for cost reporting periods ending during FY 1996. The target amount is multiplied by the number of Medicare discharges in a hospital's cost reporting period, yielding the ceiling on aggregate Medicare inpatient operating costs for the cost reporting period.

Each hospital-specific target amount is adjusted annually, at the beginning of each hospital's cost reporting period, by an applicable update factor.

Under existing §§ 413.40(c)(4)(ii) and (d)(1)(i) and (ii), effective for cost reporting periods beginning during FY 2003, payments to existing excluded hospitals and hospital units will no longer be subject to a 75th percentile cap. These excluded hospitals and hospital units will be paid based on their aggregate Medicare inpatient operating costs, which may not exceed their ceiling. The ceiling on a hospital's or hospital unit's aggregate Medicare inpatient operating costs would be computed using the hospital's or hospital unit's target amount from the previous cost reporting period updated using the rate-of-increase percentage specified in § 413.40(c)(3)(viii) and multiplied by the total number of Medicare discharges.

Section 1886(b)(3)(B) of the Act, as implemented in regulations at § 413.40(c)(3)(viii), provides that, for cost reporting periods beginning on or after October 1, 2002, the update factor for a hospital or hospital unit is the percentage increase projected by the hospital market basket index. The most recent proposed projected forecast of the market basket percentage increase for FY 2003 for hospitals and hospital units excluded from the acute care hospital inpatient prospective payment system is 3.4 percent. This proposed percentage change is made by CMS” Office of the Actuary and reflects the average change in the price of goods and services purchased by hospitals to furnish inpatient hospital care. Therefore, we are proposing that the update to a hospital's target amount for its cost reporting period beginning in FY 2003 would be 3.4 percent.

As discussed in section VII. of the preamble of this proposed rule, we are proposing to make an adjustment to the updated cap on the target amounts per discharge for each class of new excluded hospitals and hospital units for cost reporting periods beginning during FY 2003, using the prospective payment system wage index without taking into account the reclassifications under sections 1886(d)(8)(B) and (d)(10) of the Act. For a new provider, the labor-related share of the target amount is multiplied by the appropriate geographic area wage index, without regard to prospective payment system reclassifications, and added to the nonlabor-related share in order to determine the per case limit on payment under the statutory payment methodology for new providers.

Regulations at § 413.40(f)(2)(ii) specify the payment methodology for new hospitals and hospital units, effective October 1, 1997.

For cost reporting periods beginning in FY 2003, the proposed caps are as follows:

Class of excluded hospital or unit | FY 2003 proposed labor-related share | FY 2003 proposed nonlabor-related share
Psychiatric | $7,047 | $2,801
Long-Term Care | 17,269 | 6,866

Effective for cost reporting periods beginning on or after October 1, 2002, this payment limitation is no longer applicable to new rehabilitation hospitals and units since they will be paid under the inpatient rehabilitation facility prospective payment system.

Regulations at § 413.40(d) specify the formulas for determining bonus and relief payments for excluded hospitals and specify established criteria for an additional bonus payment for continuous improvement.

V. Tables

This section contains the tables referred to throughout the preamble to this proposed rule and in this Addendum. For purposes of this proposed rule, and to avoid confusion, we have retained the designations of Tables 1 through 5 that were first used in the September 1, 1983 initial prospective payment final rule (48 FR 39844). Tables 1A, 1C, 1D, 2, 3A, 3B, 4A, 4B, 4C, 4F, 4G, 4H, 5, 6A, 6B, 6C, 6D, 6E, 6F, 6G, 6H, 7A, 7B, 8A, 8B, 9, and 10 are presented below. The tables presented below are as follows:

Table 1A—National Adjusted Operating Standardized Amounts, Labor/Nonlabor

Table 1C—Adjusted Operating Standardized Amounts for Puerto Rico, Labor/Nonlabor

Table 1D—Capital Standard Federal Payment Rate

Table 2—Hospital Average Hourly Wage for Federal Fiscal Years 2001 (1997 Wage Data), 2002 (1998 Wage Data), and 2003 (1999 Wage Data) Wage Indexes and 3-Year Average of Hospital Average Hourly Wages

Table 3A—3-Year Average Hourly Wage for Urban Areas

Table 3B—3-Year Average Hourly Wage for Rural Areas

Table 4A—Wage Index and Capital Geographic Adjustment Factor (GAF) for Urban Areas

Table 4B—Wage Index and Capital Geographic Adjustment Factor (GAF) for Rural Areas

Table 4C—Wage Index and Capital Geographic Adjustment Factor (GAF) for Hospitals That Are Reclassified

Table 4F—Puerto Rico Wage Index and Capital Geographic Adjustment Factor (GAF)

Table 4G—Pre-Reclassified Wage Index for Urban Areas

Table 4H—Pre-Reclassified Wage Index for Rural Areas

Table 5—List of Diagnosis Related Groups (DRGs), Relative Weighting Factors, Geometric and Arithmetic Mean Length of Stay

Table 6A—New Diagnosis Codes

Table 6B—New Procedure Codes

Table 6C—Invalid Diagnosis Codes

Table 6D—Invalid Procedure Codes

Table 6E—Revised Diagnosis Code Titles

Table 6F—Revised Procedure Code Titles

Table 6G—Additions to the CC Exclusions List

Table 6H—Deletions to the CC Exclusions List

Table 7A—Medicare Prospective Payment System Selected Percentile Lengths of Stay FY 2001 MedPAR Update 12/01 GROUPER V19.0

Table 7B—Medicare Prospective Payment System Selected Percentile Lengths of Stay FY 2001 MedPAR Update 12/01 GROUPER V20.0

Table 8A—Statewide Average Operating Cost-to-Charge Ratios for Urban and Rural Hospitals (Case Weighted) March 2002

Table 8B—Statewide Average Capital Cost-to-Charge Ratios (Case Weighted) March 2002

Table 9—Hospital Reclassifications and Redesignations by Individual Hospital—FY 2003

Table 10—Mean and Standard Deviations by Diagnosis-Related Groups (DRGs)—FY 2003

Table 1A.—National Adjusted Operating Standardized Amounts, Labor/Nonlabor
Large urban areas: Labor-related | Large urban areas: Nonlabor-related | Other areas: Labor-related | Other areas: Nonlabor-related
$3,099.62 | $1,175.71 | $3,050.55 | $1,157.10

Table 1C.—Adjusted Operating Standardized Amounts for Puerto Rico, Labor/Nonlabor
| Large Urban Areas: Labor | Large Urban Areas: Nonlabor | Other Areas: Labor | Other Areas: Nonlabor
National | $3,073.03 | $1,165.63 | $3,073.03 | $1,165.63
Puerto Rico | 1,475.56 | 593.94 | 1,452.19 | 584.54

Table 1D.—Capital Standard Federal Payment Rate
| Rate
National | $408.90
Puerto Rico | $199.70

——————————

* Denotes wage data not available for the provider for that year.

** Based on the sum of the salaries and hours computed for Federal FYs 2001, 2002, and 2003.

Table 2.—Hospital Average Hourly Wage for Federal Fiscal Years 2001 (1997 Wage Data), 2002 (1998 Wage Data) and 2003 (1999 Wage Data) Wage Indexes and 3-Year Average of Hospital Average Hourly Wages
Provider No. | Average hourly wage FY 2001 | Average hourly wage FY 2002 | Average hourly wage FY 2003 | Average hourly** wage (3 yrs)
010001 | 16.4088 | 17.4467 | 17.7070 | 17.1977
010004 | 17.9732 | 19.0010 | 20.1613 | 19.0027
010005 | 17.5985 | 18.6554 | 21.5442 | 19.2074
010006 | 16.7480 | 17.6115 | 18.6118 | 17.6922
010007 | 15.4798 | 15.6788 | 16.0781 | 15.7477
010008 | 14.7443 | 17.4728 | 19.0182 | 17.0908
010009 | 18.7731 | 18.4979 | 19.7272 | 18.9866
010010 | 16.4468 | 16.4664 | 17.7348 | 16.9045
010011 | 20.7972 | 22.4292 | 24.7067 | 22.5297
010012 | 17.7171 | 15.8686 | 20.3948 | 17.8168
010015 | 15.4510 | 19.1178 | 19.8205 | 18.1040
010016 | 17.2473 | 20.2198 | 20.4139 | 19.2448
010018 | 17.6449 | 18.9388 | 19.5519 | 18.7214
010019 | 16.3493 | 17.0856 | 17.4615 | 16.9602
010021 | 16.2919 | 15.1241 | * | 15.7091
010022 | 18.5879 | 17.6435 | 22.2036 | 19.2378
010023 | 16.1025 | 16.3209 | 18.4567 | 16.9929
010024 | 16.2900 | 15.9034 | 17.0372 | 16.4149
010025 | 15.1356 | 15.1548 | 16.9733 | 15.7569
010027 | 11.7900 | 16.8595 | 16.5157 | 14.5941
010029 | 17.6461 | 18.3605 | 19.1001 | 18.3671
010031 | 18.7835 | 18.6402 | 19.2612 | 18.9043
010032 | 12.5995 | 15.3590 | 16.3967 | 14.8530
010033 | 20.3923 | 21.2986 | 21.8375 | 21.1715
010034 | 15.0959 | 15.3639 | 14.9379 | 15.1325
010035 | 20.1853 | 15.9439 | 20.8498 | 18.7765
010036 | 17.8140 | 17.7166 | 18.1325 | 17.8864
010038 | 18.2671 | 19.6098 | 19.6887 | 19.2225
010039 | 20.1045 | 20.3406 | 21.1309 | 20.5522
010040 | 18.9376 | 20.0983 | 20.4032 | 19.7634
010043 | 30.7489 | 18.6640 | 18.1128 | 21.1242
010044 | 22.0091 | 24.0265 | 23.4575 | 23.1128
010045 | 15.2200 | 17.0417 | 18.7569 | 16.8822
010046 | 17.3970 | 18.9737 | 18.8741 | 18.4218
010047 | 13.3521 | 15.4190 | 13.4130 | 14.0833
010049 | 14.7590 | 15.5246 | 16.3349 | 15.5762
010050 | 18.5163 | 17.9830 | 20.3028 | 18.9035
010051 | 11.9275 | 11.8108 | 12.3280 | 12.0151
010052 | 16.5486 | 18.0653 | 19.8289 | 18.3581
010053 | 14.6267 | 15.5649 | 15.4156 | 15.2353
010054 | 18.5103 | 19.4955 | 20.9656 | 19.7134
010055 | 18.9526 | 18.8590 | 19.4959 | 19.1060
010056 | 19.2175 | 19.6577 | 20.5645 | 19.7867
010058 | 16.1702 | 16.9715 | 16.1265 | 16.4288
010059 | 19.1286 | 18.8020 | 19.1270 | 19.0199
010061 | 14.9547 | 14.5003 | 18.5320 | 15.9823
010062 | 14.7732 | 12.3259 | * | 13.4892
010064 | 20.4139 | 19.5256 | 20.6628 | 20.1862
010065 | 16.4049 | 16.8752 | 18.8957 | 17.4231
010066 | 15.4317 | 13.1559 | 14.8904 | 14.4355
010068 | 12.0525 | 18.6925 | 23.4322 | 17.0157
010069 | 13.8636 | 14.7211 | 15.4497 | 14.6885
010072 | 14.9526 | 16.2339 | 16.5652 | 15.9117
010073 | 13.8601 | 14.1273 | 13.5594 | 13.8482
010078 | 17.9202 | 18.1363 | 18.5127 | 18.1930
010079 | 16.4421 | 17.0648 | 16.8045 | 16.7705
010081 | 18.9474 | 17.2996 | * | 18.1637
010083 | 16.8933 | 18.0312 | 18.4282 | 17.8382
010084 | 18.4965 | 18.7769 | 19.8773 | 19.0316
010085 | 18.4744 | 19.9023 | 21.3593 | 19.9065
010086 | 16.6694 | 16.5711 | 16.8886 | 16.7103
010087 | 19.0033 | 18.0567 | 18.6860 | 18.6208
010089 | 16.8042 | 17.7800 | 19.5697 | 18.0246
010090 | 18.3866 | 18.9445 | 19.5635 | 18.9671
010091 | 13.9405 | 17.0799 | 17.1775 | 15.9756
010092 | 16.9900 | 17.8144 | 18.5703 | 17.8203
010095 | 12.4525 | 12.2597 | 13.7865 | 12.8381
010097 | 13.0413 | 12.7286 | 14.2675 | 13.3206
010098 | 15.9165 | 14.0300 | 15.5763 | 15.1201
010099 | 15.9874 | 15.5619 | 15.9232 | 15.8146
010100 | 17.2011 | 17.9430 | 18.3755 | 17.8826
010101 | 15.3859 | 14.4625 | 18.7988 | 16.0267
010102 | 13.7933 | 13.8136 | 15.7777 | 14.4205
010103 | 17.9358 | 17.7242 | 22.2456 | 19.1327
010104 | 17.7126 | 16.8457 | 22.0038 | 18.6396
010108 | 17.9017 | 19.4617 | 19.1596 | 18.8606
010109 | 15.3107 | 14.6752 | 15.9627 | 15.2873
010110 | 15.6317 | 15.8283 | 15.5817 | 15.6824
010112 | 15.1401 | 16.8271 | 15.6041 | 15.8270
010113 | 16.9683 | 16.8936 | 18.2706 | 17.3693
010114 | 15.2454 | 17.0760 | 19.0678 | 17.1007
010115 | 14.6268 | 14.2261 | 15.3510 | 14.7053
010118 | 18.8477 | 17.0834 | 17.4620 | 17.7157
010119 | 18.8024 | 19.3942 | 19.4672 | 19.3127
010120 | 17.2336 | 18.2567 | 18.9975 | 18.1726
010121 | 14.6444 | 14.5262 | 15.2345 | 14.7784
010123 | 16.7344 | 19.2140 | * | 17.9083
010124 | 16.2846 | 16.7465 | * | 16.5122
010125 | 15.5304 | 16.0136 | 16.5117 | 16.0174
010126 | 19.5710 | 19.1065 | 19.5933 | 19.4288
010127 | 19.5190 | 18.2786 | * | 18.9233
010128 | 14.5056 | 14.4322 | 15.1184 | 14.6873
010129 | 14.7286 | 16.1733 | 16.7609 | 15.8741
010130 | 16.6809 | 19.5573 | 17.4614 | 17.7942
010131 | 17.8260 | 20.1883 | 19.0492 | 18.9966
010134 | 18.8835 | 19.9856 | 18.5179 | 19.1797
010137 | 12.1217 | 20.5828 | 21.3573 | 17.6481
010138 | 12.8675 | 14.5254 | 14.1369 | 13.8739
010139 | 19.0001 | 20.4331 | 20.5708 | 19.9541
010143 | 16.7911 | 17.6212 | 18.8903 | 17.7663
010144 | 17.1320 | 18.2040 | 18.7743 | 18.0281
010145 | 20.8434 | 20.5895 | 20.8110 | 20.7460
010146 | 18.5198 | 19.1415 | 18.3666 | 18.6687
010148 | 12.2214 | 15.8349 | 16.6251 | 14.5873
010149 | 18.6333 | 18.0156 | 19.0199 | 18.5806
010150 | 17.8951 | 18.9359 | 19.4819 | 18.7907
010152 | 17.8306 | 18.7677 | 19.8695 | 18.8444
010155 | 9.0300 | 15.0689 | 13.6136 | 11.6435
010157 | * | * | 18.0689 | 18.0689
010158 | 17.3227 | 18.3957 | 18.8358 | 18.2136
010159 | * | * | 20.4419 | 20.4419
020001 | 28.1747 | 28.0394 | 28.6292 | 28.2864
020002 | 24.5815 | 25.1987 | 28.2759 | 25.9928
020004 | 30.5667 | 25.4679 | 26.5088 | 27.6844
020005 | 30.2920 | 29.2378 | 35.0860 | 31.4575
020006 | 31.2404 | 28.1417 | 33.0843 | 30.7594
020007 | 27.8319 | 32.3852 | 27.7269 | 28.9902
020008 | 29.4146 | 30.8691 | 31.8715 | 30.7301
020009 | 20.1930 | 18.4660 | 18.5594 | 19.0476
020010 | 23.6727 | 22.7559 | 23.7275 | 23.3859
020011 | 30.4727 | 28.0658 | 27.5062 | 28.6155
020012 | 24.8543 | 25.5320 | 26.7586 | 25.6982
020013 | 23.8847 | 28.1557 | 29.5646 | 26.9336
020014 | 27.3823 | 24.5875 | * | 25.9860
020017 | 26.8319 | 28.0572 | 28.8752 | 27.9519
020024 | 24.0872 | 25.3205 | 25.5933 | 25.0276
020025 | 21.7557 | 20.2583 | 29.4375 | 23.2312
030001 | 20.3673 | 21.7869 | 22.8996 | 21.6709
030002 | 21.5977 | 21.8375 | 23.1450 | 22.2070
030003 | 23.4833 | 22.6804 | 23.9849 | 23.3723
030004 | 14.0711 | 15.5478 | 13.8452 | 14.3965
030006 | 18.2668 | 20.0273 | 20.5019 | 19.5831
030007 | 19.6708 | 21.5169 | 22.2473 | 21.1843
030008 | 22.2758 | 22.2190 | * | 22.2524
030009 | 18.1794 | 18.7557 | 19.1258 | 18.6629
030010 | 19.0907 | 19.5123 | 19.8496 | 19.4665
030011 | 19.2973 | 19.4310 | 19.8141 | 19.5088
030012 | 18.9918 | 20.6585 | 21.1099 | 20.2847
030013 | 20.7458 | 20.0535 | 19.9517 | 20.2223
030014 | 19.9315 | 19.7966 | 20.0568 | 19.9241
030016 | 19.3967 | 19.4785 | 22.2526 | 20.4395
030017 | 22.8765 | 21.7938 | 23.1702 | 22.6064
030018 | 20.2032 | 20.8980 | 21.8067 | 20.9825
030019 | 21.7005 | 21.2540 | 22.0341 | 21.6682
030022 | 19.2966 | 19.5794 | 22.3351 | 20.3379
030023 | 23.6697 | 24.1678 | 25.4626 | 24.5066
030024 | 22.2541 | 23.6009 | 23.5218 | 23.1550
030025 | 12.7254 | 11.9894 | 20.2690 | 14.6291
030027 | 15.7554 | 17.6555 | 18.5500 | 17.3221
030030 | 20.8303 | 21.6932 | 23.1280 | 21.8856
030033 | 20.0044 | 20.2820 | 20.3034 | 20.1983
030034 | 16.8241 | 20.8689 | 19.5578 | 19.0205
030035 | 19.2781 | 20.0226 | 20.5339 | 19.9127
030036 | 20.7567 | 21.6371 | 22.2690 | 21.5890
030037 | 22.8266 | 23.7615 | 23.7325 | 23.4266
030038 | 22.6776 | 22.9822 | 23.4477 | 23.0337
030040 | 18.5456 | 19.7636 | 19.3706 | 19.2127
030041 | 15.8921 | 18.8717 | 18.4750 | 17.5529
030043 | 20.9341 | 20.5598 | 18.7843 | 19.9580
030044 | 16.8649 | 17.6575 | 18.6781 | 17.7554
030047 | 22.6401 | 21.4412 | 22.7385 | 22.2630
030049 | 19.0881 | 19.3580 | 19.7315 | 19.3525
030054 | 15.3338 | 15.0657 | 15.7973 | 15.4130
030055 | 16.3613 | 20.2991 | 20.8373 | 19.1429
030059 | 24.0465 | 22.6279 | 27.3929 | 24.5505
030060 | 19.2461 | 18.6313 | 19.5021 | 19.1145
030061 | 18.9063 | 19.9047 | 21.1013 | 19.9959
030062 | 17.6738 | 18.7172 | 19.2670 | 18.6035
030064 | 19.5673 | 20.3837 | 21.6435 | 20.5204
030065 | 20.5130 | 20.7838 | 22.2846 | 21.2496
030067 | 14.4446 | 17.2778 | 17.6414 | 16.3935
030068 | 17.3614 | 17.7208 | 18.9718 | 18.0528
030069 | 19.0961 | 21.0936 | 23.4902 | 21.1503
030080 | 20.5144 | 20.6581 | 21.2079 | 20.8105
030083 | 23.3355 | 23.5229 | 23.2965 | 23.3842
030085 | 21.0954 | 20.8690 | 21.4417 | 21.1505
030086 | 19.5436 | * | * | 19.5436
030087 | 21.4084 | 21.9465 | 23.1339 | 22.1276
030088 | 19.8682 | 20.5340 | 21.4201 | 20.6453
030089 | 20.4019 | 20.9516 | 22.0850 | 21.2122
030092 | 20.6986 | 21.8308 | 19.4627 | 20.4899
030093 | 19.7262 | 20.4314 | 21.7195 | 20.6797
030094 | 21.6218 | 22.8123 | 21.8049 | 22.0984
030095 | 13.7293 | 13.7664 | 20.5222 | 15.2252
030099 | 16.1541 | 18.2263 | 19.8092 | 18.2768
030100 | * | 23.7609 | 23.5868 | 23.6643
030101 | * | 19.2547 | 21.1029 | 20.2450
030102 | * | 18.2413 | 21.5405 | 19.8425
030103 | * | * | 15.0859 | 15.0859
030104 | * | * | 32.8668 | 32.8668
040001 | 15.1624 | 16.9178 | 16.3882 | 16.1463
040002 | 13.0592 | 15.1107 | 16.1353 | 14.6990
040003 | 14.2089 | 15.5740 | 15.5186 | 15.0890
040004 | 17.8476 | 17.9034 | 19.0105 | 18.2433
040005 | 13.2597 | 11.1318 | 16.5465 | 13.4890
040007 | 21.9583 | 18.6998 | * | 20.1466
040008 | 15.3040 | 14.7985 | 20.2121 | 16.6104
040010 | 18.6023 | 19.4913 | 19.8251 | 19.3459
040011 | 14.5319 | 16.0995 | 17.1337 | 15.8295
040014 | 17.6340 | 18.1434 | 19.3996 | 18.3693
040015 | 16.5891 | 15.5207 | 17.4003 | 16.5312
040016 | 19.0295 | 20.2321 | 19.8087 | 19.7068
040017 | 13.5098 | 15.4736 | 16.5602 | 15.1870
040018 | 17.6027 | 18.7463 | 18.8203 | 18.3807
040019 | 22.6769 | 23.4163 | 21.0465 | 22.2688
040020 | 16.4827 | 18.9844 | 17.6056 | 17.6157
040021 | 17.6398 | 19.6835 | 21.3321 | 19.4636
040022 | 17.0397 | 20.8281 | 19.2393 | 18.9742
040024 | 14.4541 | 17.6607 | 15.0590 | 15.6850
040025 | 11.5079 | 13.4705 | 14.8071 | 13.1413
040026 | 19.5563 | 19.7924 | 21.0143 | 20.1201
040027 | 16.0975 | 17.4431 | 17.7161 | 17.1113
040028 | 14.6584 | 13.9946 | 15.2850 | 14.6612
040029 | 17.8787 | 21.1370 | 22.5094 | 20.5216
040030 | 13.5428 | 11.2402 | 16.5488 | 13.3388
040032 | 13.7030 | 13.2872 | 13.8013 | 13.5932
040035 | 12.8300 | 10.9569 | 11.0611 | 11.5521
040036 | 18.9757 | 20.2012 | 21.1066 | 20.1370
040037 | 14.6559 | 14.0941 | 15.4984 | 14.7015
040039 | 14.3576 | 14.7177 | 14.8433 | 14.6458
040040 | 18.0895 | 19.1984 | 19.6704 | 18.9937
040041 | 15.9896 | 16.4624 | 17.7783 | 16.7177
040042 | 15.2142 | 15.2057 | 16.6875 | 15.6976
040044 | 12.6275 | 13.3501 | 17.1869 | 14.3743
040045 | 14.9429 | 16.2469 | 16.6648 | 15.9379
040047 | 16.8654 | 17.5336 | 18.6295 | 17.6726
040050 | 13.3818 | 14.0036 | 14.2087 | 13.8730
040051 | 15.8627 | 16.6039 | 18.0487 | 16.8084
040053 | 16.3610 | 15.0219 | 14.1508 | 15.1659
040054 | 15.3219 | 14.2577 | 16.5217 | 15.3669
040055 | 17.1269 | 18.0414 | 16.6283 | 17.2760
040058 | 17.6766 | 16.4278 | 19.3124 | 17.6534
040060 | 12.8148 | 17.9805 | 15.4220 | 15.0376
040062 | 18.2048 | 17.8902 | 19.4255 | 18.5267
040064 | 10.7255 | 11.5029 | 13.3479 | 11.7813
040066 | 18.3377 | 19.7144 | 18.7831 | 18.9326
040067 | 14.6014 | 14.4741 | 15.0081 | 14.6924
040069 | 17.5052 | 17.0026 | 18.9754 | 17.8560
040070 | 16.9027 | 16.9700 | 18.6066 | 17.5468
040071 | 16.9610 | 17.6144 | 18.0874 | 17.5370
040072 | 16.0895 | 17.4960 | 21.3094 | 18.1882
040074 | 18.3224 | 18.7542 | 20.8465 | 19.2921
040075 | 13.3623 | 14.0975 | 14.6681 | 14.0257
040076 | 19.0732 | 20.5840 | 21.8010 | 20.4612
040077 | 12.9211 | 13.9114 | 14.7230 | 13.8164
040078 | 18.7600 | 18.5821 | * | 18.6754
040080 | 19.2461 | 19.3707 | 22.8153 | 20.3838
040081 | 11.3169 | 11.1332 | 12.4796 | 11.6373
040082 | 16.2152 | 15.1331 | 16.4840 | 15.9329
040084 | 17.2613 | 17.7295 | 18.3410 | 17.7584
040085 | 16.8957 | 16.5216 | 14.1782 | 15.7843
040088 | 17.9636 | 17.1624 | 18.2831 | 17.7943
040090 | 17.8282 | 19.0824 | 16.6619 | 17.8476
040091 | 19.8700 | 20.1378 | 20.2904 | 20.1018
040093 | 12.3537 | 13.9741 | 14.7132 | 13.5635
040100 | 14.7587 | 15.6833 | 16.9558 | 15.9133
040105 | 15.3319 | 14.3896 | 14.8936 | 14.8814
040106 | 15.6545 | 18.1341 | 19.0936 | 17.8001
040107 | 18.8120 | 17.8628 | 20.6852 | 19.1446
040109 | 14.6266 | 16.6278 | 16.2496 | 15.8538
040114 | 18.8743 | 21.1231 | 21.3826 | 20.4184
040116 | 20.2716 | * | * | 20.2716
040118 | 19.3720 | 18.2123 | 19.6248 | 19.0444
040119 | 15.5338 | 16.9407 | 18.5876 | 17.0324
040124 | 19.1349 | 19.2889 | * | 19.2100
040126 | 12.5368 | 11.6517 | 16.3391 | 13.4177
040132 | 17.5179 | 10.3875 | * | 13.5846
040134 | 18.0787 | 19.0185 | 22.1291 | 19.8434
040135 | 22.6761 | 23.0084 | * | 22.8797
040136 | * | * | 21.4139 | 21.4139
050002 | 37.8295 | 36.9630 | 30.2629 | 34.5243
050006 | 19.5594 | 18.2061 | 22.4890 | 20.0298
050007 | 30.7126 | 30.8676 | 31.6270 | 31.0595
050008 | 26.2458 | 26.3682 | 28.2021 | 26.8667
050009 | 26.8159 | 28.4734 | 28.3021 | 27.8816
050013 | 23.2201 | 28.0569 | 27.2552 | 25.9477
050014 | 22.8478 | 23.6745 | 25.1664 | 23.9039
050015 | 26.2481 | 27.7731 | 28.2204 | 27.4404
050016 | 20.5566 | 21.2045 | 22.7014 | 21.5040
050017 | 23.9625 | 25.6178 | 25.7403 | 25.1023
050018 | 15.4721 | 15.2903 | 16.4211 | 15.7749
050021 | 25.8966 | * | * | 25.8966
050022 | 24.0318 | 24.5254 | 26.2574 | 24.9836
050024 | 21.3989 | 22.4274 | 21.5230 | 21.7688
050025 | 23.3896 | 24.8245 | 26.0161 | 24.7262
050026 | 27.8736 | 23.1904 | 23.4651 | 24.6800
050028 | 16.4671 | 17.6138 | 17.9421 | 17.3234
050029 | 25.1259 | 24.6839 | 26.6783 | 25.4673
050030 | 20.9812 | 21.5621 | 21.8639 | 21.4881
050032 | 25.2010 | 24.3598 | 24.4176 | 24.6502
050033 | 24.9328 | 32.0179 | 31.1768 | 29.1633
050036 | 21.2420 | 21.8239 | 24.1361 | 22.4423
050038 | 28.6528 | 29.9698 | 32.1757 | 30.1303
050039 | 22.7117 | 22.8288 | 23.8122 | 23.1279
050040 | 32.1287 | 30.2607 | 30.1153 | 30.8697
050042 | 24.8067 | 24.5260 | 25.4903 | 24.9502
050043 | 32.9958 | 33.8255 | 38.8988 | 35.0749
050045 | 19.8831 | 21.1474 | 21.0356 | 20.7131
050046 | 25.3185 | 25.2005 | 25.3067 | 25.2745
050047 | 29.9255 | 29.9580 | 31.6959 | 30.5375
050051 | 17.8945 | 18.7809 | 17.9266 | 18.1624
050054 | 20.7212 | 22.0982 | 19.2395 | 20.6257
050055 | 29.3984 | 29.2730 | 32.0923 | 30.2190
050056 | 27.4321 | 23.8396 | 24.7994 | 25.2478
050057 | 21.1554 | 20.7420 | 21.7403 | 21.2220
050058 | 23.1641 | 23.3009 | 24.8366 | 23.7800
050060 | 20.7747 | 20.5450 | 21.9971 | 21.2660
050061 | 23.5454 | 24.5488 | 23.9906 | 24.0316
050063 | 24.8851 | 25.7593 | 25.5798 | 25.3924
050065 | 24.0420 | 24.6290 | 27.6677 | 25.3130
050066 | 16.5725 | 16.1649 | 26.3920 | 18.5257
050067 | 23.1966 | 25.8857 | 22.1250 | 23.5170
050068 | 20.6851 | 19.3615 | 19.2325 | 19.8460
050069 | 25.9420 | 24.6153 | 25.8560 | 25.4593
050070 | 32.5166 | 34.0721 | 36.4136 | 34.4086
050071 | 33.1850 | 34.4367 | 36.4834 | 34.7318
050072 | 33.2858 | 39.7321 | 36.1146 | 36.2550
050073 | 33.3922 | 32.8555 | 36.1054 | 34.1118
050075 | 33.9095 | 33.7160 | 37.8104 | 35.1272
050076 | 27.7797 | 33.9752 | 37.0415 | 32.6495
050077 | 24.1019 | 24.1404 | 25.3481 | 24.5518
050078 | 23.0736 | 24.3150 | 22.6776 | 23.3158
050079 | 33.2432 | 30.0167 | 36.5455 | 33.0896
050082 | 22.1009 | 23.7617 | 23.7718 | 23.2042
050084 | 23.5866 | 25.4517 | 25.1155 | 24.6796
050088 | 20.8406 | 24.9641 | 25.2282 | 23.4877
050089 | 20.9117 | 22.8450 | 23.4120 | 22.3589
050090 | 23.4097 | 24.6070 | 25.4545 | 24.4799
050091 | 25.2792 | 23.7713 | * | 24.5189
050092 | 16.7969 | 17.1211 | 17.1883 | 17.0299
050093 | 25.2130 | 25.6647 | 27.1820 | 26.0418
050095 | 33.6718 | 30.4847 | 29.2226 | 31.0314
050096 | 20.0487 | 22.7394 | 22.5034 | 21.6293
050097 | 16.7054 | 22.5991 | 24.2548 | 20.5747
050099 | 24.8091 | 25.3722 | 26.2363 | 25.4947
050100 | 29.8758 | 25.2031 | 23.9877 | 26.2195
050101 | 31.0264 | 31.8957 | 32.7594 | 31.9069
050102 | 22.2937 | 24.0014 | 22.6741 | 22.9916
050103 | 24.7932 | 25.4133 | 23.5946 | 24.5653
050104 | 25.5797 | 26.9726 | 25.4575 | 26.0072
050107 | 21.2690 | 22.2019 | 22.2746 | 21.9397
050108 | 23.5564 | 25.1758 | 25.6983 | 24.8127
050110 | 20.1870 | 19.9589 | 21.3399 | 20.4921
050111 | 21.5487 | 20.7897 | 21.0813 | 21.1480
050112 | 25.3015 | 26.8182 | 28.3676 | 26.8364
050113 | 28.8420 | 28.5224 | 32.3967 | 30.0407
050114 | 24.7286 | 26.6757 | 27.6486 | 26.3583
050115 | 21.3291 | 23.0182 | 24.3748 | 22.9340
050116 | 25.2130 | 24.9196 | 27.0331 | 25.6442
050117 | 23.3612 | 22.2123 | 23.0697 | 22.8657
050118 | 23.7698 | 23.7129 | 24.9094 | 24.1342
050121 | 19.5252 | 18.7272 | 18.8430 | 19.0230
050122 | 26.3172 | 26.9546 | 26.9193 | 26.7318
050124 | 22.7736 | 24.5069 | 23.9379 | 23.7017
050125 | 29.6147 | 32.0230 | 33.3290 | 31.6254
050126 | 23.9247 | 24.6752 | 26.9718 | 25.2082
050127 | 22.1937 | 20.9027 | 20.5928 | 21.0815
050128 | 25.7240 | 26.6132 | 26.2519 | 26.1998
050129 | 26.5030 | 24.0108 | 23.2118 | 24.4255
050131 | 31.0732 | 32.5462 | 33.0980 | 32.2202
050132 | 24.0834 | 24.0173 | 24.1583 | 24.0881
050133 | 24.9746 | 23.2093 | 23.9479 | 23.9946
050135 | 23.2361 | 24.7157 | 23.2750 | 23.7026
050136 | 24.7921 | 24.7280 | 28.0754 | 25.7753
050137 | 32.6507 | 32.9192 | 33.7489 | 33.1070
050138 | 37.3286 | 38.1584 | 40.8912 | 38.7884
050139 | 32.9351 | 31.4984 | 35.1492 | 33.0424
050140 | 34.1499 | 32.7609 | 36.7096 | 34.4570
050144 | 27.8751 | 27.4069 | * | 27.6480
050145 | 32.3857 | 34.5185 | 37.5003 | 34.7881
050148 | 21.9211 | 20.0971 | 21.1622 | 21.0247
050149 | 24.6078 | 26.8674 | 25.8880 | 25.7652
050150 | 24.9073 | 24.6596 | 25.9494 | 25.1761
050152 | 34.0766 | 33.3305 | 33.1217 | 33.4979
050153 | 30.5714 | 32.3389 | 32.1256 | 31.7026
050155 | 21.0257 | 25.3354 | 23.2118 | 23.0854
050158 | 27.5623 | 28.6071 | 28.9764 | 28.3557
050159 | 23.2912 | 22.5313 | 26.6139 | 23.7086
050167 | 21.9128 | 21.8796 | 21.9596 | 21.9174
050168 | 23.3511 | 25.1937 | 27.1971 | 25.2088
050169 | 22.3888 | 24.8407 | 24.7737 | 23.9439
050170 | 23.9574 | 24.3654 | 27.9459 | 25.2622
050172 | 20.1841 | 19.6120 | 22.0400 | 20.6111
050173 | 24.5545 | 24.8694 | * | 24.7049
050174 | 30.2140 | 30.2775 | 31.6888 | 30.7398
050175 | 27.2806 | 24.7548 | 26.0146 | 25.8419
050177 | 21.7943 | 21.1396 | 22.5039 | 21.8034
050179 | 21.7175 | 23.8868 | 22.8941 | 22.7755
050180 | 31.8947 | 33.3257 | 34.0900 | 33.1860
050183 | 20.3638 | * | * | 20.3638
050186 | 22.4155 | 23.6288 | 25.0791 | 23.7560
050188 | 28.0918 | 28.2364 | 30.6007 | 29.0015
050189 | 22.8687 | 27.4071 | 28.3295 | 26.4046
050191 | 20.8321 | 25.3516 | 29.2992 | 25.0950
050192 | 18.6701 | 14.1996 | 19.0400 | 17.0362
050193 | 22.6316 | 24.9444 | 25.5294 | 24.3542
050194 | 29.7371 | 29.5678 | 28.5389 | 29.2648
050195 | 35.5621 | 36.9068 | 39.1617 | 37.2637
050196 | 18.5180 | 18.2411 | 19.4304 | 18.7370
050197 | 35.7449 | 32.4030 | 34.6750 | 34.1639
050204 | 23.6105 | 22.7099 | 23.0192 | 23.1063
050205 | 23.6831 | 24.1691 | 24.1275 | 23.9917
050207 | 21.6214 | 22.9941 | 23.4210 | 22.6876
050211 | 31.6084 | 31.7280 | 33.2481 | 32.1766
050213 | 21.4806 | 21.4951 | * | 21.4880
050214 | 21.7335 | 24.0276 | 21.1480 | 22.2422
050215 | 29.8563 | 35.0459 | 31.6895 | 32.1029
050217 | 19.6010 | 20.2042 | 21.3026 | 20.3986
050219 | 21.7444 | 21.2458 | 21.7637 | 21.5978
050222 | 27.4809 | 23.3563 | 23.0670 | 24.3640
050224 | 23.5316 | 23.5101 | 24.8431 | 23.9839
050225 | 23.3480 | 21.6820 | 22.0981 | 22.3835
050226 | 27.7315 | 24.4443 | 26.1959 | 26.0496
050228 | 34.0711 | 34.2596 | 36.0632 | 34.7751
050230 | 27.7357 | 26.6291 | 26.7963 | 27.0820
050231 | 26.1508 | 26.7321 | 26.8977 | 26.6061
050232 | 24.3072 | 24.5245 | 25.8640 | 24.8981
050234 | 25.7035 | 24.6126 | 25.0104 | 25.0823
050235 | 25.2527 | 27.0922 | 26.0323 | 26.1239
050236 | 26.9803 | 25.9458 | 27.7406 | 26.8805
050238 | 24.2922 | 24.5823 | 25.1796 | 24.6748
050239 | 22.6625 | 23.2711 | 24.9463 | 23.6289
050240 | 26.3657 | 26.7620 | * | 26.5501
050241 | 26.3740 | 29.8345 | * | 27.9992
050242 | 31.1576 | 32.0829 | 32.9875 | 32.0689
050243 | 28.9635 | 26.4627 | 26.0256 | 27.1221
050245 | 23.8124 | 23.2716 | 27.5920 | 24.8781
050248 | 26.2015 | 27.6457 | 28.4413 | 27.4692
050251 | 21.6574 | 23.6360 | 27.9531 | 24.2057
050253 | 16.0701 | 16.7540 | 21.0399 | 17.6028
050254 | 19.3126 | 20.1176 | 22.3414 | 20.6227
050256 | 23.6887 | 23.4835 | 25.1104 | 24.1533
050257 | 15.2306 | 17.2596 | 15.6379 | 16.0441
050260 | 23.2421 | 27.4234 | 30.1623 | 26.5840
050261 | 20.0552 | 20.1040 | 19.4649 | 19.8596
050262 | 28.8785 | 29.5550 | 30.8866 | 29.7520
050264 | 32.1312 | 36.0331 | 32.8689 | 33.6109
050267 | 26.2264 | 26.0401 | 27.8393 | 26.6370
050270 | 24.0439 | 25.3757 | 26.4092 | 25.2781
050272 | 22.4247 | 23.0587 | 23.3443 | 22.9405
050274 | 20.0422 | * | * | 20.0422
050276 | 29.8624 | 33.3302 | 34.0633 | 32.3736
050277 | 20.0520 | 26.0822 | 23.6065 | 23.0165
050278 | 24.7787 | 23.9289 | 24.9699 | 24.5628
050279 | 20.8444 | 21.8949 | 22.2776 | 21.6332
050280 | 25.2149 | 25.6651 | 26.3392 | 25.7541
050281 | 19.6888 | 24.2251 | 25.2699 | 22.9927
050282 | 28.8261 | 25.4428 | 26.4698 | 26.9213
050283 | 29.7734 | 31.7669 | 32.3270 | 31.3481
050286 | 16.5708 | 19.4241 | 20.6191 | 18.4349
050289 | 34.1393 | 30.4750 | 32.2125 | 32.1522
050290 | 28.6231 | 29.6796 | 31.5000 | 29.9312
050291 | 30.2748 | 29.4029 | 30.9334 | 30.2109
050292 | 21.6243 | 20.8410 | 21.4357 | 21.2903
050293 | 22.2963 | 24.1875 | * | 23.1602
050295 | 21.2892 | 21.7883 | 24.5917 | 22.5802
050296 | 27.2948 | 28.3906 | 30.0984 | 28.6215
050298 | 24.4477 | 23.2006 | 22.4000 | 23.3022
050299 | 26.4543 | 25.5035 | 24.6751 | 25.5099
050300 | 23.5116 | 25.9228 | 26.0298 | 25.2222
050301 | 22.5201 | 21.1403 | 24.7987 | 22.7770
050305 | 34.5185 | 36.7908 | 36.6981 | 36.0318
050307 | 17.2147 | * | * | 17.2147
050308 | 29.3803 | 28.9284 | 28.5759 | 28.9478
050309 | 23.7884 | 25.3515 | 25.5221 | 24.8819
050312 | 26.7617 | 26.0015 | 26.0172 | 26.2525
050313 | 21.7577 | 25.6827 | 28.9126 | 25.5297
050315 | 24.7086 | 22.7359 | 25.8372 | 24.4689
050317 | 21.6937 | * | * | 21.6937
050320 | 30.4101 | 32.4809 | 31.6571 | 31.4911
050324 | 26.6049 | 25.3694 | 26.8313 | 26.2820
050325 | 24.4862 | 23.6327 | 22.6353 | 23.5919
050327 | 23.9484 | 25.6450 | * | 24.7970
050329 | 19.7455 | 21.6984 | 24.2134 | 21.8073
050331 | 22.2536 | 25.0230 | 25.2110 | 24.0855
050333 | 19.4589 | 19.1449 | 14.1808 | 17.2305
050334 | 34.2330 | 34.2557 | 34.3956 | 34.2968
050335 | 23.0258 | 22.9926 | 22.9335 | 22.9822
050336 | 20.7979 | 21.3402 | 18.9187 | 20.3375
050342 | 20.1841 | 20.8255 | 22.4356 | 21.1404
050343 | 17.2085 | * | * | 17.2085
050348 | 23.8779 | 25.1085 | 29.3364 | 26.0263
050349 | 14.9754 | 15.0667 | 15.4536 | 15.1663
050350 | 24.8340 | 26.4161 | 27.2368 | 26.1456
050351 | 25.4791 | 24.8121 | 25.2436 | 25.1768
050352 | 26.1380 | 26.4262 | 27.7489 | 26.7934
050353 | 23.0564 | 23.2699 | 24.1009 | 23.4992
050355 | 17.2778 | 21.0969 | * | 18.6280
050357 | 22.6545 | 24.5345 | 24.3540 | 23.9188
050359 | 17.7907 | 21.7548 | 19.6236 | 19.5994
050360 | 31.3526 | 31.7583 | 33.3592 | 32.1693
050366 | 23.7528 | 19.6823 | 22.0442 | 21.7233
050367 | 28.2805 | 30.7328 | 31.7487 | 30.2799
050369 | 27.0548 | 26.2234 | 26.6627 | 26.6233
050373 | 26.9776 | 27.8275 | 29.9749 | 28.1900
050376 | 26.5840 | 28.0990 | 28.4026 | 27.6603
050377 | 17.1764 | 17.0012 | * | 17.1127
050378 | 25.9810 | 26.9101 | 27.8389 | 26.9067
050379 | 15.2022 | 18.4278 | * | 16.6705
050380 | 31.4343 | 31.9578 | 31.5137 | 31.6362
050382 | 26.1398 | 25.9244 | 26.3968 | 26.1598
050385 | 24.6083 | * | 27.1692 | 25.6464
050388 | 19.1512 | 22.0122 | 17.6762 | 19.5684
050390 | 25.0426 | 24.2700 | 25.8556 | 25.0345
050391 | 18.9266 | 20.0615 | 19.0832 | 19.3414
050392 | 21.6729 | 22.9430 | 24.9003 | 23.1073
050393 | 25.6964 | 24.1981 | 25.4028 | 25.0965
050394 | 23.0604 | 23.1526 | 23.1641 | 23.1275
050396 | 24.0636 | 25.3729 | 25.7580 | 25.0612
050397 | 20.2601 | 20.6397 | 23.3212 | 21.1533
050401 | 20.7473 | 18.4593 | * | 19.5658
050404 | 17.3396 | 15.9839 | 16.4845 | 16.6030
050406 | 17.3016 | 17.8596 | 21.5282 | 18.7226
050407 | 29.9642 | 30.8346 | 32.0753 | 30.9310
050410 | 17.6769 | 19.8508 | 17.1718 | 18.1805
050411 | 34.8899 | 33.1943 | 33.1718 | 33.7076
050414 | 24.2060 | 25.9723 | 24.4936 | 24.8800
050417 | 21.5739 | 23.3005 | 23.3862 | 22.7800
050419 | 23.7584 | 23.4936 | 25.1449 | 24.1188
050420 | 22.3166 | 23.5438 | 26.4201 | 24.1207
050423 | 17.3771 | 21.3552 | 24.8113 | 20.9574
050424 | 22.8350 | 24.0727 | 25.9378 | 24.3139
050425 | 32.8364 | 35.3712 | 33.7276 | 33.9997
050426 | 25.2453 | 29.0120 | 27.4428 | 27.1541
050427 | 20.1674 | 16.4330 | * | 17.9553
050430 | 23.8788 | 21.2275 | 25.2322 | 23.4217
050432 | 24.4133 | 24.5630 | 26.0686 | 25.0170
050433 | 17.4643 | 18.9021 | 17.7980 | 18.0325
050434 | 19.7591 | * | 24.0017 | 21.7788
050435 | 25.6676 | 23.3426 | 22.2458 | 23.7166
050436 | 14.8121 | * | * | 14.8121
050438 | 25.0138 | 23.2583 | 25.3763 | 24.5467
050440 | 23.5167 | 22.5400 | 25.4767 | 23.8254
050441 | 28.9804 | 31.8774 | 33.4696 | 31.2892
050443 | 19.9020 | 17.2875 | 16.8897 | 17.9266
050444 | 21.4533 | 22.4530 | 22.6469 | 22.1781
050446 | 20.4908 | 22.3422 | 20.3611 | 21.0344
050447 | 17.9751 | 18.9851 | 24.4339 | 20.7186
050448 | 19.7046 | 21.7718 | 22.6612 | 21.3755
050449 | 23.8001 | 23.4614 | * | 23.6286
050454 | 28.7432 | 30.0792 | 30.3063 | 29.7856
050455 | 20.1643 | 19.8577 | 20.5575 | 20.1952
050456 | 20.1254 | 18.1585 | 17.5846 | 18.4965
050457 | 34.4949 | 32.1910 | 33.5750 | 33.4045
050464 | 25.3292 | 25.7710 | 25.8092 | 25.6421
050468 | 23.3050 | 22.2926 | 22.9771 | 22.8607
050469 | 23.8759 | 24.5205 | * | 24.1896
050470 | 16.0292 | 16.0805 | 15.7765 | 15.9567
050471 | 25.6172 | 27.1597 | 29.4705 | 27.3360
050476 | 22.4754 | 24.0253 | 25.9458 | 24.2592
050477 | 27.9595 | 27.5819 | 30.8781 | 28.6932
050478 | 24.5401 | 26.3306 | 28.1829 | 26.3141
050481 | 28.9722 | 27.7973 | 28.5320 | 28.4396
050482 | 18.1217 | 16.0114 | 21.6091 | 18.2297
050483 | 22.7182 | * | * | 22.7182
050485 | 24.1983 | 24.6906 | 23.9507 | 24.2714
050488 | 34.6939 | 31.7481 | 33.8291 | 33.4344
050491 | 26.8703 | 27.4600 | 27.7412 | 27.3548
050492 | 19.5457 | 20.5030 | 23.4977 | 21.2468
050494 | 29.2621 | 29.1296 | 30.2875 | 29.5621
050496 | 32.5168 | 34.9704 | 32.7474 | 33.3456
050497 | 13.8110 | 15.4115 | * | 14.5264
050498 | 24.9677 | 26.1716 | 27.6099 | 26.2387
050502 | 22.3788 | 25.3701 | 27.2724 | 24.9510
050503 | 24.4069 | 23.3745 | 25.7668 | 24.5458
050506 | 25.0845 | 25.0333 | 27.1555 | 25.7636
050510 | 33.3774 | 33.7481 | 36.2548 | 34.4910
050512 | 35.3581 | 34.4368 | 36.0785 | 35.2923
050515 | 35.3419 | 33.7321 | 37.3440 | 35.4231
050516 | 24.7992 | 26.1969 | 25.1778 | 25.3919
050517 | 20.9550 | 22.0985 | 23.6067 | 22.1150
050522 | 35.3784 | 36.2127 | 37.0295 | 36.1638
050523 | 27.0544 | 31.2522 | 32.1272 | 30.1439
050526 | 23.8099 | 26.4014 | 27.9306 | 26.0042
050528 | 19.0611 | 18.9155 | 21.1741 | 19.7510
050531 | 22.7308 | 21.3948 | * | 22.0804
050534 | 24.0700 | 24.0001 | 24.4038 | 24.1576
050535 | 25.4215 | 26.8511 | 27.7626 | 26.6201
050537 | 22.2256 | 24.0354 | 26.2342 | 24.2063
050539 | 20.7129 | 23.3846 | 23.6244 | 22.6500
050541 | 34.4573 | 36.6149 | 37.0551 | 36.1147
050542 | 16.0892 | 17.7737 | 21.8129 | 18.4625
050543 | 22.3994 | 21.6795 | 22.4134 | 22.1708
050545 | 26.3304 | 31.7280 | 33.6302 | 29.6054
050546 | 26.1949 | 38.8087 | 39.4266 | 31.5013
050547 | 26.8305 | 37.7681 | 37.7633 | 31.6990
050548 | 28.8083 | 29.8516 | 30.3336 | 29.5564
050549 | 27.2765 | 28.9615 | 30.0948 | 28.8364
050550 | 24.8048 | 25.6588 | * | 25.2235
050551 | 25.4652 | 24.8084 | 25.9619 | 25.4069
050552 | 21.5216 | 20.3239 | 20.6068 | 20.8970
050557 | 21.1243 | 22.2562 | 23.8340 | 22.4197
050559 | 23.5759 | 24.7866 | 26.3799 | 24.8811
050561 | 34.5791 | 33.4423 | 34.2065 | 34.0632
050564 | 23.5922 | 24.2091 | * | 23.9025
050565 | 23.7829 | 20.8349 | * | 22.1110
050566 | 17.4423 | 22.3448 | 21.7712 | 20.6000
050567 | 24.6454 | 25.0787 | 26.2588 | 25.3566
050568 | 19.5816 | 20.5376 | 21.9313 | 20.7038
050569 | 26.5479 | 27.3429 | 27.3294 | 27.0680
050570 | 25.2294 | 25.8619 | 26.8965 | 26.0357
050571 | 26.2039 | 24.0154 | 24.6237 | 24.9296
050573 | 24.9644 | 25.6589 | 25.9380 | 25.5333
050575 | 19.5611 | 20.7090 | 27.8579 | 22.3375
050577 | 25.1549 | 23.5487 | 25.2861 | 24.6231
050578 | 28.5379 | 28.9009 | 32.0554 | 29.7756
050579 | 30.4952 | 29.9348 | 32.0245 | 30.8151
050580 | 25.9004 | 24.6962 | 22.7522 | 24.4365
050581 | 23.8584 | 24.9807 | 26.0580 | 24.9311
050583 | 24.3987 | 25.8800 | 26.2664 | 25.5050
050584 | 21.2366 | 19.5805 | 24.5294 | 21.6929
050585 | 25.9426 | 24.2824 | 26.4446 | 25.5528
050586 | 23.4079 | 23.1850 | * | 23.3000
050588 | 25.3094 | 24.5472 | 27.0506 | 25.7065
050589 | 24.8698 | 23.8880 | 23.7918 | 24.1317
050590 | 22.4480 | 24.4797 | 25.7756 | 24.1986
050591 | 23.9412 | 25.0209 | 26.7662 | 25.1993
050592 | 21.1745 | 22.1174 | 23.8267 | 22.4222
050594 | 27.1584 | 27.7002 | 28.7415 | 27.8366
050597 | 22.8523 | 23.3280 | 23.1209 | 23.0979
050598 | 24.3597 | 23.9202 | 25.1622 | 24.5206
050599 | 29.1221 | 26.0892 | 26.3782 | 27.1542
050601 | 31.8670 | 29.7417 | 29.7734 | 30.4482
050603 | 23.3390 | 21.7031 | 24.9032 | 23.2638
050604 | 34.0461 | 35.4034 | 36.4669 | 35.3805
050608 | 18.0947 | 18.1664 | 20.7987 | 18.9517
050609 | 34.9935 | 33.5028 | 34.8949 | 34.4263
050613 | 23.3835 | 30.2413 | 34.9980 | 28.8691
050615 | 23.8815 | 27.5682 | 25.8698 | 25.6901
050616 | 22.7437 | 24.9843 | 25.0016 | 24.2299
050618 | 21.6509 | 21.4895 | 22.3548 | 21.8584
050623 | 29.1806 | 27.5832 | 28.6475 | 28.4545
050624 | 22.7148 | 26.4659 | 22.4030 | 23.6850
050625 | 26.4849 | 27.5816 | 28.1438 | 27.4404
050630 | 23.9159 | 24.2120 | 25.1453 | 24.4580
050633 | 23.1918 | 25.4283 | 27.8165 | 25.4720
050636 | 21.2618 | 23.5257 | 25.0214 | 23.2191
050638 | 18.2859 | 18.2159 | 15.6375 | 17.1599
050641 | 21.8315 | 17.1258 | 17.9379 | 18.6266
050644 | 22.3456 | 22.1489 | * | 22.2474
050661 | 19.6780 | * | * | 19.6780
050662 | 26.9606 | 35.0989 | 38.9592 | 31.5421
050663 | 30.6591 | 24.9110 | 22.7770 | 25.2271
050667 | 24.9979 | 27.5045 | 26.9236 | 26.1684
050668 | 42.0974 | 61.7751 | 57.8627 | 51.0207
050670 | 20.0152 | 24.6101 | 24.1626 | 22.6855
050674 | 34.7380 | 32.4807 | 33.7845 | 33.5929
050675 | 15.6794 | * | * | 15.6794
050676 | 18.6672 | 20.2087 | 16.3948 | 18.3663
050677 | 35.6503 | 33.6070 | 34.0936 | 34.4139
050678 | 26.8741 | 22.7756 | 25.2143 | 24.8560
050680 | 28.0584 | 31.4839 | 31.9166 | 30.4823
050682 | 26.2882 | 17.3566 | 19.8107 | 20.5443
050684 | 22.3398 | 23.3697 | 24.2792 | 23.3071
050685 | 31.1725 | 35.1307 | 30.4194 | 32.1391
050686 | 35.2631 | 33.4420 | 34.8278 | 34.4753
050688 | 30.6635 | 31.0648 | 34.9936 | 32.8691
050689 | 30.7295 | 30.9399 | 34.0571 | 31.9763
050690 | 32.8204 | 34.8112 | 36.7516 | 34.8707
050693 | 26.8265 | 25.5662 | 29.1213 | 27.1699
050694 | 23.2293 | 23.5572 | 25.1964 | 23.9614
050695 | 21.1377 | 24.4301 | 26.2838 | 24.0169
050696 | 28.0015 | 28.3291 | 29.6685 | 28.6563
050697 | 21.1566 | 18.2338 | 24.1116 | 21.0055
050698 | * | * | 24.9559 | 24.9559
050699 | 25.7843 | 17.5296 | 23.4611 | 21.9391
050701 | 22.6959 | 24.3055 | 26.4901 | 24.3588
050704 | 22.8716 | 22.7618 | 25.6565 | 23.8031
050707 | 26.2732 | 27.8958 | 28.2637 | 27.6356
050708 | 22.7821 | 24.8647 | 24.5606 | 24.0910
050709 | 21.9598 | 19.4977 | 21.8770 | 21.0737
050710 | 26.9060 | 27.5828 | 30.5918 | 28.4895
050713 | 17.7259 | 16.8538 | 18.2822 | 17.6031
050714 | 28.9314 | 30.1925 | 30.3290 | 29.7818
050717 | 25.9534 | 28.7973 | 31.5021 | 28.6924
050718 | 17.6062 | 18.0940 | 22.5989 | 19.6750
050719 | 25.5508 | 23.0833 | * | 23.8495
050720 | * | 25.8677 | * | 25.8677
050723 | * | * | 32.0291 | 32.0291
060001 | 21.3659 | 21.1819 | 20.6781 | 21.0801
060003 | 19.8023 | 20.4682 | 21.9043 | 20.7102
060004 | 22.8750 | 21.4496 | 22.9265 | 22.4496
060006 | 19.3651 | 20.0213 | 21.0003 | 20.1579
060007 | 17.4682 | 18.2977 | 19.3071 | 18.3452
060008 | 18.0333 | 18.4590 | 18.7097 | 18.3997
060009 | 21.4312 | 22.7164 | 23.9272 | 22.7121
060010 | 24.0872 | 23.6827 | 24.7332 | 24.1778
060011 | 23.4366 | 22.3458 | 22.2058 | 22.6927
060012 | 20.1442 | 19.4932 | 21.2980 | 20.3114
060013 | 22.7346 | 19.1256 | 23.5248 | 21.7755
060014 | 24.2459 | 24.3210 | 25.7689 | 24.7914
060015 | 20.9773 | 23.2469 | 23.6015 | 22.5801
060016 | 16.4707 | 20.2408 | 20.2361 | 18.8056
060018 | 20.3183 | 21.5083 | 21.8478 | 21.1863
060020 | 18.3099 | 18.8985 | 19.4966 | 18.9093
060022 | 21.0558 | 21.0830 | 22.6052 | 21.6192
060023 | 19.2373 | 21.5475 | 22.6480 | 21.1568
060024 | 21.9955 | 22.9185 | 23.5154 | 22.8418
060027 | 20.9846 | 22.0713 | 21.7571 | 21.6190
060028 | 23.2065 | 23.1792 | 24.2985 | 23.5665
060029 | 20.8585 | 18.2938 | 19.8498 | 19.6763
060030 | 20.5002 | 20.3452 | 18.0264 | 19.6163
060031 | 21.1649 | 22.5067 | 23.3995 | 22.3074
060032 | 23.4162 | 22.8123 | 24.2216 | 23.4772
060033 | 15.9085 | 16.0760 | 17.8514 | 16.5805
060034 | 22.4791 | 23.2816 | 23.4859 | 23.0898
060036 | 15.0698 | 18.5988 | 18.6521 | 17.3368
060037 | 15.5611 | 15.4513 | 15.7495 | 15.5902
060038 | 14.0791 | 14.3249 | 16.6525 | 15.2260
060041 | 14.8934 | 19.1263 | 19.0282 | 17.3424
060042 | 19.1892 | 20.8597 | 19.3967 | 19.6496
060043 | 13.6717 | 13.4443 | 15.4073 | 14.1048
060044 | 19.7039 | 20.8673 | 21.3102 | 20.6215
060046 | 19.4567 | 22.2699 | 22.6819 | 21.4974
060047 | 15.8770 | 17.1534 | 17.9173 | 16.9143
060049 | 21.7797 | 23.0613 | 25.9592 | 23.6523
060050 | 18.2238 | 19.0832 | * | 18.6522
060052 | 13.4210 | 14.8729 | 16.0543 | 14.6462
060053 | 15.9806 | 18.0232 | 19.4746 | 17.7396
060054 | 22.8985 | 20.4160 | 19.7753 | 20.9273
060056 | 18.2831 | 18.1263 | 21.9586 | 19.5606
060057 | 26.4046 | 25.4185 | 24.6599 | 25.4808
060058 | 15.4856 | 13.8539 | 16.4504 | 15.2822
060060 | 15.6469 | 15.6018 | 19.4418 | 16.7387
060062 | 17.2991 | 16.8640 | 17.1032 | 17.1033
060064 | 21.2207 | 22.7797 | * | 22.0259
060065 | 21.6305 | 24.5572 | 23.7809 | 23.3223
060066 | 16.3485 | 17.2537 | 17.5556 | 16.9855
060070 | 17.3184 | 18.8960 | 19.2220 | 18.4993
060071 | 17.5987 | 17.4068 | 17.6452 | 17.5489
060073 | 15.7860 | 17.0846 | 18.4971 | 17.0767
060075 | 24.1550 | 23.8724 | 25.0552 | 24.3665
060076 | 24.8732 | 20.3265 | 22.9203 | 22.6621
060085 | 13.6277 | 14.3409 | 10.9724 | 12.8943
060088 | 25.2786 | 13.7174 | 18.1570 | 17.7609
060090 | 22.2974 | 16.3760 | 16.5321 | 18.2600
060096 | 21.9623 | 20.8937 | 21.9951 | 21.6204
060100 | 23.5986 | 23.9305 | 24.1341 | 23.8807
060103 | 24.8151 | 23.5083 | 24.4962 | 24.2301
060104 | 22.2295 | 21.1820 | 24.4248 | 22.5603
060107 | 14.2698 | 21.9221 | * | 16.3130
060108 | * | * | 19.1327 | 19.1327
060109 | * | * | 27.3180 | 27.3180
070001 | 26.0878 | 26.3596 | 27.7441 | 26.7515
070002 | 26.2801 | 26.1768 | 26.6881 | 26.3761
070003 | 25.6949 | 27.5200 | 28.1721 | 27.1059
070004 | 22.4871 | 24.2567 | 25.4310 | 24.0188
070005 | 26.6483 | 26.9151 | 27.6733 | 27.0706
070006 | 27.5674 | 28.6413 | 33.6291 | 30.1330
070007 | 26.9505 | 26.3313 | 28.0875 | 27.1381
070008 | 23.0227 | 24.2971 | 25.1362 | 24.0979
070009 | 24.6201 | 24.1871 | 24.9408 | 24.5838
070010 | 26.2354 | 29.2194 | 28.3168 | 27.8716
070011 | 23.3638 | 23.0883 | 24.8206 | 23.7802
070012 | 23.0321 | 28.8067 | * | 25.4962
070015 | 23.8240 | 28.1204 | 29.2693 | 27.0233
070016 | 24.9148 | 24.4633 | 28.4833 | 25.9349
070017 | 26.2923 | 26.0424 | 27.5515 | 26.5441
070018 | 28.0689 | 30.6864 | 32.6301 | 30.4394
070019 | 25.7283 | 24.9249 | 26.2348 | 25.6326
070020 | 23.9987 | 25.9964 | 26.6203 | 25.5573
070021 | 25.2978 | 26.3043 | 29.4596 | 26.9916
070022 | 26.5691 | 26.9111 | 26.9907 | 26.8202
070024 | 25.2983 | 24.8948 | 26.2173 | 25.4902
070025 | 25.1315 | 25.4345 | 27.3592 | 25.9673
070027 | 23.6412 | 26.8450 | 25.8163 | 25.4005
070028 | 24.6788 | 25.7492 | 26.7286 | 25.7052
070029 | 22.0080 | 23.9682 | 23.8427 | 23.2454
070030 | 28.9117 | 22.1578 | * | 25.8929
070031 | 23.4419 | 24.1198 | 25.6347 | 24.3735
070033 | 30.4214 | 31.4736 | 32.8256 | 31.5451
070034 | 28.9200 | 29.4916 | 30.0480 | 29.4611
070035 | 23.0869 | 24.1423 | 24.1838 | 23.7950
070036 | 28.8400 | 29.9470 | 31.2961 | 29.9831
070038 | * | * | 26.3126 | 26.3126
070039 | 22.9032 | 22.3356 | * | 22.7640
080001 | 25.4836 | 24.8833 | 26.8887 | 25.7287
080002 | 19.6011 | 20.1965 | 20.9385 | 20.3062
080003 | 22.1856 | 23.1275 | 24.8200 | 23.2380
080004 | 21.9391 | 22.9706 | 21.7344 | 22.1849
080006 | 20.0792 | 22.6671 | 20.8203 | 21.1329
080007 | 19.6213 | 21.3746 | 21.1211 | 20.7477
090001 | 21.7526 | 21.5751 | 23.0365 | 22.1027
090002 | 19.4191 | 21.5726 | 20.6550 | 20.5048
090003 | 22.1090 | 23.1268 | 26.6720 | 23.7360
090004 | 24.3367 | 25.5054 | 25.9717 | 25.2072
090005 | 23.8620 | 26.3074 | 26.6217 | 25.5545
090006 | 20.8675 | 22.0957 | 22.6250 | 21.8452
090007 | 22.1973 | 29.2840 | 26.7809 | 26.4132
090008 | 20.2166 | 25.2708 | * | 22.7566
090010 | 24.1287 | 23.6616 | 25.9373 | 24.5182
090011 | 27.4781 | 26.6349 | 28.0948 | 27.4100
100001 | 19.5796 | 20.2157 | 21.9071 | 20.5375
100002 | 20.7136 | 21.0222 | 21.5772 | 21.1199
100004 | 14.6283 | 15.4149 | 16.1638 | 15.4361
100006 | 20.1133 | 21.2293 | 20.9190 | 20.7854
100007 | 21.7242 | 22.1590 | 22.5317 | 22.1527
100008 | 20.4980 | 20.8381 | 21.6416 | 21.0118
100009 | 22.6419 | 22.1741 | 21.3298 | 22.0295
100010 | 21.9078 | 23.0637 | 23.9582 | 22.9492
100012 | 19.6177 | 20.4659 | 21.7527 | 20.6367
100014 | 19.8023 | 19.5770 | 21.7358 | 20.3525
100015 | 18.4779 | 18.0654 | 18.9383 | 18.4860
100017 | 19.0608 | 19.8655 | 20.0861 | 19.6893
100018 | 21.0332 | 21.6388 | 22.5429 | 21.7594
100019 | 22.6152 | 23.5462 | 28.2362 | 24.8745
100020 | 21.3848 | 20.7816 | 21.7421 | 21.3134
100022 | 26.4094 | 26.5695 | 27.4235 | 26.7855
100023 | 19.9739 | 19.1787 | 20.2034 | 19.7906
100024 | 21.8791 | 22.1332 | 22.9872 | 22.3458
100025 | 18.7774 | 19.4529 | 20.1360 | 19.4381
100026 | 20.5641 | 20.9461 | 21.3742 | 20.9788
100027 | 19.1481 | 14.7916 | 20.5889 | 17.6926
100028 | 19.3757 | 19.3371 | 19.7475 | 19.4900
100029 | 20.8745 | 20.8950 | 22.2553 | 21.3244
100030 | 22.8204 | 20.5952 | 20.4996 | 21.1231
100032 | 19.8127 | 19.7451 | 20.6543 | 20.0503
100034 | 17.8743 | 19.5282 | 20.1214 | 19.1092
100035 | 20.1540 | 23.8117 | 21.2830 | 21.7761
100038 | 23.3578 | 24.5864 | 24.9548 | 24.3305
100039 | 21.5297 | 21.7861 | 23.3111 | 22.2259
100040 | 19.0449 | 18.6321 | 18.7546 | 18.8065
100043 | 18.7993 | 18.8206 | 20.7414 | 19.4322
100044 | 21.4764 | 22.7236 | 22.4824 | 22.2380
100045 | 20.9216 | 21.0228 | 22.8096 | 21.6136
100046 | 21.6207 | 21.3028 | 23.8909 | 22.2917
100047 | 20.0114 | 20.6068 | 21.4971 | 20.7134
100048 | 15.0584 | 15.7790 | 17.3663 | 16.1388
100049 | 18.8535 | 19.1025 | 20.9490 | 19.6376
100050 | 17.2377 | 17.9039 | 17.8960 | 17.6845
100051 | 23.1273 | 17.9453 | 19.3264 | 19.7334
100052 | 17.9537 | 18.1780 | 17.9957 | 18.0416
100053 | 20.1724 | 19.6800 | 21.6634 | 20.4905
100054 | 23.5491 | 21.1518 | 20.8078 | 21.8397
100055 | 18.0547 | 18.8760 | 19.1324 | 18.6804
100056 | 25.7863 | 21.8506 | 23.1737 | 23.6729
100057 | 19.9712 | 19.5319 | 22.3406 | 20.5479
100060 | 23.2561 | 23.5997 | * | 23.4313
100061 | 22.1133 | 22.9176 | 24.4704 | 23.1202
100062 | 19.4370 | 21.4424 | 21.9054 | 21.0072
100063 | 19.2629 | 18.4642 | 19.0908 | 18.9473
100067 | 18.0877 | 18.4851 | 18.5405 | 18.3328
100068 | 19.9305 | 19.8308 | 19.9648 | 19.9094
100069 | 16.8271 | 17.3666 | 18.5789 | 17.6344
100070 | 18.7408 | 20.0381 | 20.9592 | 19.7991
100071 | 17.5451 | 17.7234 | 20.7461 | 18.6293
100072 | 21.0225 | 20.5968 | 22.0317 | 21.2423
100073 | 21.1898 | 22.2812 | 22.2425 | 21.9197
100075 | 18.3688 | 19.4480 | 20.4664 | 19.4104
100076 | 17.8733 | 17.8612 | 18.4815 | 18.0825
100077 | 22.3438 | 19.0640 | 16.8641 | 17.3061
100078 | 18.4499 | 19.2891 | 14.4191 | 17.3311
100080 | 22.1966 | 22.7153 | 21.3374 | 22.0479
100081 | 14.8313 | 15.4253 | 16.5149 | 15.5681
100082 | 18.8998 | * | * | 18.8998
100084 | 22.3674 | 22.7009 | 24.5682 | 23.2945
100085 | 22.1231 | * | * | 22.1231
100086 | 21.6997 | 23.3718 | 24.3067 | 23.1462
100087 | 23.6090 | 23.6562 | 21.2831 | 22.8681
100088 | 20.3693 | 20.5566 | 20.0598 | 20.3349
100090 | 19.1479 | 19.7695 | 21.0431 | 20.0438
100092 | 17.9216 | 20.1760 | 20.5186 | 19.5588
100093 | 16.5128 | 16.8422 | 18.7153 | 17.3704
100098 | 19.2427 | 20.8315 | 21.1723 | 20.4066
100099 | 15.7823 | 15.7591 | 16.5624 | 16.0147
100102 | 18.9701 | 19.7673 | 19.0195 | 19.2464
100103 | 17.2364 | 18.7844 | 20.6957 | 18.8771
100105 | 21.6604 | 21.8268 | 22.7793 | 22.1049
100106 | 17.2527 | 17.4958 | 21.4342 | 18.9189
100107 | 20.1281 | 20.0719 | 21.7553 | 20.6632
100108 | 19.9593 | 20.1125 | 18.4127 | 19.5107
100109 | 20.8440 | 20.8370 | 20.5973 | 20.7560
100110 | 20.8995 | 20.1853 | 22.2354 | 21.1342
100112 | 25.2570 | 15.2128 | 16.2109 | 17.7240
100113 | 23.2020 | 21.3489 | 22.7264 | 22.3351
100114 | 21.6262 | 22.8178 | 22.5326 | 22.3196
100117 | 20.7624 | 20.6962 | 21.3007 | 20.9256
100118 | 22.8702 | 20.7323 | 21.4486 | 21.6456
100121 | * | 18.5842 | 18.8073 | 18.6952
100122 | 19.8783 | 19.2643 | 24.9765 | 21.2147
100124 | 17.0713 | 20.4022 | * | 18.7024
100125 | 18.9535 | 19.6097 | 20.3232 | 19.6414
100126 | 19.5413 | 19.3103 | 21.4349 | 20.0428
100127 | 19.9860 | 19.2122 | 20.4778 | 19.8925
100128 | 20.1536 | 22.8826 | 23.5835 | 22.0798
100129 | 19.1936 | * | * | 19.1936
100130 | 18.6751 | 20.0947 | 21.0023 | 19.9341
100131 | 23.4373 | 23.1622 | 24.1745 | 23.6099
100132 | 18.1167 | 18.7863 | 19.0747 | 18.6426
100134 | 15.1764 | 15.9733 | 16.9302 | 15.9832
100135 | 18.8253 | 19.1865 | 19.7675 | 19.2758
100137 | 18.6955 | 19.5562 | 20.9015 | 19.8112
100138 | 17.1373 | 14.9539 | 14.9760 | 15.5324
100139 | 15.6514 | 15.2532 | 15.7378 | 15.5541
100140 | 17.1389 | 19.0584 | 20.1703 | 18.8122
100142 | 19.6815 | 18.4113 | 17.7250 | 18.5714
100144 | 12.2877 | * | * | 12.2877
100146 | 18.1267 | 21.3359 | 21.9435 | 20.4800
100147 | 14.6616 | 15.2348 | 17.1566 | 15.6835
100150 | 21.2807 | 21.5057 | 25.4269 | 22.5635
100151 | 21.6087 | 23.8489 | 26.6143 | 24.0945
100154 | 20.0015 | 20.4068 | 21.6715 | 20.7094
100156 | 19.4980 | 18.4779 | 20.0348 | 19.3485
100157 | 22.6744 | 22.6195 | 24.2188 | 23.1792
100159 | 10.2793 | 10.7818 | 15.0633 | 11.7916
100160 | 20.5581 | 23.3121 | 22.6942 | 22.2030
100161 | 22.2994 | 22.3053 | 22.6534 | 22.4189
100162 | 20.1411 | 20.3110 | 20.4188 | 20.2955
100165 | 19.0388 | 22.6622 | * | 21.0526
100166 | 20.0250 | 21.2309 | 22.2379 | 21.1128
100167 | 23.4075 | 23.2969 | 25.6873 | 24.1145
100168 | 20.1994 | 20.3167 | 23.0121 | 21.2144
100169 | 20.9506 | 20.3017 | 21.6397 | 20.9720
100170 | 18.5088 | 19.3005 | 21.2469 | 19.5894
100172 | 14.3446 | 14.8826 | 15.7827 | 14.9994
100173 | 18.5662 | 17.1337 | 18.3828 | 18.0289
100174 | 26.1826 | 21.9807 | * | 24.0224
100175 | 18.1692 | 20.5442 | 21.2532 | 20.0936
100176 | 22.8604 | 24.3089 | 24.6595 | 23.9677
100177 | 24.4296 | 24.4284 | 26.4489 | 25.1965
100179 | 22.3015 | 23.0849 | 23.9633 | 23.1372
100180 | 20.2130 | 21.5388 | 22.6895 | 21.4521
100181 | 23.0800 | 18.9510 | 17.9048 | 19.7877
100183 | 24.6121 | 23.0654 | 22.2063 | 23.2470
100187 | 20.2533 | 20.8535 | 21.4988 | 20.8818
100189 | 21.3147 | 26.5962 | 27.1295 | 24.9742
100191 | 19.9879 | 21.0647 | 21.7024 | 20.8988
100199 | 21.7193 | * | * | 21.7193
100200 | 22.4579 | 23.8729 | 24.8878 | 23.7939
100204 | 20.8995 | 20.2193 | 20.8626 | 20.6601
100206 | 19.5710 | 20.1171 | 20.3436 | 20.0192
100208 | 21.2117 | 20.7029 | 20.4678 | 20.8077
100209 | 22.4577 | 23.3903 | 22.5915 | 22.8006
100210 | 21.3575 | 21.8545 | 23.0431 | 22.0260
100211 | 20.6427 | 20.7516 | 21.6367 | 21.0021
100212 | 21.1187 | 21.1263 | * | 21.1225
100213 | 20.6558 | 21.1818 | 21.9371 | 21.2709
100217 | 20.5909 | 22.7335 | 22.7116 | 21.9737
100220 | 21.2796 | 21.8246 | 22.3283 | 21.7592
100221 | 17.3965 | 21.2321 | 23.2263 | 20.3743
100223 | 20.6302 | 20.2233 | 21.3859 | 20.7713
100224 | 20.0251 | 21.8628 | 21.9515 | 21.2530
100225 | 20.6802 | 21.5059 | 22.4619 | 21.5424
100226 | 20.6858 | 21.8808 | 22.4084 | 21.7019
100228 | 21.3168 | 20.8810 | 23.4697 | 21.8662
100229 | 19.6908 | 18.2350 | 19.7259 | 19.2271
100230 | 20.5051 | 22.5650 | 23.4169 | 22.2637
100231 | 17.9226 | 18.7526 | 21.1128 | 19.1318
100232 | 19.3491 | 19.8002 | 19.9125 | 19.6887
100234 | 20.9104 | 21.6360 | 23.4761 | 21.9136
100235 | 17.1622 | * | * | 17.1622
100236 | 20.3766 | 20.6942 | 21.5316 | 20.8545
100237 | 22.0865 | 23.2408 | 23.2712 | 22.8481
100238 | 19.6367 | 20.8252 | 22.8488 | 21.0709
100239 | 21.3193 | 19.4481 | 23.0048 | 21.1692
100240 | 20.4340 | 21.0606 | 21.3495 | 20.9700
100241 | 14.7224 | 17.1063 | 14.1059 | 15.3322
100242 | 17.9260 | 18.6938 | 18.9062 | 18.5149
100243 | 21.2644 | 20.8041 | 22.4644 | 21.5426
100244 | 18.6227 | 20.5352 | 21.2521 | 20.2154
100246 | 19.6376 | 21.9247 | 23.5171 | 21.5681
100248 | 20.7007 | 21.2988 | 21.8086 | 21.2951
100249 | 19.2808 | 18.1397 | 18.4932 | 18.6366
100252 | 17.7778 | 19.8079 | 22.0976 | 19.8858
100253 | 21.3232 | 22.4778 | 22.6517 | 22.1811
100254 | 19.6598 | 19.5523 | 19.5050 | 19.5721
100255 | 25.2119 | 21.0284 | 20.7228 | 22.1421
100256 | 20.9356 | 21.2786 | 22.0528 | 21.4173
100258 | 21.3501 | 20.0300 | 22.0790 | 21.1494
100259 | 20.3815 | 21.1160 | 21.4991 | 21.0228
100260 | 21.0506 | 24.9183 | 21.1292 | 22.2409
100262 | 20.0433 | 21.0927 | 22.7137 | 21.2022
100264 | 19.1556 | 19.9491 | 21.5104 | 20.1857
100265 | 18.8301 | 18.2291 | 20.2365 | 19.1431
100266 | 18.2993 | 19.3623 | 20.2821 | 19.3534
100267 | 20.1141 | 21.7430 | 21.7446 | 21.2105
100268 | 23.9249 | 24.0538 | 23.6367 | 23.8643
100269 | 21.6724 | 22.5114 | 26.0271 | 23.4143
100270 | 15.1462 | 16.7148 | 20.8217 | 17.5380
100271 | 20.4824 | 20.8695 | 21.9823 | 21.1576
100275 | 20.9188 | 21.4904 | 23.2088 | 21.8580
100276 | 22.3646 | 24.1022 | 24.8251 | 23.8061
100277 | 16.6255 | 19.7241 | 14.9157 | 16.6327
100279 | 22.9095 | 22.5879 | 21.1094 | 22.2253
100280 | 17.3676 | 18.1972 | 19.0157 | 18.2076
100281 | 22.4392 | 23.0142 | 23.4729 | 23.0255
100282 | 19.1978 | 18.4884 | 20.9256 | 19.5516
100284 | * | 18.9448 | 18.4204 | 18.6867
110001 | 19.1971 | 20.1150 | 22.3072 | 20.5112
110002 | 17.1406 | 19.5158 | 20.2149 | 18.9927
110003 | 18.1168 | 17.1450 | 18.2792 | 17.8514
110004 | 19.5591 | 19.7733 | 20.6096 | 19.9776
110005 | 17.7348 | 22.4568 | 21.8105 | 20.9768
110006 | 20.7820 | 21.0601 | 21.9525 | 21.2769
110007 | 21.9505 | 25.2523 | 26.3143 | 24.5085
110008 | 22.0081 | 18.5265 | 19.9606 | 20.1468
110009 | 16.3069 | 17.4306 | 16.6452 | 16.8052
110010 | 23.3213 | 23.9104 | 25.1930 | 24.1454
110011 | 18.6144 | 18.9823 | 20.4028 | 19.3209
110013 | 16.2811 | 18.9160 | 16.7833 | 17.3444
110014 | 16.0658 | 18.1787 | 18.4463 | 17.4976
110015 | 21.2146 | 20.9926 | 21.2600 | 21.1563
110016 | 22.5321 | 14.2398 | 14.7571 | 16.4041
110017 | 13.1960 | 22.2537 | 21.2970 | 19.1377
110018 | 19.6064 | 22.1480 | 22.3933 | 21.3958
110020 | 18.3147 | 19.4617 | 20.9687 | 19.5535
110023 | 21.1994 | 22.0546 | * | 21.6186
110024 | 20.7297 | 20.7345 | 21.3945 | 20.9529
110025 | 19.5749 | 20.4232 | 20.2493 | 20.0573
110026 | 17.2977 | 16.2484 | 16.6320 | 16.7325
110027 | 16.0642 | 14.7081 | 19.8976 | 16.6619
110028 | 20.1547 | 29.1670 | 28.1695 | 25.3235
110029 | 20.2906 | 21.2150 | 21.3492 | 20.9560
110030 | 18.8105 | 19.6412 | 20.4656 | 19.6568
110031 | 19.9482 | 20.0553 | 20.9219 | 20.3082
110032 | 15.7349 | 18.2014 | 19.2685 | 17.6324
110033 | 22.1879 | 25.6335 | 23.1939 | 23.6010
110034 | 19.6055 | 19.5554 | 23.0724 | 20.6505
110035 | 19.3795 | 22.7950 | 21.8646 | 21.4160
110036 | 22.2498 | 24.9234 | 25.1127 | 24.0254
110038 | 17.7060 | 17.7396 | 18.4508 | 17.9715
110039 | 20.6011 | 20.4998 | 18.9817 | 19.9578
110040 | 17.0743 | 16.8083 | 17.7798 | 17.2164
110041 | 18.8035 | 20.2755 | 20.1398 | 19.7378
110042 | 24.0153 | 25.2331 | 25.0535 | 24.7832
110043 | 20.1016 | 20.6150 | 21.2714 | 20.6367
110044 | 16.3624 | 17.2087 | 17.5905 | 17.0642
110045 | 20.2498 | 21.3049 | 20.6934 | 20.7294
110046 | 19.7377 | 21.4905 | 22.8820 | 21.3991
110048 | 16.3148 | 15.6113 | 18.8751 | 16.8775
110049 | 16.1817 | 16.8639 | 17.1396 | 16.7155
110050 | 20.7619 | 19.2291 | 18.9048 | 19.6044
110051 | 17.0070 | 17.2292 | 17.2050 | 17.1503
110054 | * | 20.0549 | 20.5698 | 20.3256
110056 | 15.6202 | 17.7959 | 16.0362 | 16.5039
110059 | 16.6678 | 16.7990 | 17.8076 | 17.0958
110061 | 15.0367 | 16.3557 | 17.4601 | 16.2796
110062 | 18.8019 | 17.0053 | 17.9421 | 17.8940
110063 | 16.9612 | 18.5071 | 18.0256 | 17.8146
110064 | 18.9515 | 19.1203 | 18.8578 | 18.9772
110065 | 15.6771 | 16.3546 | 16.9829 | 16.3529
110066 | 21.0207 | 22.4189 | 23.4554 | 22.2503
110069 | 19.3109 | 20.9575 | 21.1513 | 20.4832
110070 | 21.0227 | 17.3438 | 19.6361 | 19.3058
110071 | 14.5984 | 18.8321 | 21.5042 | 17.7757
110072 | 12.7877 | 12.7625 | 13.6626 | 13.0734
110073 | 15.4261 | 16.4658 | 17.9372 | 16.5696
110074 | 21.3945 | 22.3769 | 24.4924 | 22.7969
110075 | 18.5199 | 20.1757 | 20.1604 | 19.6679
110076 | 21.2867 | 21.9798 | 23.6127 | 22.2999
110078 | 22.3718 | 24.0893 | 25.9119 | 24.1213
110079 | 21.0593 | 22.1070 | 22.3641 | 21.8325
110080 | 18.4768 | 19.1839 | 19.4635 | 19.0419
110082 | 23.8768 | 24.3140 | 22.7015 | 23.5986
110083 | 23.1219 | 23.1463 | 22.2609 | 22.8147
110086 | 18.2815 | 16.6374 | 19.0164 | 17.9653
110087 | 21.7773 | 22.7069 | 24.0994 | 22.9041
110089 | 18.5587 | 19.3855 | 19.0453 | 18.9917
110091 | 19.5114 | 21.5328 | 23.7110 | 21.5509
110092 | 17.3479 | 16.9725 | 15.9178 | 16.7054
110093 | * | 16.9827 | * | 16.9827
110094 | 14.5641 | 16.9503 | 16.8890 | 16.0918
110095 | 16.4670 | 17.1195 | 17.4302 | 17.0118
110096 | 16.8541 | 17.4157 | 18.0418 | 17.4444
110097 | 15.5811 | 17.4558 | 17.8454 | 16.7969
110098 | 16.3532 | 16.0597 | 16.7800 | 16.4135
110100 | 18.6978 | 19.0764 | 18.6822 | 18.8175
110101 | 10.8187 | 18.8491 | 13.8787 | 13.5799
110103 | 13.6842 | 21.1837 | 21.5683 | 17.7316
110104 | 15.7781 | 15.9431 | 16.6322 | 16.1150
110105 | 16.8909 | 16.7775 | 18.1306 | 17.2936
110107 | 19.3609 | 19.3897 | 21.0863 | 19.9482
110108 | 19.7938 | 25.2161 | 20.1140 | 21.3451
110109 | 15.9359 | 16.4031 | 16.5977 | 16.3157
110111 | 18.5108 | 18.3951 | 18.4274 | 18.4433
110112 | 19.0619 | 19.8986 | 18.9574 | 19.2821
110113 | 16.8179 | 15.9532 | 16.0942 | 16.2556
110114 | 14.6888 | 16.4812 | 16.8297 | 16.0087
110115 | 43.9427 | 22.5049 | 26.5759 | 28.7027
110118 | 20.5368 | 19.7509 | 17.5714 | 19.1118
110120 | 15.2589 | 17.7452 | 18.4738 | 17.1958
110121 | 16.2711 | 19.3643 | 18.8744 | 18.1723
110122 | 21.1385 | 21.1469 | 20.4922 | 20.9166
110124 | 17.5732 | 18.3366 | 19.4093 | 18.3953
110125 | 19.1311 | 18.0090 | 19.4207 | 18.8387
110127 | 14.6143 | 20.3765 | 16.1107 | 17.0392
110128 | 18.1845 | 18.0835 | 19.5450 | 18.6049
110129 | 18.9388 | 19.0001 | 20.8935 | 19.6183
110130 | 16.0580 | 14.6011 | 16.6915 | 15.7591
110132 | 16.0419 | 16.3943 | 17.1820 | 16.5355
110134 | 12.5723 | 19.8639 | 19.0305 | 17.6901
110135 | 17.4380 | 17.3504 | 15.6668 | 16.7018
110136 | 18.0639 | 16.9629 | 20.7827 | 18.4333
110140 | 17.8870 | 17.7915 | * | 17.8447
110141 | 13.2501 | 14.4935 | 13.2710 | 13.6692
110142 | 14.6144 | 13.9525 | 14.1203 | 14.2070
110143 | 20.1603 | 22.5926 | 22.4254 | 21.8082
110144 | 16.8685 | 17.5112 | 17.5678 | 17.2876
110146 | 16.1316 | 17.1835 | 17.5940 | 17.0117
110149 | 17.7535 | 32.1975 | 25.2525 | 24.0956
110150 | 20.2644 | 21.2909 | 22.4899 | 21.3508
110152 | 15.3996 | 15.1324 | 16.3837 | 15.6496
110153 | 19.2744 | 20.5068 | 20.6972 | 20.1497
110154 | 14.9636 | 17.3761 | 16.5286 | 16.2471
110155 | 15.5306 | 16.5146 | 16.4756 | 16.1555
110156 | 14.7477 | 16.3876 | 16.0759 | 15.7007
110161 | 21.7153 | 22.2861 | 24.5776 | 22.9656
110163 | 20.4202 | 18.6637 | 20.0673 | 19.6918
110164 | 20.2074 | 21.2160 | 22.5865 | 21.3587
110165 | 21.2577 | 20.8030 | 22.5604 | 21.5831
110166 | 20.5882 | 20.5049 | 22.3657 | 21.1057
110168 | 20.6646 | 21.8058 | 22.2537 | 21.6267
110169 | 20.6385 | 22.6648 | 23.3750 | 21.9474
110171 | 23.7893 | 25.5296 | 24.5313 | 24.5760
110172 | 23.3730 | 23.6803 | 24.7005 | 23.9332
110174 | 13.7339 | 14.6199 | * | 14.1346
110177 | 20.7187 | 21.2796 | 22.7831 | 21.6138
110178 | 18.8306 | * | * | 18.8306
110179 | 22.7841 | 22.0767 | 24.3673 | 23.0370
110181 | 14.0941 | 12.9798 | 13.9591 | 13.6986
110183 | 23.3826 | 22.5148 | 24.2899 | 23.3905
110184 | 22.1970 | 22.1920 | 22.2761 | 22.2235
110185 | 16.7246 | 17.7925 | 17.3330 | 17.2705
110186 | 17.4287 | 18.3178 | 19.7172 | 18.4775
110187 | 20.1154 | 19.8419 | 22.8248 | 20.9454
110188 | 24.8376 | 23.7032 | 21.9945 | 23.3633
110189 | 22.2715 | 20.8786 | 19.3335 | 20.7205
110190 | 18.5728 | 18.3649 | 20.7292 | 19.1518
110191 | 20.2033 | 21.4033 | 21.3404 | 21.0040
110192 | 21.4951 | 21.0486 | 22.9684 | 21.8761
110193 | 20.6380 | 20.7867 | 22.1392 | 21.1880
110194 | 15.1480 | 14.8115 | 15.8129 | 15.2645
110195 | 13.9135 | 12.7261 | 10.9444 | 12.3540
110198 | 24.1999 | 24.8646 | 24.8275 | 24.6410
110200 | 18.1862 | 17.7744 | 17.9631 | 17.9701
110201 | 20.4699 | 20.9497 | 21.9313 | 21.1039
110203 | 26.8148 | 22.7453 | 24.2062 | 24.5686
110204 | 19.7317 | 30.7342 | 35.3699 | 24.8432
110205 | 21.1435 | 21.3617 | 20.1405 | 20.8862
110207 | 12.9727 | 14.7154 | 14.6045 | 14.1130
110208 | 15.1742 | 15.6161 | 15.0350 | 15.2676
110209 | 17.9190 | 18.6404 | 20.0629 | 18.7585
110211 | 20.9372 | 26.9151 | 20.1024 | 22.3126
110212 | 11.8545 | 14.3790 | 15.8420 | 13.8932
110213 | 14.3651 | * | * | 14.3651
110215 | 20.1928 | 18.1539 | 21.0263 | 19.7770
110216 | * | 27.1878 | * | 27.1878
120001 | 27.9213 | 29.0427 | 29.4126 | 28.7754
120002 | 25.0744 | 25.2021 | 23.5667 | 24.5781
120003 | 25.9059 | 23.9115 | 24.6238 | 24.8142
120004 | 23.9208 | 24.8632 | 26.1398 | 24.8838
120005 | 23.3975 | 24.1662 | 22.3213 | 23.2601
120006 | 25.0895 | 25.8943 | 26.0904 | 25.6667
120007 | 22.7200 | 22.8772 | 22.7179 | 22.7718
120009 | 17.4693 | 16.4485 | 16.7630 | 16.8820
120010 | 25.1480 | 24.1923 | 24.9089 | 24.7414
120011 | 35.0582 | 37.2759 | 35.2051 | 35.8314
120012 | 23.1144 | 21.8507 | 22.0371 | 22.3824
120014 | 22.8866 | 24.1208 | 25.3557 | 24.0761
120015 | 32.9906 | 42.6465 | * | 37.0469
120016 | 27.9127 | 45.1899 | 43.5083 | 34.2774
120018 | 24.5031 | 31.1879 | * | 26.7466
120019 | 22.9341 | 25.5659 | 23.8535 | 24.0876
120021 | 23.4508 | 23.1839 | * | 23.3291
120022 | 21.7868 | 19.2614 | 17.3744 | 19.4456
120024 | 29.4808 | 32.2514 | * | 30.1443
120025 | 20.1065 | 50.6376 | 40.1332 | 25.3493
120026 | 26.0787 | 25.1314 | 25.7023 | 25.6323
120027 | 24.7255 | 24.4535 | 23.1434 | 24.0841
120028 | 27.5023 | 27.0897 | 27.5365 | 27.3898
130001 | 18.8471 | 17.6306 | 19.6328 | 18.7161
130002 | 16.6620 | 16.9867 | 18.5746 | 17.4270
130003 | 21.7313 | 22.3430 | 23.0994 | 22.4005
130005 | 20.7169 | 21.2386 | 22.6364 | 21.5043
130006 | 19.3392 | 20.4614 | 21.4640 | 20.4603
130007 | 20.8338 | 21.8107 | 22.0894 | 21.5806
130008 | 12.5506 | 13.6018 | 19.3392 | 14.7112
130009 | 19.1837 | 15.9701 | 16.8563 | 17.2592
130010 | 17.6795 | 17.5119 | 17.7826 | 17.6635
130011 | 20.5031 | 20.1147 | 22.1125 | 20.9248
130012 | 22.9813 | 24.9976 | 24.2451 | 24.1243
130013 | 17.4038 | 15.1129 | 22.6624 | 18.2887
130014 | 18.9769 | 19.2107 | 19.7560 | 19.3379
130015 | 15.7233 | 18.5913 | 16.4136 | 16.7965
130016 | 17.3942 | 19.0516 | 20.1220 | 18.8309
130017 | 17.1710 | 19.6875 | 19.9511 | 18.7336
130018 | 19.7368 | 19.8425 | 20.1934 | 19.9339
130019 | 18.6648 | 19.1711 | 19.5147 | 19.0953
130021 | 12.8588 | 15.6155 | 14.3089 | 14.2489
130022 | 16.5270 | 18.9127 | 19.7814 | 18.3410
130024 | 19.3634 | 19.0703 | 19.9934 | 19.4905
130025 | 17.5213 | 16.4627 | 17.5989 | 17.2009
130026 | 21.5934 | 21.8106 | 23.2093 | 22.2042
130027 | 21.4279 | 20.5344 | 19.0911 | 20.3739
130028 | 19.1093 | 20.9674 | 18.1205 | 19.2837
130029 | 18.4263 | 18.7694 | 22.9243 | 19.6491
130030 | 17.8440 | 17.5759 | 18.5827 | 17.9732
130031 | 16.2397 | 16.7766 | 20.4146 | 17.4242
130034 | 16.9873 | 18.9483 | 20.5802 | 18.9102
130035 | 19.3478 | 20.7770 | 16.9671 | 19.1314
130036 | 13.7933 | 13.6362 | 15.1590 | 14.2304
130037 | 18.8071 | 18.6856 | 19.2108 | 18.9127
130043 | 16.5102 | 16.7904 | 17.6920 | 16.9853
130044 | 17.8160 | 13.4513 | 16.7797 | 15.8094
130045 | 16.0990 | 19.0208 | 17.5152 | 17.4280
130048 | 16.0899 | 16.7900 | * | 16.4201
130049 | 20.3129 | 22.4440 | 22.0520 | 21.6192
130054 | 17.2729 | 17.7085 | 16.4675 | 17.1120
130056 | 14.6862 | 20.9476 | 28.8008 | 19.9051
130060 | 21.8662 | 22.7399 | 23.2512 | 22.6187
130061 | 15.4006 | 14.7394 | * | 15.1267
130062 | 16.5672 | 19.8157 | 19.8264 | 18.8380
130063 | 15.9441 | 18.8024 | 18.4797 | 18.1425
140001 | 16.3372 | 17.7990 | 17.7421 | 17.2408
140002 | 19.0248 | 19.9284 | 20.9959 | 19.9709
140003 | 21.2886 | 17.8595 | 18.0163 | 18.9220
140004 | 15.7042 | 17.4574 | 19.0486 | 17.4249
140005 | 11.6127 | 12.3002 | 12.4144 | 12.1009
140007 | 22.9799 | 23.8585 | 25.0105 | 23.9811
140008 | 21.6548 | 22.1111 | 24.2779 | 22.6707
140010 | 31.8207 | 28.5635 | 26.6836 | 28.8200
140011 | 17.8676 | 18.6164 | 18.4052 | 18.3022
140012 | 23.0653 | 21.4374 | 22.5885 | 22.3529
140013 | 18.3060 | 19.6722 | 20.3147 | 19.4284
140014 | 22.4737 | 21.4042 | 22.2944 | 22.0537
140015 | 16.6735 | 17.6805 | 20.3540 | 18.1726
140016 | 13.1278 | 14.4938 | 15.4454 | 14.3266
140018 | 22.3070 | 22.4132 | 23.4595 | 22.7307
140019 | 16.6548 | 16.4254 | 16.1180 | 16.3909
140024 | 16.8271 | 15.3782 | 16.1032 | 16.1040
140025 | 16.9462 | 18.5135 | 21.7775 | 18.9319
140026 | 16.6612 | 18.3220 | 19.7839 | 18.2263
140027 | 18.7553 | 19.2149 | 20.5980 | 19.5140
140029 | 22.8322 | 26.0833 | 28.0683 | 25.6669
140030 | 21.9475 | 23.1760 | 25.2828 | 23.5549
140031 | 19.5731 | 17.6067 | 16.9650 | 17.9987
140032 | 18.1058 | 19.0383 | 19.8033 | 18.9961
140033 | 24.1722 | 25.1639 | 22.8705 | 24.0049
140034 | 19.5278 | 19.8792 | 19.7711 | 19.7256
140035 | 15.2649 | 15.5040 | 17.4514 | 16.0631
140036 | 18.5771 | 19.1076 | 21.2366 | 19.6677
140037 | 13.0764 | 14.1083 | 14.3082 | 13.8255
140038 | 18.3035 | 18.4948 | 19.8197 | 18.8624
140040 | 19.9267 | 16.7450 | 18.0342 | 18.2044
140041 | 17.6582 | 18.5952 | 18.8042 | 18.3411
140042 | 15.4095 | 15.8892 | 16.1157 | 15.8051
140043 | 19.4683 | 20.1176 | 21.7356 | 20.4389
140045 | 15.5807 | 17.7799 | 17.4261 | 16.8835
140046 | 18.9763 | 18.6371 | 20.0859 | 19.2505
140047 | 17.1539 | 13.3610 | 16.6672 | 15.5612
140048 | 24.0913 | 23.9545 | 22.5870 | 23.5490
140049 | 28.4958 | 26.9483 | 27.0250 | 27.5281
140051 | 23.8264 | 24.0796 | 24.6964 | 24.2137
140052 | 19.6409 | 17.9571 | 21.0450 | 19.4727
140053 | 19.1892 | 19.9620 | 20.5244 | 19.8722
140054 | 22.1921 | 23.1576 | 23.9416 | 23.0858
140055 | 16.3404 | 14.3603 | 15.8756 | 15.4931
140058 | 17.4927 | 18.6861 | 19.1199 | 18.4367
140059 | 15.0195 | * | 18.2593 | 16.6820
140061 | 17.3012 | 18.2039 | 18.4264 | 17.9767
140062 | 28.0877 | 28.5304 | 28.6390 | 28.4255
140063 | 25.3641 | 29.1453 | 25.8203 | 26.5945
140064 | 19.1023 | 18.9379 | 19.6954 | 19.2477
140065 | 24.1128 | 25.3336 | 25.5939 | 25.0012
140066 | 17.3902 | 13.6491 | 15.4818 | 15.3710
140067 | 19.3267 | 19.5292 | 20.7511 | 19.8509
140068 | 19.9691 | 21.6188 | 21.6089 | 21.0342
140069 | 16.7544 | 17.3879 | 17.7785 | 17.3221
140070 | 22.9678 | 22.7153 | 25.2646 | 23.5870
140074 | 19.3504 | 21.6052 | 22.2604 | 20.9581
140075 | 21.6313 | 21.6434 | 21.0968 | 21.4950
140077 | 17.5305 | 17.3647 | 17.3236 | 17.4081
140079 | 23.3020 | 23.6928 | 22.7046 | 23.2149
140080 | 21.0739 | 22.1968 | 22.0682 | 21.7613
140081 | 16.2247 | 16.9808 | 18.1746 | 17.0842
140082 | 23.8960 | 29.7262 | 26.5960 | 26.4591
140083 | 19.3145 | 21.0330 | 18.0664 | 19.5127
140084 | 20.9709 | 22.3467 | 22.0706 | 21.7924
140086 | 18.3803 | 19.1613 | 19.1815 | 18.9175
140087 | 16.1009 | 17.1147 | 21.4593 | 18.0959
140088 | 25.2369 | 25.4176 | 26.5258 | 25.7146
140089 | 17.6366 | 18.3157 | 19.3230 | 18.4019
140090 | 26.4325 | 26.9364 | 28.0530 | 26.9854
140091 | 20.9018 | 21.9322 | 22.9565 | 21.9272
140093 | 18.2899 | 20.1528 | 20.7564 | 19.6330
140094 | 21.4709 | 21.9383 | 22.8892 | 22.0901
140095 | 24.0549 | 24.2859 | 23.8834 | 24.0755
140097 | 17.5081 | 21.1719 | 21.8418 | 20.1374
140100 | 21.3581 | 23.1399 | 23.8226 | 22.7460
140101 | 21.5473 | 21.4211 | 23.1418 | 22.0459
140102 | 17.1500 | 17.5729 | 18.6328 | 17.7567
140103 | 19.2783 | 18.1303 | 16.2009 | 17.8612
140105 | 22.6573 | 22.8944 | 23.8258 | 23.1227
140107 | 13.7533 | 11.8383 | 11.5827 | 12.2495
140108 | 25.4742 | 26.9971 | 27.9140 | 26.8421
140109 | 15.7465 | 14.5498 | 15.9178 | 15.3965
140110 | 19.1822 | 19.2888 | 20.9631 | 19.8004
140112 | 17.6856 | 17.6974 | 18.1119 | 17.8311
140113 | 19.0592 | 19.5584 | * | 19.3069
140114 | 21.1639 | 21.0976 | 22.9844 | 21.7634
140115 | 21.1926 | 21.0433 | 20.7660 | 21.0012
140116 | 23.1177 | 23.8993 | 27.8888 | 25.1841
140117 | 21.5671 | 21.4876 | 22.0889 | 21.7249
140118 | 23.5952 | 24.3260 | 25.3249 | 24.4123
140119 | 29.1419 | 27.9145 | 30.6468 | 29.2072
140120 | 18.0743 | 17.9716 | 18.5685 | 18.2090
140121 | 16.0397 | 16.6993 | 16.2607 | 16.3273
140122 | 24.6470 | 26.1270 | 26.7344 | 25.7959
140124 | 27.1906 | 27.9813 | 30.2658 | 28.3904
140125 | 17.6759 | 16.9516 | 17.8190 | 17.4826
140127 | 19.8973 | 20.0489 | 20.8397 | 20.2623
140128 | 19.4955 | 23.1327 | 23.5481 | 22.1101
140129 | 18.2639 | 20.2868 | 21.6252 | 19.9926
140130 | 22.2285 | 23.4298 | 26.0464 | 23.9518
140132 | 23.5475 | 23.3054 | 23.7046 | 23.5171
140133 | 21.4090 | 21.4166 | 20.1740 | 21.0117
140135 | 17.8100 | 17.3985 | 18.2479 | 17.8298
140137 | 16.8969 | 18.6330 | 19.2594 | 18.2334
140138 | 16.7420 | 17.1968 | 14.5771 | 16.0861
140139 | 14.0619 | 11.0397 | * | 12.4249
140140 | 17.8243 | 17.6845 | 18.8185 | 18.1076
140141 | 17.5204 | 19.1097 | 20.2606 | 18.9480
140143 | 19.1862 | 19.0810 | 19.9885 | 19.4222
140144 | 21.3245 | 22.2864 | 24.8854 | 22.7447
140145 | 17.5471 | 18.1788 | 19.4509 | 18.3977
140146 | 21.9573 | 19.9704 | 19.4272 | 20.3714
140147 | 16.1336 | 18.8049 | 17.1013 | 17.2344
140148 | 18.6598 | 18.7730 | 19.7630 | 19.0696
140150 | 27.3378 | 24.7976 | 28.1723 | 26.6696
140151 | 21.3896 | 20.0310 | 20.8820 | 20.7518
140152 | 24.6333 | 25.6011 | 27.9615 | 26.0086
140155 | 19.9738 | 20.2778 | 23.9957 | 21.3787
140158 | 22.7639 | 22.7988 | 23.7428 | 23.1140
140160 | 17.7691 | 17.7921 | 19.8825 | 18.5234
140161 | 20.0948 | 20.3799 | 21.2045 | 20.5610
140162 | 19.6464 | 20.3452 | 21.6901 | 20.5431
140164 | 18.7806 | 18.6589 | 19.8246 | 19.1100
140165 | 14.9156 | 14.7223 | 16.3700 | 15.3419
140166 | 17.5496 | 18.3833 | 18.9513 | 18.2817
140167 | 17.1479 | 17.6525 | 18.8532 | 17.9029
140168 | 16.6770 | 17.7453 | 18.2896 | 17.5820
140170 | 16.1621 | 16.4107 | 17.6901 | 16.7412
140171 | 14.1637 | 15.0237 | 15.2617 | 14.8002
140172 | 23.8431 | 23.6262 | 26.2314 | 24.4761
140173 | 15.1487 | 16.3924 | 16.0030 | 15.8459
140174 | 20.5339 | 35.9320 | 21.8272 | 23.9333
140176 | 23.2866 | 24.5338 | 26.2821 | 24.7364
140177 | 18.2648 | 15.0827 | 20.3142 | 17.5964
140179 | 21.1948 | 21.9859 | 22.6795 | 21.9485
140180 | 22.4548 | 22.7996 | 22.7508 | 22.6646
140181 | 20.8709 | 21.9864 | 22.6089 | 21.8164
140182 | 22.0170 | 28.9515 | 25.1352 | 24.9085
140184 | 17.8155 | 17.2401 | 17.9169 | 17.6582
140185 | 17.6514 | 18.2867 | 18.8573 | 18.2635
140186 | 22.7890 | 23.5034 | 20.7389 | 22.2767
140187 | 17.9201 | 18.3331 | 19.4049 | 18.5535
140188 | 15.2479 | 16.1907 | * | 15.6443
140189 | 21.0616 | 20.6627 | 21.1515 | 20.9599
140190 | 16.3366 | 17.5263 | 16.6673 | 16.8245
140191 | 25.8835 | 25.2628 | 27.4166 | 26.1852
140193 | 15.8022 | 17.4057 | 18.5651 | 17.2695
140197 | 18.6394 | 19.3774 | 19.9406 | 19.3426
140199 | 18.3507 | 18.0450 | 18.5409 | 18.3150
140200 | 21.5220 | 21.7680 | 22.5226 | 21.9573
140202 | 22.1939 | 23.7955 | 25.2777 | 23.7942
140203 | 19.9194 | 21.0848 | 24.8870 | 21.9324
140205 | 17.4751 | 20.0784 | * | 18.5139
140206 | 21.3295 | 22.5109 | 23.0603 | 22.2974
140207 | 21.9779 | 22.3905 | 25.4539 | 23.1447
140208 | 25.9900 | 26.2527 | 28.0890 | 26.7814
140209 | 18.1206 | 20.1557 | 20.2433 | 19.4720
140210 | 15.6899 | 14.8248 | 15.5345 | 15.3479
140211 | 21.8891 | 22.6265 | 22.8852 | 22.4887
140213 | 27.0645 | 24.9892 | 25.6839 | 25.9086
140215 | 15.9949 | 15.2893 | 18.5502 | 16.5949
140217 | 24.8229 | 25.7329 | 25.6584 | 25.3935
140218 | 14.9459 | 14.9851 | 17.4171 | 15.7345
140220 | 17.6370 | 17.8450 | 19.3915 | 18.3036
140223 | 24.9249 | 24.9017 | 26.2168 | 25.3383
140224 | 25.8668 | 32.8292 | 24.7882 | 27.5872
140228 | 19.6988 | 20.1688 | 21.2764 | 20.3895
140230 | 18.0918 | 18.2983 | * | 18.1984
140231 | 23.9176 | 24.5019 | 26.0439 | 24.9346
140233 | 19.4542 | 21.2333 | 23.5331 | 21.4436
140234 | 18.9945 | * | 19.7266 | 19.3554
140236 | * | 12.9253 | * | 12.9253
140239 | 18.8127 | 20.3745 | 20.9926 | 20.0958
140240 | 23.6860 | 24.6949 | 25.1418 | 24.5193
140242 | 24.5428 | 25.2317 | 26.1850 | 25.3655
140245 | 13.4839 | 14.2481 | 15.1320 | 14.2800
140246 | 13.4639 | 11.6267 | 15.0650 | 13.2908
140250 | 25.0876 | 23.6449 | 25.3410 | 24.6985
140251 | 21.4385 | 21.9435 | 23.3971 | 22.2702
140252 | 25.2246 | 25.0220 | 26.0869 | 25.4562
140253 | 18.5511 | 19.5858 | 18.4567 | 18.8447
140258 | 23.2973 | 25.3622 | 24.3731 | 24.3357
140271 | 15.5079 | 12.0079 | 16.0350 | 14.2915
140275 | 20.1699 | 23.8171 | 21.8908 | 21.8947
140276 | 26.6777 | 25.3134 | 26.1713 | 26.0267
140280 | 20.2360 | 18.8300 | 20.0763 | 19.6936
140281 | 24.0192 | 25.2719 | 26.5197 | 25.2957
140285 | 18.1181 | 18.5916 | 15.7435 | 17.3779
140286 | 20.3735 | 26.1290 | 24.0947 | 23.4832
140288 | 25.2327 | 24.4331 | 25.8717 | 25.1876
140289 | 17.1388 | 18.1747 | 15.9356 | 16.9462
140290 | 21.1784 | 22.8590 | 26.8449 | 23.6369
140291 | 25.0911 | 24.9537 | 26.8628 | 25.6578
140292 | 20.8560 | 21.9950 | 26.8610 | 23.2005
140294 | 17.7226 | 17.7301 | 19.4218 | 18.2830
140300 | 25.3662 | 27.8436 | 28.5457 | 27.2635
150001 | 22.8109 | 24.0620 | 22.1398 | 22.9956
150002 | 19.3401 | 20.7651 | 20.7353 | 20.3004
150003 | 19.7661 | 20.8636 | 22.3835 | 21.0177
150004 | 20.3685 | 21.2449 | 22.8060 | 21.4609
150005 | 20.6260 | 21.6806 | 22.5280 | 21.6427
150006 | 20.8158 | 20.6523 | 21.8435 | 21.1085
150007 | 20.1826 | 20.6635 | 21.2811 | 20.6934
150008 | 21.4545 | 21.8457 | 22.9042 | 22.0745
150009 | 18.7073 | 19.0030 | 19.4599 | 19.0578
150010 | 21.7125 | 20.5570 | 20.8213 | 21.0317
150011 | 18.3742 | 18.3275 | 19.8823 | 18.8436
150012 | 22.4751 | 22.1402 | 21.7903 | 22.1209
150013 | 17.0352 | 16.9327 | 17.5531 | 17.1857
150014 | 22.0143 | 21.5168 | 22.8402 | 22.1055
150015 | 22.5409 | 21.9037 | 24.2370 | 22.8616
150017 | 18.7664 | 19.5339 | 20.4814 | 19.6077
150018 | 20.4947 | 21.0496 | 23.0257 | 21.5245
150019 | 16.6327 | 17.8585 | 19.8341 | 18.0075
150020 | 15.1120 | 16.6600 | 15.9405 | 15.8686
150021 | 19.5096 | 21.5944 | 23.2077 | 21.4598
150022 | 19.1555 | 17.9222 | 18.7751 | 18.6044
150023 | 18.3598 | 19.3412 | 20.3015 | 19.3319
150024 | 18.4140 | 19.2295 | 19.8368 | 19.1528
150025 | 17.7007 | 20.2750 | * | 18.8948
150026 | 18.8417 | 22.4978 | 21.9448 | 21.0269
150027 | 17.3284 | 18.0335 | 19.4238 | 18.2383
150029 | 23.0546 | 23.2454 | 24.8939 | 23.7166
150030 | 17.9992 | 19.2406 | 20.5272 | 19.2757
150031 | 17.2429 | 18.3463 | 18.9672 | 18.2134
150033 | 21.8768 | 22.6741 | 23.0163 | 22.5338
150034 | 22.1317 | 23.1533 | 23.3718 | 22.8966
150035 | 20.4477 | 21.2374 | 22.3779 | 21.3734
150036 | 20.8692 | 21.4567 | 22.1464 | 21.5046
150037 | 21.7109 | 24.4611 | 22.3699 | 22.8076
150038 | 21.2193 | 22.0572 | 20.3454 | 21.1795
150039 | 18.4729 | 19.6215 | 16.0227 | 17.8696
150042 | 18.1632 | 20.2221 | 17.5614 | 18.5653
150043 | 19.0120 | 20.1741 | 20.5266 | 19.8572
150044 | 18.4381 | 19.1309 | 19.8951 | 19.1600
150045 | 16.8121 | 18.1670 | 21.3723 | 18.7127
150046 | 17.6342 | 18.2543 | 19.4146 | 18.4518
150047 | 19.7441 | 22.0145 | 21.9824 | 21.1814
150048 | 19.3329 | 19.1648 | 21.1441 | 19.9048
150049 | 17.0141 | 18.6451 | 21.6309 | 18.9803
150050 | 16.8354 | 17.7354 | 18.0411 | 17.5369
150051 | 19.0130 | 19.7257 | 20.6895 | 19.8190
150052 | 15.8590 | 17.3750 | 18.7783 | 17.3644
150053 | 19.1421 | 18.8632 | 17.8949 | 18.6402
150054 | 17.3825 | 18.3916 | 19.3424 | 18.3843
150056 | 22.4087 | 21.5774 | 23.0603 | 22.3391
150057 | 16.5882 | 16.9736 | * | 16.7800
150058 | 20.8178 | 22.1409 | 23.0273 | 22.0105
150059 | 21.2535 | 22.7360 | 22.9822 | 22.3129
150060 | 17.0743 | 18.6159 | 19.5011 | 18.4069
150061 | 17.3887 | 19.7968 | 19.4014 | 18.8242
150062 | 20.5415 | 20.8274 | 21.2608 | 20.9059
150063 | 22.0925 | 22.6525 | 24.8587 | 23.1574
150064 | 18.1400 | 20.3865 | 20.6232 | 19.7087
150065 | 19.8913 | 21.2153 | 21.4572 | 20.8676
150066 | 15.3373 | 19.5313 | 19.6845 | 18.2239
150067 | 18.2926 | 18.8862 | 19.8632 | 19.0434
150069 | 21.5310 | 23.3969 | 23.5510 | 22.9021
150070 | 17.9260 | 18.0827 | 18.9332 | 18.3136
150071 | 13.4760 | 13.5111 | 16.4179 | 14.3733
150072 | 16.2054 | 15.0765 | 18.5813 | 16.5238
150073 | 22.2968 | * | 19.7285 | 21.0407
150074 | 20.4175 | 20.2305 | 21.3821 | 20.6660
150075 | 15.5603 | 16.7532 | 17.1709 | 16.4680
150076 | 22.9382 | 22.6424 | 23.3724 | 22.9988
150078 | 19.2718 | 19.9668 | 20.2068 | 19.8183
150079 | 17.2436 | 18.2051 | 18.3668 | 17.9396
150082 | 17.5265 | 17.8381 | 19.6881 | 18.3251
150084 | 23.2506 | 24.3107 | 24.9054 | 24.1870
150086 | 18.9735 | 18.3838 | 19.7763 | 19.0552
150088 | 18.9869 | 20.3366 | 22.3055 | 20.5100
150089 | 23.8791 | 22.1725 | 21.0399 | 22.2998
150090 | 20.7726 | 21.0945 | 21.9803 | 21.2765
150091 | 20.4053 | 22.4640 | 26.2176 | 22.8558
150092 | 16.7434 | 16.9179 | 18.2592 | 17.3164
150094 | 16.5788 | 17.5244 | 16.7680 | 16.9454
150095 | 17.1324 | 19.2749 | 22.3214 | 19.5343
150096 | 23.2764 | 20.8204 | * | 21.9551
150097 | 19.3802 | 19.7751 | 21.0944 | 20.1363
150098 | 15.0943 | 15.2829 | 16.4763 | 15.6011
150099 | 22.4229 | * | * | 22.4229
150100 | 18.4148 | 19.8066 | 18.7289 | 18.9950
150101 | 16.4604 | 20.6209 | 20.9635 | 19.3121
150102 | 19.7426 | 23.7180 | 20.8818 | 21.3162
150103 | 18.4781 | 18.7036 | 19.2881 | 18.8849
150104 | 17.6981 | 20.0765 | 21.3141 | 19.7260
150105 | 20.0431 | 22.4412 | 21.6975 | 21.3454
150106 | 16.1510 | 16.8714 | 18.7088 | 17.2750
150109 | 18.8077 | 19.9066 | 21.6285 | 20.0890
150110 | 18.6627 | 21.9336 | * | 20.0654
150111 | 18.4556 | 19.2355 | 24.0256 | 20.3967
150112 | 20.4109 | 20.5253 | 22.1939 | 21.0672
150113 | 20.3780 | 19.6603 | 20.5871 | 20.2207
150114 | 19.5183 | 17.9877 | 18.3097 | 18.6233
150115 | 17.4315 | 18.4844 | 18.1308 | 18.0117
150122 | 18.7139 | 17.7867 | 20.7540 | 19.0652
150123 | 14.1105 | 14.0508 | 16.2898 | 14.8865
150124 | 14.6245 | 15.9487 | 16.2104 | 15.6060
150125 | 20.6735 | 21.3311 | 22.0021 | 21.3476
150126 | 21.3697 | 20.6857 | 24.0000 | 22.0092
150127 | 17.1994 | 17.0052 | 17.7858 | 17.3321
150128 | 18.5100 | 19.5576 | 20.3880 | 19.4584
150129 | 24.7711 | 28.6211 | 29.9888 | 27.3320
150130 | 18.1971 | 18.4846 | 18.3852 | 18.3505
150132 | 20.1684 | 20.9443 | 21.2747 | 20.8045
150133 | 17.3966 | 18.4250 | 19.0871 | 18.2346
150134 | 19.2526 | 19.3632 | 20.2764 | 19.6091
150136 | 20.1245 | 21.8097 | 22.9091 | 21.6195
150145 | 16.6851 | * | * | 16.6851
150146 | * | 19.0204 | * | 19.0204
160001 | 18.6035 | 19.0085 | 20.1699 | 19.2573
160002 | 15.9534 | 16.6003 | 17.6600 | 16.7287
160003 | 16.0862 | 16.2208 | 17.5429 | 16.6099
160005 | 17.6153 | 17.9405 | 19.3348 | 18.3156
160007 | 13.2101 | 15.1738 | 14.9137 | 14.4341
160008 | 15.9742 | 16.6193 | 16.7484 | 16.4416
160009 | 16.8391 | 17.9886 | 19.0664 | 17.9375
160012 | 16.4827 | 16.7112 | 17.9236 | 17.0145
160013 | 18.3996 | 18.6304 | 20.3023 | 19.1017
160014 | 15.9086 | 16.7146 | 18.7253 | 17.0747
160016 | 19.6322 | 19.9747 | 21.6050 | 20.4119
160018 | 14.5946 | 15.6141 | 16.0793 | 15.4308
160020 | 15.4712 | 15.5384 | 15.7960 | 15.6015
160021 | 16.5049 | 16.7617 | 16.7920 | 16.6812
160023 | 15.0665 | 15.0099 | 15.3854 | 15.1530
160024 | 19.7050 | 19.4764 | 20.5622 | 19.9066
160026 | 18.8379 | 19.5260 | 20.4567 | 19.6047
160027 | 16.3477 | 16.9417 | 18.2081 | 17.1431
160028 | 19.9595 | 21.0000 | * | 20.4650
160029 | 20.4678 | 21.3457 | 22.2106 | 21.3395
160030 | 19.9508 | 19.6182 | 21.6899 | 20.4018
160031 | 15.2448 | 16.1267 | 16.8957 | 16.0812
160032 | 17.3202 | 18.3168 | 19.2464 | 18.2782
160033 | 18.8673 | 18.8859 | 20.1916 | 19.3159
160034 | 15.0019 | 16.5957 | 17.3644 | 16.3397
160035 | 15.2211 | 16.3991 | 17.0165 | 16.0816
160036 | 17.8849 | 17.4558 | 20.2598 | 18.5977
160037 | 19.0532 | 19.5045 | 19.5067 | 19.3582
160039 | 17.4758 | 17.8647 | 19.1998 | 18.1868
160040 | 18.1949 | 18.0667 | 19.6339 | 18.6033
160041 | 16.7850 | 17.4435 | 18.7943 | 17.7638
160043 | 15.6909 | 14.8564 | 16.7841 | 15.7684
160044 | 16.7439 | 17.8323 | 19.5552 | 18.0882
160045 | 20.1236 | 20.0611 | 21.4757 | 20.5590
160046 | 14.5655 | 16.2737 | 16.8665 | 15.8592
160047 | 18.3593 | 19.0787 | 20.4259 | 19.2869
160048 | 14.6144 | 15.6856 | 17.2709 | 15.7797
160049 | 14.5457 | 15.5673 | 15.3233 | 15.1526
160050 | 17.4912 | 17.7878 | 21.1184 | 18.6885
160051 | 14.6400 | 16.4261 | 15.8213 | 15.6207
160052 | 18.0941 | 21.7647 | 22.1933 | 20.7461
160054 | 16.1753 | 16.1981 | 16.5258 | 16.3024
160055 | 14.7600 | 15.1674 | 17.6177 | 15.8187
160056 | 16.1575 | 17.0172 | 17.9534 | 17.0042
160057 | 18.1776 | 19.1378 | 19.6802 | 19.0270
160058 | 21.1159 | 22.1061 | 23.2042 | 22.1074
160060 | 16.0436 | 17.2825 | 17.7489 | 16.9862
160061 | 17.3215 | 17.0938 | 17.2064 | 17.2123
160062 | 17.8086 | 17.4388 | 18.8163 | 18.0222
160063 | 16.8834 | 16.3583 | 17.3771 | 16.8779
160064 | 20.5496 | 22.2131 | 25.1546 | 22.5347
160065 | 16.9373 | 17.1043 | 17.0609 | 17.0424
160066 | 17.1875 | 17.9971 | 19.3202 | 18.1697
160067 | 17.8514 | 16.7833 | 17.6602 | 17.4022
160068 | 17.9892 | 19.0572 | 20.5995 | 19.2056
160069 | 19.7280 | 19.1640 | 20.4556 | 19.7835
160070 | 16.7017 | 18.4588 | 17.7855 | 17.6458
160072 | 14.9536 | 14.4141 | 15.3384 | 14.9054
160073 | 11.8261 | 11.4997 | 15.5946 | 12.7126
160074 | 19.5092 | 17.9513 | 18.4624 | 18.6658
160075 | 19.4948 | 18.4613 | 20.7842 | 19.5335
160076 | 17.9381 | 17.8824 | 19.1590 | 18.2977
160077 | 12.8826 | 13.6658 | 15.0468 | 13.8624
160079 | 17.6187 | 18.6333 | 20.5010 | 18.9292
160080 | 18.6687 | 19.4925 | 19.6680 | 19.2860
160081 | 17.0052 | 17.4466 | 19.1442 | 17.8781
160082 | 19.6499 | 19.5322 | 20.6425 | 19.9343
160083 | 20.6189 | 19.7542 | 21.3221 | 20.5512
160085 | 18.0063 | 21.2557 | 19.1929 | 19.4359
160086 | 17.3271 | 17.5308 | 19.0477 | 17.9338
160088 | 20.2331 | 22.3655 | 23.8098 | 22.1152
160089 | 16.9538 | 17.3449 | 18.3526 | 17.5556
160090 | 17.1090 | 17.9614 | 18.4210 | 17.8146
160091 | 12.8516 | 14.2573 | 14.8904 | 13.9759
160092 | 15.5011 | 17.0633 | 17.9251 | 16.7839
160093 | 17.7457 | 18.5675 | 19.5732 | 18.6194
160094 | 18.7653 | 17.6094 | 18.7835 | 18.3744
160095 | 15.1895 | 15.2722 | 16.4927 | 15.6525
160097 | 15.9263 | 16.6790 | 17.7860 | 16.8002
160098 | 16.3135 | 16.8670 | 16.8997 | 16.6946
160099 | 13.9053 | 15.0880 | 16.0710 | 15.0169
160101 | 18.3705 | 18.9788 | 19.6314 | 18.9647
160102 | 18.8765 | 20.1161 | 14.4837 | 17.6011
160103 | 17.0973 | 18.2741 | 19.6168 | 18.2567
160104 | 18.8301 | 17.4829 | 21.0060 | 19.1043
160106 | 16.9639 | 17.3474 | 19.4385 | 17.8892
160107 | 18.0634 | 18.0097 | 18.8936 | 18.3269
160108 | 16.0529 | 16.7779 | 17.7577 | 16.8631
160109 | 16.5593 | 17.9873 | 18.2938 | 17.5854
160110 | 19.1420 | 20.6215 | 20.9346 | 20.2607
160111 | 14.1644 | 14.9965 | 15.1104 | 14.7432
160112 | 16.8332 | 17.2450 | 19.6950 | 17.9037
160113 | 14.7097 | 15.4834 | 14.9449 | 15.0474
160114 | 16.1423 | 16.5006 | 18.0532 | 16.8768
160115 | 15.8995 | 16.5654 | 16.9991 | 16.4863
160116 | 16.9534 | 16.6993 | 18.4261 | 17.3468
160117 | 17.9410 | 18.7615 | 19.9040 | 18.8566
160118 | 17.2523 | 19.4472 | 17.1480 | 17.8721
160120 | 10.5992 | 15.6789 | 15.0577 | 13.1432
160122 | 18.9252 | 18.1469 | 18.8469 | 18.6451
160124 | 18.0908 | 19.1600 | 19.9144 | 19.0634
160126 | 17.8142 | 19.4903 | 17.6813 | 18.2418
160129 | 16.7131 | 17.2112 | 18.0113 | 17.3098
160130 | 16.0528 | 15.6666 | 16.2628 | 15.9955
160131 | 15.4898 | 16.0424 | 16.5397 | 16.0265
160134 | 13.4743 | 15.3012 | 14.6396 | 14.4558
160135 | 18.2682 | 18.7711 | 18.3973 | 18.4829
160138 | 16.8699 | 17.1491 | 18.3957 | 17.4264
160140 | 18.4007 | 18.5630 | 19.6155 | 18.8655
160142 | 16.2875 | 18.1467 | 17.2792 | 17.2139
160143 | 16.6154 | 17.4497 | 18.1287 | 17.4014
160145 | 13.9152 | 16.9092 | 17.8887 | 16.1391
160146 | 16.6024 | 17.7010 | 19.0576 | 17.7319
160147 | 17.4880 | 19.4041 | 21.6062 | 19.3700
160151 | 16.8257 | 17.2177 | 18.3398 | 17.4331
160152 | 15.6170 | 15.9500 | 17.0750 | 16.1956
160153 | 20.2316 | 21.2085 | 22.7004 | 21.3705
170001 | 17.9304 | 17.9218 | 18.3934 | 18.0897
170004 | 15.0636 | 16.1442 | 17.2262 | 16.1274
170006 | 17.2192 | 17.5982 | 19.1802 | 18.0107
170008 | 14.9124 | 16.8412 | 17.7061 | 16.4380
170009 | 20.7795 | 23.1349 | 25.0155 | 23.0594
170010 | 18.7384 | 19.4584 | 19.5990 | 19.2633
170012 | 17.8719 | 18.4432 | 20.2281 | 18.8642
170013 | 18.6454 | 19.4667 | 20.1123 | 19.4285
170014 | 17.9349 | 18.4931 | 19.3973 | 18.6216
170015 | 16.5750 | 17.1302 | 17.2443 | 16.9768
170016 | 19.2130 | 20.0675 | 20.9301 | 20.0460
170017 | 17.7958 | 19.5994 | 19.7908 | 19.0428
170018 | 15.2984 | 15.3237 | 14.8794 | 15.1619
170019 | 15.2094 | 16.9362 | 17.3043 | 16.4640
170020 | 17.3400 | 18.1325 | 18.9345 | 18.1573
170022 | 18.5309 | 19.1888 | 20.3269 | 19.3395
170023 | 19.1351 | 19.2441 | 19.6533 | 19.3514
170024 | 13.6803 | 14.3604 | 15.0081 | 14.3388
170025 | 17.8667 | 18.7182 | 19.1720 | 18.5412
170026 | 15.0470 | 14.8974 | 16.6547 | 15.5216
170027 | 17.3604 | 17.8690 | 18.4466 | 17.8805
170030 | 14.6530 | 15.9282 | 12.9413 | 14.4010
170031 | 13.9601 | 14.2151 | 16.4660 | 14.7972
170032 | 15.6093 | 16.3449 | 15.2207 | 15.7224
170033 | 16.4059 | 19.1952 | 21.2104 | 18.9788
170034 | 15.8202 | 16.9586 | 17.8239 | 16.8326
170035 | 18.5885 | 17.0945 | 19.8334 | 18.5082
170038 | 14.7776 | 13.8582 | 15.2505 | 14.6401
170039 | 15.8635 | 17.0774 | 18.5780 | 17.1811
170040 | 21.6440 | 21.0617 | 23.1014 | 21.8449
170041 | 11.7566 | 12.4488 | 9.9263 | 11.2790
170044 | 15.3011 | 17.3254 | * | 16.3356
170045 | 14.0875 | 25.8331 | 20.5454 | 19.8078
170049 | 19.9415 | 20.7921 | 21.2917 | 20.7035
170051 | 15.0889 | 16.4851 | 16.9003 | 16.1546
170052 | 15.0108 | 15.2283 | 16.0948 | 15.4803
170053 | 16.5102 | 14.6133 | 14.3628 | 15.2080
170054 | 14.4353 | 14.6354 | 15.1330 | 14.7339
170055 | 16.9800 | 18.2607 | 18.1783 | 17.7932
170056 | 17.0442 | 18.3550 | 19.7369 | 18.3732
170057 | 13.0007 | * | * | 13.0007
170058 | 18.6983 | 19.5415 | 20.1090 | 19.4664
170060 | 17.3482 | 18.9853 | 17.5290 | 17.8991
170061 | 15.6527 | 15.0258 | 15.2924 | 15.3392
170063 | 12.8082 | 14.1185 | 13.7611 | 13.4911
170066 | 15.5322 | 16.2891 | 16.8009 | 16.1505
170067 | 14.7492 | 14.9921 | 20.7945 | 16.7328
170068 | 15.1790 | 17.0022 | 19.2629 | 17.0101
170070 | 14.2445 | 14.0627 | 14.8348 | 14.3652
170072 | 12.6329 | 12.7709 | * | 12.7037
170073 | 17.5368 | 17.7056 | 17.7586 | 17.6632
170074 | 17.5537 | 17.3699 | 17.2800 | 17.4035
170075 | 12.4212 | 13.6816 | 14.4939 | 13.5832
170076 | 14.5866 | 14.6109 | 14.9392 | 14.7111
170077 | 13.5235 | 13.9104 | 14.1376 | 13.8508
170079 | 13.5261 | 11.5902 | 16.7227 | 13.6766
170080 | 12.6014 | 14.8293 | 13.6794 | 13.6471
170081 | 13.8077 | 14.6823 | 15.0840 | 14.5566
170082 | 12.8563 | 13.7462 | 14.8154 | 13.7610
170084 | 12.5410 | 13.0519 | 13.5927 | 13.0488
170085 | 15.4518 | 17.5422 | 21.8907 | 18.4877
170086 | 20.4068 | 19.7182 | 20.2892 | 20.1437
170088 | 13.4542 | 13.4860 | * | 13.4703
170089 | 18.8136 | 15.4860 | 20.2263 | 18.3293
170090 | 11.9147 | 10.9444 | * | 11.4573
170093 | 13.5490 | 14.0276 | 14.7803 | 14.0852
170094 | 20.1985 | 21.2035 | 21.2484 | 20.8944
170095 | 15.5463 | 15.3532 | 16.1078 | 15.6715
170097 | 16.4608 | 17.7540 | 18.6805 | 17.6242
170098 | 15.5259 | 16.6210 | 17.3480 | 16.4881
170099 | 13.6033 | 14.3370 | 16.5247 | 14.7568
170101 | 14.5629 | 18.0143 | 17.3381 | 16.4637
170102 | 13.6321 | 14.2447 | 14.4499 | 14.1084
170103 | 17.2844 | 17.9530 | 18.6172 | 17.9709
170104 | 20.6182 | 21.0049 | 21.9487 | 21.1996
170105 | 16.5408 | 16.7403 | 18.2788 | 17.1877
170106 | 18.5479 | 17.7467 | * | 18.0680
170109 | 17.2629 | 16.9782 | 18.3483 | 17.5682
170110 | 16.9823 | 18.5731 | 21.0637 | 18.8359
170112 | 14.3855 | 15.4049 | 15.8097 | 15.1873
170113 | 13.9038 | 14.6486 | 16.4938 | 15.0142
170114 | 14.4545 | 16.2645 | 13.8347 | 14.7519
170115 | 12.6997 | 12.9216 | 13.0253 | 12.8848
170116 | 16.8714 | 18.1830 | 19.4278 | 18.1442
170117 | 15.7875 | 16.8237 | 16.8301 | 16.4481
170119 | 15.1990 | 15.2708 | 15.1982 | 15.2222
170120 | 17.6748 | 17.4917 | 18.2061 | 17.7788
170122 | 20.0615 | 21.1769 | 21.4205 | 20.8657
170123 | 23.1697 | 23.6534 | 25.2071 | 23.9580
170124 | 11.1249 | 15.0596 | 16.3925 | 13.8286
170126 | 12.8096 | 13.5736 | 14.5527 | 13.6140
170128 | 14.8891 | 14.1676 | 17.6259 | 15.4144
170131 | 10.1000 | * | * | 10.1000
170133 | 18.0243 | 18.8119 | 19.9778 | 18.9214
170134 | 14.1085 | 14.6799 | 15.1932 | 14.6538
170137 | 17.8290 | 19.3118 | 19.3344 | 18.8395
170139 | 14.1967 | 14.3001 | 14.8157 | 14.4193
170142 | * | 17.7134 | 18.9169 | 18.3246
170143 | 15.6509 | 16.0415 | 16.3258 | 16.0049
170144 | 19.0929 | 20.4392 | 20.7583 | 20.0727
170145 | 17.1837 | 19.0142 | 18.1398 | 18.1031
170146 | 20.9075 | 21.7919 | 25.4405 | 22.7798
170147 | 22.3017 | 17.6717 | 17.4968 | 19.0192
170148 | 16.9183 | 19.1942 | 24.4828 | 19.5145
170150 | 15.5651 | 15.9072 | 14.9718 | 15.4692
170151 | 13.8934 | 14.3668 | 14.5002 | 14.2317
170152 | 14.9139 | 15.6423 | 16.0930 | 15.5503
170160 | 13.7108 | 14.4732 | 17.0629 | 15.0179
170164 | 16.6542 | 17.4072 | 17.0791 | 17.0445
170166 | 27.5567 | 12.7507 | 16.5113 | 18.0323
170171 | 12.5200 | 13.1792 | 14.7051 | 13.3708
170175 | 19.0232 | 20.1907 | 19.9712 | 19.7266
170176 | 21.3400 | 23.5043 | 23.5743 | 22.8029
170180 | 16.6921 | 8.6352 | * | 11.8552
170182 | 22.2164 | 21.3454 | 21.9797 | 21.8339
170183 | 20.3505 | 19.5182 | 16.6577 | 18.5979
170185 | * | * | 26.6814 | 26.6814
170186 | * | * | 32.9088 | 32.9088
180001 | 17.9906 | 20.4885 | 20.8419 | 19.8481
180002 | 17.9669 | 17.5798 | 19.7742 | 18.4114
180004 | 17.2581 | 17.7149 | 18.0494 | 17.6734
180005 | 21.1390 | 22.4634 | 23.4941 | 22.1458
180006 | 11.4398 | 10.3400 | 11.2872 | 11.0389
180007 | 17.6776 | 17.9491 | 18.6823 | 18.0973
180009 | 21.4730 | 21.0608 | 21.7746 | 21.4458
180010 | 19.1100 | 19.6311 | 19.4210 | 19.3847
180011 | 17.1050 | 19.0526 | 22.6798 | 19.8513
180012 | 18.7223 | 19.0646 | 19.6614 | 19.1485
180013 | 18.2354 | 19.7418 | 19.9690 | 19.3345
180014 | 21.4856 | 21.3361 | 22.9674 | 21.8678
180016 | 19.8892 | 21.1458 | 19.7132 | 20.2640
180017 | 15.4140 | 15.6583 | 16.7649 | 15.9422
180018 | 17.1692 | 15.4892 | 17.2357 | 16.6084
180019 | 17.3970 | 17.8285 | 19.0883 | 18.1044
180020 | 17.7288 | 18.0111 | 19.3978 | 18.3483
180021 | 15.4580 | 17.0618 | 16.5376 | 16.3552
180023 | 15.8803 | 17.4717 | 19.0574 | 17.4610
180024 | 16.1731 | 16.5040 | 19.6313 | 17.2961
180025 | 14.1841 | 15.4180 | 17.1875 | 15.5888
180026 | 14.6804 | 15.0118 | 13.9959 | 14.5545
180027 | 16.4116 | 17.5286 | 19.6928 | 17.8399
180028 | 19.5276 | 15.7005 | 26.1723 | 19.5534
180029 | 17.7729 | 17.7248 | 20.0357 | 18.4826
180030 | 17.3430 | 17.9543 | 17.5043 | 17.5959
180031 | 13.9844 | 13.1848 | 17.1003 | 14.4541
180032 | 16.8318 | 17.2784 | 17.2362 | 17.1383
180033 | 17.7344 | 15.4131 | 17.0498 | 16.6984
180034 | 15.3369 | 16.3991 | 17.0349 | 16.2188
180035 | 20.1305 | 21.3666 | 22.6728 | 21.3628
180036 | 19.8398 | 20.1860 | 20.6951 | 20.2522
180037 | 19.9737 | 21.2184 | 21.0177 | 20.7450
180038 | 17.7626 | 18.5923 | 19.0457 | 18.4790
180040 | 19.5337 | 21.2229 | 22.1332 | 20.9525
180041 | 15.0785 | 16.3699 | 17.5950 | 16.3724
180042 | 16.7691 | 17.1519 | 15.5660 | 16.4438
180043 | 16.8027 | 14.6526 | 17.0419 | 16.0656
180044 | 18.5571 | 19.4984 | 21.1057 | 19.7654
180045 | 17.7130 | 20.8455 | 20.7850 | 19.9661
180046 | 19.2523 | 21.2080 | 20.8544 | 20.4279
180047 | 16.2304 | 18.6938 | 17.8625 | 17.5927
180048 | 18.3442 | 17.7816 | 18.3151 | 18.1431
180049 | 16.4319 | 16.5459 | 17.0422 | 16.6742
180050 | 17.8540 | 17.1493 | 19.4583 | 18.1528
180051 | 16.3960 | 17.5441 | 17.7358 | 17.2163
180053 | 15.9284 | 15.8994 | 17.3167 | 16.3733
180054 | 19.4858 | 20.0946 | 17.4354 | 19.0288
180055 | 15.2663 | 15.8422 | 16.6072 | 15.8890
180056 | 17.0056 | 17.5881 | 18.6075 | 17.7242
180058 | 15.9685 | 14.5355 | 14.7900 | 15.0323
180059 | 13.3955 | 14.7032 | 17.2542 | 14.9522
180063 | 13.1036 | 12.4448 | 14.7338 | 13.4418
180064 | 15.2424 | 15.5066 | 16.3894 | 15.6781
180065 | 12.0629 | 11.1934 | 11.0966 | 11.4164
180066 | 19.2981 | 19.8956 | 19.4875 | 19.5598
180067 | 20.6322 | 20.1712 | 20.2762 | 20.3589
180069 | 17.7911 | 16.2916 | 19.0443 | 17.6808
180070 | 13.1923 | 15.9362 | 15.4643 | 14.7849
180072 | 16.9021 | 17.2347 | 17.0576 | 17.0759
180078 | 21.1170 | 21.7116 | 22.2802 | 21.7169
180079 | 15.1636 | 15.9048 | 18.1683 | 16.3817
180080 | 16.4989 | 16.6428 | 17.5659 | 16.9072
180087 | 14.9167 | 15.6089 | 16.2378 | 15.5798
180088 | 22.0374 | 22.1774 | 22.8908 | 22.3519
180092 | 18.2405 | 18.3597 | 18.8964 | 18.5113
180093 | 17.0132 | 17.8492 | 17.6961 | 17.5099
180094 | 13.5490 | 13.6233 | 14.3306 | 13.8326
180095 | 13.8021 | 13.9050 | 15.4478 | 14.3114
180099 | 13.3631 | 13.2991 | 14.0464 | 13.5559
180101 | 18.4883 | * | 20.2958 | 19.4148
180102 | 17.9618 | 18.5240 | 16.6998 | 17.7006
180103 | 19.8965 | 20.3490 | 20.8866 | 20.3712
180104 | 18.9281 | 19.3922 | 20.3023 | 19.5481
180105 | 15.2394 | 16.6997 | 18.2976 | 16.6579
180106 | 14.3505 | 15.2895 | 15.5278 | 15.0462
180108 | 14.8187 | 14.4740 | 14.8720 | 14.7266
180115 | 16.7003 | 16.9096 | 18.0951 | 17.2235
180116 | 18.0392 | 18.6077 | 18.1923 | 18.2836
180117 | 17.7857 | 23.0192 | 20.7961 | 20.3977
180118 | 15.8597 | 16.9250 | 17.9017 | 16.8657
180120 | 16.1591 | 15.3115 | 16.4226 | 15.9318
180121 | 15.0983 | 20.0494 | 16.9570 | 17.2427
180122 | 18.5094 | 18.1930 | 18.7549 | 18.4922
180123 | 21.0613 | 21.1067 | 21.8227 | 21.3332
180124 | 17.4994 | 18.8487 | 19.7138 | 18.6761
180125 | 19.6416 | 14.9314 | 22.6161 | 18.1828
180126 | 12.9228 | 14.3551 | 14.8501 | 14.0804
180127 | 19.2581 | 17.6365 | 18.0498 | 18.2667
180128 | 17.6385 | 18.2817 | 18.7194 | 18.2299
180129 | 16.8378 | 22.3536 | 15.6637 | 17.9690
180130 | 19.8192 | 20.6450 | 21.9268 | 20.8000
180132 | 17.7744 | 19.5884 | 19.4233 | 18.9093
180133 | 21.6794 | 21.7800 | 23.2679 | 22.2101
180134 | 13.1935 | 14.5387 | 16.5901 | 14.7149
180136 | 17.3542 | * | * | 17.3542
180138 | 19.3692 | 20.2102 | 19.8524 | 19.8199
180139 | 18.7198 | 20.5350 | 20.3816 | 19.9038
180140 | 16.8152 | 15.2719 | 14.6466 | 15.5892
180141 | 20.9820 | 23.8930 | 23.0957 | 22.5668
180142 | * | 20.751 | * | 20.7510
180143 | * | * | 21.3197 | 21.3197
190001 | 17.6832 | 18.1514 | 18.8583 | 18.2414
190002 | 19.1924 | 19.8834 | 20.6057 | 19.8935
190003 | 19.7749 | 19.9121 | 19.5115 | 19.7281
190004 | 17.7710 | 18.3620 | 19.6755 | 18.6227
190005 | 17.2422 | 17.5161 | 18.6994 | 17.8286
190006 | 17.8036 | 17.5911 | 17.7333 | 17.7115
190007 | 13.8189 | 14.4720 | 15.8753 | 14.7770
190008 | 18.6664 | 19.2456 | 22.4797 | 20.0804
190009 | 15.3555 | 15.9731 | 16.0395 | 15.7936
190010 | 16.2805 | 16.5020 | 17.7616 | 16.8604
190011 | 15.9534 | 15.6351 | 15.7319 | 15.7701
190013 | 16.8181 | 15.5019 | 16.7770 | 16.3476
190014 | 17.0959 | 17.8015 | 18.6929 | 17.8513
190015 | 18.6266 | 18.9896 | 19.7673 | 19.1223
190017 | 16.2393 | 17.5381 | 19.8449 | 17.8836
190018 | 15.0668 | 11.1898 | 13.1355 | 13.0348
190019 | 18.5257 | 18.3788 | 18.6473 | 18.5189
190020 | 17.5256 | 17.6840 | 18.7252 | 17.9732
190025 | 18.6369 | 16.8686 | 18.1892 | 17.9111
190026 | 18.1622 | 18.5015 | 18.8895 | 18.5256
190027 | 17.0827 | 17.4761 | 18.3203 | 17.6149
190029 | 16.5239 | 19.1967 | 18.7344 | 18.0923
190034 | 16.8503 | 18.0754 | 19.2007 | 18.0146
190036 | 20.1780 | 20.0300 | 21.1870 | 20.4494
190037 | 17.6945 | 19.9878 | 14.1323 | 17.4581
190039 | 19.4713 | 19.0376 | 17.8217 | 18.7156
190040 | 21.4634 | 21.7376 | 23.0537 | 22.0787
190041 | 17.6646 | 17.9535 | 17.2344 | 17.5871
190043 | 15.5580 | 15.5618 | 15.5645 | 15.5614
190044 | 17.2892 | 17.4471 | 17.6788 | 17.4765
190045 | 21.6107 | 21.2853 | 22.0065 | 21.6574
190046 | 19.7964 | 20.4458 | 20.2414 | 20.1666
190048 | 16.6683 | 16.8136 | 16.6848 | 16.7218
190049 | 17.2280 | 17.7417 | 18.5902 | 17.8611
190050 | 16.1980 | 16.2854 | 16.9053 | 16.4718
190053 | 13.2159 | 13.0080 | 13.4768 | 13.2412
190054 | 19.1738 | 18.9059 | 17.7269 | 18.6351
190059 | 15.6942 | 15.8373 | 17.8651 | 16.5018
190060 | 14.7186 | 17.8443 | 19.9121 | 17.2297
190064 | 20.4482 | 18.2466 | 19.9873 | 19.5473
190065 | 20.9927 | 18.3091 | 18.3050 | 19.0764
190071 | 14.4827 | 16.4138 | 16.3822 | 15.7772
190077 | 15.7805 | 16.5536 | 16.8829 | 16.4072
190078 | 14.8826 | 16.9383 | 19.5879 | 16.9873
190079 | 17.7120 | 17.9403 | 18.1929 | 17.9449
190081 | 15.3198 | 14.9707 | 14.7919 | 15.0273
190083 | 18.8895 | 18.4951 | 16.2970 | 17.9487
190086 | 15.8694 | 16.5074 | 17.6237 | 16.6689
190088 | 20.5531 | 19.9362 | 20.4725 | 20.3095
190089 | 13.0503 | 15.0395 | 15.2055 | 14.4221
190090 | 16.6664 | 16.2351 | 19.8201 | 17.5803
190095 | 16.2287 | 17.3258 | 17.3637 | 16.9543
190098 | 20.4897 | 21.0847 | 22.5793 | 21.3421
190099 | 19.9018 | 19.0635 | 19.0545 | 19.3385
190102 | 20.0300 | 20.7870 | 21.0423 | 20.6389
190103 | 12.1389 | 14.4158 | 15.6415 | 14.0050
190106 | 18.5813 | 18.5908 | 19.9117 | 19.0267
190109 | 15.5767 | 15.8187 | 16.3641 | 15.9327
190110 | 15.8052 | 15.7313 | 15.2652 | 15.5956
190111 | 19.7514 | 20.6508 | 20.2253 | 20.2164
190112 | 21.0232 | 22.0741 | 24.2806 | 22.3499
190113 | 12.5777 | * | 19.0411 | 16.0667
190114 | 12.6366 | 13.9209 | 13.4402 | 13.3357
190115 | 20.2473 | 22.7583 | 23.7462 | 22.1782
190116 | 15.5481 | 17.3757 | 18.3223 | 17.0452
190118 | 14.7876 | 16.3776 | 17.8543 | 16.2736
190120 | 13.9591 | 17.2309 | 17.6708 | 16.2867
190122 | 15.4793 | 15.3742 | 16.7189 | 15.8764
190124 | 20.6222 | 20.1206 | 22.8245 | 21.2142
190125 | 20.4517 | 19.8298 | 20.1401 | 20.1511
190128 | 20.4688 | 20.8770 | 21.1465 | 20.8466
190130 | 15.1467 | 14.0379 | 14.5586 | 14.5812
190131 | 20.7565 | 18.8958 | 19.7483 | 19.8133
190133 | 13.5383 | 15.1393 | 15.7834 | 14.7342
190134 | 12.1749 | 12.4507 | * | 12.3182
190135 | 21.6875 | 21.3454 | 23.1434 | 22.0401
190136 | 12.4091 | 15.1662 | 15.6286 | 14.4513
190140 | 14.2256 | 14.6829 | 14.8738 | 14.5954
190142 | 15.4861 | 16.2280 | 19.0464 | 16.8845
190144 | 16.2068 | 18.4405 | 18.3513 | 17.6419
190145 | 15.2345 | 16.2505 | 16.4402 | 15.9754
190146 | 21.2825 | 21.9607 | 20.6776 | 21.3057
190147 | 14.4345 | 14.7202 | 15.2732 | 14.8106
190148 | 16.6337 | 15.5338 | 19.4518 | 17.1031
190149 | 17.5997 | 16.4722 | 16.5153 | 16.8165
190151 | 14.7333 | 15.5210 | 16.2783 | 15.5127
190152 | 22.2070 | 22.0319 | 22.7142 | 22.3160
190156 | 15.7478 | 16.0442 | 17.6573 | 16.4812
190158 | 20.4637 | 20.4078 | 21.6307 | 20.8104
190160 | 17.1003 | 18.4662 | 19.3139 | 18.3349
190161 | 15.5737 | 15.9280 | 15.7807 | 15.7581
190162 | 20.6143 | 20.1962 | 20.9645 | 20.5966
190164 | 15.1783 | 18.2379 | 19.0473 | 17.3930
190167 | 16.6681 | 17.7611 | 15.5795 | 16.5709
190170 | 14.1750 | 14.5222 | 16.2045 | 15.0173
190173 | 23.6398 | 23.0934 | * | 23.4298
190175 | 19.3625 | 20.4580 | 22.2470 | 20.7017
190176 | 24.0574 | 22.2316 | 21.7051 | 22.5987
190177 | 18.6715 | 19.7794 | 20.3679 | 19.5997
190178 | 11.0657 | 12.0372 | * | 11.5413
190182 | 20.2855 | 20.7102 | 23.1997 | 21.3232
190183 | 16.7671 | 16.0752 | 16.7402 | 16.5275
190184 | 17.2044 | 19.8436 | 18.6583 | 18.5582
190185 | 20.1444 | 20.5852 | 20.5454 | 20.4315
190186 | 18.7568 | 17.4078 | 16.7272 | 17.7093
190190 | 17.4642 | 15.8985 | 13.7951 | 15.8564
190191 | 20.4975 | 19.6911 | 19.7218 | 19.9785
190196 | 17.9225 | 18.6138 | 19.1961 | 18.6202
190197 | 19.5569 | 20.2082 | 20.5377 | 20.1371
190199 | 16.0637 | 15.3522 | 17.8288 | 16.5088
190200 | 22.0391 | 21.6852 | 22.3510 | 22.0311
190201 | 18.7079 | 19.7421 | 21.5656 | 20.0412
190202 | * | * | 22.4701 | 22.4701
190203 | 21.7350 | 21.7931 | 23.0636 | 22.1708
190204 | 21.4624 | 20.5784 | 22.9134 | 21.6176
190205 | 19.6587 | 19.3737 | 18.8750 | 19.3122
190206 | 21.7012 | 21.3307 | 21.7867 | 21.6067
190207 | 20.5082 | 19.0216 | 20.7024 | 20.0851
190208 | 20.0065 | 16.9641 | 17.6834 | 18.1192
190218 | 19.7518 | 19.2992 | 20.7290 | 19.9128
190231 | 15.8287 | 17.7247 | * | 16.7208
190236 | 19.3395 | 21.1982 | 22.5796 | 21.1124
190238 | * | 20.6799 | * | 20.6799
190239 | * | 19.7601 | * | 19.7601
190240 | * | 14.3579 | 16.0112 | 15.2482
200001 | 18.0527 | 18.2513 | 19.9438 | 18.7634
200002 | 19.3629 | 22.3035 | 22.3272 | 21.3905
200003 | 16.9566 | 18.4141 | 18.8570 | 18.0991
200006 | 17.6586 | 21.0922 | 24.1167 | 20.8621
200007 | 18.7992 | 18.1681 | 19.4177 | 18.7699
200008 | 21.7489 | 21.5556 | 24.2833 | 22.5897
200009 | 22.2280 | 21.4763 | 23.2456 | 22.3157
200012 | 18.3484 | 19.1047 | 20.9187 | 19.4746
200013 | 18.0566 | 17.9378 | 20.2192 | 18.8221
200016 | 18.0866 | 17.1187 | 16.2939 | 17.1580
200017 | 17.2930 | * | * | 17.2930
200018 | 18.5397 | 17.8675 | 20.6104 | 19.0069
200019 | 19.2348 | 19.9245 | 21.3003 | 20.1669
200020 | 22.4526 | 22.3355 | 24.8195 | 23.2627
200021 | 19.9133 | 20.7361 | 22.4038 | 21.0287
200023 | 16.1707 | 20.2063 | * | 18.0379
200024 | 19.4329 | 20.8336 | 21.2346 | 20.5158
200025 | 20.2259 | 20.4165 | 21.6002 | 20.7762
200026 | 18.1194 | 17.9021 | 21.4758 | 18.9050
200027 | 18.5659 | 19.4220 | 20.2146 | 19.4316
200028 | 19.5708 | 18.8763 | 19.9926 | 19.4914
200031 | 16.2217 | 16.1641 | 17.3915 | 16.5880
200032 | 18.9315 | 19.4613 | 20.8973 | 19.7659
200033 | 21.8634 | 22.4685 | 23.6538 | 22.6396
200034 | 20.1519 | 20.4941 | 21.3303 | 20.6756
200037 | 18.6713 | 20.3015 | 19.7768 | 19.6048
200038 | 23.3851 | 21.2632 | 22.9629 | 22.5227
200039 | 19.8589 | 20.1508 | 21.0884 | 20.3830
200040 | 19.5503 | 18.9580 | 19.5917 | 19.3665
200041 | 19.3563 | 18.8131 | 20.3761 | 19.5462
200043 | 16.7224 | 19.4295 | 19.8833 | 18.5621
200050 | 20.1214 | 20.2014 | 14.6387 | 17.8681
200051 | 22.1525 | 22.0712 | * | 22.1031
200052 | 17.2099 | 17.6271 | 19.9239 | 18.2260
200055 | 18.8422 | 18.5983 | 19.4998 | 18.9700
200062 | 17.2273 | 18.4279 | 18.4038 | 18.0038
200063 | 19.9331 | 21.2121 | 22.5278 | 21.2360
200066 | 17.0289 | 17.0570 | 18.7143 | 17.6294
210001 | 20.4841 | 18.6617 | 21.5280 | 20.1745
210002 | 19.9219 | 23.5132 | 21.1426 | 21.7024
210003 | 20.3446 | 26.0447 | 21.6625 | 22.4257
210004 | 24.2909 | 24.9760 | * | 24.6345
210005 | 21.4929 | 21.3829 | 23.8670 | 22.2506
210006 | 18.9436 | 19.3682 | 20.8607 | 19.7283
210007 | 23.1007 | 23.8840 | 23.4582 | 23.4837
210008 | 21.1768 | 21.2895 | 21.0767 | 21.1826
210009 | 20.5447 | 20.7479 | 20.8476 | 20.7179
210010 | 18.7197 | 19.5908 | 19.7917 | 19.3735
210011 | 21.4862 | 21.4043 | 20.0662 | 20.9726
210012 | 20.7203 | 21.3977 | 24.0745 | 21.9907
210013 | 19.7288 | 19.4505 | 23.1649 | 20.7921
210015 | 16.1912 | 18.7448 | 23.9651 | 19.4078
210016 | 23.8739 | 26.5193 | * | 25.1634
210017 | 18.8928 | 18.5079 | 18.2963 | 18.5724
210018 | 22.2135 | 22.8553 | 23.6442 | 22.8975
210019 | 19.3046 | 20.6025 | 21.5429 | 20.4724
210022 | 22.6389 | 24.5744 | 25.6728 | 24.3137
210023 | 23.1950 | 22.9989 | 24.4815 | 23.5799
210024 | 20.6011 | 24.4280 | 24.7858 | 23.2181
210025 | 19.5876 | 21.2769 | 21.4910 | 20.6428
210026 | 12.1348 | 13.8668 | 20.7986 | 14.8993
210027 | 17.6855 | 17.1060 | 16.2219 | 17.0429
210028 | 19.6408 | 19.4157 | 20.4027 | 19.8293
210029 | 21.2167 | 25.4939 | 24.7605 | 23.8903
210030 | 21.7403 | 20.9574 | 21.9547 | 21.5644
210031 | 16.2299 | * | * | 16.2299
210032 | 17.7228 | 20.1955 | 20.0825 | 19.3625
210033 | 20.8053 | 23.7588 | 22.8303 | 22.4103
210034 | 15.7322 | 19.4144 | 22.6812 | 19.1023
210035 | 20.2731 | 20.8317 | 21.6662 | 20.9231
210037 | 18.3072 | 20.5528 | 19.2811 | 19.3731
210038 | 23.4971 | 24.9762 | 25.9701 | 24.7755
210039 | 19.9901 | 21.3559 | 23.3583 | 21.5884
210040 | 21.5014 | 23.4252 | 23.1960 | 22.7040
210043 | 19.6474 | 22.4000 | 22.9504 | 21.5561
210044 | 22.5781 | 23.0917 | 22.9540 | 22.8695
210045 | 11.6086 | 12.1467 | 13.5654 | 12.4021
210048 | 23.0537 | 24.6921 | 24.9381 | 24.2387
210049 | 19.0821 | 19.3022 | 21.1056 | 19.8459
210051 | 22.4335 | 23.6476 | 24.8949 | 23.6510
210054 | 22.3559 | 23.2730 | 25.1694 | 23.5831
210055 | 29.2539 | 26.5272 | 23.8025 | 26.3168
210056 | 19.2662 | 22.9593 | 23.8915 | 21.9932
210057 | 23.8289 | 26.0076 | * | 24.8719
210058 | 22.0753 | 16.3191 | 17.4250 | 18.5418
210059 | 22.6766 | 25.6052 | * | 23.8855
210060 | * | 26.5846 | 26.4566 | 26.5245
210061 | 17.2240 | 16.1931 | 20.8975 | 18.1853
220001 | 21.9369 | 22.9064 | 23.4091 | 22.7509
220002 | 24.1285 | 24.5840 | 25.3171 | 24.6486
220003 | 16.9246 | 17.9319 | 17.6069 | 17.4814
220006 | 22.3085 | 22.6337 | 23.5624 | 22.8309
220008 | 24.4691 | 22.0796 | 23.0806 | 23.1592
220010 | 21.8582 | 22.0067 | 23.8256 | 22.5598
220011 | 26.1827 | 29.5290 | 24.8039 | 26.6476
220012 | 32.0829 | 31.2303 | 30.4104 | 31.2159
220015 | 22.5773 | 23.1893 | 24.1348 | 23.2890
220016 | 23.3750 | 23.0951 | 24.5411 | 23.6644
220017 | 22.4605 | 25.1568 | 25.9000 | 24.3877
220019 | 19.5613 | 19.8551 | 19.9268 | 19.7870
220020 | 21.4152 | 22.4295 | 22.5375 | 22.1352
220023 | 16.1885 | * | * | 16.1885
220024 | 21.5363 | 21.9316 | 23.8620 | 22.4506
220025 | 20.7882 | 22.8593 | 22.8936 | 22.1783
220028 | 22.8036 | 21.0630 | 24.0441 | 22.5673
220029 | 23.1509 | 25.6560 | 26.3117 | 25.0100
220030 | 18.5441 | 18.7429 | 19.3387 | 18.8705
220031 | 30.2430 | 29.3091 | 28.3832 | 29.0231
220033 | 20.0695 | 20.3609 | 22.3195 | 20.8616
220035 | 21.6396 | 23.1892 | 24.5685 | 23.0612
220036 | 24.6470 | 24.4091 | 24.9637 | 24.6635
220038 | 22.6518 | 22.3162 | 22.4302 | 22.4673
220041 | 23.4720 | 27.5034 | 28.6303 | 26.3941
220042 | 25.0779 | 26.0473 | 28.4675 | 26.3871
220046 | 22.7068 | 23.3149 | 23.8578 | 23.2791
220049 | 26.0025 | 27.2689 | 25.2174 | 26.1330
220050 | 22.0144 | 22.5265 | 23.3330 | 22.6222
220051 | 21.1033 | 21.7357 | 22.4826 | 21.7398
220052 | 23.7650 | 23.5225 | 24.4403 | 23.8995
220053 | 19.1280 | * | * | 19.1280
220055 | 21.3743 | * | * | 21.3743
220057 | 25.3902 | 25.8064 | 26.2945 | 25.8083
220058 | 19.9369 | 26.8345 | 21.6814 | 22.7654
220060 | 28.0843 | 28.0794 | 28.1888 | 28.1190
220062 | 20.4685 | 20.2254 | 16.0585 | 19.0019
220063 | 20.3951 | 20.8079 | 21.7336 | 21.0041
220064 | 22.3260 | 22.7497 | 23.8859 | 22.7342
220065 | 20.1364 | 20.1424 | 21.5556 | 20.6267
220066 | 20.7826 | 23.4477 | 24.5463 | 22.8901
220067 | 26.4443 | 27.5405 | 27.9807 | 27.2636
220070 | 19.7528 | 20.9128 | 21.0606 | 20.5677
220071 | 25.6184 | 27.4151 | 27.4906 | 26.8301
220073 | 25.6025 | 26.1328 | 27.4458 | 26.3872
220074 | 25.6390 | 24.3057 | 24.8908 | 24.8286
220075 | 22.8057 | 22.5329 | 24.5769 | 23.3112
220076 | 22.6668 | 23.2795 | 24.1224 | 23.3492
220077 | 25.2646 | 26.1545 | 27.1503 | 26.1736
220079 | 22.6256 | 22.0769 | 25.7305 | 22.9418
220080 | 21.5238 | 22.1971 | 22.9911 | 22.2508
220081 | 29.1726 | 29.6682 | 29.6399 | 29.4983
220082 | 21.6726 | 22.1453 | 22.9171 | 22.2513
220083 | 23.9156 | 22.5815 | 27.2605 | 24.4264
220084 | 23.6641 | 25.3761 | 25.8300 | 24.9680
220086 | 23.8705 | 26.7778 | 28.7276 | 26.2967
220088 | 22.9067 | 23.4258 | 25.0671 | 23.8081
220089 | 23.0965 | 25.4106 | 25.3521 | 24.5662
220090 | 22.0041 | 23.3049 | 25.0628 | 23.4549
220092 | 18.5239 | 24.7905 | * | 20.9405
220095 | 21.4831 | 21.7851 | 22.4924 | 21.9294
220098 | 21.5906 | 23.1547 | 24.7180 | 23.1447
220100 | 25.7077 | 27.5841 | 26.8001 | 26.6854
220101 | 25.9204 | 27.0711 | 27.9184 | 26.9502
220104 | 28.0021 | 28.7258 | * | 28.3658
220105 | 21.4129 | 21.9185 | 23.2210 | 22.2352
220106 | 25.6577 | 25.9277 | 28.1034 | 26.6044
220108 | 21.9115 | 23.4975 | 24.5939 | 23.3257
220110 | 28.7071 | 29.1648 | 30.2500 | 29.3820
220111 | 23.8066 | 24.7510 | 26.7336 | 25.0953
220116 | 26.1662 | 32.0049 | 28.4236 | 28.6928
220119 | 23.3216 | 23.8785 | 24.4507 | 23.8686
220123 | 25.8994 | 32.4678 | 28.8325 | 29.1153
220126 | 22.5218 | 23.6045 | 23.8123 | 23.3172
220133 | 25.4596 | 29.3911 | 29.8366 | 28.1948
220135 | 25.6522 | 28.3648 | 29.6837 | 27.9677
220153 | 22.9592 | * | * | 22.9592
220154 | 22.4770 | 21.1563 | 23.3590 | 22.3695
220163 | 29.1143 | 29.2299 | 29.3552 | 29.2328
220171 | 24.5553 | 24.9261 | 26.9048 | 25.5207
230001 | 19.8020 | 20.0438 | 23.3051 | 20.9963
230002 | 22.7991 | 23.0439 | 24.3115 | 23.3442
230003 | 19.8420 | 21.2215 | 21.6493 | 20.9088
230004 | 23.1036 | 20.5005 | 22.4538 | 21.9617
230005 | 18.5644 | 17.0943 | 20.5596 | 18.6769
230006 | 19.1041 | 20.4978 | 21.1974 | 20.2494
230007 | 15.5538 | * | * | 15.5538
230012 | 15.0803 | * | * | 15.0803
230013 | 20.8018 | 22.2211 | 20.0954 | 21.0266
230015 | 20.1104 | 20.6464 | 21.9499 | 20.8811
230017 | 22.2822 | 22.9755 | 25.7900 | 23.6501
230019 | 22.2622 | 23.6674 | 23.8779 | 23.3381
230020 | 22.1280 | 21.8526 | 28.8386 | 23.8749
230021 | 18.9636 | 19.8256 | 20.5690 | 19.8347
230022 | 18.8006 | 21.9129 | 21.7265 | 20.8153
230024 | 23.7326 | 24.9664 | 26.2155 | 24.8592
230027 | 14.6950 | 19.6393 | 22.5114 | 18.5396
230029 | 19.4911 | 22.1782 | 25.2459 | 22.2502
230030 | 18.3916 | 18.6406 | 19.1742 | 18.7416
230031 | 19.3162 | 19.9465 | 19.4676 | 19.5690
230032 | 21.8845 | 24.8930 | 22.5952 | 23.1148
230034 | 19.0473 | 19.4366 | 17.9276 | 18.7511
230035 | 17.5109 | 17.7490 | 20.5906 | 18.5317
230036 | 23.2119 | 23.8398 | 25.2015 | 24.1096
230037 | 20.4747 | 23.2751 | 22.7382 | 22.1469
230038 | 23.5251 | 21.9692 | 21.4546 | 22.2952
230040 | 21.4393 | 20.7841 | 20.2451 | 20.8039
230041 | 20.3131 | 21.7364 | 23.2870 | 21.7251
230042 | 22.1043 | 21.3870 | 19.8523 | 21.0979
230046 | 25.5696 | 25.3206 | 26.1787 | 25.6837
230047 | 21.5381 | 22.3595 | 23.7737 | 22.5475
230053 | 25.4968 | 26.8917 | 23.3066 | 25.2933
230054 | 20.6963 | 20.8014 | 17.6968 | 19.8741
230055 | 20.7932 | 20.8492 | 20.8930 | 20.8452
230056 | 16.0766 | 17.8091 | 17.3516 | 17.0331
230058 | 20.4165 | 21.0303 | 21.6619 | 21.0283
230059 | 19.9240 | 20.7092 | 20.5651 | 20.3916
230060 | 19.8021 | 19.8987 | 21.0368 | 20.2439
230062 | 17.1540 | 18.8039 | 18.2283 | 18.0500
230063 | 20.4171 | * | * | 20.4171
230065 | 22.3459 | 22.7416 | 23.3414 | 22.8607
230066 | 22.1768 | 23.0475 | 23.2790 | 22.8376
230069 | 23.2076 | 24.2470 | 25.0212 | 24.1384
230070 | 20.2505 | 21.5666 | 21.1658 | 21.1081
230071 | 22.9052 | 23.1337 | 23.6398 | 23.2244
230072 | 20.6944 | 20.4456 | 22.6533 | 21.2484
230075 | 20.0545 | 22.5866 | 22.3632 | 21.5991
230076 | 24.4547 | 24.7010 | 26.7244 | 25.2068
230077 | 21.0178 | 20.2823 | 22.6153 | 21.3059
230078 | 17.5577 | 17.9868 | 19.1638 | 18.2565
230080 | 19.7687 | 20.2104 | 19.1810 | 19.7086
230081 | 19.0345 | 19.0199 | 20.0464 | 19.3283
230082 | 18.2992 | 19.0419 | 18.2165 | 18.5095
230085 | 20.2096 | 23.4996 | 24.5765 | 22.7898
230086 | 18.9420 | 20.1730 | 20.1060 | 19.7404
230087 | 18.9034 | 19.9700 | 20.6619 | 19.7714
230089 | 23.9100 | 22.6994 | 22.7774 | 23.0814
230092 | 20.0145 | 20.7738 | 22.2629 | 21.0588
230093 | 20.4655 | 20.6314 | 21.0274 | 20.7091
230095 | 17.3313 | 17.6444 | 18.0582 | 17.6864
230096 | 22.8410 | 22.7785 | 24.3004 | 23.2947
230097 | 21.2854 | 21.1254 | 22.5006 | 21.6504
230099 | 21.1933 | 21.7513 | 21.7402 | 21.5696
230100 | 17.1336 | 17.3842 | 18.1823 | 17.5576
230101 | 20.0932 | 20.5315 | 22.5159 | 20.9964
230103 | 22.7696 | 11.3429 | 18.5254 | 17.4039
230104 | 23.1457 | 24.1238 | 25.5606 | 24.3812
230105 | 21.5210 | 22.6098 | 23.0086 | 22.4180
230106 | 20.7997 | 21.6825 | 22.9909 | 21.8109
230107 | 16.5966 | 17.1386 | 18.9985 | 17.6147
230108 | 18.8631 | 20.3437 | 21.4592 | 20.2385
230110 | 18.9825 | 19.7262 | 20.0544 | 19.5843
230113 | 14.9411 | * | * | 14.9411
230115 | 18.4050 | 19.6281 | 21.0361 | 19.6522
230116 | 16.5419 | 14.5692 | 15.6064 | 15.5368
230117 | 25.9318 | 25.6797 | 25.4341 | 25.6737
230118 | 21.3028 | 20.6797 | 20.2770 | 20.7229
230119 | 21.1918 | 22.6555 | 23.9898 | 22.6112
230120 | 18.5264 | 20.3306 | 20.6105 | 19.6370
230121 | 20.3158 | 21.3342 | 21.0568 | 20.9014
230122 | 20.9078 | * | * | 20.9078
230124 | 20.3608 | 18.9981 | 20.9641 | 20.0945
230128 | 24.9081 | 24.0724 | 24.4952 | 24.4850
230130 | 23.5170 | 22.1775 | 23.5123 | 23.0660
230132 | 26.6386 | 26.1946 | 27.3497 | 26.7222
230133 | 17.6894 | 17.1058 | 19.0770 | 17.9441
230135 | 22.5258 | 20.5637 | 18.4193 | 20.8744
230137 | 19.1813 | * | * | 19.1813
230141 | 22.1299 | 22.4570 | 24.4560 | 22.9910
230142 | 22.2940 | 23.5621 | 24.9830 | 23.5261
230143 | 16.3043 | 16.7948 | 18.2700 | 17.1074
230144 | 22.1108 | 23.4237 | 23.3295 | 22.9371
230145 | 20.2542 | 19.2638 | 17.9811 | 19.0315
230146 | 20.5044 | 21.2260 | 22.3838 | 21.3821
230147 | 21.8496 | 23.2755 | * | 22.5377
230149 | 20.7691 | 18.8005 | 19.9577 | 19.8029
230151 | 22.1713 | 23.3967 | 24.1404 | 23.2068
230153 | 19.5633 | 18.7403 | 20.0098 | 19.4472
230154 | 15.4456 | 15.4362 | 16.7152 | 15.8739
230155 | 17.2076 | 20.5409 | 20.9053 | 19.4860
230156 | 24.7587 | 25.6228 | 27.2254 | 25.8423
230157 | 20.3667 | 17.3571 | * | 18.9586
230159 | 20.0749 | * | * | 20.0749
230162 | 21.4636 | 21.7148 | 22.7984 | 21.9769
230165 | 23.0106 | 23.8881 | 24.5193 | 23.7930
230167 | 21.5048 | 22.9745 | 24.1064 | 22.8649
230169 | 23.0652 | 24.3874 | 28.1039 | 25.0117
230171 | 13.3863 | 17.1282 | 16.1129 | 15.4610
230172 | 20.6417 | 21.4675 | 22.1709 | 21.4477
230174 | 23.0272 | 22.7304 | 23.5025 | 23.0851
230175 | 16.8909 | * | 14.4932 | 15.4643
230176 | 22.7772 | 23.8204 | 24.6518 | 23.7400
230178 | 16.9156 | 17.3030 | 17.3428 | 17.1968
230180 | 15.8769 | 18.5744 | 19.6062 | 17.9856
230184 | 19.0604 | 19.7717 | 20.4831 | 19.7582
230186 | 19.5337 | 15.7837 | 19.1289 | 18.1131
230188 | 15.7112 | 16.2975 | 16.8687 | 16.3031
230189 | 16.6838 | 17.9218 | 19.1990 | 17.9352
230190 | 26.8196 | 26.4687 | 24.4643 | 25.9234
230191 | 19.0013 | 18.4861 | 20.6633 | 19.3446
230193 | 19.7066 | 19.8287 | 21.5358 | 20.3443
230195 | 21.7775 | 22.9228 | 23.4647 | 22.7456
230197 | 24.0184 | 24.0854 | 25.4494 | 24.4929
230199 | 19.4451 | 20.6580 | 22.4592 | 20.8791
230201 | 17.2141 | 18.0787 | 18.2486 | 17.8664
230204 | 25.4181 | 23.4966 | 24.5127 | 24.4525
230205 | 14.3788 | 15.9314 | 18.1551 | 16.1081
230207 | 20.6375 | 21.2483 | 20.9059 | 20.9181
230208 | 16.0733 | 16.7454 | 17.4925 | 16.7635
230211 | 18.6744 | 21.8581 | 21.1245 | 20.4277
230212 | 23.3021 | 24.2611 | 24.6420 | 24.0563
230213 | 15.1908 | 15.5469 | 17.1062 | 15.9226
230216 | 20.3359 | 21.0710 | 22.2137 | 21.1969
230217 | 21.2707 | 22.2698 | 24.1455 | 22.5496
230219 | 19.1549 | 20.0442 | 18.1277 | 19.1400
230222 | 22.1785 | 21.9711 | 23.2545 | 22.4802
230223 | 21.1528 | 22.6887 | 25.2666 | 22.9884
230227 | 23.7259 | 22.3155 | 25.8826 | 23.9496
230230 | 22.2385 | 22.3097 | 22.1703 | 22.2333
230235 | 16.8684 | 17.7197 | 18.3341 | 17.6456
230236 | 24.3835 | 25.9676 | 25.2273 | 25.2169
230239 | 18.0942 | 17.8168 | 18.9790 | 18.2974
230241 | 19.1000 | 20.7297 | 20.4217 | 20.0924
230244 | 21.7413 | 22.2697 | 23.1175 | 22.3742
230253 | 20.5945 | 21.0433 | 22.7706 | 21.4304
230254 | 21.9402 | 22.6335 | 23.3714 | 22.6370
230257 | 19.6982 | 21.3880 | 23.1794 | 21.3083
230259 | 22.2393 | 22.3969 | 23.1768 | 22.6077
230264 | 17.1319 | 17.4864 | 18.4075 | 17.6504
230269 | 23.3105 | 24.0992 | 24.3772 | 23.9435
230270 | 22.6187 | 22.5985 | 24.8925 | 23.3219
230273 | 22.9199 | 22.8715 | 24.1278 | 23.2898
230275 | 17.7487 | 20.8985 | * | 18.8231
230276 | 21.3722 | 25.8709 | 22.3313 | 22.8959
230277 | 23.1456 | 23.9771 | 24.2319 | 23.8212
230278 | 18.2110 | * | * | 18.2110
230279 | 17.6973 | 17.8074 | 18.3256 | 17.9471
230280 | 15.6654 | 18.3497 | * | 16.7057
230283 | 27.9480 | 22.5082 | * | 24.9202
230287 | * | * | 22.5420 | 22.5420
240001 | 24.6207 | 25.6936 | 26.6372 | 25.6759
240002 | 22.7981 | 23.2307 | 24.1694 | 23.4122
240004 | 25.1908 | 24.4030 | 25.6238 | 25.0604
240005 | 17.9563 | 20.3193 | 20.2389 | 19.4808
240006 | 25.1602 | 23.0715 | 25.7288 | 24.6342
240007 | 17.7625 | 19.0850 | 20.7189 | 19.1593
240008 | 20.2158 | 23.3783 | 22.7437 | 21.9832
240009 | 16.8965 | 17.1187 | 17.4518 | 17.1699
240010 | 23.6477 | 25.4752 | 28.3796 | 25.8852
240011 | 20.5192 | 21.5875 | 22.5188 | 21.5240
240013 | 20.3282 | 21.7544 | 25.1560 | 22.2201
240014 | 23.0025 | 24.2610 | 25.2306 | 24.1808
240016 | 20.4017 | 22.2011 | 23.3772 | 21.9959
240017 | 18.3585 | 18.9272 | 19.3431 | 18.8677
240018 | 20.8501 | 18.4268 | 23.6092 | 20.7339
240019 | 22.1501 | 23.1477 | 24.0613 | 23.1411
240020 | 21.1937 | 20.8849 | 20.6378 | 20.8948
240021 | 18.7515 | 20.1457 | 19.0469 | 19.2586
240022 | 21.7889 | 21.3234 | 23.0394 | 22.0529
240023 | 21.5087 | 22.8224 | 22.3002 | 22.1691
240025 | 18.8345 | 20.0308 | 20.7672 | 19.8809
240027 | 19.1017 | 16.7758 | 18.3837 | 18.0732
240028 | 19.7918 | 25.1934 | * | 22.5025
240029 | 21.1329 | 20.0164 | 23.0440 | 21.3549
240030 | 18.8547 | 20.1653 | 20.9799 | 20.0254
240031 | 18.1566 | 19.3983 | 21.7620 | 19.6652
240036 | 22.2460 | 22.1721 | 22.5423 | 22.3294
240037 | 19.2345 | 20.1195 | 21.4275 | 20.2550
240038 | 25.3061 | 24.3957 | 26.3886 | 25.3874
240040 | 20.4813 | 23.1352 | 22.8191 | 22.1112
240041 | 19.2864 | 21.8655 | 21.9054 | 20.9373
240043 | 17.7335 | 16.9859 | 18.2388 | 17.6591
240044 | 18.8411 | 20.3339 | 22.5750 | 20.4995
240045 | 21.1396 | 24.1557 | 24.2936 | 23.2125
240047 | 22.6152 | 23.8098 | 25.3136 | 23.8879
240050 | 25.2983 | 21.6499 | 23.1719 | 22.7044
240051 | 19.9195 | 22.5855 | 23.2612 | 21.9129
240052 | 20.7749 | * | 22.3485 | 21.5706
240053 | 22.9611 | 23.8693 | 24.2783 | 23.7568
240056 | 23.4226 | 23.7139 | 24.8549 | 24.0398
240057 | 24.2159 | 24.8686 | 25.4292 | 24.8727
240058 | 14.9697 | 18.4009 | 19.0506 | 17.2677
240059 | 23.6215 | 23.7808 | 25.3847 | 24.2488
240061 | 27.2603 | 25.9951 | 27.9151 | 27.0571
240063 | 23.7866 | 24.4031 | 25.4760 | 24.5591
240064 | 23.2860 | 22.8578 | 24.6785 | 23.6296
240065 | 12.7867 | 14.8734 | 14.4623 | 14.0357
240066 | 23.0698 | 24.1143 | 25.5163 | 24.2946
240069 | 19.8282 | 21.7991 | 23.3241 | 21.6103
240071 | 20.2101 | 21.2463 | 22.5319 | 21.3438
240072 | 21.1824 | 20.9529 | 21.5455 | 21.2291
240073 | 16.0840 | 17.3559 | 17.9013 | 17.1144
240075 | 21.2654 | 21.3357 | 21.9160 | 21.5185
240076 | 21.8795 | 22.3280 | 23.6130 | 22.6447
240077 | 15.3794 | 20.3445 | 22.1509 | 19.1544
240078 | 23.9150 | 25.1082 | 25.9495 | 25.0087
240079 | 18.4338 | 18.8345 | 18.2929 | 18.5204
240080 | 24.3399 | 25.5619 | 26.0031 | 25.2885
240082 | 18.3555 | 18.7995 | 20.2018 | 19.1212
240083 | 19.7637 | 21.0317 | 22.3289 | 20.9906
240084 | 19.4739 | 21.7421 | 23.1951 | 21.4482
240085 | 22.5736 | 20.9778 | 20.7535 | 21.3852
240086 | 16.9392 | 18.1401 | 18.1497 | 17.7863
240087 | 18.8352 | 21.3323 | 21.2116 | 20.4135
240088 | 21.6858 | 23.1056 | 24.6260 | 23.0939
240089 | 20.7239 | 21.1989 | 21.3949 | 21.1104
240090 | 19.2968 | 19.2166 | 21.0856 | 19.8725
240093 | 18.7092 | 20.2400 | 20.7138 | 19.9194
240094 | 20.9446 | 22.0247 | 22.5923 | 21.8995
240096 | 20.1644 | 21.0417 | 20.2992 | 20.4825
240097 | 24.2662 | 27.9496 | 29.7597 | 27.1621
240098 | 21.3467 | 24.2296 | 23.9626 | 23.2314
240099 | 14.4649 | 15.4964 | 18.8139 | 15.9924
240100 | 20.8302 | 20.8325 | 24.1875 | 21.9081
240101 | 19.2120 | 19.9837 | 22.1329 | 20.4409
240102 | 14.6067 | 16.3659 | 15.5114 | 15.4871
240103 | 19.1540 | 18.7510 | 21.0182 | 19.5968
240104 | 23.2178 | 23.5351 | 25.2485 | 24.0080
240105 | 14.3965 | * | * | 14.3965
240106 | 23.5148 | 23.5005 | 23.9677 | 23.6780
240107 | 20.3983 | 20.9004 | 21.2163 | 20.8360
240108 | 15.3547 | 18.2427 | 17.6500 | 16.9347
240109 | 13.5537 | 16.3216 | 15.1369 | 14.9110
240110 | 19.4828 | 21.0277 | 21.7340 | 20.7301
240111 | 17.2100 | 17.8617 | 19.9712 | 18.3046
240112 | 15.8350 | 16.6244 | 17.2437 | 16.5628
240114 | 16.2505 | 17.3682 | 18.3415 | 17.5274
240115 | 23.7765 | 23.8675 | 24.6174 | 24.0872
240116 | 16.6731 | 18.3520 | 17.3460 | 17.3960
240117 | 18.0636 | 17.9941 | 18.7656 | 18.2986
240119 | 20.6126 | 21.8289 | 23.0230 | 21.7338
240121 | 23.4018 | 22.2266 | 22.4858 | 22.6970
240122 | 19.1811 | 21.2876 | 20.7795 | 20.4095
240123 | 16.5098 | 18.3941 | 18.9494 | 17.8731
240124 | 19.4400 | 20.4728 | 21.2023 | 20.3644
240125 | 12.3627 | 14.9708 | 17.3846 | 15.0136
240127 | 15.8966 | 17.9724 | 16.4294 | 16.7198
240128 | 17.2513 | 16.3608 | 17.5611 | 17.0478
240129 | 14.4212 | 16.5209 | 17.7242 | 16.1756
240130 | 14.9399 | 16.4271 | 17.7634 | 16.3549
240132 | 23.0669 | 23.1452 | 24.4301 | 23.5642
240133 | 19.2126 | 19.5293 | 20.8958 | 19.9049
240135 | 14.3069 | 15.7015 | 15.6298 | 15.1560
240137 | 20.3750 | 21.5073 | 21.6644 | 21.1797
240138 | 15.2062 | 16.7332 | 18.9731 | 16.7753
240139 | 20.8053 | 20.5496 | 21.8580 | 21.0743
240141 | 23.8066 | 23.1009 | 23.6622 | 23.5109
240142 | 25.2770 | 29.2238 | 24.0719 | 25.9878
240143 | 16.6172 | 20.4266 | 20.7307 | 19.0810
240144 | 18.2604 | 21.4469 | 23.1661 | 20.7059
240145 | 17.2778 | 19.0689 | 17.6747 | 18.0668
240146 | 16.0652 | 16.5412 | 17.3275 | 16.6788
240148 | 18.8779 | 19.5204 | 19.5372 | 19.2785
240150 | 13.8786 | 20.8331 | 23.3857 | 18.4647
240152 | 21.1678 | 22.4744 | 24.1818 | 22.6586
240153 | 16.5412 | 19.3336 | 17.7399 | 17.7721
240154 | 17.5769 | 21.5052 | 21.5859 | 20.1583
240155 | 19.8762 | 20.9385 | 23.6944 | 21.5112
240157 | 17.4168 | 13.7309 | * | 15.5390
240160 | 15.9492 | 15.9014 | 16.4990 | 16.1163
240161 | 15.7996 | 16.8809 | 18.0542 | 16.8888
240162 | 16.6292 | 19.1542 | 19.3296 | 18.3301
240163 | 18.8320 | 20.4760 | 22.2009 | 20.3835
240166 | 17.3233 | 19.4131 | 19.4496 | 18.7799
240169 | 16.6725 | 16.3958 | * | 16.5195
240170 | 18.8762 | 20.3779 | 21.5994 | 20.2122
240171 | 17.2886 | 18.5172 | 19.6732 | 18.5083
240172 | 18.2852 | 20.8606 | 20.3699 | 19.7027
240173 | 17.2655 | 18.5187 | 18.3183 | 18.0300
240179 | 17.5116 | 20.4004 | 17.7557 | 18.4699
240184 | 15.3793 | 16.8917 | 17.6979 | 16.5493
240187 | 19.9230 | 21.2736 | 23.2471 | 21.4869
240193 | 17.8226 | 18.4664 | * | 18.1403
240196 | 24.3472 | 25.3479 | 26.1827 | 25.3447
240200 | 14.3415 | 14.9076 | 18.7517 | 15.8336
240207 | 24.1127 | 25.2814 | 26.1748 | 25.2384
240210 | 24.2218 | 24.5664 | 25.3031 | 24.7274
240211 | 19.7399 | 30.6260 | 34.7849 | 25.7741
250001 | 18.4233 | 19.2756 | 20.2019 | 19.2920
250002 | 17.2501 | 18.6938 | 19.6081 | 18.5060
250003 | 17.6539 | 16.7570 | 18.7331 | 17.7215
250004 | 17.8868 | 18.3860 | 19.2913 | 18.5189
250005 | 12.5993 | 12.5834 | 13.7341 | 13.0041
250006 | 16.9048 | 17.5192 | 19.6894 | 17.9911
250007 | 19.2913 | 19.7562 | 20.9757 | 19.9959
250008 | 14.1760 | 15.8506 | 15.8096 | 15.2607
250009 | 18.5610 | 17.7283 | 17.1686 | 17.8180
250010 | 13.3905 | 14.6101 | 16.0233 | 14.5948
250012 | 14.1623 | 16.7579 | 17.4032 | 16.1420
250015 | 13.5274 | 11.7249 | 16.6522 | 13.7345
250017 | 17.9410 | 20.5976 | 18.8850 | 19.0991
250018 | 11.9311 | 13.1687 | 14.7291 | 13.0932
250019 | 16.7425 | 18.0956 | 19.9070 | 18.3382
250020 | 13.4476 | 16.2698 | 19.6575 | 16.1595
250021 | 9.4318 | 10.5844 | 12.7242 | 10.6438
250023 | 13.9116 | 12.3434 | 13.8210 | 13.3756
250024 | 12.7127 | 12.9899 | 14.8394 | 13.4135
250025 | 19.0390 | 20.3625 | 21.9075 | 20.5374
250027 | 14.9519 | 14.5445 | 15.1790 | 14.8945
250029 | 16.4834 | 16.0682 | 14.8216 | 15.7783
250030 | 17.3636 | 26.6173 | 25.5089 | 23.0726
250031 | 17.9715 | 18.3825 | 19.8779 | 19.1622
250032 | 17.1339 | 17.5957 | * | 17.3669
250033 | 17.8257 | 15.0941 | 16.9132 | 16.6524
250034 | 16.6988 | 17.0399 | 19.1875 | 17.6568
250035 | 15.2353 | 16.8349 | 18.3861 | 16.7093
250036 | 15.8445 | 16.1913 | 17.6247 | 16.6012
250037 | 15.4325 | 12.7156 | 14.3994 | 14.0734
250038 | 16.8454 | 17.7019 | 18.8434 | 17.7665
250039 | 14.1556 | 15.1409 | 16.4502 | 15.2329
250040 | 17.3430 | 18.3364 | 19.6513 | 18.4442
250042 | 16.3867 | 17.6531 | 18.3858 | 17.4884
250043 | 16.0729 | 16.6500 | 18.4025 | 16.9554
250044 | 16.1218 | 16.7321 | 19.1860 | 17.3262
250045 | 22.0839 | 21.8988 | 22.7225 | 22.2606
250047 | 13.3706 | 14.7461 | * | 13.9984
250048 | 16.8932 | 17.6649 | 19.4976 | 18.0474
250049 | 11.6715 | 12.1635 | 12.8275 | 12.2266
250050 | 14.3949 | 15.1159 | 16.0234 | 15.1991
250051 | 9.3464 | 10.4900 | 10.1212 | 9.9666
250057 | 15.9237 | 16.1838 | 16.3204 | 16.1462
250058 | 15.5327 | 15.7197 | 16.2623 | 15.8399
250059 | 16.2845 | 16.6494 | 17.7592 | 16.8861
250060 | 13.0301 | 16.1804 | 12.6893 | 13.8440
250061 | 11.0308 | 11.5108 | 12.0186 | 11.5214
250063 | 13.2540 | 13.3092 | 15.0894 | 13.8432
250065 | 12.8853 | 13.6904 | 15.0507 | 13.8065
250066 | 15.6760 | 16.1742 | 17.2711 | 16.3375
250067 | 16.4120 | 16.8522 | 18.3773 | 17.2393
250068 | 13.6768 | 13.4127 | 13.2644 | 13.4415
250069 | 17.8960 | 16.8980 | 18.2097 | 17.6479
250071 | 14.3781 | 12.3488 | 13.1934 | 13.2742
250072 | 18.2218 | 18.9487 | 21.0602 | 19.2655
250076 | 10.5098 | * | * | 10.5098
250077 | 12.2564 | 13.7404 | 13.9479 | 13.2870
250078 | 15.6336 | 15.9739 | 17.1972 | 16.2928
250079 | 16.2712 | 16.5835 | 16.1483 | 16.3337
250081 | 17.3325 | 19.0358 | 18.1848 | 18.1653
250082 | 16.0975 | 17.1427 | 17.3096 | 16.8599
250083 | 14.2634 | 16.6065 | 16.3054 | 15.6454
250084 | 17.0189 | 20.6429 | 21.0870 | 19.3827
250085 | 14.3797 | 15.4477 | 16.7377 | 15.5314
250088 | 17.8674 | 18.2736 | 19.3976 | 18.4880
250089 | 13.4238 | 14.3027 | 15.0238 | 14.2301
250093 | 15.2044 | 16.1506 | 16.8647 | 16.0778
250094 | 18.0852 | 18.5063 | 18.9681 | 18.5063
250095 | 17.0039 | 17.4217 | 18.4944 | 17.6334
250096 | 19.0688 | 19.0584 | 19.3630 | 19.1609
250097 | 16.9905 | 15.5741 | 16.3328 | 16.3172
250098 | 13.1341 | 18.3874 | 17.9180 | 16.1645
250099 | 14.8528 | 15.1265 | 15.9867 | 15.3437
250100 | 17.1682 | 17.8688 | 19.8795 | 18.3539
250101 | 18.4685 | 17.7194 | 17.6704 | 17.9924
250102 | 23.9329 | 18.9348 | * | 21.2970
250104 | 18.2502 | 18.7651 | 19.0165 | 18.6823
250105 | 14.5401 | 15.5133 | 16.1480 | 15.4020
250107 | 15.1496 | 15.0737 | 16.5635 | 15.5581
250109 | 22.1551 | 21.3867 | 24.5760 | 22.6981
250112 | 15.5610 | 16.3640 | 16.6447 | 16.1593
250117 | 16.1225 | 16.9787 | 15.9335 | 16.3432
250119 | 15.2199 | 16.1218 | 16.5700 | 15.9756
250120 | 15.3433 | 16.7182 | 18.1428 | 16.6322
250122 | 18.9417 | 19.2990 | 19.8033 | 19.3541
250123 | 18.8690 | 18.7863 | 22.1376 | 19.9106
250124 | 13.1823 | 13.2490 | 14.3551 | 13.5956
250125 | 20.8895 | 21.2660 | 21.3711 | 21.1778
250126 | 18.2355 | 21.9101 | 19.0168 | 19.6297
250128 | 14.0048 | 16.1418 | 15.9958 | 15.4423
250131 | 12.6056 | 12.4557 | 11.2470 | 12.0464
250134 | 17.0671 | 18.5142 | 21.4489 | 18.9054
250136 | 18.9689 | 21.3497 | 20.0333 | 20.0576
250138 | 18.4028 | 20.4550 | 19.3446 | 19.3211
250141 | 19.0113 | 19.6692 | 21.6835 | 20.2708
250145 | 10.2507 | 11.2120 | 11.2021 | 10.8489
250146 | 14.4924 | 14.7781 | 15.4061 | 14.8913
250148 | 18.0980 | 19.4233 | 23.1459 | 20.1203
250149 | 12.9569 | 15.2318 | 15.7537 | 14.6277
250150 | * | 21.8599 | * | 21.8599
260001 | 18.0971 | 20.1560 | 20.9602 | 19.7021
260002 | 22.1183 | 21.6597 | 23.4259 | 22.4118
260003 | 14.6553 | 15.4482 | 16.0721 | 15.3980
260004 | 13.0133 | 13.7035 | 15.2735 | 13.9164
260005 | 19.5554 | 23.9681 | 22.2119 | 21.8900
260006 | 19.7467 | 20.0994 | 22.1692 | 20.6408
260008 | 13.8495 | 16.8893 | 18.2114 | 15.8498
260009 | 18.5080 | 18.2863 | 19.0654 | 18.6237
260011 | 19.1027 | 19.5059 | 20.3279 | 19.6368
260012 | 14.3645 | 17.1662 | 17.3810 | 16.3363
260013 | 15.9884 | 16.1825 | 17.3772 | 16.4946
260015 | 16.5822 | 17.8817 | 18.0070 | 17.4241
260017 | 16.7916 | 16.9914 | 17.9796 | 17.2888
260018 | 12.0060 | 12.5301 | 13.6120 | 12.7676
260019 | 18.6113 | * | 18.3629 | 18.4928
260020 | 20.5142 | 20.2241 | 21.0314 | 20.5884
260021 | 22.1017 | 21.6237 | 23.3527 | 22.2918
260022 | 17.2462 | 17.7772 | 18.7707 | 17.9082
260023 | 16.4705 | 17.8649 | 18.5665 | 17.6119
260024 | 15.2356 | 15.7815 | 15.6095 | 15.5379
260025 | 15.4935 | 17.0965 | 18.2804 | 16.9786
260027 | 21.2977 | 22.0362 | 23.1505 | 22.1110
260029 | 19.7484 | 21.1858 | 20.1832 | 20.3332
260030 | 12.5118 | 11.9215 | 12.8349 | 12.4289
260031 | 19.4921 | 19.7249 | 22.5379 | 20.4276
260032 | 20.1988 | 19.6728 | 20.1817 | 20.0177
260034 | 17.4233 | 20.4902 | 20.5439 | 19.5050
260035 | 13.1065 | 13.0071 | 15.1611 | 13.8141
260036 | 16.7430 | 18.8104 | 19.9593 | 18.5490
260039 | 14.1866 | 14.6644 | 15.9689 | 14.9611
260040 | 17.3099 | 18.0140 | 18.5132 | 17.9641
260042 | 18.7567 | 18.7514 | 20.8821 | 19.5084
260044 | 15.9927 | 15.9206 | 16.7879 | 16.2332
260047 | 19.0112 | 19.2247 | 19.8178 | 19.3380
260048 | 20.0885 | 21.0602 | 22.4800 | 21.2299
260050 | 15.6908 | 16.8520 | 17.6687 | 16.7168
260052 | 18.0553 | 18.0914 | 19.1044 | 18.4413
260053 | 15.2236 | 16.5166 | 17.4110 | 16.3851
260054 | 20.0199 | 20.6242 | 23.0188 | 21.1083
260055 | 12.0118 | 15.4214 | 17.9547 | 14.9547
260057 | 17.4636 | 19.7144 | 16.5704 | 17.9947
260059 | 16.1000 | 17.0546 | 16.2074 | 16.4474
260061 | 14.7175 | 15.7112 | 17.1343 | 15.8685
260062 | 20.1477 | 21.3138 | 21.9287 | 21.1699
260063 | 18.2309 | 18.8973 | 19.7231 | 18.9234
260064 | 16.5934 | 17.8033 | 18.3749 | 17.5653
260065 | 19.4382 | 20.0975 | 20.6671 | 20.0563
260066 | 14.9640 | 15.3460 | 15.3139 | 15.2114
260067 | 14.2249 | 15.1837 | 14.5499 | 14.6334
260068 | 20.2418 | 19.4240 | 20.7947 | 20.1541
260070 | * | 13.9510 | 18.7384 | 16.1582
260073 | 14.2550 | 15.9182 | 16.9496 | 15.7508
260074 | 19.0350 | 19.8915 | 20.4033 | 19.8192
260077 | 18.6473 | 19.4482 | 20.5830 | 19.5877
260078 | 15.6381 | 14.9463 | 16.0586 | 15.5564
260079 | 14.2985 | 16.1453 | 16.4816 | 15.5347
260080 | 13.5384 | 14.6832 | 13.1617 | 13.7147
260081 | 21.0151 | 20.3053 | 20.2471 | 20.5212
260082 | 15.9407 | 15.9858 | 18.2853 | 16.7287
260085 | 20.4669 | 20.7051 | 21.5137 | 20.8993
260086 | 14.3164 | 15.2927 | 16.7579 | 15.4677
260091 | 19.9987 | 21.5464 | 22.0772 | 21.4012
260094 | 18.0085 | 18.5395 | 19.7308 | 18.8006
260095 | 19.6944 | 20.7292 | 21.6999 | 20.6994
260096 | 23.0282 | 22.5972 | 22.8259 | 22.8155
260097 | 16.5582 | 19.0632 | 18.6965 | 18.1123
260100 | 15.7047 | 16.6523 | 16.5439 | 16.3025
260102 | 20.1264 | 20.6361 | 21.2133 | 20.6454
260103 | 18.5957 | 19.7146 | 19.9144 | 19.3556
260104 | 21.0138 | 20.3176 | 21.6624 | 21.0040
260105 | 24.7223 | 24.8181 | 22.8005 | 24.0843
260107 | 19.8422 | 20.4269 | 22.5214 | 20.7581
260108 | 19.4609 | 20.0034 | 20.9029 | 20.1514
260109 | 13.9129 | 14.8181 | 15.9724 | 14.8936
260110 | 17.8375 | 18.3227 | 19.5633 | 18.5673
260113 | 14.6756 | 16.2223 | 16.1346 | 15.6436
260115 | 19.2259 | 17.4698 | 19.3873 | 18.6920
260116 | 16.2774 | 14.9812 | 16.0187 | 15.7314
260119 | 16.8836 | 17.2942 | 18.0725 | 17.4218
260120 | 16.3755 | 16.4904 | 17.6811 | 16.8504
260122 | 14.9697 | 16.0931 | 16.3700 | 15.8295
260123 | 14.6444 | 14.6822 | 15.2926 | 14.8761
260127 | 18.3572 | 18.4026 | 18.1342 | 18.2957
260128 | 13.0481 | 12.6414 | 13.2942 | 12.9961
260131 | 17.7686 | 18.4154 | 18.0395 | 18.0595
260134 | 16.2832 | 17.5127 | 17.1341 | 16.9643
260137 | 17.9531 | 19.4697 | 19.5976 | 19.0342
260138 | 22.6491 | 23.2364 | 23.1213 | 22.9952
260141 | 19.1580 | 19.1893 | 19.6237 | 19.3180
260142 | 17.1248 | 17.3084 | 18.2023 | 17.5590
260143 | 12.7867 | 13.9040 | 15.4688 | 13.9600
260147 | 14.0778 | 14.7769 | 15.8522 | 14.8908
260148 | 11.8674 | 11.3524 | 12.6651 | 11.9425
260158 | 12.3005 | 12.7699 | 13.9790 | 13.0499
260159 | 20.3177 | 19.7951 | 20.9636 | 20.3519
260160 | 15.8394 | 16.5792 | 18.4007 | 16.9325
260162 | 19.5655 | 21.4099 | 20.7331 | 20.5870
260163 | 16.4245 | 15.8593 | 16.8300 | 16.3731
260164 | 14.9372 | 15.1211 | 16.7279 | 15.6074
260166 | 20.1025 | 21.1224 | 22.4071 | 21.2079
260172 | 15.4163 | 16.0772 | 16.4854 | 15.9816
260173 | 12.8523 | 14.2090 | 15.5733 | 14.3947
260175 | 16.9023 | 17.5625 | 18.3632 | 17.6144
260176 | 26.8712 | 21.6044 | 23.2414 | 23.9990
260177 | 21.2578 | 21.9014 | 22.9091 | 22.0689
260178 | 19.6638 | 20.2796 | 20.8189 | 20.2016
260179 | 21.4906 | 22.7185 | 21.4470 | 21.8753
260180 | 19.5819 | 18.9881 | 19.5983 | 19.3863
260183 | 20.0712 | 21.3175 | 23.7057 | 21.6731
260186 | 19.3238 | 19.6026 | 21.0675 | 20.0580
260188 | 20.6388 | 22.5060 | 23.7475 | 22.1881
260189 | 11.3004 | 16.4233 | * | 13.8239
260190 | 18.5168 | 19.3419 | 21.6994 | 19.8001
260191 | 17.9812 | 18.1604 | 19.6784 | 18.6471
260193 | 21.1588 | 20.2577 | 22.2030 | 21.2172
260195 | 17.7237 | 19.7068 | * | 18.7154
260197 | 19.2840 | 20.5453 | * | 19.7846
260198 | 11.9751 | 19.7552 | 21.7926 | 16.7576
260200 | 20.5339 | 20.6888 | 21.7031 | 21.0210
260205 | 17.6210 | * | * | 17.6210
270002 | 28.9959 | 19.2387 | 19.0221 | 21.4738
270003 | 22.0995 | 22.5019 | 20.7277 | 21.7202
270004 | 19.6292 | 19.4834 | 20.1821 | 19.8074
270006 | 16.0238 | 17.0715 | 15.1006 | 15.9252
270007 | 11.3143 | 13.8824 | 15.5780 | 13.1858
270009 | 17.2292 | 20.8238 | 20.7031 | 19.5097
270011 | 20.2669 | 21.1653 | 21.8086 | 21.0508
270012 | 19.7346 | 19.7878 | 20.7913 | 20.0975
270014 | 19.0872 | 19.9859 | 20.4321 | 19.8518
270016 | 19.6717 | 18.6149 | 17.9984 | 18.9093
270017 | 21.0800 | 20.0152 | 22.1046 | 21.0660
270019 | 18.1099 | 15.4128 | 18.5111 | 17.2358
270021 | 17.1787 | 16.9457 | 18.0515 | 17.3782
270023 | 22.2639 | 22.7181 | 22.7162 | 22.5721
270026 | 17.5102 | 18.0568 | 20.1673 | 18.5919
270027 | 13.1392 | 17.2091 | 17.2005 | 15.5928
270028 | 21.1492 | 19.1177 | 19.6212 | 19.9204
270029 | 16.5666 | 17.3710 | 18.2097 | 17.3728
270032 | 17.7393 | 18.7811 | 19.3937 | 18.6694
270033 | 16.9602 | 18.4876 | 20.7060 | 18.6303
270035 | 16.8295 | 16.4302 | 17.9822 | 17.0833
270036 | 14.2537 | 16.8552 | 16.1031 | 15.5470
270039 | 15.9368 | 19.6796 | 20.3800 | 18.4120
270040 | 18.8145 | 20.1242 | 20.1887 | 19.6792
270041 | 19.0327 | 25.8153 | * | 21.5554
270044 | 16.7710 | 17.5137 | 19.2939 | 17.7721
270048 | 17.0154 | 18.0666 | 17.4506 | 17.4823
270049 | 22.2444 | 22.2540 | 22.0263 | 22.1740
270050 | 16.7110 | 19.9356 | 19.6317 | 18.7001
270051 | 20.2735 | 20.1950 | 20.0386 | 20.1652
270052 | 14.4773 | 14.7009 | 17.1932 | 15.3511
270057 | 21.1317 | 20.6714 | 20.1507 | 20.6215
270058 | 14.7481 | 16.1412 | 18.4780 | 16.2593
270059 | 14.7530 | 19.1808 | 16.9303 | 16.8245
270060 | 15.2727 | 20.4148 | 21.3776 | 18.5305
270063 | 12.6108 | 15.1049 | 16.4553 | 14.5559
270073 | 14.4569 | 16.1937 | 16.6083 | 15.6741
270079 | 15.6873 | 16.7048 | 19.5493 | 17.1331
270080 | 16.3171 | 15.0705 | 16.6010 | 15.9696
270081 | 15.6262 | 16.7389 | 18.0543 | 16.7908
270082 | 17.3443 | 23.1245 | 23.3209 | 21.2882
270083 | 18.4432 | 17.8554 | 16.8420 | 17.6939
270084 | 16.6243 | 16.2958 | 15.7062 | 16.1694
280001 | 17.3541 | 18.1831 | 18.7137 | 18.0270
280003 | 22.3179 | 23.0213 | 20.0498 | 21.6193
280005 | 19.2405 | 23.6949 | 20.1943 | 21.0207
280009 | 19.8145 | 20.9643 | 23.2300 | 21.3319
280010 | 17.4859 | 20.0462 | * | 18.1962
280011 | 15.8573 | 15.9614 | 16.2281 | 16.0212
280013 | 22.8063 | 22.5163 | 24.0852 | 23.1972
280014 | 15.9596 | 16.8368 | 16.7109 | 16.5080
280015 | 17.0281 | 16.6939 | 18.0207 | 17.2299
280017 | 14.2059 | 13.9939 | 16.9884 | 15.1266
280018 | 15.1328 | 15.4496 | 16.6439 | 15.7480
280020 | 19.9667 | 21.2467 | 21.9587 | 21.0976
280021 | 17.1048 | 17.6345 | 19.1263 | 17.9823
280022 | 16.7179 | 16.8184 | 15.3785 | 16.3083
280023 | 25.8494 | 22.3433 | 21.5761 | 23.0011
280024 | 14.2186 | 15.0380 | 15.8747 | 15.0019
280025 | 15.5850 | 21.4764 | 22.2214 | 19.5445
280026 | 16.6861 | 16.5851 | 18.7258 | 17.3359
280028 | 17.3176 | 18.0793 | 19.1080 | 18.1555
280029 | 23.1292 | 24.4359 | 17.1351 | 21.6012
280030 | 24.5366 | 24.7723 | 26.3542 | 25.1586
280031 | 13.5654 | 9.6321 | 9.6951 | 11.0351
280032 | 18.8964 | 19.1191 | 20.5246 | 19.5206
280033 | 15.7583 | 17.4745 | 17.9841 | 17.1215
280035 | 15.9170 | 16.6872 | 18.6089 | 16.9364
280037 | 16.7952 | 17.1064 | 14.8049 | 16.2282
280038 | 17.0878 | 18.2503 | 18.9305 | 18.0758
280039 | 16.0442 | 16.1587 | 17.0153 | 16.4148
280040 | 19.5333 | 20.9896 | 21.5426 | 20.7346
280041 | 16.4083 | 16.5503 | 16.6889 | 16.5558
280042 | 16.1191 | 16.6239 | 16.4684 | 16.3973
280043 | 16.6570 | 17.5937 | 16.8186 | 17.0314
280045 | 16.9048 | 15.7630 | 17.7408 | 16.7631
280046 | 17.9221 | 17.3214 | 17.9752 | 17.7358
280047 | 18.3407 | 17.4735 | 21.3143 | 18.9885
280048 | 15.8723 | 15.8100 | 17.9319 | 16.5389
280049 | 18.3605 | 18.4365 | 19.4589 | 18.7530
280050 | 16.6432 | 20.0379 | * | 18.4507
280051 | 15.6336 | 17.1942 | 19.6206 | 17.2054
280052 | 14.0819 | 14.1201 | 14.9903 | 14.4198
280054 | 18.7992 | 18.7575 | 19.4049 | 18.9732
280055 | 13.5667 | 13.8129 | 14.2046 | 13.8644
280056 | 12.6475 | 15.6135 | 15.6442 | 14.4971
280057 | 18.0454 | 20.0686 | 21.4754 | 19.8186
280058 | 19.6752 | 21.4868 | 22.8105 | 21.3952
280060 | 19.7527 | 20.7022 | 22.4677 | 20.9351
280061 | 17.1629 | 18.6370 | 20.2066 | 18.7084
280062 | 14.4896 | 15.6018 | 16.1708 | 15.4336
280064 | 16.2977 | 16.8330 | 18.2196 | 17.1053
280065 | 19.2932 | 20.7370 | 21.6999 | 20.6166
280066 | 11.6621 | 11.7207 | 12.2225 | 11.8688
280068 | 9.4943 | 10.5987 | 10.5103 | 10.1786
280070 | 17.7400 | 22.6201 | 18.7211 | 19.4766
280073 | 17.4244 | 17.7698 | 18.3496 | 17.8530
280074 | 16.4310 | 17.3143 | 13.6025 | 15.4955
280075 | 15.5327 | 13.2230 | 13.3154 | 13.8859
280076 | 14.8469 | 16.7488 | 16.1939 | 15.8857
280077 | 19.2068 | 20.0148 | 21.1883 | 20.1246
280079 | 10.4540 | 16.6117 | 17.1519 | 13.6519
280080 | 15.3308 | 16.9487 | 16.1902 | 16.1919
280081 | 21.0771 | 20.9606 | 23.3805 | 21.7809
280082 | 14.3399 | 14.6173 | 15.4420 | 14.8136
280083 | 18.2992 | 21.5336 | 20.8995 | 20.2370
280084 | 12.5836 | 13.6536 | 13.2158 | 13.1411
280085 | 20.4302 | 20.4825 | 20.8532 | 20.5742
280088 | 20.2961 | * | * | 20.2961
280089 | 18.1668 | 18.9567 | 19.9003 | 18.9565
280090 | 14.1362 | 15.1274 | * | 14.6858
280091 | 15.8436 | 16.1866 | 16.3456 | 16.1284
280092 | 14.1945 | 14.7912 | 13.3032 | 14.1038
280094 | 17.6873 | 16.3474 | 16.9180 | 16.9734
280097 | 14.1734 | 13.8223 | 14.1870 | 14.0603
280098 | 13.0029 | 12.5875 | 12.4995 | 12.6927
280101 | 13.5261 | 16.9973 | 10.5153 | 13.1647
280102 | 14.0102 | * | * | 14.0102
280104 | 13.2819 | 16.2167 | 15.5949 | 14.8930
280105 | 18.6575 | 21.0735 | 23.7103 | 21.1232
280106 | 16.1247 | 16.0679 | 16.3564 | 16.1791
280107 | 13.3311 | 14.4679 | * | 13.8480
280108 | 17.5625 | 17.1961 | 18.5134 | 17.7698
280109 | 12.6803 | 12.4408 | * | 12.5540
280110 | 12.7546 | 14.2136 | 13.0278 | 13.3282
280111 | 21.8773 | 19.6283 | 19.3508 | 20.2354
280114 | 15.7160 | 17.3076 | 17.1154 | 16.7114
280115 | 16.7041 | 18.1480 | 18.3464 | 17.7487
280117 | 17.7276 | 18.8279 | 20.3819 | 18.9864
280118 | 16.8687 | 18.6524 | 17.8891 | 17.8029
280123 | 14.0637 | 11.8582 | 23.6682 | 15.2035
280125 | 16.1332 | 16.3944 | 17.2718 | 16.5861
290001 | 22.8226 | 22.7450 | 24.1873 | 23.2686
290002 | 17.2554 | 16.5419 | 16.7948 | 16.8714
290003 | 22.8840 | 24.2175 | 24.4237 | 23.8452
290005 | 19.4888 | 21.9814 | 22.7804 | 21.4325
290006 | 21.8070 | 22.4063 | 19.9226 | 21.3745
290007 | 29.7706 | 30.9075 | 30.2824 | 30.3297
290008 | 20.6190 | 24.1255 | 26.9216 | 23.3785
290009 | 23.3620 | 23.9373 | 24.5919 | 23.9575
290010 | 15.6423 | 16.4476 | 20.8387 | 17.4968
290011 | 20.1564 | 21.1234 | 19.7410 | 20.3076
290012 | 21.8275 | 25.0430 | 25.3963 | 24.1843
290013 | 18.2713 | 15.7932 | 20.2914 | 17.8815
290014 | 18.9743 | 18.7829 | 20.2762 | 19.3806
290015 | 22.3487 | 19.4504 | 20.2336 | 20.6208
290016 | 14.3542 | 23.8656 | 21.8030 | 19.3661
290019 | 21.2509 | 22.2045 | 22.5584 | 22.0258
290020 | 20.8733 | 21.2380 | 19.5039 | 20.6806
290021 | 21.5806 | 22.9488 | 23.4950 | 22.6778
290022 | 24.5468 | 25.5011 | 24.8144 | 24.9547
290027 | 16.7786 | 13.3769 | 13.1463 | 14.2467
290032 | 22.8447 | 23.9504 | 26.8557 | 24.6837
290036 | * | 12.9074 | * | 12.9074
290038 | 20.6753 | 27.7030 | 26.0836 | 23.3519
290039 | 25.3864 | 25.5024 | 26.2466 | 25.7352
290041 | * | 25.9905 | 27.0613 | 26.6211
290042 | * | 18.7527 | 18.7669 | 18.7611
290043 | * | 27.9053 | * | 27.9053
300001 | 22.0909 | 23.8567 | 25.7142 | 23.9386
300003 | 22.9111 | 24.1297 | 25.3252 | 24.1024
300005 | 20.7545 | 22.2858 | 22.0518 | 21.6894
300006 | 23.7793 | 18.9745 | 22.2642 | 21.6739
300007 | 20.2372 | 20.6325 | 21.3633 | 20.7580
300008 | 20.7702 | 19.6149 | 20.9207 | 20.4237
300009 | 18.0602 | 20.0938 | 20.1193 | 19.3850
300010 | 19.3940 | 20.2130 | 21.0316 | 20.1973
300011 | 22.4325 | 23.0279 | 23.8390 | 23.0923
300012 | 24.5673 | 24.5619 | 25.8581 | 25.0347
300013 | 19.1247 | 20.1669 | 20.0983 | 19.8032
300014 | 20.3292 | 20.1774 | 21.6705 | 20.7353
300015 | 20.4916 | 19.6627 | 22.8966 | 21.0797
300016 | 21.8659 | 17.8148 | 15.1311 | 18.1853
300017 | 21.6563 | 22.7191 | 23.9651 | 22.8162
300018 | 21.2381 | 21.6385 | 22.9623 | 21.9864
300019 | 20.9753 | 19.6728 | 20.5801 | 20.4037
300020 | 21.9165 | 22.6627 | 23.0806 | 22.5724
300021 | 18.6211 | 19.3101 | 20.2585 | 19.4039
300022 | 18.3507 | 19.1875 | 20.1635 | 19.2197
300023 | 22.1210 | 22.7649 | 22.1896 | 22.3579
300024 | 19.9116 | 21.5842 | 22.2235 | 21.2127
300028 | 17.4075 | 20.0778 | 21.4207 | 19.6713
300029 | 22.5748 | 22.6013 | 23.8415 | 23.0427
300033 | 17.1869 | 17.1632 | 17.4836 | 17.2725
300034 | 25.5182 | 24.4975 | 25.2355 | 25.1020
310001 | 28.1329 | 27.4730 | 28.6540 | 28.0966
310002 | 28.3434 | 27.9728 | 28.5941 | 28.3065
310003 | 29.1096 | 27.5624 | 28.8314 | 28.5051
310005 | 22.1146 | 22.9712 | 22.9664 | 22.6779
310006 | 21.5957 | 22.0894 | 24.1538 | 22.5976
310008 | 23.5084 | 24.7618 | 26.4989 | 24.9206
310009 | 23.6371 | 21.7094 | 23.2420 | 22.8675
310010 | 22.5682 | 23.1060 | 24.5471 | 23.4312
310011 | 23.1977 | 24.2885 | 25.4900 | 24.3173
310012 | 26.5242 | 26.6772 | 28.0541 | 27.1062
310013 | 21.2251 | 22.5603 | 23.0073 | 22.2711
310014 | 27.4614 | 23.1956 | 31.0374 | 27.0132
310015 | 27.4331 | 27.9684 | * | 27.7058
310016 | 24.3838 | 24.5206 | 25.4844 | 24.7602
310017 | 25.7902 | 24.5976 | 25.1634 | 25.1866
310018 | 22.8428 | 22.4779 | 24.1496 | 23.1662
310019 | 24.0542 | 24.9914 | 28.5952 | 25.8565
310020 | 24.1848 | 24.4152 | 25.0803 | 24.5523
310021 | 23.9369 | 25.4393 | 29.9117 | 26.2679
310022 | 21.2706 | 20.8258 | 21.2563 | 21.1130
310024 | 24.2353 | 24.9521 | 27.2475 | 25.4630
310025 | 24.3513 | 24.1812 | 25.5227 | 24.6926
310026 | 23.5491 | 22.1997 | 23.2895 | 22.9937
310027 | 21.8846 | 22.5696 | 24.4437 | 22.9152
310028 | 23.4577 | 23.9428 | 26.1931 | 24.5392
310029 | 22.6629 | 23.6610 | 25.2587 | 23.8421
310031 | 26.1567 | 26.6831 | 26.7174 | 26.5090
310032 | 24.3528 | 24.7404 | 25.4768 | 24.8830
310034 | 23.2729 | 24.1150 | 27.1303 | 24.7884
310036 | 20.1905 | 21.7187 | 23.0320 | 21.6137
310037 | 27.7823 | 28.1289 | 29.0864 | 28.3334
310038 | 26.7209 | 28.4893 | 28.4732 | 27.9039
310039 | 22.1754 | 22.7317 | 23.6605 | 22.8221
310040 | 26.1492 | 26.3573 | 26.5964 | 26.3696
310041 | 24.8960 | 23.5559 | 24.9733 | 24.4816
310042 | 23.2472 | 24.7678 | 25.7747 | 24.5600
310043 | 21.9022 | 21.6128 | 24.0238 | 22.3478
310044 | 21.6677 | 23.1549 | 23.3801 | 22.7473
310045 | 28.4854 | 28.9274 | 29.5452 | 28.9708
310047 | 25.1101 | 26.1921 | 25.9777 | 25.7489
310048 | 23.6118 | 25.2870 | 23.4189 | 24.0965
310049 | 24.8299 | 27.0842 | 25.6732 | 25.8686
310050 | 25.1752 | 24.7988 | 23.7735 | 24.5800
310051 | 27.1265 | 27.5378 | 28.5946 | 27.7258
310052 | 22.9326 | 23.3973 | 27.0616 | 24.3173
310054 | 26.1726 | 27.7376 | 26.9352 | 26.9153
310057 | 21.1686 | 22.2572 | 22.2630 | 21.9057
310058 | 26.5308 | 26.3765 | 25.9389 | 26.3360
310060 | 19.1992 | 20.0997 | 21.6211 | 20.2716
310061 | 23.2646 | 33.9582 | 23.4283 | 26.0987
310062 | 22.9073 | * | * | 22.9073
310063 | 21.9045 | 22.1080 | 23.5217 | 22.4712
310064 | 24.8567 | 25.4822 | 25.3339 | 25.2160
310067 | 25.0888 | 23.9278 | 24.1943 | 24.4277
310069 | 23.7531 | 24.2329 | 25.4373 | 24.4865
310070 | 26.0903 | 28.2220 | 30.1143 | 28.0038
310072 | 21.7605 | 22.5611 | 25.0708 | 23.0824
310073 | 28.5149 | 26.2937 | 29.2805 | 27.9813
310074 | 23.8340 | 22.3588 | 24.1313 | 23.4934
310075 | 23.3266 | 24.4788 | 23.9771 | 23.9276
310076 | 30.0797 | 27.9918 | 31.4866 | 29.8824
310077 | 25.2500 | 26.1251 | 26.7227 | 26.0109
310078 | 23.8841 | 24.0587 | 24.5862 | 24.1519
310081 | 22.0762 | 22.4086 | 23.2059 | 22.5650
310083 | 23.8852 | 24.8204 | 25.0191 | 24.5773
310084 | 26.6753 | 24.6049 | 25.5110 | 25.5914
310086 | 22.1674 | 23.1719 | 23.5820 | 22.9629
310087 | 20.7243 | 21.1215 | 20.7434 | 20.8650
310088 | 22.3160 | 23.1722 | 24.2150 | 23.2258
310090 | 23.8284 | 24.8986 | 24.4746 | 24.3899
310091 | 22.7978 | 23.2969 | 24.5357 | 23.5110
310092 | 20.5165 | 21.6964 | 23.1341 | 21.7772
310093 | 22.4291 | 23.7251 | 24.0037 | 23.3380
310096 | 25.1572 | 24.5759 | 26.6982 | 25.4341
310105 | 25.5891 | 26.2537 | 25.1559 | 25.6770
310108 | 22.4756 | 23.8308 | 26.2036 | 24.1336
310110 | 21.8341 | 23.2146 | 23.1789 | 22.7903
310111 | 21.1066 | 22.1151 | 24.1731 | 22.4723
310112 | 23.6701 | 24.7914 | 24.2999 | 24.2528
310113 | 23.6841 | 23.1961 | 24.0930 | 23.6671
310115 | 21.7320 | 21.1645 | 23.4249 | 22.1167
310116 | 22.9812 | 23.6366 | * | 23.3055
310118 | 26.4625 | 26.1315 | 26.5619 | 26.3869
310119 | 33.6686 | 32.7858 | 29.1045 | 31.7976
310120 | 23.9681 | 23.3200 | 22.6526 | 23.3189
320001 | 19.1150 | 20.6225 | 21.0689 | 20.2496
320002 | 22.6175 | 23.0983 | 25.5144 | 23.6846
320003 | 15.9504 | 16.4642 | 16.4961 | 16.3037
320004 | 18.5824 | 19.6642 | 21.3681 | 19.9888
320005 | 21.6103 | 21.0411 | 22.4178 | 21.7283
320006 | 18.9019 | 20.3863 | 19.8672 | 19.6917
320009 | 18.2883 | 19.3500 | 20.3783 | 19.2661
320011 | 20.0601 | 18.5222 | 18.7099 | 19.0944
320012 | 16.4355 | 17.1764 | 14.3961 | 16.0417
320013 | 22.9573 | 24.5543 | 24.4795 | 24.0591
320014 | 16.3598 | 16.8412 | 21.7784 | 18.0981
320016 | 20.5398 | 18.8519 | 18.8763 | 19.4121
320017 | 18.6388 | 19.4498 | 20.4390 | 19.4898
320018 | 18.8479 | 19.2336 | 20.4375 | 19.5136
320019 | 24.4707 | 26.9637 | 24.4394 | 25.3985
320021 | 17.8705 | 19.1265 | 19.6950 | 18.8702
320022 | 16.1777 | 18.0606 | 19.9587 | 18.1477
320023 | 18.0548 | 17.8419 | * | 17.9685
320030 | 16.5495 | 18.6859 | 18.1556 | 17.7555
320031 | 19.6768 | 25.1715 | 18.2244 | 20.7137
320032 | 18.8097 | 20.6871 | 21.1628 | 20.1426
320033 | 25.0777 | 21.0621 | 21.9804 | 22.5777
320035 | 21.5186 | 15.0612 | 17.8058 | 17.7193
320037 | 17.0305 | 17.8280 | 17.6619 | 17.5121
320038 | 16.8117 | 22.2664 | * | 19.6948
320046 | 18.3190 | 18.9607 | 22.6251 | 20.0803
320048 | 19.9642 | 16.8769 | * | 18.3467
320063 | 18.3237 | 17.9089 | 14.4611 | 17.0236
320065 | 16.7933 | 18.6525 | 22.1138 | 18.8982
320067 | 33.8654 | 15.3228 | 16.8015 | 18.3132
320068 | 17.4785 | 18.5103 | 15.6681 | 17.1335
320069 | 13.0094 | 14.4212 | 15.7350 | 14.3622
320074 | 19.3406 | 20.2290 | 22.3403 | 20.2679
320079 | 18.2828 | 19.8555 | 19.9049 | 19.3010
330001 | 26.5533 | 27.3996 | 28.4974 | 27.5189
330002 | 26.5370 | 26.9341 | 26.6966 | 26.7185
330003 | 19.4102 | 18.9211 | 19.3972 | 19.2414
330004 | 22.5298 | 20.9501 | 22.5082 | 22.0002
330005 | 24.8338 | 22.1957 | 22.6137 | 22.8232
330006 | 25.0576 | 25.8006 | 26.2970 | 25.7013
330007 | 18.9024 | * | * | 18.9024
330008 | 19.0045 | 19.2341 | 19.6770 | 19.3060
330009 | 30.6918 | 31.3435 | 30.9087 | 30.9793
330010 | 17.4512 | 16.6508 | 17.8935 | 17.3146
330011 | 18.2986 | 18.6748 | 18.7995 | 18.5936
330012 | 32.7624 | * | * | 32.7624
330013 | 19.0856 | 19.6269 | 19.0995 | 19.2697
330014 | 32.3370 | 36.8669 | 32.4496 | 33.8020
330016 | 16.9717 | 16.8016 | 18.7194 | 17.4483
330019 | 35.9822 | 33.5369 | 31.5927 | 33.4812
330020 | 15.5527 | 15.1142 | 16.6952 | 15.7780
330023 | 24.4006 | 25.6512 | 26.6997 | 25.5866
330024 | 34.1682 | 37.3316 | 35.7485 | 35.6717
330025 | 16.2033 | 16.8687 | 17.6169 | 16.8903
330027 | 33.4738 | 35.5255 | 35.1046 | 34.6601
330028 | 28.2089 | 29.5294 | 31.7699 | 29.9762
330029 | 18.1567 | 17.0016 | 19.4377 | 18.2068
330030 | 17.4977 | 19.1085 | 18.0866 | 18.1511
330033 | 18.5353 | 17.4444 | 19.4402 | 18.4646
330034 | 31.3997 | 27.7738 | 38.2451 | 31.3373
330036 | 23.9874 | 25.2820 | 25.5888 | 24.9782
330037 | 16.1140 | 16.4866 | 18.3260 | 16.9831
330038 | 16.2549 | 17.3429 | 16.2997 | 16.6434
330041 | 24.5215 | 31.4871 | 29.5305 | 28.1630
330043 | 28.7467 | 27.4661 | 28.9622 | 28.3990
330044 | 20.0238 | 19.5219 | 19.9808 | 19.8437
330045 | 28.0758 | 27.9919 | 28.5267 | 28.2011
330046 | 32.4189 | 35.2703 | 38.1184 | 35.1742
330047 | 18.1815 | 18.5536 | 19.5561 | 18.7655
330048 | 17.8787 | 19.1093 | 19.6129 | 18.8634
330049 | 19.4993 | 20.5731 | 22.1523 | 20.7576
330053 | 17.4430 | 17.8082 | 17.8308 | 17.6930
330055 | 36.1109 | 32.8910 | 32.6387 | 33.8113
330056 | 30.4525 | 30.0945 | 29.8377 | 30.1337
330057 | 18.7478 | 19.3643 | 20.0995 | 19.4010
330058 | 17.0014 | 17.7672 | 18.1007 | 17.6091
330059 | 34.1705 | 34.2426 | 35.0121 | 34.4519
330061 | 25.7331 | 25.4082 | 26.8580 | 25.9786
330062 | 17.6067 | 18.1318 | 18.4662 | 18.0774
330064 | 33.1269 | 33.6447 | 35.1422 | 33.9496
330065 | 19.8940 | 19.9305 | 20.2835 | 20.0284
330066 | 19.5611 | 18.8707 | 19.5272 | 19.3115
330067 | 20.9443 | 22.1065 | 23.6836 | 22.2657
330072 | 30.8019 | 30.4171 | 30.3737 | 30.5362
330073 | 16.2898 | 16.4518 | 16.5166 | 16.4181
330074 | 18.0005 | 17.7308 | 18.7081 | 18.1472
330075 | 17.2298 | 17.6385 | 18.9699 | 17.9293
330078 | 16.7949 | 18.7884 | 18.0362 | 17.8405
330079 | 17.4555 | 18.7622 | 18.9398 | 18.3917
330080 | 29.2686 | 31.4424 | 28.3401 | 29.6840
330084 | 18.0435 | 19.3216 | 19.0261 | 18.8002
330085 | 20.2926 | 20.6203 | 22.8312 | 21.2658
330086 | 31.2980 | 23.6496 | 26.2979 | 27.1579
330088 | 25.6626 | 25.7940 | 26.7583 | 26.0739
330090 | 19.3954 | 19.2112 | 20.4314 | 19.6779
330091 | 19.0953 | 19.7776 | 21.6004 | 20.1526
330092 | 14.0671 | 13.3723 | 17.2083 | 14.8861
330094 | 17.5585 | 18.1582 | 18.7259 | 18.1488
330095 | 20.1073 | 21.1096 | 21.1809 | 20.7563
330096 | 17.9641 | 18.5149 | 20.0370 | 18.8403
330097 | 16.2169 | 16.4433 | 15.8232 | 16.1519
330100 | 27.0661 | 29.0916 | 28.9956 | 28.3021
330101 | 32.4105 | 31.5914 | 34.7119 | 32.9505
330102 | 17.5755 | 19.0058 | 21.0057 | 19.0881
330103 | 15.7197 | 16.8110 | 17.8864 | 16.8159
330104 | 31.6471 | 31.2074 | 31.9154 | 31.5867
330106 | 40.2686 | 35.3775 | 35.1434 | 36.7949
330107 | 28.5580 | 27.7797 | 28.9225 | 28.4199
330108 | 17.3605 | 18.0786 | 18.5194 | 17.9737
330111 | 19.5314 | 15.9321 | 13.3352 | 15.9787
330114 | 17.3522 | 17.0581 | 19.1162 | 17.8316
330115 | 17.4430 | 17.4684 | 13.0722 | 15.4701
330116 | 24.4622 | 14.9610 | 16.8567 | 18.1237
330118 | 20.6936 | * | * | 20.6936
330119 | 34.8385 | 33.1179 | 33.5653 | 33.8391
330121 | 16.1052 | 16.3385 | 17.1869 | 16.5359
330122 | 20.8204 | 20.2417 | 23.0384 | 21.3559
330125 | 19.8494 | 19.7638 | 20.3093 | 19.9745
330126 | 23.7938 | 23.8957 | 24.8787 | 24.2123
330127 | 31.9046 | 30.7356 | 33.9627 | 32.2469
330128 | 29.0222 | 30.8242 | 27.7350 | 29.2603
330132 | 15.7633 | 14.3673 | 14.8704 | 15.0313
330133 | 37.2494 | 35.3576 | 37.5192 | 36.5906
330135 | 18.7120 | 22.2670 | 23.5662 | 21.3289
330136 | 18.2422 | 20.1043 | 20.0552 | 19.4517
330140 | 19.1438 | 19.3615 | 20.2951 | 19.5989
330141 | 26.4956 | 26.7096 | 27.5960 | 26.9363
330144 | 14.0566 | 16.2517 | 17.1513 | 15.7880
330148 | 16.8151 | 16.2782 | 16.7251 | 16.6024
330151 | 16.0714 | 15.7594 | 15.2233 | 15.6663
330152 | 30.5409 | 30.8314 | 33.4288 | 31.5069
330153 | 18.9689 | 18.1776 | 19.4417 | 18.8671
330157 | 22.0792 | 22.3804 | 23.1743 | 22.5628
330158 | 25.7569 | 27.1228 | 29.3163 | 27.3406
330159 | 19.1536 | 19.4998 | 20.2601 | 19.6219
330160 | 32.7840 | 29.5885 | 30.7893 | 30.9997
330162 | 27.1166 | 27.6010 | 27.9705 | 27.5570
330163 | 18.7816 | 20.7456 | 21.4143 | 20.2444
330164 | 19.8647 | 20.9003 | 20.5006 | 20.4195
330166 | 15.0954 | 15.4420 | 17.0637 | 15.8309
330167 | 29.3634 | 30.2346 | 32.0728 | 30.4495
330169 | 37.2655 | 35.4794 | 36.3690 | 36.3400
330171 | 25.5307 | 24.8035 | 24.8515 | 25.0649
330175 | 17.3290 | 18.3116 | 18.8201 | 18.1260
330177 | 17.2907 | 16.3704 | 16.6059 | 16.7542
330179 | 13.4999 | 13.8953 | 15.8620 | 14.3577
330180 | 16.8787 | 17.9877 | 19.2670 | 17.9995
330181 | 32.5192 | 33.0908 | 34.2919 | 33.2777
330182 | 32.9371 | 33.6531 | 33.3363 | 33.3137
330183 | 19.9207 | 20.6164 | 19.6980 | 20.0807
330184 | 30.0400 | 31.3706 | 28.4726 | 30.0103
330185 | 25.6112 | 26.8612 | 27.8585 | 26.7622
330188 | 20.9587 | 18.8000 | 20.2849 | 20.0186
330189 | 15.1253 | 18.4498 | 23.5589 | 18.7634
330191 | 18.6206 | 19.0348 | 19.4168 | 19.0266
330193 | 36.5481 | 30.2260 | 32.5496 | 32.9872
330194 | 34.6785 | 35.2036 | 35.6486 | 35.1819
330195 | 33.3254 | 34.8966 | 29.8157 | 32.7136
330196 | 30.8165 | 30.5799 | 25.9671 | 29.2151
330197 | 17.6646 | 18.3527 | 19.2237 | 18.4045
330198 | 24.6038 | 24.8590 | 25.4472 | 24.9692
330199 | 28.7609 | 30.5409 | 26.0228 | 28.5436
330201 | 32.1149 | 28.7861 | 27.6320 | 29.6019
330202 | 31.4435 | 31.2575 | 31.9777 | 31.5574
330203 | 20.7575 | 25.0345 | 25.7916 | 23.7288
330204 | 29.4418 | 32.2005 | 28.4140 | 30.0233
330205 | 20.5793 | 22.3490 | 24.9040 | 22.5611
330208 | 26.1822 | 26.6682 | 27.3170 | 26.7219
330209 | 23.9924 | 25.1281 | 26.8546 | 25.3803
330211 | 19.5064 | 19.5405 | 20.0006 | 19.6855
330212 | 21.7705 | 24.7681 | 24.4902 | 23.6390
330213 | 18.7722 | 19.6796 | 20.1166 | 19.4878
330214 | 36.4447 | 32.4292 | 32.2640 | 33.3003
330215 | 19.6926 | 17.9863 | 19.0726 | 18.8818
330218 | 21.4796 | 21.1890 | 21.4747 | 21.3812
330219 | 23.9908 | 23.4310 | 25.1792 | 24.1748
330221 | 27.8485 | 33.3796 | 29.5535 | 30.2856
330222 | 18.3666 | 18.5571 | 19.3148 | 18.7515
330223 | 17.6199 | 17.8306 | 19.0773 | 18.1866
330224 | 19.6410 | 20.4309 | 20.7773 | 20.2793
330225 | 25.5823 | 27.0379 | 28.0523 | 26.7760
330226 | 16.6711 | 23.1859 | 16.9198 | 18.3930
330229 | 16.8026 | 17.5326 | 18.2554 | 17.5103
330230 | 29.7626 | 29.6283 | 30.6937 | 29.9984
330231 | 30.0923 | 32.7200 | 25.2793 | 29.5345
330232 | 17.9083 | 19.1787 | 19.6181 | 18.8942
330233 | 30.9241 | 44.1265 | 42.3510 | 37.9819
330234 | 35.1777 | 35.0720 | 35.8927 | 35.3813
330235 | 21.0842 | 19.5880 | 20.1255 | 20.2820
330236 | 29.5913 | 31.3463 | 30.9816 | 30.6263
330238 | 15.6245 | 17.3976 | 17.5807 | 16.8401
330239 | 17.4462 | 18.5079 | 18.9953 | 18.2764
330240 | 29.7082 | 30.7321 | 32.0049 | 30.7179
330241 | 24.6076 | 23.8638 | 24.7545 | 24.4065
330242 | 28.2612 | 27.6384 | 28.3561 | 28.0883
330245 | 17.6767 | 18.5161 | 20.7167 | 19.0400
330246 | 28.1090 | 28.1205 | 29.8777 | 28.6473
330247 | 28.5310 | 27.3937 | 32.5858 | 29.3555
330249 | 16.2687 | 17.1320 | 17.6846 | 17.0482
330250 | 19.5823 | 19.9619 | 20.7381 | 20.1092
330254 | 18.4057 | 15.9123 | 15.7864 | 16.7695
330258 | 29.7426 | 31.8910 | 32.6745 | 31.4411
330259 | 26.2661 | 25.9994 | 26.3620 | 26.2118
330261 | 25.7244 | 27.9766 | 30.0489 | 27.8583
330263 | 20.4149 | 18.7378 | 19.5057 | 19.6112
330264 | 22.8672 | 22.8099 | 24.6387 | 23.4672
330265 | 18.0193 | 17.6301 | 21.1215 | 18.8985
330267 | 24.5183 | 24.5939 | 27.8255 | 25.6678
330268 | 13.0595 | 15.9060 | 16.8358 | 15.2987
330270 | 34.4254 | 36.0824 | 31.3908 | 33.9198
330273 | 23.1511 | 26.0565 | 27.0454 | 25.3482
330275 | 19.0548 | 18.7268 | * | 18.9109
330276 | 18.2870 | 19.0228 | 19.2611 | 18.8572
330277 | 18.3169 | 19.1761 | 20.7851 | 19.4340
330279 | 19.5983 | 20.7107 | 21.7827 | 20.6371
330285 | 23.5264 | 24.0491 | 25.9154 | 24.4664
330286 | 26.7633 | 27.7762 | 28.0994 | 27.5677
330290 | 33.5056 | 30.4706 | 34.3439 | 32.7503
330293 | 16.2158 | 16.9238 | 17.2262 | 16.7522
330304 | 26.7683 | 27.3562 | 29.2207 | 27.7999
330306 | 27.3798 | 29.5937 | 25.6970 | 27.5466
330307 | 21.0673 | 21.7257 | 23.1148 | 21.9912
330314 | 24.5444 | 25.9937 | 25.5405 | 25.3155
330316 | 27.6102 | 27.9543 | 27.9277 | 27.8310
330327 | 16.4611 | 20.3874 | 20.1705 | 18.8688
330331 | 31.6216 | 33.1276 | 31.0718 | 31.9586
330332 | 27.6914 | 25.3689 | 27.6955 | 26.9473
330333 | 29.1931 | * | 28.8841 | 29.0179
330336 | 29.7689 | 29.8294 | 29.1415 | 29.5860
330338 | 22.4581 | 21.2670 | 23.6142 | 22.4472
330339 | 20.0111 | 20.1028 | 20.2382 | 20.1121
330340 | 28.8419 | 28.4129 | 29.4512 | 28.8934
330350 | 30.8889 | 30.9763 | 33.5493 | 31.7771
330353 | 32.1984 | 34.2431 | 34.2260 | 33.5106
330357 | 36.5928 | 34.1846 | 36.8598 | 35.8981
330372 | 28.8482 | 33.3771 | 27.8854 | 29.8144
330381 | 31.0091 | 31.8602 | * | 31.4219
330385 | 35.6722 | 33.2246 | 33.4159 | 34.1965
330386 | 17.6383 | 20.4231 | 21.4363 | 19.4104
330389 | 30.2505 | 37.3749 | 27.6223 | 31.1985
330390 | 31.1577 | 30.8744 | 33.4372 | 31.7841
330393 | 26.4958 | 27.8352 | 33.6061 | 29.1012
330394 | 19.2392 | 18.9343 | 19.6892 | 19.2847
330395 | 32.8749 | 32.7494 | 30.2846 | 32.0161
330396 | 34.8648 | 30.7961 | 29.1753 | 31.7581
330397 | 33.9061 | 32.6068 | 38.3281 | 34.7790
330398 | 28.7707 | 29.2872 | * | 28.9084
330399 | 32.9100 | 33.3012 | 32.7149 | 32.9707
330400 | * | 16.2707 | 16.8168 | 16.5566
340001 | 18.1814 | 19.7093 | 21.8572 | 19.9040
340002 | 20.8858 | 20.5253 | 22.2638 | 21.3163
340003 | 20.2540 | 19.5145 | 19.6545 | 19.8018
340004 | 19.0695 | 20.9863 | 23.0890 | 21.0811
340005 | 15.8205 | 16.7176 | 16.3073 | 16.2815
340006 | 16.9818 | 16.5709 | 16.1379 | 16.5756
340007 | 17.2356 | 18.3399 | 18.3760 | 17.9959
340008 | 21.2889 | 20.4157 | 22.0774 | 21.2828
340009 | 20.5023 | 20.9178 | 20.6155 | 20.6734
340010 | 18.3380 | 19.4302 | 20.6547 | 19.5049
340011 | 13.6554 | 14.4798 | 17.4534 | 15.1697
340012 | 18.8701 | 17.5112 | 19.3651 | 18.5479
340013 | 20.1747 | 19.4613 | 21.5130 | 20.3981
340014 | 20.5748 | 27.7888 | 21.9804 | 22.9126
340015 | 20.1562 | 19.4676 | 20.3493 | 19.9875
340016 | 17.5404 | 18.8958 | 19.4160 | 18.6049
340017 | 19.4192 | 20.2775 | 20.6263 | 20.1119
340018 | 14.0930 | 18.1751 | 16.4611 | 16.0927
340019 | 14.8980 | 15.2887 | 15.9037 | 15.3369
340020 | 18.6334 | 18.0897 | 19.2392 | 18.6598
340021 | 19.8020 | 20.5813 | 22.0220 | 20.7507
340022 | 17.8178 | 18.7714 | 20.6484 | 19.0742
340023 | 18.5414 | 19.3146 | 19.2617 | 19.0575
340024 | 17.3824 | 17.9130 | 19.1430 | 18.1515
340025 | 17.2648 | 18.4628 | 19.1770 | 18.3029
340027 | 18.0816 | 19.4548 | 19.4907 | 19.0172
340028 | 18.4787 | 19.9403 | 20.6496 | 19.7560
340030 | 21.1420 | 22.4709 | 24.0238 | 22.4825
340031 | 14.6951 | 14.6370 | 15.4935 | 14.9011
340032 | 20.0049 | 20.7444 | 21.7127 | 20.8112
340035 | 20.2312 | 18.9930 | 18.5883 | 19.2823
340036 | 18.2190 | 17.7619 | 18.4203 | 18.1226
340037 | 16.6576 | 17.5829 | 18.3655 | 17.5271
340038 | 17.3762 | 18.1493 | 20.3091 | 18.5547
340039 | 20.5876 | 21.3711 | 22.2939 | 21.4440
340040 | 20.4282 | 20.7237 | 21.1020 | 20.7582
340041 | 15.1419 | 15.5873 | 16.3200 | 15.6803
340042 | 16.9298 | 17.0034 | 19.1386 | 17.6977
340044 | 18.8687 | 18.0863 | 18.9562 | 18.6425
340045 | 13.0538 | 13.6182 | 20.2641 | 14.9554
340047 | 20.0602 | 20.0744 | 20.7061 | 20.2776
340049 | 19.2050 | 19.5127 | 17.2986 | 18.6550
340050 | 20.0090 | 19.6726 | 20.6831 | 20.1383
340051 | 16.5617 | 19.3627 | 19.0282 | 18.2702
340052 | 22.8173 | 23.2134 | 26.2243 | 23.8462
340053 | 20.9495 | 19.9915 | 22.6020 | 21.1247
340054 | 15.5993 | 15.5090 | 16.6208 | 15.8560
340055 | 19.6056 | 19.4035 | 20.2936 | 19.7761
340060 | 18.7137 | 19.3410 | 20.8570 | 19.6422
340061 | 21.5385 | 22.1175 | 23.7173 | 22.4390
340063 | 17.0249 | 16.7377 | 26.4132 | 19.5650
340064 | 20.7125 | 18.5069 | 17.7395 | 18.9394
340065 | 17.5414 | 17.3530 | 18.3610 | 17.7341
340067 | 19.3785 | 19.7187 | 22.4054 | 20.2943
340068 | 16.6305 | 17.8065 | 18.8758 | 17.7729
340069 | 21.0840 | 21.6728 | 22.5664 | 21.7942
340070 | 19.7796 | 20.6829 | 21.5793 | 20.6882
340071 | 17.1424 | 18.0767 | 19.3679 | 18.2275
340072 | 16.7400 | 17.7129 | 18.7920 | 17.7544
340073 | 21.9761 | 23.5832 | 23.4906 | 23.0367
340075 | 18.7090 | 20.0081 | 19.9451 | 19.5511
340080 | 22.2533 | 18.2061 | * | 20.1809
340084 | 17.1532 | 19.0103 | 19.6087 | 18.5190
340085 | 17.3462 | 18.3179 | 20.3684 | 18.6708
340087 | 17.3884 | 18.2255 | 20.2445 | 18.6743
340088 | 21.0226 | 22.2322 | 22.6462 | 21.9702
340089 | 13.8535 | 15.4760 | 16.1321 | 15.1566
340090 | 17.0584 | 18.5287 | 18.7701 | 18.1576
340091 | 20.5923 | 20.3861 | 21.1892 | 20.7475
340093 | 16.3276 | 16.8903 | 16.5452 | 16.5873
340094 | 19.0406 | * | 20.8816 | 19.9881
340096 | 17.8189 | 19.4696 | 20.9686 | 19.4268
340097 | 18.8412 | 18.2399 | 20.0302 | 19.0440
340098 | 21.4135 | 21.9578 | 23.5280 | 22.3354
340099 | 16.8305 | 15.3752 | 16.9979 | 16.3421
340101 | 13.9994 | 15.6509 | 20.7841 | 16.3562
340104 | 13.0462 | 11.5169 | 12.1845 | 12.2454
340105 | 20.2954 | * | * | 20.2954
340106 | 17.7220 | 18.1211 | 19.1147 | 18.3112
340107 | 18.0205 | 19.3197 | 20.7601 | 19.3267
340109 | 18.7746 | 19.0532 | 19.3357 | 19.0640
340111 | 16.3344 | 16.5976 | 17.2127 | 16.7260
340112 | 14.7562 | 15.5142 | 16.9592 | 15.7587
340113 | 21.2906 | 21.9883 | 24.0277 | 22.4262
340114 | 21.2166 | 20.7261 | 21.7750 | 21.2327
340115 | 19.7578 | 21.7586 | 24.7924 | 21.8733
340116 | 20.4255 | 20.6800 | 21.6616 | 20.9285
340119 | 18.8507 | 19.5827 | 20.5394 | 19.6919
340120 | 15.0410 | 15.8240 | 16.9847 | 15.9742
340121 | 16.3295 | 17.8771 | 19.0420 | 17.7638
340123 | 16.9114 | 18.9078 | 21.5041 | 19.1720
340124 | 15.5779 | 17.4185 | 17.5411 | 16.8707
340125 | 19.7164 | 20.2748 | * | 19.9923
340126 | 18.8100 | 19.3734 | 20.7395 | 19.6489
340127 | 19.3925 | 19.3842 | 21.4797 | 20.0982
340129 | 20.4605 | 20.6521 | 21.0773 | 20.7569
340130 | 19.7422 | 19.8707 | 20.5851 | 20.0891
340131 | 19.7908 | 21.3849 | 23.2478 | 21.4650
340132 | 17.3448 | 17.5711 | 17.7110 | 17.5495
340133 | 16.4766 | 17.2138 | 16.9829 | 16.8955
340137 | 21.0249 | 31.7702 | * | 23.8273
340138 | 20.7618 | * | * | 20.7618
340141 | 21.3754 | 21.4986 | 22.4525 | 21.7877
340142 | 17.1525 | 18.0766 | 18.1824 | 17.8038
340143 | 21.3604 | 24.4098 | 21.9304 | 22.5287
340144 | 20.9113 | 22.9183 | 22.8634 | 22.2296
340145 | 20.1081 | 19.9233 | 21.5958 | 20.6005
340146 | 15.9203 | 17.3051 | 19.1306 | 17.3989
340147 | 19.6827 | 20.5520 | 21.5912 | 20.6397
340148 | 18.5875 | 18.9912 | 20.6790 | 19.3782
340151 | 16.7275 | 18.4733 | 19.0779 | 18.0943
340153 | 20.6420 | 20.7533 | 21.7375 | 21.0743
340155 | 20.5792 | 23.1021 | 24.8963 | 22.8382
340158 | 18.1439 | 19.0843 | 20.0921 | 19.1509
340159 | 17.3893 | 19.0338 | 18.3028 | 18.2386
340160 | 16.1778 | 16.7170 | 17.1963 | 16.7262
340162 | 14.3472 | * | * | 14.3472
340164 | 21.2523 | 21.5769 | * | 21.4120
340166 | 20.0434 | 20.8270 | 22.0519 | 21.0278
340168 | 15.2919 | 15.6071 | 15.4250 | 15.4443
340171 | 21.5973 | 22.4779 | 22.7304 | 22.3095
340173 | 19.3353 | 21.0898 | 23.3690 | 21.3475
350001 | 14.9080 | 16.6551 | 15.6193 | 15.7235
350002 | 17.5259 | 18.3459 | 19.1931 | 18.3399
350003 | 18.2470 | 19.2840 | 20.0663 | 19.1912
350004 | 20.6518 | 23.7016 | 25.1976 | 23.1394
350005 | 18.3792 | 19.9156 | 20.7467 | 19.6757
350006 | 18.4107 | 19.0343 | 19.1257 | 18.8317
350007 | 13.3292 | 13.8824 | 13.9966 | 13.7234
350008 | 20.4777 | 22.3783 | 23.1361 | 21.9692
350009 | 19.1611 | 18.3688 | 19.3668 | 18.9603
350010 | 16.2808 | 16.6272 | 16.7774 | 16.5574
350011 | 18.2008 | 19.1944 | 20.6809 | 19.2312
350012 | 15.7033 | 18.2524 | 16.0990 | 16.7533
350013 | 16.4579 | 17.2596 | 17.5935 | 17.0893
350014 | 16.8403 | 18.0999 | 18.2003 | 17.6546
350015 | 16.3397 | 17.1071 | 16.5368 | 16.6512
350016 | 11.6524 | * | * | 11.6524
350017 | 17.6278 | 17.5124 | 18.0840 | 17.7360
350018 | 14.4928 | 16.4939 | 16.3210 | 15.7222
350019 | 19.3063 | 20.1608 | 20.6743 | 20.0169
350021 | 16.2898 | 17.7123 | 16.3394 | 16.7592
350023 | 17.9048 | 17.4983 | 18.3253 | 17.9187
350024 | 14.7529 | 15.4788 | 15.7510 | 15.3010
350025 | 17.1199 | 15.0469 | 14.6099 | 15.5234
350027 | 15.0835 | 15.5178 | 17.5882 | 15.9431
350029 | 13.5219 | 14.6173 | * | 14.0747
350030 | 17.7209 | 18.1131 | 18.7182 | 18.1761
350033 | 14.9012 | 16.0870 | 16.0903 | 15.6588
350034 | 18.7245 | 19.6445 | * | 19.1773
350035 | 10.4570 | 11.7675 | 12.6496 | 11.6111
350038 | 17.6666 | 19.6854 | 19.0500 | 18.7554
350039 | 17.0361 | 16.6278 | 14.8599 | 16.1842
350041 | 14.6680 | 19.1341 | 23.1150 | 18.5427
350042 | 16.7402 | 19.3309 | 19.3370 | 18.2440
350043 | 16.8876 | 16.7433 | 17.6722 | 17.1008
350044 | 10.2154 | 11.0601 | 10.9690 | 10.7163
350047 | 14.4628 | 18.0094 | 19.9749 | 17.4882
350049 | 14.8019 | 18.1993 | 16.7131 | 16.4253
350050 | 11.4921 | 12.2183 | * | 11.8525
350051 | 17.7279 | 17.0653 | 16.4587 | 17.0939
350053 | 14.6398 | 15.9160 | 16.5484 | 15.6473
350055 | 14.5691 | 15.7916 | 15.8572 | 15.3943
350056 | 14.8293 | 15.0995 | 15.7752 | 15.2147
350058 | 15.9378 | 16.7034 | 15.8171 | 16.1663
350060 | 10.3666 | 10.3076 | 10.5325 | 10.3988
350061 | 15.7269 | 18.8790 | 19.3748 | 18.0353
360001 | 17.0791 | 19.6655 | 18.5766 | 18.4186
360002 | 18.0139 | 18.2613 | 19.6145 | 18.5918
360003 | 22.7471 | 22.7521 | 23.2905 | 22.9196
360006 | 21.8048 | 22.4436 | 22.8554 | 22.3622
360007 | 18.0941 | 14.8213 | 15.3656 | 16.0665
360008 | 18.5439 | 18.7961 | 19.8034 | 19.0500
360009 | 18.9322 | 18.9935 | 19.6087 | 19.1932
360010 | 19.2288 | 19.1852 | 20.4671 | 19.6517
360011 | 19.3835 | 21.3659 | 19.4581 | 19.9957
360012 | 19.9881 | 20.0525 | 21.8759 | 20.5910
360013 | 20.6021 | 21.3690 | 22.3407 | 21.4314
360014 | 20.2390 | 20.7419 | 22.9930 | 21.3333
360016 | 17.8065 | 21.2505 | 21.4202 | 20.0256
360017 | 21.7543 | 22.2740 | 22.6535 | 22.2073
360018 | 23.5219 | 24.6686 | 24.6694 | 24.2429
360019 | 18.7147 | 20.6480 | 21.4708 | 20.1693
360020 | 21.7806 | 22.1751 | 21.7288 | 21.8938
360024 | 19.8508 | 20.1352 | 20.9408 | 20.3040
360025 | 20.3638 | 20.2531 | 20.9266 | 20.5175
360026 | 18.2222 | 17.9523 | 18.6739 | 18.2838
360027 | 21.0406 | 21.7650 | 22.6915 | 21.8330
360028 | 17.0177 | 18.7174 | * | 17.7935
360029 | 18.7622 | 19.2928 | 19.7246 | 19.2680
360030 | 17.5748 | 17.6058 | 19.0313 | 18.0839
360031 | 19.3858 | 21.0687 | 21.0481 | 20.5037
360032 | 18.6559 | 19.8020 | 19.8367 | 19.4058
360034 | 14.9534 | 17.9594 | 19.1248 | 17.3380
360035 | 20.5557 | 21.0674 | 21.0533 | 20.8877
360036 | 20.2107 | 20.9916 | 21.4665 | 20.8874
360037 | 23.5094 | 23.1674 | 23.8620 | 23.5454
360038 | 21.2467 | 19.9415 | 20.9651 | 20.7274
360039 | 18.7791 | 19.0013 | 19.1934 | 18.9931
360040 | 18.1618 | 18.7425 | 19.9750 | 18.9827
360041 | 19.5744 | 19.7968 | 21.2727 | 20.2776
360042 | 17.4306 | 17.1952 | 19.3774 | 17.9518
360044 | 17.0612 | 17.6882 | 17.8417 | 17.5521
360045 | 22.1471 | 22.4018 | 22.8112 | 22.4244
360046 | 20.4755 | 20.4607 | 21.4292 | 20.8030
360047 | 17.1871 | 15.2922 | 15.8279 | 16.0315
360048 | 22.5857 | 22.4890 | 25.6259 | 23.4295
360049 | 20.4564 | 20.8393 | * | 20.6400
360050 | 12.9873 | 15.0568 | 15.6847 | 14.5392
360051 | 20.8338 | 20.8757 | 21.2225 | 20.9792
360052 | 19.6233 | 18.7931 | 19.8278 | 19.4110
360054 | 17.2574 | 17.4911 | 17.5714 | 17.4428
360055 | 21.5585 | 21.4112 | 22.8755 | 21.9415
360056 | 19.0474 | 20.6968 | 23.2385 | 21.0356
360057 | 15.0146 | 15.8569 | 16.0395 | 15.6552
360058 | 18.6992 | 19.3306 | 19.0440 | 19.0197
360059 | 20.5618 | 19.9304 | 23.2129 | 21.1909
360062 | 20.7588 | 21.9195 | 24.4898 | 22.4391
360063 | 18.4512 | 17.5108 | 20.2671 | 18.6964
360064 | 20.4846 | 20.0615 | 20.9202 | 20.4850
360065 | 20.0532 | 19.6199 | 22.0853 | 20.5895
360066 | 21.6015 | 22.8175 | 23.8834 | 22.7933
360067 | 15.3157 | 14.2745 | 17.3024 | 15.5854
360068 | 21.2789 | 22.6227 | 22.2094 | 22.0456
360069 | 16.6982 | 14.6597 | 18.5382 | 16.4901
360070 | 17.3758 | 18.8406 | 19.4700 | 18.5552
360071 | 17.9756 | 19.0302 | 19.6873 | 18.9152
360072 | 18.1467 | 19.0166 | 20.8819 | 19.3874
360074 | 20.8275 | 18.5889 | 19.9876 | 19.7904
360075 | 22.4523 | 26.0663 | 27.6992 | 24.6791
360076 | 20.0700 | 20.3317 | 21.0402 | 20.4919
360077 | 21.1053 | 21.5517 | 22.2964 | 21.6371
360078 | 21.4392 | 22.6490 | 22.6075 | 22.2329
360079 | 22.1096 | 21.6644 | 23.9491 | 22.5122
360080 | 17.3892 | 17.6369 | 18.0392 | 17.6871
360081 | 21.7342 | 20.4614 | 20.7477 | 20.9963
360082 | 22.9460 | 20.7610 | 22.9390 | 22.1817
360084 | 20.4894 | 22.0492 | 22.1699 | 21.5674
360085 | 21.9051 | 21.5151 | 24.8010 | 22.5708
360086 | 19.5378 | 19.3701 | 20.5858 | 19.8561
360087 | 20.1684 | 20.7969 | 21.1621 | 20.7100
360088 | 24.0097 | 24.0822 | 20.5703 | 22.7567
360089 | 18.3881 | 18.1941 | 19.5260 | 18.6947
360090 | 21.0376 | 20.8971 | 21.2072 | 21.0517
360091 | 21.3126 | 21.8447 | 22.6510 | 21.9522
360092 | 20.4534 | 21.5073 | 20.9588 | 20.9684
360093 | 19.3292 | 19.0261 | 21.0134 | 19.7919
360094 | 18.8780 | 20.1227 | 21.1952 | 20.0119
360095 | 20.4149 | 19.8521 | 21.3505 | 20.5395
360096 | 18.2215 | 19.6726 | 20.9838 | 19.6144
360098 | 19.5314 | 19.8178 | 20.7942 | 20.0486
360099 | 18.5855 | 19.6241 | 20.8801 | 19.7171
360100 | 17.8989 | 18.0442 | 20.0683 | 18.5932
360101 | 21.3914 | 20.2635 | 24.1551 | 21.8064
360102 | 19.4345 | 18.5367 | * | 19.0252
360106 | 18.9752 | 19.1778 | 18.9779 | 19.0463
360107 | 19.7599 | 22.1359 | * | 20.9636
360108 | 17.5832 | 20.0681 | 19.0870 | 18.9015
360109 | 20.1032 | 19.9237 | 17.3564 | 18.9331
360112 | 22.5589 | 24.6335 | 25.7920 | 24.1917
360113 | 24.2654 | 20.8154 | 18.4832 | 21.0469
360114 | 17.8761 | 18.7509 | 19.4212 | 18.7051
360115 | 18.8059 | 20.7652 | 21.0104 | 20.2115
360116 | 18.8882 | 18.8319 | 20.1408 | 19.2675
360118 | 19.3732 | 19.9141 | 21.0235 | 20.1425
360121 | 22.1093 | 22.2175 | 21.9111 | 22.0788
360123 | 20.3236 | 20.9792 | 21.9985 | 21.1330
360125 | 19.0774 | 20.5508 | 21.6675 | 20.3325
360126 | 19.0036 | 24.5387 | * | 21.4419
360127 | 17.5882 | 16.5559 | 18.2150 | 17.4610
360128 | 16.1243 | 17.0515 | 17.5495 | 16.8959
360129 | 15.5002 | 16.6114 | 17.2309 | 16.4330
360130 | 17.2009 | 18.4539 | 19.8906 | 18.4639
360131 | 19.2241 | 18.4688 | 20.4123 | 19.3509
360132 | 19.9171 | 21.3493 | 21.0162 | 20.7647
360133 | 19.4316 | 20.2857 | 22.1957 | 20.5231
360134 | 20.6876 | 20.9564 | 21.4024 | 21.0100
360136 | 17.7827 | 18.2194 | 18.5687 | 18.1837
360137 | 20.1756 | 22.3648 | 23.1642 | 21.8556
360140 | 20.2791 | 21.2881 | 18.3463 | 19.9463
360141 | 23.0016 | 23.5343 | 23.5006 | 23.3475
360142 | 17.0059 | 18.3188 | 19.6189 | 18.3226
360143 | 20.1989 | 21.0336 | 20.9158 | 20.7118
360144 | 23.2191 | 20.9033 | 20.9386 | 21.6583
360145 | 19.6413 | 20.0513 | 21.2931 | 20.3252
360147 | 16.6616 | 17.6779 | 18.7258 | 17.7129
360148 | 19.2816 | 19.1393 | 20.3120 | 19.5918
360149 | 19.9808 | * | * | 19.9808
360150 | 21.1327 | 22.3620 | 23.1858 | 22.2110
360151 | 16.6019 | 19.2788 | 20.5594 | 18.6756
360152 | 20.8328 | 21.6005 | 20.8782 | 21.1044
360153 | 15.4132 | 16.7399 | 16.1021 | 16.0822
360154 | 14.3270 | 14.3593 | 14.8550 | 14.5038
360155 | 22.5347 | 22.2112 | 22.2805 | 22.3386
360156 | 17.8787 | 18.9095 | 19.9382 | 18.8811
360159 | 20.2841 | 21.5695 | 22.7992 | 21.5782
360161 | 19.1983 | 20.6160 | 19.9054 | 19.9030
360163 | 20.7275 | 21.2689 | 22.1012 | 21.3886
360165 | 18.2571 | 18.2417 | 19.6205 | 18.6959
360166 | 18.7321 | * | * | 18.7321
360170 | 16.4653 | 20.4407 | 19.3099 | 18.5975
360172 | 18.6720 | 19.8909 | 22.3294 | 20.3872
360174 | 19.9725 | 20.5399 | 20.5874 | 20.4239
360175 | 21.1685 | 21.5450 | 22.0274 | 21.5958
360176 | 15.9430 | 16.6228 | 17.6291 | 16.7269
360177 | 18.7898 | 18.9576 | 19.6992 | 19.1509
360178 | 18.8704 | 16.7962 | 18.0773 | 17.9514
360179 | 21.1309 | 20.7069 | 21.9617 | 21.2476
360180 | 21.3826 | 21.0146 | 18.0143 | 20.0375
360184 | 19.1224 | * | * | 19.1224
360185 | 18.7291 | 19.4858 | 20.0848 | 19.4376
360186 | 18.3246 | 20.7572 | 18.1254 | 19.0367
360187 | 18.5109 | 19.6535 | 20.8423 | 19.6414
360188 | 17.1044 | 18.3057 | 16.4329 | 17.3292
360189 | 17.8981 | 18.5940 | 19.0481 | 18.4968
360192 | 21.6365 | 22.7846 | 23.9969 | 22.7928
360194 | 17.1884 | 17.6140 | 19.3901 | 18.0653
360195 | 19.9302 | 20.5828 | 21.2083 | 20.5836
360197 | 20.0603 | 20.5062 | 21.6110 | 20.7240
360200 | 16.2306 | 17.9623 | 19.5866 | 17.8050
360203 | 16.3181 | 15.9609 | 17.9698 | 16.7236
360204 | 22.2494 | * | * | 22.2494
360210 | 20.9955 | 21.8629 | 21.5961 | 21.4839
360211 | 19.9895 | 20.6081 | 22.0011 | 20.8512
360212 | 21.1123 | 20.6987 | 21.0632 | 20.9556
360213 | 19.4765 | 19.0584 | 20.5448 | 19.6749
360218 | 18.9469 | 18.8204 | 20.7709 | 19.5181
360230 | 21.9763 | 20.8042 | 21.2417 | 21.3193
360231 | 12.9588 | 14.4168 | 12.7388 | 13.3090
360234 | 23.2588 | 20.6131 | 17.6716 | 20.3070
360236 | 17.8426 | 21.4628 | 20.5998 | 19.8666
360239 | 20.1854 | 19.2375 | 20.9440 | 20.0997
360241 | 23.5318 | 25.3741 | 23.7679 | 24.1749
360243 | 14.8694 | * | * | 14.8694
360245 | 16.4622 | 15.9782 | 16.7956 | 16.4127
360247 | 16.3092 | 17.0776 | * | 16.6743
360249 | * | 25.4331 | * | 25.4331
360251 | * | * | 21.3149 | 21.3149
360252 | * | * | 27.1728 | 27.1728
370001 | 22.5214 | 24.1929 | 21.8743 | 22.8253
370002 | 14.7315 | 15.4333 | 16.1853 | 15.4106
370004 | 19.3236 | 18.5233 | 22.0173 | 19.9087
370005 | 15.1654 | 15.3881 | * | 15.2760
370006 | 16.6484 | 16.4995 | 15.7367 | 16.2765
370007 | 15.2905 | 15.8312 | 14.4961 | 15.2449
370008 | 16.6566 | 17.5553 | 18.5253 | 17.5877
370011 | 14.9701 | 15.6178 | 16.1757 | 15.5584
370012 | 11.7265 | 12.4942 | 13.3824 | 12.5268
370013 | 19.3398 | 18.9584 | 19.3237 | 19.2083
370014 | 20.6512 | 20.2858 | 22.7976 | 21.2589
370015 | 17.0319 | 20.8765 | 18.6446 | 18.7763
370016 | 19.1191 | 19.1613 | 19.7706 | 19.3517
370017 | 12.6400 | 13.6531 | * | 13.1855
370018 | 18.5107 | 17.7054 | 18.7928 | 18.3360
370019 | 14.2277 | 14.6216 | 16.1367 | 14.9616
370020 | 14.3798 | 15.1035 | 15.6057 | 15.0288
370021 | 12.0474 | 12.9030 | * | 12.4760
370022 | 17.2344 | 17.3724 | 18.2109 | 17.5986
370023 | 17.7630 | 17.5148 | 18.1255 | 17.8019
370025 | 17.4988 | 18.4815 | 19.1013 | 18.3736
370026 | 18.3371 | 18.0412 | 18.6982 | 18.3516
370028 | 18.4445 | 21.1292 | 22.1765 | 20.5544
370029 | 16.4924 | 18.2580 | 19.3285 | 17.9453
370030 | 16.3269 | 16.5803 | 18.1779 | 17.0344
370032 | 18.2821 | 18.1538 | 18.9050 | 18.4517
370033 | 13.5216 | 11.3210 | 15.3857 | 13.3051
370034 | 15.6386 | 15.6288 | 16.2204 | 15.8253
370035 | 25.5764 | * | * | 25.5764
370036 | 12.4026 | 12.4070 | 11.7667 | 12.1865
370037 | 16.7012 | 18.9556 | 20.6493 | 18.6793
370038 | 13.3084 | 13.0210 | 15.4551 | 13.8393
370039 | 15.5206 | 19.4498 | 22.3915 | 18.9462
370040 | 14.4672 | 15.5109 | 16.8127 | 15.5746
370041 | 16.7356 | 16.2316 | 14.7346 | 15.7346
370042 | 14.9175 | 15.2764 | 15.9005 | 15.3820
370043 | 15.9534 | 17.0892 | 19.8318 | 17.5204
370045 | 10.1994 | 11.3560 | 11.6163 | 10.9883
370046 | 18.8334 | * | * | 18.8334
370047 | 16.7554 | 17.8769 | 18.4743 | 17.6862
370048 | 18.2150 | 15.6803 | 17.0785 | 16.9957
370049 | 20.7176 | 19.4868 | 20.3405 | 20.1537
370051 | 11.6736 | 12.5171 | 11.4943 | 11.8576
370054 | 16.9049 | 18.0787 | 19.2294 | 17.9957
370056 | 18.4558 | 18.1432 | 18.9395 | 18.5020
370057 | 16.7261 | 15.1228 | 16.0301 | 15.9579
370059 | 18.1386 | 18.3314 | 20.1182 | 18.8407
370060 | 16.5403 | 19.3051 | 17.5989 | 17.7984
370063 | 14.4132 | 16.7342 | * | 15.4260
370064 | 10.9676 | 11.9954 | 11.6347 | 11.5257
370065 | 16.6898 | 18.1349 | 18.2406 | 17.6615
370071 | 16.1439 | 16.4567 | * | 16.2906
370072 | 14.4742 | 13.6519 | 12.5765 | 13.5464
370076 | 13.5694 | 14.3555 | 15.4067 | 14.4469
370078 | 18.4086 | 19.2412 | 15.2513 | 17.4148
370079 | 16.6861 | 16.9201 | 17.5915 | 17.0209
370080 | 13.9239 | 14.7323 | 14.3546 | 14.3090
370082 | 13.9634 | 15.0669 | 16.9715 | 15.2230
370083 | 13.1519 | 13.1810 | 15.6824 | 14.0210
370084 | 22.0545 | 13.1197 | 15.6184 | 16.0638
370085 | 11.2842 | 48.1271 | * | 16.2341
370086 | 15.4404 | 11.1900 | * | 13.0199
370089 | 16.0966 | 17.2638 | 17.9243 | 17.0970
370091 | 19.1698 | 20.1822 | 20.8553 | 20.0806
370092 | 14.9802 | 15.7678 | 16.8432 | 15.8798
370093 | 18.4600 | 19.7008 | 22.1966 | 20.1375
370094 | 18.0002 | 19.5462 | 19.5565 | 19.0506
370095 | 12.6383 | 13.4202 | 14.5909 | 13.5521
370097 | 22.9714 | 23.2056 | 19.0437 | 21.4568
370099 | 15.4549 | 19.4646 | 18.1467 | 17.5179
370100 | 14.0168 | 18.8274 | 12.9784 | 15.1185
370103 | 19.2353 | 18.2685 | 23.1347 | 19.9596
370105 | 21.3352 | 20.7890 | 25.1252 | 22.1529
370106 | 18.5485 | 20.3651 | 21.5826 | 20.1129
370108 | 12.3279 | 12.7470 | 14.0190 | 13.0228
370112 | 14.8539 | 15.3039 | 14.3384 | 14.8216
370113 | 16.1046 | 17.6107 | 19.9767 | 17.8205
370114 | 16.5268 | 17.8941 | 17.9757 | 17.4836
370121 | 22.5611 | 21.3099 | 19.3414 | 20.9750
370122 | 15.0645 | 15.4375 | * | 15.2280
370123 | 18.9159 | 19.0313 | 19.7958 | 19.2564
370125 | 15.6284 | 13.9436 | 14.4664 | 14.6695
370126 | 23.9654 | 15.8020 | * | 19.5933
370131 | 17.5689 | 15.7261 | * | 16.5772
370133 | 10.9575 | 12.9545 | 16.1855 | 13.3276
370138 | 16.4005 | 17.5551 | 17.4574 | 17.1263
370139 | 14.8612 | 14.9964 | 16.0898 | 15.3115
370140 | 16.0721 | 17.1393 | 17.4950 | 16.9403
370141 | 18.4101 | 20.7798 | 19.8606 | 19.6250
370146 | 12.6402 | 13.0399 | 13.9900 | 13.2166
370148 | 20.6458 | 20.6612 | 26.6722 | 22.4333
370149 | 16.1850 | 17.0929 | 18.0699 | 17.1239
370153 | 17.8352 | 16.4669 | 16.5267 | 16.9839
370154 | 15.5127 | 15.6093 | 16.6687 | 15.9283
370156 | 13.9255 | 14.5696 | 15.4303 | 14.6173
370158 | 15.6917 | 15.6994 | 16.3637 | 15.9128
370159 | 28.0536 | 21.1267 | 25.3240 | 24.1146
370163 | 17.6361 | 20.4217 | * | 18.9027
370165 | 13.0910 | 13.0375 | 12.9569 | 13.0294
370166 | 17.2849 | 21.0797 | 19.4219 | 19.1747
370169 | 12.5243 | 12.7138 | 14.8384 | 13.3173
370176 | 15.9476 | 18.9951 | 19.6537 | 18.1230
370177 | 11.2536 | 14.6481 | 14.1304 | 13.3001
370178 | 10.5726 | 11.6200 | 9.8655 | 10.5383
370179 | 17.2829 | 21.3002 | 23.8404 | 20.1287
370183 | 10.2945 | 16.9318 | 16.6061 | 14.0419
370186 | 13.6192 | 15.4533 | 16.3671 | 15.1316
370190 | 14.1397 | 19.3570 | 20.6398 | 17.5727
370192 | 18.4614 | 19.6967 | 21.8343 | 20.0562
370198 | 21.3136 | * | * | 21.3136
370200 | * | 22.5299 | 18.3941 | 20.2627
370201 | * | * | 18.2548 | 18.2548
370202 | * | * | 16.4919 | 16.4919
370203 | * | * | 23.5454 | 23.5454
380001 | 20.3127 | 26.4822 | 25.1542 | 23.6052
380002 | 24.0241 | 21.9185 | 23.2479 | 22.9299
380003 | 21.7826 | 20.9007 | 23.8074 | 22.1844
380004 | 23.1451 | 23.3609 | 24.5418 | 23.6963
380005 | 24.0838 | 25.0750 | 24.7476 | 24.6467
380006 | 21.2731 | 21.3520 | 20.5914 | 21.0574
380007 | 25.2995 | 32.2678 | 25.9239 | 27.5188
380008 | 20.7063 | 22.3004 | 21.6133 | 21.5417
380009 | 23.8104 | 24.3851 | 25.1040 | 24.4366
380010 | 23.7488 | 22.7276 | 24.1931 | 23.5774
380011 | 21.1151 | 20.3357 | 20.6759 | 20.7167
380013 | 18.6818 | 19.8180 | 20.3705 | 19.6316
380014 | 24.6574 | 25.9828 | 26.6038 | 25.7705
380017 | 26.0578 | 25.3954 | 21.9236 | 24.5037
380018 | 22.3525 | 22.9822 | 24.8661 | 23.4431
380019 | 22.1215 | 20.8176 | 21.1743 | 21.3400
380020 | 20.1464 | 22.9568 | 23.9978 | 22.4898
380021 | 21.1590 | 23.8499 | 24.4365 | 23.1615
380022 | 22.6408 | 24.5974 | 25.6255 | 24.2510
380023 | 20.5462 | 21.3831 | 23.4328 | 21.9485
380025 | 26.3652 | 26.9346 | 26.9398 | 26.7561
380026 | 20.4706 | 20.6972 | 22.7561 | 21.3218
380027 | 20.8647 | 21.5490 | 22.2573 | 21.6028
380029 | 19.4246 | 20.1471 | 22.0371 | 20.5671
380031 | 23.3181 | 20.3396 | 23.7634 | 22.5126
380033 | 25.2454 | 27.1343 | 26.6899 | 26.3003
380035 | 22.4099 | 23.9719 | 25.6016 | 23.9444
380036 | 27.1587 | 27.2157 | * | 27.1858
380037 | 21.9158 | 22.1774 | 23.4798 | 22.5697
380038 | 26.0869 | 26.7759 | 28.1436 | 26.9990
380039 | 23.1746 | 22.8048 | 25.7614 | 23.8428
380040 | 26.2717 | 22.5477 | 22.6412 | 23.5906
380042 | 21.1176 | 24.4172 | 21.6793 | 22.3496
380047 | 23.0718 | 24.2524 | 25.2591 | 24.2189
380048 | 17.5885 | 18.3005 | 18.2773 | 18.0623
380050 | 20.3934 | 20.3205 | 22.1089 | 20.9066
380051 | 22.3568 | 22.3207 | 24.4081 | 23.0351
380052 | 19.4570 | 18.6299 | 20.7431 | 19.6320
380056 | 19.5185 | 18.4961 | 20.7895 | 19.6447
380060 | 24.2670 | 24.2059 | 23.0106 | 23.8515
380061 | 22.3736 | 22.8781 | 24.1121 | 23.0785
380062 | 20.7716 | 18.2148 | 25.9782 | 21.7912
380063 | 20.4077 | * | * | 20.4077
380064 | 19.9826 | 22.9160 | 27.0627 | 23.2721
380065 | 26.1404 | 22.9608 | 23.3146 | 24.0398
380066 | 22.0349 | 23.2794 | 23.1175 | 22.8287
380068 | 22.3178 | * | * | 22.3178
380069 | 19.8300 | 20.4882 | 21.2057 | 20.5172
380070 | 27.2541 | 27.7790 | 29.9706 | 28.3711
380071 | 22.6386 | 25.1808 | 25.7299 | 24.5669
380072 | 19.1553 | 19.4346 | 20.6568 | 19.7391
380075 | 22.3625 | 22.4139 | 23.1910 | 22.6625
380078 | 20.2507 | 21.0903 | 22.6996 | 21.3468
380081 | 20.9882 | 20.4082 | 22.9805 | 21.4341
380082 | 22.2275 | 22.9606 | 23.7927 | 23.0290
380083 | 21.3859 | 21.7431 | 22.4058 | 21.8126
380084 | 24.2844 | 27.1689 | 31.0111 | 27.0317
380087 | 16.5309 | 17.0380 | 21.3119 | 18.4448
380088 | 21.5225 | 19.5346 | 24.8158 | 21.8578
380089 | 19.5255 | 25.2908 | 26.1967 | 23.9671
380090 | 29.2702 | 24.9351 | 30.4223 | 28.0439
380091 | 27.5560 | 25.3062 | 28.7846 | 27.2892
390001 | 19.2989 | 19.6732 | 20.3350 | 19.7868
390002 | 21.8353 | 19.7833 | 21.0159 | 20.9278
390003 | 17.1371 | 18.1025 | 18.0436 | 17.7426
390004 | 19.2277 | 20.3204 | 20.0557 | 19.8647
390005 | 17.3506 | 16.9472 | 19.0218 | 17.7359
390006 | 20.2959 | 21.1786 | 21.8940 | 21.0893
390007 | 21.7506 | 21.3839 | * | 21.5715
390008 | 17.8297 | 18.2743 | 19.3496 | 18.4745
390009 | 20.6507 | 20.6241 | 22.5580 | 21.2847
390010 | 17.5127 | 17.3335 | 18.1275 | 17.6598
390011 | 18.1717 | 18.3257 | 18.2751 | 18.2595
390012 | 20.6523 | 21.0610 | 22.1912 | 21.3051
390013 | 19.2698 | 19.6562 | 20.2186 | 19.7244
390015 | 13.1337 | 13.7352 | 14.3138 | 13.7169
390016 | 16.9892 | 17.1133 | 17.3854 | 17.1611
390017 | 16.7493 | 18.6113 | 18.5869 | 17.9293
390018 | 21.3626 | 19.0279 | 20.0672 | 20.1854
390019 | 16.7848 | 17.7258 | 18.7609 | 17.7608
390022 | 21.5064 | 24.8468 | 24.7121 | 23.6803
390023 | 21.8270 | 22.1044 | 23.5236 | 22.6164
390024 | 24.9437 | 25.4606 | 27.7643 | 26.0343
390025 | 15.6155 | 15.5523 | 14.5309 | 15.2361
390026 | 22.3902 | 22.9718 | * | 22.6895
390027 | 26.8878 | 29.5940 | * | 28.2192
390028 | 22.7700 | 23.6571 | 22.7820 | 23.0704
390029 | 21.5729 | 21.2661 | 24.4753 | 22.2475
390030 | 17.9580 | 18.6887 | 18.9093 | 18.5094
390031 | 19.2755 | 18.8162 | 19.1781 | 19.0917
390032 | 17.8041 | 21.5105 | 18.7616 | 19.2843
390035 | 20.2029 | 22.3591 | 21.9021 | 21.4643
390036 | 19.9880 | 19.7671 | 20.1769 | 19.9773
390037 | 21.0616 | 20.4263 | 19.9175 | 20.4619
390039 | 17.1046 | 17.5300 | 17.6176 | 17.4167
390040 | 15.9612 | 16.6876 | 17.4451 | 16.6853
390041 | 19.8080 | 20.4397 | 19.6159 | 19.9368
390042 | 22.7693 | 22.5775 | 21.7857 | 22.3776
390043 | 17.2607 | 17.4764 | 17.9549 | 17.5603
390044 | 20.2813 | 20.9831 | 21.3382 | 20.8726
390045 | 18.5574 | 19.4677 | * | 19.0190
390046 | 20.7303 | 21.7445 | 21.8760 | 21.4470
390047 | 27.6661 | 26.9709 | * | 27.3457
390048 | 19.0920 | 19.7992 | 18.8322 | 19.2254
390049 | 21.1217 | 22.1586 | 22.7306 | 21.9927
390050 | 22.8808 | 22.2639 | 24.7169 | 23.2216
390051 | 25.7910 | 28.1385 | * | 26.8617
390052 | 20.9306 | 20.1195 | 21.2367 | 20.7439
390054 | 17.8852 | 18.4975 | 19.5598 | 18.6230
390055 | 24.2211 | 23.4017 | 25.7327 | 24.4723
390056 | 17.7858 | 19.3901 | 21.4121 | 19.5072
390057 | 20.2059 | 20.2395 | 21.6693 | 20.6975
390058 | 19.7379 | 20.3520 | 20.7930 | 20.2983
390061 | 21.2392 | 23.8722 | 22.8728 | 22.6127
390062 | 16.6721 | 17.3750 | 17.4710 | 17.1692
390063 | 20.0125 | 19.4965 | 20.1696 | 19.9019
390065 | 19.9361 | 20.0473 | 20.2930 | 20.0884
390066 | 19.8539 | 18.9296 | 18.9776 | 19.2407
390067 | 20.9688 | 20.8162 | 21.9905 | 21.2535
390068 | 18.3158 | 19.1109 | 21.6408 | 19.5148
390069 | 19.6466 | * | * | 19.6466
390070 | 16.1988 | 21.8549 | 22.7909 | 20.2250
390071 | 15.7165 | 16.0100 | 18.9416 | 16.7655
390072 | 16.3133 | 16.9232 | 15.1402 | 16.1159
390073 | 20.5581 | 21.2623 | 22.2009 | 21.3579
390074 | 18.4806 | 18.3093 | 19.5799 | 18.7617
390075 | 17.9840 | 18.7695 | 19.5744 | 18.6643
390076 | 20.2475 | 21.3290 | 19.7719 | 20.4342
390078 | 19.2089 | 19.0156 | 20.5750 | 19.5586
390079 | 18.3312 | 18.9269 | 19.2984 | 18.8525
390080 | 18.8028 | 21.4707 | 22.2449 | 20.7685
390081 | 24.8351 | 24.7461 | 25.6575 | 25.0775
390083 | * | * | 26.1660 | 26.1660
390084 | 16.4026 | 20.2529 | 17.0197 | 17.7133
390086 | 18.5265 | 18.3563 | * | 18.4381
390088 | 23.6173 | 23.9506 | * | 23.7777
390090 | 21.6437 | 21.3759 | 20.5444 | 21.2031
390091 | 18.1569 | 18.3770 | 18.8545 | 18.4554
390093 | 17.7171 | 18.4442 | 20.0135 | 18.7217
390095 | 16.3357 | 16.6930 | 17.9697 | 16.9815
390096 | 19.1171 | 22.4382 | 21.5922 | 20.9351
390097 | 23.5963 | 25.2845 | 24.8005 | 24.5139
390100 | 20.7859 | 20.9263 | 21.1186 | 20.9469
390101 | 17.9499 | 18.5039 | 17.0447 | 17.8109
390102 | 19.0461 | 21.5496 | 18.0199 | 19.5593
390103 | 18.4312 | 18.8667 | 20.4422 | 19.2092
390104 | 15.9008 | 16.3255 | 16.2440 | 16.1553
390106 | 16.6666 | 16.8439 | * | 16.7557
390107 | 19.5178 | 20.9841 | 20.6024 | 20.3811
390108 | 21.0899 | 21.3142 | 21.2602 | 21.2184
390109 | 16.4597 | 16.5299 | 17.4540 | 16.8127
390110 | 21.5282 | 21.6464 | 21.6005 | 21.5915
390111 | 27.5193 | 33.3971 | 27.0087 | 29.3495
390112 | 14.9427 | 15.0065 | 14.8634 | 14.9388
390113 | 19.1945 | 19.3634 | 19.9496 | 19.4908
390114 | 19.6295 | 20.9533 | 19.8004 | 20.1209
390115 | 23.3461 | 21.4287 | 21.9789 | 22.1926
390116 | 21.4877 | 21.3671 | 22.6783 | 21.8481
390117 | 17.9393 | 18.0769 | 18.2543 | 18.0888
390118 | 18.3440 | 18.9507 | 16.9990 | 18.1121
390119 | 18.2951 | 18.8815 | 19.3946 | 18.8604
390121 | 20.8780 | 19.1315 | 20.6253 | 20.2089
390122 | 17.1902 | 17.7734 | 15.5438 | 16.7430
390123 | 20.8344 | 21.3974 | 21.8434 | 21.3548
390125 | 16.7983 | 17.5446 | 17.0975 | 17.1374
390126 | 20.6498 | * | * | 20.6498
390127 | 21.7724 | 22.4555 | 22.8787 | 22.3758
390128 | 19.6792 | 19.3165 | 19.9764 | 19.6532
390130 | 17.7049 | 18.3695 | 18.5519 | 18.2059
390131 | 16.0986 | 19.2096 | 18.7142 | 17.9603
390132 | 21.1931 | 22.8414 | 24.1878 | 22.7048
390133 | 23.3489 | 24.7561 | 24.1814 | 24.0439
390135 | 21.5782 | 22.1905 | 21.8152 | 21.8560
390136 | 16.9737 | 20.6286 | 16.8505 | 18.1580
390137 | 17.5687 | 18.5397 | 19.1432 | 18.3744
390138 | 19.6212 | 20.6936 | 20.7726 | 20.3703
390139 | 24.4515 | 23.9757 | 23.8019 | 24.0822
390142 | 26.8086 | 28.8877 | 28.3448 | 28.0760
390145 | 20.3731 | 20.4228 | 20.4964 | 20.4300
390146 | 18.7922 | 18.6505 | 20.1788 | 19.1967
390147 | 20.9651 | 21.2492 | 21.7600 | 21.3199
390150 | 20.7294 | 20.3155 | 20.8970 | 20.6500
390151 | 21.6000 | 22.5206 | 23.6072 | 22.6096
390152 | 20.3353 | 19.4017 | 20.2581 | 19.9941
390153 | 23.7013 | 22.9707 | 23.3587 | 23.3403
390154 | 17.4036 | 16.7052 | 17.8774 | 17.3537
390156 | 21.8498 | 22.6398 | * | 22.2353
390157 | 19.6578 | 19.1783 | 20.2647 | 19.6975
390160 | 21.4810 | 19.4463 | 18.8676 | 19.8186
390161 | 16.4799 | * | * | 16.4799
390162 | 21.4095 | 21.9188 | 21.4600 | 21.5967
390163 | 16.8013 | 17.7564 | 18.1415 | 17.5746
390164 | 24.6765 | 24.9750 | 25.0347 | 24.8814
390166 | 19.0405 | 19.7978 | 19.8899 | 19.5577
390167 | 19.8973 | * | * | 19.8973
390168 | 18.7400 | 18.8863 | 19.6875 | 19.1127
390169 | 20.2382 | 22.0547 | 22.7920 | 21.7176
390170 | 26.5891 | 24.7973 | * | 25.6898
390173 | 18.5370 | 18.6613 | 18.7403 | 18.6472
390174 | 25.4189 | 25.3307 | 25.7174 | 25.4826
390176 | 17.8740 | 20.8368 | 21.7650 | 20.0495
390178 | 16.6993 | 17.0534 | 17.1142 | 16.9526
390179 | 21.6901 | 21.8593 | 21.6191 | 21.7220
390180 | 25.7074 | 26.5541 | 26.7743 | 26.3551
390181 | 19.4654 | 19.3832 | 18.8681 | 19.2465
390183 | 17.8306 | 17.9848 | 17.4535 | 17.7535
390184 | 20.8060 | 20.9349 | 21.1941 | 20.9693
390185 | 18.8798 | 20.3877 | 20.3301 | 19.8556
390189 | 20.0889 | 20.3338 | 19.0797 | 19.7997
390191 | 16.3240 | 17.2270 | 17.1919 | 16.8998
390192 | 17.4537 | 17.6597 | 17.1875 | 17.4275
390193 | 16.7874 | 18.1209 | 17.3804 | 17.3866
390194 | 20.7953 | 21.2689 | 21.0549 | 21.0283
390195 | 24.6855 | 24.1793 | 23.4250 | 24.1067
390197 | 19.2690 | 20.7998 | 22.1769 | 20.7816
390198 | 15.9721 | 15.8833 | 16.6803 | 16.1535
390199 | 17.0515 | 17.3865 | 17.7763 | 17.3987
390200 | 15.1399 | 15.4012 | 18.2456 | 16.2785
390201 | 20.6296 | 20.3533 | 21.3291 | 20.7767
390203 | 20.9432 | 21.4989 | 22.4685 | 21.6448
390204 | 20.1779 | 22.9616 | 22.1541 | 21.7608
390206 | 18.4027 | * | * | 18.4027
390209 | 17.4792 | 18.7059 | 16.8200 | 17.6370
390211 | 17.8638 | 18.4213 | 19.4552 | 18.6187
390213 | 18.8555 | 19.1553 | 19.3776 | 19.1155
390215 | 20.7084 | 21.2032 | 23.5953 | 21.7981
390217 | 19.1406 | 19.9837 | 19.9665 | 19.6808
390219 | 18.8292 | 19.6226 | 20.1311 | 19.5227
390220 | 18.7178 | 17.7916 | * | 18.2413
390222 | 21.5739 | 22.1548 | 22.7491 | 22.1668
390223 | 23.6482 | 22.1775 | 18.9493 | 21.4503
390224 | 15.3015 | 13.7518 | 17.2173 | 15.1752
390225 | 18.6125 | 18.7290 | 19.0364 | 18.7963
390226 | 21.8268 | 21.8481 | 22.7772 | 22.1197
390228 | 19.4083 | 19.8180 | 20.2703 | 19.8379
390231 | 22.7544 | 19.4798 | 21.3811 | 21.0947
390233 | 19.4887 | 20.2309 | 20.6673 | 20.1413
390235 | 25.0857 | 21.4200 | 19.9925 | 22.7713
390236 | 16.2397 | 17.8735 | 19.1427 | 17.7118
390237 | 19.5230 | 22.3011 | * | 20.8354
390238 | 17.8211 | 17.1055 | 18.1956 | 17.6820
390244 | 15.4611 | 15.6402 | 13.8845 | 14.9996
390245 | 26.0194 | 24.5076 | * | 25.2650
390246 | 18.9733 | 25.0556 | 22.3892 | 21.9107
390247 | 20.9526 | 21.2151 | * | 21.0479
390249 | 12.7920 | 13.1657 | 14.1062 | 13.3677
390256 | 23.2734 | 22.2773 | 22.3540 | 22.6670
390258 | 21.9207 | 22.6852 | 23.8318 | 22.8365
390260 | 21.9509 | 21.5982 | * | 21.7740
390262 | 18.2379 | * | 18.8942 | 18.5346
390263 | 20.6855 | 20.3796 | 20.6348 | 20.5647
390265 | 20.3580 | 20.4950 | 20.4760 | 20.4411
390266 | 17.1666 | 17.1966 | 17.5653 | 17.3117
390267 | 21.2974 | 19.2665 | 19.9578 | 20.2867
390268 | 21.3486 | 22.0909 | 22.2046 | 21.8827
390270 | 19.0925 | 19.2074 | 20.6793 | 19.6201
390278 | 18.2865 | 17.7176 | 18.5776 | 18.2038
390279 | 14.3241 | 14.8655 | 15.8080 | 14.9814
390283 | * | 22.5490 | * | 22.5490
390284 | * | 34.3904 | * | 34.3904
390285 | * | * | 29.1270 | 29.1270
390286 | * | * | 22.9746 | 22.9746
390287 | * | * | 30.3252 | 30.3252
390288 | * | * | 26.9662 | 26.9662
390289 | * | * | 22.8963 | 22.8963
390290 | * | * | 30.5037 | 30.5037
390291 | * | * | 20.0272 | 20.0272
390293 | * | * | 23.5285 | 23.5285
400001 | 9.9463 | 10.5757 | 10.7531 | 10.4326
400002 | 10.1417 | 13.0494 | 13.3684 | 12.2030
400003 | 10.8821 | 12.4078 | 11.2726 | 11.5031
400004 | 8.9864 | 8.5648 | 9.0781 | 8.8776
400005 | 9.5632 | 7.7432 | 9.7802 | 8.9053
400006 | 10.3444 | 10.1048 | 10.4988 | 10.3215
400007 | 6.4490 | 8.0174 | 8.1974 | 7.5138
400009 | 8.4207 | 8.8650 | 8.7341 | 8.6758
400010 | 10.6518 | 10.8011 | 9.1359 | 10.1542
400011 | 7.4979 | 8.5426 | 8.6252 | 8.2277
400012 | 8.2412 | 8.4728 | 8.6538 | 8.4546
400013 | 8.4579 | 9.2624 | 9.8197 | 9.2598
400014 | 9.5235 | 9.4798 | 10.2712 | 9.7458
400015 | 10.9505 | 14.4076 | 15.5827 | 13.3370
400016 | 13.2756 | 13.3922 | 13.7001 | 13.4570
400017 | 8.6421 | 9.2577 | 9.9167 | 9.2527
400018 | 10.4557 | 10.6208 | 10.5583 | 10.5484
400019 | 10.4332 | 10.8940 | 11.5139 | 11.0095
400021 | 10.6988 | 12.1434 | 12.7462 | 11.9145
400022 | 11.5861 | 12.2199 | 13.0411 | 12.2767
400024 | 7.8984 | 9.2409 | 9.0826 | 8.6750
400026 | 5.6454 | 5.8335 | 7.4280 | 6.2931
400027 | 9.5899 | * | * | 9.5899
400028 | 8.8597 | 19.1794 | 8.9567 | 8.9909
400031 | 8.2660 | * | * | 8.2660
400032 | 10.5498 | 10.0448 | 10.1898 | 10.2599
400044 | 11.9704 | 11.9486 | 12.8671 | 12.2011
400048 | 9.1701 | 15.1405 | 11.5104 | 11.4186
400061 | 12.4493 | 13.0988 | 10.3664 | 11.9076
400079 | * | 9.7203 | 8.7218 | 9.1657
400087 | 9.5097 | 9.8534 | 8.6480 | 9.3956
400094 | 8.9116 | 7.9187 | 8.8387 | 8.5180
400098 | 9.3308 | 9.7791 | 10.4312 | 9.8607
400102 | 9.8536 | 9.9903 | 8.5290 | 9.4812
400103 | 11.2069 | 11.5359 | 11.8454 | 11.4791
400104 | 11.0672 | 10.7292 | 7.9552 | 10.3151
400105 | 9.3049 | 9.0556 | 10.6028 | 9.5117
400106 | 9.3123 | 9.2187 | 9.8694 | 9.4766
400109 | 10.9826 | 11.8760 | * | 11.4480
400110 | 10.3326 | 10.5277 | 10.7228 | 10.5456
400111 | 9.5583 | 10.9665 | 12.3311 | 11.0412
400112 | 10.1755 | 10.8694 | 11.0634 | 10.7058
400113 | 9.2238 | 8.3168 | 9.3955 | 8.9859
400114 | 9.0496 | 7.0510 | 9.9477 | 8.5888
400115 | 9.8244 | 8.5487 | 7.2203 | 8.5322
400117 | 10.2295 | 10.8756 | 11.3351 | 10.8116
400118 | 9.4398 | 11.4051 | 11.4317 | 10.7997
400120 | 9.5274 | 10.6584 | 10.9315 | 10.3832
400121 | 7.8052 | 9.8322 | 8.7584 | 8.8340
400122 | 8.1911 | 7.6413 | 9.1638 | 8.3405
400123 | 7.8099 | 10.2367 | 10.3955 | 9.4702
400124 | 12.0999 | 12.2452 | 12.7323 | 12.3713
400125 | * | 10.2056 | 10.5997 | 10.3924
410001 | 23.2808 | 23.1738 | 22.4972 | 22.9875
410004 | 22.4801 | 21.0638 | 22.8898 | 22.1691
410005 | 23.1444 | 22.7170 | 23.8848 | 23.2434
410006 | 23.3968 | 23.8700 | 22.7636 | 23.3233
410007 | 22.1452 | 23.1325 | 22.4988 | 22.5921
410008 | 23.0662 | 24.9726 | 24.4170 | 24.1518
410009 | 24.4899 | 24.3895 | 24.3760 | 24.4190
410010 | 26.9813 | 28.4589 | 29.0876 | 28.1660
410011 | 25.2926 | 26.1183 | 27.1700 | 26.1594
410012 | 24.5811 | 24.1695 | 26.4570 | 25.0414
410013 | 24.5122 | 24.8800 | 24.8429 | 24.7494
420002 | 19.4845 | 20.7804 | 22.6182 | 20.9552
420004 | 19.7968 | 20.9588 | 16.3147 | 18.8438
420005 | 17.3510 | 17.9694 | 17.8103 | 17.7120
420006 | 18.3439 | 19.1760 | 18.7168 | 18.7347
420007 | 18.2096 | 18.6456 | 18.9047 | 18.5717
420009 | 18.5456 | 19.9586 | 21.2566 | 19.9500
420010 | 17.1184 | 18.0252 | 19.3267 | 18.2127
420011 | 16.5664 | 18.0970 | 16.7523 | 17.1112
420014 | 16.6065 | 18.0519 | 19.0455 | 17.8775
420015 | 18.8411 | 20.1164 | 20.8736 | 19.8858
420016 | 15.6241 | 15.5485 | 15.4358 | 15.5337
420018 | 19.7367 | 21.8775 | 18.7117 | 19.9976
420019 | 16.9990 | 17.1726 | 19.0199 | 17.6834
420020 | 20.9449 | 20.3193 | 20.5801 | 20.5993
420023 | 19.4855 | 20.4053 | 20.4978 | 20.1490
420026 | 20.3476 | 21.8749 | 23.3274 | 21.9111
420027 | 18.8457 | 19.2594 | 19.6743 | 19.2679
420030 | 19.1453 | 20.6448 | 22.5159 | 20.8443
420031 | 14.1855 | 8.2516 | 15.2208 | 11.5692
420033 | 21.7279 | 23.1303 | 23.7974 | 22.8884
420036 | 17.6136 | 21.3222 | 19.8080 | 19.4992
420037 | 21.7908 | 22.7099 | 23.5244 | 22.7289
420038 | 17.6726 | 18.6568 | 20.0181 | 18.7610
420039 | 15.8385 | 18.3017 | 17.7880 | 17.2992
420043 | 19.4521 | 19.7570 | 19.6834 | 19.6347
420048 | 18.4367 | 18.8070 | 20.4905 | 19.2520
420049 | 17.5854 | 19.4049 | 20.6238 | 19.1796
420051 | 19.5001 | 19.1555 | 19.8549 | 19.5061
420053 | 16.9599 | 18.1657 | 19.0780 | 18.0364
420054 | 18.2702 | 20.2574 | 20.2275 | 19.5600
420055 | 19.2048 | 16.8717 | 18.6782 | 18.0932
420056 | 14.8695 | 15.1835 | 16.5491 | 15.4839
420057 | 15.9849 | 20.5266 | 22.1312 | 19.6895
420059 | 15.8160 | 17.1483 | 18.2093 | 17.0936
420061 | 16.5555 | 17.3543 | 17.7047 | 17.2228
420062 | 17.8205 | 21.7469 | 20.9032 | 20.1974
420064 | 16.7227 | 16.0794 | 19.7067 | 17.5583
420065 | 19.6902 | 19.9435 | 19.2150 | 19.5969
420066 | 15.1804 | 18.0042 | 19.5366 | 17.5193
420067 | 18.8610 | 19.7824 | 20.7769 | 19.8307
420068 | 18.5030 | 18.5481 | 20.2580 | 19.1326
420069 | 17.0788 | 18.1298 | 18.9003 | 18.0124
420070 | 18.0057 | 17.3876 | 18.8535 | 18.0764
420071 | 19.4482 | 20.3902 | 20.1145 | 19.9887
420072 | 13.8550 | 15.0158 | 18.2531 | 15.7212
420073 | 19.1604 | 19.9986 | 20.2697 | 19.8499
420074 | 16.9292 | 18.0967 | 18.1839 | 17.6249
420075 | 14.2931 | 12.8158 | 15.0132 | 14.0442
420078 | 20.7317 | 21.9082 | 22.7156 | 21.7962
420079 | 20.8639 | 21.0874 | 21.3177 | 21.0994
420080 | 22.3443 | 21.9968 | * | 22.1649
420082 | 20.4653 | 21.7210 | 22.7391 | 21.6447
420083 | 20.1472 | 22.6376 | 24.0994 | 22.2410
420085 | 19.9603 | 21.6791 | 22.0071 | 21.2571
420086 | 25.7179 | 20.2878 | 23.7341 | 23.0645
420087 | 19.1403 | 19.8388 | 20.8217 | 19.9506
420088 | 17.1938 | 19.9919 | 21.8979 | 19.5872
420089 | 20.2537 | 20.5360 | 21.3954 | 20.7386
420091 | 18.8687 | 20.3092 | 21.8367 | 20.2654
420093 | 17.4689 | 18.3902 | 19.1299 | 18.3060
420095 | * | * | 33.4632 | 33.4632
420096 | * | * | 26.4863 | 26.4863
430004 | 18.5438 | 19.6344 | 19.2737 | 19.1454
430005 | 16.3059 | 16.4560 | 17.3400 | 16.6979
430007 | 14.1078 | 14.6331 | 15.1494 | 14.6319
430008 | 17.6640 | 18.1323 | 18.5234 | 18.0977
430010 | 17.1766 | 19.8191 | 16.5750 | 17.7180
430011 | 16.9848 | 17.4750 | 18.3648 | 17.6074
430012 | 17.2775 | 17.6997 | 19.2921 | 18.0907
430013 | 18.1338 | 18.4817 | 18.8978 | 18.5085
430014 | 16.8925 | 20.2387 | 20.9118 | 19.1361
430015 | 18.0019 | 18.2875 | 18.8998 | 18.3871
430016 | 19.4759 | 20.8850 | 21.2191 | 20.5077
430018 | 14.8854 | 16.2244 | 15.9424 | 15.6759
430022 | 13.4905 | 14.5118 | 14.0661 | 13.9980
430023 | 12.2331 | 16.2164 | 16.7850 | 14.8010
430024 | 15.4709 | 16.1801 | 17.4816 | 16.3448
430027 | 19.1461 | 20.2591 | 20.8666 | 20.0818
430028 | 18.2312 | 17.1577 | 18.2829 | 17.8947
430029 | 16.6500 | 17.6986 | 17.4932 | 17.2971
430031 | 13.1258 | 12.4660 | 13.2105 | 12.9278
430033 | 15.3003 | 17.3652 | 18.3978 | 16.9036
430034 | 15.4064 | 14.2491 | 13.8535 | 14.4964
430036 | 13.6967 | 15.6258 | 16.7827 | 15.2466
430037 | 16.5368 | 18.1293 | 18.7009 | 17.7855
430038 | 13.7167 | 18.4078 | * | 15.7522
430040 | 13.6745 | 14.4509 | 14.7860 | 14.2554
430041 | 13.1936 | 14.8816 | * | 14.0079
430043 | 13.6908 | 14.9949 | 17.0193 | 15.1103
430044 | 18.4970 | 21.0823 | * | 19.6187
430047 | 17.4956 | 17.9823 | 17.5377 | 17.6691
430048 | 18.3524 | 18.7602 | 19.0261 | 18.7260
430049 | 15.5381 | 15.2237 | 14.9025 | 15.2275
430051 | 17.0574 | 18.8070 | 18.8697 | 18.2650
430054 | 14.7251 | 14.8003 | 15.0101 | 14.8472
430056 | 11.7627 | 10.3697 | 14.1914 | 11.9246
430057 | 15.4390 | 17.2805 | 18.8777 | 17.1911
430060 | 9.0358 | 10.0176 | 9.7678 | 9.6151
430064 | 14.4367 | 14.2184 | 13.8666 | 14.1634
430066 | 14.3557 | 15.6660 | 14.5957 | 14.8566
430073 | 16.1133 | 15.3776 | 16.5112 | 15.9989
430076 | 12.7608 | 13.9883 | 15.2453 | 13.9494
430077 | 19.3012 | 19.8558 | 20.4361 | 19.8699
430079 | 13.6836 | 14.1815 | 14.4154 | 14.0719
430089 | 17.8908 | 17.9790 | 17.5100 | 17.7870
430090 | 21.5239 | 21.5974 | 23.5180 | 22.2918
430091 | 19.2146 | 18.1567 | 21.6239 | 20.0217
430092 | * | 21.3807 | 19.7644 | 20.5428
430093 | * | 19.5013 | 23.3009 | 21.3125
440001 | 14.8713 | 15.5897 | 17.2282 | 15.8569
440002 | 19.1498 | 20.3740 | 21.4299 | 20.3167
440003 | 18.3658 | 19.3042 | 20.3756 | 19.3464
440006 | 19.6021 | 21.4055 | 23.1483 | 21.3134
440007 | 12.1230 | 14.8959 | 14.0612 | 13.6386
440008 | 17.2848 | 18.8994 | 20.3303 | 18.7894
440009 | 17.8424 | 17.4831 | 18.4068 | 17.9080
440010 | 19.9829 | 16.3283 | 13.3692 | 16.2699
440011 | 17.6948 | 18.3375 | 19.3165 | 18.4706
440012 | 15.9837 | 19.5739 | 19.6437 | 18.4174
440014 | 15.9195 | 16.1143 | 15.0656 | 15.7064
440015 | 18.2632 | 22.0659 | 21.6106 | 20.5435
440016 | 15.4097 | 16.2964 | 14.6142 | 15.3378
440017 | 19.6215 | 20.4563 | 20.2241 | 20.0945
440018 | 16.4115 | 17.4995 | 18.1059 | 17.3355
440019 | 20.0416 | 21.5402 | 23.2963 | 21.6131
440020 | 18.1154 | 17.8879 | 19.0396 | 18.3371
440022 | 15.8459 | * | * | 15.8459
440023 | 15.4721 | 16.7837 | 15.6603 | 15.9134
440024 | 18.4432 | 18.4046 | 18.4276 | 18.4251
440025 | 15.8784 | 16.3140 | 17.0997 | 16.4428
440026 | 23.0550 | 23.2566 | 25.6490 | 23.8993
440029 | 19.4326 | 20.7050 | 22.2889 | 20.8403
440030 | 16.2941 | 16.9925 | 17.6297 | 17.0242
440031 | 15.5432 | 17.0211 | 17.2555 | 16.5726
440032 | 13.9775 | 13.8140 | 13.9784 | 13.9249
440033 | 14.5304 | 13.7328 | 16.4679 | 14.8744
440034 | 19.5470 | 20.0309 | 20.9470 | 20.1907
440035 | 18.9026 | 19.3034 | 20.4168 | 19.5344
440039 | 19.9439 | 21.6536 | 22.4158 | 21.3378
440040 | 16.3740 | 16.9275 | 17.6781 | 16.9632
440041 | 14.6621 | 14.9545 | 14.6684 | 14.7645
440046 | 18.1654 | 19.3229 | 20.5562 | 19.3415
440047 | 16.6646 | 17.8092 | 18.7469 | 17.7021
440048 | 19.4498 | 21.4993 | 19.6052 | 20.1565
440049 | 17.9292 | 18.7967 | 19.3000 | 18.6741
440050 | 19.1328 | 18.2511 | 19.7915 | 19.0510
440051 | 13.1901 | 16.0421 | 17.7067 | 15.5027
440052 | 16.6541 | 19.8075 | 18.1377 | 18.1083
440053 | 18.5515 | 19.6494 | 21.5253 | 19.8982
440054 | 13.8716 | 13.3967 | 15.2154 | 14.1791
440056 | 15.9821 | 16.2742 | 20.4903 | 17.3863
440057 | 12.7925 | 13.7257 | 14.4363 | 13.6135
440058 | 18.8118 | 19.1878 | 17.1548 | 18.4084
440059 | 18.5418 | 19.6018 | 20.8882 | 19.6895
440060 | 18.0586 | 19.7916 | 20.7628 | 19.4260
440061 | 14.9708 | 22.5525 | 16.9234 | 17.8112
440063 | 19.3222 | 19.8371 | 18.8061 | 19.2994
440064 | 17.7652 | 18.9809 | 18.2678 | 18.2991
440065 | 18.5825 | 18.8296 | 19.2282 | 18.8924
440067 | 16.2811 | 17.2397 | 18.2973 | 17.2997
440068 | 19.4695 | 19.3668 | 19.4392 | 19.4232
440070 | 13.7035 | 14.0437 | 18.0064 | 15.1918
440071 | 17.0186 | 19.7836 | * | 18.2110
440072 | 17.5995 | 19.1522 | 20.0691 | 18.8963
440073 | 19.1714 | 19.5554 | 19.6290 | 19.4550
440078 | 15.0849 | 16.0188 | 17.1645 | 15.9789
440081 | 18.3587 | 19.3454 | 20.7215 | 19.5016
440082 | 22.2857 | 22.6855 | 22.5590 | 22.5073
440083 | 14.8525 | 13.7423 | 13.7630 | 14.1806
440084 | 13.4378 | 13.7731 | 13.8085 | 13.6799
440091 | 19.6114 | 20.1065 | 20.1359 | 19.9669
440100 | 13.8437 | 14.7113 | 15.9969 | 14.8524
440102 | 14.3510 | 14.5500 | 16.0783 | 14.9840
440103 | 20.3052 | 18.6990 | * | 19.4877
440104 | 22.4403 | 22.6754 | 21.7135 | 22.2610
440105 | 16.7131 | 17.1172 | 18.1375 | 17.2950
440109 | 16.0446 | 17.7443 | 17.6399 | 17.0830
440110 | 21.1716 | 17.4816 | 18.4998 | 18.8996
440111 | 23.2425 | 23.2254 | 23.2111 | 23.2266
440114 | 14.4997 | 15.0036 | 18.5327 | 16.0830
440115 | 17.4514 | 18.5457 | 18.7054 | 18.2287
440120 | 17.2384 | 16.3115 | 19.8997 | 17.7817
440125 | 15.6588 | 19.4115 | 19.6848 | 18.2807
440130 | 17.8223 | 17.4857 | 19.0905 | 18.1589
440131 | 15.5048 | 16.1214 | 19.9883 | 17.1760
440132 | 16.6553 | 16.8871 | 17.9186 | 17.1418
440133 | 21.5313 | 23.0891 | 18.7556 | 21.1283
440135 | 19.2010 | 22.2005 | 22.5452 | 21.4251
440137 | 14.5632 | 15.0070 | 15.3530 | 14.9670
440141 | 13.5308 | 15.9429 | 17.6819 | 15.3875
440142 | 15.7287 | 16.8855 | 17.1483 | 16.5303
440143 | 17.7821 | 18.2061 | 18.6844 | 18.2206
440144 | 17.6415 | 18.3859 | 18.8127 | 18.2853
440145 | 17.0608 | 18.3948 | 18.3832 | 17.9140
440147 | 21.4304 | 26.1464 | 25.3766 | 24.0818
440148 | 19.2435 | 19.4598 | 19.3769 | 19.3574
440149 | 16.6923 | 18.4281 | 18.4869 | 17.8895
440150 | 20.1411 | 20.3006 | 21.2942 | 20.5974
440151 | 17.4248 | 18.3928 | 19.8977 | 18.5439
440152 | 21.0287 | 22.7664 | 26.2972 | 22.9356
440153 | 16.7769 | 16.5716 | 18.1975 | 17.1720
440156 | 29.5557 | 21.7577 | 21.9374 | 23.7510
440157 | 16.9265 | 18.4249 | 15.5316 | 17.0209
440159 | 17.7158 | 20.9371 | 21.4914 | 19.6375
440161 | 21.8013 | 22.8816 | 23.3891 | 22.6977
440162 | 14.7637 | 15.5534 | 19.8075 | 16.5656
440166 | 19.6684 | 19.2159 | 19.6632 | 19.5183
440168 | 18.6535 | 19.1509 | 21.1947 | 19.6498
440173 | 18.6402 | 19.1812 | 21.0284 | 19.6315
440174 | 17.3294 | 18.0865 | 19.3966 | 18.2367
440175 | 20.0802 | 18.5186 | 19.9065 | 19.4762
440176 | 18.0294 | 19.2208 | 19.8448 | 19.0126
440180 | 19.7773 | 20.2184 | 17.8427 | 19.2624
440181 | 16.4878 | 17.7709 | 19.0915 | 17.6551
440182 | 17.7487 | 19.7094 | 18.1953 | 18.4985
440183 | 22.7067 | 21.3465 | 22.2401 | 22.0840
440184 | 17.2037 | 16.8880 | 18.6890 | 17.3933
440185 | 19.3870 | 21.2188 | 21.1226 | 20.6133
440186 | 19.3948 | 19.7983 | 18.0450 | 19.1060
440187 | 18.9713 | 17.5872 | 16.0274 | 17.5444
440189 | * | 18.5252 | 22.2555 | 20.3772
440192 | 19.0839 | 19.1705 | 19.1976 | 19.1524
440193 | 19.0811 | 18.6999 | 19.9078 | 19.2111
440194 | 19.8682 | 22.4562 | 21.9609 | 21.4700
440197 | 21.9618 | 21.8503 | 22.5282 | 22.1263
440200 | 17.9575 | 19.8078 | 17.8595 | 18.5432
440203 | 18.3400 | 16.2861 | 16.9819 | 17.1896
440206 | 16.4429 | * | * | 16.4429
440210 | 11.0218 | 11.9815 | 12.3270 | 11.8072
440211 | 14.8972 | * | * | 14.8972
440212 | 17.0685 | * | * | 17.0685
440213 | 19.5760 | * | * | 19.5760
440214 | * | 28.0285 | * | 28.0285
440215 | * | 22.2928 | * | 22.2928
440217 | * | * | 19.2834 | 19.2834
450002 | 21.3749 | 21.4836 | 21.5141 | 21.4583
450004 | 16.6723 | 16.7850 | 15.9549 | 16.5100
450005 | 18.3600 | 16.6396 | 16.6354 | 17.2368
450007 | 16.9681 | 19.1910 | 17.7721 | 17.9505
450008 | 17.0832 | 17.6582 | 19.3637 | 18.0034
450010 | 16.5001 | 17.6677 | 18.5058 | 17.7858
450011 | 17.1942 | 20.8102 | 18.9490 | 18.9450
450014 | 17.9495 | 17.5815 | 18.4937 | 17.9967
450015 | 18.9895 | 21.6773 | 23.3972 | 21.2507
450016 | 18.4463 | 18.3456 | 18.9063 | 18.5621
450018 | 21.4788 | 23.2293 | * | 22.2764
450020 | 17.8415 | 19.1153 | 18.4454 | 18.4795
450021 | 23.0843 | 23.3630 | 22.5937 | 23.0174
450023 | 16.0831 | 17.6360 | 19.2810 | 17.6838
450024 | 17.3518 | 18.5985 | 19.5584 | 18.5411
450025 | 17.0004 | * | * | 17.0004
450028 | 18.8764 | 19.1658 | 19.5905 | 19.2141
450029 | 17.4716 | 17.7425 | 19.7835 | 18.3585
450031 | 22.2222 | 29.6945 | 29.6772 | 27.1869
450032 | 17.3317 | 14.6530 | 20.8525 | 17.3455
450033 | 19.7437 | 21.0222 | 21.4646 | 20.7635
450034 | 19.6721 | 18.8823 | 19.4439 | 19.3269
450035 | 20.0951 | 20.3599 | 20.2269 | 20.2257
450037 | 19.5411 | 19.9140 | 19.3682 | 19.6099
450039 | 19.8143 | 19.7176 | 18.4497 | 19.3230
450040 | 16.8534 | 19.6370 | * | 18.3093
450042 | 19.8921 | 18.8357 | 20.2402 | 19.6613
450044 | 24.7961 | 21.0909 | 23.4476 | 22.9976
450046 | 18.6536 | 17.3631 | 18.1393 | 18.0789
450047 | 13.4486 | 16.9028 | 15.9525 | 15.2979
450050 | 14.7669 | 17.7209 | 19.1390 | 17.0907
450051 | 21.0236 | 21.1008 | 22.4159 | 21.4934
450052 | 13.8881 | 15.5890 | 16.3064 | 15.2550
450053 | 17.0467 | 17.2781 | 15.6962 | 16.7365
450054 | 22.8960 | 19.2431 | * | 21.4583
450055 | 15.0433 | 15.8526 | 16.4789 | 15.8195
450056 | 21.8436 | 21.8605 | 21.6890 | 21.7982
450058 | 18.0967 | 18.6172 | 20.0081 | 18.9393
450059 | 15.2168 | 19.8240 | 21.4873 | 18.7159
450063 | 14.3815 | 12.7211 | 15.1779 | 13.9190
450064 | 17.4093 | 19.7682 | 21.3929 | 19.5099
450065 | 21.4934 | 23.3797 | 23.8471 | 22.8509
450068 | 22.8998 | 23.3495 | 22.8227 | 23.0189
450072 | 19.0111 | 18.0307 | 20.0134 | 19.0500
450073 | 17.1002 | 16.5942 | 23.7700 | 19.3382
450078 | 11.7265 | 13.2820 | 13.9324 | 12.9289
450079 | 21.0518 | 20.6483 | 22.0609 | 21.2553
450080 | 17.4553 | 18.6212 | 19.7834 | 18.5898
450081 | 16.3448 | 17.5737 | 19.0276 | 17.6152
450082 | 16.1585 | 16.8677 | * | 16.5390
450083 | 21.5884 | 23.3754 | 20.9315 | 21.9323
450085 | 18.3602 | 20.0085 | 15.7805 | 17.8575
450087 | 22.0273 | 21.9320 | 23.4141 | 22.4951
450090 | 15.0939 | 15.5796 | 19.9180 | 16.7400
450092 | 16.8260 | 17.9520 | 15.7252 | 16.8197
450094 | 21.3158 | 23.2863 | 25.2158 | 23.1854
450096 | 17.8813 | 18.6802 | 19.3681 | 18.6265
450097 | 19.5723 | 19.7187 | 20.4932 | 19.9373
450098 | 20.5754 | 19.0454 | 19.3458 | 19.6276
450099 | 19.2258 | 20.4181 | 19.0079 | 19.5047
450101 | 17.1330 | 17.7928 | * | 17.4479
450102 | 18.6707 | 19.8793 | 21.4361 | 19.9466
450104 | 16.6744 | 17.0821 | 17.6834 | 17.1430
450107 | 25.1986 | 24.1094 | 20.9852 | 23.2733
450108 | 15.6324 | 15.2797 | 16.9845 | 15.9966
450109 | 13.8127 | 10.5973 | 17.7226 | 13.4301
450110 | 19.5821 | * | * | 19.5821
450111 | 19.6350 | 21.4908 | * | 20.6248
450112 | 16.0441 | 18.1026 | 17.3725 | 17.2066
450113 | 20.9777 | 20.8306 | 20.7782 | 20.8679
450118 | 17.9053 | * | * | 17.9053
450119 | 20.2853 | 20.2030 | 20.1335 | 20.2023
450121 | 20.4641 | 21.9198 | 22.0485 | 21.4762
450123 | 15.7618 | 14.1755 | 17.5051 | 15.6216
450124 | 22.7480 | 22.5208 | 22.6668 | 22.6449
450126 | 21.7233 | 21.4789 | 22.5290 | 21.9115
450128 | 18.2184 | 18.1446 | 18.4178 | 18.2629
450130 | 20.4156 | 18.9211 | 19.3882 | 19.5769
450131 | 19.2589 | 17.4168 | 17.7234 | 18.0882
450132 | 18.1713 | 21.8089 | 19.7672 | 19.9308
450133 | 23.6366 | 26.0763 | 24.4799 | 24.6993
450135 | 21.0306 | 20.4068 | 25.8775 | 22.4267
450137 | 22.4590 | 23.4346 | 21.3644 | 22.3582
450140 | 20.2280 | 17.3370 | 19.6205 | 19.0889
450143 | 14.5270 | 15.0871 | 16.7371 | 15.4651
450144 | 18.1121 | 17.4309 | 20.6880 | 18.7404
450145 | 15.6078 | 16.1895 | 16.4087 | 16.0604
450146 | 17.8572 | 15.5030 | 17.4391 | 16.8224
450147 | 18.9363 | 19.0477 | 20.0805 | 19.3489
450148 | 18.6758 | 20.4923 | 20.9373 | 20.1433
450149 | 19.7521 | 21.7219 | 22.6138 | 21.3072
450150 | 16.3719 | 17.8612 | 18.3079 | 17.5184
450151 | 15.2906 | 16.4209 | 16.3279 | 16.0117
450152 | 18.0061 | 17.7265 | 19.6105 | 18.4659
450153 | 19.4419 | 18.6514 | 18.8000 | 18.9747
450154 | 13.8731 | 13.9119 | 16.8748 | 14.8870
450155 | 11.5841 | 13.3456 | 20.0872 | 14.3751
450157 | 15.6371 | 15.3083 | 16.8569 | 15.9683
450160 | 16.6533 | 10.6852 | 18.7780 | 14.2553
450162 | 20.9560 | 21.9218 | 20.5032 | 21.1178
450163 | 17.5403 | 17.8028 | 19.0727 | 18.1175
450164 | 16.9741 | 17.7180 | 18.7101 | 17.7835
450165 | 13.9218 | 17.3283 | 14.9478 | 15.3028
450166 | 11.4772 | 11.0541 | 11.3813 | 11.3012
450169 | 13.1990 | * | * | 13.1990
450170 | 14.2997 | 14.3234 | 15.8525 | 14.8194
450176 | 16.9674 | 17.2576 | 18.2050 | 17.4802
450177 | 14.9241 | 15.2419 | 14.8306 | 14.9994
450178 | 17.8508 | 16.0280 | 15.8729 | 16.5762
450181 | 15.5622 | 18.6936 | 18.3600 | 17.5713
450184 | 21.1263 | 20.0821 | 20.3941 | 20.5023
450185 | 14.0714 | 11.5228 | 13.2613 | 12.8423
450187 | 16.6945 | 18.5053 | 20.6388 | 18.5641
450188 | 14.3938 | 15.1954 | 16.9407 | 15.5553
450191 | 20.1222 | 20.9512 | 20.5883 | 20.5559
450192 | 20.3795 | 21.2497 | 20.1419 | 20.5690
450193 | 23.1963 | 23.1639 | 24.9007 | 23.7654
450194 | 20.5187 | 20.7745 | 20.5396 | 20.6114
450196 | 17.1955 | 17.8993 | 20.2663 | 18.3910
450200 | 18.7387 | 19.2228 | 19.6496 | 19.1969
450201 | 16.9908 | 17.1463 | 17.7763 | 17.3128
450203 | 20.6712 | 19.3978 | 19.6050 | 19.8895
450209 | 19.0811 | 20.0140 | 21.0205 | 19.9890
450210 | 13.9758 | 16.3470 | 16.7204 | 15.7370
450211 | 17.9857 | 18.8114 | 18.7305 | 18.5258
450213 | 17.7631 | 19.0651 | 18.5334 | 18.4589
450214 | 19.0475 | 20.5070 | 21.0485 | 20.1729
450217 | 12.8457 | 12.7647 | 13.1840 | 12.9276
450219 | 15.3976 | 17.6884 | 18.3602 | 17.1605
450221 | 16.3700 | 15.2120 | 16.1398 | 15.8866
450222 | 20.3129 | 19.8967 | 23.2779 | 21.1824
450224 | 24.9046 | 20.1579 | 16.2433 | 19.9276
450229 | 16.4503 | 16.7853 | * | 16.6236
450231 | 19.1564 | 19.1746 | 20.7709 | 19.7438
450234 | 16.1945 | 16.3003 | 16.5793 | 16.3818
450235 | 15.2332 | 16.3115 | 17.5349 | 16.3996
450236 | 16.6703 | 16.4957 | 17.0092 | 16.7226
450237 | 20.7930 | 19.0325 | * | 19.8837
450239 | 17.1308 | 17.8401 | 18.8416 | 17.9241
450241 | 12.5675 | 16.4240 | 16.6046 | 14.9426
450243 | 11.9099 | 13.6416 | 11.2035 | 12.2464
450246 | 16.5478 | 16.7959 | 22.7940 | 18.4445
450249 | 12.0302 | 11.7658 | 10.6467 | 11.4953
450250 | 10.2844 | 13.6787 | * | 11.6004
450253 | 12.2402 | 13.2177 | 14.5492 | 13.3367
450258 | 16.0466 | 16.7337 | 17.0724 | 16.6100
450264 | 13.8929 | 14.5956 | 17.2825 | 15.2193
450269 | 12.3594 | 12.7717 | 12.9555 | 12.7319
450270 | 12.8381 | 14.4792 | 13.6733 | 13.6110
450271 | 16.6319 | 16.7831 | 17.9808 | 17.1692
450272 | 19.9331 | 18.4344 | 20.5888 | 19.6562
450276 | 13.1155 | 14.0745 | 14.0779 | 13.7681
450278 | 14.8291 | 15.2950 | 14.4871 | 14.8427
450280 | 22.2984 | 22.2936 | 20.3286 | 21.5973
450283 | 14.5664 | 15.1950 | 15.8684 | 15.2590
450288 | 16.2502 | 18.8935 | 13.5248 | 16.2231
450289 | 20.3104 | 20.3460 | 20.8745 | 20.5057
450292 | 16.9693 | 20.5335 | 17.7154 | 18.2921
450293 | 16.0132 | 16.2721 | 16.4077 | 16.2364
450296 | 21.6000 | 22.3430 | * | 21.9845
450299 | 21.5672 | * | 21.0398 | 21.2895
450303 | 12.4582 | 12.8996 | 14.3353 | 13.2442
450306 | 13.8216 | 14.2047 | 13.6333 | 13.8808
450307 | 16.4622 | 17.0691 | 17.6757 | 17.0817
450309 | 13.1480 | 13.3771 | 14.8823 | 13.8094
450315 | 22.8140 | 21.4684 | 23.8151 | 22.6579
450320 | 20.0946 | 20.6596 | 24.6129 | 21.4772
450321 | 13.1752 | 14.7344 | 14.4710 | 14.1070
450322 | 22.7667 | 29.1884 | 28.9834 | 26.4969
450324 | 17.7886 | 19.1692 | 20.9081 | 19.2343
450327 | 11.7511 | 13.3639 | 10.9732 | 11.8932
450330 | 18.9425 | 19.8066 | 20.8820 | 19.9093
450334 | 12.8051 | 13.8392 | 13.9839 | 13.5301
450337 | 17.1073 | 25.5708 | * | 20.0638
450340 | 17.6914 | * | 15.2368 | 16.4876
450341 | 18.9429 | * | 20.8814 | 19.8654
450346 | 17.5367 | 18.9475 | 19.2769 | 18.6527
450347 | 17.1099 | 19.3475 | 19.9109 | 18.7748
450348 | 13.9535 | 13.3585 | 15.0069 | 14.1063
450351 | 18.4116 | 19.3159 | 20.4537 | 19.4007
450352 | 18.7480 | 20.1871 | 21.2035 | 20.1227
450353 | 17.7539 | 16.0003 | 16.9105 | 16.8643
450355 | 11.9473 | 11.8933 | 12.8876 | 12.2285
450358 | 22.3235 | 23.0206 | 24.9765 | 23.4327
450362 | 15.8847 | 18.1983 | 18.1247 | 17.3786
450369 | 15.2233 | 15.3122 | 16.0667 | 15.5405
450370 | 12.6061 | 16.1369 | 18.7539 | 15.9177
450371 | 24.6339 | 16.0236 | 17.7591 | 19.2388
450372 | 20.0924 | 22.0746 | 21.4050 | 21.1434
450373 | 17.4183 | 17.9554 | 17.5600 | 17.6501
450374 | 13.6099 | 15.1750 | 15.0146 | 14.5995
450378 | 23.5789 | 23.4599 | 24.4143 | 23.8974
450379 | 22.7632 | 22.8756 | 25.1931 | 23.6182
450381 | 16.4166 | 16.7112 | 16.6476 | 16.5958
450388 | 19.2499 | 19.7408 | 20.6670 | 19.9390
450389 | 18.1797 | 18.8448 | 19.3156 | 18.7899
450393 | 20.2784 | 22.4992 | 21.1805 | 21.2450
450395 | 18.3768 | 18.0024 | 17.5236 | 17.9433
450399 | 15.7845 | 15.3491 | 16.3333 | 15.8319
450400 | 19.5379 | 18.6668 | 18.8375 | 18.9844
450403 | 20.1989 | 22.8430 | 24.7645 | 22.7028
450411 | 14.4832 | 15.1121 | 15.9178 | 15.1698
450417 | 13.4983 | 15.3591 | 15.2713 | 14.6933
450418 | 21.9161 | 21.9690 | 22.2511 | 22.0447
450419 | 20.6325 | 23.2551 | 22.4552 | 22.1296
450422 | 26.4848 | 28.0257 | 28.0395 | 27.5279
450423 | 22.7132 | * | * | 22.7132
450424 | 18.9741 | 18.7895 | * | 18.8834
450429 | 13.8723 | * | * | 13.8723
450431 | 19.6304 | 22.0361 | 21.7369 | 21.1141
450438 | 19.5028 | 15.4553 | 20.7791 | 18.3025
450446 | 13.0986 | 20.7592 | * | 16.2045
450447 | 18.0376 | 18.0377 | 19.3864 | 18.4641
450451 | 18.8948 | 18.2988 | 17.7525 | 18.2807
450457 | 24.7880 | 19.6569 | * | 21.9578
450460 | 15.1765 | 14.6523 | 15.8434 | 15.2180
450462 | 22.6212 | 22.1144 | 18.6080 | 21.0035
450464 | 13.2931 | 15.5908 | 15.8121 | 14.8193
450465 | 15.5650 | 15.4731 | 19.3928 | 16.5297
450467 | 10.6184 | 17.0004 | 18.9388 | 14.4801
450469 | 19.6269 | 22.1930 | 22.0389 | 21.2453
450473 | 19.9761 | 19.7148 | 18.3813 | 19.2637
450475 | 16.3404 | 16.9269 | 19.0010 | 17.4228
450484 | 16.8131 | 18.9825 | 19.2310 | 18.3714
450488 | 19.3457 | 19.2173 | 21.5440 | 20.0301
450489 | 9.9326 | 16.3584 | 17.8779 | 13.9861
450497 | 15.0886 | 16.2997 | 15.9325 | 15.7828
450498 | 13.8551 | 14.4713 | 15.9479 | 14.7991
450508 | 18.8069 | 19.0991 | 19.2176 | 19.0434
450514 | 21.3243 | 20.0144 | 20.7064 | 20.6957
450517 | 27.8815 | 14.3191 | 17.6011 | 18.7482
450518 | 19.8116 | 21.4873 | 20.7355 | 20.6380
450523 | 20.0792 | 21.0393 | 20.8469 | 20.6355
450530 | 22.8623 | 21.1634 | 22.0810 | 22.0042
450534 | 19.9376 | 20.1520 | 19.7227 | 19.9301
450535 | 19.6645 | 21.0513 | 21.5449 | 20.7286
450537 | 20.8438 | 20.1161 | 20.6100 | 20.5223
450539 | 16.4921 | 18.7559 | 19.3681 | 18.2066
450544 | 23.9283 | 23.6652 | 22.7282 | 23.5339
450545 | 19.5558 | 20.2823 | 21.0792 | 20.2860
450547 | 14.8248 | 18.1524 | 19.3002 | 17.4255
450551 | 16.9439 | 16.6237 | 16.1437 | 16.5621
450558 | 22.2574 | 20.7404 | 21.3116 | 21.4292
450563 | 19.9218 | 22.0708 | 21.8171 | 21.3374
450565 | 16.2652 | 17.3803 | 17.8058 | 17.1566
450570 | 18.9532 | 19.0336 | * | 18.9910
450571 | 17.5598 | 18.2784 | 19.5325 | 18.4467
450573 | 12.2502 | 17.3518 | 17.5455 | 15.5608
450574 | 14.5965 | 14.6128 | 14.8549 | 14.6891
450575 | 19.3925 | 22.5621 | 24.0386 | 22.1410
450578 | 15.4783 | 18.0925 | 17.2863 | 16.9084
450580 | 15.8321 | 16.7374 | 17.8552 | 16.8065
450583 | 15.6580 | 14.4411 | 15.1202 | 15.0631
450584 | 14.2321 | 14.6735 | 14.9237 | 14.6266
450586 | 14.3773 | 13.8248 | 15.2831 | 14.4737
450587 | 17.0230 | 18.0219 | 17.6291 | 17.5412
450591 | 17.8981 | 17.7795 | 18.6275 | 18.1113
450596 | 22.5420 | 21.6729 | 21.9445 | 22.0245
450597 | 17.0776 | 17.6179 | 19.0641 | 17.9259
450603 | 11.6442 | 23.5572 | 23.4924 | 18.9348
450604 | 16.4535 | 17.6582 | 18.6241 | 17.5848
450605 | 21.1400 | 19.4580 | 19.7400 | 20.0918
450609 | 15.9753 | 17.0986 | 14.1776 | 15.7466
450610 | 18.9924 | 21.5191 | 22.1792 | 21.1877
450614 | 17.9853 | 16.5754 | * | 17.2230
450615 | 14.8562 | 15.2956 | 14.9323 | 15.0244
450617 | 20.3387 | 20.8919 | 21.5004 | 20.9383
450620 | 15.8380 | 16.0987 | 16.1315 | 16.0378
450623 | 22.1950 | 23.1270 | 25.1122 | 23.4424
450626 | 18.1673 | 18.4349 | 20.5225 | 19.1158
450628 | 20.5611 | 18.6093 | 19.9760 | 19.7367
450630 | 21.6876 | 20.9605 | 23.1840 | 21.9334
450631 | 20.0417 | 21.6736 | 21.7853 | 21.1405
450632 | 11.7587 | 13.9147 | 15.1416 | 13.5343
450633 | 19.5183 | 19.4949 | * | 19.5064
450634 | 23.5333 | 22.9877 | 23.0470 | 23.1838
450638 | 23.1437 | 22.1704 | 23.8335 | 23.0423
450639 | 23.1936 | 21.6421 | 22.5182 | 22.4301
450641 | 16.5125 | 15.7578 | 15.1716 | 15.8348
450643 | 18.7054 | 16.8152 | 18.9088 | 18.1638
450644 | 23.6587 | 22.7721 | 24.5834 | 23.7084
450646 | 19.8274 | 19.1433 | 22.5667 | 20.4055
450647 | 24.7981 | 24.2763 | 25.0549 | 24.7111
450648 | 14.8488 | 15.0305 | 14.1565 | 14.6469
450649 | 16.4496 | 16.6577 | 16.7303 | 16.6187
450651 | 22.7664 | 22.7112 | 25.4679 | 23.6985
450652 | 13.4389 | 17.2445 | * | 14.7103
450653 | 18.1834 | 19.2349 | 19.5306 | 18.9413
450654 | 14.5258 | 14.5423 | 15.5858 | 14.8899
450656 | 17.6723 | 18.2606 | 18.5874 | 18.1828
450658 | 16.2657 | 17.2630 | * | 16.7212
450659 | 22.2550 | 23.0108 | 22.9344 | 22.7256
450661 | 19.7160 | 18.9071 | 19.5504 | 19.3935
450662 | 18.2284 | 19.3152 | 20.7973 | 19.5367
450665 | 15.2015 | 16.1319 | 14.2377 | 15.2093
450666 | 20.3248 | 20.2549 | * | 20.2912
450668 | 20.6965 | 21.0972 | 21.2002 | 20.9938
450669 | 21.7632 | 21.6746 | 22.5150 | 22.0051
450670 | 16.8893 | 20.2632 | 26.0785 | 20.9643
450672 | 21.8559 | 21.4927 | 23.2623 | 22.2025
450673 | 13.9620 | 13.7005 | 14.5310 | 14.0919
450674 | 22.2796 | 22.2426 | 21.9624 | 22.1483
450675 | 22.4961 | 21.4479 | 23.3954 | 22.4703
450677 | 22.6839 | 20.6556 | 21.3718 | 21.5395
450678 | 23.2617 | 24.1301 | 25.1841 | 24.1797
450683 | 20.9143 | 22.8699 | 21.9705 | 21.8695
450684 | 19.7005 | 21.9962 | 22.2380 | 21.3152
450686 | 16.5661 | 16.4632 | 17.4746 | 16.8354
450688 | 19.6250 | 20.1831 | 21.7691 | 20.5644
450690 | 21.6578 | 22.4707 | 27.2399 | 23.4791
450694 | 17.4758 | 18.1872 | 18.5520 | 18.0935
450696 | 24.9636 | * | * | 24.9636
450697 | 18.8405 | 19.4949 | 19.4424 | 19.2742
450698 | 14.6680 | 15.4750 | 16.5111 | 15.5420
450700 | 14.6421 | 15.9050 | 13.9129 | 14.8191
450702 | 20.8223 | 21.3739 | 19.3495 | 20.4688
450704 | 20.9821 | 20.7987 | 18.1835 | 19.7101
450705 | 30.0116 | 22.1809 | 18.7138 | 22.5666
450706 | 21.2072 | 22.0884 | 22.4329 | 21.9400
450709 | 20.8889 | 22.1490 | 21.9270 | 21.6715
450711 | 19.8126 | 19.8581 | 21.0779 | 20.2689
450712 | 13.6240 | 15.9298 | 11.7861 | 13.6660
450713 | 20.8065 | 22.6986 | 23.6017 | 22.4678
450715 | 22.0413 | 22.5988 | 24.8068 | 23.2060
450716 | 20.5544 | 20.9074 | 20.8913 | 20.7944
450717 | 20.7192 | 20.6551 | 22.0243 | 21.1286
450718 | 19.6886 | 22.1765 | 22.9582 | 21.6590
450723 | 19.7563 | 20.8213 | 22.1695 | 20.9457
450724 | 20.3235 | 20.3706 | 23.4039 | 21.3348
450727 | 13.5458 | 17.9172 | 24.7672 | 17.9685
450728 | 17.5284 | 19.8879 | 14.8030 | 17.2831
450730 | 22.0819 | 23.0054 | 24.5952 | 23.2900
450733 | 20.7693 | 20.2199 | 21.6162 | 20.8632
450735 | 13.8767 | * | * | 13.8767
450742 | 22.7655 | 21.8392 | 22.8135 | 22.4714
450743 | 18.8937 | 19.6015 | 20.5017 | 19.6892
450746 | 12.7904 | 30.2657 | * | 19.3854
450747 | 19.2585 | 20.3914 | 19.9818 | 19.8850
450749 | 16.2130 | 19.1678 | 17.2391 | 17.6065
450750 | 14.6914 | 13.8098 | * | 14.2686
450751 | 21.2198 | 19.9995 | 19.8170 | 20.4240
450754 | 16.0860 | 16.7145 | 16.7688 | 16.5644
450755 | 17.9904 | 19.8743 | 19.5916 | 19.1939
450757 | 13.8675 | 14.9434 | 15.5327 | 14.7530
450758 | 21.8669 | 19.0221 | 22.6196 | 21.1578
450760 | 17.4852 | 19.2225 | 20.4209 | 19.0477
450761 | 13.6152 | 15.7681 | 14.6511 | 14.6112
450763 | 18.2123 | 18.6092 | 18.9713 | 18.6032
450766 | 22.4348 | 23.3879 | 25.4057 | 23.7704
450769 | 14.5858 | 18.4163 | 17.3037 | 16.4629
450770 | 16.5458 | 19.0183 | 19.2518 | 18.2668
450771 | 22.4542 | 21.8268 | 21.4199 | 21.8514
450774 | 17.9964 | 16.2948 | * | 17.1404
450775 | 19.8897 | 21.3504 | 22.6526 | 21.2920
450776 | 15.7750 | 14.1720 | 13.4287 | 14.1843
450777 | 21.0682 | 19.0380 | 18.3119 | 19.5171
450779 | 21.4546 | 21.6642 | 22.1453 | 21.7809
450780 | 19.1498 | 19.0914 | 20.0824 | 19.4503
450785 | 18.4976 | * | * | 18.4976
450788 | 19.1463 | 19.6469 | 19.9597 | 19.6478
450794 | 18.2229 | * | * | 18.2229
450795 | 16.6494 | 22.5753 | 27.0250 | 21.6046
450796 | 16.5362 | 19.2059 | * | 17.7667
450797 | 15.9188 | 16.4923 | 20.2356 | 17.4420
450798 | 9.4634 | * | * | 9.4634
450801 | 17.5669 | 17.9548 | 17.9759 | 17.8371
450802 | 19.9168 | 17.1435 | 18.2460 | 18.3472
450803 | 18.3767 | 21.6653 | * | 20.6031
450804 | 19.4846 | 19.0893 | 20.5225 | 19.7061
450806 | * | * | 18.8211 | 18.8211
450807 | 11.3192 | 13.4306 | 18.4410 | 13.7054
450808 | 16.9915 | 17.4917 | 18.1728 | 17.5602
450809 | 20.0202 | 19.7899 | 21.8610 | 20.5411
450811 | 19.0961 | 19.9168 | 21.6115 | 20.3503
450813 | 15.9166 | 14.5392 | 15.3780 | 15.2272
450815 | * | 21.2741 | * | 21.2741
450819 | * | 16.5521 | * | 16.5521
450820 | * | 26.8348 | 24.6742 | 25.7177
450822 | * | 22.8556 | 24.8702 | 23.9136
450823 | * | * | 17.9756 | 17.9756
450824 | * | * | 25.7488 | 25.7488
450825 | * | * | 15.3546 | 15.3546
450827 | * | * | 20.1310 | 20.1310
450828 | * | * | 17.7667 | 17.7667
450829 | * | * | 14.7121 | 14.7121
460001 | 21.7996 | 22.2735 | 23.5485 | 22.5533
460003 | 20.0452 | 22.6289 | * | 21.2787
460004 | 21.3744 | 21.7234 | 23.1289 | 22.0969
460005 | 19.7069 | 22.5252 | 23.0189 | 21.6769
460006 | 20.6252 | 21.0700 | 22.1648 | 21.3374
460007 | 20.8026 | 21.1922 | 22.0409 | 21.4007
460008 | 18.8661 | 19.1153 | 22.6808 | 20.2069
460009 | 21.9016 | 22.5295 | 23.1146 | 22.5111
460010 | 21.9830 | 22.4948 | 23.8996 | 22.8204
460011 | 18.8660 | 19.7674 | 24.6789 | 20.7963
460013 | 20.7326 | 20.1936 | * | 20.4776
460014 | 18.3865 | 18.5370 | * | 18.4531
460015 | 20.6593 | 21.0470 | 22.4872 | 21.4209
460016 | 18.2408 | 21.9105 | 19.0910 | 19.6368
460017 | 17.7103 | 18.9929 | * | 18.3294
460018 | 17.6235 | 17.0063 | 17.0385 | 17.1969
460019 | 16.2671 | 17.8690 | 19.3442 | 17.7589
460020 | 17.3467 | 17.2663 | 18.1542 | 17.5580
460021 | 21.0470 | 21.5174 | 23.1368 | 21.9697
460022 | 20.1534 | 21.3614 | 20.7539 | 20.7266
460023 | 22.3535 | 22.9265 | 24.1825 | 23.1937
460025 | 19.4247 | 17.3494 | 17.4070 | 17.9267
460026 | 19.9241 | 20.2576 | 21.1759 | 20.4671
460027 | 21.8868 | 22.2955 | 21.4833 | 21.8607
460029 | 20.5154 | 20.8366 | 22.7658 | 21.3471
460030 | 17.6071 | 17.1383 | 18.1423 | 17.6207
460032 | 21.1006 | 21.4832 | 21.0286 | 21.1954
460033 | 19.5372 | 19.2664 | 20.2389 | 19.6949
460035 | 16.0021 | 16.1685 | 15.6979 | 15.9450
460036 | 23.5893 | 23.4573 | 24.2651 | 23.7927
460037 | 18.6850 | 17.7399 | 19.0115 | 18.4898
460039 | 24.9134 | 24.4808 | 24.5134 | 24.6186
460041 | 21.0623 | 20.2035 | 21.6676 | 20.9770
460042 | 18.8814 | 19.5662 | 20.9858 | 19.8725
460043 | 24.4779 | 23.2819 | 25.1366 | 24.2896
460044 | 21.4696 | 21.8485 | 23.6604 | 22.3504
460046 | 18.2224 | * | * | 18.2224
460047 | 23.0433 | 22.7524 | 23.4965 | 23.0972
460049 | 19.6483 | 20.8283 | 21.5241 | 20.8906
460051 | 19.4761 | 22.1758 | 21.8595 | 21.1765
460052 | * | 19.8961 | 20.1989 | 20.0325
470001 | 20.2299 | 21.3817 | 21.7774 | 21.1523
470003 | 23.6949 | 22.0563 | 23.4163 | 23.0458
470004 | 16.8842 | 18.1879 | 17.3576 | 17.4706
470005 | 21.9191 | 23.1808 | 22.6589 | 22.5826
470006 | 17.8699 | 20.2829 | 21.0835 | 19.7003
470008 | 19.6069 | 20.1969 | 20.3833 | 20.0728
470010 | 20.2961 | 21.0616 | 22.3913 | 21.2927
470011 | 21.7675 | 22.2415 | 24.1306 | 22.7075
470012 | 18.5339 | 18.9444 | 19.8831 | 19.1162
470015 | 19.5366 | 20.2125 | 21.8204 | 20.4728
470018 | 21.5426 | 21.2406 | 23.1159 | 21.9638
470020 | 20.6643 | 21.5688 | 21.9911 | 21.4308
470023 | 20.4511 | 21.7139 | 22.5334 | 21.5811
470024 | 20.8510 | 21.9807 | 23.2738 | 22.0567
490001 | 21.9755 | 20.0570 | 21.4952 | 21.1603
490002 | 15.2287 | 15.7365 | 16.5198 | 15.8281
490003 | 19.1040 | 20.3237 | 20.7688 | 20.0621
490004 | 19.2126 | 19.7074 | 20.7390 | 19.8866
490005 | 20.5517 | 21.3318 | 22.9490 | 21.6702
490006 | 15.9537 | 12.3253 | 19.8977 | 16.1242
490007 | 18.7740 | 19.8938 | 20.5265 | 19.7370
490009 | 23.9344 | 23.7659 | 24.7602 | 24.1271
490010 | 21.7424 | * | * | 21.7424
490011 | 18.6071 | 19.8042 | 19.8179 | 19.3919
490012 | 15.9973 | 15.2965 | 16.0994 | 15.7867
490013 | 17.3318 | 18.2396 | 18.3901 | 17.9911
490014 | 25.8315 | 23.5266 | 27.8907 | 25.6619
490015 | 19.6363 | 20.0667 | 21.4500 | 20.3969
490017 | 18.4361 | 19.3854 | * | 18.9126
490018 | 18.3435 | 18.5508 | 19.7456 | 18.8862
490019 | 19.6178 | 21.0124 | 21.6790 | 20.8153
490020 | 18.5691 | 19.3424 | 20.9212 | 19.6001
490021 | 19.3945 | 20.0496 | 21.2263 | 20.2509
490022 | 21.2183 | 22.3380 | 24.3008 | 22.6504
490023 | 20.6694 | 21.5683 | 22.8400 | 21.7338
490024 | 17.7221 | 18.4314 | 19.7501 | 18.7524
490027 | 16.2761 | 16.7556 | 17.5178 | 16.8693
490030 | 9.1789 | 8.6446 | * | 8.9749
490031 | 14.9539 | 16.0003 | 17.4262 | 16.1268
490032 | 22.4262 | 21.4037 | 22.2041 | 22.0055
490033 | 21.1723 | 19.2908 | 24.3589 | 21.5324
490037 | 16.3759 | 17.0113 | 16.7752 | 16.7116
490038 | 21.0218 | 17.6324 | 18.6012 | 18.9881
490040 | 22.7061 | 24.1266 | 24.8808 | 23.9273
490041 | 18.3589 | 18.7987 | 17.9942 | 18.3695
490042 | 16.4666 | 17.0972 | 18.1733 | 17.2802
490043 | 22.1574 | 22.1068 | 24.0198 | 22.7114
490044 | 18.3137 | 19.7842 | 18.4845 | 18.8757
490045 | 20.5468 | 20.5558 | 21.8453 | 21.0100
490046 | 18.4825 | 19.9102 | 19.7466 | 19.3960
490047 | 25.0438 | 18.7614 | 20.0837 | 20.6715
490048 | 18.4361 | 19.5417 | 20.9110 | 19.5970
490050 | 23.0729 | 23.3668 | 23.8519 | 23.4357
490052 | 16.8600 | 16.4787 | 17.6096 | 16.9745
490053 | 15.6996 | 16.8410 | 17.7363 | 16.7991
490054 | 15.4734 | 19.5780 | 22.5136 | 19.1813
490057 | 19.9210 | 20.3160 | 20.7806 | 20.3441
490059 | 20.8662 | 21.4801 | 24.1516 | 22.0719
490060 | 17.6308 | 18.5917 | 19.3525 | 18.5249
490063 | 28.6536 | 26.1930 | * | 27.3515
490066 | 20.6972 | 19.8352 | 21.5920 | 20.7067
490067 | 17.0195 | 17.8487 | 18.6469 | 17.8519
490069 | 17.3297 | 20.7582 | 21.5228 | 19.7588
490071 | 21.8879 | 23.3511 | 23.9246 | 23.0331
490073 | 20.7960 | 26.0957 | * | 23.1759
490075 | 18.6983 | 19.2156 | 20.2001 | 19.3654
490077 | 21.3670 | 22.6504 | 22.4133 | 22.1262
490079 | 17.0815 | 17.7016 | 17.5839 | 17.4571
490084 | 16.7834 | 18.0555 | 18.9679 | 17.9259
490085 | 17.4584 | 17.6158 | 19.2494 | 18.1150
490088 | 16.4362 | 17.9141 | 19.1415 | 17.7397
490089 | 17.7692 | 18.2290 | 19.6501 | 18.5835
490090 | 17.0199 | 17.5799 | 19.2094 | 17.9357
490091 | 20.8734 | 25.0272 | 23.6634 | 22.9282
490092 | 16.9533 | 16.4360 | * | 16.7160
490093 | 17.3711 | 17.8275 | 18.9442 | 18.0549
490094 | 18.9204 | 22.3033 | 20.2020 | 20.4445
490097 | 15.5780 | 16.9518 | 16.1076 | 16.1614
490098 | 15.1403 | 16.0488 | 18.5355 | 16.5130
490099 | 17.9665 | 18.3985 | 19.2604 | 18.5294
490100 | 22.5010 | * | * | 22.5010
490101 | 24.7616 | 23.5553 | 25.7804 | 24.7017
490104 | 25.6889 | 40.2529 | * | 29.6601
490105 | 18.5765 | 21.4428 | * | 19.7749
490106 | 17.6596 | 26.3821 | 31.8566 | 22.3213
490107 | 23.5240 | 22.9283 | 23.9962 | 23.5071
490108 | 20.2112 | 24.1232 | 24.8596 | 22.6562
490109 | 23.6620 | 25.9475 | 23.0609 | 24.1978
490110 | 16.5131 | 18.1561 | 18.8042 | 17.8380
490111 | 17.1768 | 17.8510 | 19.6489 | 18.2093
490112 | 21.4532 | 22.1162 | 23.2843 | 22.3013
490113 | 23.2235 | 23.9043 | 26.1840 | 24.4577
490114 | 17.3047 | 18.0359 | 18.8920 | 18.0825
490115 | 16.5203 | 16.8537 | 18.4499 | 17.2731
490116 | 16.6170 | 17.2040 | 18.2935 | 17.3997
490117 | 14.0104 | 14.7944 | 15.9284 | 14.9234
490118 | 21.4674 | 23.2022 | 24.2668 | 22.9444
490119 | 17.9147 | 18.6046 | 18.9640 | 18.4840
490120 | 19.3707 | 20.5777 | 20.4547 | 20.1460
490122 | 23.8801 | 23.8198 | 26.6681 | 24.7636
490123 | 17.7461 | 19.3056 | 20.0920 | 19.0902
490124 | 22.0884 | 21.3818 | 23.6526 | 22.4301
490126 | 18.6844 | 20.4294 | 19.0782 | 19.3248
490127 | 16.0516 | 16.5993 | 17.6437 | 16.7293
490129 | 22.5885 | 28.6868 | * | 23.5799
490130 | 16.4322 | 17.6943 | 18.6406 | 17.5834
490132 | 18.6570 | 18.4671 | 19.1742 | 18.7508
500001 | 22.1896 | 24.4829 | 25.2411 | 23.9385
500002 | 21.6332 | 19.8476 | 22.9942 | 21.4749
500003 | 24.2814 | 24.4333 | 25.1200 | 24.6216
500005 | 22.3955 | 24.3870 | 26.6971 | 24.3513
500007 | 26.0599 | 21.9911 | 24.7889 | 24.1708
500008 | 25.3064 | 26.1737 | 27.2852 | 26.2556
500011 | 24.0162 | 24.6554 | 25.7263 | 24.7924
500012 | 20.7032 | 24.2799 | 24.5450 | 23.0771
500014 | 24.3419 | 24.0990 | 25.0490 | 24.4936
500015 | 23.9297 | 24.9923 | 25.8775 | 24.9616
500016 | 24.3938 | 24.9439 | 25.1227 | 24.8306
500019 | 22.4213 | 23.2054 | 23.5730 | 23.0604
500021 | 25.9198 | 27.6490 | 25.9403 | 26.4613
500023 | 26.6535 | 27.1025 | 32.3079 | 28.0325
500024 | 23.7472 | 26.6452 | 26.2113 | 25.5094
500025 | 26.4810 | 24.4825 | 27.2601 | 26.0674
500026 | 23.8005 | 26.9884 | 26.6108 | 25.7916
500027 | 22.2158 | 25.1125 | 27.5909 | 24.9753
500028 | 19.2675 | 18.9556 | 19.0261 | 19.0887
500029 | 17.9237 | 18.5042 | 19.3130 | 18.5707
500030 | 24.9039 | 26.3828 | 28.5297 | 26.6182
500031 | 29.2707 | 23.6099 | 25.8542 | 26.0586
500033 | 22.3527 | 22.5462 | 23.8994 | 22.9522
500036 | 22.1096 | 23.6333 | 25.1255 | 23.5838
500037 | 20.7139 | 21.4059 | 22.1774 | 21.4194
500039 | 23.8918 | 24.0007 | 25.4225 | 24.4379
500041 | 23.9608 | 25.4376 | 24.7070 | 24.7067
500042 | 22.9125 | * | * | 22.9125
500043 | 20.9459 | 22.0466 | 24.1745 | 22.4162
500044 | 23.3364 | 24.2212 | 24.7816 | 24.1154
500045 | 20.8881 | 24.0526 | 24.6265 | 23.0766
500048 | 22.1906 | 20.3207 | 20.6333 | 21.0462
500049 | 24.0489 | 24.5997 | 26.5857 | 25.0314
500050 | 22.0065 | 22.6563 | 23.0804 | 22.6053
500051 | 24.8203 | 25.9447 | 26.7628 | 25.8820
500053 | 23.9397 | 22.8399 | 24.2492 | 23.6675
500054 | 22.8829 | 23.8089 | 25.7815 | 24.1708
500055 | 23.7446 | 23.8622 | 23.7988 | 23.8022
500057 | 18.2737 | 19.0479 | 20.5812 | 19.3310
500058 | 24.7882 | 24.1106 | 26.5679 | 25.1920
500059 | 23.3506 | 26.6270 | 25.3528 | 25.0566
500060 | 25.0233 | 28.3655 | 29.6030 | 27.5162
500061 | 21.7013 | 20.8624 | 24.5908 | 22.4271
500062 | 18.6329 | 19.0557 | 19.1685 | 18.9583
500064 | 25.5748 | 26.7000 | 27.5791 | 26.6387
500065 | 21.9308 | 23.5671 | 24.0966 | 23.2140
500068 | 19.6574 | 19.2638 | 20.9278 | 19.9560
500069 | 21.3592 | 21.4542 | 22.4158 | 21.7566
500071 | 19.1906 | 19.1428 | 22.3253 | 20.1059
500072 | 25.3928 | 25.2001 | 25.7734 | 25.4637
500073 | 21.2469 | 21.7698 | 22.5222 | 21.8777
500074 | 18.9679 | 19.5981 | 20.6120 | 19.7482
500077 | 22.8536 | 23.9410 | 24.5407 | 23.7721
500079 | 24.2036 | 23.1041 | 24.7946 | 24.0303
500080 | 15.6630 | 18.3883 | 18.8188 | 17.4053
500084 | 23.4032 | 24.4044 | 24.5678 | 24.1531
500085 | 21.4403 | 20.4517 | 20.7422 | 20.8523
500086 | 23.3288 | 22.8829 | 24.2556 | 23.4907
500088 | 23.2701 | 25.2478 | 25.2774 | 24.5589
500089 | 18.7080 | 19.7166 | 20.3478 | 19.5281
500090 | 16.1576 | 20.4429 | 21.7716 | 18.7859
500092 | 16.7913 | 19.2028 | 20.3058 | 18.6898
500094 | 18.5835 | 15.7866 | 17.6625 | 17.4874
500096 | 21.0151 | 23.3564 | 25.1135 | 23.2107
500097 | 19.7706 | 20.8774 | 21.4423 | 20.6699
500098 | 16.3511 | 15.2040 | 13.5203 | 15.0572
500101 | 19.7337 | 15.8000 | 19.8614 | 18.4197
500102 | 20.9389 | 21.8963 | 23.1307 | 22.0050
500104 | 22.8154 | 24.9389 | 24.7875 | 24.1421
500106 | 18.6041 | 19.1465 | 17.1066 | 18.3020
500107 | 18.1201 | 17.9489 | 17.4641 | 17.8401
500108 | 26.2939 | 28.6229 | 26.1609 | 27.0259
500110 | 21.4553 | 22.9775 | 23.5941 | 22.6736
500118 | 23.8397 | 24.8034 | 24.7875 | 24.4924
500119 | 22.4373 | 22.1192 | 23.9939 | 22.8469
500122 | 22.4268 | 23.5264 | 24.4462 | 23.5112
500123 | 20.3181 | 19.6646 | 21.7133 | 20.7526
500124 | 23.2836 | 23.7742 | 24.6591 | 23.9700
500125 | 15.1112 | 14.7910 | 15.6304 | 15.1911
500129 | 26.1575 | 25.4685 | 25.2082 | 25.5438
500132 | 15.6717 | 23.1822 | 21.9915 | 20.2081
500134 | 17.7457 | 17.2430 | 15.9791 | 16.9729
500139 | 22.2297 | 22.3053 | 23.7993 | 22.7606
500141 | 23.8838 | 29.9695 | 28.1014 | 27.3199
500143 | 18.0343 | 18.2570 | 18.7523 | 18.3736
500146 | 21.6003 | * | * | 21.6003
510001 | 19.1492 | 20.0429 | 20.2514 | 19.8050
510002 | 20.1527 | 17.6392 | 19.1517 | 18.9313
510005 | 14.2503 | 13.8621 | 13.8641 | 13.9934
510006 | 18.7313 | 19.9609 | 19.9760 | 19.5653
510007 | 21.2729 | 21.6761 | 23.0072 | 22.0021
510008 | 18.3296 | 19.0513 | 20.1039 | 19.1754
510012 | 15.8390 | 15.6089 | 15.8596 | 15.7743
510013 | 17.8527 | 19.5798 | 18.3486 | 18.5734
510015 | 14.9039 | 16.7311 | 17.1595 | 16.3249
510018 | 18.5269 | 18.5358 | 18.3023 | 18.4548
510020 | 13.1837 | 14.1211 | 15.7512 | 14.3266
510022 | 20.1763 | 21.5770 | 21.4336 | 21.0418
510023 | 16.0129 | 16.7777 | 17.6516 | 16.8122
510024 | 19.0941 | 18.7461 | 19.6521 | 19.1601
510026 | 13.6888 | 13.7952 | 14.8785 | 14.0865
510027 | 17.2900 | 18.5945 | 20.5222 | 18.7968
510028 | 20.0628 | 19.9208 | 22.4826 | 20.8230
510029 | 17.7124 | 18.4668 | 16.3204 | 17.4181
510030 | 17.4198 | 17.7603 | 19.2558 | 18.1712
510031 | 28.6673 | 18.6341 | 19.3049 | 21.2106
510033 | 18.4082 | 18.4718 | 19.6900 | 18.8637
510035 | 16.5007 | 18.3164 | 21.7818 | 18.6703
510036 | 13.4559 | 13.8786 | 15.0266 | 14.0903
510038 | 15.8132 | 15.5576 | 15.9821 | 15.7873
510039 | 16.9398 | 17.1461 | 17.4002 | 17.1582
510043 | 14.0662 | 13.1308 | 14.4202 | 13.8751
510046 | 17.3821 | 18.5896 | 18.7424 | 18.2568
510047 | 19.8963 | 20.8101 | 21.2375 | 20.6123
510048 | 21.0407 | 17.1647 | 15.2886 | 17.8240
510050 | 16.9136 | 18.4036 | 18.3964 | 17.9380
510053 | 16.1036 | 17.5798 | 18.1046 | 17.2603
510055 | 23.7248 | 24.2133 | 25.6333 | 24.5104
510058 | 18.4156 | 18.4501 | 18.6025 | 18.4938
510059 | 16.5854 | 16.1044 | 17.3844 | 16.6208
510060 | 17.5594 | * | * | 17.5594
510061 | 13.8204 | 14.1968 | 14.6774 | 14.2360
510062 | 19.3881 | 18.1588 | 19.7964 | 19.0922
510066 | 12.2943 | * | * | 12.2943
510067 | 16.7161 | 17.3067 | 17.8816 | 17.3091
510068 | 18.7938 | 23.0452 | 19.4299 | 20.2577
510070 | 18.5146 | 18.7091 | 18.6226 | 18.6195
510071 | 17.2148 | 18.0278 | 18.8766 | 18.0317
510072 | 15.6262 | 15.9257 | 16.5279 | 16.0216
510077 | 18.0668 | 18.2947 | 20.4521 | 18.9028
510080 | 17.4485 | 16.3453 | 18.5318 | 17.3501
510081 | 13.6359 | 11.9701 | 10.4972 | 11.9879
510082 | 17.4538 | 13.5946 | 16.0014 | 15.5120
510084 | 17.2395 | 13.5339 | 14.9683 | 15.2567
510085 | 17.5624 | 18.6227 | 19.0175 | 18.4360
510086 | 13.4763 | 14.2241 | 16.3413 | 14.6710
510088 | * | 14.8854 | 16.2850 | 15.6272
520002 | 19.7447 | 19.6755 | 19.3159 | 19.5604
520003 | 17.1248 | 18.7956 | 18.7507 | 18.2896
520004 | 19.6512 | 20.4591 | 18.8843 | 19.6231
520006 | 21.5313 | 21.4884 | 22.4099 | 21.7879
520007 | 16.2001 | 18.4629 | 18.3959 | 17.6275
520008 | 22.8024 | 24.9395 | 24.4927 | 24.0917
520009 | 18.6002 | 21.4638 | 19.8142 | 19.9388
520010 | 22.7703 | 22.3311 | 25.4845 | 23.5468
520011 | 20.7410 | 21.5223 | 21.6945 | 21.3155
520013 | 20.3965 | 20.5944 | 22.1009 | 21.0588
520014 | 17.1646 | 18.0841 | 19.2760 | 18.1480
520015 | 18.6078 | 19.7672 | 21.0428 | 19.8323
520016 | 17.3018 | 18.4320 | 19.5656 | 18.4077
520017 | 19.6008 | 19.4780 | 21.1409 | 20.0934
520018 | 21.1941 | 21.5279 | 22.1929 | 21.6736
520019 | 19.5440 | 20.9164 | 21.8870 | 20.7980
520021 | 21.3471 | 21.9531 | 22.8484 | 22.1016
520024 | 14.0175 | 14.4750 | 16.4879 | 15.0572
520025 | 18.2430 | 20.3838 | 21.9529 | 20.1629
520026 | 21.5453 | 20.8546 | 22.7429 | 21.7237
520027 | 19.9324 | 21.5868 | 22.0947 | 21.2079
520028 | 21.2852 | 22.5941 | 22.0333 | 21.9368
520029 | 19.5750 | 21.4197 | 21.6729 | 20.8760
520030 | 20.5039 | 21.6311 | 22.7239 | 21.6241
520031 | 20.4814 | 20.9875 | 21.2809 | 20.8937
520032 | 19.5697 | 21.1069 | 24.1092 | 21.5816
520033 | 19.2954 | 20.2520 | 21.0088 | 20.1750
520034 | 17.1282 | 20.4307 | 21.2944 | 19.6400
520035 | 18.9452 | 18.7135 | 19.7990 | 19.1719
520037 | 20.6686 | 21.6017 | 23.0801 | 21.8015
520038 | 19.6294 | 20.6130 | 21.2769 | 20.4835
520039 | 20.7641 | 23.3687 | 21.8688 | 21.9128
520040 | 20.4677 | 21.2023 | 23.0710 | 21.5679
520041 | 17.1959 | 18.4117 | 17.6529 | 17.7461
520042 | 18.5843 | 19.5466 | 20.6354 | 19.6057
520044 | 18.4014 | 19.1877 | 21.4913 | 19.6621
520045 | 20.5917 | 21.2427 | 21.9812 | 21.2870
520047 | 18.3048 | 20.3487 | 21.0370 | 19.8304
520048 | 20.6583 | 19.8926 | 20.3488 | 20.2938
520049 | 20.3559 | 20.1667 | 21.8271 | 20.7868
520051 | 21.6497 | 24.0460 | 23.4366 | 23.0036
520053 | 17.3945 | 18.0851 | 18.7234 | 18.0684
520054 | 15.1747 | 16.8363 | 16.6278 | 16.1750
520057 | 19.0872 | 19.8492 | 20.6959 | 19.9036
520058 | 19.7283 | 21.2500 | 23.6794 | 21.5351
520059 | 20.9913 | 21.5796 | 21.9452 | 21.5150
520060 | 17.9258 | 18.8232 | 20.3357 | 19.0291
520062 | 19.1482 | 19.7038 | 21.5525 | 20.1564
520063 | 19.6136 | 20.5262 | 21.2774 | 20.4843
520064 | 22.7423 | 22.0917 | 23.7144 | 22.8379
520066 | 22.8837 | 24.0087 | 24.1733 | 23.6290
520068 | 18.9943 | 19.6855 | 19.9595 | 19.5384
520069 | 20.2934 | 20.1770 | 21.7233 | 20.5221
520070 | 18.5938 | 19.4261 | 20.0096 | 19.3562
520071 | 18.7304 | 19.9866 | 22.0066 | 20.1801
520074 | 20.4601 | 20.9007 | 21.6636 | 20.9770
520075 | 19.8457 | 20.7301 | 22.1894 | 20.9388
520076 | 17.6088 | 19.5878 | 20.6155 | 19.2421
520077 | 17.7830 | 18.7119 | 18.1077 | 18.2004
520078 | 21.3380 | 21.7545 | 20.5734 | 21.2201
520082 | 17.7405 | * | * | 17.7405
520083 | 23.8849 | 23.5787 | 24.2131 | 23.8898
520084 | 20.8427 | 23.5446 | 21.8102 | 22.0208
520087 | 20.3624 | 20.7821 | 22.2579 | 21.1364
520088 | 20.6312 | 21.8931 | 22.3921 | 21.5920
520089 | 21.5456 | 22.1055 | 23.1221 | 22.2509
520090 | 18.9343 | 20.3645 | 20.9069 | 20.0854
520091 | 20.9927 | 20.9440 | 22.2218 | 21.3884
520092 | 17.6500 | 18.6248 | 19.7870 | 18.7181
520094 | 20.3611 | 20.6179 | 21.3082 | 20.7652
520095 | 20.3269 | 18.6425 | 21.8172 | 20.1804
520096 | 19.7757 | 20.6668 | 21.6803 | 20.7358
520097 | 20.2354 | 20.8016 | 22.2375 | 21.1096
520098 | 22.3348 | 23.4707 | 23.4273 | 23.0928
520100 | 18.3832 | 19.4788 | 20.5366 | 19.4712
520101 | 19.5186 | 19.9875 | 20.0164 | 19.8451
520102 | 20.1898 | 21.0138 | 22.1413 | 21.1139
520103 | 19.4809 | 20.1092 | 22.2765 | 20.6137
520107 | 20.3747 | 21.7907 | 23.8421 | 21.9354
520109 | 19.1303 | 19.7609 | 20.3208 | 19.7432
520110 | 20.4494 | 21.0055 | 22.3923 | 21.3276
520111 | 17.7834 | 17.7673 | 18.2744 | 17.9282
520112 | 19.1797 | 18.9577 | 17.6226 | 18.3876
520113 | 21.1485 | 21.8852 | 23.1852 | 22.0983
520114 | 16.6616 | 17.8476 | 18.5767 | 17.6415
520115 | 18.2980 | 19.2248 | 21.4279 | 19.6231
520116 | 19.8509 | 20.6922 | 22.2741 | 20.9026
520117 | 18.5414 | 18.3963 | 19.3653 | 18.7838
520118 | 14.2326 | 14.8626 | 13.9920 | 14.3519
520120 | 18.7437 | * | * | 18.7437
520121 | 19.7305 | 20.8492 | 20.9422 | 20.5799
520122 | 16.2436 | 16.9335 | 16.9905 | 16.7143
520123 | 17.3980 | 17.7986 | 19.8134 | 18.4575
520124 | 17.2619 | 17.9205 | 19.2621 | 18.1369
520130 | 15.6845 | 16.6873 | 18.8845 | 17.0161
520131 | 18.7295 | 20.2591 | 21.0400 | 20.0321
520132 | 15.6379 | 18.1630 | 18.2634 | 17.2681
520134 | 18.0953 | 18.8150 | 19.6881 | 18.8725
520135 | 15.8246 | 17.3476 | 18.1026 | 17.0799
520136 | 19.8480 | 20.9050 | 21.3966 | 20.7380
520138 | 21.2260 | 22.5599 | 22.5773 | 22.1218
520139 | 20.9988 | 21.4042 | 22.8070 | 21.7325
520140 | 21.5207 | 22.3671 | 22.5459 | 22.1346
520142 | 20.5858 | 21.9432 | 21.4120 | 21.2420
520144 | 18.5701 | 19.9120 | 20.5864 | 19.6719
520145 | 18.2654 | 18.7958 | 20.3461 | 19.0923
520146 | 17.9585 | 18.2370 | 18.6337 | 18.2882
520148 | 17.2421 | 19.1502 | 20.5075 | 19.0048
520149 | 14.1901 | 12.8928 | 13.8614 | 13.6192
520151 | 17.3267 | 18.7070 | 19.3362 | 18.4627
520152 | 19.5858 | 22.5980 | 26.2402 | 22.5080
520153 | 15.9753 | 17.0863 | 18.3447 | 17.1026
520154 | 18.5403 | 19.5994 | 21.0486 | 19.7479
520156 | 21.3377 | 20.9638 | 20.7806 | 21.0121
520157 | 17.1974 | 19.6008 | 21.6821 | 19.4299
520159 | 18.6760 | 17.7649 | 21.8783 | 19.4305
520160 | 19.4173 | 20.5154 | 21.5266 | 20.5092
520161 | 19.4905 | 20.1102 | 21.4038 | 20.3456
520170 | 21.5233 | 21.9857 | 23.0867 | 22.2181
520171 | 17.4560 | 18.0785 | 18.1844 | 17.8993
520173 | 21.3016 | 20.9209 | 23.2955 | 21.8315
520177 | 22.7221 | 24.0139 | 25.1080 | 23.8746
520178 | 18.6936 | 20.9010 | 23.1509 | 20.7167
520188 | 13.9135 | * | * | 13.9135
520189 | * | * | 21.6813 | 21.6813
530002 | 19.3273 | 21.0560 | 23.0582 | 21.0877
530003 | 16.2139 | 15.9523 | 17.1646 | 16.4518
530004 | 15.0497 | 13.3788 | 17.4672 | 15.2335
530005 | 13.3529 | 15.3255 | 18.3704 | 15.7393
530006 | 18.5894 | 19.1305 | 20.7661 | 19.4956
530007 | 18.5161 | 17.7897 | 18.5286 | 18.3005
530008 | 18.8349 | 19.0113 | 19.0016 | 18.9483
530009 | 22.5009 | 21.7795 | 23.5839 | 22.6178
530010 | 21.6092 | 13.9536 | 12.3695 | 15.3501
530011 | 18.7354 | 19.4606 | 19.9212 | 19.3808
530012 | 18.9923 | 21.1854 | 22.5084 | 20.9252
530014 | 18.0869 | 18.4900 | 20.0422 | 18.9065
530015 | 22.4568 | 23.4040 | 24.6527 | 23.4897
530016 | 18.1562 | 19.3205 | 20.3647 | 19.2610
530017 | 16.3478 | 17.7736 | 20.9408 | 18.2556
530018 | 18.3783 | 19.5986 | 20.1226 | 19.3605
530019 | 18.5430 | 20.1097 | 18.1492 | 18.8643
530022 | 18.5002 | 19.6136 | 19.7902 | 19.3159
530023 | 20.1948 | 20.0677 | 21.6352 | 20.6416
530025 | 21.2598 | 22.0300 | 22.4816 | 21.9309
530026 | 17.0118 | 19.8969 | 20.9919 | 19.1178
530027 | 18.1664 | 25.5067 | * | 20.8124
530029 | 16.5092 | 19.3361 | 20.3046 | 18.6145
530031 | 18.3322 | 20.1734 | 23.2766 | 20.4477
530032 | 21.0361 | 20.0132 | 20.9856 | 20.6817
* Denotes wage data not available for the provider for that year.
** Based on the sum of the salaries and hours computed for Federal FYs 2001, 2002, and 2003.

Table 3A.—FY 2003 and 3-Year* Average Hourly Wage for Urban Areas
[*Based on the sum of the salaries and hours computed for Federal FYs 2001, 2002, and 2002]
Urban area | FY 2003 average hourly wage | 3-Year average hourly wage
Abilene, TX | 21.3116 | 18.2370
Aguadilla, PR | 10.6548 | 10.3692
Akron, OH | 22.2695 | 21.8175
Albany, GA | 24.9139 | 23.4370
Albany-Schenectady-Troy, NY | 19.4516 | 19.0017
Albuquerque, NM | 21.3374 | 20.9862
Alexandria, LA | 18.1736 | 17.9283
Allentown-Bethlehem-Easton, PA | 22.6105 | 22.2137
Altoona, PA | 21.3848 | 20.7048
Amarillo, TX | 20.8120 | 19.7427
Anchorage, AK | 28.6899 | 28.2057
Ann Arbor, MI | 25.7925 | 25.0051
Anniston, AL | 18.6862 | 18.3987
Appleton-Oshkosh-Neenah, WI | 20.8773 | 20.4112
Arecibo, PR | 10.0744 | 10.0865
Asheville, NC | 22.2638 | 21.2069
Athens, GA | 23.7041 | 22.3198
Atlanta, GA | 23.2034 | 22.5565
Atlantic-Cape May, NJ | 25.4286 | 24.9782
Auburn-Opelika, AL | 19.1001 | 18.3671
Augusta-Aiken, GA-SC | 23.8329 | 21.9394
Austin-San Marcos, TX | 21.9115 | 21.4039
Bakersfield, CA | 23.4741 | 21.9163
Baltimore, MD | 22.4354 | 21.6104
Bangor, ME | 22.5137 | 21.5643
Barnstable-Yarmouth, MA | 30.1848 | 30.2355
Baton Rouge, LA | 19.2871 | 18.9071
Beaumont-Port Arthur, TX | 19.2896 | 19.0451
Bellingham, WA | 28.5297 | 26.6182
Benton Harbor, MI | 20.6766 | 19.7627
Bergen-Passaic, NJ | 27.8231 | 26.5455
Billings, MT | 20.9586 | 20.9004
Biloxi-Gulfport-Pascagoula, MS | 20.3045 | 19.0487
Binghamton, NY | 19.3760 | 19.0441
Birmingham, AL | 21.3884 | 19.7545
Bismarck, ND | 18.0466 | 17.5136
Bloomington,IN | 20.6895 | 19.8190
Bloomington-Normal, IL | 21.1609 | 20.3703
Boise City, ID | 21.6225 | 20.5010
Boston-Worcester-Lawrence-Lowell-Brockton, MA-NH | 25.9941 | 25.2200
Boulder-Longmont, CO | 22.2777 | 21.7937
Brazoria, TX | 19.8139 | 19.0124
Bremerton, WA | 25.4225 | 24.4379
Brownsville-Harlingen-San Benito, TX | 20.6770 | 19.9443
Bryan-College Station, TX | 19.3399 | 19.2454
Buffalo-Niagara Falls, NY | 21.7624 | 21.2368
Burlington, VT | 23.3989 | 22.9310
Caguas, PR | 10.1529 | 10.1915
Canton-Massillon, OH | 20.7556 | 19.7901
Casper, WY | 22.5084 | 20.9252
Cedar Rapids, IA | 21.0377 | 19.8268
Champaign-Urbana, IL | 22.9565 | 20.9245
Charleston-North Charleston, SC | 18.6257 | 19.5755
Charleston, WV | 20.1558 | 20.3125
Charlotte-Gastonia-Rock Hill, NC-SC | 22.6242 | 21.3014
Charlottesville, VA | 24.3357 | 23.7751
Chattanooga, TN-GA | 20.8534 | 21.0504
Cheyenne, WY | 20.0422 | 18.9065
Chicago, IL | 25.4960 | 24.8000
Chico-Paradise, CA | 22.6186 | 22.0636
Cincinnati, OH-KY-IN | 21.4375 | 21.0209
Clarksville-Hopkinsville, TN-KY | 19.2844 | 18.5774
Cleveland-Lorain-Elyria, OH | 21.3730 | 21.1174
Colorado Springs, CO | 22.9223 | 21.9346
Columbia, MO | 20.0916 | 19.6531
Columbia, SC | 20.6722 | 20.8728
Columbus, GA-AL | 19.4319 | 18.9760
Columbus, OH | 22.3157 | 21.5032
Corpus Christi, TX | 18.7495 | 18.7846
Corvallis, OR | 26.6038 | 25.7705
Cumberland, MD-WV | 18.2292 | 18.3160
Dallas, TX | 22.6072 | 22.1220
Danville, VA | 20.2001 | 19.3654
Davenport-Moline-Rock Island, IA-IL | 20.4000 | 19.6921
Dayton-Springfield, OH | 21.5652 | 20.8876
Daytona Beach, FL | 21.0017 | 20.3557
Decatur, AL | 20.8473 | 19.7262
Decatur, IL | 18.5380 | 18.0259
Denver, CO | 23.9179 | 23.0032
Des Moines, IA | 20.3902 | 19.9395
Detroit, MI | 24.1574 | 23.4668
Dothan, AL | 18.3729 | 17.7890
Dover, DE | 21.7344 | 22.1849
Dubuque, IA | 20.2381 | 19.4209
Duluth-Superior, MN-WI | 24.0567 | 22.9550
Dutchess County, NY | 24.8186 | 23.5537
Eau Claire, WI | 20.7890 | 19.9433
El Paso, TX | 21.0095 | 20.6428
Elkhart-Goshen, IN | 22.6528 | 21.3565
Elmira, NY | 19.7114 | 19.0237
Enid, OK | 19.2869 | 18.8881
Erie, PA | 20.7316 | 19.9094
Eugene-Springfield, OR | 25.4725 | 24.9448
Evansville, Henderson, IN-KY | 18.9808 | 18.5894
Fargo-Moorhead, ND-MN | 22.4962 | 20.6192
Fayetteville, NC | 20.6496 | 19.8938
Fayetteville-Springdale-Rogers, AR | 18.8149 | 18.2982
Flagstaff, AZ-UT | 24.8141 | 23.9367
Flint, MI | 25.8296 | 24.8385
Florence, AL | 18.2288 | 17.4228
Florence, SC | 20.3953 | 19.6524
Fort Collins-Loveland, CO | 22.8171 | 22.8018
Fort Lauderdale, FL | 23.8406 | 22.9502
Fort Myers-Cape Coral, FL | 21.7431 | 20.9253
Fort Pierce-Port St. Lucie, FL | 22.5387 | 22.0206
Fort Smith, AR-OK | 17.9611 | 17.8193
Fort Walton Beach, FL | 22.1915 | 21.0734
Fort Wayne, IN | 21.8421 | 20.4123
Fort Worth-Arlington, TX | 22.1218 | 21.2887
Fresno, CA | 23.7765 | 22.6843
Gadsden, AL | 19.7302 | 19.2011
Gainesville, FL | 22.3748 | 21.8054
Galveston-Texas City, TX | 22.0810 | 22.2390
Gary, IN | 22.2500 | 21.3750
Glens Falls, NY | 19.1071 | 18.6348
Goldsboro, NC | 20.6547 | 19.5049
Grand Forks, ND-MN | 20.6675 | 19.9946
Grand Junction, CO | 22.1097 | 21.1165
Grand Rapids-Muskegon-Holland, MI | 22.1795 | 22.3013
Great Falls, MT | 20.7913 | 20.0975
Greeley, CO | 20.6781 | 21.0801
Green Bay, WI | 22.0738 | 20.9151
Greensboro-Winston-Salem-High Point, NC | 21.3171 | 20.8100
Greenville, NC | 21.1020 | 20.7582
Greenville-Spartanburg-Anderson, SC | 21.1013 | 20.4227
Hagerstown, MD | 21.5280 | 20.1745
Hamilton-Middletown, OH | 21.8081 | 20.7774
Harrisburg-Lebanon-Carlisle, PA | 21.4204 | 21.2190
Hartford, CT | 26.5589 | 25.6600
Hattiesburg, MS | 17.6308 | 16.8808
Hickory-Morganton-Lenoir, NC | 20.5993 | 20.3564
Honolulu, HI | 25.5733 | 25.7139
Houma, LA | 19.4770 | 18.2833
Houston, TX | 22.4099 | 21.6980
Huntington-Ashland, WV-KY-OH | 22.4054 | 21.7937
Huntsville, AL | 20.4686 | 19.9112
Indianapolis, IN | 22.6001 | 21.8532
Iowa City, IA | 23.0524 | 21.9952
Jackson, MI | 22.0543 | 20.8972
Jackson, MS | 20.0348 | 19.3281
Jackson, TN | 21.5461 | 20.3227
Jacksonville, FL | 21.4789 | 20.7080
Jacksonville, NC | 19.1386 | 17.6977
Jamestown, NY | 18.5184 | 17.7951
Janesville-Beloit, WI | 22.2956 | 21.6016
Jersey City, NJ | 25.7550 | 25.2422
Johnson City-Kingsport-Bristol, TN-VA | 19.1020 | 18.7739
Johnstown, PA | 19.3481 | 19.3567
Jonesboro, AR | 18.0006 | 17.9165
Joplin, MO | 20.0064 | 19.0676
Kalamazoo-Battlecreek, MI | 24.5797 | 23.6868
Kankakee, IL | 22.0535 | 21.8916
Kansas City, KS-MO | 22.5556 | 21.5044
Kenosha, WI | 22.3994 | 21.6107
Killeen-Temple, TX | 19.4230 | 20.6248
Knoxville, TN | 20.9030 | 19.6266
Kokomo, IN | 20.5813 | 20.5547
La Crosse, WI-MN | 20.9920 | 20.5609
Lafayette, LA | 19.6610 | 19.0691
Lafayette, IN | 21.8803 | 20.4752
Lake Charles, LA | 18.4643 | 17.2545
Lakeland-Winter Haven, FL | 21.0679 | 20.4786
Lancaster, PA | 21.0878 | 20.6617
Lansing-East Lansing, MI | 22.5979 | 21.9294
Laredo, TX | 19.5558 | 18.3090
Las Cruces, NM | 20.4375 | 19.5136
Las Vegas, NV-AZ | 25.3348 | 24.6305
¹ Lawrence, KS |  | 17.8290
Lawton, OK | 18.9728 | 19.3040
Lewiston-Auburn, ME | 21.2671 | 20.5697
Lexington, KY | 19.8413 | 19.5837
Lima, OH | 21.8791 | 21.1154
Lincoln, NE | 20.5292 | 21.3398
Little Rock-North Little Rock, AR | 20.7992 | 19.9953
Longview-Marshall, TX | 19.7471 | 19.4279
Los Angeles-Long Beach, CA | 27.6569 | 26.7968
Louisville, KY-IN | 21.8834 | 21.1577
Lubbock, TX | 17.7930 | 18.8697
Lynchburg, VA | 21.4112 | 20.3454
Macon, GA | 21.2905 | 20.2752
Madison, WI | 23.4267 | 22.9567
Mansfield, OH | 20.6712 | 19.6802
Mayaguez, PR | 11.3157 | 10.6879
McAllen-Edinburg-Mission, TX | 19.3599 | 18.9086
Medford-Ashland, OR | 24.3865 | 23.3354
Melbourne-Titusville-Palm Bay, FL | 24.7923 | 22.7180
Memphis, TN-AR-MS | 20.3251 | 19.7569
Merced, CA | 22.8511 | 21.9541
Miami, FL | 22.6833 | 22.2549
Middlesex-Somerset-Hunterdon, NJ | 26.3374 | 25.3182
Milwaukee-Waukesha, WI | 22.7676 | 22.0856
Minneapolis-St. Paul, MN-WI | 25.2239 | 24.5477
Missoula, MT | 21.2713 | 20.8023
Mobile, AL | 18.8082 | 18.2018
Modesto, CA | 24.3874 | 23.6713
Monmouth-Ocean, NJ | 25.9158 | 24.8978
Monroe, LA | 18.8342 | 18.4736
Montgomery, AL | 17.8451 | 16.9642
Muncie, IN | 21.0399 | 22.2998
Myrtle Beach, SC | 21.0194 | 19.6847
Naples, FL | 22.5429 | 21.7594
Nashville, TN | 21.7439 | 21.3869
Nassau-Suffolk, NY | 30.9070 | 30.5534
New Haven-Bridgeport-Stamford-Waterbury-Danbury, CT | 28.6474 | 27.5560
New London-Norwich, CT | 27.2742 | 26.4332
New Orleans, LA | 20.8098 | 20.4020
New York, NY | 32.3513 | 32.1379
Newark, NJ | 26.4531 | 26.0261
Newburgh, NY-PA | 26.2921 | 24.9278
Norfolk-Virginia Beach-Newport News, VA-NC | 19.6667 | 19.0225
Oakland, CA | 35.0027 | 33.9458
Ocala, FL | 21.9054 | 21.0412
Odessa-Midland, TX | 21.2320 | 21.2696
Oklahoma City, OK | 20.6894 | 19.7355
Olympia, WA | 25.4588 | 24.6677
Omaha, NE-IA | 23.1988 | 21.8834
Orange County, CA | 26.6831 | 25.4624
Orlando, FL | 21.9294 | 21.4758
Owensboro, KY | 19.0457 | 18.4790
Panama City, FL | 20.5244 | 20.1345
Parkersburg-Marietta, WV-OH | 18.8778 | 18.3560
Pensacola, FL | 19.9673 | 18.7468
Peoria-Pekin, IL | 20.3592 | 19.5705
Philadelphia, PA-NJ | 24.5469 | 24.2416
Phoenix-Mesa, AZ | 21.9868 | 21.5339
Pine Bluff, AR | 18.0874 | 17.5370
Pittsburgh, PA | 21.6212 | 21.3813
Pittsfield, MA | 23.4852 | 22.9215
Pocatello, ID | 19.6333 | 20.1279
Ponce, PR | 12.0062 | 11.5028
Portland, ME | 22.8379 | 21.6951
Portland-Vancouver, OR-WA | 24.7759 | 24.4428
Providence-Warwick, RI | 24.2778 | 24.0071
Provo-Orem, UT | 23.4308 | 22.3948
Pueblo, CO | 20.3670 | 19.5929
Punta Gorda, FL | 17.3909 | 18.1956
Racine, WI | 21.6444 | 20.8817
Raleigh-Durham-Chapel Hill, NC | 23.1852 | 22.0116
Rapid City, SD | 20.5485 | 19.8947
Reading, PA | 21.4029 | 20.8900
Redding, CA | 25.8663 | 25.3801
Reno, NV | 24.5213 | 23.5887
Richland-Kennewick-Pasco, WA | 26.6936 | 25.3323
Richmond-Petersburg, VA | 22.3862 | 21.6142
Riverside-San Bernardino, CA | 25.8718 | 24.9920
Roanoke, VA | 20.0117 | 19.2433
Rochester, MN | 28.1983 | 26.1811
Rochester, NY | 21.0003 | 20.5991
Rockford, IL | 21.7440 | 20.5098
Rocky Mount, NC | 21.4359 | 20.3593
Sacramento, CA | 26.7257 | 26.3878
Saginaw-Bay City-Midland, MI | 22.3260 | 21.5138
St. Cloud, MN | 22.4364 | 22.0902
¹ St. Joseph, MO |  | 19.7467
St. Louis, MO-IL | 20.4806 | 20.0376
Salem, OR | 24.0818 | 22.8500
Salinas, CA | 33.9674 | 32.7871
Salt Lake City-Ogden, UT | 23.0757 | 22.1425
San Angelo, TX | 18.2955 | 18.0306
San Antonio, TX | 19.8888 | 19.2241
San Diego, CA | 25.8535 | 25.5476
San Francisco, CA | 32.8557 | 31.7475
San Jose, CA | 32.5657 | 31.2857
San Juan-Bayamon, PR | 10.8224 | 10.5408
San Luis Obispo-Atascadero-Paso Robles, CA | 26.1821 | 24.6268
Santa Barbara-Santa Maria-Lompoc, CA | 24.3466 | 23.8325
Santa Cruz-Watsonville, CA | 31.3417 | 31.0243
Santa Fe, NM | 24.8842 | 23.5075
Santa Rosa, CA | 30.3046 | 28.9555
Sarasota-Bradenton, FL | 21.4760 | 21.7771
Savannah, GA | 22.9060 | 22.0969
Scranton-Wilkes Barre-Hazleton, PA | 19.5725 | 19.0594
Seattle-Bellevue-Everett, WA | 26.6067 | 25.2916
Sharon, PA | 18.2710 | 17.7451
Sheboygan, WI | 20.1510 | 19.0711
Sherman-Denison, TX | 21.4636 | 20.3959
Shreveport-Bossier City, LA | 20.2644 | 19.8410
Sioux City, IA-NE | 21.0135 | 19.6404
Sioux Falls, SD | 20.9214 | 20.1349
South Bend, IN | 22.7694 | 22.2819
Spokane, WA | 25.2044 | 23.9682
Springfield, IL | 19.9008 | 19.3840
Springfield, MO | 19.5680 | 19.0448
Springfield, MA | 25.4001 | 24.2504
State College, PA | 20.7690 | 20.2726
Steubenville-Weirton, OH-WV | 20.4503 | 19.4333
Stockton-Lodi, CA | 24.0178 | 23.7561
Sumter, SC | 18.8535 | 18.0764
Syracuse, NY | 21.8886 | 21.3766
Tacoma, WA | 25.4131 | 25.5054
Tallahassee, FL | 19.6007 | 19.0869
Tampa-St. Petersburg-Clearwater, FL | 20.9878 | 20.1427
Terre Haute, IN | 19.9743 | 19.0303
Texarkana, AR-Texarkana, TX | 18.7416 | 18.5107
Toledo, OH | 22.6790 | 21.9714
Topeka, KS | 20.5859 | 20.0981
Trenton, NJ | 24.6268 | 23.3224
Tucson, AZ | 20.6783 | 19.9418
Tulsa, OK | 19.3121 | 19.1851
Tuscaloosa, AL | 18.9045 | 18.2544
Tyler, TX | 22.1901 | 21.3538
Utica-Rome, NY | 19.6508 | 18.9705
Vallejo-Fairfield-Napa, CA | 30.9785 | 29.7068
Ventura, CA | 25.7748 | 24.7503
Victoria, TX | 20.2675 | 18.8655
Vineland-Millville-Bridgeton, NJ | 23.6746 | 23.2888
Visalia-Tulare-Porterville, CA | 21.6029 | 21.2747
Waco, TX | 20.2402 | 18.4397
Washington, DC-MD-VA-WV | 24.9537 | 24.2243
Waterloo-Cedar Falls, IA | 18.7281 | 18.3305
Wausau, WI | 22.7239 | 21.6241
West Palm Beach-Boca Raton, FL | 22.8320 | 21.9092
Wheeling, OH-WV | 17.8084 | 17.4900
Wichita, KS | 22.0087 | 21.3928
Wichita Falls, TX | 18.4488 | 17.5804
Williamsport, PA | 19.8310 | 18.8540
Wilmington-Newark, DE-MD | 25.9552 | 24.8359
Wilmington, NC | 21.7789 | 21.1031
Yakima, WA | 24.5502 | 23.1867
Yolo, CA | 21.9147 | 21.8929
York, PA | 21.0167 | 20.7492
Youngstown-Warren, OH | 21.8109 | 21.2943
Yuba City, CA | 23.7087 | 23.3825
Yuma, AZ | 19.9517 | 20.2223
¹ The MSA is empty for FY 2003. The hospital(s) in the MSA received rural status under Section 401 of the Balanced Budget Refinement Act of 1999 (P.L. 106-113). The MSA is assigned the statewide rural wage index (see Table 4B).

Table 3B.—FY 2003 and 3-Year* Average Hourly Wage for Rural Areas
[*Based on the sum of the salaries and hours computed for Federal FYs 2001, 2002, and 2003]
Nonurban area | FY 2003 average hourly wage | 3-Year average hourly wage
Alabama | 17.9036 | 16.8484
Alaska | 28.3370 | 27.2338
Arizona | 19.5067 | 19.0116
Arkansas | 17.6380 | 16.8439
California | 22.8280 | 21.9650
Colorado | 20.9354 | 20.0304
Connecticut | 28.7896 | 27.0512
Delaware | 20.9850 | 20.7345
Florida | 20.4812 | 19.8506
Georgia | 18.9804 | 18.5484
Hawaii | 23.7802 | 24.2085
Idaho | 20.2336 | 19.5324
Illinois | 19.0881 | 18.2692
Indiana | 20.2273 | 19.4705
Iowa | 19.3039 | 18.3140
Kansas | 18.3139 | 17.4523
Kentucky | 18.5767 | 17.8667
Louisiana | 17.5606 | 17.0801
Maine | 20.1286 | 19.5633
Maryland | 20.3626 | 19.6588
Massachusetts | 25.8847 | 25.2714
Michigan | 20.5663 | 20.0744
Minnesota | 21.2683 | 20.2498
Mississippi | 17.8117 | 16.9666
Missouri | 18.6096 | 17.6847
Montana | 19.7008 | 19.3096
Nebraska | 19.0466 | 18.2894
Nevada | 21.8882 | 21.2045
New Hampshire | 22.7236 | 21.9972
New Jersey ¹ |  |
New Mexico | 19.8780 | 19.2303
New York | 19.8523 | 19.1400
North Carolina | 20.0381 | 19.1521
North Dakota | 18.0060 | 17.4398
Ohio | 19.9481 | 19.3896
Oklahoma | 17.6227 | 16.9222
Oregon | 23.9321 | 22.8031
Pennsylvania | 19.6030 | 19.1490
Puerto Rico | 10.1187 | 10.0248
Rhode Island ¹ |  |
South Carolina | 19.7928 | 19.0083
South Dakota | 18.1545 | 17.3648
Tennessee | 18.1050 | 17.6144
Texas | 17.8263 | 17.1186
Utah | 21.6749 | 20.5059
Vermont | 21.6208 | 20.9793
Virginia | 19.5315 | 18.5749
Washington | 23.6253 | 23.0484
West Virginia | 18.5169 | 18.1434
Wisconsin | 21.2222 | 20.2660
Wyoming | 20.4416 | 19.7159
¹ All counties within the State are classified as urban.

Table 4A.—Wage Index and Capital Geographic Adjustment Factor (GAF) for Urban Areas
Urban area (constituent counties) | Wage index | GAF
0040 Abilene, TX | 0.9268 | 0.9493
Taylor, TX
0060 Aguadilla, PR | 0.4634 | 0.5905
Aguada, PR
Aguadilla, PR
Moca, PR
0080 Akron, OH | 0.9685 | 0.9783
Portage, OH
Summit, OH
0120 Albany, GA | 1.0835 | 1.0565
Dougherty, GA
Lee, GA
0160 ² Albany-Schenectady-Troy, NY | 0.8633 | 0.9042
Albany, NY
Montgomery, NY
Rensselaer, NY
Saratoga, NY
Schenectady, NY
Schoharie, NY
0200 Albuquerque, NM | 0.9372 | 0.9566
Bernalillo, NM
Sandoval, NM
Valencia, NM
0220 Alexandria, LA | 0.7929 | 0.8531
Rapides, LA
0240 Allentown-Bethlehem-Easton, PA | 0.9833 | 0.9885
Carbon, PA
Lehigh, PA
Northampton, PA
0280 Altoona, PA | 0.9300 | 0.9515
Blair, PA
0320 Amarillo, TX Potter, TX | 0.9051 | 0.9340
Randall, TX
0380 Anchorage, AK | 1.2610 | 1.1721
Anchorage, AK
0440 Ann Arbor, MI | 1.1217 | 1.0818
Lenawee, MI
Livingston, MI
Washtenaw, MI
0450 Anniston, AL | 0.8126 | 0.8675
Calhoun, AL
0460 ² Appleton-Oshkosh-Neenah, WI | 0.9229 | 0.9465
Calumet, WI
Outagamie, WI
Winnebago, WI
0470 ² Arecibo, PR | 0.4400 | 0.5699
Arecibo, PR
Camuy, PR
Hatillo, PR
0480 Asheville, NC | 0.9682 | 0.9781
Buncombe, NC
Madison, NC
0500 Athens, GA | 1.0308 | 1.0210
Clarke, GA
Madison, GA
Oconee, GA
0520 ¹ Atlanta, GA | 1.0091 | 1.0062
Barrow, GA
Bartow, GA
Carroll, GA
Cherokee, GA
Clayton, GA
Cobb, GA
Coweta, GA
DeKalb, GA
Douglas, GA
Fayette, GA
Forsyth, GA
Fulton, GA
Gwinnett, GA
Henry, GA
Newton, GA
Paulding, GA
Pickens, GA
Rockdale, GA
Spalding, GA
Walton, GA
0560 Atlantic-Cape May, NJ | 1.1058 | 1.0713
Atlantic, NJ
Cape May, NJ
0580 Auburn-Opelika, AL | 0.8306 | 0.8806
Lee, AL
0600 Augusta-Aiken, GA-SC | 1.0364 | 1.0248
Columbia, GA
McDuffie, GA
Richmond, GA
Aiken, SC
Edgefield, SC
0640 ¹ Austin-San Marcos, TX | 0.9529 | 0.9675
Bastrop, TX
Caldwell, TX
Hays, TX
Travis, TX
Williamson, TX
0680 Bakersfield, CA | 1.0186 | 1.0127
Kern, CA
0720 ¹ Baltimore, MD | 0.9757 | 0.9833
Anne Arundel, MD
Baltimore, MD
Baltimore City, MD
Carroll, MD
Harford, MD
Howard, MD
Queen Anne's, MD
0733 Bangor, ME | 0.9791 | 0.9856
Penobscot, ME
0743 Barnstable-Yarmouth, MA | 1.3127 | 1.2048
Barnstable, MA
0760 Baton Rouge, LA | 0.8388 | 0.8866
Ascension, LA
East Baton Rouge, LA
Livingston, LA
West Baton Rouge, LA
0840 Beaumont-Port Arthur, TX | 0.8389 | 0.8867
Hardin, TX
Jefferson, TX
Orange, TX
0860 Bellingham, WA | 1.2407 | 1.1592
Whatcom, WA
0870 Benton Harbor, MI | 0.9072 | 0.9355
Berrien, MI
0875 ¹ Bergen-Passaic, NJ | 1.2100 | 1.1394
Bergen, NJ
Passaic, NJ
0880 Billings, MT | 0.9114 | 0.9384
Yellowstone, MT
0920 Biloxi-Gulfport-Pascagoula, MS | 0.8830 | 0.9183
Hancock, MS
Harrison, MS
Jackson, MS
0960 ² Binghamton, NY | 0.8633 | 0.9042
Broome, NY
Tioga, NY
1000 Birmingham, AL | 0.9301 | 0.9516
Blount, AL
Jefferson, AL
St. Clair, AL
Shelby, AL
1010 Bismarck, ND | 0.7881 | 0.8495
Burleigh, ND
Morton, ND
1020 Bloomington, IN | 0.8997 | 0.9302
Monroe, IN
1040 Bloomington-Normal, IL | 0.9202 | 0.9446
McLean, IL
1080 Boise City, ID | 0.9403 | 0.9587
Ada, ID
Canyon, ID
1123 ¹ Boston-Worcester-Lawrence-Lowell-Brockton, MA-NH | 1.1304 | 1.0876
Bristol, MA
Essex, MA
Middlesex, MA
Norfolk, MA
Plymouth, MA
Suffolk, MA
Worcester, MA
Hillsborough, NH
Merrimack, NH
Rockingham, NH
Strafford, NH
1125 Boulder-Longmont, CO | 0.9688 | 0.9785
Boulder, CO
1145 Brazoria, TX | 0.8617 | 0.9031
Brazoria, TX
1150 Bremerton, WA | 1.1056 | 1.0712
Kitsap, WA
1240 Brownsville-Harlingen-San Benito, TX | 0.8992 | 0.9298
Cameron, TX
1260 Bryan-College Station, TX | 0.8410 | 0.8882
Brazos, TX
1280 ¹ Buffalo-Niagara Falls, NY | 0.9464 | 0.9630
Erie, NY
Niagara, NY
1303 Burlington, VT | 1.0176 | 1.0120
Chittenden, VT
Franklin, VT
Grand Isle, VT
1310 Caguas, PR | 0.4453 | 0.5746
Caguas, PR
Cayey, PR
Cidra, PR
Gurabo, PR
San Lorenzo, PR
1320 Canton-Massillon, OH | 0.9026 | 0.9322
Carroll, OH
Stark, OH
1350 Casper, WY | 0.9788 | 0.9854
Natrona, WY
1360 Cedar Rapids, IA | 0.9149 | 0.9409
Linn, IA
1400 Champaign-Urbana, IL | 0.9983 | 0.9988
Champaign, IL
1440 ² Charleston-North Charleston, SC | 0.8607 | 0.9024
Berkeley, SC
Charleston, SC
Dorchester, SC
1480 Charleston, WV | 0.8765 | 0.9137
Kanawha, WV
Putnam, WV
1520 ¹ Charlotte-Gastonia-Rock Hill, NC-SC | 0.9839 | 0.9889
Cabarrus, NC
Gaston, NC
Lincoln, NC
Mecklenburg, NC
Rowan, NC
Stanly, NC
Union, NC
York, SC
1540 Charlottesville, VA | 1.0583 | 1.0396
Albemarle, VA
Charlottesville City, VA
Fluvanna, VA
Greene, VA
1560 Chattanooga, TN-GA | 0.9069 | 0.9353
Catoosa, GA
Dade, GA
Walker, GA
Hamilton, TN
Marion, TN
1580 ² Cheyenne, WY | 0.8890 | 0.9226
Laramie, WY
1600 ¹ Chicago, IL | 1.1088 | 1.0733
Cook, IL
DeKalb, IL
DuPage, IL
Grundy, IL
Kane, IL
Kendall, IL
Lake, IL
McHenry, IL
Will, IL
1620 ² Chico-Paradise, CA | 0.9934 | 0.9955
Butte, CA
1640 ¹ Cincinnati, OH-KY-IN | 0.9354 | 0.9553
Dearborn, IN
Ohio, IN
Boone, KY
Campbell, KY
Gallatin, KY
Grant, KY
Kenton, KY
Pendleton, KY
Brown, OH
Clermont, OH
Hamilton, OH
Warren, OH
1660 Clarksville-Hopkinsville, TN-KY | 0.8386 | 0.8864
Christian, KY
Montgomery, TN
1680 ¹ Cleveland-Lorain-Elyria, OH | 0.9295 | 0.9512
Ashtabula, OH
Cuyahoga, OH
Geauga, OH
Lake, OH
Lorain, OH
Medina, OH
1720 Colorado Springs, CO | 0.9968 | 0.9978
El Paso, CO
1740 Columbia, MO | 0.8737 | 0.9117
Boone, MO
1760 Columbia, SC | 0.8990 | 0.9297
Lexington, SC
Richland, SC
1800 Columbus, GA-AL | 0.8450 | 0.8911
Russell, AL
Chattahoochee, GA
Harris, GA
Muscogee, GA
1840 ¹ Columbus, OH | 0.9705 | 0.9797
Delaware, OH
Fairfield, OH
Franklin, OH
Licking, OH
Madison, OH
Pickaway, OH
1880 Corpus Christi, TX | 0.8154 | 0.8696
Nueces, TX
San Patricio, TX
1890 Corvallis, OR | 1.1569 | 1.1050
Benton, OR
1900 ² Cumberland, MD-WV (MD Hospitals) | 0.8855 | 0.9201
Allegany, MD
Mineral, WV
1900 ² Cumberland, MD-WV (WV Hospitals) | 0.8053 | 0.8622
Allegany, MD
Mineral, WV
1920 ¹ Dallas, TX | 0.9831 | 0.9884
Collin, TX
Dallas, TX
Denton, TX
Ellis, TX
Henderson, TX
Hunt, TX
Kaufman, TX
Rockwall, TX
1950 Danville, VA | 0.8785 | 0.9151
Danville City, VA
Pittsylvania, VA
1960 Davenport-Moline-Rock Island, IA-IL | 0.8872 | 0.9213
Scott, IA
Henry, IL
Rock Island, IL
2000 Dayton-Springfield, OH | 0.9378 | 0.9570
Clark, OH
Greene, OH
Miami, OH
Montgomery, OH
2020 Daytona Beach, FL | 0.9133 | 0.9398
Flagler, FL
Volusia, FL
2030 Decatur, AL | 0.9066 | 0.9351
Lawrence, AL
Morgan, AL
2040 ² Decatur, IL | 0.8301 | 0.8803
Macon, IL
2080 ¹ Denver, CO | 1.0401 | 1.0273
Adams, CO
Arapahoe, CO
Denver, CO
Douglas, CO
Jefferson, CO
2120 Des Moines, IA | 0.8908 | 0.9239
Dallas, IA
Polk, IA
Warren, IA
2160 ¹ Detroit, MI | 1.0506 | 1.0344
Lapeer, MI
Macomb, MI
Monroe, MI
Oakland, MI
St. Clair, MI
Wayne, MI
2180 Dothan, AL | 0.8028 | 0.8603
Dale, AL
Houston, AL
2190 Dover, DE | 0.9452 | 0.9621
Kent, DE
2200 Dubuque, IA | 0.8801 | 0.9163
Dubuque, IA
2240 Duluth-Superior, MN-WI | 1.0462 | 1.0314
St. Louis, MN
Douglas, WI
2281 Dutchess County, NY | 1.0793 | 1.0536
Dutchess, NY
2290 ² Eau Claire, WI | 0.9229 | 0.9465
Chippewa, WI
Eau Claire, WI
2320 El Paso, TX | 0.9137 | 0.9401
El Paso, TX
2330 Elkhart-Goshen, IN | 0.9851 | 0.9898
Elkhart, IN
2335 ² Elmira, NY | 0.8633 | 0.9042
Chemung, NY
2340 Enid, OK | 0.8387 | 0.8865
Garfield, OK
2360 Erie, PA | 0.9016 | 0.9315
Erie, PA
2400 Eugene-Springfield, OR | 1.1077 | 1.0726
Lane, OR
2440 ² Evansville-Henderson, IN-KY (IN Hospitals) | 0.8796 | 0.9159
Posey, IN
Vanderburgh, IN
Warrick, IN
Henderson, KY
2440 Evansville-Henderson, IN-KY (KY Hospitals) | 0.8254 | 0.8769
Posey, IN
Vanderburgh, IN
Warrick, IN
Henderson, KY
2520 Fargo-Moorhead, ND-MN | 0.9783 | 0.9851
Clay, MN
Cass, ND
2560 Fayetteville, NC | 0.9055 | 0.9343
Cumberland, NC
2580 Fayetteville-Springdale-Rogers, AR | 0.8182 | 0.8716
Benton, AR
Washington, AR
2620 Flagstaff, AZ-UT | 1.0791 | 1.0535
Coconino, AZ
Kane, UT
2640 Flint, MI | 1.1233 | 1.0829
Genesee, MI
2650 Florence, AL | 0.7960 | 0.8554
Colbert, AL
Lauderdale, AL
2655 Florence, SC | 0.8869 | 0.9211
Florence, SC
2670 Fort Collins-Loveland, CO | 0.9923 | 0.9947
Larimer, CO
2680 ¹ Ft. Lauderdale, FL | 1.0792 | 1.0536
Broward, FL
2700 Fort Myers-Cape Coral, FL | 0.9456 | 0.9624
Lee, FL
2710 Fort Pierce-Port St. Lucie, FL | 0.9959 | 0.9972
Martin, FL
St. Lucie, FL
2720 Fort Smith, AR-OK | 0.7811 | 0.8444
Crawford, AR
Sebastian, AR
Sequoyah, OK
2750 Fort Walton Beach, FL | 0.9651 | 0.9760
Okaloosa, FL
2760 Fort Wayne, IN | 0.9499 | 0.9654
Adams, IN
Allen, IN
De Kalb, IN
Huntington, IN
Wells, IN
Whitley, IN
2800 ¹ Forth Worth-Arlington, TX | 0.9620 | 0.9738
Hood, TX
Johnson, TX
Parker, TX
Tarrant, TX
2840 Fresno, CA | 1.0340 | 1.0232
Fresno, CA
Madera, CA
2880 Gadsden, AL | 0.8684 | 0.9079
Etowah, AL
2900 Gainesville, FL | 0.9730 | 0.9814
Alachua, FL
2920 Galveston-Texas City, TX | 0.9603 | 0.9726
Galveston, TX
2960 Gary, IN | 0.9676 | 0.9777
Lake, IN
Porter, IN
2975 ² Glens Falls, NY | 0.8633 | 0.9042
Warren, NY
Washington, NY
2980 Goldsboro, NC | 0.8982 | 0.9291
Wayne, NC
2985 Grand Forks, ND-MN | 0.9338 | 0.9542
Polk, MN
Grand Forks, ND
2995 Grand Junction, CO | 0.9824 | 0.9879
Mesa, CO
3000 ¹ Grand Rapids-Muskegon-Holland, MI | 0.9664 | 0.9769
Allegan, MI
Kent, MI
Muskegon, MI
Ottawa, MI
3040 Great Falls, MT | 0.9057 | 0.9344
Cascade, MT
3060 Greeley, CO | 0.9219 | 0.9458
Weld, CO
3080 Green Bay, WI | 0.9599 | 0.9724
Brown, WI
3120 ¹ Greensboro-Winston-Salem-High Point, NC | 0.9270 | 0.9494
Alamance, NC
Davidson, NC
Davie, NC
Forsyth, NC
Guilford, NC
Randolph, NC
Stokes, NC
Yadkin, NC
3150 Greenville, NC | 0.9257 | 0.9485
Pitt, NC
3160 Greenville-Spartanburg-Anderson, SC | 0.9177 | 0.9429
Anderson, SC
Cherokee, SC
Greenville, SC
Pickens, SC
Spartanburg, SC
3180 Hagerstown, MD | 0.9362 | 0.9559
Washington, MD
3200 Hamilton-Middletown, OH | 0.9484 | 0.9644
Butler, OH
3240 Harrisburg-Lebanon-Carlisle, PA | 0.9315 | 0.9526
Cumberland, PA
Dauphin, PA
Lebanon, PA
Perry, PA
3283 ¹ ² Hartford, CT | 1.2520 | 1.1664
Hartford, CT
Litchfield, CT
Middlesex, CT
Tolland, CT
3285 ² Hattiesburg, MS | 0.7759 | 0.8405
Forrest, MS
Lamar, MS
3290 Hickory-Morganton-Lenoir, NC | 0.8958 | 0.9274
Alexander, NC
Burke, NC
Caldwell, NC
Catawba, NC
3320 Honolulu, HI | 1.1121 | 1.0755
Honolulu, HI
3350 Houma, LA | 0.8470 | 0.8925
Lafourche, LA
Terrebonne, LA
3360 ¹ Houston, TX | 0.9746 | 0.9825
Chambers, TX
Fort Bend, TX
Harris, TX
Liberty, TX
Montgomery, TX
Waller, TX
3400 Huntington-Ashland, WV-KY-OH | 0.9744 | 0.9824
Boyd, KY
Carter, KY
Greenup, KY
Lawrence, OH
Cabell, WV
Wayne, WV
3440 Huntsville, AL | 0.8901 | 0.9234
Limestone, AL
Madison, AL
3480 ¹ Indianapolis, IN | 0.9828 | 0.9882
Boone, IN
Hamilton, IN
Hancock, IN
Hendricks, IN
Johnson, IN
Madison, IN
Marion, IN
Morgan, IN
Shelby, IN
3500 Iowa City, IA | 1.0025 | 1.0017
Johnson, IA
3520 Jackson, MI | 0.9591 | 0.9718
Jackson, MI
3560 Jackson, MS | 0.8713 | 0.9100
Hinds, MS
Madison, MS
Rankin, MS
3580 Jackson, TN | 0.9370 | 0.9564
Madison, TN
Chester, TN
3600 ¹ Jacksonville, FL | 0.9341 | 0.9544
Clay, FL
Duval, FL
Nassau, FL
St. Johns, FL
3605 ² Jacksonville, NC | 0.8714 | 0.9100
Onslow, NC
3610 ² Jamestown, NY | 0.8633 | 0.9042
Chautauqua, NY
3620 Janesville-Beloit, WI | 0.9696 | 0.9791
Rock, WI
3640 Jersey City, NJ | 1.1200 | 1.0807
Hudson, NJ
3660 Johnson City-Kingsport-Bristol, TN-VA (TN Hospitals) | 0.8384 | 0.8863
Carter, TN
Hawkins, TN
Sullivan, TN
Unicoi, TN
Washington, TN
Bristol City, VA
Scott, VA
Washington, VA
3660 ² Johnson City-Kingsport-Bristol, TN-VA (VA Hospitals) | 0.8494 | 0.8942
Carter, TN
Hawkins, TN
Sullivan, TN
Unicoi, TN
Washington, TN
Bristol City, VA
Scott, VA
Washington, VA
3680 ² Johnstown, PA | 0.8525 | 0.8965
Cambria, PA
Somerset, PA
3700 Jonesboro, AR | 0.7906 | 0.8514
Craighead, AR
3710 Joplin, MO | 0.8700 | 0.9090
Jasper, MO
Newton, MO
3720 Kalamazoo-Battlecreek, MI | 1.0689 | 1.0467
Calhoun, MI
Kalamazoo, MI
Van Buren, MI
3740 Kankakee, IL | 0.9591 | 0.9718
Kankakee, IL
3760 ¹ Kansas City, KS-MO | 0.9809 | 0.9869
Johnson, KS
Leavenworth, KS
Miami, KS
Wyandotte, KS
Cass, MO
Clay, MO
Clinton, MO
Jackson, MO
Lafayette, MO
Platte, MO
Ray, MO
3800 Kenosha, WI | 0.9741 | 0.9822
Kenosha, WI
3810 Killeen-Temple, TX | 0.8447 | 0.8909
Bell, TX
Coryell, TX
3840 Knoxville, TN | 0.9090 | 0.9368
Anderson, TN
Blount, TN
Knox, TN
Loudon, TN
Sevier, TN
Union, TN
3850 Kokomo, IN | 0.9031 | 0.9326
Howard, IN
Tipton, IN
3870 ² La Crosse, WI-MN (WI Hospitals) | 0.9229 | 0.9465
Houston, MN
La Crosse, WI
3870 ² La Crosse, WI-MN (MN Hospitals) | 0.9249 | 0.9479
Houston, MN
La Crosse, WI
3880 Lafayette, LA | 0.8550 | 0.8983
Acadia, LA
Lafayette, LA
St. Landry, LA
St. Martin, LA
3920 Lafayette, IN | 0.9515 | 0.9665
Clinton, IN
Tippecanoe, IN
3960 Lake Charles, LA | 0.8030 | 0.8605
Calcasieu, LA
3980 Lakeland-Winter Haven, FL | 0.9170 | 0.9424
Polk, FL
4000 Lancaster, PA | 0.9171 | 0.9425
Lancaster, PA
4040 Lansing-East Lansing, MI | 0.9827 | 0.9881
Clinton, MI
Eaton, MI
Ingham, MI
4080 Laredo, TX | 0.8504 | 0.8950
Webb, TX
4100 Las Cruces, NM | 0.8888 | 0.9224
Dona Ana, NM
4120 ¹ Las Vegas, NV-AZ | 1.1018 | 1.0686
Mohave, AZ
Clark, NV
Nye, NV
4150 Lawrence, KS | 0.7964 | 0.8556
Douglas, KS
4200 Lawton, OK | 0.8251 | 0.8766
Comanche, OK
4243 Lewiston-Auburn, ME | 0.9249 | 0.9479
Androscoggin, ME
4280 Lexington, KY | 0.8629 | 0.9040
Bourbon, KY
Clark, KY
Fayette, KY
Jessamine, KY
Madison, KY
Scott, KY
Woodford, KY
4320 Lima, OH | 0.9515 | 0.9665
Allen, OH
Auglaize, OH
4360 Lincoln, NE | 0.9133 | 0.9398
Lancaster, NE
4400 Little Rock-North Little Rock, AR | 0.9045 | 0.9336
Faulkner, AR
Lonoke, AR
Pulaski, AR
Saline, AR
4420 Longview-Marshall, TX | 0.8588 | 0.9010
Gregg, TX
Harrison, TX
Upshur, TX
4480 ¹ Los Angeles-Long Beach, CA | 1.2044 | 1.1358
Los Angeles, CA
4520 ¹ Louisville, KY-IN | 0.9517 | 0.9667
Clark, IN
Floyd, IN
Harrison, IN
Scott, IN
Bullitt, KY
Jefferson, KY
Oldham, KY
4600 Lubbock, TX | 0.7809 | 0.8442
Lubbock, TX
4640 Lynchburg, VA | 0.9311 | 0.9523
Amherst, VA
Bedford, VA
Bedford City, VA
Campbell, VA
Lynchburg City, VA
4680 Macon, GA | 0.9296 | 0.9512
Bibb, GA
Houston, GA
Jones, GA
Peach, GA
Twiggs, GA
4720 Madison, WI | 1.0188 | 1.0128
Dane, WI
4800 Mansfield, OH | 0.8989 | 0.9296
Crawford, OH
Richland, OH
4840 Mayaguez, PR | 0.4921 | 0.6153
Anasco, PR
Cabo Rojo, PR
Hormigueros, PR
Mayaguez, PR
Sabana Grande, PR
San German, PR
4880 McAllen-Edinburg-Mission, TX | 0.8419 | 0.8888
Hidalgo, TX
4890 Medford-Ashland, OR | 1.0605 | 1.0410
Jackson, OR
4900 Melbourne-Titusville-Palm Bay, FL | 1.0782 | 1.0529
Brevard, Fl
4920 ¹ Memphis, TN-AR-MS | 0.8839 | 0.9190
Crittenden, AR
DeSoto, MS
Fayette, TN
Shelby, TN
Tipton, TN
4940 Merced, CA | 0.9937 | 0.9957
Merced, CA
5000 ¹ Miami, FL | 0.9878 | 0.9916
Dade, FL
5015 ¹ Middlesex-Somerset-Hunterdon, NJ | 1.1454 | 1.0974
Hunterdon, NJ
Middlesex, NJ
Somerset, NJ
5080 ¹ Milwaukee-Waukesha, WI | 0.9901 | 0.9932
Milwaukee, WI
Ozaukee, WI
Washington, WI
Waukesha, WI
5120 ¹ Minneapolis-St. Paul, MN-WI | 1.0969 | 1.0654
Anoka, MN
Carver, MN
Chisago, MN
Dakota, MN
Hennepin, MN
Isanti, MN
Ramsey, MN
Scott, MN
Sherburne, MN
Washington, MN
Wright, MN
Pierce, WI
St. Croix, WI
5140 Missoula, MT | 0.9250 | 0.9480
Missoula, MT
5160 Mobile, AL | 0.8181 | 0.8715
Baldwin, AL
Mobile, AL
5170 Modesto, CA | 1.0606 | 1.0411
Stanislaus, CA
5190 ¹ Monmouth-Ocean, NJ | 1.1290 | 1.0866
Monmouth, NJ
Ocean, NJ
5200 Monroe, LA | 0.8191 | 0.8723
Ouachita, LA
5240 ² Montgomery, AL | 0.7853 | 0.8475
Autauga, AL
Elmore, AL
Montgomery, AL
5280 Muncie, IN | 0.9150 | 0.9410
Delaware, IN
5330 Myrtle Beach, SC | 0.9141 | 0.9403
Horry, SC
5345 Naples, FL | 0.9803 | 0.9865
Collier, FL
5360 ¹ Nashville, TN | 0.9456 | 0.9624
Cheatham, TN
Davidson, TN
Dickson, TN
Robertson, TN
Rutherford TN
Sumner, TN
Williamson, TN
Wilson, TN
5380 ¹ Nassau-Suffolk, NY | 1.3441 | 1.2245
Nassau, NY
Suffolk, NY
5483 ¹ ² New Haven-Bridgeport-Stamford-Waterbury-Danbury, CT | 1.2520 | 1.1664
Fairfield, CT
New Haven, CT
5523 ² New London-Norwich, CT | 1.2520 | 1.1664
New London, CT
5560 ¹ New Orleans, LA | 0.9050 | 0.9339
Jefferson, LA
Orleans, LA
Plaquemines, LA
St. Bernard, LA
St. Charles, LA
St. James, LA
St. John The Baptist, LA
St. Tammany, LA
5600 ¹ New York, NY | 1.4069 | 1.2634
Bronx, NY
Kings, NY
New York, NY
Putnam, NY
Queens, NY
Richmond, NY
Rockland, NY
Westchester, NY
5640 ¹ Newark, NJ | 1.1546 | 1.1035
Essex, NJ
Morris, NJ
Sussex, NJ
Union, NJ
Warren, NJ
5660 Newburgh, NY-PA | 1.1434 | 1.0961
Orange, NY
Pike, PA
5720 ¹ Norfolk-Virginia Beach-Newport News, VA-NC | 0.8553 | 0.8985
Currituck, NC
Chesapeake City, VA
Gloucester, VA
Hampton City, VA
Isle of Wight, VA
James City, VA
Mathews, VA
Newport News City, VA
Norfolk City, VA
Poquoson City, VA
Portsmouth City, VA
Suffolk City, VA
Virginia Beach City VA
Williamsburg City, VA
York, VA
5775 ¹ Oakland, CA | 1.5324 | 1.3395
Alameda, CA
Contra Costa, CA
5790 Ocala, FL | 0.9526 | 0.9673
Marion, FL
5800 Odessa-Midland, TX | 0.9233 | 0.9468
Ector, TX
Midland, TX
5880 ¹ Oklahoma City, OK | 0.8997 | 0.9302
Canadian, OK
Cleveland, OK
Logan, OK
McClain, OK
Oklahoma, OK
Pottawatomie, OK
5910 Olympia, WA | 1.1071 | 1.0722
Thurston, WA
5920 Omaha, NE-IA | 1.0089 | 1.0061
Pottawattamie, IA
Cass, NE
Douglas, NE
Sarpy, NE
Washington, NE
5945 ¹ Orange County, CA | 1.1726 | 1.1152
Orange, CA
5960 ¹ Orlando, FL | 0.9537 | 0.9681
Lake, FL
Orange, FL
Osceola, FL
Seminole, FL
5990 Owensboro, KY | 0.8283 | 0.8790
Daviess, KY
6015 Panama City, FL | 0.8926 | 0.9251
Bay, FL
6020 Parkersburg-Marietta, WV-OH (WV Hospitals) | 0.8210 | 0.8737
Washington, OH
Wood, WV
6020 ² Parkersburg-Marietta, WV-OH (OH Hospitals) | 0.8675 | 0.9072
Washington, OH
Wood, WV
6080 ² Pensacola, FL | 0.8907 | 0.9238
Escambia, FL
Santa Rosa, FL
6120 Peoria-Pekin, IL | 0.8854 | 0.9200
Peoria, IL
Tazewell, IL
Woodford, IL
6160 ¹ Philadelphia, PA-NJ | 1.0675 | 1.0457
Burlington, NJ
Camden, NJ
Gloucester, NJ
Salem, NJ
Bucks, PA
Chester, PA
Delaware, PA
Montgomery, PA
Philadelphia, PA
6200 ¹ Phoenix-Mesa, AZ | 0.9562 | 0.9698
Maricopa, AZ
Pinal, AZ
6240 Pine Bluff, AR | 0.7866 | 0.8484
Jefferson, AR
6280 ¹ Pittsburgh, PA | 0.9403 | 0.9587
Allegheny, PA
Beaver, PA
Butler, PA
Fayette, PA
Washington, PA
Westmoreland, PA
6323 ² Pittsfield, MA | 1.1257 | 1.0845
Berkshire, MA
6340 Pocatello, ID | 0.9013 | 0.9313
Bannock, ID
6360 Ponce, PR | 0.5221 | 0.6408
Guayanilla, PR
Juana Diaz, PR
Penuelas, PR
Ponce, PR
Villalba, PR
Yauco, PR
6403 Portland, ME | 0.9932 | 0.9953
Cumberland, ME
Sagadahoc, ME
York, ME
6440 ¹ Portland-Vancouver, OR-WA | 1.0792 | 1.0536
Clackamas, OR
Columbia, OR
Multnomah, OR
Washington, OR
Yamhill, OR
Clark, WA
6483 ¹ Providence-Warwick-Pawtucket, RI | 1.0558 | 1.0379
Bristol, RI
Kent, RI
Newport, RI
Providence, RI
Washington, RI
6520 Provo-Orem, UT | 1.0190 | 1.0130
Utah, UT
6560 ² Pueblo, CO | 0.9104 | 0.9377
Pueblo, CO
6580 ² Punta Gorda, FL | 0.8907 | 0.9238
Charlotte, FL
6600 Racine, WI | 0.9413 | 0.9594
Racine, WI
6640 ¹ Raleigh-Durham-Chapel Hill, NC | 1.0083 | 1.0057
Chatham, NC
Durham, NC
Franklin, NC
Johnston, NC
Orange, NC
Wake, NC
6660 Rapid City, SD | 0.8936 | 0.9259
Pennington, SD
6680 Reading, PA | 0.9308 | 0.9521
Berks, PA
6690 Redding, CA | 1.1249 | 1.0839
Shasta, CA
6720 Reno, NV | 1.0664 | 1.0450
Washoe, NV
6740 Richland-Kennewick-Pasco, WA | 1.1608 | 1.1075
Benton, WA
Franklin, WA
6760 Richmond-Petersburg, VA | 0.9735 | 0.9818
Charles City County, VA
Chesterfield, VA
Colonial Heights City, VA
Dinwiddie, VA
Goochland, VA
Hanover, VA
Henrico, VA
Hopewell City, VA
New Kent, VA
Petersburg City, VA
Powhatan, VA
Prince George, VA
Richmond City, VA
6780 ¹ Riverside-San Bernardino, CA | 1.1251 | 1.0841
Riverside, CA
San Bernardino, CA
6800 Roanoke, VA | 0.8703 | 0.9093
Botetourt, VA
Roanoke, VA
Roanoke City, VA
Salem City, VA
6820 Rochester, MN | 1.2263 | 1.1499
Olmsted, MN
6840 ¹ Rochester, NY | 0.9133 | 0.9398
Genesee, NY
Livingston, NY
Monroe, NY
Ontario, NY
Orleans, NY
Wayne, NY
6880 Rockford, IL | 0.9456 | 0.9624
Boone, IL
Ogle, IL
Winnebago, IL
6895 Rocky Mount, NC | 0.9322 | 0.9531
Edgecombe, NC
Nash, NC
6920 ¹ Sacramento, CA | 1.1636 | 1.1093
El Dorado, CA
Placer, CA
Sacramento, CA
6960 Saginaw-Bay City-Midland, MI | 0.9709 | 0.9800
Bay, MI
Midland, MI
Saginaw, MI
6980 St. Cloud, MN | 0.9858 | 0.9903
Benton, MN
Stearns, MN
7000 ² St. Joseph, MO | 0.8099 | 0.8656
Andrew, MO
Buchanan, MO
7040 ¹ St. Louis, MO-IL | 0.8907 | 0.9238
Clinton, IL
Jersey, IL
Madison, IL
Monroe, IL
St. Clair, IL
Franklin, MO
Jefferson, MO
Lincoln, MO
St. Charles, MO
St. Louis, MO
St. Louis City, MO
Warren, MO
7080 Salem, OR | 1.0473 | 1.0322
Marion, OR
Polk, OR
7120 Salinas, CA | 1.4772 | 1.3063
Monterey, CA
7160 ¹ Salt Lake City-Ogden, UT | 1.0035 | 1.0024
Davis, UT
Salt Lake, UT
Weber, UT
7200 San Angelo, TX | 0.7956 | 0.8551
Tom Green, TX
7240 ¹ San Antonio, TX | 0.8649 | 0.9054
Bexar, TX
Comal, TX
Guadalupe, TX
Wilson, TX
7320 ¹ San Diego, CA | 1.1247 | 1.0838
San Diego, CA
7360 ¹ San Francisco, CA | 1.4288 | 1.2768
Marin, CA
San Francisco, CA
San Mateo, CA
7400 ¹ San Jose, CA | 1.4162 | 1.2691
Santa Clara, CA
7440 ¹ San Juan-Bayamon, PR | 0.4706 | 0.5968
Aguas Buenas, PR
Barceloneta, PR
Bayamon, PR
Canovanas, PR
Carolina, PR
Catano, PR
Ceiba, PR
Comerio, PR
Corozal, PR
Dorado, PR
Fajardo, PR
Florida, PR
Guaynabo, PR
Humacao, PR
Juncos, PR
Los Piedras, PR
Loiza, PR
Luguillo, PR
Manati, PR
Morovis, PR
Naguabo, PR
Naranjito, PR
Rio Grande, PR
San Juan, PR
Toa Alta, PR
Toa Baja, PR
Trujillo Alto, PR
Vega Alta, PR
Vega Baja, PR
Yabucoa, PR
7460 San Luis Obispo-Atascadero-Paso Robles, CA | 1.1386 | 1.0930
San Luis Obispo, CA
7480 Santa Barbara-Santa Maria-Lompoc, CA | 1.0588 | 1.0399
Santa Barbara, CA
7485 Santa Cruz-Watsonville, CA | 1.3630 | 1.2362
Santa Cruz, CA
7490 Santa Fe, NM | 1.0822 | 1.0556
Los Alamos, NM
Santa Fe, NM
7500 Santa Rosa, CA | 1.3179 | 1.2081
Sonoma, CA
7510 Sarasota-Bradenton, FL | 0.9367 | 0.9562
Manatee, FL
Sarasota, FL
7520 Savannah, GA | 0.9961 | 0.9973
Bryan, GA
Chatham, GA
Effingham, GA
7560 ² Scranton--Wilkes-Barre--Hazleton, PA | 0.8525 | 0.8965
Columbia, PA
Lackawanna, PA
Luzerne, PA
Wyoming, PA
7600 ¹ Seattle-Bellevue-Everett, WA | 1.1571 | 1.1051
Island, WA
King, WA
Snohomish, WA
7610 ² Sharon, PA | 0.8525 | 0.8965
Mercer, PA
7620 ² Sheboygan, WI | 0.9229 | 0.9465
Sheboygan, WI
7640 Sherman-Denison, TX | 0.9334 | 0.9539
Grayson, TX
7680 Shreveport-Bossier City, LA | 0.8813 | 0.9171
Bossier, LA
Caddo, LA
Webster, LA
7720 Sioux City, IA-NE | 0.9138 | 0.9401
Woodbury, IA
Dakota, NE
7760 Sioux Falls, SD | 0.9098 | 0.9373
Lincoln, SD
Minnehaha, SD
7800 South Bend, IN | 0.9902 | 0.9933
St. Joseph, IN
7840 Spokane, WA | 1.0961 | 1.0649
Spokane, WA
7880 Springfield, IL | 0.8654 | 0.9057
Menard, IL
Sangamon, IL
7920 Springfield, MO | 0.8510 | 0.8954
Christian, MO
Greene, MO
Webster, MO
8003 ² Springfield, MA | 1.1257 | 1.0845
Hampden, MA
Hampshire, MA
8050 State College, PA | 0.9032 | 0.9327
Centre, PA
8080 Steubenville-Weirton, OH-WV | 0.8893 | 0.9228
Jefferson, OH
Brooke, WV
Hancock, WV
8120 Stockton-Lodi, CA | 1.0630 | 1.0427
San Joaquin, CA
8140 ² Sumter, SC | 0.8607 | 0.9024
Sumter, SC
8160 Syracuse, NY | 0.9519 | 0.9668
Cayuga, NY
Madison, NY
Onondaga, NY
Oswego, NY
8200 Tacoma, WA | 1.1052 | 1.0709
Pierce, WA
8240 ² Tallahassee, FL | 0.8907 | 0.9238
Gadsden, FL
Leon, FL
8280 ¹ Tampa-St. Petersburg-Clearwater, FL | 0.9238 | 0.9472
Hernando, FL
Hillsborough, FL
Pasco, FL
Pinellas, FL
8320 ² Terre Haute, IN | 0.8796 | 0.9159
Clay, IN
Vermillion, IN
Vigo, IN
8360 Texarkana,AR-Texarkana, TX | 0.8193 | 0.8724
Miller, AR
Bowie, TX
8400 Toledo, OH | 0.9863 | 0.9906
Fulton, OH
Lucas, OH
Wood, OH
8440 Topeka, KS | 0.8952 | 0.9270
Shawnee, KS
8480 Trenton, NJ | 1.0710 | 1.0481
Mercer, NJ
8520 Tucson, AZ | 0.8993 | 0.9299
Pima, AZ
8560 Tulsa, OK | 0.8398 | 0.8873
Creek, OK
Osage, OK
Rogers, OK
Tulsa, OK
Wagoner, OK
8600 Tuscaloosa, AL | 0.8303 | 0.8804
Tuscaloosa, AL
8640 Tyler, TX | 0.9650 | 0.9759
Smith, TX
8680 ² Utica-Rome, NY | 0.8633 | 0.9042
Herkimer, NY
Oneida, NY
8720 Vallejo-Fairfield-Napa, CA | 1.3544 | 1.2309
Napa, CA
Solano, CA
8735 Ventura, CA | 1.1209 | 1.0813
Ventura, CA
8750 Victoria, TX | 0.8814 | 0.9172
Victoria, TX
8760 Vineland-Millville-Bridgeton, NJ | 1.0296 | 1.0202
Cumberland, NJ
8780 ² Visalia-Tulare-Porterville, CA | 0.9934 | 0.9955
Tulare, CA
8800 Waco, TX | 0.8802 | 0.9163
McLennan, TX
8840 ¹ Washington, DC-MD-VA-WV | 1.0852 | 1.0576
District of Columbia, DC
Calvert, MD
Charles, MD
Frederick, MD
Montgomery, MD
Prince Georges, MD
Alexandria City, VA
Arlington, VA
Clarke, VA
Culpeper, VA
Fairfax, VA
Fairfax City, VA
Falls Church City, VA
Fauquier, VA
Fredericksburg City, VA
King George, VA
Loudoun, VA
Manassas City, VA
Manassas Park City, VA
Prince William, VA
Spotsylvania, VA
Stafford, VA
Warren, VA
Berkeley, WV
Jefferson, WV
8920 Waterloo-Cedar Falls, IA | 0.8970 | 0.9283
Black Hawk, IA
8940 Wausau, WI | 0.9882 | 0.9919
Marathon, WI
8960 ¹ West Palm Beach-Boca Raton, FL | 0.9929 | 0.9951
Palm Beach, FL
9000 ² Wheeling, WV-OH (WV Hospitals) | 0.8053 | 0.8622
Belmont, OH
Marshall, WV
Ohio, WV
9000 ² Wheeling, WV-OH (OH Hospitals) | 0.8675 | 0.9072
Belmont, OH
Marshall, WV
Ohio, WV
9040 Wichita, KS | 0.9571 | 0.9704
Butler, KS
Harvey, KS
Sedgwick, KS
9080 Wichita Falls, TX | 0.8023 | 0.8600
Archer, TX
Wichita, TX
9140 Williamsport, PA | 0.8624 | 0.9036
Lycoming, PA
9160 Wilmington-Newark, DE-MD | 1.1287 | 1.0864
New Castle, DE
Cecil, MD
9200 Wilmington, NC | 0.9471 | 0.9635
New Hanover, NC
Brunswick, NC
9260 Yakima, WA | 1.0676 | 1.0458
Yakima, WA
9270 ² Yolo, CA | 0.9934 | 0.9955
Yolo, CA
9280 York, PA | 0.9140 | 0.9403
York, PA
9320 Youngstown-Warren, OH | 0.9485 | 0.9644
Columbiana, OH
Mahoning, OH
Trumbull, OH
9340 Yuba City, CA | 1.0310 | 1.0211
Sutter, CA
Yuba, CA
9360 Yuma, AZ | 0.8677 | 0.9074
Yuma, AZ
¹ Large Urban Area
² Hospitals geographically located in the area are assigned the statewide rural wage index for FY 2003.

Table 4B.—Wage Index and Capital Geographic Adjustment Factor (GAF) for Rural Areas
Nonurban area | Wage index | GAF
Alabama | 0.7853 | 0.8475
Alaska | 1.2323 | 1.1538
Arizona | 0.8483 | 0.8935
Arkansas | 0.7670 | 0.8339
California | 0.9934 | 0.9988
Colorado | 0.9104 | 0.9377
Connecticut | 1.2520 | 1.1664
Delaware | 0.9126 | 0.9393
Florida | 0.8907 | 0.9238
Georgia | 0.8254 | 0.8769
Hawaii | 1.0342 | 1.0233
Idaho | 0.8799 | 0.9161
Illinois | 0.8301 | 0.8803
Indiana | 0.8796 | 0.9159
Iowa | 0.8395 | 0.8871
Kansas | 0.7964 | 0.8556
Kentucky | 0.8079 | 0.8641
Louisiana | 0.7719 | 0.8375
Maine | 0.8754 | 0.9129
Maryland | 0.8855 | 0.9201
Massachusetts | 1.1257 | 1.0845
Michigan | 0.8961 | 0.9276
Minnesota | 0.9249 | 0.9479
Mississippi | 0.7759 | 0.8405
Missouri | 0.8099 | 0.8656
Montana | 0.8567 | 0.8995
Nebraska | 0.8283 | 0.8790
Nevada | 0.9519 | 0.9668
New Hampshire | 0.9882 | 0.9919
New Jersey ¹ |  |
New Mexico | 0.8645 | 0.9051
New York | 0.8633 | 0.9042
North Carolina | 0.8714 | 0.9100
North Dakota | 0.7830 | 0.8458
Ohio | 0.8675 | 0.9072
Oklahoma | 0.7664 | 0.8334
Oregon | 1.0408 | 1.0278
Pennsylvania | 0.8525 | 0.8965
Puerto Rico | 0.4400 | 0.5699
Rhode Island ¹ |  |
South Carolina | 0.8607 | 0.9024
South Dakota | 0.7895 | 0.8506
Tennessee | 0.7873 | 0.8489
Texas | 0.7759 | 0.8405
Utah | 0.9426 | 0.9603
Vermont | 0.9402 | 0.9587
Virginia | 0.8494 | 0.8942
Washington | 1.0274 | 1.0187
West Virginia | 0.8053 | 0.8622
Wisconsin | 0.9229 | 0.9465
Wyoming | 0.8890 | 0.9226
¹ All counties within the State are classified as urban.

Table 4C.—Wage Index and Capital Geographic Adjustment Factor (GAF) for Hospitals That Are Reclassified
Area | Wage index | GAF
Abilene, TX | 0.8534 | 0.8971
Akron, OH | 0.9685 | 0.9783
Albany, GA | 1.0658 | 1.0446
Albuquerque, NM | 0.9372 | 0.9566
Alexandria, LA | 0.7929 | 0.8531
Allentown-Bethlehem-Easton, PA | 0.9833 | 0.9885
Altoona, PA | 0.9300 | 0.9515
Amarillo, TX | 0.8900 | 0.9233
Anchorage, AK | 1.2610 | 1.1721
Ann Arbor, MI | 1.1217 | 1.0818
Anniston, AL | 0.7983 | 0.8570
Asheville, NC | 0.9448 | 0.9619
Athens, GA | 1.0161 | 1.0110
Atlanta, GA | 0.9985 | 0.9990
Augusta-Aiken, GA-SC | 0.9981 | 0.9987
Austin-San Marcos, TX | 0.9529 | 0.9675
Barnstable-Yarmouth, MA | 1.2894 | 1.1901
Baton Rouge, LA | 0.8281 | 0.8788
Bellingham, WA | 1.2139 | 1.1420
Benton Harbor, MI | 0.9072 | 0.9355
Bergen-Passaic, NJ | 1.2100 | 1.1394
Billings, MT | 0.9114 | 0.9384
Biloxi-Gulfport-Pascagoula, MS | 0.8417 | 0.8887
Binghamton, NY | 0.8525 | 0.8965
Birmingham, AL | 0.9301 | 0.9516
Bismarck, ND | 0.7881 | 0.8495
Boston-Worcester-Lawrence-Lowell-Brockton, MA-NH | 1.1304 | 1.0876
Burlington, VT | 0.9667 | 0.9771
Caguas, PR | 0.4453 | 0.5746
Casper, WY | 0.9655 | 0.9762
Champaign-Urbana, IL | 0.9334 | 0.9539
Charleston-North Charleston, SC | 0.8607 | 0.9024
Charleston, WV | 0.8602 | 0.9020
Charlotte-Gastonia-Rock Hill, NC-SC | 0.9839 | 0.9889
Charlottesville, VA | 1.0252 | 1.0172
Chattanooga, TN-GA | 0.8878 | 0.9217
Chicago, IL | 1.0953 | 1.0643
Cincinnati, OH-KY-IN | 0.9354 | 0.9553
Clarksville-Hopkinsville, TN-KY | 0.8239 | 0.8758
Cleveland-Lorain-Elyria, OH | 0.9295 | 0.9512
Columbia, MO | 0.8737 | 0.9117
Columbia, SC | 0.8990 | 0.9297
Columbus, GA-AL (GA Hospitals) | 0.8254 | 0.8769
Columbus, GA-AL (AL Hospitals) | 0.8041 | 0.8613
Columbus, OH | 0.9521 | 0.9669
Corpus Christi, TX | 0.8154 | 0.8696
Dallas, TX | 0.9831 | 0.9884
Danville, VA | 0.8530 | 0.8968
Davenport-Moline-Rock Island, IA-IL | 0.8872 | 0.9213
Dayton-Springfield, OH | 0.9378 | 0.9570
Denver, CO | 1.0401 | 1.0273
Des Moines, IA | 0.8908 | 0.9239
Detroit, MI | 1.0506 | 1.0344
Dothan, AL | 0.8028 | 0.8603
Dover, DE | 0.9274 | 0.9497
Duluth-Superior, MN-WI | 1.0462 | 1.0314
Eau Claire, WI | 0.9229 | 0.9465
Elkhart-Goshen, IN | 0.9484 | 0.9643
Erie, PA | 0.8850 | 0.9197
Eugene-Springfield, OR | 1.1077 | 1.0726
Fargo-Moorhead, ND-MN | 0.9564 | 0.9699
Fayetteville, NC | 0.9055 | 0.9343
Flagstaff, AZ-UT | 1.0234 | 1.0160
Flint, MI | 1.1041 | 1.0702
Florence, AL | 0.7960 | 0.8554
Florence, SC | 0.8869 | 0.9211
Fort Collins-Loveland, CO | 0.9923 | 0.9947
Ft. Lauderdale, FL | 1.0792 | 1.0536
Fort Pierce-Port St. Lucie, FL | 0.9959 | 0.9972
Fort Smith, AR-OK | 0.7681 | 0.8347
Fort Walton Beach, FL | 0.9365 | 0.9561
Forth Worth-Arlington, TX | 0.9620 | 0.9738
Gadsden, AL | 0.8684 | 0.9079
Grand Forks, ND-MN | 0.9338 | 0.9542
Grand Junction, CO | 0.9824 | 0.9879
Grand Rapids-Muskegon-Holland, MI | 0.9664 | 0.9769
Great Falls, MT | 0.9057 | 0.9344
Greeley, CO | 0.9219 | 0.9458
Green Bay, WI | 0.9347 | 0.9548
Greensboro-Winston-Salem-High Point, NC | 0.9131 | 0.9396
Greenville, NC | 0.9257 | 0.9485
Harrisburg-Lebanon-Carlisle, PA | 0.9315 | 0.9526
Hartford, CT | 1.1550 | 1.1037
Hattiesburg, MS | 0.7759 | 0.8405
Hickory-Morganton-Lenoir, NC | 0.8958 | 0.9274
Houston, TX | 0.9746 | 0.9825
Huntington-Ashland, WV-KY-OH | 0.9251 | 0.9481
Huntsville, AL | 0.8901 | 0.9234
Indianapolis, IN | 0.9828 | 0.9882
Iowa City, IA | 0.9828 | 0.9882
Jackson, MS | 0.8587 | 0.9009
Jackson, TN | 0.9032 | 0.9327
Jacksonville, FL | 0.9225 | 0.9463
Johnson City-Kingsport-Bristol, TN-VA (VA Hospitals) | 0.8494 | 0.8942
Johnson City-Kingsport-Bristol, TN-VA (KY Hospitals) | 0.8384 | 0.8863
Jonesboro, AR (AR Hospitals) | 0.7906 | 0.8514
Jonesboro, AR (MO Hospitals) | 0.8099 | 0.8656
Joplin, MO | 0.8700 | 0.9090
Kalamazoo-Battlecreek, MI | 1.0490 | 1.0333
Kansas City, KS-MO | 0.9809 | 0.9869
Knoxville, TN | 0.9090 | 0.9368
Kokomo, IN | 0.9031 | 0.9326
Lafayette, LA | 0.8392 | 0.8869
Lakeland-Winter Haven, FL | 0.9170 | 0.9424
Las Vegas, NV-AZ | 1.1018 | 1.0686
Lawton, OK | 0.8073 | 0.8636
Lexington, KY | 0.8629 | 0.9040
Lima, OH | 0.9515 | 0.9665
Lincoln, NE | 0.9133 | 0.9398
Little Rock-North Little Rock, AR | 0.8926 | 0.9251
Longview-Marshall, TX | 0.8588 | 0.9010
Los Angeles-Long Beach, CA | 1.2044 | 1.1358
Louisville, KY-IN | 0.9382 | 0.9573
Lubbock, TX | 0.7809 | 0.8442
Lynchburg, VA | 0.9114 | 0.9384
Macon, GA | 0.9296 | 0.9512
Madison, WI | 1.0188 | 1.0128
Mansfield, OH | 0.8989 | 0.9296
Medford-Ashland, OR | 1.0408 | 1.0278
Memphis, TN-AR-MS | 0.8667 | 0.9067
Miami, FL | 0.9878 | 0.9916
Milwaukee-Waukesha, WI | 0.9901 | 0.9932
Minneapolis-St. Paul, MN-WI | 1.0969 | 1.0654
Missoula, MT | 0.9139 | 0.9402
Mobile, AL | 0.8181 | 0.8715
Modesto, CA | 1.0606 | 1.0411
Monmouth-Ocean, NJ | 1.1290 | 1.0866
Monroe, LA | 0.8191 | 0.8723
Montgomery, AL | 0.7853 | 0.8475
Nashville, TN | 0.9283 | 0.9503
New Haven-Bridgeport-Stamford-Waterbury-
Danbury, CT | 1.2520 | 1.1664
New London-Norwich, CT | 1.1683 | 1.1124
New Orleans, LA | 0.9050 | 0.9339
New York, NY | 1.3936 | 1.2552
Newark, NJ | 1.1546 | 1.1035
Newburgh, NY-PA | 1.0820 | 1.0555
Norfolk-Virginia Beach-Newport News, VA-NC | 0.8714 | 0.9100
Oakland, CA | 1.5324 | 1.3395
Ocala, FL | 0.9343 | 0.9545
Odessa-Midland, TX | 0.8910 | 0.9240
Oklahoma City, OK | 0.8997 | 0.9302
Omaha, NE-IA | 1.0089 | 1.0061
Orange County, CA | 1.1726 | 1.1152
Orlando, FL | 0.9537 | 0.9681
Peoria-Pekin, IL | 0.8854 | 0.9200
Philadelphia, PA-NJ | 1.0675 | 1.0457
Phoenix-Mesa, AZ | 0.9562 | 0.9698
Pine Bluff, AR | 0.7760 | 0.8406
Pittsburgh, PA | 0.9268 | 0.9493
Pittsfield, MA | 0.9869 | 0.9910
Pocatello, ID | 0.9013 | 0.9313
Portland, ME | 0.9698 | 0.9792
Portland-Vancouver, OR-WA | 1.0792 | 1.0536
Provo-Orem, UT | 1.0088 | 1.0060
Raleigh-Durham-Chapel Hill, NC | 0.9978 | 0.9985
Rapid City, SD | 0.8936 | 0.9259
Reading, PA | 0.9126 | 0.9393
Redding, CA | 1.1249 | 1.0839
Reno, NV | 1.0445 | 1.0303
Richland-Kennewick-Pasco, WA | 1.1209 | 1.0813
Richmond-Petersburg, VA | 0.9735 | 0.9818
Roanoke, VA | 0.8703 | 0.9093
Rochester, MN | 1.2263 | 1.1499
Rockford, IL | 0.9456 | 0.9624
Sacramento, CA | 1.1636 | 1.1093
Saginaw-Bay City-Midland, MI | 0.9709 | 0.9800
St. Cloud, MN | 0.9858 | 0.9903
St. Joseph, MO | 0.8300 | 0.8802
St. Louis, MO-IL | 0.8907 | 0.9238
Salinas, CA | 1.4772 | 1.3063
Salt Lake City-Ogden, UT | 1.0035 | 1.0024
San Antonio, TX | 0.8649 | 0.9054
San Diego, CA | 1.1247 | 1.0838
Santa Fe, NM | 0.9927 | 0.9950
Santa Rosa, CA | 1.2891 | 1.1899
Sarasota-Bradenton, FL | 0.9367 | 0.9562
Savannah, GA | 0.9841 | 0.9891
Seattle-Bellevue-Everett, WA | 1.1571 | 1.1051
Sherman-Denison, TX | 0.9090 | 0.9368
Shreveport-Bossier City, LA | 0.8813 | 0.9171
Sioux City, IA-NE | 0.8736 | 0.9116
Sioux Falls, SD | 0.8950 | 0.9268
South Bend, IN | 0.9902 | 0.9933
Spokane, WA | 1.0770 | 1.0521
Springfield, IL | 0.8654 | 0.9057
Springfield, MO | 0.8236 | 0.8756
Stockton-Lodi, CA | 1.0630 | 1.0427
Syracuse, NY | 0.9519 | 0.9668
Tampa-St. Petersburg-Clearwater, FL | 0.9238 | 0.9472
Texarkana,AR-Texarkana, TX | 0.8193 | 0.8724
Toledo, OH | 0.9863 | 0.9906
Topeka, KS | 0.8840 | 0.9190
Tucson, AZ | 0.8993 | 0.9299
Tulsa, OK | 0.8398 | 0.8873
Tuscaloosa, AL | 0.8303 | 0.8804
Tyler, TX | 0.9249 | 0.9479
Vallejo-Fairfield-Napa, CA | 1.3544 | 1.2309
Victoria, TX | 0.8668 | 0.9067
Waco, TX | 0.8671 | 0.9070
Washington, DC-MD-VA-WV | 1.0852 | 1.0576
Waterloo-Cedar Falls, IA | 0.8970 | 0.9283
Wausau, WI | 0.9710 | 0.9800
West Palm Beach-Boca Raton, FL | 0.9929 | 0.9951
Wichita, KS | 0.9235 | 0.9470
Wichita Falls, TX | 0.7918 | 0.8523
Wilmington-Newark, DE-MD | 1.0973 | 1.0657
Wilmington, NC | 0.9336 | 0.9540
York, PA | 0.9140 | 0.9403
Youngstown-Warren, OH | 0.9485 | 0.9644
Rural Alabama | 0.7853 | 0.8475
Rural Florida | 0.8907 | 0.9238
Rural Illinois (IA Hospitals) | 0.8395 | 0.8871
Rural Illinois (MO Hospitals) | 0.8301 | 0.8803
Rural Kentucky | 0.8079 | 0.8641
Rural Louisiana | 0.7719 | 0.8375
Rural Massachusetts | 1.0417 | 1.0284
Rural Michigan | 0.8961 | 0.9276
Rural Minnesota | 0.9249 | 0.9479
Rural Mississippi | 0.7759 | 0.8405
Rural Missouri | 0.8099 | 0.8656
Rural Montana | 0.8567 | 0.8995
Rural Nebraska | 0.8283 | 0.8790
Rural Nevada | 0.9097 | 0.9372
Rural Texas | 0.7759 | 0.8405
Rural Washington | 1.0274 | 1.0187
Rural Wyoming | 0.8890 | 0.9226

Table 4F.—Puerto Rico Wage Index and Capital Geographic Adjustment Factor (GAF)
Area | Wage index | GAF | Wage index— reclass. hospitals | GAF— reclass. hospitals
Aguadilla, PR | 0.9781 | 0.9850 |  |
¹ Arecibo, PR | 0.9289 | 0.9507 |  |
Caguas, PR | 0.9400 | 0.9585 | 0.9400 | 0.9585
Mayaguez, PR | 1.0388 | 1.0264 |  |
Ponce, PR | 1.1021 | 1.0688 |  |
San Juan-Bayamon, PR | 0.9935 | 0.9955 |  |
Rural Puerto Rico | 0.9289 | 0.9507 |  |
¹ Hospitals geographically located in the area are assigned the Rural Puerto Rico wage index for FY 2003.

Table 4G.—Pre-Reclassified Wage Index for Urban Areas
Urban area (constituent counties) | Wage index
0040 Abilene, TX | 0.9268
Taylor, TX
0060 Aguadilla, PR | 0.4634
Aguada, PR
Aguadilla, PR
Moca, PR
0080 Akron, OH | 0.9685
Portage, OH
Summit, OH
0120 Albany, GA | 1.0835
Dougherty, GA
Lee, GA
0160 Albany-Schenectady-Troy, NY | 0.8633
Albany, NY
Montgomery, NY
Rensselaer, NY
Saratoga, NY
Schenectady, NY
Schoharie, NY
0200 Albuquerque, NM | 0.9279
Bernalillo, NM
Sandoval, NM
Valencia, NM
0220 Alexandria, LA | 0.7903
Rapides, LA
0240 Allentown-Bethlehem-Easton, PA | 0.9833
Carbon, PA
Lehigh, PA
Northampton, PA
0280 Altoona, PA | 0.9300
Blair, PA
0320 Amarillo, TX | 0.9051
Potter, TX
Randall, TX
0380 Anchorage, AK | 1.2477
Anchorage, AK
0440 Ann Arbor, MI | 1.1217
Lenawee, MI
Livingston, MI
Washtenaw, MI
0450 Anniston, AL | 0.8126
Calhoun, AL
0460 Appleton-Oshkosh-Neenah, WI | 0.9229
Calumet, WI
Outagamie, WI
Winnebago, WI
0470 Arecibo, PR | 0.4400
Arecibo, PR
Camuy, PR
Hatillo, PR
0480 Asheville, NC | 0.9682
Buncombe, NC
Madison, NC
0500 Athens, GA | 1.0308
Clarke, GA
Madison, GA
Oconee, GA
0520 Atlanta, GA | 1.0091
Barrow, GA
Bartow, GA
Carroll, GA
Cherokee, GA
Clayton, GA
Cobb, GA
Coweta, GA
DeKalb, GA
Douglas, GA
Fayette, GA
Forsyth, GA
Fulton, GA
Gwinnett, GA
Henry, GA
Newton, GA
Paulding, GA
Pickens, GA
Rockdale, GA
Spalding, GA
Walton, GA
0560 Atlantic-Cape May, NJ | 1.1058
Atlantic, NJ
Cape May, NJ
0580 Auburn-Opelika, AL | 0.8306
Lee, AL
0600 Augusta-Aiken, GA-SC | 1.0364
Columbia, GA
McDuffie, GA
Richmond, GA
Aiken, SC
Edgefield, SC
0640 Austin-San Marcos, TX | 0.9529
Bastrop, TX
Caldwell, TX
Hays, TX
Travis, TX
Williamson, TX
0680 Bakersfield, CA | 1.0186
Kern, CA
0720 Baltimore, MD | 0.9757
Anne Arundel, MD
Baltimore, MD
Baltimore City, MD
Carroll, MD
Harford, MD
Howard, MD
Queen Anne's, MD
0733 Bangor, ME | 0.9791
Penobscot, ME
0743 Barnstable-Yarmouth, MA | 1.3127
Barnstable, MA
0760 Baton Rouge, LA | 0.8388
Ascension, LA
East Baton Rouge, LA
Livingston, LA
West Baton Rouge, LA
0840 Beaumont-Port Arthur, TX | 0.8389
Hardin, TX
Jefferson, TX
Orange, TX
0860 Bellingham, WA | 1.2407
Whatcom, WA
0870 Benton Harbor, MI | 0.8992
Berrien, MI
0875 Bergen-Passaic, NJ | 1.2100
Bergen, NJ
Passaic, NJ
0880 Billings, MT | 0.9114
Yellowstone, MT
0920 Biloxi-Gulfport-Pascagoula, MS | 0.8830
Hancock, MS
Harrison, MS
Jackson, MS
0960 Binghamton, NY | 0.8633
Broome, NY
Tioga, NY
1000 Birmingham, AL | 0.9301
Blount, AL
Jefferson, AL
St. Clair, AL
Shelby, AL
1010 Bismarck, ND | 0.7848
Burleigh, ND
Morton, ND
1020 Bloomington, IN | 0.8997
Monroe, IN
1040 Bloomington-Normal, IL | 0.9202
McLean, IL
1080 Boise City, ID | 0.9403
Ada, ID
Canyon, ID
1123 Boston-Worcester-Lawrence-Lowell-Brockton,
MA-NH (NH Hospitals) | 1.1304
Bristol, MA
Essex, MA
Middlesex, MA
Norfolk, MA
Plymouth, MA
Suffolk, MA
Worcester, MA
Hillsborough, NH
Merrimack, NH
Rockingham, NH
Strafford, NH
1125 Boulder-Longmont, CO | 0.9688
Boulder, CO
1145 Brazoria, TX | 0.8617
Brazoria, TX
1150 Bremerton, WA | 1.1056
Kitsap, WA
1240 Brownsville-Harlingen-San Benito, TX | 0.8992
Cameron, TX
1260 Bryan-College Station, TX | 0.8410
Brazos, TX
1280 Buffalo-Niagara Falls, NY | 0.9464
Erie, NY
Niagara, NY
1303 Burlington, VT | 1.0176
Chittenden, VT
Franklin, VT
Grand Isle, VT
1310 Caguas, PR | 0.4415
Caguas, PR
Cayey, PR
Cidra, PR
Gurabo, PR
San Lorenzo, PR
1320 Canton-Massillon, OH | 0.9026
Carroll, OH
Stark, OH
1350 Casper, WY | 0.9788
Natrona, WY
1360 Cedar Rapids, IA | 0.9149
Linn, IA
1400 Champaign-Urbana, IL | 0.9983
Champaign, IL
1440 Charleston-North
Charleston, SC | 0.8607
Berkeley, SC
Charleston, SC
Dorchester, SC
1480 Charleston, WV | 0.8765
Kanawha, WV
Putnam, WV
1520 Charlotte-Gastonia-Rock Hill, NC-SC | 0.9839
Cabarrus, NC
Gaston, NC
Lincoln, NC
Mecklenburg, NC
Rowan, NC
Stanly, NC
Union, NC
York, SC
1540 Charlottesville, VA | 1.0583
Albemarle, VA
Charlottesville City, VA
Fluvanna, VA
Greene, VA
1560 Chattanooga, TN-GA | 0.9069
Catoosa, GA
Dade, GA
Walker, GA
Hamilton, TN
Marion, TN
1580 Cheyenne, WY | 0.8890
Laramie, WY
1600 Chicago, IL | 1.1088
Cook, IL
DeKalb, IL
DuPage, IL
Grundy, IL
Kane, IL
Kendall, IL
Lake, IL
McHenry, IL
Will, IL
1620 Chico-Paradise, CA | 0.9934
Butte, CA
1640 Cincinnati, OH-KY-IN | 0.9323
Dearborn, IN
Ohio, IN
Boone, KY
Campbell, KY
Gallatin, KY
Grant, KY
Kenton, KY
Pendleton, KY
Brown, OH
Clermont, OH
Hamilton, OH
Warren, OH
1660 Clarksville-Hopkinsville, TN-KY | 0.8386
Christian, KY
Montgomery, TN
1680 Cleveland-Lorain-Elyria, OH | 0.9295
Ashtabula, OH
Cuyahoga, OH
Geauga, OH
Lake, OH
Lorain, OH
Medina, OH
1720 Colorado Springs, CO | 0.9968
El Paso, CO
1740 Columbia, MO | 0.8737
Boone, MO
1760 Columbia, SC | 0.8990
Lexington, SC
Richland, SC
1800 Columbus, GA-AL | 0.8450
Russell, AL
Chattahoochee, GA
Harris, GA
Muscogee, GA
1840 Columbus, OH | 0.9705
Delaware, OH
Fairfield, OH
Franklin, OH
Licking, OH
Madison, OH
Pickaway, OH
1880 Corpus Christi, TX | 0.8154
Nueces, TX
San Patricio, TX
1890 Corvallis, OR | 1.1569
Benton, OR
1900 Cumberland, MD-WV (WV Hospital) | 0.8053
Allegany, MD
Mineral, WV
1920 Dallas, TX | 0.9831
Collin, TX
Dallas, TX
Denton, TX
Ellis, TX
Henderson, TX
Hunt, TX
Kaufman, TX
Rockwall, TX
1950 Danville, VA | 0.8785
Danville City, VA
Pittsylvania, VA
1960 Davenport-Moline-Rock
Island, IA-IL | 0.8872
Scott, IA
Henry, IL
Rock Island, IL
2000 Dayton-Springfield, OH | 0.9378
Clark, OH
Greene, OH
Miami, OH
Montgomery, OH
2020 Daytona Beach, FL | 0.9133
Flagler, FL
Volusia, FL
2030 Decatur, AL | 0.9066
Lawrence, AL
Morgan, AL
2040 Decatur, IL | 0.8301
Macon, IL
2080 Denver, CO | 1.0401
Adams, CO
Arapahoe, CO
Denver, CO
Douglas, CO
Jefferson, CO
2120 Des Moines, IA | 0.8867
Dallas, IA
Polk, IA
Warren, IA
2160 Detroit, MI | 1.0506
Lapeer, MI
Macomb, MI
Monroe, MI
Oakland, MI
St. Clair, MI
Wayne, MI
2180 Dothan, AL | 0.7990
Dale, AL
Houston, AL
2190 Dover, DE | 0.9452
Kent, DE
2200 Dubuque, IA | 0.8801
Dubuque, IA
2240 Duluth-Superior, MN-WI | 1.0462
St. Louis, MN
Douglas, WI
2281 Dutchess County, NY | 1.0793
Dutchess, NY
2290 Eau Claire, WI | 0.9229
Chippewa, WI
Eau Claire, WI
2320 El Paso, TX | 0.9137
El Paso, TX
2330 Elkhart-Goshen, IN | 0.9851
Elkhart, IN
2335 Elmira, NY | 0.8633
Chemung, NY
2340 Enid, OK | 0.8387
Garfield, OK
2360 Erie, PA | 0.9016
Erie, PA
2400 Eugene-Springfield, OR | 1.1077
Lane, OR
2440 Evansville-Henderson,
IN-KY (IN Hospitals) | 0.8796
Posey, IN
Vanderburgh, IN
Warrick, IN
Henderson, KY
2520 Fargo-Moorhead, ND-MN | 0.9783
Clay, MN
Cass, ND
2560 Fayetteville, NC | 0.8980
Cumberland, NC
2580 Fayetteville-Springdale-Rogers, AR | 0.8182
Benton, AR
Washington, AR
2620 Flagstaff, AZ-UT | 1.0791
Coconino, AZ
Kane, UT
2640 Flint, MI | 1.1233
Genesee, MI
2650 Florence, AL | 0.7927
Colbert, AL
Lauderdale, AL
2655 Florence, SC | 0.8869
Florence, SC
2670 Fort Collins-Loveland, CO | 0.9923
Larimer, CO
2680 Ft. Lauderdale, FL | 1.0368
Broward, FL
2700 Fort Myers-Cape Coral, FL | 0.9456
Lee, FL
2710 Fort Pierce-Port St. Lucie, FL | 0.9802
Martin, FL
St. Lucie, FL
2720 Fort Smith, AR-OK | 0.7811
Crawford, AR
Sebastian, AR
Sequoyah, OK
2750 Fort Walton Beach, FL | 0.9651
Okaloosa, FL
2760 Fort Wayne, IN | 0.9499
Adams, IN
Allen, IN
De Kalb, IN
Huntington, IN
Wells, IN
Whitley, IN
2800 Forth Worth-Arlington, TX | 0.9620
Hood, TX
Johnson, TX
Parker, TX
Tarrant, TX
2840 Fresno, CA | 1.0340
Fresno, CA
Madera, CA
2880 Gadsden, AL | 0.8580
Etowah, AL
2900 Gainesville, FL | 0.9730
Alachua, FL
2920 Galveston-Texas City, TX | 0.9603
Galveston, TX
2960 Gary, IN | 0.9676
Lake, IN
Porter, IN
2975 Glens Falls, NY | 0.8633
Warren, NY
Washington, NY
2980 Goldsboro, NC | 0.8982
Wayne, NC
2985 Grand Forks, ND-MN | 0.8988
Polk, MN
Grand Forks, ND
2995 Grand Junction, CO | 0.9615
Mesa, CO
3000 Grand Rapids-
Muskegon-Holland, MI | 0.9645
Allegan, MI
Kent, MI
Muskegon, MI
Ottawa, MI
3040 Great Falls, MT | 0.9042
Cascade, MT
3060 Greeley, CO | 0.9104
Weld, CO
3080 Green Bay, WI | 0.9599
Brown, WI
3120 Greensboro-Winston-Salem-High Point, NC | 0.9270
Alamance, NC
Davidson, NC
Davie, NC
Forsyth, NC
Guilford, NC
Randolph, NC
Stokes, NC
Yadkin, NC
3150 Greenville, NC | 0.9177
Pitt, NC
3160 Greenville-Spartanburg-Anderson, SC | 0.9177
Anderson, SC
Cherokee, SC
Greenville, SC
Pickens, SC
Spartanburg, SC
3180 Hagerstown, MD | 0.9362
Washington, MD
3200 Hamilton-Middletown, OH | 0.9484
Butler, OH
3240 Harrisburg-Lebanon-Carlisle, PA | 0.9315
Cumberland, PA
Dauphin, PA
Lebanon, PA
Perry, PA
3283 Hartford, CT | 1.2520
Hartford, CT
Litchfield, CT
Middlesex, CT
Tolland, CT
3285 ² Hattiesburg, MS | 0.7746
Forrest, MS
Lamar, MS
3290 Hickory-Morganton-Lenoir, NC | 0.8958
Alexander, NC
Burke, NC
Caldwell, NC
Catawba, NC
3320 Honolulu, HI | 1.1121
Honolulu, HI
3350 Houma, LA | 0.8470
Lafourche, LA
Terrebonne, LA
3360 Houston, TX | 0.9746
Chambers, TX
Fort Bend, TX
Harris, TX
Liberty, TX
Montgomery, TX
Waller, TX
3400 Huntington-Ashland,
WV-KY-OH | 0.9744
Boyd, KY
Carter, KY
Greenup, KY
Lawrence, OH
Cabell, WV
Wayne, WV
3440 Huntsville, AL | 0.8901
Limestone, AL
Madison, AL
3480 Indianapolis, IN | 0.9828
Boone, IN
Hamilton, IN
Hancock, IN
Hendricks, IN
Johnson, IN
Madison, IN
Marion, IN
Morgan, IN
Shelby, IN
3500 Iowa City, IA | 1.0025
Johnson, IA
3520 Jackson, MI | 0.9591
Jackson, MI
3560 Jackson, MS | 0.8713
Hinds, MS
Madison, MS
Rankin, MS
3580 Jackson, TN | 0.9370
Madison, TN
Chester, TN
3600 Jacksonville, FL | 0.9341
Clay, FL
Duval, FL
Nassau, FL
St. Johns, FL
3605 Jacksonville, NC | 0.8714
Onslow, NC
3610 Jamestown, NY | 0.8633
Chautauqua, NY
3620 Janesville-Beloit, WI | 0.9696
Rock, WI
3640 Jersey City, NJ | 1.1200
Hudson, NJ
3660 Johnson City-
Kingsport-Bristol, TN-VA | 0.8307
Carter, TN
Hawkins, TN
Sullivan, TN
Unicoi, TN
Washington, TN
Bristol City, VA
Scott, VA
Washington, VA
3680 Johnstown, PA | 0.8525
Cambria, PA
Somerset, PA
3700 Jonesboro, AR | 0.7828
Craighead, AR
3710 Joplin, MO | 0.8700
Jasper, MO
Newton, MO
3720 Kalamazoo-Battlecreek, MI | 1.0689
Calhoun, MI
Kalamazoo, MI
Van Buren, MI
3740 Kankakee, IL | 0.9591
Kankakee, IL
3760 Kansas City, KS-MO | 0.9809
Johnson, KS
Leavenworth, KS
Miami, KS
Wyandotte, KS
Cass, MO
Clay, MO
Clinton, MO
Jackson, MO
Lafayette, MO
Platte, MO
Ray, MO
3800 Kenosha, WI | 0.9741
Kenosha, WI
3810 Killeen-Temple, TX | 0.8447
Bell, TX
Coryell, TX
3840 Knoxville, TN | 0.9090
Anderson, TN
Blount, TN
Knox, TN
Loudon, TN
Sevier, TN
Union, TN
3850 Kokomo, IN | 0.8950
Howard, IN
Tipton, IN
3870 La Crosse, WI-MN | 0.9229
Houston, MN
La Crosse, WI
3880 Lafayette, LA | 0.8550
Acadia, LA
Lafayette, LA
St. Landry, LA
St. Martin, LA
3920 Lafayette, IN | 0.9515
Clinton, IN
Tippecanoe, IN
3960 Lake Charles, LA | 0.8030
Calcasieu, LA
3980 Lakeland-Winter Haven, FL | 0.9162
Polk, FL
4000 Lancaster, PA | 0.9171
Lancaster, PA
4040 Lansing-East Lansing, MI | 0.9827
Clinton, MI
Eaton, MI
Ingham, MI
4080 Laredo, TX | 0.8504
Webb, TX
4100 Las Cruces, NM | 0.8888
Dona Ana, NM
4120 Las Vegas, NV-AZ | 1.1018
Mohave, AZ
Clark, NV
Nye, NV
4150 Lawrence, KS | 0.7964
Douglas, KS
4200 Lawton, OK | 0.8251
Comanche, OK
4243 Lewiston-Auburn, ME | 0.9249
Androscoggin, ME
4280 Lexington, KY | 0.8629
Bourbon, KY
Clark, KY
Fayette, KY
Jessamine, KY
Madison, KY
Scott, KY
Woodford, KY
4320 Lima, OH | 0.9515
Allen, OH
Auglaize, OH
4360 Lincoln, NE | 0.8928
Lancaster, NE
4400 Little Rock-North
Little Rock, AR | 0.9045
Faulkner, AR
Lonoke, AR
Pulaski, AR
Saline, AR
4420 Longview-Marshall, TX | 0.8588
Gregg, TX
Harrison, TX
Upshur, TX
4480 Los Angeles-Long Beach, CA | 1.2027
Los Angeles, CA
4520 ¹ Louisville, KY-IN | 0.9517
Clark, IN
Floyd, IN
Harrison, IN
Scott, IN
Bullitt, KY
Jefferson, KY
Oldham, KY
4600 Lubbock, TX | 0.7752
Lubbock, TX
4640 Lynchburg, VA | 0.9311
Amherst, VA
Bedford, VA
Bedford City, VA
Campbell, VA
Lynchburg City, VA
4680 Macon, GA | 0.9259
Bibb, GA
Houston, GA
Jones, GA
Peach, GA
Twiggs, GA
4720 Madison, WI | 1.0188
Dane, WI
4800 Mansfield, OH | 0.8989
Crawford, OH
Richland, OH
4840 Mayaguez, PR | 0.4921
Anasco, PR
Cabo Rojo, PR
Hormigueros, PR
Mayaguez, PR
Sabana Grande, PR
San German, PR
4880 McAllen-Edinburg-Mission, TX | 0.8419
Hidalgo, TX
4890 Medford-Ashland, OR | 1.0605
Jackson, OR
4900 Melbourne-Titusville-Palm Bay, FL | 1.0782
Brevard, Fl
4920 Memphis, TN-AR-MS | 0.8839
Crittenden, AR
DeSoto, MS
Fayette, TN
Shelby, TN
Tipton, TN
4940 Merced, CA | 0.9937
Merced, CA
5000 Miami, FL | 0.9864
Dade, FL
5015 Middlesex-Somerset-Hunterdon, NJ | 1.1454
Hunterdon, NJ
Middlesex, NJ
Somerset, NJ
5080 Milwaukee-Waukesha, WI | 0.9901
Milwaukee, WI
Ozaukee, WI
Washington, WI
Waukesha, WI
5120 Minneapolis-St. Paul, MN-WI | 1.0969
Anoka, MN
Carver, MN
Chisago, MN
Dakota, MN
Hennepin, MN
Isanti, MN
Ramsey, MN
Scott, MN
Sherburne, MN
Washington, MN
Wright, MN
Pierce, WI
St. Croix, WI
5140 Missoula, MT | 0.9250
Missoula, MT
5160 Mobile, AL | 0.8179
Baldwin, AL
Mobile, AL
5170 Modesto, CA | 1.0606
Stanislaus, CA
5190 Monmouth-Ocean, NJ | 1.1270
Monmouth, NJ
Ocean, NJ
5200 Monroe, LA | 0.8191
Ouachita, LA
5240 Montgomery, AL | 0.7786
Autauga, AL
Elmore, AL
Montgomery, AL
5280 Muncie, IN | 0.9150
Delaware, IN
5330 Myrtle Beach, SC | 0.9141
Horry, SC
5345 Naples, FL | 0.9803
Collier, FL
5360 Nashville, TN | 0.9456
Cheatham, TN
Davidson, TN
Dickson, TN
Robertson, TN
Rutherford TN
Sumner, TN
Williamson, TN
Wilson, TN
5380 Nassau-Suffolk, NY | 1.3441
Nassau, NY
Suffolk, NY
5483 New Haven-Bridgeport-Stamford-Waterbury-Danbury, CT | 1.2520
Fairfield, CT
New Haven, CT
5523 New London-Norwich, CT | 1.2520
New London, CT
5560 New Orleans, LA | 0.9050
Jefferson, LA
Orleans, LA
Plaquemines, LA
St. Bernard, LA
St. Charles, LA
St. James, LA
St. John The Baptist, LA
St. Tammany, LA
5600 New York, NY | 1.4069
Bronx, NY
Kings, NY
New York, NY
Putnam, NY
Queens, NY
Richmond, NY
Rockland, NY
Westchester, NY
5640 Newark, NJ | 1.1504
Essex, NJ
Morris, NJ
Sussex, NJ
Union, NJ
Warren, NJ
5660 Newburgh, NY-PA | 1.1434
Orange, NY
Pike, PA
5720 Norfolk-Virginia Beach-Newport News, VA-NC | 0.8553
Currituck, NC
Chesapeake City, VA
Gloucester, VA
Hampton City, VA
Isle of Wight, VA
James City, VA
Mathews, VA
Newport News City, VA
Norfolk City, VA
Poquoson City, VA
Portsmouth City, VA
Suffolk City, VA
Virginia Beach City VA
Williamsburg City, VA
York, VA
5775 Oakland, CA | 1.5222
Alameda, CA
Contra Costa, CA
5790 Ocala, FL | 0.9526
Marion, FL
5800 Odessa-Midland, TX | 0.9233
Ector, TX
Midland, TX
5880 Oklahoma City, OK | 0.8997
Canadian, OK
Cleveland, OK
Logan, OK
McClain, OK
Oklahoma, OK
Pottawatomie, OK
5910 Olympia, WA | 1.1071
Thurston, WA
5920 Omaha, NE-IA | 1.0089
Pottawattamie, IA
Cass, NE
Douglas, NE
Sarpy, NE
Washington, NE
5945 Orange County, CA | 1.1604
Orange, CA
5960 Orlando, FL | 0.9537
Lake, FL
Orange, FL
Osceola, FL
Seminole, FL
5990 Owensboro, KY | 0.8283
Daviess, KY
6015 Panama City, FL | 0.8926
Bay, FL
6020 Parkersburg-Marietta, WV-OH | 0.8210
Washington, OH
Wood, WV
6080 Pensacola, FL | 0.8907
Escambia, FL
Santa Rosa, FL
6120 Peoria-Pekin, IL | 0.8854
Peoria, IL
Tazewell, IL
Woodford, IL
6160 Philadelphia, PA-NJ | 1.0675
Burlington, NJ
Camden, NJ
Gloucester, NJ
Salem, NJ
Bucks, PA
Chester, PA
Delaware, PA
Montgomery, PA
Philadelphia, PA
6200 Phoenix-Mesa, AZ | 0.9562
Maricopa, AZ
Pinal, AZ
6240 Pine Bluff, AR | 0.7866
Jefferson, AR
6280 Pittsburgh, PA | 0.9403
Allegheny, PA
Beaver, PA
Butler, PA
Fayette, PA
Washington, PA
Westmoreland, PA
6323 Pittsfield, MA | 1.1257
Berkshire, MA
6340 Pocatello, ID | 0.8799
Bannock, ID
6360 Ponce, PR | 0.5221
Guayanilla, PR
Juana Diaz, PR
Penuelas, PR
Ponce, PR
Villalba, PR
Yauco, PR
6403 Portland, ME | 0.9932
Cumberland, ME
Sagadahoc, ME
York, ME
6440 Portland-Vancouver,
OR-WA | 1.0774
Clackamas, OR
Columbia, OR
Multnomah, OR
Washington, OR
Yamhill, OR
Clark, WA
6483 Providence-Warwick-Pawtucket, RI | 1.0558
Bristol, RI
Kent, RI
Newport, RI
Providence, RI
Washington, RI
6520 Provo-Orem, UT | 1.0190
Utah, UT
6560 Pueblo, CO | 0.9104
Pueblo, CO
6580 Punta Gorda, FL | 0.8907
Charlotte, FL
6600 Racine, WI | 0.9413
Racine, WI
6640 Raleigh-Durham-Chapel Hill, NC | 1.0083
Chatham, NC
Durham, NC
Franklin, NC
Johnston, NC
Orange, NC
Wake, NC
6660 Rapid City, SD | 0.8936
Pennington, SD
6680 Reading, PA | 0.9308
Berks, PA
6690 Redding, CA | 1.1249
Shasta, CA
6720 Reno, NV | 1.0664
Washoe, NV
6740 Richland-Kennewick-Pasco, WA | 1.1608
Benton, WA
Franklin, WA
6760 Richmond-Petersburg, VA | 0.9735
Charles City County, VA
Chesterfield, VA
Colonial Heights City, VA
Dinwiddie, VA
Goochland, VA
Hanover, VA
Henrico, VA
Hopewell City, VA
New Kent, VA
Petersburg City, VA
Powhatan, VA
Prince George, VA
Richmond City, VA
6780 Riverside-San
Bernardino, CA | 1.1251
Riverside, CA
San Bernardino, CA
6800 Roanoke, VA | 0.8703
Botetourt, VA
Roanoke, VA
Roanoke City, VA
Salem City, VA
6820 Rochester, MN | 1.2263
Olmsted, MN
6840 Rochester, NY | 0.9133
Genesee, NY
Livingston, NY
Monroe, NY
Ontario, NY
Orleans, NY
Wayne, NY
6880 Rockford, IL | 0.9456
Boone, IL
Ogle, IL
Winnebago, IL
6895 Rocky Mount, NC | 0.9322
Edgecombe, NC
Nash, NC
6920 Sacramento, CA | 1.1622
El Dorado, CA
Placer, CA
Sacramento, CA
6960 Saginaw-Bay
City-Midland, MI | 0.9709
Bay, MI
Midland, MI
Saginaw, MI
6980 St. Cloud, MN | 0.9757
Benton, MN
Stearns, MN
7000 St. Joseph, MO | 0.8093
Andrew, MO
Buchanan, MO
7040 St. Louis, MO-IL | 0.8907
Clinton, IL
Jersey, IL
Madison, IL
Monroe, IL
St. Clair, IL
Franklin, MO
Jefferson, MO
Lincoln, MO
St. Charles, MO
St. Louis, MO
St. Louis City, MO
Warren, MO
7080 Salem, OR | 1.0473
Marion, OR
Polk, OR
7120 Salinas, CA | 1.4772
Monterey, CA
7160 Salt Lake City-Ogden, UT | 1.0035
Davis, UT
Salt Lake, UT
Weber, UT
7200 San Angelo, TX | 0.7956
Tom Green, TX
7240 San Antonio, TX | 0.8649
Bexar, TX
Comal, TX
Guadalupe, TX
Wilson, TX
7320 San Diego, CA | 1.1243
San Diego, CA
7360 San Francisco, CA | 1.4288
Marin, CA
San Francisco, CA
San Mateo, CA
7400 San Jose, CA | 1.4162
Santa Clara, CA
7440 San Juan-Bayamon, PR | 0.4706
Aguas Buenas, PR
Barceloneta, PR
Bayamon, PR
Canovanas, PR
Carolina, PR
Catano, PR
Ceiba, PR
Comerio, PR
Corozal, PR
Dorado, PR
Fajardo, PR
Florida, PR
Guaynabo, PR
Humacao, PR
Juncos, PR
Los Piedras, PR
Loiza, PR
Luguillo, PR
Manati, PR
Morovis, PR
Naguabo, PR
Naranjito, PR
Rio Grande, PR
San Juan, PR
Toa Alta, PR
Toa Baja, PR
Trujillo Alto, PR
Vega Alta, PR
Vega Baja, PR
Yabucoa, PR
7460 San Luis Obispo-
Atascadero-Paso Robles, CA | 1.1386
San Luis Obispo, CA
7480 Santa Barbara-Santa Maria-Lompoc, CA | 1.0588
Santa Barbara, CA
7485 Santa Cruz-Watsonville, CA | 1.3630
Santa Cruz, CA
7490 Santa Fe, NM | 1.0822
Los Alamos, NM
Santa Fe, NM
7500 Santa Rosa, CA | 1.3179
Sonoma, CA
7510 Sarasota-Bradenton, FL | 0.9339
Manatee, FL
Sarasota, FL
7520 Savannah, GA | 0.9961
Bryan, GA
Chatham, GA
Effingham, GA
7560 Scranton--Wilkes-Barre--Hazleton, PA | 0.8525
Columbia, PA
Lackawanna, PA
Luzerne, PA
Wyoming, PA
7600 Seattle-Bellevue-Everett, WA | 1.1571
Island, WA
King, WA
Snohomish, WA
7610 Sharon, PA | 0.8525
Mercer, PA
7620 Sheboygan, WI | 0.9229
Sheboygan, WI
7640 Sherman-Denison, TX | 0.9334
Grayson, TX
7680 Shreveport-Bossier City, LA | 0.8813
Bossier, LA
Caddo, LA
Webster, LA
7720 Sioux City, IA-NE | 0.9138
Woodbury, IA
Dakota, NE
7760 Sioux Falls, SD | 0.9098
Lincoln, SD
Minnehaha, SD
7800 South Bend, IN | 0.9902
St. Joseph, IN
7840 Spokane, WA | 1.0961
Spokane, WA
7880 Springfield, IL | 0.8654
Menard, IL
Sangamon, IL
7920 Springfield, MO | 0.8510
Christian, MO
Greene, MO
Webster, MO
8003 Springfield, MA | 1.1257
Hampden, MA
Hampshire, MA
8050 State College, PA | 0.9032
Centre, PA
8080 Steubenville-Weirton, OH-WV (WV Hospitals) | 0.8893
Jefferson, OH
Brooke, WV
Hancock, WV
8120 Stockton-Lodi, CA | 1.0445
San Joaquin, CA
8140 Sumter, SC | 0.8607
Sumter, SC
8160 Syracuse, NY | 0.9519
Cayuga, NY
Madison, NY
Onondaga, NY
Oswego, NY
8200 Tacoma, WA | 1.1052
Pierce, WA
8240 Tallahassee, FL | 0.8907
Gadsden, FL
Leon, FL
8280 Tampa-St. Petersburg-Clearwater, FL | 0.9127
Hernando, FL
Hillsborough, FL
Pasco, FL
Pinellas, FL
8320 Terre Haute, IN | 0.8796
Clay, IN
Vermillion, IN
Vigo, IN
8360 Texarkana,AR-Texarkana, TX | 0.8150
Miller, AR
Bowie, TX
8400 Toledo, OH | 0.9863
Fulton, OH
Lucas, OH
Wood, OH
8440 Topeka, KS | 0.8952
Shawnee, KS
8480 Trenton, NJ | 1.0710
Mercer, NJ
8520 Tucson, AZ | 0.8993
Pima, AZ
8560 Tulsa, OK | 0.8398
Creek, OK
Osage, OK
Rogers, OK
Tulsa, OK
Wagoner, OK
8600 Tuscaloosa, AL | 0.8221
Tuscaloosa, AL
8640 Tyler, TX | 0.9650
Smith, TX
8680 Utica-Rome, NY | 0.8633
Herkimer, NY
Oneida, NY
8720 Vallejo-Fairfield-Napa, CA | 1.3472
Napa, CA
Solano, CA
8735 Ventura, CA | 1.1209
Ventura, CA
8750 Victoria, TX | 0.8814
Victoria, TX
8760 Vineland-Millville-Bridgeton, NJ | 1.0296
Cumberland, NJ
8780 Visalia-Tulare-Porterville, CA | 0.9934
Tulare, CA
8800 Waco, TX | 0.8802
McLennan, TX
8840 Washington, DC-MD-
VA-WV | 1.0852
District of Columbia, DC
Calvert, MD
Charles, MD
Frederick, MD
Montgomery, MD
Prince Georges, MD
Alexandria City, VA
Arlington, VA
Clarke, VA
Culpeper, VA
Fairfax, VA
Fairfax City, VA
Falls Church City, VA
Fauquier, VA
Fredericksburg City, VA
King George, VA
Loudoun, VA
Manassas City, VA
Manassas Park City, VA
Prince William, VA
Spotsylvania, VA
Stafford, VA
Warren, VA
Berkeley, WV
Jefferson, WV
8920 Waterloo-Cedar Falls, IA | 0.8395
Black Hawk, IA
8940 Wausau, WI | 0.9882
Marathon, WI
8960 West Palm Beach-
Boca Raton, FL | 0.9929
Palm Beach, FL
9000 Wheeling, WV-OH | 0.8053
Belmont, OH
Marshall, WV
Ohio, WV
9040 Wichita, KS | 0.9571
Butler, KS
Harvey, KS
Sedgwick, KS
9080 Wichita Falls, TX | 0.8023
Archer, TX
Wichita, TX
9140 Williamsport, PA | 0.8624
Lycoming, PA
9160 Wilmington-Newark, DE-MD | 1.1287
New Castle, DE
Cecil, MD
9200 Wilmington, NC | 0.9471
New Hanover, NC
Brunswick, NC
9260 Yakima, WA | 1.0676
Yakima, WA
9270 Yolo, CA | 0.9934
Yolo, CA
9280 York, PA | 0.9140
York, PA
9320 Youngstown-Warren, OH | 0.9485
Columbiana, OH
Mahoning, OH
Trumbull, OH
9340 Yuba City, CA | 1.0310
Sutter, CA
Yuba, CA
9360 Yuma, AZ | 0.8677
Yuma, AZ

Table 4H.—Pre-Reclassified Wage Index for Rural Areas
Nonurban area | Wage index
Alabama | 0.7786
Alaska | 1.2323
Arizona | 0.8483
Arkansas | 0.7670
California | 0.9934
Colorado | 0.9104
Connecticut | 1.2520
Delaware | 0.9126
Florida | 0.8907
Georgia | 0.8254
Hawaii | 1.0342
Idaho | 0.8799
Illinois | 0.8301
Indiana | 0.8796
Iowa | 0.8395
Kansas | 0.7964
Kentucky | 0.8079
Louisiana | 0.7637
Maine | 0.8754
Maryland | 0.8855
Massachusetts | 1.1257
Michigan | 0.8944
Minnesota | 0.9249
Mississippi | 0.7746
Missouri | 0.8093
Montana | 0.8567
Nebraska | 0.8283
Nevada | 0.9519
New Hampshire | 0.9882
New Jersey ¹ |
New Mexico | 0.8645
New York | 0.8633
North Carolina | 0.8714
North Dakota | 0.7830
Ohio | 0.8675
Oklahoma | 0.7664
Oregon | 1.0408
Pennsylvania | 0.8525
Puerto Rico | 0.4400
Rhode Island ¹ |
South Carolina | 0.8607
South Dakota | 0.7895
Tennessee | 0.7873
Texas | 0.7752
Utah | 0.9426
Vermont | 0.9402
Virginia | 0.8494
Washington | 1.0274
West Virginia | 0.8053
Wisconsin | 0.9229
Wyoming | 0.8890
¹ All counties within the State are classified as urban.

——————————

* MEDICARE DATA HAVE BEEN SUPPLEMENTED BY DATA FROM 19 STATES FOR LOW VOLUME DRGS.

** DRGS 469 AND 470 CONTAIN CASES WHICH COULD NOT BE ASSIGNED TO VALID DRGS.

GEOMETRIC MEAN IS USED ONLY TO DETERMINE PAYMENT FOR TRANSFER CASES.

ARITHMETIC MEAN IS PRESENTED FOR INFORMATIONAL PURPOSES ONLY.

NOTE: RELATIVE WEIGHTS ARE BASED ON MEDICARE PATIENT DATA AND MAY NOT BE APPROPRIATE FOR OTHER PATIENTS.

Table 5.—List of Diagnosis Related Groups (DRGS), Relative Weighting Factors, Geometric and Arithmetic Mean Length of Stay
DRG | MDC | Type | DRG Title | Relative weights | Geometric mean LOS | Arithmetic mean LOS
1 | 01 | SURG | CRANIOTOMY AGE >17 W CC | 3.7174 | 8.1 | 11.2
2 | 01 | SURG | CRANIOTOMY AGE >17 W/O CC | 1.9613 | 4.0 | 5.2
3 | 01 | SURG | * CRANIOTOMY AGE 0-17 | 1.9441 | 12.7 | 12.7
4 | 01 | SURG | SPINAL PROCEDURES | 2.2960 | 4.5 | 7.2
5 | 01 | SURG | EXTRACRANIAL VASCULAR PROCEDURES | 1.3846 | 2.1 | 3.1
6 | 01 | SURG | CARPAL TUNNEL RELEASE | .8237 | 2.1 | 2.9
7 | 01 | SURG | PERIPH & CRANIAL NERVE & OTHER NERV SYST PROC W CC | 2.5718 | 6.5 | 9.8
8 | 01 | SURG | PERIPH & CRANIAL NERVE & OTHER NERV SYST PROC W/O CC | 1.4925 | 1.9 | 2.8
9 | 01 | MED | SPINAL DISORDERS & INJURIES | 1.3592 | 4.6 | 6.6
10 | 01 | MED | NERVOUS SYSTEM NEOPLASMS W CC | 1.2507 | 4.9 | 6.6
11 | 01 | MED | NERVOUS SYSTEM NEOPLASMS W/O CC | .8629 | 3.0 | 4.0
12 | 01 | MED | DEGENERATIVE NERVOUS SYSTEM DISORDERS | .8881 | 4.4 | 5.9
13 | 01 | MED | MULTIPLE SCLEROSIS & CEREBELLAR ATAXIA | .7928 | 4.1 | 5.0
14 | 01 | MED | INTRACRANIAL HEMORRHAGE & STROKE W INFARCT | 1.2742 | 4.8 | 6.2
15 | 01 | MED | NONSPECIFIC CVA & PRECEREBRAL OCCLUSION W/O INFARCT | .9844 | 4.0 | 5.0
16 | 01 | MED | NONSPECIFIC CEREBROVASCULAR DISORDERS W CC | 1.2389 | 4.7 | 6.2
17 | 01 | MED | NONSPECIFIC CEREBROVASCULAR DISORDERS W/O CC | .6651 | 2.5 | 3.1
18 | 01 | MED | CRANIAL & PERIPHERAL NERVE DISORDERS W CC | .9712 | 4.2 | 5.4
19 | 01 | MED | CRANIAL & PERIPHERAL NERVE DISORDERS W/O CC | .6939 | 2.8 | 3.5
20 | 01 | MED | NERVOUS SYSTEM INFECTION EXCEPT VIRAL MENINGITIS | 2.7921 | 8.0 | 10.8
21 | 01 | MED | VIRAL MENINGITIS | 1.5323 | 5.0 | 6.6
22 | 01 | MED | HYPERTENSIVE ENCEPHALOPATHY | 1.0334 | 3.9 | 5.0
23 | 01 | MED | NONTRAUMATIC STUPOR & COMA | .8214 | 3.1 | 4.3
24 | 01 | MED | SEIZURE & HEADACHE AGE >17 W CC | .9953 | 3.6 | 4.9
25 | 01 | MED | SEIZURE & HEADACHE AGE >17 W/O CC | .6061 | 2.5 | 3.2
26 | 01 | MED | SEIZURE & HEADACHE AGE 0-17 | .7854 | 2.5 | 4.7
27 | 01 | MED | TRAUMATIC STUPOR & COMA, COMA >1 HR | 1.3045 | 3.2 | 5.0
28 | 01 | MED | TRAUMATIC STUPOR & COMA, COMA <1 HR AGE >17 W CC | 1.3318 | 4.5 | 6.3
29 | 01 | MED | TRAUMATIC STUPOR & COMA, COMA <1 HR AGE >17 W/O CC | .7069 | 2.7 | 3.6
30 | 01 | MED | * TRAUMATIC STUPOR & COMA, COMA <1 HR AGE 0-17 | .3288 | 2.0 | 2.0
31 | 01 | MED | CONCUSSION AGE >17 W CC | .8787 | 3.0 | 4.1
32 | 01 | MED | CONCUSSION AGE >17 W/O CC | .5318 | 1.9 | 2.4
33 | 01 | MED | * CONCUSSION AGE 0-17 | .2066 | 1.6 | 1.6
34 | 01 | MED | OTHER DISORDERS OF NERVOUS SYSTEM W CC | .9962 | 3.7 | 5.1
35 | 01 | MED | OTHER DISORDERS OF NERVOUS SYSTEM W/O CC | .6353 | 2.5 | 3.2
36 | 02 | SURG | RETINAL PROCEDURES | .6814 | 1.2 | 1.5
37 | 02 | SURG | ORBITAL PROCEDURES | 1.0534 | 2.6 | 3.8
38 | 02 | SURG | PRIMARY IRIS PROCEDURES | .5412 | 1.9 | 2.5
39 | 02 | SURG | LENS PROCEDURES WITH OR WITHOUT VITRECTOMY | .5924 | 1.5 | 1.9
40 | 02 | SURG | EXTRAOCULAR PROCEDURES EXCEPT ORBIT AGE >17 | .8647 | 2.5 | 3.6
41 | 02 | SURG | * EXTRAOCULAR PROCEDURES EXCEPT ORBIT AGE 0-17 | .3348 | 1.6 | 1.6
42 | 02 | SURG | INTRAOCULAR PROCEDURES EXCEPT RETINA, IRIS & LENS | .6552 | 1.7 | 2.4
43 | 02 | MED | HYPHEMA | .4951 | 2.4 | 3.0
44 | 02 | MED | ACUTE MAJOR EYE INFECTIONS | .6374 | 4.1 | 5.1
45 | 02 | MED | NEUROLOGICAL EYE DISORDERS | .7064 | 2.6 | 3.2
46 | 02 | MED | OTHER DISORDERS OF THE EYE AGE >17 W CC | .7810 | 3.4 | 4.6
47 | 02 | MED | OTHER DISORDERS OF THE EYE AGE >17 W/O CC | .5193 | 2.5 | 3.2
48 | 02 | MED | * OTHER DISORDERS OF THE EYE AGE 0-17 | .2949 | 2.9 | 2.9
49 | 03 | SURG | MAJOR HEAD & NECK PROCEDURES | 1.7706 | 3.3 | 4.6
50 | 03 | SURG | SIALOADENECTOMY | .8318 | 1.5 | 1.8
51 | 03 | SURG | SALIVARY GLAND PROCEDURES EXCEPT SIALOADENECTOMY | .9325 | 1.9 | 3.1
52 | 03 | SURG | CLEFT LIP & PALATE REPAIR | .8003 | 1.5 | 1.9
53 | 03 | SURG | SINUS & MASTOID PROCEDURES AGE >17 | 1.1968 | 2.1 | 3.4
54 | 03 | SURG | * SINUS & MASTOID PROCEDURES AGE 0-17 | .4779 | 3.2 | 3.2
55 | 03 | SURG | MISCELLANEOUS EAR, NOSE, MOUTH & THROAT PROCEDURES | .9492 | 1.9 | 3.0
56 | 03 | SURG | RHINOPLASTY | .9678 | 2.0 | 3.0
57 | 03 | SURG | T&A PROC, EXCEPT TONSILLECTOMY &/OR ADENOIDECTOMY ONLY, AGE >17 | .9849 | 2.4 | 3.7
58 | 03 | SURG | * T&A PROC, EXCEPT TONSILLECTOMY &/OR ADENOIDECTOMY ONLY, AGE 0-17 | .2714 | 1.5 | 1.5
59 | 03 | SURG | TONSILLECTOMY &/OR ADENOIDECTOMY ONLY, AGE >17 | .7530 | 1.8 | 2.6
60 | 03 | SURG | * TONSILLECTOMY &/OR ADENOIDECTOMY ONLY, AGE 0-17 | .2067 | 1.5 | 1.5
61 | 03 | SURG | MYRINGOTOMY W TUBE INSERTION AGE >17 | 1.3030 | 2.9 | 4.8
62 | 03 | SURG | * MYRINGOTOMY W TUBE INSERTION AGE 0-17 | .2927 | 1.3 | 1.3
63 | 03 | SURG | OTHER EAR, NOSE, MOUTH & THROAT O.R. PROCEDURES | 1.4279 | 3.0 | 4.5
64 | 03 | MED | EAR, NOSE, MOUTH & THROAT MALIGNANCY | 1.3100 | 4.4 | 6.6
65 | 03 | MED | DYSEQUILIBRIUM | .5487 | 2.3 | 2.8
66 | 03 | MED | EPISTAXIS | .5626 | 2.4 | 3.1
67 | 03 | MED | EPIGLOTTITIS | .7763 | 2.8 | 3.6
68 | 03 | MED | OTITIS MEDIA & URI AGE >17 W CC | .6690 | 3.1 | 3.8
69 | 03 | MED | OTITIS MEDIA & URI AGE >17 W/O CC | .5033 | 2.4 | 3.0
70 | 03 | MED | OTITIS MEDIA & URI AGE 0-17 | .4570 | 2.8 | 3.5
71 | 03 | MED | LARYNGOTRACHEITIS | .6933 | 2.8 | 3.4
72 | 03 | MED | NASAL TRAUMA & DEFORMITY | .7159 | 2.6 | 3.6
73 | 03 | MED | OTHER EAR, NOSE, MOUTH & THROAT DIAGNOSES AGE >17 | .7961 | 3.2 | 4.4
74 | 03 | MED | * OTHER EAR, NOSE, MOUTH & THROAT DIAGNOSES AGE 0-17 | .3326 | 2.1 | 2.1
75 | 04 | SURG | MAJOR CHEST PROCEDURES | 3.0978 | 7.7 | 10.1
76 | 04 | SURG | OTHER RESP SYSTEM O.R. PROCEDURES W CC | 2.8553 | 8.5 | 11.4
77 | 04 | SURG | OTHER RESP SYSTEM O.R. PROCEDURES W/O CC | 1.2070 | 3.5 | 4.9
78 | 04 | MED | PULMONARY EMBOLISM | 1.2980 | 5.7 | 6.7
79 | 04 | MED | RESPIRATORY INFECTIONS & INFLAMMATIONS AGE >17 W CC | 1.6199 | 6.7 | 8.5
80 | 04 | MED | RESPIRATORY INFECTIONS & INFLAMMATIONS AGE >17 W/O CC | .8747 | 4.4 | 5.5
81 | 04 | MED | * RESPIRATORY INFECTIONS & INFLAMMATIONS AGE 0-17 | 1.5059 | 6.1 | 6.1
82 | 04 | MED | RESPIRATORY NEOPLASMS | 1.3926 | 5.2 | 7.0
83 | 04 | MED | MAJOR CHEST TRAUMA W CC | .9653 | 4.3 | 5.5
84 | 04 | MED | MAJOR CHEST TRAUMA W/O CC | .5109 | 2.6 | 3.2
85 | 04 | MED | PLEURAL EFFUSION W CC | 1.2119 | 4.8 | 6.4
86 | 04 | MED | PLEURAL EFFUSION W/O CC | .6963 | 2.9 | 3.8
87 | 04 | MED | PULMONARY EDEMA & RESPIRATORY FAILURE | 1.3625 | 4.8 | 6.3
88 | 04 | MED | CHRONIC OBSTRUCTIVE PULMONARY DISEASE | .9039 | 4.1 | 5.1
89 | 04 | MED | SIMPLE PNEUMONIA & PLEURISY AGE >17 W CC | 1.0431 | 4.8 | 5.9
90 | 04 | MED | SIMPLE PNEUMONIA & PLEURISY AGE >17 W/O CC | .6270 | 3.4 | 4.0
91 | 04 | MED | SIMPLE PNEUMONIA & PLEURISY AGE 0-17 | .6854 | 3.2 | 4.0
92 | 04 | MED | INTERSTITIAL LUNG DISEASE W CC | 1.2255 | 5.0 | 6.4
93 | 04 | MED | INTERSTITIAL LUNG DISEASE W/O CC | .7331 | 3.3 | 4.1
94 | 04 | MED | PNEUMOTHORAX W CC | 1.1575 | 4.7 | 6.4
95 | 04 | MED | PNEUMOTHORAX W/O CC | .5895 | 2.9 | 3.7
96 | 04 | MED | BRONCHITIS & ASTHMA AGE >17 W CC | .7541 | 3.7 | 4.6
97 | 04 | MED | BRONCHITIS & ASTHMA AGE >17 W/O CC | .5602 | 2.9 | 3.5
98 | 04 | MED | BRONCHITIS & ASTHMA AGE 0-17 | .9319 | 3.7 | 5.1
99 | 04 | MED | RESPIRATORY SIGNS & SYMPTOMS W CC | .7022 | 2.4 | 3.2
100 | 04 | MED | RESPIRATORY SIGNS & SYMPTOMS W/O CC | .5347 | 1.7 | 2.1
101 | 04 | MED | OTHER RESPIRATORY SYSTEM DIAGNOSES W CC | .8567 | 3.3 | 4.4
102 | 04 | MED | OTHER RESPIRATORY SYSTEM DIAGNOSES W/O CC | .5447 | 2.0 | 2.6
103 | PRE | SURG | HEART TRANSPLANT | 19.5361 | 29.7 | 49.4
104 | 05 | SURG | CARDIAC VALVE & OTH MAJOR CARDIOTHORACIC PROC W CARD CATH | 7.9615 | 12.3 | 14.4
105 | 05 | SURG | CARDIAC VALVE & OTH MAJOR CARDIOTHORACIC PROC W/O CARD CATH | 5.7856 | 8.3 | 10.0
106 | 05 | SURG | CORONARY BYPASS W PTCA | 7.4493 | 9.6 | 11.4
107 | 05 | SURG | CORONARY BYPASS W CARDIAC CATH | 5.3894 | 9.2 | 10.5
108 | 05 | SURG | OTHER CARDIOTHORACIC PROCEDURES | 5.4585 | 7.8 | 10.3
109 | 05 | SURG | CORONARY BYPASS W/O PTCA OR CARDIAC CATH | 3.9756 | 6.8 | 7.7
110 | 05 | SURG | MAJOR CARDIOVASCULAR PROCEDURES W CC | 4.0985 | 6.5 | 9.1
111 | 05 | SURG | MAJOR CARDIOVASCULAR PROCEDURES W/O CC | 2.4445 | 3.5 | 4.4
112 | 05 | SURG | NO LONGER VALID | .0000 | .0 | .0
113 | 05 | SURG | AMPUTATION FOR CIRC SYSTEM DISORDERS EXCEPT UPPER LIMB & TOE | 2.9028 | 10.4 | 13.4
114 | 05 | SURG | UPPER LIMB & TOE AMPUTATION FOR CIRC SYSTEM DISORDERS | 1.6530 | 6.2 | 8.5
115 | 05 | SURG | PRM CARD PACEM IMPL W AMI,HRT FAIL OR SHK,OR AICD LEAD OR GN | 3.4452 | 5.9 | 8.3
116 | 05 | SURG | OTHER PERMANENT CARDIAC PACEMAKER IMPLANT | 2.3075 | 3.2 | 4.5
117 | 05 | SURG | CARDIAC PACEMAKER REVISION EXCEPT DEVICE REPLACEMENT | 1.3312 | 2.6 | 4.2
118 | 05 | SURG | CARDIAC PACEMAKER DEVICE REPLACEMENT | 1.5696 | 1.9 | 2.9
119 | 05 | SURG | VEIN LIGATION & STRIPPING | 1.3027 | 3.0 | 5.1
120 | 05 | SURG | OTHER CIRCULATORY SYSTEM O.R. PROCEDURES | 2.2337 | 5.3 | 8.8
121 | 05 | MED | CIRCULATORY DISORDERS W AMI & MAJOR COMP, DISCHARGED ALIVE | 1.5813 | 5.3 | 6.6
122 | 05 | MED | CIRCULATORY DISORDERS W AMI W/O MAJOR COMP, DISCHARGED ALIVE | 1.0393 | 3.0 | 3.8
123 | 05 | MED | CIRCULATORY DISORDERS W AMI, EXPIRED | 1.5526 | 2.8 | 4.7
124 | 05 | MED | CIRCULATORY DISORDERS EXCEPT AMI, W CARD CATH & COMPLEX DIAG | 1.4301 | 3.3 | 4.4
125 | 05 | MED | CIRCULATORY DISORDERS EXCEPT AMI, W CARD CATH W/O COMPLEX DIAG | 1.0846 | 2.1 | 2.7
126 | 05 | MED | ACUTE & SUBACUTE ENDOCARDITIS | 2.6971 | 9.5 | 12.2
127 | 05 | MED | HEART FAILURE & SHOCK | 1.0027 | 4.1 | 5.3
128 | 05 | MED | DEEP VEIN THROMBOPHLEBITIS | .7241 | 4.7 | 5.5
129 | 05 | MED | CARDIAC ARREST, UNEXPLAINED | 1.0803 | 1.8 | 2.8
130 | 05 | MED | PERIPHERAL VASCULAR DISORDERS W CC | .9384 | 4.5 | 5.7
131 | 05 | MED | PERIPHERAL VASCULAR DISORDERS W/O CC | .5683 | 3.3 | 4.1
132 | 05 | MED | ATHEROSCLEROSIS W CC | .6540 | 2.3 | 3.0
133 | 05 | MED | ATHEROSCLEROSIS W/O CC | .5359 | 1.8 | 2.3
134 | 05 | MED | HYPERTENSION | .5884 | 2.5 | 3.2
135 | 05 | MED | CARDIAC CONGENITAL & VALVULAR DISORDERS AGE >17 W CC | .8961 | 3.3 | 4.5
136 | 05 | MED | CARDIAC CONGENITAL & VALVULAR DISORDERS AGE >17 W/O CC | .5709 | 2.1 | 2.6
137 | 05 | MED | * CARDIAC CONGENITAL & VALVULAR DISORDERS AGE 0-17 | .8113 | 3.3 | 3.3
138 | 05 | MED | CARDIAC ARRHYTHMIA & CONDUCTION DISORDERS W CC | .8249 | 3.1 | 4.0
139 | 05 | MED | CARDIAC ARRHYTHMIA & CONDUCTION DISORDERS W/O CC | .5128 | 2.0 | 2.5
140 | 05 | MED | ANGINA PECTORIS | .5384 | 2.1 | 2.6
141 | 05 | MED | SYNCOPE & COLLAPSE W CC | .7284 | 2.8 | 3.6
142 | 05 | MED | SYNCOPE & COLLAPSE W/O CC | .5605 | 2.1 | 2.6
143 | 05 | MED | CHEST PAIN | .5394 | 1.7 | 2.1
144 | 05 | MED | OTHER CIRCULATORY SYSTEM DIAGNOSES W CC | 1.1931 | 3.8 | 5.5
145 | 05 | MED | OTHER CIRCULATORY SYSTEM DIAGNOSES W/O CC | .5881 | 2.1 | 2.7
146 | 06 | SURG | RECTAL RESECTION W CC | 2.7193 | 8.8 | 10.2
147 | 06 | SURG | RECTAL RESECTION W/O CC | 1.5566 | 5.8 | 6.4
148 | 06 | SURG | MAJOR SMALL & LARGE BOWEL PROCEDURES W CC | 3.4444 | 10.2 | 12.3
149 | 06 | SURG | MAJOR SMALL & LARGE BOWEL PROCEDURES W/O CC | 1.5247 | 5.9 | 6.5
150 | 06 | SURG | PERITONEAL ADHESIOLYSIS W CC | 2.8477 | 9.1 | 11.2
151 | 06 | SURG | PERITONEAL ADHESIOLYSIS W/O CC | 1.3334 | 4.5 | 5.7
152 | 06 | SURG | MINOR SMALL & LARGE BOWEL PROCEDURES W CC | 1.9467 | 6.9 | 8.3
153 | 06 | SURG | MINOR SMALL & LARGE BOWEL PROCEDURES W/O CC | 1.1736 | 4.8 | 5.4
154 | 06 | SURG | STOMACH, ESOPHAGEAL & DUODENAL PROCEDURES AGE >17 W CC | 4.1397 | 9.8 | 13.2
155 | 06 | SURG | STOMACH, ESOPHAGEAL & DUODENAL PROCEDURES AGE >17 W/O CC | 1.3054 | 3.0 | 4.0
156 | 06 | SURG | * STOMACH, ESOPHAGEAL & DUODENAL PROCEDURES AGE 0-17 | .8355 | 6.0 | 6.0
157 | 06 | SURG | ANAL & STOMAL PROCEDURES W CC | 1.2618 | 3.9 | 5.6
158 | 06 | SURG | ANAL & STOMAL PROCEDURES W/O CC | .6504 | 2.0 | 2.5
159 | 06 | SURG | HERNIA PROCEDURES EXCEPT INGUINAL & FEMORAL AGE >17 W CC | 1.3593 | 3.7 | 5.1
160 | 06 | SURG | HERNIA PROCEDURES EXCEPT INGUINAL & FEMORAL AGE >17 W/O CC | .8070 | 2.2 | 2.7
161 | 06 | SURG | INGUINAL & FEMORAL HERNIA PROCEDURES AGE >17 W CC | 1.1278 | 2.8 | 4.2
162 | 06 | SURG | INGUINAL & FEMORAL HERNIA PROCEDURES AGE >17 W/O CC | .6337 | 1.6 | 1.9
163 | 06 | SURG | * HERNIA PROCEDURES AGE 0-17 | .6855 | 2.1 | 2.1
164 | 06 | SURG | APPENDECTOMY W COMPLICATED PRINCIPAL DIAG W CC | 2.2964 | 7.0 | 8.3
165 | 06 | SURG | APPENDECTOMY W COMPLICATED PRINCIPAL DIAG W/O CC | 1.2622 | 4.0 | 4.7
166 | 06 | SURG | APPENDECTOMY W/O COMPLICATED PRINCIPAL DIAG W CC | 1.4680 | 3.7 | 4.9
167 | 06 | SURG | APPENDECTOMY W/O COMPLICATED PRINCIPAL DIAG W/O CC | .9104 | 2.1 | 2.5
168 | 03 | SURG | MOUTH PROCEDURES W CC | 1.2974 | 3.3 | 4.9
169 | 03 | SURG | MOUTH PROCEDURES W/O CC | .7397 | 1.8 | 2.3
170 | 06 | SURG | OTHER DIGESTIVE SYSTEM O.R. PROCEDURES W CC | 2.8017 | 7.4 | 11.0
171 | 06 | SURG | OTHER DIGESTIVE SYSTEM O.R. PROCEDURES W/O CC | 1.1651 | 3.1 | 4.3
172 | 06 | MED | DIGESTIVE MALIGNANCY W CC | 1.3567 | 5.1 | 7.0
173 | 06 | MED | DIGESTIVE MALIGNANCY W/O CC | .7531 | 2.7 | 3.8
174 | 06 | MED | G.I. HEMORRHAGE W CC | .9937 | 3.9 | 4.8
175 | 06 | MED | G.I. HEMORRHAGE W/O CC | .5553 | 2.5 | 2.9
176 | 06 | MED | COMPLICATED PEPTIC ULCER | 1.0832 | 4.1 | 5.3
177 | 06 | MED | UNCOMPLICATED PEPTIC ULCER W CC | .9193 | 3.7 | 4.5
178 | 06 | MED | UNCOMPLICATED PEPTIC ULCER W/O CC | .6843 | 2.6 | 3.1
179 | 06 | MED | INFLAMMATORY BOWEL DISEASE | 1.0778 | 4.6 | 6.0
180 | 06 | MED | G.I. OBSTRUCTION W CC | .9429 | 4.2 | 5.4
181 | 06 | MED | G.I. OBSTRUCTION W/O CC | .5322 | 2.8 | 3.4
182 | 06 | MED | ESOPHAGITIS, GASTROENT & MISC DIGEST DISORDERS AGE >17 W CC | .7982 | 3.3 | 4.4
183 | 06 | MED | ESOPHAGITIS, GASTROENT & MISC DIGEST DISORDERS AGE >17 W/O CC | .5722 | 2.3 | 2.9
184 | 06 | MED | ESOPHAGITIS, GASTROENT & MISC DIGEST DISORDERS AGE 0-17 | .4806 | 2.3 | 2.8
185 | 03 | MED | DENTAL & ORAL DIS EXCEPT EXTRACTIONS & RESTORATIONS, AGE >17 | .8998 | 3.3 | 4.7
186 | 03 | MED | * DENTAL & ORAL DIS EXCEPT EXTRACTIONS & RESTORATIONS, AGE 0-17 | .3185 | 2.9 | 2.9
187 | 03 | MED | DENTAL EXTRACTIONS & RESTORATIONS | .8564 | 3.0 | 4.1
188 | 06 | MED | OTHER DIGESTIVE SYSTEM DIAGNOSES AGE >17 W CC | 1.0955 | 4.1 | 5.6
189 | 06 | MED | OTHER DIGESTIVE SYSTEM DIAGNOSES AGE >17 W/O CC | .5821 | 2.4 | 3.1
190 | 06 | MED | OTHER DIGESTIVE SYSTEM DIAGNOSES AGE 0-17 | .6986 | 3.3 | 4.8
191 | 07 | SURG | PANCREAS, LIVER & SHUNT PROCEDURES W CC | 4.2962 | 9.8 | 13.8
192 | 07 | SURG | PANCREAS, LIVER & SHUNT PROCEDURES W/O CC | 1.6932 | 4.7 | 6.1
193 | 07 | SURG | BILIARY TRACT PROC EXCEPT ONLY CHOLECYST W OR W/O C.D.E. W CC | 3.4015 | 10.4 | 12.8
194 | 07 | SURG | BILIARY TRACT PROC EXCEPT ONLY CHOLECYST W OR W/O C.D.E. W/O CC | 1.6023 | 5.5 | 6.9
195 | 07 | SURG | CHOLECYSTECTOMY W C.D.E. W CC | 3.0046 | 8.6 | 10.4
196 | 07 | SURG | CHOLECYSTECTOMY W C.D.E. W/O CC | 1.6036 | 4.6 | 5.4
197 | 07 | SURG | CHOLECYSTECTOMY EXCEPT BY LAPAROSCOPE W/O C.D.E. W CC | 2.4858 | 7.3 | 9.0
198 | 07 | SURG | CHOLECYSTECTOMY EXCEPT BY LAPAROSCOPE W/O C.D.E. W/O CC | 1.2276 | 3.8 | 4.4
199 | 07 | SURG | HEPATOBILIARY DIAGNOSTIC PROCEDURE FOR MALIGNANCY | 2.4260 | 7.0 | 9.9
200 | 07 | SURG | HEPATOBILIARY DIAGNOSTIC PROCEDURE FOR NON-MALIGNANCY | 2.9570 | 6.5 | 10.5
201 | 07 | SURG | OTHER HEPATOBILIARY OR PANCREAS O.R. PROCEDURES | 3.7421 | 10.3 | 14.5
202 | 07 | MED | CIRRHOSIS & ALCOHOLIC HEPATITIS | 1.2879 | 4.8 | 6.4
203 | 07 | MED | MALIGNANCY OF HEPATOBILIARY SYSTEM OR PANCREAS | 1.3499 | 5.0 | 6.8
204 | 07 | MED | DISORDERS OF PANCREAS EXCEPT MALIGNANCY | 1.1826 | 4.4 | 5.8
205 | 07 | MED | DISORDERS OF LIVER EXCEPT MALIG,CIRR,ALC HEPA W CC | 1.1933 | 4.6 | 6.2
206 | 07 | MED | DISORDERS OF LIVER EXCEPT MALIG,CIRR,ALC HEPA W/O CC | .7038 | 3.0 | 3.9
207 | 07 | MED | DISORDERS OF THE BILIARY TRACT W CC | 1.1338 | 4.0 | 5.3
208 | 07 | MED | DISORDERS OF THE BILIARY TRACT W/O CC | .6526 | 2.3 | 2.9
209 | 08 | SURG | MAJOR JOINT & LIMB REATTACHMENT PROCEDURES OF LOWER EXTREMITY | 2.0531 | 4.5 | 5.0
210 | 08 | SURG | HIP & FEMUR PROCEDURES EXCEPT MAJOR JOINT AGE >17 W CC | 1.8289 | 6.1 | 7.0
211 | 08 | SURG | HIP & FEMUR PROCEDURES EXCEPT MAJOR JOINT AGE >17 W/O CC | 1.2715 | 4.6 | 5.0
212 | 08 | SURG | * HIP & FEMUR PROCEDURES EXCEPT MAJOR JOINT AGE 0-17 | .8391 | 11.1 | 11.1
213 | 08 | SURG | AMPUTATION FOR MUSCULOSKELETAL SYSTEM & CONN TISSUE DISORDERS | 1.8664 | 6.6 | 9.2
214 | 08 | SURG | NO LONGER VALID | .0000 | .0 | .0
215 | 08 | SURG | NO LONGER VALID | .0000 | .0 | .0
216 | 08 | SURG | BIOPSIES OF MUSCULOSKELETAL SYSTEM & CONNECTIVE TISSUE | 2.2151 | 6.6 | 9.6
217 | 08 | SURG | WND DEBRID & SKN GRFT EXCEPT HAND,FOR MUSCSKELET & CONN TISS DIS | 3.0062 | 9.1 | 13.4
218 | 08 | SURG | LOWER EXTREM & HUMER PROC EXCEPT HIP,FOOT,FEMUR AGE >17 W CC | 1.5404 | 4.3 | 5.4
219 | 08 | SURG | LOWER EXTREM & HUMER PROC EXCEPT HIP,FOOT,FEMUR AGE >17 W/O CC | 1.0244 | 2.7 | 3.2
220 | 08 | SURG | * LOWER EXTREM & HUMER PROC EXCEPT HIP,FOOT,FEMUR AGE 0-17 | .5789 | 5.3 | 5.3
221 | 08 | SURG | NO LONGER VALID | .0000 | .0 | .0
222 | 08 | SURG | NO LONGER VALID | .0000 | .0 | .0
223 | 08 | SURG | MAJOR SHOULDER/ELBOW PROC, OR OTHER UPPER EXTREMITY PROC W CC | 1.0248 | 2.1 | 2.9
224 | 08 | SURG | SHOULDER,ELBOW OR FOREARM PROC,EXC MAJOR JOINT PROC, W/O CC | .7868 | 1.6 | 1.9
225 | 08 | SURG | FOOT PROCEDURES | 1.1460 | 3.4 | 5.0
226 | 08 | SURG | SOFT TISSUE PROCEDURES W CC | 1.5663 | 4.6 | 6.7
227 | 08 | SURG | SOFT TISSUE PROCEDURES W/O CC | .8129 | 2.1 | 2.7
228 | 08 | SURG | MAJOR THUMB OR JOINT PROC,OR OTH HAND OR WRIST PROC W CC | 1.1339 | 2.6 | 4.1
229 | 08 | SURG | HAND OR WRIST PROC, EXCEPT MAJOR JOINT PROC, W/O CC | .6984 | 1.7 | 2.2
230 | 08 | SURG | LOCAL EXCISION & REMOVAL OF INT FIX DEVICES OF HIP & FEMUR | 1.2657 | 3.3 | 5.1
231 | 08 | SURG | LOCAL EXCISION & REMOVAL OF INT FIX DEVICES EXCEPT HIP & FEMUR | 1.3977 | 3.1 | 4.9
232 | 08 | SURG | ARTHROSCOPY | 1.0021 | 1.8 | 2.7
233 | 08 | SURG | OTHER MUSCULOSKELET SYS & CONN TISS O.R. PROC W CC | 1.9862 | 4.8 | 7.2
234 | 08 | SURG | OTHER MUSCULOSKELET SYS & CONN TISS O.R. PROC W/O CC | 1.2329 | 2.3 | 3.2
235 | 08 | MED | FRACTURES OF FEMUR | .7648 | 3.8 | 5.1
236 | 08 | MED | FRACTURES OF HIP & PELVIS | .7233 | 4.0 | 4.9
237 | 08 | MED | SPRAINS, STRAINS, & DISLOCATIONS OF HIP, PELVIS & THIGH | .5797 | 2.9 | 3.6
238 | 08 | MED | OSTEOMYELITIS | 1.3934 | 6.6 | 8.9
239 | 08 | MED | PATHOLOGICAL FRACTURES & MUSCULOSKELETAL & CONN TISS MALIGNANCY | 1.0031 | 4.9 | 6.3
240 | 08 | MED | CONNECTIVE TISSUE DISORDERS W CC | 1.3301 | 5.0 | 6.7
241 | 08 | MED | CONNECTIVE TISSUE DISORDERS W/O CC | .6493 | 3.1 | 3.9
242 | 08 | MED | SEPTIC ARTHRITIS | 1.1093 | 5.1 | 6.7
243 | 08 | MED | MEDICAL BACK PROBLEMS | .7407 | 3.7 | 4.7
244 | 08 | MED | BONE DISEASES & SPECIFIC ARTHROPATHIES W CC | .7056 | 3.7 | 4.7
245 | 08 | MED | BONE DISEASES & SPECIFIC ARTHROPATHIES W/O CC | .4686 | 2.7 | 3.4
246 | 08 | MED | NON-SPECIFIC ARTHROPATHIES | .5658 | 2.9 | 3.8
247 | 08 | MED | SIGNS & SYMPTOMS OF MUSCULOSKELETAL SYSTEM & CONN TISSUE | .5725 | 2.6 | 3.4
248 | 08 | MED | TENDONITIS, MYOSITIS & BURSITIS | .8317 | 3.8 | 4.9
249 | 08 | MED | AFTERCARE, MUSCULOSKELETAL SYSTEM & CONNECTIVE TISSUE | .6895 | 2.5 | 3.7
250 | 08 | MED | FX, SPRN, STRN & DISL OF FOREARM, HAND, FOOT AGE >17 W CC | .6886 | 3.3 | 4.2
251 | 08 | MED | FX, SPRN, STRN & DISL OF FOREARM, HAND, FOOT AGE >17 W/O CC | .4624 | 2.2 | 2.8
252 | 08 | MED | * FX, SPRN, STRN & DISL OF FOREARM, HAND, FOOT AGE 0-17 | .2513 | 1.8 | 1.8
253 | 08 | MED | FX, SPRN, STRN & DISL OF UPARM,LOWLEG EX FOOT AGE >17 W CC | .7384 | 3.7 | 4.7
254 | 08 | MED | FX, SPRN, STRN & DISL OF UPARM,LOWLEG EX FOOT AGE >17 W/O CC | .4433 | 2.6 | 3.1
255 | 08 | MED | * FX, SPRN, STRN & DISL OF UPARM,LOWLEG EX FOOT AGE 0-17 | .2928 | 2.9 | 2.9
256 | 08 | MED | OTHER MUSCULOSKELETAL SYSTEM & CONNECTIVE TISSUE DIAGNOSES | .8038 | 3.8 | 5.1
257 | 09 | SURG | TOTAL MASTECTOMY FOR MALIGNANCY W CC | .8995 | 2.1 | 2.7
258 | 09 | SURG | TOTAL MASTECTOMY FOR MALIGNANCY W/O CC | .7107 | 1.6 | 1.8
259 | 09 | SURG | SUBTOTAL MASTECTOMY FOR MALIGNANCY W CC | .9130 | 1.7 | 2.7
260 | 09 | SURG | SUBTOTAL MASTECTOMY FOR MALIGNANCY W/O CC | .6821 | 1.2 | 1.4
261 | 09 | SURG | BREAST PROC FOR NON-MALIGNANCY EXCEPT BIOPSY & LOCAL EXCISION | .9773 | 1.6 | 2.2
262 | 09 | SURG | BREAST BIOPSY & LOCAL EXCISION FOR NON-MALIGNANCY | .9324 | 2.9 | 4.3
263 | 09 | SURG | SKIN GRAFT &/OR DEBRID FOR SKN ULCER OR CELLULITIS W CC | 2.2113 | 9.3 | 12.5
264 | 09 | SURG | SKIN GRAFT &/OR DEBRID FOR SKN ULCER OR CELLULITIS W/O CC | 1.1350 | 5.5 | 7.1
265 | 09 | SURG | SKIN GRAFT &/OR DEBRID EXCEPT FOR SKIN ULCER OR CELLULITIS W CC | 1.5906 | 4.2 | 6.7
266 | 09 | SURG | SKIN GRAFT &/OR DEBRID EXCEPT FOR SKIN ULCER OR CELLULITIS W/O CC | .8540 | 2.2 | 3.1
267 | 09 | SURG | PERIANAL & PILONIDAL PROCEDURES | .9343 | 2.5 | 4.3
268 | 09 | SURG | SKIN, SUBCUTANEOUS TISSUE & BREAST PLASTIC PROCEDURES | 1.1068 | 2.4 | 3.6
269 | 09 | SURG | OTHER SKIN, SUBCUT TISS & BREAST PROC W CC | 1.6798 | 5.7 | 8.2
270 | 09 | SURG | OTHER SKIN, SUBCUT TISS & BREAST PROC W/O CC | .7495 | 2.3 | 3.3
271 | 09 | MED | SKIN ULCERS | 1.0266 | 5.6 | 7.3
272 | 09 | MED | MAJOR SKIN DISORDERS W CC | 1.0013 | 4.6 | 6.1
273 | 09 | MED | MAJOR SKIN DISORDERS W/O CC | .5578 | 3.0 | 3.9
274 | 09 | MED | MALIGNANT BREAST DISORDERS W CC | 1.1936 | 4.8 | 6.8
275 | 09 | MED | MALIGNANT BREAST DISORDERS W/O CC | .5469 | 2.2 | 3.0
276 | 09 | MED | NON-MALIGANT BREAST DISORDERS | .6781 | 3.5 | 4.5
277 | 09 | MED | CELLULITIS AGE >17 W CC | .8580 | 4.7 | 5.8
278 | 09 | MED | CELLULITIS AGE >17 W/O CC | .5497 | 3.6 | 4.3
279 | 09 | MED | * CELLULITIS AGE 0-17 | .6580 | 4.2 | 4.2
280 | 09 | MED | TRAUMA TO THE SKIN, SUBCUT TISS & BREAST AGE >17 W CC | .6972 | 3.2 | 4.2
281 | 09 | MED | TRAUMA TO THE SKIN, SUBCUT TISS & BREAST AGE >17 W/O CC | .4634 | 2.3 | 2.9
282 | 09 | MED | * TRAUMA TO THE SKIN, SUBCUT TISS & BREAST AGE 0-17 | .2545 | 2.2 | 2.2
283 | 09 | MED | MINOR SKIN DISORDERS W CC | .7211 | 3.5 | 4.7
284 | 09 | MED | MINOR SKIN DISORDERS W/O CC | .4300 | 2.4 | 3.1
285 | 10 | SURG | AMPUTAT OF LOWER LIMB FOR ENDOCRINE,NUTRIT,& METABOL DISORDERS | 2.0391 | 8.0 | 10.6
286 | 10 | SURG | ADRENAL & PITUITARY PROCEDURES | 2.0831 | 4.5 | 5.9
287 | 10 | SURG | SKIN GRAFTS & WOUND DEBRID FOR ENDOC, NUTRIT & METAB DISORDERS | 1.8701 | 7.7 | 10.6
288 | 10 | SURG | O.R. PROCEDURES FOR OBESITY | 2.2124 | 4.3 | 5.4
289 | 10 | SURG | PARATHYROID PROCEDURES | .9697 | 1.8 | 2.8
290 | 10 | SURG | THYROID PROCEDURES | .8955 | 1.7 | 2.2
291 | 10 | SURG | THYROGLOSSAL PROCEDURES | .6333 | 1.4 | 1.6
292 | 10 | SURG | OTHER ENDOCRINE, NUTRIT & METAB O.R. PROC W CC | 2.4623 | 6.8 | 10.0
293 | 10 | SURG | OTHER ENDOCRINE, NUTRIT & METAB O.R. PROC W/O CC | 1.2998 | 3.3 | 4.9
294 | 10 | MED | DIABETES AGE >35 | .7573 | 3.4 | 4.5
295 | 10 | MED | DIABETES AGE 0-35 | .7854 | 3.0 | 4.0
296 | 10 | MED | NUTRITIONAL & MISC METABOLIC DISORDERS AGE >17 W CC | .8469 | 3.9 | 5.1
297 | 10 | MED | NUTRITIONAL & MISC METABOLIC DISORDERS AGE >17 W/O CC | .5046 | 2.7 | 3.4
298 | 10 | MED | NUTRITIONAL & MISC METABOLIC DISORDERS AGE 0-17 | .5879 | 2.9 | 4.4
299 | 10 | MED | INBORN ERRORS OF METABOLISM | .9367 | 3.8 | 5.4
300 | 10 | MED | ENDOCRINE DISORDERS W CC | 1.0930 | 4.7 | 6.2
301 | 10 | MED | ENDOCRINE DISORDERS W/O CC | .6308 | 2.8 | 3.7
302 | 11 | SURG | KIDNEY TRANSPLANT | 3.2671 | 7.4 | 8.7
303 | 11 | SURG | KIDNEY,URETER & MAJOR BLADDER PROCEDURES FOR NEOPLASM | 2.4195 | 6.7 | 8.3
304 | 11 | SURG | KIDNEY,URETER & MAJOR BLADDER PROC FOR NON-NEOPL W CC | 2.3243 | 6.2 | 8.7
305 | 11 | SURG | KIDNEY,URETER & MAJOR BLADDER PROC FOR NON-NEOPL W/O CC | 1.1946 | 2.9 | 3.6
306 | 11 | SURG | PROSTATECTOMY W CC | 1.2725 | 3.6 | 5.5
307 | 11 | SURG | PROSTATECTOMY W/O CC | .6329 | 1.8 | 2.2
308 | 11 | SURG | MINOR BLADDER PROCEDURES W CC | 1.6399 | 4.0 | 6.3
309 | 11 | SURG | MINOR BLADDER PROCEDURES W/O CC | .8980 | 1.7 | 2.2
310 | 11 | SURG | TRANSURETHRAL PROCEDURES W CC | 1.1281 | 2.9 | 4.3
311 | 11 | SURG | TRANSURETHRAL PROCEDURES W/O CC | .6270 | 1.5 | 1.8
312 | 11 | SURG | URETHRAL PROCEDURES, AGE >17 W CC | 1.0583 | 3.0 | 4.5
313 | 11 | SURG | URETHRAL PROCEDURES, AGE >17 W/O CC | .6693 | 1.7 | 2.1
314 | 11 | SURG | * URETHRAL PROCEDURES, AGE 0-17 | .4905 | 2.3 | 2.3
315 | 11 | SURG | OTHER KIDNEY & URINARY TRACT O.R. PROCEDURES | 2.0954 | 3.8 | 7.2
316 | 11 | MED | RENAL FAILURE | 1.3241 | 4.9 | 6.6
317 | 11 | MED | ADMIT FOR RENAL DIALYSIS | .6603 | 2.0 | 3.1
318 | 11 | MED | KIDNEY & URINARY TRACT NEOPLASMS W CC | 1.1819 | 4.4 | 6.1
319 | 11 | MED | KIDNEY & URINARY TRACT NEOPLASMS W/O CC | .6051 | 2.1 | 2.9
320 | 11 | MED | KIDNEY & URINARY TRACT INFECTIONS AGE >17 W CC | .8555 | 4.3 | 5.3
321 | 11 | MED | KIDNEY & URINARY TRACT INFECTIONS AGE >17 W/O CC | .5645 | 3.1 | 3.8
322 | 11 | MED | KIDNEY & URINARY TRACT INFECTIONS AGE 0-17 | .4769 | 3.1 | 3.7
323 | 11 | MED | URINARY STONES W CC, &/OR ESW LITHOTRIPSY | .8049 | 2.4 | 3.1
324 | 11 | MED | URINARY STONES W/O CC | .4643 | 1.5 | 1.8
325 | 11 | MED | KIDNEY & URINARY TRACT SIGNS & SYMPTOMS AGE >17 W CC | .6508 | 2.9 | 3.8
326 | 11 | MED | KIDNEY & URINARY TRACT SIGNS & SYMPTOMS AGE >17 W/O CC | .4441 | 2.2 | 2.7
327 | 11 | MED | * KIDNEY & URINARY TRACT SIGNS & SYMPTOMS AGE 0-17 | .3668 | 3.1 | 3.1
328 | 11 | MED | URETHRAL STRICTURE AGE >17 W CC | .7339 | 2.8 | 3.8
329 | 11 | MED | URETHRAL STRICTURE AGE >17 W/O CC | .4891 | 1.7 | 2.2
330 | 11 | MED | * URETHRAL STRICTURE AGE 0-17 | .3160 | 1.6 | 1.6
331 | 11 | MED | OTHER KIDNEY & URINARY TRACT DIAGNOSES AGE >17 W CC | 1.0553 | 4.2 | 5.6
332 | 11 | MED | OTHER KIDNEY & URINARY TRACT DIAGNOSES AGE >17 W/O CC | .5998 | 2.4 | 3.2
333 | 11 | MED | OTHER KIDNEY & URINARY TRACT DIAGNOSES AGE 0-17 | .7662 | 3.3 | 4.7
334 | 12 | SURG | MAJOR MALE PELVIC PROCEDURES W CC | 1.5217 | 4.0 | 4.8
335 | 12 | SURG | MAJOR MALE PELVIC PROCEDURES W/O CC | 1.1249 | 2.9 | 3.2
336 | 12 | SURG | TRANSURETHRAL PROSTATECTOMY W CC | .8721 | 2.6 | 3.4
337 | 12 | SURG | TRANSURETHRAL PROSTATECTOMY W/O CC | .6046 | 1.8 | 2.1
338 | 12 | SURG | TESTES PROCEDURES, FOR MALIGNANCY | 1.2297 | 3.5 | 5.6
339 | 12 | SURG | TESTES PROCEDURES, NON-MALIGNANCY AGE >17 | 1.1006 | 2.9 | 4.6
340 | 12 | SURG | * TESTES PROCEDURES, NON-MALIGNANCY AGE 0-17 | .2808 | 2.4 | 2.4
341 | 12 | SURG | PENIS PROCEDURES | 1.2148 | 1.9 | 3.1
342 | 12 | SURG | CIRCUMCISION AGE >17 | .7897 | 2.3 | 3.1
343 | 12 | SURG | * CIRCUMCISION AGE 0-17 | .1526 | 1.7 | 1.7
344 | 12 | SURG | OTHER MALE REPRODUCTIVE SYSTEM O.R. PROCEDURES FOR MALIGNANCY | 1.2631 | 1.6 | 2.4
345 | 12 | SURG | OTHER MALE REPRODUCTIVE SYSTEM O.R. PROC EXCEPT FOR MALIGNANCY | 1.1839 | 2.9 | 4.8
346 | 12 | MED | MALIGNANCY, MALE REPRODUCTIVE SYSTEM, W CC | 1.0453 | 4.5 | 6.0
347 | 12 | MED | MALIGNANCY, MALE REPRODUCTIVE SYSTEM, W/O CC | .5654 | 2.0 | 2.7
348 | 12 | MED | BENIGN PROSTATIC HYPERTROPHY W CC | .7111 | 3.2 | 4.2
349 | 12 | MED | BENIGN PROSTATIC HYPERTROPHY W/O CC | .3943 | 1.9 | 2.5
350 | 12 | MED | INFLAMMATION OF THE MALE REPRODUCTIVE SYSTEM | .7192 | 3.6 | 4.5
351 | 12 | MED | * STERILIZATION, MALE | .2342 | 1.3 | 1.3
352 | 12 | MED | OTHER MALE REPRODUCTIVE SYSTEM DIAGNOSES | .7227 | 2.8 | 4.0
353 | 13 | SURG | PELVIC EVISCERATION, RADICAL HYSTERECTOMY & RADICAL VULVECTOMY | 1.8746 | 5.0 | 6.5
354 | 13 | SURG | UTERINE, ADNEXA PROC FOR NON-OVARIAN/ADNEXAL MALIG W CC | 1.5439 | 4.8 | 5.8
355 | 13 | SURG | UTERINE, ADNEXA PROC FOR NON-OVARIAN/ADNEXAL MALIG W/O CC | .9119 | 3.0 | 3.2
356 | 13 | SURG | FEMALE REPRODUCTIVE SYSTEM RECONSTRUCTIVE PROCEDURES | .7675 | 1.9 | 2.2
357 | 13 | SURG | UTERINE & ADNEXA PROC FOR OVARIAN OR ADNEXAL MALIGNANCY | 2.3212 | 6.7 | 8.4
358 | 13 | SURG | UTERINE & ADNEXA PROC FOR NON-MALIGNANCY W CC | 1.2295 | 3.5 | 4.3
359 | 13 | SURG | UTERINE & ADNEXA PROC FOR NON-MALIGNANCY W/O CC | .8356 | 2.4 | 2.6
360 | 13 | SURG | VAGINA, CERVIX & VULVA PROCEDURES | .8857 | 2.3 | 2.8
361 | 13 | SURG | LAPAROSCOPY & INCISIONAL TUBAL INTERRUPTION | 1.1215 | 2.3 | 3.7
362 | 13 | SURG | * ENDOSCOPIC TUBAL INTERRUPTION | .2993 | 1.4 | 1.4
363 | 13 | SURG | D&C, CONIZATION & RADIO-IMPLANT, FOR MALIGNANCY | .8801 | 2.6 | 3.6
364 | 13 | SURG | D&C, CONIZATION EXCEPT FOR MALIGNANCY | .8399 | 2.7 | 3.9
365 | 13 | SURG | OTHER FEMALE REPRODUCTIVE SYSTEM O.R. PROCEDURES | 1.9401 | 5.2 | 7.7
366 | 13 | MED | MALIGNANCY, FEMALE REPRODUCTIVE SYSTEM W CC | 1.2804 | 4.9 | 6.9
367 | 13 | MED | MALIGNANCY, FEMALE REPRODUCTIVE SYSTEM W/O CC | .5388 | 2.3 | 3.0
368 | 13 | MED | INFECTIONS, FEMALE REPRODUCTIVE SYSTEM | 1.2019 | 5.2 | 6.7
369 | 13 | MED | MENSTRUAL & OTHER FEMALE REPRODUCTIVE SYSTEM DISORDERS | .5941 | 2.4 | 3.2
370 | 14 | SURG | CESAREAN SECTION W CC | .9721 | 4.4 | 5.7
371 | 14 | SURG | CESAREAN SECTION W/O CC | .6742 | 3.3 | 3.6
372 | 14 | MED | VAGINAL DELIVERY W COMPLICATING DIAGNOSES | .6053 | 2.6 | 3.7
373 | 14 | MED | VAGINAL DELIVERY W/O COMPLICATING DIAGNOSES | .3931 | 2.0 | 2.3
374 | 14 | SURG | VAGINAL DELIVERY W STERILIZATION &/OR D&C | .7855 | 2.5 | 2.9
375 | 14 | SURG | * VAGINAL DELIVERY W O.R. PROC EXCEPT STERIL &/OR D&C | .5714 | 4.4 | 4.4
376 | 14 | MED | POSTPARTUM & POST ABORTION DIAGNOSES W/O O.R. PROCEDURE | .4827 | 2.6 | 3.5
377 | 14 | SURG | POSTPARTUM & POST ABORTION DIAGNOSES W O.R. PROCEDURE | 1.4673 | 3.2 | 4.4
378 | 14 | MED | ECTOPIC PREGNANCY | .8385 | 2.0 | 2.5
379 | 14 | MED | THREATENED ABORTION | .3944 | 2.1 | 3.0
380 | 14 | MED | ABORTION W/O D&C | .3662 | 1.6 | 2.0
381 | 14 | SURG | ABORTION W D&C, ASPIRATION CURETTAGE OR HYSTEROTOMY | .5859 | 1.6 | 2.1
382 | 14 | MED | FALSE LABOR | .1588 | 1.2 | 1.4
383 | 14 | MED | OTHER ANTEPARTUM DIAGNOSES W MEDICAL COMPLICATIONS | .5475 | 2.7 | 4.0
384 | 14 | MED | OTHER ANTEPARTUM DIAGNOSES W/O MEDICAL COMPLICATIONS | .4188 | 1.8 | 2.7
385 | 15 | MED | * NEONATES, DIED OR TRANSFERRED TO ANOTHER ACUTE CARE FACILITY | 1.3636 | 1.8 | 1.8
386 | 15 | MED | * EXTREME IMMATURITY | 4.4966 | 17.9 | 17.9
387 | 15 | MED | * PREMATURITY W MAJOR PROBLEMS | 3.0711 | 13.3 | 13.3
388 | 15 | MED | * PREMATURITY W/O MAJOR PROBLEMS | 1.8531 | 8.6 | 8.6
389 | 15 | MED | * FULL TERM NEONATE W MAJOR PROBLEMS | 3.1546 | 4.7 | 4.7
390 | 15 | MED | * NEONATE W OTHER SIGNIFICANT PROBLEMS | 1.1165 | 3.4 | 3.4
391 | 15 | MED | * NORMAL NEWBORN | .1512 | 3.1 | 3.1
392 | 16 | SURG | SPLENECTOMY AGE >17 | 3.1530 | 6.9 | 9.5
393 | 16 | SURG | * SPLENECTOMY AGE 0-17 | 1.3357 | 9.1 | 9.1
394 | 16 | SURG | OTHER O.R. PROCEDURES OF THE BLOOD AND BLOOD FORMING ORGANS | 1.7961 | 4.3 | 7.0
395 | 16 | MED | RED BLOOD CELL DISORDERS AGE >17 | .8141 | 3.2 | 4.4
396 | 16 | MED | RED BLOOD CELL DISORDERS AGE 0-17 | .6515 | 2.4 | 3.8
397 | 16 | MED | COAGULATION DISORDERS | 1.2348 | 3.7 | 5.2
398 | 16 | MED | RETICULOENDOTHELIAL & IMMUNITY DISORDERS W CC | 1.2646 | 4.6 | 5.9
399 | 16 | MED | RETICULOENDOTHELIAL & IMMUNITY DISORDERS W/O CC | .6883 | 2.8 | 3.6
400 | 17 | SURG | LYMPHOMA & LEUKEMIA W MAJOR O.R. PROCEDURE | 2.6627 | 5.5 | 9.0
401 | 17 | SURG | LYMPHOMA & NON-ACUTE LEUKEMIA W OTHER O.R. PROC W CC | 2.7815 | 8.0 | 11.3
402 | 17 | SURG | LYMPHOMA & NON-ACUTE LEUKEMIA W OTHER O.R. PROC W/O CC | 1.1184 | 2.7 | 3.9
403 | 17 | MED | LYMPHOMA & NON-ACUTE LEUKEMIA W CC | 1.7630 | 5.7 | 8.0
404 | 17 | MED | LYMPHOMA & NON-ACUTE LEUKEMIA W/O CC | .8543 | 3.0 | 4.2
405 | 17 | MED | * ACUTE LEUKEMIA W/O MAJOR O.R. PROCEDURE AGE 0-17 | 1.8937 | 4.9 | 4.9
406 | 17 | SURG | MYELOPROLIF DISORD OR POORLY DIFF NEOPL W MAJ O.R.PROC W CC | 2.7896 | 6.9 | 9.7
407 | 17 | SURG | MYELOPROLIF DISORD OR POORLY DIFF NEOPL W MAJ O.R.PROC W/O CC | 1.2754 | 3.3 | 4.1
408 | 17 | SURG | MYELOPROLIF DISORD OR POORLY DIFF NEOPL W OTHER O.R.PROC | 2.0472 | 4.7 | 7.9
409 | 17 | MED | RADIOTHERAPY | 1.2026 | 4.5 | 6.1
410 | 17 | MED | CHEMOTHERAPY W/O ACUTE LEUKEMIA AS SECONDARY DIAGNOSIS | 1.0423 | 3.1 | 4.0
411 | 17 | MED | HISTORY OF MALIGNANCY W/O ENDOSCOPY | .3885 | 2.2 | 2.9
412 | 17 | MED | HISTORY OF MALIGNANCY W ENDOSCOPY | .2791 | 1.6 | 2.0
413 | 17 | MED | OTHER MYELOPROLIF DIS OR POORLY DIFF NEOPL DIAG W CC | 1.3594 | 5.3 | 7.3
414 | 17 | MED | OTHER MYELOPROLIF DIS OR POORLY DIFF NEOPL DIAG W/O CC | .6897 | 3.0 | 4.0
415 | 18 | SURG | O.R. PROCEDURE FOR INFECTIOUS & PARASITIC DISEASES | 3.6521 | 10.4 | 14.5
416 | 18 | MED | SEPTICEMIA AGE >17 | 1.5936 | 5.6 | 7.5
417 | 18 | MED | SEPTICEMIA AGE 0-17 | 1.1657 | 4.5 | 6.1
418 | 18 | MED | POSTOPERATIVE & POST-TRAUMATIC INFECTIONS | 1.0377 | 4.8 | 6.2
419 | 18 | MED | FEVER OF UNKNOWN ORIGIN AGE >17 W CC | .8636 | 3.6 | 4.7
420 | 18 | MED | FEVER OF UNKNOWN ORIGIN AGE >17 W/O CC | .5907 | 2.8 | 3.4
421 | 18 | MED | VIRAL ILLNESS AGE >17 | .7028 | 2.9 | 3.8
422 | 18 | MED | VIRAL ILLNESS & FEVER OF UNKNOWN ORIGIN AGE 0-17 | .4351 | 2.3 | 2.9
423 | 18 | MED | OTHER INFECTIOUS & PARASITIC DISEASES DIAGNOSES | 1.7883 | 5.9 | 8.3
424 | 19 | SURG | O.R. PROCEDURE W PRINCIPAL DIAGNOSES OF MENTAL ILLNESS | 2.2964 | 8.1 | 13.0
425 | 19 | MED | ACUTE ADJUSTMENT REACTION & PSYCHOSOCIAL DYSFUNCTION | .6796 | 2.9 | 3.9
426 | 19 | MED | DEPRESSIVE NEUROSES | .5177 | 3.2 | 4.5
427 | 19 | MED | NEUROSES EXCEPT DEPRESSIVE | .5199 | 3.1 | 4.4
428 | 19 | MED | DISORDERS OF PERSONALITY & IMPULSE CONTROL | .7376 | 4.4 | 7.4
429 | 19 | MED | ORGANIC DISTURBANCES & MENTAL RETARDATION | .8268 | 4.7 | 6.3
430 | 19 | MED | PSYCHOSES | .7128 | 5.7 | 8.0
431 | 19 | MED | CHILDHOOD MENTAL DISORDERS | .5925 | 4.2 | 5.9
432 | 19 | MED | OTHER MENTAL DISORDER DIAGNOSES | .6333 | 2.9 | 4.6
433 | 20 | MED | ALCOHOL/DRUG ABUSE OR DEPENDENCE, LEFT AMA | .2752 | 2.2 | 3.0
434 | 20 | MED | NO LONGER VALID | .0000 | .0 | .0
435 | 20 | MED | NO LONGER VALID | .0000 | .0 | .0
436 | 20 | MED | NO LONGER VALID | .0000 | .0 | .0
437 | 20 | MED | NO LONGER VALID | .0000 | .0 | .0
438 | 20 |  | NO LONGER VALID | .0000 | .0 | .0
439 | 21 | SURG | SKIN GRAFTS FOR INJURIES | 1.6840 | 5.4 | 8.5
440 | 21 | SURG | WOUND DEBRIDEMENTS FOR INJURIES | 1.9031 | 5.7 | 9.0
441 | 21 | SURG | HAND PROCEDURES FOR INJURIES | .9231 | 2.1 | 3.1
442 | 21 | SURG | OTHER O.R. PROCEDURES FOR INJURIES W CC | 2.4078 | 5.6 | 8.6
443 | 21 | SURG | OTHER O.R. PROCEDURES FOR INJURIES W/O CC | 1.0670 | 2.6 | 3.5
444 | 21 | MED | TRAUMATIC INJURY AGE >17 W CC | .7577 | 3.2 | 4.3
445 | 21 | MED | TRAUMATIC INJURY AGE >17 W/O CC | .4857 | 2.3 | 2.9
446 | 21 | MED | * TRAUMATIC INJURY AGE 0-17 | .2936 | 2.4 | 2.4
447 | 21 | MED | ALLERGIC REACTIONS AGE >17 | .5000 | 1.8 | 2.4
448 | 21 | MED | * ALLERGIC REACTIONS AGE 0-17 | .0965 | 2.9 | 2.9
449 | 21 | MED | POISONING & TOXIC EFFECTS OF DRUGS AGE >17 W CC | .8233 | 2.6 | 3.7
450 | 21 | MED | POISONING & TOXIC EFFECTS OF DRUGS AGE >17 W/O CC | .4272 | 1.6 | 2.0
451 | 21 | MED | * POISONING & TOXIC EFFECTS OF DRUGS AGE 0-17 | .2607 | 2.1 | 2.1
452 | 21 | MED | COMPLICATIONS OF TREATMENT W CC | 1.0378 | 3.5 | 5.0
453 | 21 | MED | COMPLICATIONS OF TREATMENT W/O CC | .5133 | 2.1 | 2.8
454 | 21 | MED | OTHER INJURY, POISONING & TOXIC EFFECT DIAG W CC | .8272 | 3.0 | 4.4
455 | 21 | MED | OTHER INJURY, POISONING & TOXIC EFFECT DIAG W/O CC | .4542 | 1.8 | 2.4
456 | 22 |  | NO LONGER VALID | .0000 | .0 | .0
457 | 22 | MED | NO LONGER VALID | .0000 | .0 | .0
458 | 22 | SURG | NO LONGER VALID | .0000 | .0 | .0
459 | 22 | SURG | NO LONGER VALID | .0000 | .0 | .0
460 | 22 | MED | NO LONGER VALID | .0000 | .0 | .0
461 | 23 | SURG | O.R. PROC W DIAGNOSES OF OTHER CONTACT W HEALTH SERVICES | 1.1927 | 2.2 | 4.1
462 | 23 | MED | REHABILITATION | 1.1251 | 9.3 | 11.5
463 | 23 | MED | SIGNS & SYMPTOMS W CC | .6930 | 3.2 | 4.2
464 | 23 | MED | SIGNS & SYMPTOMS W/O CC | .4957 | 2.4 | 3.0
465 | 23 | MED | AFTERCARE W HISTORY OF MALIGNANCY AS SECONDARY DIAGNOSIS | .6785 | 1.8 | 2.9
466 | 23 | MED | AFTERCARE W/O HISTORY OF MALIGNANCY AS SECONDARY DIAGNOSIS | .7305 | 2.1 | 3.9
467 | 23 | MED | OTHER FACTORS INFLUENCING HEALTH STATUS | .6095 | 2.1 | 8.4
468 |  |  | EXTENSIVE O.R. PROCEDURE UNRELATED TO PRINCIPAL DIAGNOSIS | 3.6658 | 9.2 | 13.0
469 |  |  | ** PRINCIPAL DIAGNOSIS INVALID AS DISCHARGE DIAGNOSIS | .0000 | .0 | .0
470 |  |  | ** UNGROUPABLE | .0000 | .0 | .0
471 | 08 | SURG | BILATERAL OR MULTIPLE MAJOR JOINT PROCS OF LOWER EXTREMITY | 3.0990 | 4.8 | 5.5
472 | 22 | SURG | NO LONGER VALID | .0000 | .0 | .0
473 | 17 | SURG | ACUTE LEUKEMIA W/O MAJOR O.R. PROCEDURE AGE >17 | 3.5075 | 7.3 | 12.6
474 | 04 | SURG | NO LONGER VALID | .0000 | .0 | .0
475 | 04 | MED | RESPIRATORY SYSTEM DIAGNOSIS WITH VENTILATOR SUPPORT | 3.6408 | 8.0 | 11.3
476 |  | SURG | PROSTATIC O.R. PROCEDURE UNRELATED TO PRINCIPAL DIAGNOSIS | 2.2587 | 8.0 | 11.3
477 |  | SURG | NON-EXTENSIVE O.R. PROCEDURE UNRELATED TO PRINCIPAL DIAGNOSIS | 1.8605 | 5.3 | 8.2
478 | 05 | SURG | OTHER VASCULAR PROCEDURES W CC | 2.3660 | 4.9 | 7.4
479 | 05 | SURG | OTHER VASCULAR PROCEDURES W/O CC | 1.4314 | 2.5 | 3.3
480 | PRE | SURG | LIVER TRANSPLANT | 10.1911 | 15.7 | 21.5
481 | PRE | SURG | BONE MARROW TRANSPLANT | 6.9570 | 19.3 | 22.0
482 | PRE | SURG | TRACHEOSTOMY FOR FACE,MOUTH & NECK DIAGNOSES | 3.4938 | 9.7 | 12.5
483 | PRE | SURG | TRACHEOSTOMY/MECH VENT 96+HRS EXCEPT FACE,MOUTH & NECK DIAGNOSES | 16.2670 | 34.6 | 42.0
484 | 24 | SURG | CRANIOTOMY FOR MULTIPLE SIGNIFICANT TRAUMA | 5.5512 | 8.9 | 13.2
485 | 24 | SURG | LIMB REATTACHMENT, HIP AND FEMUR PROC FOR MULTIPLE SIGNIFICANT TRA | 2.9897 | 7.6 | 9.5
486 | 24 | SURG | OTHER O.R. PROCEDURES FOR MULTIPLE SIGNIFICANT TRAUMA | 4.8066 | 8.4 | 12.4
487 | 24 | MED | OTHER MULTIPLE SIGNIFICANT TRAUMA | 1.9538 | 5.5 | 7.8
488 | 25 | SURG | HIV W EXTENSIVE O.R. PROCEDURE | 4.6394 | 11.5 | 16.9
489 | 25 | MED | HIV W MAJOR RELATED CONDITION | 1.7885 | 6.0 | 8.6
490 | 25 | MED | HIV W OR W/O OTHER RELATED CONDITION | 1.0200 | 3.7 | 5.3
491 | 08 | SURG | MAJOR JOINT & LIMB REATTACHMENT PROCEDURES OF UPPER EXTREMITY | 1.7021 | 2.9 | 3.5
492 | 17 | MED | CHEMOTHERAPY W ACUTE LEUKEMIA AS SECONDARY DIAGNOSIS | 3.9117 | 9.2 | 15.0
493 | 07 | SURG | LAPAROSCOPIC CHOLECYSTECTOMY W/O C.D.E. W CC | 1.8188 | 4.3 | 5.9
494 | 07 | SURG | LAPAROSCOPIC CHOLECYSTECTOMY W/O C.D.E. W/O CC | 1.0128 | 1.9 | 2.5
495 | PRE | SURG | LUNG TRANSPLANT | 8.9713 | 14.3 | 17.2
496 | 08 | SURG | COMBINED ANTERIOR/POSTERIOR SPINAL FUSION | 5.7699 | 7.1 | 9.5
497 | 08 | SURG | SPINAL FUSION EXCEPT CERVICAL W CC | 3.3834 | 5.4 | 6.5
498 | 08 | SURG | SPINAL FUSION EXCEPT CERVICAL W/O CC | 2.4714 | 3.7 | 4.1
499 | 08 | SURG | BACK & NECK PROCEDURES EXCEPT SPINAL FUSION W CC | 1.4381 | 3.4 | 4.6
500 | 08 | SURG | BACK & NECK PROCEDURES EXCEPT SPINAL FUSION W/O CC | .9487 | 2.0 | 2.5
501 | 08 | SURG | KNEE PROCEDURES W PDX OF INFECTION W CC | 2.5940 | 8.4 | 10.7
502 | 08 | SURG | KNEE PROCEDURES W PDX OF INFECTION W/O CC | 1.5391 | 5.3 | 6.4
503 | 08 | SURG | KNEE PROCEDURES W/O PDX OF INFECTION | 1.2111 | 2.9 | 3.9
504 | 22 | SURG | EXTENSIVE 3RD DEGREE BURNS W SKIN GRAFT | 14.4707 | 26.9 | 35.1
505 | 22 | MED | EXTENSIVE 3RD DEGREE BURNS W/O SKIN GRAFT | 1.9872 | 2.2 | 3.7
506 | 22 | SURG | FULL THICKNESS BURN W SKIN GRAFT OR INHAL INJ W CC OR SIG TRAUMA | 4.6264 | 12.7 | 17.3
507 | 22 | SURG | FULL THICKNESS BURN W SKIN GRFT OR INHAL INJ W/O CC OR SIG TRAUMA | 1.7118 | 6.5 | 9.0
508 | 22 | MED | FULL THICKNESS BURN W/O SKIN GRFT OR INHAL INJ W CC OR SIG TRAUMA | 1.4160 | 5.8 | 8.4
509 | 22 | MED | FULL THICKNESS BURN W/O SKIN GRFT OR INH INJ W/O CC OR SIG TRAUMA | .9410 | 4.1 | 5.5
510 | 22 | MED | NON-EXTENSIVE BURNS W CC OR SIGNIFICANT TRAUMA | 1.2161 | 4.6 | 6.7
511 | 22 | MED | NON-EXTENSIVE BURNS W/O CC OR SIGNIFICANT TRAUMA | .6968 | 3.0 | 4.4
512 | PRE | SURG | SIMULTANEOUS PANCREAS/KIDNEY TRANSPLANT | 5.7000 | 11.7 | 14.2
513 | PRE | SURG | PANCREAS TRANSPLANT | 6.1951 | 9.4 | 10.7
514 | 05 | SURG | CARDIAC DEFIBRILLATOR IMPLANT W CARDIAC CATH | 6.3288 | 5.0 | 7.3
515 | 05 | SURG | CARDIAC DEFIBRILLATOR IMPLANT W/O CARDIAC CATH | 5.0380 | 3.3 | 5.5
516 | 05 | SURG | PERCUTANEOUS CARDIOVASC PROC W AMI | 2.7295 | 3.7 | 4.7
517 | 05 | SURG | PERC CARDIO PROC W CORONARY ARTERY STENT W/O AMI | 2.1793 | 1.9 | 2.6
518 | 05 | SURG | PERC CARDIO PROC W/O CORONARY ARTERY STENT OR AMI | 1.7267 | 2.3 | 3.4
519 | 08 | SURG | CERVICAL SPINAL FUSION W CC | 2.3467 | 3.2 | 5.2
520 | 08 | SURG | CERVICAL SPINAL FUSION W/O CC | 1.5390 | 1.7 | 2.1
521 | 20 | MED | ALCOHOL/DRUG ABUSE OR DEPENDENCE W CC | .7267 | 4.3 | 5.8
522 | 20 | MED | ALC/DRUG ABUSE OR DEPEND W REHABILITATION THERAPY W/O CC | .5829 | 7.5 | 9.5
523 | 20 | MED | ALC/DRUG ABUSE OR DEPEND W/O REHABILITATION THERAPY W/O CC | .4007 | 3.3 | 4.1
524 | 01 | MED | TRANSIENT ISCHEMIA | .7236 | 2.7 | 3.4
525 | 05 | SURG | HEART ASSIST SYSTEM IMPLANT | 11.3787 | 9.3 | 16.2
* MEDICARE DATA HAVE BEEN SUPPLEMENTED BY DATA FROM 19 STATES FOR LOW VOLUME DRGS.
** DRGS 469 AND 470 CONTAIN CASES WHICH COULD NOT BE ASSIGNED TO VALID DRGS.
GEOMETRIC MEAN IS USED ONLY TO DETERMINE PAYMENT FOR TRANSFER CASES.
ARITHMETIC MEAN IS PRESENTED FOR INFORMATIONAL PURPOSES ONLY.
NOTE: RELATIVE WEIGHTS ARE BASED ON MEDICARE PATIENT DATA AND MAY NOT BE APPROPRIATE FOR OTHER PATIENTS.

Table 6A.—New Diagnosis Codes
Diagnosis code | Description | CC | MDC | DRG
040.82 | Toxic shock syndrome | Y | 18 | 423
066.4 | West Nile fever | N | 18 | 421, 422
277.02 | Cystic fibrosis with pulmonary manifestations | Y | 4 | 79, 80, 81
277.03 | Cystic fibrosis with gastrointestinal manifestations | Y | 6 | 188, 189, 190
277.09 | Cystic fibrosis with other manifestations | Y | 10 | 296, 297, 298
357.81 | Chronic inflammatory demyelinating polyneuritis | N | 1 | 18, 19
357.82 | Critical illness polyneuropathy | N | 1 | 18, 19
357.89 | Other inflammatory and toxic neuropathy | N | 1 | 18, 19
359.81 | Critical illness myopathy | N | 1 | 34, 35
359.89 | Other myopathies | N | 1 | 34, 35
365.83 | Aqueous misdirection | N | 2 | 46, 47, 48
414.06 | Coronary atherosclerosis of coronary artery of transplanted heart | N | 5 | 132, 133
414.12 | Dissection of coronary artery | N | 5 | 121, 144, 145
428.20 | Unspecified systolic heart failure | Y | 5 | 115, 121, 124, 127
428.21 | Acute systolic heart failure | Y | 5 | 115, 121, 124, 127
428.22 | Chronic systolic heart failure | Y | 5 | 115, 121, 124, 127
428.23 | Acute on chronic systolic heart failure | Y | 5 | 115, 121, 124, 127
428.30 | Unspecified diastolic heart failure | Y | 5 | 115, 121, 124, 127
428.31 | Acute diastolic heart failure | Y | 5 | 115, 121, 124, 127
428.32 | Chronic diastolic heart failure | Y | 5 | 115, 121, 124, 127
428.33 | Acute on chronic diastolic heart failure | Y | 5 | 115, 121, 124, 127
428.40 | Unspecified combined systolic and diastolic heart failure | Y | 5 | 115, 121, 124, 127
428.41 | Acute combined systolic and diastolic heart failure | Y | 5 | 115, 121, 124, 127
428.42 | Chronic combined systolic and diastolic heart failure | Y | 5 | 115, 121, 124, 127
428.43 | Acute on chronic combined systolic and diastolic heart failure | Y | 5 | 115, 121, 124, 127
438.6 | Alterations of sensations | N | 1 | 12
438.7 | Disturbances of vision | N | 1 | 12
438.83 | Facial weakness | N | 1 | 12
438.84 | Ataxia | N | 1 | 12
438.85 | Vertigo | N | 1 | 12
443.21 | Dissection of carotid artery | N | 5 | 130, 131
443.22 | Dissection of iliac artery | N | 5 | 130, 131
443.23 | Dissection of renal artery | N | 11 | 331, 332, 333
443.24 | Dissection of vertebral artery | N | 5 | 130, 131
443.29 | Dissection of other artery | N | 5 | 130, 131
445.01 | Atheroembolism, upper extremity | Y | 5 | 130, 131
445.02 | Atheroembolism, lower extremity | Y | 5 | 130, 131
445.81 | Atheroembolism, kidney | Y | 11 | 331, 332, 333
445.89 | Atheroembolism, other site | Y | 5 | 130, 131
454.8 | Varicose veins of the lower extremities, with other complications | N | 5 | 130, 131
459.10 | Postphlebetic syndrome without complications | N | 5 | 130, 131
459.11 | Postphlebetic syndrome with ulcer | N | 5 | 130, 131
459.12 | Postphlebetic syndrome with inflammation | N | 5 | 130, 131
459.13 | Postphlebetic syndrome with ulcer and inflammation | N | 5 | 130, 131
459.19 | Postphlebetic syndrome with other complication | N | 5 | 130, 131
459.30 | Chronic venous hypertension without complications | N | 5 | 130, 131
459.31 | Chronic venous hypertension with ulcer | N | 5 | 130, 131
459.32 | Chronic venous hypertension with inflammation | N | 5 | 130, 131
459.33 | Chronic venous hypertension with ulcer and inflammation | N | 5 | 130, 131
459.39 | Chronic venous hypertension with other complication | N | 5 | 130, 131
537.84 | Dieulafoy lesion (hemorrhagic) of stomach and duodenum | Y | 6 | 174, 175
569.86 | Dieulafoy lesion (hemorrhagic) of intestine | Y | 6 | 188, 189, 190
633.00 | Abdominal pregnancy without intrauterine pregnancy | N | 14 | 378
633.01 | Abdominal pregnancy with intrauterine pregnancy | N | 14 | 378
633.10 | Tubal pregnancy without intrauterine pregnancy | N | 14 | 378
633.11 | Tubal pregnancy with intrauterine pregnancy | N | 14 | 378
633.20 | Ovarian pregnancy without intrauterine pregnancy | N | 14 | 378
633.21 | Ovarian pregnancy with intrauterine pregnancy | N | 14 | 378
633.80 | Other ectopic pregnancy without intrauterine pregnancy | N | 14 | 378
633.81 | Other ectopic pregnancy with intrauterine pregnancy | N | 14 | 378
633.90 | Unspecified ectopic pregnancy without intrauterine pregnancy | N | 14 | 378
633.91 | Unspecified ectopic pregnancy with intrauterine pregnancy | N | 14 | 378
747.83 | Persistent fetal circulation | N | 15 | 387, 389
765.20 | Unspecified weeks of gestation | N | 15 | 391
765.21 | Less than 24 completed weeks of gestation | N | 15 | 386
765.22 | 24 completed weeks of gestation | N | 15 | 386
765.23 | 25-26 completed weeks of gestation | N | 15 | 386
765.24 | 27-28 completed weeks of gestation | N | 15 | 387, 388
765.25 | 29-30 completed weeks of gestation | N | 15 | 387, 388
765.26 | 31-32 completed weeks of gestation | N | 15 | 387, 388
765.27 | 33-34 completed weeks of gestation | N | 15 | 387, 388
765.28 | 35-36 completed weeks of gestation | N | 15 | 387, 388
765.29 | 37 or more completed weeks of gestation | N | 15 | 391
770.81 | Primary apnea of newborn | N | 15 | 390
770.82 | Other apnea of newborn | N | 15 | 390
770.83 | Cyanotic attacks of newborn | N | 15 | 390
770.84 | Respiratory failure of newborn | Y | 15 | 387, 389
770.89 | Other respiratory problems after birth | N | 15 | 390
771.81 | Septicemia [sepsis] of newborn | Y | 15 | 387, 389
771.82 | Urinary tract infection of newborn | N | 15 | 387, 389
771.83 | Bacteremia of newborn | Y | 15 | 387, 389
771.89 | Other infections specific to the perinatal period | N | 15 | 387, 389
779.81 | Neonatal bradycardia | N | 15 | 390
779.82 | Neonatal tachycardia | N | 15 | 390
779.89 | Other specified conditions originating in the perinatal period | N | 15 | 390
780.91 | Fussy infant (baby) | N | 23 | 463,464
780.92 | Excessive crying of infant (baby) | N | 23 | 463,464
780.99 | Other general symptoms | N | 23 | 463,464
781.93 | Ocular torticollis | N | 8 | 243
795.00 | Nonspecific abnormal Papanicolaou smear of cervix, unspecified | N | 13 | 358, 359, 369
795.01 | Atypical squamous cell changes of undetermined significance favor benign
| (ASCUS favor benign) | N | 13 | 358, 359, 369
795.02 | Atypical squamous cell changes of undetermined significance favor dysplasia
| (ASCUS favor dysplasia) | N | 13 | 358, 359, 369
795.09 | Other nonspecific abnormal Papanicolaou smear of cervix | N | 13 | 358, 359, 369
795.31 | Nonspecific positive findings for anthrax | N | 18 | 423
795.39 | Other nonspecific positive culture findings | N | 18 | 423
813.45 | Torus fracture of radius | N | 8 24 | 250, 251, 252 487
823.40 | Torus fracture, tibia alone | N | 8 24 | 253, 254, 255 487
823.41 | Torus fracture, fibula alone | N | 8 24 | 253, 254, 255 487
823.42 | Torus fracture, fibula with tibia | N | 8 24 | 253, 254, 255 487
995.90 | Systemic inflammatory response syndrome, unspecified | Y | 18 | 416, 417
995.91 | Systemic inflammatory response syndrome due to infectious process without
| organ dysfunction | Y | 18 | 416, 417
995.92 | Systemic inflammatory response syndrome due to infectious process with
| organ dysfunction | Y | 18 | 416, 417
995.93 | Systemic inflammatory response syndrome due to non-infectious process
| without organ dysfunction | Y | 18 | 416, 417
995.94 | Systemic inflammatory response syndrome due to non-infectious process with
| organ dysfunction | Y | 18 | 416, 417
998.31 | Disruption of internal operation wound | Y | 21 | 452, 453
998.32 | Disruption of external operation wound | Y | 21 | 452, 453
V01.81 | Contact with or exposure to communicable diseases, anthrax | N | 15 23 | 391 ¹ 467
V01.89 | Contact with or exposure to communicable diseases, other communicable
| diseases | N | 15 23 | 391 ¹ 467
V13.21 | Personal history of pre-term labor | N | 23 | 467
V13.29 | Personal history of other genital system and obstetric disorders | N | 23 | 467
V23.41 | Pregnancy with history of pre-term labor | N | 14 | 469
V23.49 | Pregnancy with other poor obstetric history | N | 14 | 469
V46.2 | Other dependence on machines, supplemental oxygen | N | 23 | 467
V54.10 | Aftercare for healing traumatic fracture of arm, unspecified | N | 8 | 249
V54.11 | Aftercare for healing traumatic fracture of upper arm | N | 8 | 249
V54.12 | Aftercare for healing traumatic fracture of lower arm | N | 8 | 249
V54.13 | Aftercare for healing traumatic fracture of hip | N | 8 | 249
V54.14 | Aftercare for healing traumatic fracture of leg, unspecified | N | 8 | 249
V54.15 | Aftercare for healing traumatic fracture of upper leg | N | 8 | 249
V54.16 | Aftercare for healing traumatic fracture of lower leg | N | 8 | 249
V54.17 | Aftercare for healing traumatic fracture of vertebrae | N | 8 | 249
V54.19 | Aftercare for healing traumatic fracture of other bone | N | 8 | 249
V54.20 | Aftercare for healing pathologic fracture of arm, unspecified | N | 8 | 249
V54.21 | Aftercare for healing pathologic fracture of upper arm | N | 8 | 249
V54.22 | Aftercare for healing pathologic fracture of lower arm | N | 8 | 249
V54.23 | Aftercare for healing pathologic fracture of hip | N | 8 | 249
V54.24 | Aftercare for healing pathologic fracture of leg, unspecified | N | 8 | 249
V54.25 | Aftercare for healing pathologic fracture of upper leg | N | 8 | 249
V54.26 | Aftercare for healing pathologic fracture of lower leg | N | 8 | 249
V54.27 | Aftercare for healing pathologic fracture of vertebrae | N | 8 | 249
V54.29 | Aftercare for healing pathologic fracture of other bone | N | 8 | 249
V54.81 | Aftercare following joint replacement | N | 8 | 249
V54.89 | Other orthopedic aftercare | N | 8 | 249
V58.42 | Aftercare following surgery for neoplasm | N | 23 | 465,466
V58.43 | Aftercare following surgery for injury and trauma | N | 23 | 465,466
V58.71 | Aftercare following surgery of the sense organs, NEC | N | 23 | 465,466
V58.72 | Aftercare following surgery of the nervous system, NEC | N | 23 | 465,466
V58.73 | Aftercare following surgery of the circulatory system, NEC | N | 23 | 465,466
V58.74 | Aftercare following surgery of the respiratory system, NEC | N | 23 | 465,466
V58.75 | Aftercare following surgery of the teeth, oral cavity and digestive system, NEC | N | 23 | 465,466
V58.76 | Aftercare following surgery of the genitourinary system, NEC | N | 23 | 465,466
V58.77 | Aftercare following surgery of the skin and subcutaneous tissue, NEC | N | 23 | 465,466
V58.78 | Aftercare following surgery of the musculoskeletal system, NEC | N | 23 | 465,466
V71.82 | Observation and evaluation for suspected exposure to anthrax | N | 23 | 467
V71.83 | Observation and evaluation for suspected exposure to other biological agent | N | 23 | 467
V83.81 | Cystic fibrosis gene carrier | N | 23 | 467
V83.89 | Other genetic carrier status | N | 23 | 467
¹ Classified as an “only secondary diagnosis” in this DRG.

Table 6B.—New Procedure Codes
Procedure code | Description | OR | MDC | DRG
00.01 | Therapeutic ultrasound of vessels of head and neck | N
00.02 | Therapeutic ultrasound of heart | N
00.03 | Therapeutic ultrasound of peripheral vascular vessels | N
00.09 | Other therapeutic ultrasound | N
00.10 | Implantation of chemotherapeutic agent | N
00.11 | Infusion of drotrecogin alfa (activated) | N
00.12 | Administration of inhaled nitric oxide | N
00.13 | Injection or infusion of nesiritide | N
00.14 | Injection or infusion of oxazolidinone class of antibiotics | N
00.50 | Implantation of cardiac resynchronization pacemaker without mention of
| defibrillation, total system [CRT-P] | Y | 5 | 115 ¹, 116 ¹
00.51 | Implantation of cardiac resynchronization defibrillator, total system [CRT-D] | Y | 5 | 514 ¹, 515 ¹
00.52 | Implantation or replacement of transvenous lead (electrode) into left ventricular
| coronary venous system | Y | 5 | 115 ², 116 ³, 514 ⁴, 515 ⁴
00.53 | Implantation or replacement of cardiac resynchronization pacemaker pulse
| generator only [CRT-P] | Y | 5 | 115 ², 116 ³, 118
00.54 | Implantation or replacement of cardiac resynchronization defibrillator pulse
| generator only [CRT-D] | Y | 5 | 115 ¹, 514 ⁴, 515 ⁴
00.55 | Insertion of drug-eluting noncoronary artery stent(s) | N
36.07 | Insertion of drug-eluting coronary artery stents(s) | N* | 5 | 517
39.72 | Endovascular repair or occlusion of head and neck vessels | Y | 1 5 11 21 24 | 1,2,3 110, 111 315 442, 443 486
49.75 | Implantation or revision of artificial anal sphincter | Y | 6 9 21 24 | 157, 158 267 442, 443 486
49.76 | Removal of artificial anal sphincter | Y | 6 9 21 24 | 157, 158 267 442, 443 486
81.61 | 360 degree spinal fusion, single incision approach | Y | 1 8 21 24 | 4 496 442, 443 486
84.51 | Insertion of interbody spinal fusion device | N
84.52 | Insertion of recombinant bone morphogenetic protein | N
88.96 | Other intraoperative magnetic resonance imaging | N
99.76 | Extracorporeal immunoadsorption | N
99.77 | Application or administration of an adhesion barrier substance | N
*Non-operating room procedure, but affects DRG.
¹ Classified under “operating room procedures”.
² Classified under “operating room procedure” and under “as any of the following procedure combinations” as 00.52 and 00.53.
³ Classified under “any of the following procedure combinations” as 00.52 and 00.53.
⁴ Classified under “any of the following procedure combinations” as 00.52 and 00.54.

Table 6C.—Invalid Diagnosis Codes
Diagnosis code | Description | CC | MDC | DRG
357.8 | Other inflammatory and toxic neuropathy | N | 1 | 18, 19
359.8 | Other myopathies | N | 1 | 34, 35
459.1 | Postphlebetic syndrome | N | 5 | 130, 131
633.0 | Abdominal pregnancy | N | 14 | 378
633.1 | Tubal pregnancy | N | 14 | 378
633.2 | Ovarian pregnancy | N | 14 | 378
633.8 | Other ectopic pregnancy | N | 14 | 378
633.9 | Unspecified ectopic pregnancy | N | 14 | 378
770.8 | Other respiratory problems after birth | N | 15 | 387, 389
771.8 | Other infections specific to the perinatal period | Y | 15 | 387, 389
779.8 | Other specified conditions originating in the perinatal period | N | 15 | 390
780.9 | Other general symptoms | N | 23 | 463, 464
795.0 | Nonspecific abnormal Papanicolaou smear of cervix | N | 13 | 358, 359, 369
795.3 | Nonspecific positive culture findings | N | 18 | 423
998.3 | Disruption of operation wound | Y | 21 | 452, 453
V01.8 | Other communicable diseases | N | 23 | 467
V13.2 | Other genital system and obstetric disorders | N | 23 | 467
V23.4 | Pregnancy with other poor obstetric history | N | 14 | 469
V54.8 | Other orthopedic aftercare | N | 8 | 249

Table 6D.—Invalid Procedure Codes
Note: There are no invalid procedure codes for FY 2003.

Table 6E.—Revised Diagnosis Code Titles
Diagnosis code | Description | CC | MDC | DRG
402.00 | Hypertensive heart disease, malignant, without heart failure | Y | 5 | 134
402.01 | Hypertensive heart disease, malignant, with heart failure | Y | 5 | 115, 121, 124, 127
402.10 | Hypertensive heart disease, benign, without heart failure | N | 5 | 134
402.11 | Hypertensive heart disease, benign, with heart failure | Y | 5 | 115, 121, 124, 127
402.90 | Hypertensive heart disease, unspecified, without heart failure | N | 5 | 134
402.91 | Hypertensive heart disease, unspecified, with heart failure | Y | 5 | 115, 121, 124, 127
404.00 | Hypertensive heart and renal disease, malignant, without mention of heart
| failure or renal failure | Y | 5 | 134
404.01 | Hypertensive heart and renal disease, malignant, with heart failure | Y | 5 | 115, 121, 124, 127
404.03 | Hypertensive heart and renal disease, malignant, with heart failure and renal
| failure | Y | 5 | 115, 121, 124, 127
404.10 | Hypertensive heart and renal disease, benign, without mention of heart failure
| or renal failure | N | 5 | 134
404.11 | Hypertensive heart and renal disease, benign, with heart failure | Y | 5 | 115, 121, 124, 127
404.13 | Hypertensive heart and renal disease, benign, with heart failure and renal
| failure | Y | 5 | 115, 121, 124, 127
404.90 | Hypertensive heart and renal disease, unspecified, without mention of heart
| failure or renal failure | N | 5 | 134
404.91 | Hypertensive heart and renal disease, unspecified, with heart failure | Y | 5 | 115, 121, 124, 127
404.93 | Hypertensive heart and renal disease, unspecified, with heart failure and renal
| failure | Y | 5 | 115, 121, 124, 127
414.10 | Aneurysm of heart | N | 5 | 121, 144, 145
414.11 | Aneurysm of coronary vessels | N | 5 | 121, 144, 145
414.19 | Other aneurysm of heart | N | 5 | 121, 144, 145
428.0 | Congestive heart failure, unspecified | Y | 5 | 115, 121, 124, 127
454.9 | Asymptomatic varicose veins | N | 5 | 130, 131
627.2 | Symptomatic menopausal or female climacteric states | N | 13 | 358, 359, 369
627.4 | Symptomatic states associated with artificial menopause | N | 13 | 358, 359, 369
V49.81 | Asymptomatic postmenopausal status (age-related) (natural) | N | 23 | 467

Table 6F.—Revised Procedure Code Titles
Procedure code | Description | OR | MDC | DRG
36.06 | Insertion of nondrug-eluting coronary artery stents(s) | N* | 5 | 517
39.79 | Other endovascular repair of aneurysm of other vessels | Y | 1 5 11 21 | 1, 2, 3 110, 111 315 442, 443
39.90 | Insertion of nondrug-eluting, noncoronary artery stent(s) | N | 24 | 486
*Nonoperating room procedure, but affects DRG.

Table 6G.—Additions to the CC Exclusions List
[CCs that are added to the list are in Table 6G-Additions to the CC Exclusions List. Each of the principal diagnoses is shown with an asterisk, and the revisions to the CC Exclusions List are provided in an indented column immediately following the affected principal diagnosis.]
*0031 | 99591 | 6829 | 99591 | 99593 | 44501 | 42821 | 4280
99590 | 99592 | 99590 | 99592 | 99594 | 44502 | 42822 | 4281
99591 | 99593 | 99591 | 99593 | *04186 | 44581 | 42823 | 42820
99592 | 99594 | 99592 | 99594 | 99590 | 44589 | 42830 | 42821
99593 | *03843 | 99593 | *0412 | 99591 | *25090 | 42831 | 42822
99594 | 99590 | 99594 | 99590 | 99592 | 44501 | 42832 | 42823
*0202 | 99591 | *04089 | 99591 | 99593 | 44502 | 42833 | 42830
99590 | 99592 | 99590 | 99592 | 99594 | 44581 | 42840 | 42831
99591 | 99593 | 99591 | 99593 | *04189 | 44589 | 42841 | 42832
99592 | 99594 | 99592 | 99594 | 99590 | *25091 | 42842 | 42833
99593 | *03844 | 99593 | *0413 | 99591 | 44501 | 42843 | 42840
99594 | 99590 | 99594 | 99590 | 99592 | 44502 | *40211 | 42841
*0362 | 99591 | *04100 | 99591 | 99593 | 44581 | 42820 | 42842
99590 | 99592 | 99590 | 99592 | 99594 | 44589 | 42821 | 42843
99591 | 99593 | 99591 | 99593 | *0419 | *25092 | 42822 | 4289
99592 | 99594 | 99592 | 99594 | 99590 | 44501 | 42823 | 5184
99593 | *03849 | 99593 | *0414 | 99591 | 44502 | 42830 | *42821
99594 | 99590 | 99594 | 99590 | 99592 | 44581 | 42831 | 39891
*0380 | 99591 | *04101 | 99591 | 99593 | 44589 | 42832 | 40201
99590 | 99592 | 99590 | 99592 | 99594 | *25093 | 42833 | 40211
99591 | 99593 | 99591 | 99593 | *0545 | 44501 | 42840 | 40291
99592 | 99594 | 99592 | 99594 | 99590 | 44502 | 42841 | 4280
99593 | *0388 | 99593 | *0415 | 99591 | 44581 | 42842 | 4281
99594 | 99590 | 99594 | 99590 | 99592 | 44589 | 42843 | 42820
*03810 | 99591 | *04102 | 99591 | 99593 | *2515 | *40291 | 42821
99590 | 99592 | 99590 | 99592 | 99594 | 53784 | 42820 | 42822
99591 | 99593 | 99591 | 99593 | *1398 | 56986 | 42821 | 42823
99592 | 99594 | 99592 | 99594 | 99590 | *27700 | 42822 | 42830
99593 | *0389 | 99593 | *0416 | 99591 | 27702 | 42823 | 42831
99594 | 99590 | 99594 | 99590 | 99592 | 27703 | 42830 | 42832
*03811 | 99591 | *04103 | 99591 | 99593 | 27709 | 42831 | 42833
99590 | 99592 | 99590 | 99592 | 99594 | *27701 | 42832 | 42840
99591 | 99593 | 99591 | 99593 | *25070 | 27702 | 42833 | 42841
99592 | 99594 | 99592 | 99594 | 44501 | 27703 | 42840 | 42842
99593 | *04082 | 99593 | *0417 | 44502 | 27709 | 42841 | 42843
99594 | 0380 | 99594 | 99590 | 44581 | *27702 | 42842 | 4289
*03819 | 03810 | *04104 | 99591 | 44589 | 27700 | 42843 | 5184
99590 | 03811 | 99590 | 99592 | *25071 | 27701 | *4280 | *42822
99591 | 03819 | 99591 | 99593 | 44501 | 27702 | 42820 | 39891
99592 | 0382 | 99592 | 99594 | 44502 | 27703 | 42821 | 40201
99593 | 0383 | 99593 | *04181 | 44581 | 27709 | 42822 | 40211
99594 | 03840 | 99594 | 99590 | 44589 | *27703 | 42823 | 40291
*0382 | 03841 | *04105 | 99591 | *25072 | 27700 | 42830 | 4280
99590 | 03842 | 99590 | 99592 | 44501 | 27701 | 42831 | 4281
99591 | 03843 | 99591 | 99593 | 44502 | 27702 | 42832 | 42820
99592 | 03844 | 99592 | 99594 | 44581 | 27703 | 42833 | 42821
99593 | 03849 | 99593 | *04182 | 44589 | 27709 | 42840 | 42822
99594 | 0388 | 99594 | 99590 | *25073 | *27709 | 42841 | 42823
*0383 | 0389 | *04109 | 99591 | 44501 | 27700 | 42842 | 42830
99590 | 04082 | 99590 | 99592 | 44502 | 27701 | 42843 | 42831
99591 | 6800 | 99591 | 99593 | 44581 | 27702 | *4281 | 42832
99592 | 6801 | 99592 | 99594 | 44589 | 27703 | 42820 | 42833
99593 | 6802 | 99593 | *04183 | *25080 | 27709 | 42821 | 42840
99594 | 6803 | 99594 | 99590 | 44501 | *39891 | 42822 | 42841
*03840 | 6804 | *04110 | 99591 | 44502 | 42820 | 42823 | 42842
99590 | 6805 | 99590 | 99592 | 44581 | 42821 | 42830 | 42843
99591 | 6806 | 99591 | 99593 | 44589 | 42822 | 42831 | 4289
99592 | 6807 | 99592 | 99594 | *25081 | 42823 | 42832 | 5184
99593 | 6808 | 99593 | *04184 | 44501 | 42830 | 42833 | *42823
99594 | 6809 | 99594 | 99590 | 44502 | 42831 | 42840 | 39891
*03841 | 6820 | *04111 | 99591 | 44581 | 42832 | 42841 | 40201
99590 | 6821 | 99590 | 99592 | 44589 | 42833 | 42842 | 40211
99591 | 6822 | 99591 | 99593 | *25082 | 42840 | 42843 | 40291
99592 | 6823 | 99592 | 99594 | 44501 | 42841 | *42820 | 4280
99593 | 6825 | 99593 | *04185 | 44502 | 42842 | 39891 | 4281
99594 | 6826 | 99594 | 99590 | 44581 | 42843 | 40201 | 42820
*03842 | 6827 | *04119 | 99591 | 44589 | *40201 | 40211 | 42821
99590 | 6828 | 99590 | 99592 | *25083 | 42820 | 40291 | 42822

Table 6G.—Additions to the CC Exclusions List—Continued
[CCs that are added to the list are in Table 6G-Additions to the CC Exclusions List. Each of the principal diagnoses is shown with an asterisk, and the revisions to the CC Exclusions List are provided in an indented column immediately following the affected principal diagnosis.]
42823 | 5184 | 42822 | 42831 | 56986 | *53270 | 53784 | *56202
42830 | *42833 | 42823 | 42832 | *53140 | 53784 | 56986 | 53784
42831 | 39891 | 42830 | 42833 | 53784 | 56986 | *53411 | 56986
42832 | 40201 | 42831 | 42840 | 56986 | *53271 | 53784 | *56203
42833 | 40211 | 42832 | 42841 | *53141 | 53784 | 56986 | 53784
42840 | 40291 | 42833 | 42842 | 53784 | 56986 | *53420 | 56986
42841 | 4280 | 42840 | 42843 | 56986 | *53290 | 53784 | *56212
42842 | 4281 | 42841 | 44501 | *53150 | 53784 | 56986 | 53784
42843 | 42820 | 42842 | 44502 | 53784 | 56986 | *53421 | 56986
4289 | 42821 | 42843 | 44581 | 56986 | *53291 | 53784 | *56213
5184 | 42822 | 4289 | 44589 | *53151 | 53784 | 56986 | 53784
*42830 | 42823 | 5184 | *4599 | 53784 | 56986 | *53430 | 56986
39891 | 42830 | *42843 | 42820 | 56986 | *53300 | 53784 | *5693
40201 | 42831 | 39891 | 42821 | *53160 | 53784 | 56986 | 53784
40211 | 42832 | 40201 | 42822 | 53784 | 56986 | *53431 | 56986
40291 | 42833 | 40211 | 42823 | 56986 | *53301 | 53784 | *56985
4280 | 42840 | 40291 | 42830 | *53161 | 53784 | 56986 | 53784
4281 | 42841 | 4280 | 42831 | 53784 | 56986 | *53440 | 56986
42820 | 42842 | 4281 | 42832 | 56986 | *53310 | 53784 | *56986
42821 | 42843 | 42820 | 42833 | *53170 | 53784 | 56986 | 56986
42822 | 4289 | 42821 | 42840 | 53784 | 56986 | *53441 | *5780
42823 | 5184 | 42822 | 42841 | 56986 | *53311 | 53784 | 53784
42830 | *42840 | 42823 | 42842 | *53171 | 53784 | 56986 | 56986
42831 | 39891 | 42830 | 42843 | 53784 | 56986 | *53450 | *5781
42832 | 40201 | 42831 | 44501 | 56986 | *53320 | 53784 | 53784
42833 | 40211 | 42832 | 44502 | *53190 | 53784 | 56986 | 56986
42840 | 40291 | 42833 | 44581 | 53784 | 56986 | *53451 | *5789
42841 | 4280 | 42840 | 44589 | 56986 | *53321 | 53784 | 53784
42842 | 4281 | 42841 | *5184 | *53191 | 53784 | 56986 | 56986
42843 | 42820 | 42842 | 42820 | 53784 | 56986 | *53460 | *74783
4289 | 42821 | 42843 | 42821 | 56986 | *53330 | 53784 | 42971
5184 | 42822 | 4289 | 42822 | *53200 | 53784 | 56986 | 42979
*42831 | 42823 | 5184 | 42823 | 53784 | 56986 | *53461 | 7450
39891 | 42830 | *4289 | 42830 | 56986 | *53331 | 53784 | 74510
40201 | 42831 | 42820 | 42831 | *53201 | 53784 | 56986 | 74511
40211 | 42832 | 42821 | 42832 | 53784 | 56986 | *53470 | 74512
40291 | 42833 | 42822 | 42833 | 56986 | *53340 | 53784 | 74519
4280 | 42840 | 42823 | 42840 | *53210 | 53784 | 56986 | 7452
4281 | 42841 | 42830 | 42841 | 53784 | 56986 | *53471 | 7453
42820 | 42842 | 42831 | 42842 | 56986 | *53341 | 53784 | 7454
42821 | 42843 | 42832 | 42843 | *53211 | 53784 | 56986 | 74560
42822 | 4289 | 42833 | *5302 | 53784 | 56986 | *53490 | 74569
42823 | 5184 | 42840 | 53784 | 56986 | *53350 | 53784 | 7457
42830 | *42841 | 42841 | 56986 | *53220 | 53784 | 56986 | 74601
42831 | 39891 | 42842 | *5307 | 53784 | 56986 | *53491 | 74602
42832 | 40201 | 42843 | 53784 | 56986 | *53351 | 53784 | 7461
42833 | 40211 | *44489 | 56986 | *53221 | 53784 | 56986 | 7462
42840 | 40291 | 44501 | *53082 | 53784 | 56986 | *53501 | 7463
42841 | 4280 | 44502 | 53784 | 56986 | *53360 | 53784 | 7464
42842 | 4281 | 44581 | 56986 | *53230 | 53784 | 56986 | 7465
42843 | 42820 | 44589 | *53100 | 53784 | 56986 | *53511 | 7466
4289 | 42821 | *4449 | 53784 | 56986 | *53361 | 53784 | 7467
5184 | 42822 | 44501 | 56986 | *53231 | 53784 | 56986 | 74681
*42832 | 42823 | 44502 | *53101 | 53784 | 56986 | *53521 | 74682
39891 | 42830 | 44581 | 53784 | 56986 | *53370 | 53784 | 74683
40201 | 42831 | 44589 | 56986 | *53240 | 53784 | 56986 | 74684
40211 | 42832 | *44501 | *53110 | 53784 | 56986 | *53531 | 74686
40291 | 42833 | 44501 | 53784 | 56986 | *53371 | 53784 | 74711
4280 | 42840 | *44502 | 56986 | *53241 | 53784 | 56986 | 74722
4281 | 42841 | 44502 | *53111 | 53784 | 56986 | *53541 | *76520
42820 | 42842 | *44581 | 53784 | 56986 | *53390 | 53784 | 76501
42821 | 42843 | 44581 | 56986 | *53250 | 53784 | 56986 | 76502
42822 | 4289 | *44589 | *53120 | 53784 | 56986 | *53551 | 76503
42823 | 5184 | 44589 | 53784 | 56986 | *53391 | 53784 | 76504
42830 | *42842 | *4560 | 56986 | *53251 | 53784 | 56986 | 76505
42831 | 39891 | 53784 | *53121 | 53784 | 56986 | *53561 | 76506
42832 | 40201 | 56986 | 53784 | 56986 | *53400 | 53784 | 76507
42833 | 40211 | *45989 | 56986 | *53260 | 53784 | 56986 | 76508
42840 | 40291 | 42820 | *53130 | 53784 | 56986 | *53783 | *76521
42841 | 4280 | 42821 | 53784 | 56986 | *53401 | 53784 | 76501
42842 | 4281 | 42822 | 56986 | *53261 | 53784 | 56986 | 76502
42843 | 42820 | 42823 | *53131 | 53784 | 56986 | *53784 | 76503
4289 | 42821 | 42830 | 53784 | 56986 | *53410 | 53784 | 76504

Table 6G.—Additions to the CC Exclusions List—Continued
[CCs that are added to the list are in Table 6G-Additions to the CC Exclusions List. Each of the principal diagnoses is shown with an asterisk, and the revisions to the CC Exclusions List are provided in an indented column immediately following the affected principal diagnosis.]
76505 | 76506 | 769 | 76508 | 7703 | 7713 | 78039 | 03811
76506 | 76507 | 7700 | 7670 | 7704 | 77181 | 7817 | 03819
76507 | 76508 | 7701 | 7685 | 7705 | 77183 | 7854 | 0382
76508 | *7685 | 7702 | 769 | 7707 | 77210 | 78550 | 0383
*76522 | 77084 | 7703 | 7700 | 77084 | 77211 | 78551 | 03840
76501 | *7686 | 7704 | 7701 | 7710 | 77212 | 78559 | 03841
76502 | 77084 | 7705 | 7702 | 7711 | 77213 | 7863 | 03842
76503 | *7689 | 7707 | 7703 | 7713 | 77214 | 78820 | 03843
76504 | 77084 | 77084 | 7704 | 77181 | 7722 | 78829 | 03844
76505 | *769 | *7709 | 7705 | 77183 | 7724 | 7895 | 03849
76506 | 77084 | 77084 | 7707 | 77210 | 7725 | 7907 | 0388
76507 | *7700 | *7714 | 77084 | 77211 | 7730 | 7911 | 0389
76508 | 77084 | 77181 | 7710 | 77212 | 7731 | 7913 | 0545
*76523 | *7701 | 77183 | 7711 | 77213 | 7732 | 7991 | 99590
76501 | 77084 | *7715 | 7713 | 77214 | 7733 | 7994 | 99591
76502 | *7702 | 77181 | 77181 | 7722 | 7734 | *78099 | 99592
76503 | 77084 | 77183 | 77183 | 7724 | 7740 | 04082 | 99593
76504 | *7703 | *7716 | 77210 | 7725 | 7741 | 44024 | 99594
76505 | 77084 | 77181 | 77211 | 7730 | 7742 | 78001 | *99592
76506 | *7704 | 77183 | 77212 | 7731 | 77430 | 78003 | 0362
76507 | 77084 | *7717 | 77213 | 7732 | 77431 | 7801 | 0380
76508 | *7705 | 77181 | 77214 | 7733 | 77439 | 78031 | 03810
*76524 | 77084 | 77183 | 7722 | 7734 | 7744 | 78039 | 03811
76501 | *7706 | *77181 | 7724 | 7740 | 7745 | 7817 | 03819
76502 | 77084 | 77181 | 7725 | 7741 | 7747 | 7854 | 0382
76503 | *7707 | 77183 | 7730 | 7742 | 7751 | 78550 | 0383
76504 | 77084 | *77182 | 7731 | 77430 | 7752 | 78551 | 03840
76505 | *77081 | 77181 | 7732 | 77431 | 7753 | 78559 | 03841
76506 | 7685 | 77183 | 7733 | 77439 | 7754 | 7863 | 03842
76507 | 769 | *77183 | 7734 | 7744 | 7755 | 78820 | 03843
76508 | 7700 | 77181 | 7740 | 7745 | 7756 | 78829 | 03844
*76525 | 7701 | 77183 | 7741 | 7747 | 7757 | 7895 | 03849
76501 | 7702 | *77189 | 7742 | 7751 | 7760 | 7907 | 0388
76502 | 7703 | 77181 | 77430 | 7752 | 7761 | 7911 | 0389
76503 | 7704 | 77183 | 77431 | 7753 | 7762 | 7913 | 0545
76504 | 7705 | *7760 | 77439 | 7754 | 7763 | 7991 | 99590
76505 | 7707 | 77181 | 7744 | 7755 | 7771 | 7994 | 99591
76506 | 77084 | 77183 | 7745 | 7756 | 7772 | *78550 | 99592
76507 | *77082 | *7761 | 7747 | 7757 | 7775 | 04082 | 99593
76508 | 7685 | 77181 | 7751 | 7760 | 7776 | *78551 | 99594
*76526 | 769 | 77183 | 7752 | 7761 | 7780 | 04082 | *99593
76501 | 7700 | *7762 | 7753 | 7762 | 7790 | *78559 | 0362
76502 | 7701 | 77181 | 7754 | 7763 | 7791 | 04082 | 0380
76503 | 7702 | 77183 | 7755 | 7771 | 7797 | *7859 | 03810
76504 | 7703 | *7763 | 7756 | 7772 | *78091 | 04082 | 03811
76505 | 7704 | 77181 | 7757 | 7775 | 04082 | *7998 | 03819
76506 | 7705 | 77183 | 7760 | 7776 | 44024 | 04082 | 0382
76507 | 7707 | *7764 | 7761 | 7780 | 78001 | *99590 | 0383
76508 | 77084 | 77181 | 7762 | 7790 | 78003 | 0362 | 03840
*76527 | *77083 | 77183 | 7763 | 7791 | 7801 | 0380 | 03841
76501 | 7685 | *7765 | 7771 | 7797 | 78031 | 03810 | 03842
76502 | 769 | 77181 | 7772 | *77989 | 78039 | 03811 | 03843
76503 | 7700 | 77183 | 7775 | 76501 | 7817 | 03819 | 03844
76504 | 7701 | *7766 | 7776 | 76502 | 7854 | 0382 | 03849
76505 | 7702 | 77181 | 7780 | 76503 | 78550 | 0383 | 0388
76506 | 7703 | 77183 | 7790 | 76504 | 78551 | 03840 | 0389
76507 | 7704 | *7767 | 7791 | 76505 | 78559 | 03841 | 0545
76508 | 7705 | 77181 | 7797 | 76506 | 7863 | 03842 | 99590
*76528 | 7707 | 77183 | *77982 | 76507 | 78820 | 03843 | 99591
76501 | 77084 | *7768 | 76501 | 76508 | 78829 | 03844 | 99592
76502 | *77084 | 77181 | 76502 | 7670 | 7895 | 03849 | 99593
76503 | 7685 | 77183 | 76503 | 7685 | 7907 | 0388 | 99594
76504 | 769 | *7769 | 76504 | 769 | 7911 | 0389 | *99594
76505 | 7700 | 77181 | 76505 | 7700 | 7913 | 0545 | 0362
76506 | 7701 | 77183 | 76506 | 7701 | 7991 | 99590 | 0380
76507 | 7702 | *77981 | 76507 | 7702 | 7994 | 99591 | 03810
76508 | 7703 | 76501 | 76508 | 7703 | *78092 | 99592 | 03811
*76529 | 7704 | 76502 | 7670 | 7704 | 04082 | 99593 | 03819
76501 | 7705 | 76503 | 7685 | 7705 | 44024 | 99594 | 0382
76502 | 7707 | 76504 | 769 | 7707 | 78001 | *99591 | 0383
76503 | 77084 | 76505 | 7700 | 77084 | 78003 | 0362 | 03840
76504 | *77089 | 76506 | 7701 | 7710 | 7801 | 0380 | 03841
76505 | 7685 | 76507 | 7702 | 7711 | 78031 | 03810 | 03842

Table 6G.—Additions to the CC Exclusions List—Continued
[CCs that are added to the list are in Table 6G-Additions to the CC Exclusions List. Each of the principal diagnoses is shown with an asterisk, and the revisions to the CC Exclusions List are provided in an indented column immediately following the affected principal diagnosis.]
03843 | 99591
03844 | 99592
03849 | 99593
0388 | 99594
0389 | *V096
0545 | 99590
99590 | 99591
99591 | 99592
99592 | 99593
99593 | 99594
99594 | *V0970
*99791 | 99590
99831 | 99591
99832 | 99592
*99799 | 99593
99831 | 99594
99832 | *V0971
*99831 | 99590
99831 | 99591
99832 | 99592
*99832 | 99593
99831 | 99594
99832 | *V0980
*99881 | 99590
99831 | 99591
99832 | 99592
*99883 | 99593
99831 | 99594
99832 | *V0981
*99889 | 99590
99831 | 99591
99832 | 99592
*9989 | 99593
99831 | 99594
99832 | *V0990
*V090 | 99590
99590 | 99591
99591 | 99592
99592 | 99593
99593 | 99594
99594 | *V0991
*V091 | 99590
99590 | 99591
99591 | 99592
99592 | 99593
99593 | 99594
99594 | *V2341
*V092 | V237
99590 | V2381
99591 | V2382
99592 | V2383
99593 | V2384
99594 | V2389
*V093 | V239
99590 | *V2349
99591 | V237
99592 | V2381
99593 | V2382
99594 | V2383
*V094 | V2384
99590 | V2389
99591 | V239
99592 | *V462
99593 | V461
99594
*V0950
99590
99591
99592
99593
99594
*V0951
99590

Table 6H.—Deletions to the CC Exclusions List
[CCs that are deleted from the list are in Table 6H-Deletions to the CC Exclusions List. Each of the principal diagnoses is shown with an asterisk, and the revisions to the CC Exclusions List are provided in an indented column immediately following the affected principal diagnosis.]
*7708 | 7722 | 9983
7685 | 7724 | *9989
769 | 7725 | 9983
7700 | 7730 | *V234
7701 | 7731 | V237
7702 | 7732 | V2381
7703 | 7733 | V2382
7704 | 7734 | V2383
7705 | 7740 | V2384
7707 | 7741 | V2389
*7714 | 7742 | V239
7718 | 77430
*7715 | 77431
7718 | 77439
*7716 | 7744
7718 | 7745
*7717 | 7747
7718 | 7751
*7718 | 7752
7718 | 7753
*7760 | 7754
7718 | 7755
*7761 | 7756
7718 | 7757
*7762 | 7760
7718 | 7761
*7763 | 7762
7718 | 7763
*7764 | 7771
7718 | 7772
*7765 | 7775
7718 | 7776
*7766 | 7780
7718 | 7790
*7767 | 7791
7718 | 7797
*7768 | *7809
7718 | 44024
*7769 | 78001
7718 | 78003
*7798 | 7801
76501 | 78031
76502 | 78039
76503 | 7817
76504 | 7854
76505 | 78550
76506 | 78551
76507 | 78559
76508 | 7863
7670 | 78820
7685 | 78829
769 | 7895
7700 | 7907
7701 | 7911
7702 | 7913
7703 | 7991
7704 | 7994
7705 | *99791
7707 | 9983
7710 | *99799
7711 | 9983
7713 | *9983
7718 | 9983
77210 | *99881
77211 | 9983
77212 | *99883
77213 | 9983
77214 | *99889

Table 7A.—Medicare Prospective Payment System Selected Percentile Lengths of Stay
[FY 2001 MEDPAR Update 12/01 Grouper V19.0]
DRG | Number discharges | Arithmetic mean LOS | 10th percentile | 25th percentile | 50th percentile | 75th percentile | 90th percentile
1 | 34667 | 8.9765 | 2 | 3 | 6 | 12 | 19
2 | 7122 | 9.9083 | 3 | 5 | 8 | 13 | 20
3 | 7 | 7.4286 | 1 | 1 | 3 | 4 | 10
4 | 6414 | 7.1743 | 1 | 2 | 5 | 9 | 16
5 | 93169 | 3.0674 | 1 | 1 | 2 | 3 | 7
6 | 398 | 2.9196 | 1 | 1 | 2 | 4 | 6
7 | 14187 | 9.7565 | 1 | 4 | 7 | 12 | 20
8 | 4350 | 2.7572 | 1 | 1 | 1 | 3 | 6
9 | 1738 | 6.4689 | 1 | 3 | 5 | 8 | 13
10 | 18019 | 6.5224 | 2 | 3 | 5 | 8 | 13
11 | 3400 | 4.0044 | 1 | 2 | 3 | 5 | 8
12 | 49655 | 5.8699 | 2 | 3 | 4 | 7 | 11
13 | 6646 | 5.0141 | 2 | 3 | 4 | 6 | 9
14 | 320358 | 5.8150 | 2 | 3 | 5 | 7 | 11
15 | 152285 | 3.4737 | 1 | 2 | 3 | 4 | 6
16 | 11455 | 6.0111 | 2 | 3 | 5 | 7 | 12
17 | 3729 | 3.2773 | 1 | 2 | 3 | 4 | 6
18 | 28016 | 5.4234 | 2 | 3 | 4 | 7 | 10
19 | 8679 | 3.5369 | 1 | 2 | 3 | 5 | 7
20 | 5618 | 10.4676 | 3 | 5 | 8 | 13 | 20
21 | 1429 | 6.5850 | 2 | 3 | 5 | 8 | 13
22 | 2723 | 5.0165 | 2 | 2 | 4 | 6 | 10
23 | 11192 | 4.2429 | 1 | 2 | 3 | 5 | 8
24 | 55364 | 4.8878 | 1 | 2 | 4 | 6 | 10
25 | 27208 | 3.2250 | 1 | 2 | 3 | 4 | 6
26 | 34 | 4.6765 | 1 | 1 | 2 | 4 | 6
27 | 3839 | 5.0253 | 1 | 1 | 3 | 6 | 11
28 | 12344 | 6.2286 | 1 | 3 | 5 | 8 | 13
29 | 4930 | 3.5613 | 1 | 2 | 3 | 5 | 7
31 | 3815 | 4.0765 | 1 | 2 | 3 | 5 | 8
32 | 1893 | 2.4464 | 1 | 1 | 2 | 3 | 5
34 | 21788 | 5.0453 | 1 | 2 | 4 | 6 | 9
35 | 6839 | 3.2388 | 1 | 1 | 3 | 4 | 6
36 | 2493 | 1.4705 | 1 | 1 | 1 | 1 | 2
37 | 1419 | 3.8182 | 1 | 1 | 2 | 4 | 9
38 | 93 | 2.4946 | 1 | 1 | 1 | 3 | 6
39 | 667 | 1.9340 | 1 | 1 | 1 | 2 | 4
40 | 1524 | 3.6037 | 1 | 1 | 2 | 5 | 8
42 | 1938 | 2.3710 | 1 | 1 | 1 | 3 | 5
43 | 110 | 3.0455 | 1 | 1 | 2 | 4 | 6
44 | 1295 | 5.0347 | 2 | 3 | 4 | 6 | 9
45 | 2600 | 3.2423 | 1 | 2 | 3 | 4 | 6
46 | 3374 | 4.5871 | 1 | 2 | 4 | 6 | 9
47 | 1350 | 3.1719 | 1 | 1 | 3 | 4 | 6
48 | 1 | 2.0000 | 2 | 2 | 2 | 2 | 2
49 | 2335 | 4.6188 | 1 | 2 | 3 | 5 | 9
50 | 2483 | 1.8212 | 1 | 1 | 1 | 2 | 3
51 | 251 | 3.1195 | 1 | 1 | 1 | 3 | 7
52 | 239 | 1.9205 | 1 | 1 | 1 | 2 | 3
53 | 2516 | 3.3792 | 1 | 1 | 2 | 4 | 8
54 | 1 | 4.0000 | 4 | 4 | 4 | 4 | 4
55 | 1566 | 3.0556 | 1 | 1 | 1 | 3 | 6
56 | 528 | 2.9848 | 1 | 1 | 2 | 3 | 6
57 | 692 | 3.6893 | 1 | 1 | 2 | 4 | 8
59 | 128 | 2.6641 | 1 | 1 | 1 | 3 | 6
60 | 6 | 3.3333 | 1 | 1 | 2 | 5 | 5
61 | 243 | 4.8354 | 1 | 1 | 3 | 7 | 10
62 | 3 | 1.6667 | 1 | 1 | 1 | 3 | 3
63 | 2887 | 4.4891 | 1 | 1 | 3 | 6 | 9
64 | 3132 | 6.6028 | 1 | 2 | 4 | 8 | 14
65 | 39024 | 2.7977 | 1 | 1 | 2 | 3 | 5
66 | 7671 | 3.1068 | 1 | 1 | 2 | 4 | 6
67 | 440 | 3.5955 | 1 | 2 | 3 | 4 | 6
68 | 8648 | 3.8274 | 1 | 2 | 3 | 5 | 7
69 | 2973 | 3.0054 | 1 | 2 | 2 | 4 | 6
70 | 25 | 3.4800 | 1 | 2 | 3 | 4 | 8
71 | 87 | 3.4368 | 1 | 2 | 3 | 4 | 6
72 | 926 | 3.5659 | 1 | 1 | 3 | 4 | 7
73 | 7073 | 4.3867 | 1 | 2 | 3 | 6 | 9
75 | 39878 | 10.0489 | 3 | 5 | 7 | 12 | 20
76 | 41691 | 11.4166 | 3 | 5 | 9 | 14 | 22
77 | 2445 | 4.8634 | 1 | 2 | 4 | 7 | 10
78 | 35316 | 6.6636 | 3 | 4 | 6 | 8 | 11
79 | 166404 | 8.5040 | 3 | 4 | 7 | 11 | 16
80 | 8320 | 5.4954 | 2 | 3 | 5 | 7 | 10
81 | 2 | 8.0000 | 3 | 3 | 13 | 13 | 13
82 | 63426 | 6.9938 | 2 | 3 | 6 | 9 | 14
83 | 6394 | 5.4759 | 2 | 3 | 4 | 7 | 10
84 | 1559 | 3.2290 | 1 | 2 | 3 | 4 | 6
85 | 21268 | 6.3168 | 2 | 3 | 5 | 8 | 12
86 | 2180 | 3.8138 | 1 | 2 | 3 | 5 | 8
87 | 59482 | 6.3070 | 1 | 3 | 5 | 8 | 12
88 | 396842 | 5.1059 | 2 | 3 | 4 | 6 | 9
89 | 502709 | 5.8920 | 2 | 3 | 5 | 7 | 11
90 | 46817 | 4.0322 | 2 | 2 | 3 | 5 | 7
91 | 57 | 4.0000 | 2 | 2 | 3 | 5 | 8
92 | 14816 | 6.3579 | 2 | 3 | 5 | 8 | 12
93 | 1710 | 4.1076 | 1 | 2 | 3 | 5 | 8
94 | 12574 | 6.3304 | 2 | 3 | 5 | 8 | 13
95 | 1679 | 3.7123 | 1 | 2 | 3 | 5 | 7
96 | 53729 | 4.5526 | 2 | 2 | 4 | 6 | 8
97 | 28601 | 3.5208 | 1 | 2 | 3 | 4 | 6
98 | 15 | 5.0000 | 1 | 2 | 3 | 4 | 13
99 | 21279 | 3.1677 | 1 | 1 | 2 | 4 | 6
100 | 8950 | 2.1349 | 1 | 1 | 2 | 3 | 4
101 | 21127 | 4.3832 | 1 | 2 | 3 | 6 | 9
102 | 5559 | 2.5690 | 1 | 1 | 2 | 3 | 5
103 | 428 | 49.2103 | 9 | 14 | 26 | 61 | 116
104 | 19836 | 14.4245 | 6 | 8 | 12 | 17 | 25
105 | 27462 | 9.9935 | 5 | 6 | 8 | 11 | 18
106 | 3308 | 11.3987 | 5 | 7 | 10 | 14 | 20
107 | 85791 | 10.4560 | 5 | 7 | 9 | 12 | 17
108 | 6205 | 10.2743 | 3 | 5 | 8 | 13 | 20
109 | 59572 | 7.7288 | 4 | 5 | 6 | 9 | 13
110 | 53172 | 9.0340 | 2 | 4 | 7 | 11 | 18
111 | 9394 | 4.4159 | 1 | 2 | 4 | 6 | 8
113 | 41424 | 12.4557 | 4 | 6 | 9 | 15 | 24
114 | 8852 | 8.5204 | 2 | 4 | 7 | 11 | 17
115 | 15271 | 8.2839 | 1 | 4 | 7 | 11 | 16
116 | 109277 | 4.4721 | 1 | 2 | 3 | 6 | 9
117 | 4177 | 4.1611 | 1 | 1 | 2 | 5 | 9
118 | 8112 | 2.8930 | 1 | 1 | 1 | 3 | 7
119 | 1316 | 5.1117 | 1 | 1 | 3 | 6 | 12
120 | 37220 | 8.7981 | 1 | 2 | 6 | 12 | 20
121 | 167308 | 6.3297 | 2 | 3 | 5 | 8 | 12
122 | 81710 | 3.6163 | 1 | 2 | 3 | 5 | 7
123 | 41163 | 4.7016 | 1 | 1 | 3 | 6 | 11
124 | 137232 | 4.3524 | 1 | 2 | 3 | 5 | 8
125 | 91133 | 2.7831 | 1 | 1 | 2 | 4 | 5
126 | 5016 | 11.8909 | 4 | 6 | 9 | 15 | 22
127 | 682134 | 5.2700 | 2 | 3 | 4 | 7 | 10
128 | 8254 | 5.4723 | 2 | 3 | 5 | 7 | 9
129 | 4105 | 2.8378 | 1 | 1 | 1 | 3 | 6
130 | 88700 | 5.6615 | 2 | 3 | 5 | 7 | 10
131 | 27798 | 4.0539 | 1 | 2 | 4 | 5 | 7
132 | 152312 | 2.9301 | 1 | 1 | 2 | 4 | 5
133 | 8929 | 2.2655 | 1 | 1 | 2 | 3 | 4
134 | 39623 | 3.1770 | 1 | 2 | 2 | 4 | 6
135 | 7554 | 4.4298 | 1 | 2 | 3 | 5 | 8
136 | 1237 | 2.5594 | 1 | 1 | 2 | 3 | 5
138 | 203378 | 3.9834 | 1 | 2 | 3 | 5 | 8
139 | 90000 | 2.4829 | 1 | 1 | 2 | 3 | 5
140 | 66435 | 2.5585 | 1 | 1 | 2 | 3 | 5
141 | 102391 | 3.5917 | 1 | 2 | 3 | 4 | 7
142 | 51719 | 2.5539 | 1 | 1 | 2 | 3 | 5
143 | 250133 | 2.0827 | 1 | 1 | 2 | 3 | 4
144 | 88510 | 5.4530 | 1 | 2 | 4 | 7 | 11
145 | 7598 | 2.6481 | 1 | 1 | 2 | 3 | 5
146 | 10799 | 10.2146 | 5 | 7 | 8 | 12 | 17
147 | 2798 | 6.4010 | 3 | 5 | 6 | 8 | 10
148 | 129350 | 12.2861 | 5 | 7 | 10 | 15 | 22
149 | 19313 | 6.4669 | 4 | 5 | 6 | 8 | 10
150 | 20328 | 11.2319 | 4 | 7 | 10 | 14 | 20
151 | 4963 | 5.6756 | 1 | 3 | 5 | 8 | 10
152 | 4425 | 8.3250 | 3 | 5 | 7 | 10 | 14
153 | 2014 | 5.3803 | 3 | 4 | 5 | 7 | 8
154 | 29001 | 13.2057 | 3 | 7 | 10 | 16 | 26
155 | 7262 | 3.9898 | 1 | 2 | 3 | 6 | 8
156 | 3 | 15.0000 | 11 | 11 | 13 | 21 | 21
157 | 8154 | 5.5581 | 1 | 2 | 4 | 7 | 11
158 | 4562 | 2.5184 | 1 | 1 | 2 | 3 | 5
159 | 17114 | 5.0598 | 1 | 2 | 4 | 6 | 10
160 | 12169 | 2.6492 | 1 | 1 | 2 | 3 | 5
161 | 11152 | 4.1588 | 1 | 1 | 3 | 5 | 9
162 | 7288 | 1.9175 | 1 | 1 | 1 | 2 | 4
163 | 3 | 3.0000 | 1 | 1 | 3 | 5 | 5
164 | 5118 | 8.2651 | 3 | 5 | 7 | 10 | 14
165 | 2185 | 4.6499 | 2 | 3 | 4 | 6 | 8
166 | 3903 | 4.8737 | 1 | 2 | 4 | 6 | 9
167 | 3800 | 2.5132 | 1 | 1 | 2 | 3 | 4
168 | 1279 | 5.0023 | 1 | 2 | 3 | 6 | 11
169 | 827 | 2.2866 | 1 | 1 | 2 | 3 | 5
170 | 12108 | 10.9853 | 2 | 4 | 8 | 14 | 22
171 | 1355 | 4.3107 | 1 | 2 | 3 | 6 | 9
172 | 30622 | 6.9624 | 2 | 3 | 5 | 9 | 14
173 | 2711 | 3.7444 | 1 | 1 | 3 | 5 | 8
174 | 247222 | 4.8059 | 2 | 3 | 4 | 6 | 9
175 | 35165 | 2.9201 | 1 | 2 | 3 | 4 | 5
176 | 15219 | 5.2481 | 2 | 3 | 4 | 6 | 10
177 | 9429 | 4.5038 | 2 | 2 | 4 | 6 | 8
178 | 3758 | 3.0780 | 1 | 2 | 3 | 4 | 6
179 | 12541 | 5.9632 | 2 | 3 | 5 | 7 | 11
180 | 88300 | 5.3709 | 2 | 3 | 4 | 7 | 10
181 | 27097 | 3.3767 | 1 | 2 | 3 | 4 | 6
182 | 248889 | 4.4042 | 1 | 2 | 3 | 5 | 8
183 | 87342 | 2.8973 | 1 | 1 | 2 | 4 | 5
184 | 90 | 2.9000 | 1 | 1 | 2 | 4 | 6
185 | 5021 | 4.7104 | 1 | 2 | 3 | 6 | 9
186 | 3 | 4.6667 | 2 | 2 | 3 | 9 | 9
187 | 446 | 4.3565 | 1 | 2 | 3 | 6 | 8
188 | 79403 | 5.5558 | 1 | 2 | 4 | 7 | 11
189 | 13113 | 3.0563 | 1 | 1 | 2 | 4 | 6
190 | 74 | 4.7838 | 1 | 2 | 3 | 5 | 9
191 | 9222 | 13.7304 | 3 | 6 | 10 | 17 | 28
192 | 1257 | 6.0963 | 1 | 3 | 5 | 8 | 11
193 | 4865 | 12.7394 | 5 | 7 | 10 | 16 | 23
194 | 733 | 6.8759 | 2 | 4 | 6 | 8 | 12
195 | 4157 | 10.3560 | 4 | 6 | 9 | 12 | 18
196 | 1051 | 5.4186 | 2 | 3 | 5 | 7 | 9
197 | 18569 | 8.9827 | 3 | 5 | 7 | 11 | 16
198 | 5672 | 4.4381 | 2 | 3 | 4 | 6 | 8
199 | 1644 | 9.9179 | 2 | 4 | 7 | 13 | 21
200 | 1042 | 10.4539 | 1 | 3 | 7 | 14 | 22
201 | 1466 | 14.4734 | 3 | 6 | 11 | 18 | 29
202 | 26156 | 6.3731 | 2 | 3 | 5 | 8 | 13
203 | 29310 | 6.7403 | 2 | 3 | 5 | 9 | 13
204 | 61544 | 5.8119 | 2 | 3 | 4 | 7 | 11
205 | 24459 | 6.1537 | 2 | 3 | 5 | 8 | 12
206 | 2049 | 3.9204 | 1 | 2 | 3 | 5 | 8
207 | 32107 | 5.1834 | 1 | 2 | 4 | 7 | 10
208 | 10745 | 2.8598 | 1 | 1 | 2 | 4 | 5
209 | 371105 | 4.9903 | 3 | 3 | 4 | 6 | 8
210 | 121541 | 6.8894 | 3 | 4 | 6 | 8 | 11
211 | 32567 | 4.9284 | 3 | 4 | 5 | 6 | 7
212 | 7 | 3.2857 | 1 | 2 | 2 | 2 | 4
213 | 9878 | 9.1432 | 2 | 4 | 7 | 11 | 18
216 | 6916 | 9.5448 | 2 | 4 | 7 | 12 | 19
217 | 17029 | 13.4060 | 3 | 5 | 9 | 16 | 28
218 | 22745 | 5.4427 | 2 | 3 | 4 | 7 | 10
219 | 20867 | 3.2086 | 1 | 2 | 3 | 4 | 5
220 | 1 | 2.0000 | 2 | 2 | 2 | 2 | 2
223 | 13667 | 2.8776 | 1 | 1 | 2 | 3 | 6
224 | 12467 | 1.8627 | 1 | 1 | 1 | 2 | 3
225 | 6124 | 5.0144 | 1 | 2 | 3 | 7 | 11
226 | 5702 | 6.6733 | 1 | 3 | 5 | 8 | 14
227 | 4923 | 2.6669 | 1 | 1 | 2 | 3 | 5
228 | 2481 | 4.0806 | 1 | 1 | 2 | 5 | 9
229 | 1176 | 2.2168 | 1 | 1 | 2 | 3 | 4
230 | 2407 | 5.0586 | 1 | 2 | 3 | 6 | 11
231 | 13540 | 4.8875 | 1 | 1 | 3 | 6 | 10
232 | 882 | 2.7426 | 1 | 1 | 1 | 3 | 7
233 | 7199 | 7.2148 | 1 | 3 | 5 | 9 | 15
234 | 4623 | 3.1573 | 1 | 1 | 2 | 4 | 7
235 | 5091 | 5.0304 | 1 | 2 | 4 | 6 | 9
236 | 39785 | 4.7450 | 1 | 3 | 4 | 6 | 9
237 | 1744 | 3.5740 | 1 | 2 | 3 | 4 | 7
238 | 8625 | 8.8420 | 3 | 4 | 7 | 11 | 17
239 | 48235 | 6.2846 | 2 | 3 | 5 | 8 | 12
240 | 11808 | 6.7199 | 2 | 3 | 5 | 8 | 13
241 | 3223 | 3.8849 | 1 | 2 | 3 | 5 | 7
242 | 2516 | 6.5568 | 2 | 3 | 5 | 8 | 13
243 | 93807 | 4.6804 | 1 | 2 | 4 | 6 | 9
244 | 13584 | 4.7331 | 1 | 2 | 4 | 6 | 9
245 | 5733 | 3.3630 | 1 | 2 | 3 | 4 | 6
246 | 1347 | 3.7647 | 1 | 2 | 3 | 5 | 7
247 | 19620 | 3.3687 | 1 | 1 | 3 | 4 | 6
248 | 12067 | 4.8652 | 1 | 2 | 4 | 6 | 9
249 | 12912 | 3.6678 | 1 | 1 | 2 | 4 | 8
250 | 3795 | 4.1686 | 1 | 2 | 3 | 5 | 7
251 | 2489 | 2.7814 | 1 | 1 | 2 | 4 | 5
253 | 20861 | 4.6779 | 1 | 3 | 4 | 6 | 9
254 | 10809 | 3.1314 | 1 | 2 | 3 | 4 | 6
255 | 1 | 2.0000 | 2 | 2 | 2 | 2 | 2
256 | 6422 | 5.1110 | 1 | 2 | 4 | 6 | 10
257 | 16706 | 2.6651 | 1 | 1 | 2 | 3 | 5
258 | 16972 | 1.8186 | 1 | 1 | 2 | 2 | 3
259 | 3813 | 2.6693 | 1 | 1 | 1 | 2 | 6
260 | 5087 | 1.3666 | 1 | 1 | 1 | 1 | 2
261 | 1889 | 2.1615 | 1 | 1 | 1 | 2 | 4
262 | 683 | 4.2958 | 1 | 1 | 3 | 5 | 10
263 | 24569 | 11.8050 | 3 | 5 | 8 | 14 | 23
264 | 3982 | 6.9006 | 2 | 3 | 5 | 8 | 14
265 | 4052 | 6.7347 | 1 | 2 | 4 | 8 | 14
266 | 2676 | 3.1371 | 1 | 1 | 2 | 4 | 6
267 | 267 | 4.2584 | 1 | 1 | 2 | 4 | 8
268 | 899 | 3.6274 | 1 | 1 | 2 | 4 | 8
269 | 9064 | 8.2177 | 2 | 3 | 6 | 10 | 17
270 | 2746 | 3.2618 | 1 | 1 | 2 | 4 | 7
271 | 19612 | 7.2767 | 2 | 4 | 6 | 9 | 13
272 | 5471 | 6.1349 | 2 | 3 | 5 | 7 | 12
273 | 1387 | 3.9250 | 1 | 2 | 3 | 5 | 7
274 | 2344 | 6.7675 | 1 | 3 | 5 | 8 | 14
275 | 247 | 3.0202 | 1 | 1 | 2 | 4 | 6
276 | 1315 | 4.5384 | 1 | 2 | 4 | 6 | 8
277 | 93957 | 5.7577 | 2 | 3 | 5 | 7 | 10
278 | 31764 | 4.2755 | 2 | 3 | 4 | 5 | 7
279 | 3 | 7.0000 | 3 | 3 | 8 | 10 | 10
280 | 17047 | 4.1686 | 1 | 2 | 3 | 5 | 8
281 | 7834 | 2.9183 | 1 | 1 | 2 | 4 | 5
283 | 5638 | 4.6568 | 1 | 2 | 4 | 6 | 9
284 | 1950 | 3.0569 | 1 | 1 | 2 | 4 | 6
285 | 6574 | 10.6492 | 3 | 5 | 8 | 13 | 20
286 | 2183 | 5.9464 | 2 | 3 | 4 | 7 | 11
287 | 6460 | 10.5718 | 3 | 5 | 8 | 12 | 20
288 | 3675 | 5.3897 | 2 | 3 | 4 | 6 | 8
289 | 6423 | 2.8026 | 1 | 1 | 1 | 3 | 6
290 | 9500 | 2.2281 | 1 | 1 | 1 | 2 | 4
291 | 78 | 1.6026 | 1 | 1 | 1 | 2 | 3
292 | 5423 | 9.9458 | 2 | 4 | 8 | 13 | 20
293 | 345 | 4.9246 | 1 | 2 | 3 | 7 | 10
294 | 95391 | 4.5356 | 1 | 2 | 3 | 6 | 9
295 | 3359 | 3.9690 | 1 | 2 | 3 | 5 | 7
296 | 250941 | 5.1144 | 1 | 2 | 4 | 6 | 10
297 | 47743 | 3.3559 | 1 | 2 | 3 | 4 | 6
298 | 103 | 4.3495 | 1 | 2 | 3 | 5 | 8
299 | 1218 | 5.3760 | 1 | 2 | 4 | 6 | 10
300 | 17546 | 6.1581 | 2 | 3 | 5 | 8 | 12
301 | 3644 | 3.6509 | 1 | 2 | 3 | 5 | 7
302 | 7896 | 8.6990 | 4 | 5 | 7 | 10 | 15
303 | 20694 | 8.2722 | 3 | 4 | 6 | 9 | 15
304 | 11944 | 8.6761 | 2 | 4 | 6 | 11 | 18
305 | 2972 | 3.5697 | 1 | 2 | 3 | 4 | 6
306 | 7213 | 5.4883 | 1 | 2 | 3 | 7 | 13
307 | 2168 | 2.2002 | 1 | 1 | 2 | 3 | 4
308 | 7359 | 6.3367 | 1 | 2 | 4 | 8 | 14
309 | 4375 | 2.1913 | 1 | 1 | 2 | 3 | 4
310 | 24597 | 4.3470 | 1 | 1 | 3 | 5 | 9
311 | 8323 | 1.8264 | 1 | 1 | 1 | 2 | 3
312 | 1547 | 4.4945 | 1 | 1 | 3 | 6 | 10
313 | 644 | 2.1289 | 1 | 1 | 1 | 2 | 4
314 | 1 | 5.0000 | 5 | 5 | 5 | 5 | 5
315 | 31230 | 6.8866 | 1 | 1 | 4 | 9 | 16
316 | 116645 | 6.6308 | 2 | 3 | 5 | 8 | 13
317 | 1890 | 3.0899 | 1 | 1 | 2 | 3 | 7
318 | 5739 | 6.0294 | 1 | 3 | 4 | 8 | 12
319 | 494 | 2.8543 | 1 | 1 | 2 | 4 | 6
320 | 193283 | 5.3020 | 2 | 3 | 4 | 7 | 10
321 | 30745 | 3.7500 | 1 | 2 | 3 | 5 | 7
322 | 64 | 3.6563 | 1 | 2 | 3 | 4 | 7
323 | 18622 | 3.1423 | 1 | 1 | 2 | 4 | 6
324 | 7455 | 1.8437 | 1 | 1 | 1 | 2 | 3
325 | 8938 | 3.7880 | 1 | 2 | 3 | 5 | 7
326 | 2803 | 2.6718 | 1 | 1 | 2 | 3 | 5
327 | 2 | 2.5000 | 1 | 1 | 4 | 4 | 4
328 | 685 | 3.7883 | 1 | 1 | 3 | 5 | 7
329 | 105 | 2.2000 | 1 | 1 | 1 | 2 | 5
331 | 49140 | 5.5819 | 1 | 3 | 4 | 7 | 11
332 | 5119 | 3.1686 | 1 | 1 | 2 | 4 | 6
333 | 311 | 4.6849 | 1 | 2 | 3 | 6 | 10
334 | 10271 | 4.7684 | 2 | 3 | 4 | 5 | 8
335 | 12383 | 3.1779 | 2 | 2 | 3 | 4 | 5
336 | 36334 | 3.4249 | 1 | 2 | 2 | 4 | 7
337 | 29524 | 2.0688 | 1 | 1 | 2 | 2 | 3
338 | 1055 | 5.5526 | 1 | 2 | 3 | 8 | 13
339 | 1505 | 4.6186 | 1 | 1 | 3 | 6 | 10
340 | 1 | 1.0000 | 1 | 1 | 1 | 1 | 1
341 | 3670 | 3.0695 | 1 | 1 | 2 | 3 | 6
342 | 723 | 3.1355 | 1 | 1 | 2 | 4 | 6
343 | 1 | 5.0000 | 5 | 5 | 5 | 5 | 5
344 | 3810 | 2.2850 | 1 | 1 | 1 | 2 | 4
345 | 1180 | 3.8542 | 1 | 1 | 2 | 4 | 8
346 | 4562 | 6.0342 | 1 | 3 | 5 | 8 | 12
347 | 373 | 2.6971 | 1 | 1 | 2 | 3 | 6
348 | 3281 | 4.1591 | 1 | 2 | 3 | 5 | 8
349 | 597 | 2.4623 | 1 | 1 | 2 | 3 | 5
350 | 6497 | 4.5045 | 2 | 2 | 4 | 6 | 8
351 | 1 | 1.0000 | 1 | 1 | 1 | 1 | 1
352 | 768 | 3.9557 | 1 | 2 | 3 | 5 | 8
353 | 2659 | 6.4772 | 2 | 3 | 5 | 7 | 12
354 | 7491 | 5.8265 | 3 | 3 | 4 | 7 | 10
355 | 5680 | 3.2347 | 2 | 2 | 3 | 4 | 5
356 | 25943 | 2.1725 | 1 | 1 | 2 | 3 | 4
357 | 5715 | 8.4126 | 3 | 4 | 6 | 10 | 16
358 | 20616 | 4.3038 | 2 | 3 | 3 | 5 | 7
359 | 31095 | 2.6372 | 1 | 2 | 3 | 3 | 4
360 | 15579 | 2.8185 | 1 | 2 | 2 | 3 | 5
361 | 369 | 3.6694 | 1 | 1 | 2 | 4 | 8
362 | 2 | 1.0000 | 1 | 1 | 1 | 1 | 1
363 | 2684 | 3.6256 | 1 | 2 | 2 | 4 | 7
364 | 1632 | 3.8762 | 1 | 1 | 3 | 5 | 8
365 | 1770 | 7.3989 | 1 | 3 | 5 | 9 | 16
366 | 4436 | 6.8537 | 2 | 3 | 5 | 9 | 14
367 | 521 | 3.0115 | 1 | 1 | 2 | 4 | 6
368 | 3288 | 6.7318 | 2 | 3 | 5 | 8 | 13
369 | 3280 | 3.1976 | 1 | 1 | 2 | 4 | 6
370 | 1244 | 5.6937 | 3 | 3 | 4 | 5 | 9
371 | 1416 | 3.6031 | 2 | 3 | 3 | 4 | 5
372 | 919 | 3.6529 | 1 | 2 | 2 | 3 | 5
373 | 3878 | 2.2935 | 1 | 2 | 2 | 3 | 3
374 | 116 | 2.8793 | 1 | 2 | 2 | 3 | 5
375 | 8 | 5.2500 | 1 | 3 | 5 | 5 | 9
376 | 263 | 3.5095 | 1 | 2 | 2 | 4 | 6
377 | 29 | 4.3793 | 1 | 2 | 3 | 4 | 7
378 | 169 | 2.4615 | 1 | 1 | 2 | 3 | 4
379 | 408 | 3.0000 | 1 | 1 | 2 | 3 | 6
380 | 76 | 1.9605 | 1 | 1 | 1 | 2 | 4
381 | 181 | 2.0829 | 1 | 1 | 1 | 2 | 4
382 | 25 | 1.3600 | 1 | 1 | 1 | 1 | 3
383 | 1841 | 3.9620 | 1 | 1 | 3 | 4 | 8
384 | 149 | 2.7315 | 1 | 1 | 1 | 3 | 6
389 | 5 | 3.4000 | 1 | 1 | 2 | 4 | 8
390 | 8 | 2.7500 | 1 | 1 | 1 | 4 | 5
392 | 2247 | 9.5167 | 2 | 4 | 7 | 12 | 19
393 | 1 | 2.0000 | 2 | 2 | 2 | 2 | 2
394 | 1959 | 6.2950 | 1 | 2 | 4 | 8 | 14
395 | 100668 | 4.3478 | 1 | 2 | 3 | 5 | 9
396 | 11 | 3.8182 | 1 | 1 | 2 | 4 | 6
397 | 17952 | 5.1683 | 1 | 2 | 4 | 7 | 10
398 | 17121 | 5.8897 | 2 | 3 | 5 | 7 | 11
399 | 1788 | 3.5520 | 1 | 2 | 3 | 5 | 7
400 | 6488 | 8.9578 | 1 | 3 | 6 | 11 | 20
401 | 5837 | 11.2479 | 2 | 5 | 9 | 15 | 23
402 | 1598 | 3.8899 | 1 | 1 | 3 | 5 | 8
403 | 32013 | 8.0033 | 2 | 3 | 6 | 10 | 17
404 | 4593 | 4.1916 | 1 | 2 | 3 | 5 | 9
406 | 2495 | 9.6970 | 2 | 4 | 7 | 12 | 20
407 | 702 | 4.1140 | 1 | 2 | 3 | 5 | 8
408 | 2122 | 7.8591 | 1 | 2 | 5 | 10 | 18
409 | 2517 | 6.1339 | 2 | 3 | 4 | 6 | 13
410 | 30770 | 4.0138 | 1 | 2 | 4 | 5 | 6
411 | 14 | 2.9286 | 1 | 1 | 2 | 4 | 6
412 | 18 | 2.0000 | 1 | 1 | 1 | 2 | 4
413 | 5767 | 7.2917 | 2 | 3 | 6 | 9 | 14
414 | 763 | 4.0170 | 1 | 2 | 3 | 5 | 8
415 | 39920 | 14.4391 | 4 | 6 | 11 | 18 | 29
416 | 181162 | 7.4625 | 2 | 4 | 6 | 9 | 14
417 | 37 | 6.1351 | 2 | 2 | 4 | 8 | 13
418 | 23410 | 6.1742 | 2 | 3 | 5 | 8 | 12
419 | 15730 | 4.6490 | 1 | 2 | 4 | 6 | 9
420 | 2958 | 3.4324 | 1 | 2 | 3 | 4 | 6
421 | 9274 | 3.7804 | 1 | 2 | 3 | 4 | 7
422 | 69 | 2.9130 | 1 | 1 | 2 | 3 | 6
423 | 7273 | 8.2391 | 2 | 3 | 6 | 10 | 17
424 | 1292 | 12.9690 | 2 | 5 | 9 | 16 | 26
425 | 16309 | 3.8956 | 1 | 2 | 3 | 5 | 8
426 | 4483 | 4.4716 | 1 | 2 | 3 | 5 | 9
427 | 1576 | 4.4143 | 1 | 2 | 3 | 5 | 9
428 | 745 | 7.3732 | 1 | 2 | 4 | 8 | 15
429 | 27035 | 6.1425 | 2 | 3 | 4 | 7 | 12
430 | 63072 | 7.9697 | 2 | 3 | 6 | 10 | 16
431 | 321 | 5.9470 | 1 | 2 | 4 | 7 | 13
432 | 411 | 4.5645 | 1 | 1 | 3 | 5 | 9
433 | 5523 | 2.9714 | 1 | 1 | 2 | 3 | 6
439 | 1457 | 8.5003 | 1 | 3 | 6 | 10 | 17
440 | 5440 | 9.0241 | 2 | 3 | 6 | 11 | 20
441 | 612 | 3.0735 | 1 | 1 | 2 | 4 | 7
442 | 16697 | 8.5604 | 1 | 3 | 6 | 10 | 18
443 | 3806 | 3.5365 | 1 | 1 | 3 | 4 | 7
444 | 5676 | 4.3175 | 1 | 2 | 3 | 5 | 8
445 | 2726 | 2.8995 | 1 | 1 | 2 | 4 | 5
447 | 6278 | 2.4462 | 1 | 1 | 2 | 3 | 5
448 | 1 | 1.0000 | 1 | 1 | 1 | 1 | 1
449 | 30479 | 3.6797 | 1 | 1 | 3 | 4 | 8
450 | 7369 | 1.9900 | 1 | 1 | 1 | 2 | 4
451 | 5 | 1.6000 | 1 | 1 | 2 | 2 | 2
452 | 25229 | 5.0164 | 1 | 2 | 3 | 6 | 10
453 | 5648 | 2.7665 | 1 | 1 | 2 | 3 | 5
454 | 4624 | 4.3575 | 1 | 2 | 3 | 5 | 9
455 | 1098 | 2.3752 | 1 | 1 | 2 | 3 | 5
461 | 4563 | 4.0690 | 1 | 1 | 2 | 4 | 10
462 | 11994 | 11.3643 | 4 | 6 | 10 | 14 | 21
463 | 25215 | 4.1639 | 1 | 2 | 3 | 5 | 8
464 | 7115 | 3.0145 | 1 | 1 | 2 | 4 | 6
465 | 224 | 2.8973 | 1 | 1 | 1 | 3 | 5
466 | 1797 | 3.9321 | 1 | 1 | 2 | 4 | 7
467 | 1043 | 8.3931 | 1 | 1 | 2 | 3 | 6
468 | 57090 | 12.8803 | 3 | 6 | 10 | 16 | 25
471 | 12468 | 5.4931 | 3 | 3 | 4 | 6 | 9
473 | 8236 | 12.3409 | 1 | 3 | 7 | 17 | 32
475 | 104072 | 11.1941 | 2 | 5 | 9 | 15 | 22
476 | 3803 | 11.2611 | 2 | 5 | 10 | 15 | 21
477 | 25564 | 8.1456 | 1 | 3 | 6 | 11 | 17
478 | 108638 | 7.3817 | 1 | 3 | 5 | 9 | 16
479 | 24179 | 3.3012 | 1 | 1 | 3 | 4 | 7
480 | 622 | 21.5354 | 7 | 9 | 14 | 28 | 49
481 | 726 | 21.9353 | 13 | 17 | 20 | 25 | 33
482 | 5562 | 13.2251 | 4 | 7 | 10 | 16 | 25
483 | 43028 | 39.7169 | 15 | 22 | 33 | 49 | 71
484 | 317 | 13.0820 | 2 | 5 | 10 | 18 | 27
485 | 3029 | 9.4262 | 4 | 5 | 7 | 11 | 18
486 | 1867 | 12.3214 | 1 | 5 | 10 | 16 | 25
487 | 3536 | 7.6683 | 1 | 3 | 6 | 10 | 16
488 | 776 | 16.9162 | 3 | 6 | 13 | 22 | 35
489 | 13557 | 8.5376 | 2 | 3 | 6 | 10 | 18
490 | 5252 | 5.2582 | 1 | 2 | 4 | 6 | 10
491 | 13607 | 3.4664 | 1 | 2 | 3 | 4 | 6
492 | 2875 | 15.0104 | 2 | 5 | 7 | 25 | 34
493 | 58106 | 5.8777 | 1 | 3 | 5 | 7 | 11
494 | 30972 | 2.4751 | 1 | 1 | 2 | 3 | 5
495 | 211 | 17.1659 | 8 | 10 | 13 | 20 | 31
496 | 1842 | 9.4870 | 3 | 4 | 7 | 11 | 19
497 | 18414 | 6.5560 | 3 | 4 | 5 | 7 | 11
498 | 13584 | 4.1477 | 2 | 3 | 4 | 5 | 6
499 | 33300 | 4.6629 | 1 | 2 | 3 | 6 | 9
500 | 49827 | 2.4760 | 1 | 1 | 2 | 3 | 5
501 | 2356 | 10.6341 | 4 | 5 | 8 | 13 | 20
502 | 637 | 6.4066 | 2 | 4 | 5 | 8 | 11
503 | 5894 | 3.8884 | 1 | 2 | 3 | 5 | 7
504 | 123 | 34.9756 | 9 | 15 | 27 | 44 | 66
505 | 147 | 3.6667 | 1 | 1 | 1 | 5 | 9
506 | 937 | 17.2604 | 4 | 8 | 14 | 22 | 36
507 | 288 | 8.9549 | 2 | 4 | 7 | 12 | 18
508 | 667 | 8.2219 | 2 | 3 | 6 | 10 | 17
509 | 177 | 5.4350 | 1 | 2 | 4 | 7 | 10
510 | 1671 | 6.6092 | 1 | 3 | 5 | 8 | 13
511 | 616 | 4.3766 | 1 | 1 | 3 | 5 | 9
512 | 450 | 14.2244 | 6 | 8 | 11 | 15 | 24
513 | 142 | 10.7042 | 5 | 7 | 9 | 11 | 20
514 | 19261 | 7.2615 | 1 | 3 | 6 | 9 | 15
515 | 4570 | 5.4897 | 1 | 1 | 3 | 7 | 13
516 | 76256 | 4.7308 | 2 | 2 | 4 | 6 | 9
517 | 191586 | 2.6138 | 1 | 1 | 2 | 3 | 6
518 | 51638 | 3.3905 | 1 | 1 | 2 | 4 | 7
519 | 7316 | 5.1875 | 1 | 2 | 3 | 6 | 12
520 | 11118 | 2.1205 | 1 | 1 | 2 | 2 | 4
521 | 28568 | 5.7752 | 2 | 3 | 4 | 7 | 12
522 | 6141 | 9.4402 | 3 | 4 | 8 | 12 | 20
523 | 14812 | 4.0927 | 1 | 2 | 3 | 5 | 7
| 11403341

Table 7B.—Medicare Prospective Payment System Selected Percentile Lengths of Stay
[FY 2001 MEDPAR Update 12/01 Grouper V20.0]
DRG | Number discharges | Arithmetic mean LOS | 10th percentile | 25th percentile | 50th percentile | 75th percentile | 90th percentile
1 | 27708 | 11.1212 | 3 | 5 | 8 | 14 | 22
2 | 14081 | 5.2277 | 1 | 3 | 4 | 7 | 10
3 | 7 | 7.4286 | 1 | 1 | 3 | 4 | 10
4 | 6426 | 7.1748 | 1 | 2 | 5 | 9 | 16
5 | 93169 | 3.0674 | 1 | 1 | 2 | 3 | 7
6 | 398 | 2.9196 | 1 | 1 | 2 | 4 | 6
7 | 14187 | 9.7565 | 1 | 4 | 7 | 12 | 20
8 | 4350 | 2.7572 | 1 | 1 | 1 | 3 | 6
9 | 1737 | 6.4669 | 1 | 3 | 5 | 8 | 13
10 | 18019 | 6.5224 | 2 | 3 | 5 | 8 | 13
11 | 3400 | 4.0044 | 1 | 2 | 3 | 5 | 8
12 | 49655 | 5.8699 | 2 | 3 | 4 | 7 | 11
13 | 6646 | 5.0141 | 2 | 3 | 4 | 6 | 9
14 | 236067 | 6.0768 | 2 | 3 | 5 | 7 | 12
15 | 101726 | 4.9503 | 2 | 3 | 4 | 6 | 9
16 | 9257 | 6.1391 | 2 | 3 | 5 | 8 | 12
17 | 2871 | 3.1379 | 1 | 1 | 2 | 4 | 6
18 | 28016 | 5.4234 | 2 | 3 | 4 | 7 | 10
19 | 8679 | 3.5369 | 1 | 2 | 3 | 5 | 7
20 | 5618 | 10.4676 | 3 | 5 | 8 | 13 | 20
21 | 1429 | 6.5850 | 2 | 3 | 5 | 8 | 13
22 | 2723 | 5.0165 | 2 | 2 | 4 | 6 | 10
23 | 11192 | 4.2429 | 1 | 2 | 3 | 5 | 8
24 | 55364 | 4.8878 | 1 | 2 | 4 | 6 | 10
25 | 27208 | 3.2250 | 1 | 2 | 3 | 4 | 6
26 | 34 | 4.6765 | 1 | 1 | 2 | 4 | 6
27 | 3839 | 5.0253 | 1 | 1 | 3 | 6 | 11
28 | 12344 | 6.2286 | 1 | 3 | 5 | 8 | 13
29 | 4930 | 3.5613 | 1 | 2 | 3 | 5 | 7
31 | 3815 | 4.0765 | 1 | 2 | 3 | 5 | 8
32 | 1893 | 2.4464 | 1 | 1 | 2 | 3 | 5
34 | 22342 | 5.0412 | 1 | 2 | 4 | 6 | 9
35 | 7331 | 3.2195 | 1 | 1 | 3 | 4 | 6
36 | 2493 | 1.4705 | 1 | 1 | 1 | 1 | 2
37 | 1419 | 3.8182 | 1 | 1 | 2 | 4 | 9
38 | 93 | 2.4946 | 1 | 1 | 1 | 3 | 6
39 | 667 | 1.9340 | 1 | 1 | 1 | 2 | 4
40 | 1524 | 3.6037 | 1 | 1 | 2 | 5 | 8
42 | 1938 | 2.3710 | 1 | 1 | 1 | 3 | 5
43 | 110 | 3.0455 | 1 | 1 | 2 | 4 | 6
44 | 1295 | 5.0347 | 2 | 3 | 4 | 6 | 9
45 | 2600 | 3.2423 | 1 | 2 | 3 | 4 | 6
46 | 3374 | 4.5871 | 1 | 2 | 4 | 6 | 9
47 | 1350 | 3.1719 | 1 | 1 | 3 | 4 | 6
48 | 1 | 2.0000 | 2 | 2 | 2 | 2 | 2
49 | 2337 | 4.6166 | 1 | 2 | 3 | 5 | 9
50 | 2483 | 1.8212 | 1 | 1 | 1 | 2 | 3
51 | 251 | 3.1195 | 1 | 1 | 1 | 3 | 7
52 | 239 | 1.9205 | 1 | 1 | 1 | 2 | 3
53 | 2518 | 3.3777 | 1 | 1 | 2 | 4 | 8
54 | 1 | 4.0000 | 4 | 4 | 4 | 4 | 4
55 | 1566 | 3.0556 | 1 | 1 | 1 | 3 | 6
56 | 528 | 2.9848 | 1 | 1 | 2 | 3 | 6
57 | 692 | 3.6893 | 1 | 1 | 2 | 4 | 8
59 | 128 | 2.6641 | 1 | 1 | 1 | 3 | 6
60 | 6 | 3.3333 | 1 | 1 | 2 | 5 | 5
61 | 243 | 4.8354 | 1 | 1 | 3 | 7 | 10
62 | 3 | 1.6667 | 1 | 1 | 1 | 3 | 3
63 | 2900 | 4.4831 | 1 | 1 | 3 | 6 | 9
64 | 3132 | 6.6028 | 1 | 2 | 4 | 8 | 14
65 | 39024 | 2.7977 | 1 | 1 | 2 | 3 | 5
66 | 7671 | 3.1068 | 1 | 1 | 2 | 4 | 6
67 | 440 | 3.5955 | 1 | 2 | 3 | 4 | 6
68 | 8754 | 3.8284 | 1 | 2 | 3 | 5 | 7
69 | 3035 | 2.9997 | 1 | 2 | 2 | 4 | 5
70 | 25 | 3.4800 | 1 | 2 | 3 | 4 | 8
71 | 87 | 3.4368 | 1 | 2 | 3 | 4 | 6
72 | 926 | 3.5659 | 1 | 1 | 3 | 4 | 7
73 | 7073 | 4.3867 | 1 | 2 | 3 | 6 | 9
75 | 39878 | 10.0489 | 3 | 5 | 7 | 12 | 20
76 | 41691 | 11.4166 | 3 | 5 | 9 | 14 | 22
77 | 2445 | 4.8634 | 1 | 2 | 4 | 7 | 10
78 | 35316 | 6.6636 | 3 | 4 | 6 | 8 | 11
79 | 166404 | 8.5040 | 3 | 4 | 7 | 11 | 16
80 | 8320 | 5.4954 | 2 | 3 | 5 | 7 | 10
81 | 2 | 8.0000 | 3 | 3 | 13 | 13 | 13
82 | 63426 | 6.9938 | 2 | 3 | 6 | 9 | 14
83 | 6394 | 5.4759 | 2 | 3 | 4 | 7 | 10
84 | 1559 | 3.2290 | 1 | 2 | 3 | 4 | 6
85 | 21268 | 6.3168 | 2 | 3 | 5 | 8 | 12
86 | 2180 | 3.8138 | 1 | 2 | 3 | 5 | 8
87 | 59482 | 6.3070 | 1 | 3 | 5 | 8 | 12
88 | 396842 | 5.1059 | 2 | 3 | 4 | 6 | 9
89 | 502709 | 5.8920 | 2 | 3 | 5 | 7 | 11
90 | 46817 | 4.0322 | 2 | 2 | 3 | 5 | 7
91 | 57 | 4.0000 | 2 | 2 | 3 | 5 | 8
92 | 14816 | 6.3579 | 2 | 3 | 5 | 8 | 12
93 | 1710 | 4.1076 | 1 | 2 | 3 | 5 | 8
94 | 12574 | 6.3304 | 2 | 3 | 5 | 8 | 13
95 | 1679 | 3.7123 | 1 | 2 | 3 | 5 | 7
96 | 53729 | 4.5526 | 2 | 2 | 4 | 6 | 8
97 | 28601 | 3.5208 | 1 | 2 | 3 | 4 | 6
98 | 15 | 5.0000 | 1 | 2 | 3 | 4 | 13
99 | 21279 | 3.1677 | 1 | 1 | 2 | 4 | 6
100 | 8950 | 2.1349 | 1 | 1 | 2 | 3 | 4
101 | 21127 | 4.3832 | 1 | 2 | 3 | 6 | 9
102 | 5559 | 2.5690 | 1 | 1 | 2 | 3 | 5
103 | 428 | 49.2103 | 9 | 14 | 26 | 61 | 116
104 | 19517 | 14.4041 | 6 | 8 | 12 | 17 | 25
105 | 27289 | 9.9529 | 5 | 6 | 8 | 11 | 18
106 | 3308 | 11.3987 | 5 | 7 | 10 | 14 | 20
107 | 85791 | 10.4560 | 5 | 7 | 9 | 12 | 17
108 | 6205 | 10.2743 | 3 | 5 | 8 | 13 | 20
109 | 59572 | 7.7288 | 4 | 5 | 6 | 9 | 13
110 | 53172 | 9.0340 | 2 | 4 | 7 | 11 | 18
111 | 9394 | 4.4159 | 1 | 2 | 4 | 6 | 8
113 | 41424 | 12.4557 | 4 | 6 | 9 | 15 | 24
114 | 8852 | 8.5204 | 2 | 4 | 7 | 11 | 17
115 | 15271 | 8.2839 | 1 | 4 | 7 | 11 | 16
116 | 109277 | 4.4721 | 1 | 2 | 3 | 6 | 9
117 | 4177 | 4.1611 | 1 | 1 | 2 | 5 | 9
118 | 8112 | 2.8930 | 1 | 1 | 1 | 3 | 7
119 | 1316 | 5.1117 | 1 | 1 | 3 | 6 | 12
120 | 37308 | 8.7872 | 1 | 2 | 6 | 12 | 20
121 | 167308 | 6.3297 | 2 | 3 | 5 | 8 | 12
122 | 81710 | 3.6163 | 1 | 2 | 3 | 5 | 7
123 | 41163 | 4.7016 | 1 | 1 | 3 | 6 | 11
124 | 138287 | 4.3673 | 1 | 2 | 3 | 6 | 8
125 | 90077 | 2.7417 | 1 | 1 | 2 | 4 | 5
126 | 5016 | 11.8909 | 4 | 6 | 9 | 15 | 22
127 | 682134 | 5.2700 | 2 | 3 | 4 | 7 | 10
128 | 8254 | 5.4723 | 2 | 3 | 5 | 7 | 9
129 | 4105 | 2.8378 | 1 | 1 | 1 | 3 | 6
130 | 88700 | 5.6615 | 2 | 3 | 5 | 7 | 10
131 | 27798 | 4.0539 | 1 | 2 | 4 | 5 | 7
132 | 152311 | 2.9301 | 1 | 1 | 2 | 4 | 5
133 | 8929 | 2.2655 | 1 | 1 | 2 | 3 | 4
134 | 39623 | 3.1770 | 1 | 2 | 2 | 4 | 6
135 | 7554 | 4.4298 | 1 | 2 | 3 | 5 | 8
136 | 1237 | 2.5594 | 1 | 1 | 2 | 3 | 5
138 | 203378 | 3.9834 | 1 | 2 | 3 | 5 | 8
139 | 90000 | 2.4829 | 1 | 1 | 2 | 3 | 5
140 | 66435 | 2.5585 | 1 | 1 | 2 | 3 | 5
141 | 102391 | 3.5917 | 1 | 2 | 3 | 4 | 7
142 | 51719 | 2.5539 | 1 | 1 | 2 | 3 | 5
143 | 250133 | 2.0827 | 1 | 1 | 2 | 3 | 4
144 | 88510 | 5.4530 | 1 | 2 | 4 | 7 | 11
145 | 7598 | 2.6481 | 1 | 1 | 2 | 3 | 5
146 | 10800 | 10.2147 | 5 | 7 | 8 | 12 | 17
147 | 2799 | 6.4012 | 3 | 5 | 6 | 8 | 10
148 | 129450 | 12.2855 | 5 | 7 | 10 | 15 | 22
149 | 19342 | 6.4670 | 4 | 5 | 6 | 8 | 10
150 | 20334 | 11.2329 | 4 | 7 | 10 | 14 | 20
151 | 4963 | 5.6756 | 1 | 3 | 5 | 8 | 10
152 | 4425 | 8.3250 | 3 | 5 | 7 | 10 | 14
153 | 2015 | 5.3782 | 3 | 4 | 5 | 7 | 8
154 | 29004 | 13.2062 | 3 | 7 | 10 | 16 | 26
155 | 7262 | 3.9898 | 1 | 2 | 3 | 6 | 8
156 | 3 | 15.0000 | 11 | 11 | 13 | 21 | 21
157 | 8155 | 5.5579 | 1 | 2 | 4 | 7 | 11
158 | 4564 | 2.5184 | 1 | 1 | 2 | 3 | 5
159 | 17115 | 5.0602 | 1 | 2 | 4 | 6 | 10
160 | 12172 | 2.6489 | 1 | 1 | 2 | 3 | 5
161 | 11155 | 4.1600 | 1 | 1 | 3 | 5 | 9
162 | 7290 | 1.9177 | 1 | 1 | 1 | 2 | 4
163 | 3 | 3.0000 | 1 | 1 | 3 | 5 | 5
164 | 5118 | 8.2651 | 3 | 5 | 7 | 10 | 14
165 | 2185 | 4.6499 | 2 | 3 | 4 | 6 | 8
166 | 3903 | 4.8737 | 1 | 2 | 4 | 6 | 9
167 | 3800 | 2.5132 | 1 | 1 | 2 | 3 | 4
168 | 1382 | 4.8705 | 1 | 2 | 3 | 6 | 10
169 | 869 | 2.2842 | 1 | 1 | 2 | 3 | 5
170 | 12156 | 10.9845 | 2 | 4 | 8 | 14 | 22
171 | 1359 | 4.3061 | 1 | 2 | 3 | 6 | 9
172 | 30622 | 6.9624 | 2 | 3 | 5 | 9 | 14
173 | 2711 | 3.7444 | 1 | 1 | 3 | 5 | 8
174 | 247222 | 4.8059 | 2 | 3 | 4 | 6 | 9
175 | 35165 | 2.9201 | 1 | 2 | 3 | 4 | 5
176 | 15219 | 5.2481 | 2 | 3 | 4 | 6 | 10
177 | 9429 | 4.5038 | 2 | 2 | 4 | 6 | 8
178 | 3758 | 3.0780 | 1 | 2 | 3 | 4 | 6
179 | 12541 | 5.9632 | 2 | 3 | 5 | 7 | 11
180 | 88300 | 5.3709 | 2 | 3 | 4 | 7 | 10
181 | 27097 | 3.3767 | 1 | 2 | 3 | 4 | 6
182 | 260686 | 4.3600 | 1 | 2 | 3 | 5 | 8
183 | 91243 | 2.8817 | 1 | 1 | 2 | 4 | 5
184 | 93 | 2.8387 | 1 | 1 | 2 | 4 | 6
185 | 5070 | 4.6984 | 1 | 2 | 3 | 6 | 9
186 | 3 | 4.6667 | 2 | 2 | 3 | 9 | 9
187 | 668 | 4.1153 | 1 | 2 | 3 | 6 | 8
188 | 79403 | 5.5558 | 1 | 2 | 4 | 7 | 11
189 | 13113 | 3.0563 | 1 | 1 | 2 | 4 | 6
190 | 74 | 4.7838 | 1 | 2 | 3 | 5 | 9
191 | 9222 | 13.7304 | 3 | 6 | 10 | 17 | 28
192 | 1257 | 6.0963 | 1 | 3 | 5 | 8 | 11
193 | 4865 | 12.7394 | 5 | 7 | 10 | 16 | 23
194 | 733 | 6.8759 | 2 | 4 | 6 | 8 | 12
195 | 4157 | 10.3560 | 4 | 6 | 9 | 12 | 18
196 | 1051 | 5.4186 | 2 | 3 | 5 | 7 | 9
197 | 18569 | 8.9827 | 3 | 5 | 7 | 11 | 16
198 | 5672 | 4.4381 | 2 | 3 | 4 | 6 | 8
199 | 1644 | 9.9179 | 2 | 4 | 7 | 13 | 21
200 | 1042 | 10.4539 | 1 | 3 | 7 | 14 | 22
201 | 2013 | 14.4287 | 4 | 6 | 11 | 18 | 28
202 | 26156 | 6.3731 | 2 | 3 | 5 | 8 | 13
203 | 29310 | 6.7403 | 2 | 3 | 5 | 9 | 13
204 | 61544 | 5.8119 | 2 | 3 | 4 | 7 | 11
205 | 24459 | 6.1537 | 2 | 3 | 5 | 8 | 12
206 | 2049 | 3.9204 | 1 | 2 | 3 | 5 | 8
207 | 32107 | 5.1834 | 1 | 2 | 4 | 7 | 10
208 | 10745 | 2.8598 | 1 | 1 | 2 | 4 | 5
209 | 371105 | 4.9903 | 3 | 3 | 4 | 6 | 8
210 | 121541 | 6.8894 | 3 | 4 | 6 | 8 | 11
211 | 32567 | 4.9284 | 3 | 4 | 5 | 6 | 7
212 | 7 | 3.2857 | 1 | 2 | 2 | 2 | 4
213 | 9878 | 9.1432 | 2 | 4 | 7 | 11 | 18
216 | 6916 | 9.5448 | 2 | 4 | 7 | 12 | 19
217 | 17029 | 13.4060 | 3 | 5 | 9 | 16 | 28
218 | 22744 | 5.4422 | 2 | 3 | 4 | 7 | 10
219 | 20866 | 3.2085 | 1 | 2 | 3 | 4 | 5
220 | 1 | 2.0000 | 2 | 2 | 2 | 2 | 2
223 | 13666 | 2.8724 | 1 | 1 | 2 | 3 | 6
224 | 12467 | 1.8627 | 1 | 1 | 1 | 2 | 3
225 | 6124 | 5.0144 | 1 | 2 | 3 | 7 | 11
226 | 5699 | 6.6699 | 1 | 3 | 5 | 8 | 14
227 | 4921 | 2.6651 | 1 | 1 | 2 | 3 | 5
228 | 2481 | 4.0806 | 1 | 1 | 2 | 5 | 9
229 | 1175 | 2.2179 | 1 | 1 | 2 | 3 | 4
230 | 2406 | 5.0590 | 1 | 2 | 3 | 6 | 11
231 | 12533 | 4.8810 | 1 | 1 | 3 | 6 | 11
232 | 882 | 2.7426 | 1 | 1 | 1 | 3 | 7
233 | 7179 | 7.2117 | 1 | 3 | 5 | 9 | 15
234 | 4607 | 3.1532 | 1 | 1 | 2 | 4 | 7
235 | 5091 | 5.0304 | 1 | 2 | 4 | 6 | 9
236 | 39785 | 4.7450 | 1 | 3 | 4 | 6 | 9
237 | 1744 | 3.5740 | 1 | 2 | 3 | 4 | 7
238 | 8625 | 8.8420 | 3 | 4 | 7 | 11 | 17
239 | 48230 | 6.2846 | 2 | 3 | 5 | 8 | 12
240 | 11807 | 6.7199 | 2 | 3 | 5 | 8 | 13
241 | 3223 | 3.8849 | 1 | 2 | 3 | 5 | 7
242 | 2516 | 6.5568 | 2 | 3 | 5 | 8 | 13
243 | 93654 | 4.6808 | 1 | 2 | 4 | 6 | 9
244 | 13584 | 4.7331 | 1 | 2 | 4 | 6 | 9
245 | 5732 | 3.3627 | 1 | 2 | 3 | 4 | 6
246 | 1346 | 3.7645 | 1 | 2 | 3 | 5 | 7
247 | 19620 | 3.3687 | 1 | 1 | 3 | 4 | 6
248 | 12067 | 4.8652 | 1 | 2 | 4 | 6 | 9
249 | 12651 | 3.6505 | 1 | 1 | 2 | 4 | 7
250 | 3795 | 4.1686 | 1 | 2 | 3 | 5 | 7
251 | 2489 | 2.7814 | 1 | 1 | 2 | 4 | 5
253 | 20861 | 4.6779 | 1 | 3 | 4 | 6 | 9
254 | 10809 | 3.1314 | 1 | 2 | 3 | 4 | 6
255 | 1 | 2.0000 | 2 | 2 | 2 | 2 | 2
256 | 6404 | 5.1084 | 1 | 2 | 4 | 6 | 10
257 | 16706 | 2.6651 | 1 | 1 | 2 | 3 | 5
258 | 16974 | 1.8185 | 1 | 1 | 2 | 2 | 3
259 | 3813 | 2.6693 | 1 | 1 | 1 | 2 | 6
260 | 5087 | 1.3666 | 1 | 1 | 1 | 1 | 2
261 | 1893 | 2.1590 | 1 | 1 | 1 | 2 | 4
262 | 686 | 4.2886 | 1 | 1 | 3 | 5 | 10
263 | 24569 | 11.8050 | 3 | 5 | 8 | 14 | 23
264 | 3982 | 6.9006 | 2 | 3 | 5 | 8 | 14
265 | 4052 | 6.7347 | 1 | 2 | 4 | 8 | 14
266 | 2676 | 3.1371 | 1 | 1 | 2 | 4 | 6
267 | 267 | 4.2584 | 1 | 1 | 2 | 4 | 8
268 | 899 | 3.6274 | 1 | 1 | 2 | 4 | 8
269 | 9064 | 8.2177 | 2 | 3 | 6 | 10 | 17
270 | 2746 | 3.2618 | 1 | 1 | 2 | 4 | 7
271 | 19612 | 7.2767 | 2 | 4 | 6 | 9 | 13
272 | 5471 | 6.1349 | 2 | 3 | 5 | 7 | 12
273 | 1387 | 3.9250 | 1 | 2 | 3 | 5 | 7
274 | 2344 | 6.7675 | 1 | 3 | 5 | 8 | 14
275 | 247 | 3.0202 | 1 | 1 | 2 | 4 | 6
276 | 1326 | 4.5181 | 1 | 2 | 4 | 6 | 8
277 | 93957 | 5.7577 | 2 | 3 | 5 | 7 | 10
278 | 31764 | 4.2755 | 2 | 3 | 4 | 5 | 7
279 | 3 | 7.0000 | 3 | 3 | 8 | 10 | 10
280 | 17047 | 4.1686 | 1 | 2 | 3 | 5 | 8
281 | 7834 | 2.9183 | 1 | 1 | 2 | 4 | 5
283 | 5638 | 4.6568 | 1 | 2 | 4 | 6 | 9
284 | 1950 | 3.0569 | 1 | 1 | 2 | 4 | 6
285 | 6574 | 10.6492 | 3 | 5 | 8 | 13 | 20
286 | 2183 | 5.9464 | 2 | 3 | 4 | 7 | 11
287 | 6460 | 10.5718 | 3 | 5 | 8 | 12 | 20
288 | 3675 | 5.3897 | 2 | 3 | 4 | 6 | 8
289 | 6423 | 2.8026 | 1 | 1 | 1 | 3 | 6
290 | 9500 | 2.2281 | 1 | 1 | 1 | 2 | 4
291 | 78 | 1.6026 | 1 | 1 | 1 | 2 | 3
292 | 5423 | 9.9458 | 2 | 4 | 8 | 13 | 20
293 | 345 | 4.9246 | 1 | 2 | 3 | 7 | 10
294 | 95391 | 4.5356 | 1 | 2 | 3 | 6 | 9
295 | 3359 | 3.9690 | 1 | 2 | 3 | 5 | 7
296 | 250941 | 5.1144 | 1 | 2 | 4 | 6 | 10
297 | 47743 | 3.3559 | 1 | 2 | 3 | 4 | 6
298 | 103 | 4.3495 | 1 | 2 | 3 | 5 | 8
299 | 1218 | 5.3760 | 1 | 2 | 4 | 6 | 10
300 | 17546 | 6.1581 | 2 | 3 | 5 | 8 | 12
301 | 3643 | 3.6508 | 1 | 2 | 3 | 5 | 7
302 | 7896 | 8.6990 | 4 | 5 | 7 | 10 | 15
303 | 20709 | 8.2736 | 3 | 4 | 6 | 9 | 15
304 | 12044 | 8.6857 | 2 | 4 | 6 | 11 | 18
305 | 3008 | 3.6051 | 1 | 2 | 3 | 5 | 6
306 | 7213 | 5.4883 | 1 | 2 | 3 | 7 | 13
307 | 2168 | 2.2002 | 1 | 1 | 2 | 3 | 4
308 | 7245 | 6.2803 | 1 | 2 | 4 | 8 | 14
309 | 4338 | 2.1547 | 1 | 1 | 2 | 3 | 4
310 | 24597 | 4.3470 | 1 | 1 | 3 | 5 | 9
311 | 8323 | 1.8264 | 1 | 1 | 1 | 2 | 3
312 | 1547 | 4.4945 | 1 | 1 | 3 | 6 | 10
313 | 644 | 2.1289 | 1 | 1 | 1 | 2 | 4
314 | 1 | 5.0000 | 5 | 5 | 5 | 5 | 5
315 | 33711 | 7.1835 | 1 | 1 | 4 | 9 | 17
316 | 115329 | 6.5892 | 2 | 3 | 5 | 8 | 13
317 | 1890 | 3.0899 | 1 | 1 | 2 | 3 | 7
318 | 5739 | 6.0294 | 1 | 3 | 4 | 8 | 12
319 | 494 | 2.8543 | 1 | 1 | 2 | 4 | 6
320 | 193283 | 5.3020 | 2 | 3 | 4 | 7 | 10
321 | 30745 | 3.7500 | 1 | 2 | 3 | 5 | 7
322 | 64 | 3.6563 | 1 | 2 | 3 | 4 | 7
323 | 18622 | 3.1423 | 1 | 1 | 2 | 4 | 6
324 | 7455 | 1.8437 | 1 | 1 | 1 | 2 | 3
325 | 8938 | 3.7880 | 1 | 2 | 3 | 5 | 7
326 | 2803 | 2.6718 | 1 | 1 | 2 | 3 | 5
327 | 2 | 2.5000 | 1 | 1 | 4 | 4 | 4
328 | 685 | 3.7883 | 1 | 1 | 3 | 5 | 7
329 | 105 | 2.2000 | 1 | 1 | 1 | 2 | 5
331 | 49140 | 5.5819 | 1 | 3 | 4 | 7 | 11
332 | 5119 | 3.1686 | 1 | 1 | 2 | 4 | 6
333 | 311 | 4.6849 | 1 | 2 | 3 | 6 | 10
334 | 10271 | 4.7684 | 2 | 3 | 4 | 5 | 8
335 | 12383 | 3.1779 | 2 | 2 | 3 | 4 | 5
336 | 36334 | 3.4249 | 1 | 2 | 2 | 4 | 7
337 | 29524 | 2.0688 | 1 | 1 | 2 | 2 | 3
338 | 1055 | 5.5526 | 1 | 2 | 3 | 8 | 13
339 | 1505 | 4.6186 | 1 | 1 | 3 | 6 | 10
340 | 1 | 1.0000 | 1 | 1 | 1 | 1 | 1
341 | 3670 | 3.0695 | 1 | 1 | 2 | 3 | 6
342 | 723 | 3.1355 | 1 | 1 | 2 | 4 | 6
343 | 1 | 5.0000 | 5 | 5 | 5 | 5 | 5
344 | 3840 | 2.3802 | 1 | 1 | 1 | 2 | 5
345 | 1336 | 4.7859 | 1 | 1 | 3 | 6 | 10
346 | 4562 | 6.0342 | 1 | 3 | 5 | 8 | 12
347 | 373 | 2.6971 | 1 | 1 | 2 | 3 | 6
348 | 3281 | 4.1591 | 1 | 2 | 3 | 5 | 8
349 | 597 | 2.4623 | 1 | 1 | 2 | 3 | 5
350 | 6497 | 4.5045 | 2 | 2 | 4 | 6 | 8
351 | 1 | 1.0000 | 1 | 1 | 1 | 1 | 1
352 | 768 | 3.9557 | 1 | 2 | 3 | 5 | 8
353 | 2659 | 6.4772 | 2 | 3 | 5 | 7 | 12
354 | 7491 | 5.8265 | 3 | 3 | 4 | 7 | 10
355 | 5680 | 3.2347 | 2 | 2 | 3 | 4 | 5
356 | 25943 | 2.1725 | 1 | 1 | 2 | 3 | 4
357 | 5715 | 8.4126 | 3 | 4 | 6 | 10 | 16
358 | 20617 | 4.3038 | 2 | 3 | 3 | 5 | 7
359 | 31095 | 2.6372 | 1 | 2 | 3 | 3 | 4
360 | 15583 | 2.8183 | 1 | 2 | 2 | 3 | 5
361 | 369 | 3.6694 | 1 | 1 | 2 | 4 | 8
362 | 2 | 1.0000 | 1 | 1 | 1 | 1 | 1
363 | 2683 | 3.6254 | 1 | 2 | 2 | 4 | 7
364 | 1631 | 3.8780 | 1 | 1 | 3 | 5 | 8
365 | 1834 | 7.6930 | 2 | 3 | 5 | 10 | 17
366 | 4436 | 6.8537 | 2 | 3 | 5 | 9 | 14
367 | 521 | 3.0115 | 1 | 1 | 2 | 4 | 6
368 | 3288 | 6.7318 | 2 | 3 | 5 | 8 | 13
369 | 3281 | 3.1987 | 1 | 1 | 2 | 4 | 6
370 | 1244 | 5.6937 | 3 | 3 | 4 | 5 | 9
371 | 1416 | 3.6031 | 2 | 3 | 3 | 4 | 5
372 | 919 | 3.6529 | 1 | 2 | 2 | 3 | 5
373 | 3878 | 2.2935 | 1 | 2 | 2 | 3 | 3
374 | 116 | 2.8793 | 1 | 2 | 2 | 3 | 5
375 | 8 | 5.2500 | 1 | 3 | 5 | 5 | 9
376 | 263 | 3.5095 | 1 | 2 | 2 | 4 | 6
377 | 29 | 4.3793 | 1 | 2 | 3 | 4 | 7
378 | 169 | 2.4615 | 1 | 1 | 2 | 3 | 4
379 | 408 | 3.0000 | 1 | 1 | 2 | 3 | 6
380 | 76 | 1.9605 | 1 | 1 | 1 | 2 | 4
381 | 181 | 2.0829 | 1 | 1 | 1 | 2 | 4
382 | 25 | 1.3600 | 1 | 1 | 1 | 1 | 3
383 | 1841 | 3.9620 | 1 | 1 | 3 | 4 | 8
384 | 149 | 2.7315 | 1 | 1 | 1 | 3 | 6
389 | 5 | 3.4000 | 1 | 1 | 2 | 4 | 8
390 | 1 | 4.0000 | 4 | 4 | 4 | 4 | 4
392 | 2247 | 9.5167 | 2 | 4 | 7 | 12 | 19
393 | 1 | 2.0000 | 2 | 2 | 2 | 2 | 2
394 | 2329 | 7.0575 | 1 | 2 | 5 | 9 | 15
395 | 100668 | 4.3478 | 1 | 2 | 3 | 5 | 9
396 | 11 | 3.8182 | 1 | 1 | 2 | 4 | 6
397 | 17952 | 5.1683 | 1 | 2 | 4 | 7 | 10
398 | 17121 | 5.8897 | 2 | 3 | 5 | 7 | 11
399 | 1788 | 3.5520 | 1 | 2 | 3 | 5 | 7
400 | 6488 | 8.9578 | 1 | 3 | 6 | 11 | 20
401 | 5837 | 11.2479 | 2 | 5 | 9 | 15 | 23
402 | 1599 | 3.8899 | 1 | 1 | 3 | 5 | 8
403 | 32013 | 8.0033 | 2 | 3 | 6 | 10 | 17
404 | 4592 | 4.1916 | 1 | 2 | 3 | 5 | 9
406 | 2495 | 9.6970 | 2 | 4 | 7 | 12 | 20
407 | 702 | 4.1140 | 1 | 2 | 3 | 5 | 8
408 | 2122 | 7.8591 | 1 | 2 | 5 | 10 | 18
409 | 2517 | 6.1339 | 2 | 3 | 4 | 6 | 13
410 | 30770 | 4.0138 | 1 | 2 | 4 | 5 | 6
411 | 14 | 2.9286 | 1 | 1 | 2 | 4 | 6
412 | 18 | 2.0000 | 1 | 1 | 1 | 2 | 4
413 | 5767 | 7.2917 | 2 | 3 | 6 | 9 | 14
414 | 763 | 4.0170 | 1 | 2 | 3 | 5 | 8
415 | 39922 | 14.4392 | 4 | 6 | 11 | 18 | 29
416 | 181162 | 7.4625 | 2 | 4 | 6 | 9 | 14
417 | 37 | 6.1351 | 2 | 2 | 4 | 8 | 13
418 | 23408 | 6.1732 | 2 | 3 | 5 | 8 | 12
419 | 15730 | 4.6490 | 1 | 2 | 4 | 6 | 9
420 | 2958 | 3.4324 | 1 | 2 | 3 | 4 | 6
421 | 9274 | 3.7804 | 1 | 2 | 3 | 4 | 7
422 | 69 | 2.9130 | 1 | 1 | 2 | 3 | 6
423 | 7273 | 8.2391 | 2 | 3 | 6 | 10 | 17
424 | 1292 | 12.9690 | 2 | 5 | 9 | 16 | 26
425 | 16309 | 3.8956 | 1 | 2 | 3 | 5 | 8
426 | 4483 | 4.4716 | 1 | 2 | 3 | 5 | 9
427 | 1576 | 4.4143 | 1 | 2 | 3 | 5 | 9
428 | 745 | 7.3732 | 1 | 2 | 4 | 8 | 15
429 | 27035 | 6.1425 | 2 | 3 | 4 | 7 | 12
430 | 63072 | 7.9697 | 2 | 3 | 6 | 10 | 16
431 | 321 | 5.9470 | 1 | 2 | 4 | 7 | 13
432 | 411 | 4.5645 | 1 | 1 | 3 | 5 | 9
433 | 5523 | 2.9714 | 1 | 1 | 2 | 3 | 6
439 | 1457 | 8.5003 | 1 | 3 | 6 | 10 | 17
440 | 5440 | 9.0241 | 2 | 3 | 6 | 11 | 20
441 | 612 | 3.0735 | 1 | 1 | 2 | 4 | 7
442 | 16700 | 8.5598 | 1 | 3 | 6 | 10 | 18
443 | 3808 | 3.5355 | 1 | 1 | 3 | 4 | 7
444 | 5676 | 4.3175 | 1 | 2 | 3 | 5 | 8
445 | 2726 | 2.8995 | 1 | 1 | 2 | 4 | 5
447 | 6278 | 2.4462 | 1 | 1 | 2 | 3 | 5
448 | 1 | 1.0000 | 1 | 1 | 1 | 1 | 1
449 | 30478 | 3.6796 | 1 | 1 | 3 | 4 | 8
450 | 7369 | 1.9900 | 1 | 1 | 1 | 2 | 4
451 | 5 | 1.6000 | 1 | 1 | 2 | 2 | 2
452 | 25229 | 5.0164 | 1 | 2 | 3 | 6 | 10
453 | 5646 | 2.7669 | 1 | 1 | 2 | 3 | 5
454 | 4624 | 4.3575 | 1 | 2 | 3 | 5 | 9
455 | 1098 | 2.3752 | 1 | 1 | 2 | 3 | 5
461 | 4563 | 4.0690 | 1 | 1 | 2 | 4 | 10
462 | 11994 | 11.3643 | 4 | 6 | 10 | 14 | 21
463 | 25215 | 4.1639 | 1 | 2 | 3 | 5 | 8
464 | 7115 | 3.0145 | 1 | 1 | 2 | 4 | 6
465 | 224 | 2.8973 | 1 | 1 | 1 | 3 | 5
466 | 1797 | 3.9321 | 1 | 1 | 2 | 4 | 7
467 | 1043 | 8.3931 | 1 | 1 | 2 | 3 | 6
468 | 54726 | 12.9153 | 3 | 6 | 10 | 16 | 25
471 | 12468 | 5.4931 | 3 | 3 | 4 | 6 | 9
473 | 8236 | 12.3409 | 1 | 3 | 7 | 17 | 32
475 | 104072 | 11.1941 | 2 | 5 | 9 | 15 | 22
476 | 3814 | 11.2651 | 2 | 5 | 10 | 15 | 21
477 | 25602 | 8.1413 | 1 | 3 | 6 | 11 | 17
478 | 108638 | 7.3817 | 1 | 3 | 5 | 9 | 16
479 | 24179 | 3.3012 | 1 | 1 | 3 | 4 | 7
480 | 622 | 21.5354 | 7 | 9 | 14 | 28 | 49
481 | 726 | 21.9353 | 13 | 17 | 20 | 25 | 33
482 | 5300 | 12.4930 | 4 | 7 | 9 | 15 | 23
483 | 43301 | 39.6393 | 14 | 22 | 33 | 49 | 71
484 | 317 | 13.0820 | 2 | 5 | 10 | 18 | 27
485 | 3029 | 9.4262 | 4 | 5 | 7 | 11 | 18
486 | 1867 | 12.3214 | 1 | 5 | 10 | 16 | 25
487 | 3536 | 7.6683 | 1 | 3 | 6 | 10 | 16
488 | 776 | 16.9162 | 3 | 6 | 13 | 22 | 35
489 | 13557 | 8.5376 | 2 | 3 | 6 | 10 | 18
490 | 5252 | 5.2582 | 1 | 2 | 4 | 6 | 10
491 | 13607 | 3.4664 | 1 | 2 | 3 | 4 | 6
492 | 2875 | 15.0104 | 2 | 5 | 7 | 25 | 34
493 | 58106 | 5.8777 | 1 | 3 | 5 | 7 | 11
494 | 30972 | 2.4751 | 1 | 1 | 2 | 3 | 5
495 | 211 | 17.1659 | 8 | 10 | 13 | 20 | 31
496 | 1842 | 9.4870 | 3 | 4 | 7 | 11 | 19
497 | 19927 | 6.5368 | 3 | 4 | 5 | 7 | 11
498 | 14665 | 4.1305 | 2 | 3 | 4 | 5 | 6
499 | 32668 | 4.6299 | 1 | 2 | 3 | 6 | 9
500 | 49512 | 2.4657 | 1 | 1 | 2 | 3 | 5
501 | 2356 | 10.6341 | 4 | 5 | 8 | 13 | 20
502 | 637 | 6.4066 | 2 | 4 | 5 | 8 | 11
503 | 5894 | 3.8884 | 1 | 2 | 3 | 5 | 7
504 | 123 | 34.9756 | 9 | 15 | 27 | 44 | 66
505 | 147 | 3.6667 | 1 | 1 | 1 | 5 | 9
506 | 937 | 17.2604 | 4 | 8 | 14 | 22 | 36
507 | 288 | 8.9549 | 2 | 4 | 7 | 12 | 18
508 | 667 | 8.2219 | 2 | 3 | 6 | 10 | 17
509 | 177 | 5.4350 | 1 | 2 | 4 | 7 | 10
510 | 1671 | 6.6092 | 1 | 3 | 5 | 8 | 13
511 | 616 | 4.3766 | 1 | 1 | 3 | 5 | 9
512 | 450 | 14.2244 | 6 | 8 | 11 | 15 | 24
513 | 142 | 10.7042 | 5 | 7 | 9 | 11 | 20
514 | 19261 | 7.2615 | 1 | 3 | 6 | 9 | 15
515 | 4570 | 5.4897 | 1 | 1 | 3 | 7 | 13
516 | 76256 | 4.7308 | 2 | 2 | 4 | 6 | 9
517 | 191586 | 2.6138 | 1 | 1 | 2 | 3 | 6
518 | 51638 | 3.3905 | 1 | 1 | 2 | 4 | 7
519 | 7220 | 5.1497 | 1 | 2 | 3 | 6 | 12
520 | 11073 | 2.1137 | 1 | 1 | 2 | 2 | 4
521 | 28568 | 5.7752 | 2 | 3 | 4 | 7 | 12
522 | 6141 | 9.4402 | 3 | 4 | 8 | 12 | 20
523 | 14812 | 4.0927 | 1 | 2 | 3 | 5 | 7
524 | 136857 | 3.3964 | 1 | 2 | 3 | 4 | 6
525 | 492 | 15.9309 | 2 | 5 | 9 | 18 | 35
| 11420001

Table 8A.—Statewide Average Operating Cost-To-Charge Ratios for Urban and Rural Hospitals (Case Weighted) March 2002
State | Urban | Rural
ALABAMA | 0.337 | 0.394
ALASKA | 0.407 | 0.675
ARIZONA | 0.349 | 0.478
ARKANSAS | 0.456 | 0.438
CALIFORNIA | 0.335 | 0.419
COLORADO | 0.463 | 0.538
CONNECTICUT | 0.494 | 0.509
DELAWARE | 0.516 | 0.484
DISTRICT OF COLUMBIA | 0.413 |
FLORIDA | 0.349 | 0.365
GEORGIA | 0.446 | 0.456
HAWAII | 0.403 | 0.519
IDAHO | 0.558 | 0.599
ILLINOIS | 0.398 | 0.492
INDIANA | 0.522 | 0.529
IOWA | 0.484 | 0.594
KANSAS | 0.380 | 0.591
KENTUCKY | 0.478 | 0.490
LOUISIANA | 0.390 | 0.482
MAINE | 0.585 | 0.523
MARYLAND | 0.759 | 0.821
MASSACHUSETTS | 0.550 | 0.568
MICHIGAN | 0.460 | 0.562
MINNESOTA | 0.470 | 0.581
MISSISSIPPI | 0.444 | 0.434
MISSOURI | 0.399 | 0.473
MONTANA | 0.504 | 0.544
NEBRASKA | 0.428 | 0.550
NEVADA | 0.284 | 0.473
NEW HAMPSHIRE | 0.524 | 0.579
NEW JERSEY | 0.393 |
NEW MEXICO | 0.471 | 0.516
NEW YORK | 0.500 | 0.595
NORTH CAROLINA | 0.511 | 0.465
NORTH DAKOTA | 0.611 | 0.611
OHIO | 0.492 | 0.568
OKLAHOMA | 0.405 | 0.485
OREGON | 0.545 | 0.579
PENNSYLVANIA | 0.376 | 0.500
PUERTO RICO | 0.467 | 0.561
RHODE ISLAND | 0.486 |
SOUTH CAROLINA | 0.438 | 0.455
SOUTH DAKOTA | 0.498 | 0.546
TENNESSEE | 0.432 | 0.457
TEXAS | 0.380 | 0.484
UTAH | 0.495 | 0.570
VERMONT | 0.572 | 0.595
VIRGINIA | 0.452 | 0.546
WASHINGTON | 0.580 | 0.598
WEST VIRGINIA | 0.563 | 0.534
WISCONSIN | 0.524 | 0.599
WYOMING | 0.524 | 0.707

Table 8B.—Statewide Average Capital Cost-To-Charge Ratios (Case Weighted) March 2002
State | Ratio
ALABAMA | 0.041
ALASKA | 0.053
ARIZONA | 0.038
ARKANSAS | 0.049
CALIFORNIA | 0.033
COLORADO | 0.045
CONNECTICUT | 0.036
DELAWARE | 0.048
DISTRICT OF COLUMBIA | 0.032
FLORIDA | 0.043
GEORGIA | 0.049
HAWAII | 0.038
IDAHO | 0.048
ILLINOIS | 0.039
INDIANA | 0.056
IOWA | 0.049
KANSAS | 0.047
KENTUCKY | 0.046
LOUISIANA | 0.046
MAINE | 0.038
MARYLAND | 0.013
MASSACHUSETTS | 0.050
MICHIGAN | 0.044
MINNESOTA | 0.043
MISSISSIPPI | 0.043
MISSOURI | 0.043
MONTANA | 0.051
NEBRASKA | 0.047
NEVADA | 0.032
NEW HAMPSHIRE | 0.058
NEW JERSEY | 0.035
NEW MEXICO | 0.045
NEW YORK | 0.049
NORTH CAROLINA | 0.047
NORTH DAKOTA | 0.073
OHIO | 0.047
OKLAHOMA | 0.045
OREGON | 0.042
PENNSYLVANIA | 0.037
PUERTO RICO | 0.041
RHODE ISLAND | 0.031
SOUTH CAROLINA | 0.046
SOUTH DAKOTA | 0.050
TENNESSEE | 0.049
TEXAS | 0.043
UTAH | 0.045
VERMONT | 0.049
VIRGINIA | 0.057
WASHINGTON | 0.068
WEST VIRGINIA | 0.044
WISCONSIN | 0.050
WYOMING | 0.062

Table 9.—Hospital Reclassifications and Redesignations by Individual Hospital—FY—2003
Provider number | Actual MSA or rural area | Wage index MSA reclassification | Standardized amount MSA reclassification
010005 | 01 | 3440 | 3440
010008 | 01 | 5240 |
010010 | 01 | 3440 | 3440
010012 | 01 | 2880 |
010022 | 01 | 2880 |
010029 | 0580 | 1800 |
010035 | 01 | 1000 |
010036 | 01 | 2750 |
010043 | 01 | 1000 | 1000
010044 | 01 | 25 |
010072 | 01 | 0450 | 0450
010101 | 01 | 0450 | 0450
010118 | 01 | 5240 |
010120 | 01 | 5160 |
010121 | 01 | 5240 |
010126 | 01 | 2180 |
010150 | 01 | 5240 |
010158 | 01 | 2650 |
020008 | 02 | 0380 |
030007 | 03 | 2620 |
030012 | 03 | 6200 |
030033 | 03 | 2620 |
030043 | 03 | 8520 |
040014 | 04 | 4400 |
040017 | 04 | 7920 |
040019 | 04 | 4920 |
040020 | 3700 | 4920 |
040026 | 04 | 4400 |
040027 | 04 | 7920 |
040041 | 04 | 4400 |
040045 | 04 | 26 |
040066 | 04 | 4400 |
040069 | 04 | 4920 |
040076 | 04 | 4400 |
040078 | 04 | 4400 |
040080 | 04 | 3700 |
040088 | 04 | 7680 |
040091 | 04 | 8360 |
040107 | 04 | 8360 |
040119 | 04 | 4400 |
050042 | 05 | 6690 |
050045 | 05 |  | 7320
050069 | 5945 | 4480 |
050071 | 7400 | 5775 |
050073 | 8720 | 5775 |
050076 | 7360 | 5775 |
050101 | 8720 | 5775 |
050150 | 05 | 6920 |
050174 | 7500 | 8720 |
050192 | 2840 | 05 |
050228 | 7360 | 5775 |
050230 | 5945 | 4480 |
050236 | 8735 | 4480 |
050286 | 8780 | 05 |
050296 | 05 | 7120 |
050301 | 05 | 7500 |
050325 | 05 | 5170 |
050335 | 05 | 5170 |
050419 | 05 | 6690 |
050446 | 0680 | 05 |
050457 | 7360 | 5775 |
050464 | 5170 | 8120 |
050469 | 6780 | 05 |
050494 | 05 | 6920 |
050510 | 7360 | 5775 |
050528 | 4940 | 05 |
050541 | 7360 | 5775 |
050549 | 8735 | 4480 |
050569 | 05 | 7500 |
050594 | 5945 | 4480 |
050609 | 5945 | 4480 |
050686 | 6780 | 5945 |
050701 | 6780 | 7320 |
060003 | 1125 | 2080 | 2080
060013 | 06 | 0200 |
060018 | 06 | 2995 |
060023 | 2995 | 6520 |
060027 | 1125 | 2080 | 2080
060044 | 06 | 2080 |
060049 | 06 | 2670 |
060075 | 06 | 2995 |
060076 | 06 | 3060 |
060096 | 06 | 2080 |
060103 | 1125 | 2080 | 2080
070006 | 5483 | 5600 |
070018 | 5483 | 5600 |
070033 | 5483 | 5600 |
070034 | 5483 | 5600 |
070036 | 3283 | 5483 |
080002 | 08 |  | 0720
080004 | 2190 | 9160 |
080006 | 08 | 2190 |
080007 | 08 | 2190 |
100022 | 5000 | 2680 |
100023 | 10 | 5960 |
100024 | 10 | 5000 |
100045 | 2020 | 5960 |
100048 | 6080 | 10 |
100049 | 10 | 3980 |
100098 | 10 | 8960 | 8960
100103 | 10 | 3600 | 3600
100105 | 10 | 2710 |
100109 | 10 | 5960 |
100118 | 2020 | 10 |
100150 | 10 | 5000 |
100157 | 3980 | 8280 |
100176 | 8960 | 2710 |
100211 | 8280 | 3980 |
100217 | 10 | 2710 |
100232 | 10 | 5790 | 2900
100239 | 8280 | 7510 |
100249 | 10 | 8280 |
100268 | 8960 | 2680 |
110001 | 11 | 0520 |
110002 | 11 | 0520 |
110003 | 11 | 3600 |
110016 | 11 | 1800 |
110023 | 11 | 0520 |
110025 | 11 | 3600 |
110029 | 11 | 0520 |
110038 | 11 | 10 |
110040 | 11 | 0500 | 0500
110050 | 11 | 0520 |
110054 | 11 | 0520 |
110075 | 11 | 7520 |
110100 | 11 | 0600 |
110118 | 11 | 0120 |
110122 | 11 | 10 |
110150 | 11 | 4680 |
110168 | 11 | 0520 |
110187 | 11 | 0520 |
110188 | 11 | 0520 |
110189 | 11 | 0520 |
110190 | 11 | 4680 |
110205 | 11 | 0520 |
120015 | 12 | 3320 |
130002 | 13 | 29 |
130003 | 13 | 50 |
130011 | 13 | 50 |
130018 | 13 | 6340 |
130049 | 13 | 7840 |
130060 | 13 | 1080 |
140012 | 14 | 1600 |
140015 | 14 | 7040 |
140031 | 14 | 1400 |
140032 | 14 | 7040 |
140034 | 14 | 7040 |
140040 | 14 | 6120 |
140043 | 14 | 6880 |
140046 | 14 | 7040 |
140058 | 14 | 7880 |
140064 | 14 | 6120 |
140086 | 14 |  | 7040
140093 | 14 | 1400 |
140102 | 14 | 7880 | 7880
140110 | 14 | 6120 |
140141 | 14 | 7040 | 7040
140143 | 14 | 6120 |
140155 | 3740 |  | 1600
140160 | 14 | 6880 |
140161 | 14 | 1600 |
140164 | 14 | 7040 |
140189 | 14 | 1400 |
140199 | 14 | 7040 |
140230 | 14 |  | 1400
140234 | 14 | 6120 |
140245 | 14 |  | 7040
140271 | 14 | 7800 | 7800
150002 | 2960 | 1600 |
150004 | 2960 | 1600 |
150006 | 15 | 7800 |
150008 | 2960 | 1600 |
150011 | 15 | 3480 | 3480
150015 | 15 | 1600 |
150027 | 15 |  | 3480
150030 | 15 | 3480 | 3480
150034 | 2960 | 1600 |
150036 | 15 | 3850 |
150048 | 15 | 2000 |
150051 | 1020 |  | 3480
150062 | 15 | 3480 | 3480
150065 | 15 | 3480 |
150067 | 15 |  | 3480
150069 | 15 | 1640 | 1640
150076 | 15 | 7800 |
150090 | 2960 | 1600 |
150096 | 15 | 2330 |
150105 | 15 | 3480 | 3480
150112 | 15 | 3480 | 3480
150122 | 15 | 3480 |
150125 | 2960 | 1600 | 1600
150126 | 2960 | 1600 | 1600
150132 | 2960 | 1600 |
150133 | 15 | 2330 |
150146 | 15 | 2330 |
160001 | 16 | 2120 |
160016 | 16 | 2120 |
160026 | 16 | 2120 |
160030 | 16 | 2120 |
160037 | 16 | 24 |
160057 | 16 | 3500 |
160064 | 16 | 8920 |
160080 | 16 | 1960 |
160089 | 16 | 2120 |
160094 | 16 | 8920 |
160122 | 16 | 14 |
160147 | 16 | 2120 |
170001 | 17 | 9040 |
170006 | 17 | 3710 |
170010 | 17 | 8560 |
170012 | 17 | 9040 |
170013 | 17 | 9040 |
170014 | 17 | 3760 |
170020 | 17 | 9040 |
170022 | 17 | 7000 |
170023 | 17 | 9040 |
170025 | 17 | 9040 |
170033 | 17 | 9040 |
170058 | 17 | 26 |
170060 | 17 | 28 |
170094 | 17 | 8440 |
170120 | 17 | 3710 |
170131 | 17 |  | 8440
170137 | 4150 | 17 |
170142 | 17 | 8440 |
170145 | 17 | 8560 |
170166 | 17 | 0320 |
170175 | 17 | 9040 |
180005 | 18 | 3400 |
180011 | 18 | 4280 |
180012 | 18 | 4520 |
180013 | 18 | 5360 |
180016 | 18 | 4520 |
180018 | 18 | 4280 |
180027 | 18 | 1660 |
180028 | 18 | 3400 |
180029 | 18 | 3660 |
180044 | 18 | 3400 |
180048 | 18 | 4280 |
180054 | 18 | 1660 |
180065 | 18 | 1640 |
180066 | 18 | 5360 |
180069 | 18 | 3400 |
180078 | 18 | 3400 |
180102 | 18 | 1660 |
180104 | 18 | 1660 |
180116 | 18 | 1660 |
180124 | 18 | 5360 |
180127 | 18 | 4520 |
180132 | 18 | 4280 |
180139 | 18 | 4280 |
190001 | 19 | 5560 | 5560
190003 | 19 | 3880 |
190010 | 19 | 5560 | 5560
190014 | 19 | 3880 |
190015 | 19 | 5560 |
190018 | 19 | 3880 |
190025 | 19 | 3880 |
190048 | 3350 | 19 |
190054 | 19 | 3880 |
190083 | 19 | 5200 |
190086 | 19 | 5200 |
190099 | 19 | 3880 |
190106 | 19 | 3880 |
190110 | 3880 | 19 |
190131 | 19 | 5560 |
190218 | 19 | 0220 |
200020 | 6403 | 1123 | 1123
200024 | 4243 | 6403 |
200034 | 4243 | 6403 |
200039 | 20 | 6403 |
200040 | 6403 |  | 1123
200063 | 20 | 6403 |
220060 | 1123 | 0743 |
220077 | 8003 | 3283 |
230015 | 23 | 3720 |
230022 | 23 | 3720 |
230027 | 23 | 3000 | 3000
230030 | 23 | 6960 |
230036 | 23 | 6960 |
230037 | 23 | 0440 |
230040 | 23 | 3720 | 3720
230054 | 23 | 3080 |
230078 | 0870 | 23 |
230080 | 23 | 6960 |
230093 | 23 | 3000 |
230096 | 23 | 3720 |
230097 | 23 | 3000 |
230105 | 23 | 6960 |
230106 | 23 | 3000 |
230121 | 23 | 2640 | 2640
230188 | 23 | 6960 | 6960
230199 | 23 | 0870 | 0870
230235 | 23 | 6960 | 6960
230253 | 23 | 2160 |
240008 | 24 | 6820 |
240011 | 24 | 5120 |
240014 | 24 | 5120 |
240016 | 24 | 2520 |
240018 | 24 |  | 5120
240023 | 24 | 5120 |
240045 | 24 | 2240 |
240064 | 24 | 2240 |
240075 | 24 | 6980 |
240088 | 24 | 6980 |
240089 | 24 | 5120 |
240100 | 24 | 2985 |
240121 | 24 | 2240 |
240139 | 24 | 5120 |
240142 | 24 | 6980 |
240152 | 24 | 5120 |
250004 | 25 | 4920 |
250009 | 25 | 3580 |
250012 | 25 | 4920 |
250025 | 25 | 1 |
250030 | 25 | 3560 |
250031 | 25 | 3560 |
250034 | 25 | 4920 |
250042 | 25 | 4920 |
250058 | 25 | 3285 |
250069 | 25 | 3560 |
250078 | 3285 | 0920 |
250079 | 25 | 3560 |
250081 | 25 | 3560 |
250082 | 25 | 6240 |
250084 | 25 | 19 |
250088 | 25 | 0760 |
250094 | 3285 | 0920 |
250097 | 25 | 0760 |
250100 | 25 | 8600 |
250101 | 25 | 3560 |
250104 | 25 | 3560 |
250122 | 25 | 19 |
250126 | 25 | 4920 |
260006 | 7000 | 26 |
260009 | 26 | 3760 |
260011 | 26 | 1740 |
260015 | 26 | 3700 |
260017 | 26 | 7040 |
260022 | 26 | 1740 |
260025 | 26 | 14 |
260034 | 26 | 3760 |
260047 | 26 | 1740 |
260050 | 26 | 7000 |
260064 | 26 | 1740 |
260074 | 26 | 1740 |
260078 | 26 | 7920 |
260094 | 26 | 7920 |
260110 | 26 | 7040 | 7040
260113 | 26 | 14 |
260116 | 26 | 7040 |
260119 | 26 | 3700 |
260120 | 26 | 3700 |
260127 | 26 | 7040 |
260131 | 26 | 1740 |
260183 | 26 | 7040 |
260186 | 26 | 1740 |
270002 | 27 | 0880 |
270003 | 27 | 3040 |
270011 | 27 | 3040 |
270016 | 27 | 0880 |
270017 | 27 | 5140 |
270051 | 27 | 5140 |
270057 | 27 | 0880 |
270083 | 27 | 5140 |
280009 | 28 | 4360 |
280023 | 28 | 4360 |
280032 | 28 | 4360 |
280054 | 28 | 4360 |
280061 | 28 | 53 |
280065 | 28 | 3060 |
280077 | 28 | 5920 |
280111 | 28 | 5920 |
280125 | 28 | 7720 |
290006 | 29 | 6720 |
290019 | 29 | 6720 |
300003 | 30 | 1123 |
300005 | 30 | 1123 | 1123
300009 | 1123 | 30 |
300019 | 30 | 22 |
300024 | 30 |  | 1123
310001 | 0875 | 5600 |
310002 | 5640 | 5600 |
310003 | 3640 | 5600 |
310015 | 5640 | 0875 |
310021 | 8480 | 5190 |
310031 | 6160 | 5190 |
310038 | 5015 | 5600 |
310039 | 5015 | 5190 |
310045 | 0875 | 5600 |
310048 | 5015 | 5640 |
310049 | 3640 |  | 5640
310070 | 5015 | 5640 |
310076 | 5640 | 5600 |
310087 | 8760 | 6160 |
310108 | 5015 | 5190 |
310118 | 3640 |  | 0875
310119 | 5640 | 5600 |
320005 | 32 | 0200 |
320006 | 32 | 7490 |
320011 | 32 | 7490 |
320013 | 32 | 7490 |
320063 | 32 | 5800 |
320065 | 32 | 5800 |
330001 | 5660 | 5600 |
330004 | 33 | 5660 |
330023 | 2281 | 5660 |
330027 | 5380 | 5600 |
330084 | 33 | 1303 |
330085 | 33 | 8160 |
330103 | 33 |  | 1280
330106 | 5380 | 5600 |
330126 | 5660 | 5600 |
330135 | 5660 | 5600 |
330136 | 33 | 8160 |
330157 | 33 | 8160 |
330181 | 5380 | 5600 |
330182 | 5380 | 5600 |
330205 | 5660 | 5600 |
330209 | 5660 | 5600 |
330224 | 33 | 3283 |
330235 | 8160 |  | 6840
330239 | 3610 | 2360 |
330250 | 33 | 1303 |
330264 | 5660 | 5600 |
330307 | 33 | 8160 |
330386 | 33 | 5660 |
340003 | 34 | 3120 |
340008 | 34 | 2560 |
340013 | 34 | 1520 |
340017 | 34 | 0480 |
340021 | 34 | 1520 |
340023 | 34 | 0480 |
340027 | 34 | 3150 |
340039 | 34 | 1520 | 1520
340050 | 34 | 2560 |
340051 | 34 | 3290 |
340052 | 3120 | 1520 |
340064 | 34 | 3120 |
340068 | 34 | 9200 |
340071 | 34 | 6640 | 6640
340084 | 34 | 1520 |
340088 | 34 | 0480 |
340097 | 34 | 3120 |
340109 | 34 | 5720 | 5720
340115 | 34 | 6640 |
340124 | 34 | 6640 | 6640
340126 | 34 | 6640 | 6640
340129 | 34 | 1520 |
340131 | 34 | 3150 |
340143 | 3290 | 1520 |
340144 | 34 | 1520 |
340147 | 6895 | 6640 |
350005 | 35 | 2985 |
350006 | 35 | 1010 |
350009 | 35 | 2520 |
350017 | 35 | 27 |
350043 | 35 | 1010 |
360002 | 36 |  | 1680
360008 | 36 | 3400 |
360010 | 36 | 0080 |
360011 | 36 | 1840 |
360013 | 36 | 2000 |
360014 | 36 | 1840 |
360024 | 36 | 1680 | 1680
360025 | 36 | 1680 | 1680
360036 | 36 | 0080 |
360037 | 1680 | 0080 |
360039 | 36 | 1840 |
360046 | 3200 | 1640 | 1640
360056 | 3200 | 1640 | 1640
360063 | 36 | 1680 | 1680
360065 | 36 | 1680 | 1680
360071 | 36 | 4320 | 4320
360076 | 3200 | 1640 | 1640
360078 | 0080 |  | 1680
360084 | 1320 | 0080 |
360088 | 36 | 1840 |
360089 | 36 | 8400 |
360090 | 8400 |  | 2160
360092 | 36 | 1840 | 1840
360095 | 36 | 8400 |
360101 | 1680 | 0080 |
360107 | 36 | 8400 |
360108 | 36 | 4800 |
360109 | 36 | 1840 |
360112 | 8400 | 0440 |
360121 | 36 | 0440 |
360132 | 3200 | 1640 | 1640
360142 | 36 |  | 1640
360144 | 1680 | 0080 |
360159 | 36 | 1840 |
360175 | 36 | 1840 | 1640
360197 | 36 | 1840 | 1840
360211 | 8080 |  | 6280
370004 | 37 | 3710 |
370006 | 37 | 8560 |
370014 | 37 | 7640 |
370015 | 37 | 8560 |
370018 | 37 | 8560 |
370022 | 37 | 4200 |
370023 | 37 | 4200 |
370025 | 37 | 8560 |
370034 | 37 | 2720 |
370047 | 37 | 7640 |
370048 | 37 | 8360 |
370049 | 37 | 5880 |
370054 | 37 | 5880 |
370084 | 37 | 2720 |
370103 | 37 | 45 |
370153 | 37 | 4200 |
370200 | 37 | 5880 |
380001 | 38 | 6440 |
380002 | 38 | 4890 |
380003 | 38 | 2400 |
380006 | 38 |  | 6440
380027 | 38 | 2400 |
380040 | 38 | 2400 |
380047 | 38 | 2400 |
380050 | 38 | 4890 |
380051 | 7080 |  | 6440
380065 | 38 | 2400 |
380070 | 38 | 6440 |
380084 | 7080 | 38 |
380090 | 38 | 2400 |
390006 | 39 | 3240 |
390008 | 39 | 6280 | 6280
390013 | 39 | 3240 |
390016 | 39 | 6280 | 6280
390017 | 39 | 6280 | 6280
390030 | 39 | 0240 | 6680
390031 | 39 | 0240 | 6680
390048 | 39 | 3240 |
390052 | 39 | 0280 |
390065 | 39 | 8840 | 9280
390079 | 39 | 0960 |
390091 | 39 | 6280 |
390093 | 39 | 6280 |
390110 | 3680 | 6280 |
390113 | 39 | 9320 |
390133 | 0240 | 6160 |
390138 | 39 | 8840 |
390150 | 39 | 6280 |
390151 | 39 | 8840 |
390181 | 39 | 6680 | 6680
390183 | 39 | 6680 | 6680
390189 | 39 | 3240 |
390197 | 0240 | 6160 |
390201 | 39 | 5660 | 5640
390263 | 0240 | 6160 |
400018 | 40 | 1310 |
410010 | 6483 | 1123 |
410013 | 6483 | 5523 |
420020 | 42 | 1440 |
420036 | 42 | 1520 |
420059 | 42 | 2655 |
420062 | 42 | 1520 |
420068 | 42 | 0600 |
420070 | 8140 | 1760 |
420071 | 42 | 0600 |
420080 | 42 | 7520 |
420085 | 5330 | 9200 |
430008 | 43 | 24 |
430012 | 43 | 7760 |
430013 | 43 | 7760 |
430014 | 43 | 2520 |
430015 | 43 | 6660 |
430047 | 43 | 28 |
430048 | 43 | 53 |
430089 | 43 | 7720 |
440020 | 44 | 3440 |
440024 | 44 | 1560 |
440050 | 44 | 0480 |
440058 | 44 | 1560 |
440059 | 44 | 5360 |
440067 | 44 | 3840 |
440068 | 44 | 1560 |
440073 | 44 | 5360 |
440083 | 44 | 3840 |
440143 | 44 | 5360 |
440148 | 44 | 5360 |
440175 | 44 | 3440 |
440180 | 44 | 3840 |
440182 | 44 | 3580 |
440185 | 44 | 1560 |
440186 | 44 | 5360 |
440187 | 44 | 18 |
440192 | 44 | 5360 |
440200 | 44 | 5360 |
440203 | 44 | 1560 |
450007 | 45 | 7240 |
450014 | 45 | 8750 |
450053 | 45 | 8750 |
450072 | 1145 | 3360 |
450080 | 45 | 4420 |
450085 | 45 | 9080 |
450098 | 45 | 4420 |
450099 | 45 | 0320 |
450113 | 45 | 1920 |
450140 | 45 | 5800 |
450144 | 45 | 5800 |
450146 | 45 | 0320 |
450155 | 45 | 0320 |
450163 | 45 | 1880 |
450178 | 45 | 5800 |
450187 | 45 | 3360 |
450192 | 45 | 1920 |
450194 | 45 | 1920 |
450196 | 45 |  | 1920
450211 | 45 | 3360 |
450214 | 45 | 3360 |
450224 | 45 | 8640 |
450246 | 45 | 8750 |
450347 | 45 | 3360 |
450351 | 45 | 2800 |
450353 | 45 | 1880 |
450373 | 45 | 4420 |
450395 | 45 | 3360 |
450400 | 45 | 8800 |
450438 | 45 | 0640 |
450447 | 45 | 1920 |
450451 | 45 | 2800 |
450484 | 45 | 3360 |
450508 | 45 | 8640 |
450534 | 45 | 0320 |
450587 | 45 | 40 |
450591 | 1145 | 3360 |
450623 | 45 | 1920 |
450626 | 45 | 8750 |
450653 | 45 | 5800 |
450656 | 45 | 8640 |
450694 | 45 | 3360 |
450747 | 45 | 1920 |
450755 | 45 | 4600 |
450763 | 45 | 320 |
460007 | 46 | 2620 |
460011 | 46 | 6520 |
460021 | 46 | 4120 |
460027 | 46 | 6520 |
460032 | 46 | 6520 |
460036 | 46 | 6520 |
460039 | 46 | 7160 |
470001 | 47 | 1303 |
470003 | 1303 | 1123 |
470011 | 47 | 1123 | 1123
470012 | 47 | 6323 |
470018 | 47 | 1123 |
490001 | 49 | 3660 |
490004 | 49 | 1540 |
490005 | 49 | 8840 |
490013 | 49 | 1950 |
490018 | 49 | 4640 |
490038 | 49 | 3660 |
490047 | 49 | 8840 |
490060 | 49 | 3660 |
490066 | 5720 | 6760 |
490079 | 49 | 3120 |
490126 | 49 | 6800 |
500002 | 50 | 6740 |
500003 | 50 | 7600 |
500007 | 50 | 0860 |
500016 | 50 | 7600 |
500041 | 50 | 6440 |
500059 | 50 | 7600 |
500072 | 50 | 7600 |
500079 | 8200 |  | 7600
510001 | 51 | 6280 |
510002 | 51 | 6800 |
510006 | 51 | 6280 |
510024 | 51 | 6280 | 6280
510028 | 51 | 1480 |
510046 | 51 | 1480 |
510047 | 51 | 6280 |
510048 | 51 | 3400 |
510062 | 51 | 1480 |
510070 | 51 | 1480 |
510071 | 51 | 1480 |
520002 | 52 | 8940 |
520006 | 52 | 8940 |
520011 | 52 | 2290 |
520021 | 3800 | 1600 | 1600
520028 | 52 | 4720 |
520037 | 52 | 8940 |
520059 | 6600 | 5080 | 5080
520066 | 3620 | 4720 |
520071 | 52 | 5080 | 5080
520076 | 52 | 5080 |
520084 | 52 | 4720 |
520088 | 52 | 5080 |
520091 | 52 | 23 |
520094 | 6600 | 5080 | 5080
520096 | 6600 | 5080 | 5080
520102 | 52 | 5080 | 5080
520107 | 52 | 3080 |
520113 | 52 | 3080 |
520116 | 52 | 5080 | 5080
520152 | 52 | 3080 |
520173 | 52 | 2240 |
520189 | 3800 | 1600 | 1600
530008 | 53 | 1350 |
530009 | 53 | 1350 |
530015 | 53 | 6340 |
530025 | 53 | 2670 |
530032 | 53 | 7160 |

Table 10.—Means and Standard Deviations, by Diagnosis Related Groups (DRGs) ¹
DRG | Cases | Mean + 1 standard deviation
1 | 27,704 | $66,748
2 | 14,078 | $34,337
3 | 7 | $55,030
4 | 6,426 | $41,870
5 | 93,104 | $23,280
6 | 398 | $14,095
7 | 14,187 | $46,968
8 | 4,349 | $28,253
9 | 1,737 | $24,223
10 | 18,015 | $22,246
11 | 3,398 | $15,519
12 | 49,619 | $15,429
13 | 6,637 | $13,922
14 | 235,975 | $21,928
15 | 101,681 | $16,969
16 | 9,257 | $21,632
17 | 2,870 | $11,541
18 | 28,000 | $17,036
19 | 8,672 | $12,308
20 | 5,616 | $51,920
21 | 1,429 | $27,335
22 | 2,722 | $18,422
23 | 11,189 | $14,276
24 | 55,342 | $17,340
25 | 27,205 | $10,640
26 | 34 | $13,463
27 | 3,839 | $23,063
28 | 12,339 | $23,674
29 | 4,928 | $12,505
31 | 3,814 | $15,329
32 | 1,891 | $9,174
34 | 22,336 | $17,368
35 | 7,323 | $11,138
36 | 2,481 | $10,985
37 | 1,418 | $18,071
38 | 93 | $9,775
39 | 666 | $10,551
40 | 1,524 | $14,863
42 | 1,936 | $11,289
43 | 110 | $8,855
44 | 1,295 | $11,245
45 | 2,598 | $12,352
46 | 3,373 | $13,685
47 | 1,350 | $9,302
49 | 2,337 | $31,134
50 | 2,477 | $13,972
51 | 251 | $16,197
52 | 238 | $13,055
53 | 2,517 | $20,530
55 | 1,564 | $16,073
56 | 526 | $16,460
57 | 692 | $17,299
59 | 127 | $13,165
60 | 6 | $10,986
61 | 243 | $21,950
62 | 3 | $6,623
63 | 2,900 | $25,070
64 | 3,131 | $23,886
65 | 39,014 | $9,512
66 | 7,668 | $9,851
67 | 439 | $13,316
68 | 8,752 | $11,567
69 | 3,034 | $8,666
70 | 25 | $8,029
71 | 87 | $12,279
72 | 926 | $12,429
73 | 7,070 | $13,912
75 | 39,852 | $53,451
76 | 41,676 | $50,324
77 | 2,444 | $21,281
78 | 35,270 | $22,207
79 | 166,273 | $29,036
80 | 8,304 | $15,356
81 | 2 | $17,479
82 | 63,407 | $25,645
83 | 6,390 | $16,990
84 | 1,558 | $8,753
85 | 21,262 | $21,607
86 | 2,179 | $12,312
87 | 59,447 | $24,541
88 | 396,490 | $15,658
89 | 502,217 | $18,132
90 | 46,781 | $10,653
91 | 57 | $12,409
92 | 14,806 | $21,600
93 | 1,710 | $13,018
94 | 12,571 | $20,639
95 | 1,679 | $10,242
96 | 53,684 | $13,018
97 | 28,583 | $9,626
98 | 15 | $16,431
99 | 21,274 | $12,269
100 | 8,941 | $9,245
101 | 21,119 | $14,939
102 | 5,557 | $9,489
103 | 428 | $349,756
104 | 19,511 | $130,539
105 | 27,278 | $94,418
106 | 3,307 | $121,657
107 | 85,660 | $86,239
108 | 6,200 | $95,309
109 | 59,511 | $64,065
110 | 53,164 | $71,438
111 | 9,392 | $42,529
113 | 41,401 | $49,111
114 | 8,849 | $29,028
115 | 15,270 | $58,727
116 | 109,194 | $38,515
117 | 4,176 | $23,091
118 | 8,104 | $27,103
119 | 1,316 | $22,646
120 | 37,306 | $39,416
121 | 167,277 | $27,051
122 | 81,670 | $17,860
123 | 41,145 | $28,071
124 | 138,236 | $23,982
125 | 89,996 | $18,048
126 | 5,015 | $48,094
127 | 681,606 | $17,412
128 | 8,240 | $12,365
129 | 4,100 | $19,186
130 | 88,663 | $16,401
131 | 27,776 | $9,821
132 | 152,256 | $11,138
133 | 8,915 | $9,314
134 | 39,612 | $10,344
135 | 7,552 | $15,416
136 | 1,237 | $10,011
138 | 203,304 | $14,336
139 | 89,960 | $8,832
140 | 66,409 | $9,140
141 | 102,377 | $12,604
142 | 51,706 | $9,672
143 | 250,001 | $9,216
144 | 88,480 | $21,330
145 | 7,594 | $10,378
146 | 10,796 | $45,993
147 | 2,797 | $25,903
148 | 129,351 | $59,354
149 | 19,315 | $24,710
150 | 20,330 | $49,351
151 | 4,962 | $22,681
152 | 4,424 | $33,239
153 | 2,013 | $19,418
154 | 28,996 | $73,715
155 | 7,260 | $21,846
156 | 3 | $32,596
157 | 8,151 | $22,041
158 | 4,560 | $10,941
159 | 17,109 | $23,315
160 | 12,156 | $13,554
161 | 11,153 | $19,125
162 | 7,270 | $10,677
163 | 3 | $7,876
164 | 5,116 | $39,084
165 | 2,184 | $20,580
166 | 3,902 | $24,579
167 | 3,799 | $14,801
168 | 1,381 | $22,419
169 | 869 | $12,657
170 | 12,155 | $49,736
171 | 1,359 | $19,892
172 | 30,603 | $24,475
173 | 2,709 | $13,824
174 | 247,084 | $17,229
175 | 35,141 | $9,564
176 | 15,215 | $18,581
177 | 9,422 | $15,760
178 | 3,756 | $11,718
179 | 12,540 | $18,881
180 | 88,253 | $16,534
181 | 27,085 | $9,241
182 | 260,632 | $13,956
183 | 91,215 | $9,962
184 | 93 | $8,646
185 | 5,069 | $15,675
186 | 3 | $17,560
187 | 666 | $14,847
188 | 79,377 | $19,332
189 | 13,104 | $10,335
190 | 74 | $12,681
191 | 9,220 | $77,337
192 | 1,257 | $30,601
193 | 4,862 | $59,463
194 | 733 | $27,612
195 | 4,151 | $50,509
196 | 1,050 | $26,194
197 | 18,557 | $42,811
198 | 5,667 | $20,952
199 | 1,644 | $42,977
200 | 1,042 | $53,497
201 | 2,013 | $67,182
202 | 26,142 | $23,012
203 | 29,301 | $24,716
204 | 61,516 | $20,412
205 | 24,447 | $21,124
206 | 2,048 | $12,455
207 | 32,101 | $19,874
208 | 10,740 | $11,426
209 | 370,349 | $31,852
210 | 121,438 | $29,326
211 | 32,517 | $19,885
212 | 7 | $11,988
213 | 9,875 | $32,709
216 | 6,916 | $38,905
217 | 17,022 | $53,503
218 | 22,732 | $25,771
219 | 20,855 | $16,751
223 | 13,650 | $17,145
224 | 12,431 | $12,855
225 | 6,124 | $19,539
226 | 5,698 | $26,964
227 | 4,915 | $13,522
228 | 2,481 | $19,438
229 | 1,175 | $11,756
230 | 2,406 | $21,932
231 | 12,530 | $24,031
232 | 880 | $16,464
233 | 7,178 | $34,665
234 | 4,607 | $21,908
235 | 5,089 | $13,039
236 | 39,744 | $12,220
237 | 1,743 | $9,880
238 | 8,617 | $24,817
239 | 48,197 | $17,565
240 | 11,800 | $23,191
241 | 3,218 | $11,428
242 | 2,515 | $19,784
243 | 93,611 | $12,959
244 | 13,570 | $12,429
245 | 5,726 | $8,349
246 | 1,346 | $9,926
247 | 19,616 | $10,001
248 | 12,060 | $14,559
249 | 12,649 | $11,805
250 | 3,793 | $11,824
251 | 2,489 | $8,063
253 | 20,842 | $12,750
254 | 10,802 | $7,656
256 | 6,400 | $14,186
257 | 16,692 | $14,784
258 | 16,950 | $11,403
259 | 3,812 | $15,230
260 | 5,072 | $11,046
261 | 1,888 | $16,770
262 | 686 | $15,951
263 | 24,560 | $37,753
264 | 3,982 | $19,495
265 | 4,052 | $27,077
266 | 2,676 | $14,584
267 | 267 | $15,879
268 | 899 | $19,361
269 | 9,060 | $29,801
270 | 2,746 | $12,961
271 | 19,594 | $18,154
272 | 5,470 | $17,426
273 | 1,387 | $10,047
274 | 2,343 | $22,054
275 | 247 | $10,261
276 | 1,326 | $11,997
277 | 93,843 | $14,927
278 | 31,720 | $9,470
279 | 3 | $19,964
280 | 17,038 | $12,041
281 | 7,827 | $8,003
283 | 5,635 | $12,585
284 | 1,950 | $7,589
285 | 6,568 | $35,890
286 | 2,183 | $35,565
287 | 6,457 | $32,850
288 | 3,675 | $36,854
289 | 6,414 | $16,097
290 | 9,482 | $14,860
291 | 78 | $10,570
292 | 5,422 | $44,164
293 | 345 | $24,530
294 | 95,355 | $13,252
295 | 3,358 | $13,707
296 | 250,808 | $14,775
297 | 47,716 | $8,713
298 | 103 | $10,114
299 | 1,218 | $16,149
300 | 17,532 | $19,436
301 | 3,639 | $11,261
302 | 7,896 | $54,753
303 | 20,698 | $41,205
304 | 12,041 | $40,662
305 | 3,006 | $20,536
306 | 7,210 | $21,938
307 | 2,164 | $10,268
308 | 7,244 | $28,300
309 | 4,331 | $15,304
310 | 24,587 | $19,325
311 | 8,309 | $10,483
312 | 1,547 | $18,439
313 | 644 | $11,749
315 | 33,708 | $36,795
316 | 115,275 | $23,727
317 | 1,889 | $12,419
318 | 5,736 | $21,305
319 | 494 | $11,322
320 | 193,134 | $14,735
321 | 30,723 | $9,566
322 | 64 | $8,657
323 | 18,621 | $14,311
324 | 7,451 | $8,122
325 | 8,937 | $11,466
326 | 2,802 | $7,872
327 | 2 | $10,679
328 | 685 | $13,051
329 | 105 | $8,650
331 | 49,123 | $18,734
332 | 5,117 | $10,727
333 | 311 | $13,719
334 | 10,262 | $24,961
335 | 12,370 | $18,084
336 | 36,313 | $14,365
337 | 29,498 | $9,686
338 | 1,055 | $21,430
339 | 1,505 | $18,435
341 | 3,670 | $21,442
342 | 723 | $13,001
344 | 3,838 | $22,438
345 | 1,335 | $19,558
346 | 4,559 | $18,995
347 | 373 | $10,844
348 | 3,280 | $12,862
349 | 597 | $7,194
350 | 6,493 | $12,462
352 | 768 | $12,805
353 | 2,655 | $31,864
354 | 7,485 | $25,534
355 | 5,670 | $14,447
356 | 25,920 | $12,488
357 | 5,710 | $39,602
358 | 20,605 | $20,138
359 | 31,042 | $13,346
360 | 15,575 | $14,638
361 | 369 | $18,778
362 | 2 | $9,180
363 | 2,683 | $15,573
364 | 1,629 | $14,738
365 | 1,834 | $34,245
366 | 4,432 | $23,297
367 | 520 | $10,108
368 | 3,285 | $21,162
369 | 3,279 | $10,693
370 | 1,242 | $16,029
371 | 1,413 | $10,589
372 | 919 | $9,639
373 | 3,876 | $6,330
374 | 116 | $12,936
375 | 8 | $21,289
376 | 262 | $8,664
377 | 29 | $24,590
378 | 169 | $15,095
379 | 408 | $6,916
380 | 76 | $6,684
381 | 181 | $10,112
382 | 25 | $2,798
383 | 1,841 | $9,336
384 | 149 | $7,372
389 | 5 | $11,692
392 | 2,246 | $55,515
394 | 2,326 | $31,257
395 | 100,607 | $14,330
396 | 11 | $12,749
397 | 17,906 | $21,719
398 | 17,113 | $22,322
399 | 1,788 | $12,303
400 | 6,486 | $47,400
401 | 5,836 | $50,173
402 | 1,599 | $19,649
403 | 31,999 | $32,078
404 | 4,588 | $15,824
406 | 2,494 | $48,934
407 | 701 | $21,576
408 | 2,122 | $36,343
409 | 2,515 | $21,666
410 | 30,760 | $18,311
411 | 14 | $7,688
412 | 18 | $4,980
413 | 5,766 | $24,842
414 | 763 | $12,866
415 | 39,905 | $66,206
416 | 181,072 | $28,177
417 | 37 | $21,802
418 | 23,398 | $18,311
419 | 15,719 | $15,131
420 | 2,957 | $10,195
421 | 9,270 | $11,869
422 | 69 | $7,590
423 | 7,269 | $31,897
424 | 1,292 | $41,189
425 | 16,304 | $11,890
426 | 4,481 | $9,206
427 | 1,576 | $9,291
428 | 744 | $12,949
429 | 27,018 | $14,174
430 | 63,051 | $12,703
431 | 320 | $10,737
432 | 411 | $11,105
433 | 5,520 | $4,883
439 | 1,457 | $29,345
440 | 5,435 | $32,696
441 | 612 | $15,577
442 | 16,693 | $42,597
443 | 3,807 | $17,673
444 | 5,675 | $13,003
445 | 2,724 | $8,465
447 | 6,278 | $8,499
449 | 30,470 | $14,241
450 | 7,366 | $7,229
451 | 5 | $4,039
452 | 25,215 | $18,340
453 | 5,643 | $9,105
454 | 4,623 | $14,423
455 | 1,096 | $8,019
461 | 4,563 | $21,124
462 | 11,981 | $19,956
463 | 25,204 | $12,097
464 | 7,101 | $8,636
465 | 224 | $10,305
466 | 1,795 | $11,397
467 | 1,043 | $9,854
468 | 54,705 | $66,153
470 | 49 | $302,446
471 | 12,391 | $47,581
473 | 8,235 | $63,556
475 | 104,025 | $67,384
476 | 3,812 | $40,882
477 | 25,600 | $32,847
478 | 108,611 | $42,010
479 | 24,176 | $24,354
480 | 622 | $176,423
481 | 726 | $123,849
482 | 5,299 | $61,539
483 | 43,282 | $288,420
484 | 317 | $100,224
485 | 3,028 | $50,619
486 | 1,867 | $85,814
487 | 3,533 | $35,194
488 | 776 | $88,052
489 | 13,548 | $32,178
490 | 5,247 | $18,195
491 | 13,575 | $26,985
492 | 2,874 | $74,770
493 | 58,081 | $30,868
494 | 30,883 | $16,784
495 | 211 | $155,662
496 | 1,841 | $98,777
497 | 19,917 | $57,641
498 | 14,635 | $41,713
499 | 32,659 | $24,252
500 | 49,444 | $15,562
501 | 2,352 | $44,432
502 | 636 | $25,677
503 | 5,888 | $20,546
504 | 123 | $281,048
505 | 147 | $31,985
506 | 937 | $84,055
507 | 288 | $30,296
508 | 667 | $24,629
509 | 177 | $16,475
510 | 1,671 | $20,337
511 | 616 | $11,613
512 | 450 | $95,226
513 | 142 | $99,439
514 | 19,241 | $104,112
515 | 4,568 | $87,754
516 | 76,169 | $45,006
517 | 190,940 | $36,508
518 | 51,620 | $30,281
519 | 7,216 | $39,899
520 | 11,045 | $25,111
521 | 28,562 | $12,663
522 | 6,139 | $10,035
523 | 14,802 | $6,921
524 | 136,805 | $12,350
525 | 492 | $209,675
¹ Cases are taken from the FY 2001 MedPAR file; DRGs are from GROUPER V20.0.

Appendix A—Regulatory Impact Analysis

I. Introduction

We have examined the impacts of this rule as required by Executive Order 12866 (September 1993, Regulatory Planning and Review) and the Regulatory Flexibility Act (RFA) (September 19, 1980, Public Law 96-354), section 1102(b) of the Social Security Act, the Unfunded Mandate Reform Act of 1995 (Public Law 104-4), and Executive Order 13132.

Executive Order 12866 directs agencies to assess all costs and benefits of available regulatory alternatives and, if regulation is necessary, to select regulatory approaches that maximize net benefits (including potential economic, environmental, public health and safety effects, distributive impacts, and equity). A regulatory impact analysis (RIA) must be prepared for major rules with economically significant effects ($100 million or more in any 1 year). We have determined that this proposed rule is a major rule as defined in 5 U.S.C. 804(2). We estimate that the total impact of these changes for FY 2003 payments compared to FY 2002 payments to be approximately a $0.3 billion increase.

The RFA requires agencies to analyze options for regulatory relief of small businesses. For purposes of the RFA, small entities include small businesses, nonprofit organizations, and government agencies. Most hospitals and most other providers and suppliers are small entities, either by nonprofit status or by having revenues of $5 million to $25 million in any 1 year. For purposes of the RFA, all hospitals and other providers and suppliers are considered to be small entities. Individuals and States are not included in the definition of a small entity.

In addition, section 1102(b) of the Act requires us to prepare a regulatory impact analysis for any proposed rule that may have a significant impact on the operations of a substantial number of small rural hospitals. This analysis must conform to the provisions of section 603 of the RFA. With the exception of hospitals located in certain New England counties, for purposes of section 1102(b) of the Act, we define a small rural hospital as a hospital with fewer than 100 beds that is located outside of a Metropolitan Statistical Area (MSA) or New England County Metropolitan Area (NECMA). Section 601(g) of the Social Security Amendments of 1983 (Public Law 98-21) designated hospitals in certain New England counties as belonging to the adjacent NECMA. Thus, for purposes of the hospital inpatient prospective payment systems, we classify these hospitals as urban hospitals.

It is clear that the changes being proposed in this document would affect both a substantial number of small rural hospitals as well as other classes of hospitals, and the effects on some may be significant. Therefore, the discussion below, in combination with the rest of this proposed rule, constitutes a combined regulatory impact analysis and regulatory flexibility analysis.

Section 202 of the Unfunded Mandate Reform Act of 1995 (Public Law 104-4) also requires that agencies assess anticipated costs and benefits before issuing any proposed rule (or a final rule that has been preceded by a proposed rule) that may result in an expenditure in any one year by State, local, or tribal governments, in the aggregate, or by the private sector, of $110 million. This proposed rule would not mandate any requirements for State, local, or tribal governments.

Executive Order 13132 establishes certain requirements that an agency must meet when it promulgates a proposed rule (and subsequent final rule) that imposes substantial direct requirement costs on State and local governments, preempts State law, or otherwise has Federalism implications. We have reviewed this proposed rule in light of Executive Order 13132 and have determined that it will not have any negative impact on the rights, roles, and responsibilities of State, local, or tribal governments.

In accordance with the provisions of Executive Order 12866, this proposed rule was reviewed by the Office of Management and Budget.

II. Objectives

The primary objective of the acute care hospital inpatient prospective payment system is to create incentives for hospitals to operate efficiently and minimize unnecessary costs while at the same time ensuring that payments are sufficient to adequately compensate hospitals for their legitimate costs. In addition, we share national goals of preserving the Medicare Trust Fund.

We believe the proposed changes would further each of these goals while maintaining the financial viability of the hospital industry and ensuring access to high quality health care for Medicare beneficiaries. We expect that these proposed changes would ensure that the outcomes of this payment system are reasonable and equitable while avoiding or minimizing unintended adverse consequences.

III. Limitations of Our Analysis

The following quantitative analysis presents the projected effects of our proposed policy changes, as well as statutory changes effective for FY 2003, on various hospital groups. We estimate the effects of individual policy changes by estimating payments per case while holding all other payment policies constant. We use the best data available, but we do not attempt to predict behavioral responses to our policy changes, and we do not make adjustments for future changes in such variables as admissions, lengths of stay, or case-mix. As we have done in previous proposed rules, we are soliciting comments and information about the anticipated effects of these changes on hospitals and our methodology for estimating them.

IV. Hospitals Included In and Excluded From the Acute Care Hospital Inpatient Prospective Payment System

The prospective payment systems for hospital inpatient operating and capital-related costs encompass nearly all general, short-term, acute care hospitals that participate in the Medicare program. There were 44 Indian Health Service hospitals in our database, which we excluded from the analysis due to the special characteristics of the prospective payment method for these hospitals. Among other short-term, acute care hospitals, only the 67 such hospitals in Maryland remain excluded from the hospital inpatient prospective payment system under the waiver at section 1814(b)(3) of the Act.

There are approximately 515 critical access hospitals (CAHs). These small, limited service hospitals are paid on the basis of reasonable costs rather than under the acute care hospital inpatient prospective payment system. The remaining 20 percent are specialty hospitals that are excluded from the acute-care, short-term prospective payment system. These hospitals include psychiatric hospitals and units, rehabilitation hospitals and units, long-term care hospitals, children's hospitals, and cancer hospitals. The impacts of our final policy changes on these hospitals are discussed below.

Thus, as of February 2002, we have included 4,301 hospitals in our analysis. This represents about 80 percent of all Medicare-participating hospitals. The majority of this impact analysis focuses on this set of hospitals.

V. Impact on Excluded Hospitals and Hospital Units

As of February 2002, there were 1,065 specialty hospitals excluded from the acute care hospital inpatient prospective payment system and instead paid on a reasonable cost basis subject to the rate-of-increase ceiling under § 413.40. Broken down by specialty, there were 493 psychiatric, 216 rehabilitation, 270 long-term care, 75 children's, and 11 cancer hospitals. In addition, there were 1,436 psychiatric units and 936 rehabilitation units in hospitals otherwise subject to the acute care hospital inpatient prospective payment system. Under § 413.40(a)(2)(i)(A), the rate-of-increase ceiling is not applicable to the 67 specialty hospitals and units in Maryland that are paid in accordance with the waiver at section 1814(b)(3) of the Act.

In the past, hospitals and units excluded from the acute care hospital inpatient prospective payment system have been paid based on their reasonable costs subject to limits as established by the Tax Equity and Fiscal Responsibility Act of 1982 (TEFRA). Hospitals that continue to be paid based on their reasonable costs are subject to TEFRA limits for FY 2003. For these hospitals, the proposed update is the percentage increase in the excluded hospital market basket (currently estimated at 3.4 percent).

Inpatient rehabilitation facilities (IRFs) are paid under the IRF prospective payment system for cost reporting periods beginning on or after January 1, 2002. For cost reporting periods beginning during FY 2003, the IRF prospective payment is based on 100 percent of the adjusted Federal IRF prospective payment amount, updated annually (see the August 7, 2001 final rule (66 FR 41316 through 41430)). Therefore, these hospitals are not impacted by this proposed rule.

Effective for cost reporting periods beginning during FY 2003, we have proposed that long-term care hospitals would be paid under a long-term care hospital prospective payment system, where long-term care hospitals receive payment based on a 5-year transition period (see the March 22, 2002 proposed rule (67 FR 13416 through 13494)). However, under this proposed payment system, a long-term care hospital may also elect to be paid at 100 percent of the Federal prospective rate at the beginning of any of its cost reporting periods during the 5-year transition period. For purposes of the update factor, the portion of the proposed prospective payment system transition blend payment based on reasonable costs for inpatient operating services would be determined by updating the long-term care hospital's TEFRA limit by the proposed estimate of the excluded hospital market basket (or 3.4 percent).

The impact on excluded hospitals and hospital units of the update in the rate-of-increase limit depends on the cumulative cost increases experienced by each excluded hospital or unit since its applicable base period. For excluded hospitals and units that have maintained their cost increases at a level below the rate-of-increase limits since their base period, the major effect will be on the level of incentive payments these hospitals and hospital units receive. Conversely, for excluded hospitals and hospital units with per-case cost increases above the cumulative update in their rate-of-increase limits, the major effect will be the amount of excess costs that would not be reimbursed.

We note that, under § 413.40(d)(3), an excluded hospital or unit whose costs exceed 110 percent of its rate-of-increase limit receives its rate-of-increase limit plus 50 percent of the difference between its reasonable costs and 110 percent of the limit, not to exceed 110 percent of its limit. In addition, under the various provisions set forth in § 413.40, certain excluded hospitals and hospital units can obtain payment adjustments for justifiable increases in operating costs that exceed the limit. At the same time, however, by generally limiting payment increases, we continue to provide an incentive for excluded hospitals and hospital units to restrain the growth in their spending for patient services.

VI. Quantitative Impact Analysis of the Proposed Policy Changes Under the Hospital Inpatient Prospective Payment System for Operating Costs

A. Basis and Methodology of Estimates

In this proposed rule, we are announcing policy changes and payment rate updates for the hospital inpatient prospective payment systems for operating and capital-related costs. We estimate the total impact of these changes for FY 2003 payments compared to FY 2002 payments to be approximately a $0.3 billion increase. We have prepared separate impact analyses of the proposed changes to each system. This section deals with changes to the operating prospective payment system.

The data used in developing the quantitative analyses presented below are taken from the FY 2001 MedPAR file and the most current provider-specific file that is used for payment purposes. Although the analyses of the changes to the operating prospective payment system do not incorporate cost data, the most recently available hospital cost report data were used to categorize hospitals. Our analysis has several qualifications. First, we do not make adjustments for behavioral changes that hospitals may adopt in response to these proposed policy changes. Second, due to the interdependent nature of the hospital inpatient prospective payment system, it is very difficult to precisely quantify the impact associated with each proposed change. Third, we draw upon various sources for the data used to categorize hospitals in the tables. In some cases, particularly the number of beds, there is a fair degree of variation in the data from different sources. We have attempted to construct these variables with the best available source overall. For individual hospitals, however, some miscategorizations are possible.

Using cases in the FY 2001 MedPAR file, we simulated payments under the operating prospective payment system given various combinations of payment parameters. Any short-term, acute care hospitals not paid under the short-term acute-care hospital inpatient prospective payment systems (Indian Health Service hospitals and hospitals in Maryland) are excluded from the simulations. The impact of payments under the capital prospective payment system, or the impact of payments for costs other than inpatient operating costs, are not analyzed in this section. Estimated payment impacts of proposed FY 2003 changes to the capital prospective payment system are discussed in section IX. of this Appendix.

The proposed changes discussed separately below are the following:

• The effects of the proposed change to the labor portion of the standardized amounts from 71.1 percent to 72.5 percent.

• The effects of the proposed changes in hospitals' wage index values reflecting wage data from hospitals' cost reporting periods beginning during FY 1999, compared to the FY 1998 wage data, and the effects of removing from the wage data the costs and hours associated with graduate medical education (GME) and certified registered nurse anesthetists (CRNAs).

• The effects of the proposed annual reclassification of diagnoses and procedures and the recalibration of the diagnosis-related group (DRG) relative weights required by section 1886(d)(4)(C) of the Act.

• The effects of geographic reclassifications by the Medicare Geographic Classification Review Board (MGCRB) that will be effective in FY 2003.

• The total change in payments based on FY 2003 policies relative to payments based on FY 2002 policies.

To illustrate the impacts of the FY 2003 proposed changes, our analysis begins with a FY 2003 baseline simulation model using: the FY 2002 DRG GROUPER (version 19.0); the FY 2002 wage index; and no MGCRB reclassifications. Outlier payments are set at 5.1 percent of total DRG plus outlier payments.

Each proposed and statutory policy change is then added incrementally to this baseline model, finally arriving at an FY 2003 model incorporating all of the changes. This allows us to isolate the effects of each change.

Our final comparison illustrates the percent change in payments per case from FY 2002 to FY 2003. Six factors have significant impacts here. The first is the update to the standardized amounts. In accordance with section 1886(d)(3)(A)(iv) of the Act, as amended by section 301 of Public Law 106-554, we are proposing to update the large urban and the other areas average standardized amounts for FY 2003 using the most recently forecasted hospital market basket increase for FY 2003 of 3.3 percent minus 0.55 percentage points (for an update of 2.75 percent). Under section 1886(b)(3) of the Act, the updates to the hospital-specific amounts for sole community hospitals (SCHs) and for Medicare-dependent small rural hospitals (MDHs) is also equal to the market basket increase of 3.3 percent minus 0.55 percentage points (for an update of 2.75 percent).

A second significant factor that impacts changes in hospitals' payments per case from FY 2002 to FY 2003 is the change in MGCRB status from one year to the next. That is, hospitals reclassified in FY 2002 that are no longer reclassified in FY 2003 may have a negative payment impact going from FY 2002 to FY 2003; conversely, hospitals not reclassified in FY 2002 that are reclassified in FY 2003 may have a positive impact. In some cases, these impacts can be quite substantial, so if a relatively small number of hospitals in a particular category lose their reclassification status, the percentage change in payments for the category may be below the national mean. This effect is alleviated, however, by section 304(a) of Public Law 106-554, which provided that reclassifications for purposes of the wage index are for a 3-year period.

A third significant factor is that we currently estimate that actual outlier payments during FY 2002 will be 6.7 percent of total DRG payments. When the FY 2002 final rule was published, we projected FY 2002 outlier payments would be 5.1 percent of total DRG plus outlier payments; the standardized amounts were offset correspondingly. The effects of the higher than expected outlier payments during FY 2002 (as discussed in the Addendum to this proposed rule) are reflected in the analyses below comparing our current estimates of FY 2002 payments per case to estimated FY 2003 payments per case.

Fourth, section 213 of Public Law 106-554 provided that all SCHs may receive payment on the basis of their costs per case during their cost reporting period that began during 1996. This option was to be phased in over 4 years. For FY 2003, the proportion of payments based on affected SCHs' FY 1996 hospital-specific amount increases from 50 percent to 75 percent.

Fifth, under section 1886(d)(5)(B)(ii) of the Act, the formula for indirect medical education (IME) is reduced beginning in FY 2003. The reduction is from approximately a 6.5 percent increase for every 10 percent increase in the resident-to-bed ratio during FY 2002 to approximately a 5.5 percent increase.

Sixth, the disproportionate share hospital (DSH) adjustment increases in FY 2003 compared with FY 2002. In accordance with section 1886(d)(5)(F)(ix) of the Act, during FY 2002, DSH payments that the hospital would otherwise receive were reduced by 3 percent. This reduction is no longer applicable beginning with FY 2003.

Table I demonstrates the results of our analysis. The table categorizes hospitals by various geographic and special payment consideration groups to illustrate the varying impacts on different types of hospitals. The top row of the table shows the overall impact on the 4,301 hospitals included in the analysis. This number is 494 fewer hospitals than were included in the impact analysis in the FY 2002 final rule (66 FR 40087). Of this number, 437 are now CAHs and are excluded from our analysis.

The next four rows of Table I contain hospitals categorized according to their geographic location: all urban, which is further divided into large urban and other urban; and rural. There are 2,613 hospitals located in urban areas (MSAs or NECMAs) included in our analysis. Among these, there are 1,511 hospitals located in large urban areas (populations over 1 million), and 1,102 hospitals in other urban areas (populations of 1 million or fewer). In addition, there are 1,688 hospitals in rural areas. The next two groupings are by bed-size categories, shown separately for urban and rural hospitals. The final groupings by geographic location are by census divisions, also shown separately for urban and rural hospitals.

The second part of Table I shows hospital groups based on hospitals' FY 2003 payment classifications, including any reclassifications under section 1886(d)(10) of the Act. For example, the rows labeled urban, large urban, other urban, and rural show that the number of hospitals paid based on these categorizations after consideration of geographic reclassifications are 2,645, 1,570, 1,075, and 1,656, respectively.

The next three groupings examine the impacts of the proposed changes on hospitals grouped by whether or not they have GME residency programs (teaching hospitals that receive an IME adjustment) or receive DSH payments, or some combination of these two adjustments. There are 3,195 nonteaching hospitals in our analysis, 872 teaching hospitals with fewer than 100 residents, and 234 teaching hospitals with 100 or more residents.

In the DSH categories, hospitals are grouped according to their DSH payment status, and whether they are considered urban or rural after MGCRB reclassifications. Hospitals in the rural DSH categories, therefore, represent hospitals that were not reclassified for purposes of the standardized amount or for purposes of the DSH adjustment. (They may, however, have been reclassified for purposes of the wage index.)

The next category groups hospitals considered urban after geographic reclassification, in terms of whether they receive the IME adjustment, the DSH adjustment, both, or neither.

The next five rows examine the impacts of the proposed changes on rural hospitals by special payment groups (SCHs, rural referral centers (RRCs), and MDHs), as well as rural hospitals not receiving a special payment designation. The RRCs (159), SCHs (540), MDHs (216), and hospitals that are both SCH and RRC (75) shown here were not reclassified for purposes of the standardized amount. There are 4 RRCs and 1 SCH and RRC that will be reclassified as urban for the standardized amount in FY 2003 and, therefore, are not included in these rows.

The next two groupings are based on type of ownership and the hospital's Medicare utilization expressed as a percent of total patient days. These data are taken primarily from the FY 1999 Medicare cost report files, if available (otherwise FY 1998 data are used). Data needed to determine ownership status were unavailable for 213 hospitals. Similarly, the data needed to determine Medicare utilization were unavailable for 109 hospitals.

The next series of groupings concern the geographic reclassification status of hospitals. The first grouping displays all hospitals that were reclassified by the MGCRB for FY 2003. The next two groupings separate the hospitals in the first group by urban and rural status. The final row in Table I contains hospitals located in rural counties but deemed to be urban under section 1886(d)(8)(B) of the Act.

Table I.—Impact Analysis of Changes for FY 2003 Operating Prospective Payment System
[Percent changes in payments per case]
| Number of hosps.¹ (0) | New labor share ² (1) | DRG changes.³ (2) | New wage data ⁴ (3) | Remove GME & CRNA 80/20 ⁵ (4) | Remove GME & CRNA 100 percent ⁶ (5) | DRG & WI changes ⁷ (6) | MCGRB reclassification ⁸ (7) | All FY 2003 changes ⁹ (8)
By Geographic Location:
All hospitals | 4,301 | 0.0 | −0.2 | 0.0 | 0.0 | 0.0 | 0.0 | 0.0 | 0.4
Urban hospitals | 2,613 | 0.0 | −0.2 | −0.1 | 0.0 | 0.0 | 0.0 | −0.5 | 0.1
Large urban areas (populations over 1 million) | 1,511 | 0.1 | −0.2 | −0.2 | 0.0 | 0.0 | −0.2 | −0.5 | −0.3
Other urban areas (populations of 1 million of fewer) | 1,102 | −0.1 | −0.1 | 0.1 | 0.0 | 0.0 | 0.3 | −0.4 | 0.8
Rural hospitals | 1,688 | −0.2 | −0.4 | 0.5 | 0.1 | 0.1 | 0.3 | 2.5 | 2.1
Bed Size (Urban):
0-99 beds | 647 | 0.0 | −0.2 | 0.0 | 0.1 | 0.1 | 0.3 | −0.6 | 1.5
100-199 beds | 904 | 0.0 | −0.3 | −0.1 | 0.0 | 0.1 | 0.0 | −0.5 | 1.0
200-299 beds | 528 | 0.0 | −0.3 | 0.0 | 0.0 | 0.1 | 0.1 | −0.4 | 0.5
300-499 beds | 387 | 0.0 | −0.1 | −0.2 | 0.0 | 0.0 | 0.0 | −0.4 | 0.1
500 or more beds | 147 | 0.1 | −0.2 | −0.1 | 0.0 | 0.0 | −0.1 | −0.5 | −1.1
Bed Size (Rural):
0-49 beds | 819 | −0.2 | −0.6 | 0.6 | 0.1 | 0.1 | 0.2 | 0.5 | 2.6
50-99 beds | 507 | −0.2 | −0.5 | 0.4 | 0.1 | 0.1 | 0.2 | 1.0 | 2.4
100-149 beds | 216 | −0.2 | −0.4 | 0.6 | 0.1 | 0.1 | 0.5 | 2.9 | 2.0
150-199 beds | 78 | −0.2 | −0.4 | 0.5 | 0.1 | 0.1 | 0.5 | 4.8 | 1.9
200 or more beds | 68 | −0.2 | −0.3 | 0.4 | 0.1 | 0.1 | 0.4 | 4.1 | 1.4
Urban by Region:
New England | 134 | 0.2 | −0.3 | 0.1 | 0.0 | 0.1 | 0.9 | −0.2 | 0.0
Middle Atlantic | 402 | 0.2 | −0.1 | −0.8 | 0.0 | 0.0 | −0.8 | −0.1 | −1.8
South Atlantic | 380 | −0.1 | −0.2 | 0.1 | 0.1 | 0.1 | 0.2 | −0.5 | 0.9
East North Central | 431 | 0.0 | −0.2 | 0.1 | 0.0 | 0.0 | 0.2 | −0.5 | 0.4
East South Central | 158 | −0.2 | −0.2 | 0.2 | 0.0 | 0.0 | 0.1 | −0.7 | 0.9
West North Central | 180 | −0.1 | −0.3 | 0.5 | 0.1 | 0.1 | 0.6 | −0.7 | 0.9
West South Central | 334 | −0.2 | −0.2 | −0.2 | 0.1 | 0.1 | −0.1 | −0.7 | 0.4
Mountain | 132 | 0.0 | 0.0 | −0.3 | 0.1 | 0.1 | 0.0 | −0.6 | 0.6
Pacific | 416 | 0.2 | −0.4 | 0.0 | 0.1 | 0.1 | 0.1 | −0.5 | 0.7
Puerto Rico | 46 | −0.7 | −0.4 | −0.8 | 0.0 | 0.0 | −0.7 | −0.8 | 0.0
Rural by Region:
New England | 40 | 0.0 | −0.4 | 0.2 | 0.0 | 0.0 | 0.0 | 2.8 | 1.0
Middle Atlantic | 68 | −0.1 | −0.4 | −0.1 | 0.0 | 0.0 | −0.3 | 2.5 | 1.6
South Atlantic | 239 | −0.2 | −0.5 | 0.4 | 0.1 | 0.1 | 0.2 | 3.0 | 1.9
East North Central | 225 | −0.1 | −0.3 | 0.4 | 0.1 | 0.1 | 0.4 | 2.1 | 2.5
East South Central | 243 | −0.3 | −0.6 | 1.0 | 0.1 | 0.1 | 0.8 | 2.4 | 2.0
West North Central | 311 | −0.2 | −0.4 | 0.8 | 0.0 | 0.0 | 0.7 | 1.5 | 2.4
West South Central | 294 | −0.3 | −0.6 | 0.3 | 0.1 | 0.1 | 0.0 | 3.4 | 1.8
Mountain | 151 | −0.1 | −0.4 | 0.2 | 0.0 | 0.0 | 0.1 | 1.6 | 2.0
Pacific | 112 | 0.0 | −0.4 | 0.8 | 0.1 | 0.1 | 0.6 | 2.3 | 2.7
Puerto Rico | 5 | −0.7 | −0.5 | −4.9 | 0.1 | 0.1 | −5.0 | −0.5 | −2.8
By Payment Classification:
Urban hospitals | 2,645 | 0.0 | −0.2 | −0.1 | 0.0 | 0.0 | 0.0 | −0.4 | 0.2
Large urban areas (populations over 1 million) | 1,570 | 0.1 | −0.2 | −0.2 | 0.0 | 0.0 | −0.2 | −0.4 | −0.2
Other urban areas (populations of 1 million of fewer) | 1,075 | −0.1 | −0.1 | 0.1 | 0.0 | 0.0 | 0.3 | −0.4 | 0.8
Rural areas | 1,656 | −0.2 | −0.5 | 0.5 | 0.1 | 0.1 | 0.3 | 2.4 | 2.1
Teaching Status:
Non-teaching | 3,195 | −0.1 | −0.4 | 0.2 | 0.1 | 0.1 | 0.2 | 0.3 | 1.5
Fewer than 100 Residents | 872 | 0.0 | −0.1 | −0.1 | 0.0 | 0.0 | 0.0 | −0.3 | 0.5
100 or more Residents | 234 | 0.1 | −0.2 | −0.3 | 0.0 | 0.0 | −0.3 | −0.3 | −1.7
Urban DSH:
Non-DSH | 1,565 | 0.0 | −0.1 | 0.0 | 0.0 | 0.0 | 0.2 | 0.1 | 0.7
100 or more beds | 1,354 | 0.0 | −0.2 | −0.2 | 0.0 | 0.0 | −0.1 | −0.5 | 0.0
Less than 100 beds | 295 | 0.0 | −0.4 | 0.1 | 0.1 | 0.1 | 0.1 | −0.3 | 1.5
Rural DSH:
Sole Community (SCH) | 470 | −0.1 | −0.7 | 0.4 | 0.0 | 0.0 | −0.1 | 0.1 | 2.3
Referral Center (RRC) | 156 | −0.2 | −0.4 | 0.5 | 0.1 | 0.1 | 0.5 | 5.1 | 1.6
Other Rural:
100 or more beds | 78 | −0.3 | −0.5 | 0.6 | 0.1 | 0.1 | 0.6 | 1.2 | 2.0
Less than 100 beds | 383 | −0.3 | −0.6 | 0.7 | 0.1 | 0.1 | 0.5 | 0.8 | 2.5
Urban teaching and DSH:
Both teaching and DSH | 758 | 0.0 | −0.2 | −0.3 | 0.0 | 0.0 | −0.2 | −0.5 | −0.6
Teaching and no DSH | 278 | 0.0 | 0.0 | 0.0 | 0.0 | 0.0 | 0.2 | −0.1 | −0.1
No teaching and DSH | 891 | 0.0 | −0.4 | 0.1 | 0.1 | 0.1 | 0.2 | −0.4 | 1.4
No teaching and no DSH | 718 | 0.0 | −0.2 | 0.0 | 0.0 | 0.1 | 0.2 | −0.4 | 1.0
Rural Hospital Types:
Non special status hospitals | 666 | −0.3 | −0.5 | 0.7 | 0.1 | 0.1 | 0.6 | 1.2 | 2.3
RRC | 159 | −0.3 | −0.3 | 0.6 | 0.1 | 0.1 | 0.6 | 6.0 | 1.2
SCH | 540 | −0.1 | −0.6 | 0.2 | 0.0 | 0.0 | −0.2 | 0.3 | 2.3
Medicare-dependent hospitals (MDH) | 216 | −0.2 | −0.6 | 0.7 | 0.1 | 0.1 | 0.3 | 0.5 | 2.7
SCH and RRC | 75 | −0.1 | −0.3 | 0.3 | 0.0 | 0.0 | 0.1 | 1.8 | 2.5
Type of Ownership:
Voluntary | 2,473 | 0.0 | −0.2 | −0.1 | 0.0 | 0.0 | 0.0 | −0.1 | 0.4
Proprietary | 705 | 0.0 | −0.2 | −0.2 | 0.1 | 0.1 | −0.1 | −0.1 | 0.3
Government | 910 | −0.1 | −0.5 | 0.3 | 0.1 | 0.1 | 0.2 | 0.2 | 0.8
Unknown | 213 | −0.1 | −0.3 | 0.2 | 0.1 | 0.1 | 0.2 | −0.4 | 0.6
Medicare Utilization as a Percent of Inpatient Days:
0-25 | 319 | 0.1 | −0.4 | −0.3 | 0.1 | 0.1 | −0.4 | −0.3 | −0.7
25-50 | 1,650 | 0.0 | −0.2 | −0.1 | 0.0 | 0.0 | 0.0 | −0.3 | 0.0
50-65 | 1,706 | −0.1 | −0.2 | 0.1 | 0.0 | 0.0 | 0.2 | 0.3 | 1.1
Over 65 | 517 | −0.1 | −0.4 | −0.1 | 0.0 | 0.0 | −0.1 | 0.5 | 0.6
Unknown | 109 | 0.2 | 0.1 | −1.1 | 0.0 | 0.0 | −0.8 | −0.7 | −0.4
Hospitals Reclassified by the Medicare Geographic Classification Review Board: FY 2003 Reclassifications:
All Reclassified Hospitals | 620 | −0.1 | −0.3 | 0.3 | 0.0 | 0.1 | 0.4 | 4.4 | 1.0
Standardized Amount Only | 29 | 0.0 | −0.4 | 0.6 | 0.1 | 0.1 | 0.6 | 0.3 | 1.6
Wage Index Only | 527 | −0.1 | −0.3 | 0.3 | 0.0 | 0.1 | 0.3 | 4.5 | 0.8
Both | 41 | −0.2 | −0.2 | 0.4 | 0.1 | 0.1 | 0.6 | 5.1 | 1.1
Nonreclassified Hospitals | 3,666 | 0.0 | −0.2 | −0.1 | 0.0 | 0.0 | 0.0 | −0.7 | 0.3
All Reclassified Urban Hospitals | 108 | 0.1 | −0.1 | 0.1 | 0.0 | 0.0 | 0.4 | 4.0 | −0.4
Standardized Amount Only | 1 | 0.0 | −0.1 | 0.4 | −0.1 | −0.1 | 0.4 | −0.9 | 1.6
Wage Index Only | 95 | 0.1 | −0.1 | 0.1 | 0.0 | 0.0 | 0.4 | 4.1 | 0.6
Both | 12 | −0.1 | −0.2 | 0.6 | 0.1 | 0.1 | 0.9 | 2.9 | 4.1
Urban Nonreclassified Hospitals | 2,471 | 0.0 | −0.2 | −0.1 | 0.0 | 0.0 | 0.0 | −0.7 | 0.2
All Reclassified Rural Hospitals | 512 | −0.2 | −0.4 | 0.4 | 0.1 | 0.1 | 0.4 | 4.6 | 1.8
Standardized Amount Only | 1 | −0.4 | 0.1 | 0.1 | 0.1 | 0.1 | 0.6 | 0.9 | 3.7
Wage Index Only | 502 | −0.2 | −0.4 | 0.5 | 0.1 | 0.1 | 0.4 | 4.6 | 1.8
Both | 9 | −0.2 | −0.2 | 0.2 | 0.1 | 0.1 | 0.2 | 4.7 | 0.7
Rural Nonreclassified Hospitals | 1,175 | −0.2 | −0.6 | 0.5 | 0.1 | 0.1 | 0.3 | −0.4 | 2.4
Other Reclassified Hospitals (Section 1886(D)(8)(B)) | 35 | −0.1 | −0.6 | −0.1 | 0.0 | 0.0 | −0.5 | −1.4 | 2.8
¹ Because data necessary to classify some hospitals by category were missing, the total number of hospitals in each category may not equal the national total. Discharge data are from FY 2001, and hospital cost report data are from reporting periods beginning in FY 1999 and FY 1998.
² This column displays impact of the proposed change to the labor share from 71.1 percent to 72.5 percent.
³ This column displays the payment impact of the recalibration of the DRG weights based on FY 2001 MedPAR data and the DRG reclassification changes, in accordance with section 1886(d)(4)(C) of the Act.
⁴ This column displays the impact of updating the wage index with wage data from hospitals' FY 1999 cost reports.
⁵ This column displays the impact of an 80/20 percent blend of removing the labor costs and hours associated with graduate medical education and for the Part A costs of certified registered nurse anesthetists.
⁶ This column displays the impact of completely removing the labor costs and hours associated with graduate medical education (GME) and for the Part A costs of certified registered nurse anesthetists (CRNAs).
⁷ This column displays the combined impact of the reclassification and recalibration of the DRGs, the updated and revised wage data used to calculate the wage index, the phase-out of GME and CRNA costs and hours, and the budget neutrality adjustment factor for DRG and wage index changes, in accordance with sections 1886(d)(4)(C)(iii) and 1886(d)(3)(E) of the Act. Thus, it represents the combined impacts shown in columns 2, 3, 4 and 5, and the FY 2003 budget neutrality factor of 1.001026.
⁸ Shown here are the effects of geographic reclassifications by the Medicare Geographic Classification Review Board (MGCRB). The effects demonstrate the FY 2003 payment impact of going from no reclassifications to the reclassifications scheduled to be in effect for FY 2003. Reclassification for prior years has no bearing on the payment impacts shown here.
⁹ This column shows changes in payments from FY 2002 to FY 2003. It incorporates all of the changes displayed in columns 1, 6 and 7 (the changes displayed in columns 2, 3, 4, and 5 are included in column 6). It also displays the impact of the FY 2003 update, changes in hospitals' reclassification status in FY 2003 compared to FY 2002, and the difference in outlier payments from FY 2002 to FY 2003. It also reflects the gradual phase-in for some SCHs of the full 1996 hospital-specific rate. Finally, the impacts of the reduction in IME adjustment payments, and the increase in the DSH adjustment are shown in this column. The sum of these impacts may be different from the percentage changes shown here due to rounding and interactive effect.

B. Impact of the Proposed Changes to the Labor Share (Column 1)

In Column 1 of Table 1, we present the effects of our proposal to update the labor share from 71.10 percent to 72.49 percent. We estimate the impact of this change by calculating payments using payment rates updated to FY 2003, but using the FY 2002 DRG GROUPER and wage index. The change in this column represents the impact upon various hospital categories of the proposed change to the labor share. This proposed change negatively impacts hospitals with wage indexes less than 1.0, and positively affects those with wage indexes greater than 1.0.

This proposed change has no impact on overall hospital payments. However, there are redistributive impacts generally in the range of plus or minus 0.1 percent or 0.2 percent. The net redistributive impact from those positively and negatively affected is approximately $65 million. Hospitals in large urban areas would experience an increase of 0.1 percent. Hospitals in both “other” urban and rural areas would experience −0.1 and −0.2 percent decreases, respectively.

Under the urban by region category, New England, Middle Atlantic and Pacific regions would experience a 0.2 percent increase. The urban East South Central and West South Central regions would experience −0.2 percent decreases. Puerto Rico has a projected decrease of −0.7 percent, due to the low wage indexes in the Puerto Rico MSAs.

All rural regions would experience a negative percent decrease except New England and Pacific regions (at 0.0 percent change). The South Atlantic and West North Central regions would experience a decrease of −0.2 percent. The East South Central and West South Central regions each would experience a −0.3 percent decrease, while Puerto Rico would experience a −0.7 percent decrease. Rural nonspecial status hospitals and RRCs would decline by −0.3. SCH and MDHs also would experience decreases of −0.1 and −0.2 percent, respectively. The relatively smaller negative impact for these hospitals is due to the fact that the hospital-specific rate is not adjusted by the wage index. Therefore, this proposed change would have no effect on hospitals paid on that basis (other than SCHs receiving a blended of their FY 1996 hospital-specific rate and the Federal rate).

C. Impact of the Proposed Changes to the DRG Reclassifications and Recalibration of Relative Weights (Column 3)

In column 3 of Table I, we present the combined effects of the DRG reclassifications and recalibration, as discussed in section II. of the preamble to this proposed rule. Section 1886(d)(4)(C)(i) of the Act requires us to annually make appropriate classification changes and to recalibrate the DRG weights in order to reflect changes in treatment patterns, technology, and any other factors that may change the relative use of hospital resources.

We compared aggregate payments using the FY 2002 DRG relative weights (GROUPER version 19.0) to aggregate payments using the proposed FY 2003 DRG relative weights (GROUPER version 20.0). Overall payments decrease −0.2 percent due to the DRG reclassification and recalibration. We note that, consistent with section 1886(d)(4)(C)(iii) of the Act, we have applied a budget neutrality factor to ensure that the overall payment impact of the DRG changes (combined with the wage index changes) is budget neutral. This budget neutrality factor of 1.001026 is applied to payments in Column 6. Because this is a combined DRG reclassification and recalibration and wage index budget neutrality factor, it is not applied to payments in this column.

The DRG changes we are proposing would result in 0.2 percent lower payments to hospitals overall. This is the reason the budget neutrality factor is greater than 1.0. This change is largely related to the proposed changes we are making to DRGs 14 (proposed to be retitled, Intracranial Hemorrhage and Stroke with Infarction) and 15 (proposed to be retitled, Nonspecific Cerebrovascular and Precerebral Occlusion without Infarction), and new DRG 524 (Transient Ischemia). With the new configuration of these DRGs, over 80,000 cases that previously would have been assigned to DRG 14 (with a FY 2003 proposed relative weight of 1.2742) would now be assigned to DRG 15 (with a FY 2003 proposed relative weight of 0.9844).

This change is evident most dramatically in small and rural hospitals. Rural hospitals with fewer than 50 beds would experience a 0.6 percent decrease, and rural hospitals with between 50 and 99 beds would experience a 0.5 percent decrease. Among rural hospitals categorized by region, the East South Central and West South Central would experience a 0.6 percent decrease in payments. Among special rural hospital categories, SCHs and MDHs both would experience 0.6 percent decreases.

D. Impact of Wage Index Changes (Columns 3, 4, and 5)

Section 1886(d)(3)(E) of the Act requires that, beginning October 1, 1993, we annually update the wage data used to calculate the wage index. In accordance with this requirement, the proposed wage index for FY 2003 is based on data submitted for hospital cost reporting periods beginning on or after October 1, 1998 and before October 1, 1999. As with column 2, the impact of the new data on hospital payments is isolated in columns 3, 4 and 5 by holding the other payment parameters constant in the three simulations. That is, columns 3, 4, and 5 show the percentage changes in payments when going from a model using the FY 2002 wage index (based on FY 1997 wage data before geographic reclassifications to a model using the FY 2003 pre-reclassification wage index based on FY 1998 wage data).

The wage data collected on the FY 1999 cost reports are similar to the data used in the calculation of the FY 2002 wage index. Also, as described in section III.B of this preamble, the proposed FY 2003 wage index is calculated by removing 100 percent of hospitals' GME and CRNA costs (and hours). The FY 2002 wage index was calculated by blending 60 percent of hospitals' average hourly wages, excluding GME and CRNA data, with 40 percent of average hourly wages including these data.

Column 3 shows the impacts of updating the wage data using FY 1999 cost reports. This column maintains the same 60/40 phase-out of GME and CRNA costs as the FY 2002 wage index, which is the baseline for comparison. Among regions, the largest impact of updating the wage data is seen in rural Puerto Rico (a 4.9 percent decrease). Rural hospitals in the East South Central region experience the next largest impact, a 1.0 percent increase. This is primarily due to a 6 percent increase in the rural Alabama wage index, and a little under a 3 percent increase in the rural Mississippi wage index. Among urban hospitals, the Middle Atlantic region would experience a 0.8 percent decrease, largely due to a 2.4 percent decrease in the New York City wage index and a 2.3 percent decrease in the Philadelphia wage index.

The next two columns show the impacts of removing the GME and CRNA data from the wage index calculation. Under the 5-year phaseout of these data, FY 2003 would be the fourth year of the phaseout. This means that, under the phaseout, the FY 2003 wage index would be calculated with 20 percent of the GME and CRNA data included and 80 percent with these data removed, and FY 2004 would begin the calculation with 100 percent of these data removed. However, we are proposing to remove 100 percent of GME and CRNA costs from the FY 2003 wage index. To demonstrate the impacts of this proposal, we first show the impacts of moving to a wage index with 80 percent of these data removed (Column 4), then show a wage index with 100 percent of these data removed (Column 5). As expected, the impacts in the two columns are similar, with some differences due to rounding. Generally, no group of hospitals is impacted by more than 0.1 percent by this change. Even among the hospital group most likely to be negatively impacted by this change, teaching hospitals with 100 or more residents, the net effect of removing 100 percent of GME and CRNA data is 0.0 percent change in payments.

We note that the wage data used for the proposed wage index are based upon the data available as of February 22, 2001 and, therefore, do not reflect revision requests received and processed by the fiscal intermediaries after that date. To the extent these requests are granted by hospitals' fiscal intermediaries, these revisions will be reflected in the final rule. In addition, we continue to verify the accuracy of the data for hospitals with extraordinary changes in their data from the prior year.

The following chart compares the shifts in wage index values for labor market areas for FY 2002 relative to FY 2003. This chart demonstrates the impact of the proposed changes for the FY 2003 wage index, including updating to FY 1999 wage data and removing 100 percent of GME and CRNA data. The majority of labor market areas (324) experience less than a 5 percent change. A total of 19 labor market areas experience an increase of more than 5 percent and less than 10 percent. One area experiences an increase greater than 10 percent. A total of 26 areas experience decreases of more than 5 percent and less than 10 percent. Finally, 2 areas experience declines of 10 percent or more.

Percentage change in area wage index values | Number of labor market areas: FY 2002 | Number of labor market areas: FY 2003
Increase more than 10 percent | 2 | 1
Increase more than 5 percent and less than 10 percent | 26 | 19
Increase or decrease less than 5 percent | 335 | 320
Decrease more than 5 percent and less than 10 percent | 10 | 26
Decrease more than 10 percent | 1 | 2

Among urban hospitals, 24 would experience an increase of between 5 and 10 percent and 2 more than 10 percent. A total of 53 rural hospitals have increases greater than 5 percent, but none greater than 10 percent. On the negative side, 75 urban hospitals have decreases in their wage index values of at least 5 percent but less than 10 percent. Six urban hospitals have decreases in their wage index values greater than 10 percent. There are 19 rural hospitals with decreases in their wage index values greater than 5 percent or with increases of more than 10 percent. The following chart shows the projected impact for urban and rural hospitals.

Percentage change in area wage index values | Number of hospitals: Urban | Number of hospitals: Rural
Increase more than 10 percent | 2 | 0
Increase more than 5 percent and less than 10 percent | 24 | 53
Increase or decrease less than 5 percent | 2506 | 1616
Decrease more than 5 percent and less than 10 percent | 75 | 19
Decrease more than 10 percent | 6 | 0

E. Combined Impact of DRG and Wage Index Changes—Including Budget Neutrality Adjustment (Column 6)

The impact of DRG reclassifications and recalibration on aggregate payments is required by section 1886(d)(4)(C)(iii) of the Act to be budget neutral. In addition, section 1886(d)(3)(E) of the Act specifies that any updates or adjustments to the wage index are to be budget neutral. As noted in the Addendum to this proposed rule, we compared simulated aggregate payments using the FY 2002 DRG relative weights and wage index to simulated aggregate payments using the proposed FY 2003 DRG relative weights and blended wage index. Based on this comparison, we computed a wage and recalibration budget neutrality factor of 1.001026. In Table I, the combined overall impacts of the effects of both the DRG reclassifications and recalibration and the updated wage index are shown in column 6. The 0.0 percent impact for all hospitals demonstrates that these changes, in combination with the budget neutrality factor, are budget neutral.

For the most part, the changes in this column are the sum of the changes in columns 2, 3, 4, and 5, plus approximately 0.1 percent attributable to the budget neutrality factor. In addition, section 4410 of Public Law 105-33 provides that, for discharges on or after October 1, 1997, the area wage index applicable to any hospital that is not located in a rural area may not be less than the area wage index applicable to hospitals located in rural areas in that State. This provision is required to be budget neutral. The impact of this provision, which is to increase overall payments by 0.1 percent, is not shown in columns 2, 3, 4, and 5. It is included in the impacts shown in column 6. There also may be some variation of plus or minus 0.1 percent due to rounding.

F. Impact of MGCRB Reclassifications (Column 7)

Our impact analysis to this point has assumed hospitals are paid on the basis of their actual geographic location (with the exception of ongoing policies that provide that certain hospitals receive payments on bases other than where they are geographically located, such as hospitals in rural counties that are deemed urban under section 1886(d)(8)(B) of the Act). The changes in column 6 reflect the per case payment impact of moving from this baseline to a simulation incorporating the MGCRB decisions for FY 2003. These decisions affect hospitals' standardized amount and wage index area assignments.

By February 28 of each year, the MGCRB makes reclassification determinations that will be effective for the next fiscal year, which begins on October 1. The MGCRB may approve a hospital's reclassification request for the purpose of using another area's standardized amount, wage index value, or both.

The proposed FY 2003 wage index values incorporate all of the MGCRB's reclassification decisions for FY 2003. The wage index values also reflect any decisions made by the CMS Administrator through the appeals and review process for MGCRB decisions as of February 28, 2002. Additional changes that result from the Administrator's review of MGCRB decisions or a request by a hospital to withdraw its application will be reflected in the final rule for FY 2003.

The overall effect of geographic reclassification is required by section 1886(d)(8)(D) of the Act to be budget neutral. Therefore, we applied an adjustment of 0.990536 to ensure that the effects of reclassification are budget neutral. (See section II.A.4.b. of the Addendum to this proposed rule.)

As a group, rural hospitals benefit from geographic reclassification. Their payments rise 2.5 percent in column 6. Payments to urban hospitals decline 0.5 percent. Hospitals in other urban areas see a decrease in payments of 0.5 percent, while large urban hospitals lose 0.5 percent. Among urban hospital groups (that is, bed size, census division, and special payment status), payments generally decline.

A positive impact is evident among most of the rural hospital groups. The smallest increases among the rural census divisions are 1.5 and 1.6 percent for West North Central and Mountain regions, respectively. The largest increases are in rural South Atlantic and West South Central regions. These regions receive increases of 3.0 and 3.4 percent, respectively.

Among all the hospitals that were reclassified for FY 2003 (including hospitals that received wage index reclassification in a FY 2001 or FY 2002 that extend for 3-years), the MGCRB changes are estimated to provide a 4.4 percent increase in payments. Urban hospitals reclassified for FY 2003 are expected to receive an increase of 4.0 percent, while rural reclassified hospitals are expected to benefit from the MGCRB changes with a 4.6 percent increase in payments. Overall, among hospitals that were reclassified for purposes of the standardized amount only, a payment increase of 0.3 percent is expected, while those reclassified for purposes of the wage index only show a 4.5 percent increase in payments. Payments to urban and rural hospitals that did not reclassify are expected to decrease slightly due to the MGCRB changes, decreasing by 0.7 for urban hospitals and 0.4 for rural hospitals. Those hospitals located in rural counties but deemed to be urban under section 1886(d)(8)(B) of the Act are expected to receive a decrease in payments of 1.4 percent.

The foregoing analysis was based on MGCRB and CMS Administrator decisions made by February 28, 2002. As previously noted, there may be changes to some MGCRB decisions through the appeals, review, and applicant withdrawal process. The outcome of these cases will be reflected in the analysis presented in the final rule.

G. All Changes (Column 8)

Column 8 compares our estimate of payments per case, incorporating all changes reflected in this proposed rule for FY 2003 (including statutory changes), to our estimate of payments per case in FY 2002. This column includes all of the policy changes to date, including the proposed new labor share shown in column 1, and the combined DRG and wage index changes from column 6. Because the reclassifications shown in column 7 do not reflect FY 2002 reclassifications, the impacts of FY 2003 reclassifications only affect the impacts from FY 2002 to FY 2003 if the reclassification impacts for any group of hospitals are different in FY 2003 compared to FY 2002.

It includes the effects of the 2.75 percent update to the standardized amounts and the hospital-specific rates for MDHs and SCHs. It also reflects the 1.7 percentage point difference between the projected outlier payments in FY 2002 (5.1 percent of total DRG payments) and the current estimate of the percentage of actual outlier payments in FY 2002 (6.8 percent), as described in the introduction to this Appendix and the Addendum to this proposed rule.

Section 213 of Public Law 106-554 provided that all SCHs may receive payment on the basis of their costs per case during their cost reporting period that began during 1996. For FY 2003, eligible SCHs that rebase receive a hospital-specific rate comprised of 25 percent of the higher of their FY 1982 or FY 1987 hospital-specific rate or their Federal rate, and 75 percent of their 1996 hospital-specific rate. The impact of this provision is modeled in column 8 as well.

Under section 1886(d)(5)(B)(ii) of the Act, the formula for IME is reduced beginning in FY 2003. The reduction is from approximately a 6.5 percent increase for every 10 percent increase in the resident-to-bed ratio during FY 2002 to approximately a 5.5 percent increase. We estimate the impact of this change to be a 0.9 percent reduction in hospitals' overall FY 2003 payments. The impact upon teaching hospitals would be larger.

Finally, the DSH adjustment increases in FY 2003 compared with FY 2002. In accordance with section 1886(d)(5)(F)(ix) of the Act, during FY 2002, DSH payments that the hospital would otherwise receive were reduced by 3 percent. This reduction is no longer applicable beginning with FY 2003. The estimated impact of this change is to increase overall hospital payments by 0.2 percent.

There might also be interactive effects among the various factors comprising the payment system that we are not able to isolate. For these reasons, the values in column 8 may not equal the sum of the changes in columns 6 and 7, plus the other impacts that we are able to identify.

The overall change in payments per case for hospitals in FY 2003 increases by 0.4 percent. This reflects the update of 2.75 percent, the 1.7 percent higher outlier payments in FY 2002 than projected for FY 2003, a 0.9 percent reduction in payments for IME, and a 0.2 percent increase in payments due to higher DSH payments in FY 2003. Hospitals in urban areas experience a 0.1 percent increase in payments per case compared to FY 2002, although hospitals in large urban areas experience a 0.3 percent decline in payments, largely due to reduction in IME payments. The impact of the reduction in IME payments is most evident among teaching hospitals with 100 or more residents, who would experience a decrease in payments per case of 1.7 percent. Hospitals in rural areas, meanwhile, experience a 2.1 percent payment increase.

Among urban census divisions, the largest payment increase was 0.9 percent in South Atlantic, East South Central, and West North Central. Hospitals in urban Middle Atlantic would experience an overall decrease of 1.8 percent. This is primarily due to the combination of the negative impact on these hospitals of reducing IME and the lower outlier payments during FY 2003. The rural census division experiencing the smallest increase in payments were New England and the Middle Atlantic regions (1.0 and 1.6 percent, respectively). The only decreases by rural hospitals are in Puerto Rico, where payments appear to decrease by 2.8 percent, largely due to the updated wage data. In the Pacific, payments appear to increase by 2.7 percent. Rural East and West North Central regions also benefited, with 2.5 and 2.4 percent increases, respectively.

Among special categories of rural hospitals, those hospitals receiving payment under the hospital-specific methodology (SCHs, MDHs, and SCH/RRCs) experience payment increases of 2.3 percent, 2.7 percent, and 2.5 percent, respectively. This outcome is primarily related to the fact that, for hospitals receiving payments under the hospital-specific methodology, there are no outlier payments. Therefore, these hospitals do not experience negative payment impacts from the decline in outlier payments from FY 2002 to FY 2003 (from 6.8 percent of total DRG plus outlier payments to 5.1 percent) as do hospitals paid based on the national standardized amounts.

Among hospitals that were reclassified for FY 2003, hospitals overall are estimated to receive a 1.0 percent increase in payments. Urban hospitals reclassified for FY 2003 are anticipated to receive a decrease of −0.4 percent, while rural reclassified hospitals are expected to benefit from reclassification with a 1.8 percent increase in payments. Overall, among hospitals reclassified for purposes of the standardized amount, a payment increase of 1.6 percent is expected, while those hospitals reclassified for purposes of the wage index only show an expected 0.8 percent increase in payments. Those hospitals located in rural counties but deemed to be urban under section 1886(d)(8)(B) of the Act are expected to receive an increase in payments of 2.8 percent.

Table II.—Impact Analysis of Changes for FY 2003 Operating Prospective Payment System
[Payments per Case]
| Number of hosps. (1) | Average FY 2002 payment per case ¹ (2) | Average FY 2003 payment per case ¹ (3) | All FY 2003 changes (4)
By Geographic Location:
All hospitals | 4,301 | 7,194 | 7,224 | 0.4
Urban hospitals | 2,613 | 7,707 | 7,718 | 0.1
Large urban areas (populations over 1 million) | 1,511 | 8,269 | 8,245 | -0.3
Other urban areas (populations of 1 million of fewer) | 1,102 | 6,977 | 7,034 | 0.8
Rural hospitals | 1,688 | 5,108 | 5,213 | 2.1
Bed Size (Urban):
0-99 beds | 647 | 5,299 | 5,380 | 1.5
100-199 beds | 904 | 6,436 | 6,498 | 1.0
200-299 beds | 528 | 7,391 | 7,425 | 0.5
300-499 beds | 387 | 8,276 | 8,280 | 0.1
500 or more beds | 147 | 10,046 | 9,932 | -1.1
Bed Size (Rural):
0-49 beds | 819 | 4,204 | 4,313 | 2.6
50-99 beds | 507 | 4,754 | 4,866 | 2.4
100-149 beds | 216 | 5,052 | 5,154 | 2.0
150-199 beds | 78 | 5,494 | 5,600 | 1.9
200 or more beds | 68 | 6,651 | 6,742 | 1.4
Urban by Region:
New England | 134 | 8,228 | 8,225 | 0.0
Middle Atlantic | 402 | 8,832 | 8,675 | -1.8
South Atlantic | 380 | 7,287 | 7,353 | 0.9
East North Central | 431 | 7,269 | 7,296 | 0.4
East South Central | 158 | 6,919 | 6,984 | 0.9
West North Central | 180 | 7,330 | 7,399 | 0.9
West South Central | 334 | 7,089 | 7,121 | 0.4
Mountain | 132 | 7,505 | 7,553 | 0.6
Pacific | 416 | 9,319 | 9,383 | 0.7
Puerto Rico | 46 | 3,310 | 3,311 | 0.0
Rural by Region:
New England | 40 | 6,227 | 6,290 | 1.0
Middle Atlantic | 68 | 5,345 | 5,430 | 1.6
South Atlantic | 239 | 5,221 | 5,319 | 1.9
East North Central | 225 | 5,059 | 5,185 | 2.5
East South Central | 243 | 4,723 | 4,819 | 2.0
West North Central | 311 | 5,093 | 5,214 | 2.4
West South Central | 294 | 4,547 | 4,627 | 1.8
Mountain | 151 | 5,424 | 5,531 | 2.0
Pacific | 112 | 6,592 | 6,772 | 2.7
Puerto Rico | 5 | 2,754 | 2,677 | -2.8
By Payment Classification:
Urban hospitals | 2,645 | 7,691 | 7,703 | 0.2
Large urban areas (populations over 1 million) | 1,570 | 8,194 | 8,175 | -0.2
Other urban areas (populations of 1 million of fewer) | 1,075 | 7,003 | 7,057 | 0.8
Rural areas | 1,656 | 5,094 | 5,199 | 2.1
Teaching Status:
Non-teaching | 3,195 | 5,866 | 5,952 | 1.5
Fewer than 100 Residents | 872 | 7,479 | 7,515 | 0.5
100 or more Residents | 234 | 11,431 | 11,239 | -1.7
Urban DSH:
Non-DSH | 1,565 | 6,538 | 6,581 | 0.7
100 or more beds | 1,354 | 8,299 | 8,299 | 0.0
Less than 100 beds | 295 | 5,235 | 5,312 | 1.5
Rural DSH: | 470 | 4,938 | 5,053 | 2.3
Sole Community (SCH)
Referral Center (RRC) | 156 | 5,906 | 6,001 | 1.6
Other Rural:
100 or more beds | 78 | 4,509 | 4,598 | 2.0
Less than 100 beds | 383 | 4,076 | 4,179 | 2.5
Urban teaching and DSH:
Both teaching and DSH | 758 | 9,185 | 9,134 | -0.6
Teaching and no DSH | 278 | 7,724 | 7,717 | -0.1
No teaching and DSH | 891 | 6,510 | 6,600 | 1.4
No teaching and no DSH | 718 | 6,066 | 6,124 | 1.0
Rural Hospital Types:
Non special status hospitals | 666 | 4,247 | 4,345 | 2.3
RRC | 159 | 5,667 | 5,737 | 1.2
SCH | 540 | 5,223 | 5,344 | 2.3
Medicare-dependent hospitals (MDH) | 216 | 4,032 | 4,142 | 2.7
SCH and RRC | 75 | 6,429 | 6,589 | 2.5
Type of Ownership:
Voluntary | 2,473 | 7,322 | 7,349 | 0.4
Proprietary | 705 | 6,907 | 6,929 | 0.3
Government | 910 | 6,764 | 6,815 | 0.8
Unknown | 213 | 7,281 | 7,326 | 0.6
Medicare Utilization as a Percent of Inpatient Days:
0-25 | 319 | 9,820 | 9,755 | -0.7
25-50 | 1,650 | 8,252 | 8,252 | 0.0
50-65 | 1,706 | 6,225 | 6,293 | 1.1
Over 65 | 517 | 5,645 | 5,679 | 0.6
Unknown | 109 | 8,871 | 8,832 | -0.4
Hospitals Reclassified by the Medicare Geographic Classification Review Board:
FY 2002 Reclassifications:
All Reclassified Hospitals | 620 | 6,513 | 6,579 | 1.0
Standardized Amount Only | 29 | 5,918 | 6,016 | 1.6
Wage Index Only | 527 | 6,678 | 6,728 | 0.8
Both | 41 | 5,874 | 5,936 | 1.1
All Nonreclassified Hospitals | 3,666 | 7,310 | 7,335 | 0.3
All Urban Reclassified Hospitals | 108 | 8,752 | 8,720 | -0.4
Urban Nonreclassified Hospitals | 1 | 5,484 | 5,569 | 1.6
Standardized Amount Only | 95 | 9,003 | 8,951 | -0.6
Wage Index Only | 12 | 5,680 | 5,911 | 4.1
Both | 2,471 | 7,672 | 7,685 | 0.2
All Reclassified Rural Hospitals | 512 | 5,666 | 5,768 | 1.8
Standardized Amount Only | 1 | 5,408 | 5,605 | 3.7
Wage Index Only | 502 | 5,650 | 5,754 | 1.8
Both | 9 | 6,370 | 6,415 | 0.7
Rural Nonreclassified Hospitals | 1,175 | 4,478 | 4,585 | 2.4
Other Reclassified Hospitals (Section 1886(D)(8)(B)) | 35 | 4,892 | 5,031 | 2.8
¹ These payment amounts per case do not reflect any estimates of annual case-mix increase.

Table II presents the projected impact of the proposed changes for FY 2003 for urban and rural hospitals and for the different categories of hospitals shown in Table I. It compares the estimated payments per case for FY 2002 with the average estimated per case payments for FY 2003, as calculated under our models. Thus, this table presents, in terms of the average dollar amounts paid per discharge, the combined effects of the changes presented in Table I. The percentage changes shown in the last column of Table II equal the percentage changes in average payments from column 8 of Table I.

VII. Impact of Specific Proposed Policy Changes

A. Impact of Proposed Policy Changes Relating to Hospital Bed Counts

As discussed in section V.E.3. of the preamble of this proposed rule, we are proposing that if a hospital's reported bed count results in an occupancy rate below 35 percent, the applicable bed count for that hospital would be the number of beds that would result in an occupancy rate of 35 percent.

We have calculated an estimated impact on the Medicare program for FY 2003 as a result of this policy. We first identified urban hospitals receiving DSH with bed counts above 100, but with occupancy rates below 35 percent. Then, we determined the amount of DSH payments made to these hospitals in FY 1999. Next, we simulated what these hospitals' DSH payments would have been had their bed counts been less than 100. We compared the difference between actual DSH payments using 100 or more beds to simulated DSH payments using fewer than 100 beds, and determined that the reductions in DSH payments to these hospitals, inflated to FY 2003 using the update to the average standardized amount, would be approximately $38.9 million.

B. Impact of Proposed Changes Relating to EMTALA Provisions

In section V.J. of the preamble to this proposed rule, we discuss our proposed changes to our policies relating to the responsibilities of Medicare-participating hospitals under the patient antidumping statute (EMTALA) to medically screen all patients seeking emergency services and provide stabilizing medical treatment as necessary to patients whose conditions warrant it. In summary, to help promote consistent application of our regulations concerning EMTALA, we are proposing to clarify certain policies in areas where issues have arisen and at the same time address concerns about EMTALA raised by the Secretary's Regulatory Reform Task Force, including the following:

• We are proposing to change the requirements relating to emergency patients presenting at those off-campus outpatient clinics that do not routinely provide emergency services. We believe these changes would enhance the quality and promptness of emergency care by permitting individuals to be referred to appropriately equipped emergency facilities close to such clinics.

• We are proposing to clarify when EMTALA applies to both inpatients and outpatients. We believe these clarifications would enhance overall patient access to emergency services by helping to relieve administrative burdens on frequently overcrowded emergency departments.

• We are proposing to clarify the circumstances in which physicians, particularly specialty physicians, must serve on hospital medical staff “on-call” lists. We expect these clarifications would help improve access to physician services for all hospital patients by permitting hospitals local flexibility to determine how best to maximize their available physician resources. We are currently aware of reports of physicians, particularly specialty physicians, severing their relationships with hospitals, especially when those physicians belong to more than one hospital medical staff. Physician attrition from these medical staffs could result in hospitals having no specialty physician service coverage for their patients. Our proposed clarification of the on-call list requirement would permit hospitals to continue to attract physicians to serve on their medical staffs and thereby continue to provide services to emergency room patients.

• We are proposing to clarify the responsibilities of hospital-owned ambulances so that these ambulances can be more fully integrated with citywide and local community EMS procedures for responding to medical emergencies and thus use these resources more efficiently for the benefit of these communities.

We believe it would be difficult to quantify the impact of these changes and are soliciting comments on these issues.

C. Impact of Proposed Policy Changes Relating to Provider-Based Entity

In section V.K. of the preamble of this proposed rule, we discuss our proposed Medicare payment policy changes relating to determinations of provider-based status for entities of main providers. These changes are intended to focus mainly on issues raised by the hospital industry surrounding the provider-based regulations and to allow for a orderly and uniform implementation strategy once the grandfathering provision for these entities expires on September 30, 2002.

We believe it would be difficult to quantify the impact of these changes and are soliciting comments on these issues.

VIII. Impact of Proposed Policies Affecting Rural Hospitals

A. Raising the Threshold To Qualify for the CRNA Pass-Through Payments

In section V. of the preamble of this proposed rule, we are proposing to raise the maximum number of surgical procedures (including inpatient and outpatient procedures) requiring anesthesia services that a rural hospital may perform to qualify for pass-through payments for the costs of CRNAs to 800 from 500. Currently, we have identified 622 hospitals that qualify under this provision.

To measure the impact of this provision, we determined that approximately half of the hospitals that would appear to be eligible based on the current number of procedures appear to receive this adjustment. In order to be eligible, hospitals must employ the CRNA and the CRNA must agree not to bill for services under Part B. We estimate approximately 90 rural hospitals would qualify under the increased maximum volume threshold. If one-half of these hospitals then met the other criteria, 45 additional hospitals would be eligible for these pass-through payments under this proposed change.

B. Removal of Requirement for CAHs To Use State Resident Assessment Instrument

In section VII. of the preamble of this proposed rule, we are proposing to eliminate the requirement that CAHs use the State resident assessment instrument (RAI) to conduct patient assessments. There are approximately 600 CAHs. The overwhelming majority of CAHs, 95 percent, provide SNF level care. The elimination of the requirement to use the State RAI would greatly reduce the burden on CAHs because facilities would no longer be required to complete an RAI document for each SNF patient (which would involve approximately 12,000 admissions based on the most recent claims data). Facilities would have the flexibility to document the assessment data in the medical record in a manner appropriate for their facility. The elimination of the requirement for use of the State RAI would reduce the amount of time required to perform patient assessments and allow more time for direct patient care.

IX. Impact of Proposed Changes in the Capital Prospective Payment System

A. General Considerations

Fiscal year 2001 was the last year of the 10-year transition period established to phase in the prospective payment system for hospital capital-related costs. During the transition period, hospitals were paid under one of two payment methodologies: fully prospective or hold harmless. Under the fully prospective methodology, hospitals were paid a blend of the Federal rate and their hospital-specific rate (see § 412.340). Under the hold-harmless methodology, unless a hospital elected payment based on 100 percent of the Federal rate, hospitals were paid 85 percent of reasonable costs for old capital costs (100 percent for SCHs) plus an amount for new capital costs based on a proportion of the Federal rate (see § 412.344). As we state in section VI.A. of the preamble of this proposed rule, the end of the 10-year transition period ending with hospital cost reporting periods beginning on or after October 1, 2001 (FY 2002), capital prospective payment system payments for most hospitals are based solely on the Federal rate in FY 2003. Therefore, we no longer include information on obligated capital costs or projections of old capital costs and new capital costs, which were factors needed to calculate payments during the transition period, for our impact analysis.

In accordance with section § 412.312, the basic methodology for determining a capital prospective payment system payment is:

(Standard Federal Rate) × (DRG weight) × (Geographic Adjustment Factor(GAF)) × (Large Urban Add-on, if applicable) × (COLA adjustment for hospitals located in Alaska and Hawaii) × (1 + Disproportionate Share (DSH) Adjustment Factor + Indirect Medical Education (IME) Adjustment Factor, if applicable).

In addition, hospitals may also receive outlier payments for those cases that qualify under the proposed threshold established for each fiscal year.

The data used in developing the impact analysis presented below are taken from the December 2001 update of the FY 2001 MedPAR file and the December 2001 update of the Provider Specific File that is used for payment purposes. Although the analyses of the changes to the capital prospective payment system do not incorporate cost data, we used the December 2001 update of the most recently available hospital cost report data (FY 1999) to categorize hospitals. Our analysis has several qualifications. First, we do not make adjustments for behavioral changes that hospitals may adopt in response to policy changes. Second, due to the interdependent nature of the prospective payment system, it is very difficult to precisely quantify the impact associated with each proposed change. Third, we draw upon various sources for the data used to categorize hospitals in the tables. In some cases (for instance, the number of beds), there is a fair degree of variation in the data from different sources. We have attempted to construct these variables with the best available sources overall. However, for individual hospitals, some miscategorizations are possible.

Using cases from the December 2001 update of the FY 2001 MedPAR file, we simulated payments under the capital prospective payment system for FY 2002 and FY 2003 for a comparison of total payments per case. Any short-term, acute care hospitals not paid under the general hospital inpatient prospective payment systems (Indian Health Service Hospitals and hospitals in Maryland) are excluded from the simulations.

As we explain in section III.A.4. of the Addendum of this proposed rule, payments will no longer be made under the regular exceptions provision under §§ 412.348(b) through (e). Therefore, we are no longer using the actuarial capital cost model (described in Appendix B of August 1, 2001 final rule (66 FR 40099)). We modeled payments for each hospital by multiplying the Federal rate by the GAF and the hospital's case-mix. We then added estimated payments for indirect medical education, disproportionate share, large urban add-on, and outliers, if applicable. For purposes of this impact analysis, the model includes the following assumptions:

• We estimate that the Medicare case-mix index will increase by 0.99800 percent in FY 2002 and will increase by 1.01505 percent in FY 2003.

• We estimate that the Medicare discharges will be 13,398,000 in FY 2002 and 13,658,000 in FY 2003 for a 1.9 percent increase from FY 2002 to FY 2003.

• The Federal capital rate was updated beginning in FY 1996 by an analytical framework that considers changes in the prices associated with capital-related costs and adjustments to account for forecast error, changes in the case-mix index, allowable changes in intensity, and other factors. The proposed FY 2003 update is 1.1 percent (see section III.A.1.a. of the Addendum to this proposed rule).

• In addition to the proposed FY 2003 update factor, the proposed FY 2003 Federal rate was calculated based on a proposed GAF/DRG budget neutrality factor of 1.0224, a proposed outlier adjustment factor of 0.9460, a proposed exceptions adjustment factor of 0.9960, and a proposed special adjustment for FY 2003 of 1.0255 (see section III.A. of the Addendum of this proposed rule).

2. Results

In the past, in this impact section we presented the redistributive effects that were expected to occur between “hold-harmless” hospitals and “fully prospective” hospitals and a cross-sectional summary of hospital groupings by the capital prospective payment system transition period payment methodology. We are no longer including this information since all hospitals (except new hospitals under § 412.324(b) and under proposed § 412.32(c)(2)) are paid 100 percent of the Federal rate in FY 2003.

We used the actuarial model described above to estimate the potential impact of our proposed changes for FY 2003 on total capital payments per case, using a universe of 4,300 hospitals. As described above, the individual hospital payment parameters are taken from the best available data, including the December 2001 update of the MedPAR file, the December 2001 update to the Provider-Specific File, and the most recent cost report data. In Table III, we present a comparison of total payments per case for FY 2002 compared to FY 2003 based on proposed FY 2003 payment policies. Column 3 shows estimates of payments per case under our model for FY 2002. Column 4 shows estimates of payments per case under our model for FY 2003. Column 5 shows the total percentage change in payments from FY 2002 to FY 2003. The change represented in Column 5 includes the 1.1 percent increase in the Federal rate, a 1.01505 percent increase in case-mix, changes in the adjustments to the Federal rate (for example, the effect of the new hospital wage index on the geographic adjustment factor), and reclassifications by the MGCRB, as well as changes in special exception payments. The comparisons are provided by: (1) Geographic location; (2) region; and (3) payment classification.

The simulation results show that, on average, capital payments per case can be expected to increase 3.7 percent in FY 2003. Our comparison by geographic location shows an overall increase in payments to hospitals in all areas. This comparison also shows that urban and rural hospitals will experience slightly different rates of increase in capital payments per case (3.5 percent and 5.1 percent, respectively). This difference is due to a projection that urban hospitals will experience a larger decrease in outlier payments from FY 2002 to FY 2003 compared to rural hospitals.

All regions are estimated to receive an increase in total capital payments per case, partly due to the elimination of the 2.1 percent reduction to the Federal rate for FY 2003 (see section VI.D. of the preamble of this proposed rule). Changes by region vary from a minimum increase of 2.1 percent (Middle Atlantic urban region) to a maximum increase of 5.7 percent (West North Central rural region). Hospitals located in Puerto Rico are expected to experience an increase in total capital payments per case of 4.3 percent.

By type of ownership, government hospitals are projected to have the largest rate of increase of total payment changes (4.4 percent). Similarly, payments to voluntary hospitals will increase 3.9 percent, while payments to proprietary hospitals will increase 2.0 percent.

Section 1886(d)(10) of the Act established the MGCRB. Hospitals may apply for reclassification for purposes of the standardized amount, wage index, or both. Although the Federal capital rate is not affected, a hospital's geographic classification for purposes of the operating standardized amount does affect a hospital's capital payments as a result of the large urban adjustment factor and the disproportionate share adjustment for urban hospitals with 100 or more beds. Reclassification for wage index purposes also affects the geographic adjustment factor, since that factor is constructed from the hospital wage index.

To present the effects of the hospitals being reclassified for FY 2003 compared to the effects of reclassification for FY 2002, we show the average payment percentage increase for hospitals reclassified in each fiscal year and in total. For FY 2003 reclassifications, we indicate those hospitals reclassified for standardized amount purposes only, for wage index purposes only, and for both purposes. The reclassified groups are compared to all other nonreclassified hospitals. These categories are further identified by urban and rural designation.

Hospitals reclassified for FY 2003 as a whole are projected to experience a 4.2 percent increase in payments. Payments to nonreclassified hospitals will increase slightly less (3.6 percent) than reclassified hospitals, overall. Hospitals reclassified during both FY 2002 and FY 2003 are projected to receive an increase in payments of 3.9 percent. Hospitals reclassified during FY 2003 only are projected to receive an increase in payments of 9.0 percent. This increase is primarily due to changes in the GAF (wage index).

Table III.—Comparison of Total Payments Per Case
[FY 2002 Payments Compared To FY 2003 Payments]
| Number of hospitals | Average FY 2002 payments/case | Average FY 2003 payments/case | Change
By Geographic Location:
All hospitals | 4,300 | 667 | 692 | 3.7
Large urban areas (populations over 1 million) | 1,511 | 773 | 798 | 3.1
Other urban areas (populations of 1 million of fewer) | 1,102 | 652 | 678 | 4.0
Rural areas | 1,687 | 448 | 471 | 5.1
Urban hospitals | 2,613 | 721 | 746 | 3.5
0-99 beds | 647 | 511 | 533 | 4.3
100-199 beds | 904 | 611 | 634 | 3.7
200-299 beds | 528 | 692 | 717 | 3.6
300-499 beds | 387 | 762 | 790 | 3.7
500 or more beds | 147 | 935 | 961 | 2.8
Rural hospitals | 1,687 | 448 | 471 | 5.1
0-49 beds | 818 | 370 | 393 | 6.0
50-99 beds | 507 | 412 | 435 | 5.6
100-149 beds | 216 | 454 | 477 | 5.1
150-199 beds | 78 | 493 | 517 | 4.9
200 or more beds | 68 | 566 | 589 | 4.1
By Region:
Urban by Region | 2,613 | 721 | 746 | 3.5
New England | 134 | 771 | 804 | 4.3
Middle Atlantic | 402 | 817 | 834 | 2.1
South Atlantic | 380 | 690 | 716 | 3.7
East North Central | 431 | 687 | 718 | 4.5
East South Central | 158 | 649 | 675 | 4.0
West North Central | 180 | 703 | 735 | 4.6
West South Central | 334 | 666 | 685 | 2.9
Mountain | 132 | 695 | 724 | 4.2
Pacific | 416 | 841 | 866 | 2.9
Puerto Rico | 46 | 305 | 319 | 4.3
Rural by Region | 1,687 | 448 | 471 | 5.1
New England | 40 | 549 | 575 | 4.6
Middle Atlantic | 68 | 472 | 497 | 5.4
South Atlantic | 239 | 467 | 489 | 4.8
East North Central | 225 | 456 | 481 | 5.5
East South Central | 243 | 414 | 435 | 5.0
West North Central | 311 | 440 | 465 | 5.7
West South Central | 294 | 403 | 423 | 5.0
Mountain | 150 | 460 | 483 | 5.0
Pacific | 112 | 528 | 557 | 5.5
By Payment Classification:
All hospitals | 4,300 | 667 | 692 | 3.7
Large urban areas (populations over 1 million) | 1,570 | 767 | 791 | 3.2
Other urban areas (populations of 1 million of fewer) | 1,075 | 654 | 680 | 4.0
Rural areas | 1,655 | 447 | 469 | 5.1
Teaching Status:
Non-teaching | 3,194 | 545 | 568 | 4.2
Fewer than 100 Residents | 872 | 699 | 726 | 3.8
100 or more Residents | 234 | 1,041 | 1,069 | 2.7
Urban DSH:
100 or more beds | 1,354 | 759 | 784 | 3.3
Less than 100 beds | 295 | 492 | 512 | 4.2
Rural DSH:
Sole Community (SCH/EACH) | 469 | 392 | 414 | 5.6
Referral Center (RRC/EACH) | 156 | 518 | 540 | 4.3
Other Rural:
100 or more beds | 78 | 418 | 439 | 5.0
Less than 100 beds | 383 | 378 | 400 | 5.8
Urban teaching and DSH:
Both teaching and DSH | 758 | 838 | 864 | 3.1
Teaching and no DSH | 278 | 746 | 776 | 4.0
No teaching and DSH | 891 | 600 | 623 | 3.8
No teaching and no DSH | 718 | 600 | 623 | 3.8
Rural Hospital Types:
Non special status hospitals | 666 | 398 | 420 | 5.5
RRC/EACH | 159 | 526 | 548 | 4.2
SCH/EACH | 539 | 415 | 438 | 5.5
Medicare-dependent hospitals (MDH) | 216 | 368 | 391 | 6.3
SCH, RRC and EACH | 75 | 503 | 530 | 5.3
Hospitals Reclassified by the Medicare Geographic Classification Review Board:
Reclassification Status During FY2002 and FY2003:
Reclassified During Both FY2002 and FY2003 | 567 | 588 | 611 | 3.9
Reclassified During FY2003 Only | 53 | 516 | 563 | 9.0
Reclassified During FY2002 Only | 77 | 623 | 651 | 4.4
FY2003 Reclassifications:
All Reclassified Hospitals | 620 | 583 | 607 | 4.2
All Nonreclassified Hospitals | 3,645 | 683 | 708 | 3.6
All Urban Reclassified Hospitals | 108 | 799 | 826 | 3.4
Urban Nonreclassified Hospitals | 2,471 | 718 | 743 | 3.5
All Reclassified Rural Hospitals | 512 | 500 | 524 | 4.7
Rural Nonreclassified Hospitals | 1,174 | 389 | 411 | 5.7
Other Reclassified Hospitals (Section 1886(D)(8)(B)) | 35 | 454 | 484 | 6.4
Type of Ownership:
Voluntary | 2,473 | 680 | 707 | 3.9
Proprietary | 705 | 658 | 671 | 2.0
Government | 909 | 600 | 627 | 4.4
Medicare Utilization as a Percent of Inpatient Days:
0-25 | 318 | 859 | 885 | 3.0
25-50 | 1,650 | 767 | 792 | 3.3
50-65 | 1,706 | 582 | 606 | 4.2
Over 65 | 517 | 525 | 547 | 4.3

BILLING CODE 4120-01-P

Appendix B—Report to Congress

BILLING CODE 4120-01-C

Appendix C: Recommendation of Update Factors for Operating Cost Rates of Payment for Inpatient Hospital Services

I. Background

Section 1886(e)(4) of the Act requires that the Secretary, taking into consideration the recommendations of the Medicare Payment Advisory Commission (MedPAC), recommend update factors for inpatient hospital services for each fiscal year that take into account the amounts necessary for the efficient and effective delivery of medically appropriate and necessary care of high quality. Under section 1886(e)(5) of the Act, we are required to publish the update factors recommended under section 1886(e)(4) of the Act. Accordingly, this Appendix provides the recommendations of appropriate update factors and the analysis underlying our recommendations. We also respond to MedPAC's recommendations concerning the update factors.

Section 1886(b)(3)(B)(i)(XVIII) of the Act, as amended by Section 301 Public Law 106-554, sets the FY 2003 percentage increase in the operating cost standardized amounts equal to the rate of increase in the hospital market basket minus 0.55 percent for prospective payment hospitals in all areas. Section 1886(b)(3)(B)(iv) of the Act sets the FY 2003 percentage increase in the hospital-specific rates applicable to SCHs and MDHs equal to the rate set forth in section 1886(b)(3)(B)(i) of the Act, that is, the same update factor as all other hospitals subject to the acute care hospital inpatient prospective payment system, or the rate of increase in the market basket minus 0.55 percentage points. Under section 1886(b)(3)(B)(ii) of the Act, the FY 2003 percentage increase in the rate-of-increase limits for hospitals and hospital units excluded from the acute care hospital inpatient prospective payment system is the market basket percentage increase.

In accordance with section 1886(d)(3)(A) of the Act, we are proposing to update the standardized amounts, the hospital-specific rates, and the rate-of-increase limits for hospitals and hospital units excluded from the prospective payment system as provided in section 1886(b)(3)(B) of the Act. Based on the proposed revised and rebased first quarter 2002 forecast of the FY 2003 market basket increase of 3.3 percent for hospitals subject to the acute care hospital inpatient prospective payment system, the proposed update to the standardized amounts is 2.75 percent (that is, the market basket rate of increase minus 0.55 percent percentage points) for hospitals in both large urban and other areas. The proposed update to the hospital-specific rate applicable to SCHs and MDHs is also 2.75 percent.

Consistent with section 1886(e)(3) of the Act, we are proposing a recommendation for updating payments for hospitals and distinct-part hospital units that are excluded from the hospital inpatient prospective payment system. Facilities excluded from the hospital inpatient prospective payment system include psychiatric hospitals and units, rehabilitation hospitals and units, long-term care hospitals, cancer hospitals, and children's hospitals.

In the past, hospitals and hospital units excluded from the hospital inpatient prospective payment system have been paid based on their reasonable costs subject to limits as established by the Tax Equity and Fiscal Responsibility Act of 1982 (TEFRA). Hospitals that continue to be paid based on their reasonable costs are subject to TEFRA limits for FY 2003. For these hospitals, the proposed update is the percentage increase in the excluded hospital market basket (currently estimated at 3.4 percent).

Inpatient rehabilitation facilities (IRFs) are paid under the IRF prospective payment system for cost reporting periods beginning on or after January 1, 2002. For cost reporting periods beginning during FY 2003, the Federal prospective payment for IRFs is based on 100 percent of the adjusted Federal IRF prospective payment amount, updated annually (see the August 7, 2001 final rule (66 FR 41316)).

Effective for cost reporting periods beginning during FY 2003, we are proposing that long-term care hospitals would be paid under a prospective payment system under which long-term care hospitals receive payment based on a 5-year transition period (see the March 22, 2002 proposed rule (67 FR 13416)). We are also proposing that long-term care hospitals may elect to be paid on 100 percent of the Federal prospective rate at the beginning of any of its cost reporting periods during the 5-year transition period. For purposes of the update factor, the portion of the proposed prospective payment system transition blend payment based on reasonable costs for inpatient operating services would be determined by updating the long-term care hospital's TEFRA limit by the current estimate of the excluded hospital market basket (or 3.4 percent).

In its March 1, 2002 Report to the Congress, MedPAC recommended that the base payment rates for Medicare covered services under the hospital inpatient prospective payment system be increased by the market basket percentage increase minus 0.55 percent for hospitals located in large urban areas, and by the full market basket percentage increase for hospitals located in all other areas (page 66). MedPAC did not make a separate recommendation for the hospital-specific rate applicable to SCHs and MDHs. MedPAC also presented a new approach for updating the hospital inpatient prospective system payment rates, which assesses the adequacy of current payments and accounts for the increase in efficient providers' costs in the upcoming year. While this approach is not fundamentally different from what MedPAC has done in the past, it no longer produces a detailed update framework for direct comparison with the Secretary's framework. We discuss MedPAC's recommendations concerning the update factors and our responses to these recommendations in section III. of this Appendix C. Below we describe the basis of our FY 2003 update recommendation (as shown in Table 1).

II. Secretary's Recommendations

Under section 1886(e)(4) of the Act, we are recommending that an appropriate update factor for the standardized amounts is the market basket percentage increase minus 0.55 percentage points for hospitals located in large urban and other areas. We are also recommending an update factor of the market basket percentage increase minus 0.55 percentage points for the hospital-specific rate for SCHs and MDHs. We believe these recommended update factors for FY 2003 would ensure that Medicare acts as a prudent purchaser and provide incentives to hospitals for increased efficiency, thereby contributing to the solvency of the Medicare Part A Trust Fund.

Rehabilitation hospitals and units are now paid under the IRF prospective payment system. For cost reporting periods beginning on or after October 1, 2002, the IRF prospective payment is based on 100 percent of the adjusted Federal IRF prospective payment system amount updated annually.

Effective for cost reporting periods beginning during FY 2003, we have proposed that long-term care hospitals be paid under a prospective payment system (67 FR 13416). For purposes of the update factor, the portion of the proposed prospective payment system transition blend payment based on reasonable costs for inpatient operating services for FY 2003 would be determined by updating the TEFRA target amount for long-term care hospitals by the most recent available estimate of the increase in the excluded hospital operating market basket (or 3.4 percent).

We recommend that the remaining excluded hospitals and units (which are excluded from the acute care hospital inpatient prospective payment system and will continue to be paid on a reasonable cost basis in FY 2003) receive an update of 3.4 percent. The update for excluded hospitals and hospital units is equal to the most recent available estimate of the increase in the excluded hospital operating market basket. Based on the proposed revised and rebased first quarter 2002 forecast for FY 2003, the proposed market basket rate of increase for excluded hospitals and hospital units is 3.4 percent.

As required by section 1886(e)(4) of the Act, we have taken into consideration the recommendations of MedPAC in setting these recommended update factors. Our responses to the MedPAC recommendations concerning the update factors are discussed below. Consistent with current law, we are proposing an update recommendation of the market basket percentage increase minus 0.55 percentage points for the hospital inpatient prospective payment system operating cost standardized amounts for FY 2003. This proposed update recommendation is supported by the following analyses that measure changes in hospital productivity, scientific and technological advances, practice pattern changes, changes in case-mix, the effect of reclassification on recalibration, and forecast error correction.

A. Productivity

Service level labor productivity is defined as the ratio of total service output to full-time equivalent employees (FTEs). While we recognize that productivity is a function of many variables (for example, labor, nonlabor material, and capital inputs), we use the portion of productivity attributed to direct labor since this update framework applies to operating payment. To recognize that we are apportioning the short-run output changes to the labor input and not considering the nonlabor inputs, we weight our productivity measure by the share of direct labor services in the market basket to determine the expected effect on cost per case.

Our recommendation for the service productivity component is based on historical trends in productivity and total output for both the hospital industry and the general economy, and projected levels of future hospital service output. MedPAC's predecessor, the Prospective Payment Assessment Commission (ProPAC), estimated cumulative service productivity growth to be 4.9 percent from 1985 through 1989 or 1.2 percent annually. At the same time, ProPAC estimated total output growth at 3.4 percent annually, implying a ratio of service productivity growth to output growth of 0.35.

Absent a productivity measure specific to Medicare patients, we examined productivity (output per hour) and output (gross domestic product) for the economy. Depending on the exact time period, annual changes in productivity range from 0.3 to 0.35 percent of the change in output (that is, a 1.0 percent increase in output would be correlated with a 0.3 to 0.35 percent change in output per hour).

Under our framework, the recommended update is based in part on expected productivity—that is, projected service output during the year, multiplied by the historical ratio of service productivity to total service output, multiplied by the share of direct labor in total operating inputs, as calculated in the hospital market basket. This method estimates an expected productivity improvement in the same proportion to expected total service growth that has occurred in the past and assumes that, at a minimum, growth in FTEs changes proportionally to the growth in total service output. Thus, the recommendation allows for unit productivity to be smaller than the historical averages in years that output growth is relatively low and larger in years that output growth is higher than the historical averages. Based on the above estimates from both the hospital industry and the economy, we have chosen to employ the range of ratios of productivity change to output change of 0.30 to 0.35.

The expected change in total hospital service output is the product of projected growth in total admissions (adjusted for outpatient usage), projected real case-mix growth, expected quality-enhancing intensity growth, and net of expected decline in intensity due to reduction of cost-ineffective practice. Case-mix growth and intensity numbers for Medicare are used as proxies for those of the total hospital, since case-mix increases (used in the intensity measure as well) are unavailable for non-Medicare patients. Thus, expected FY 2003 hospital output growth is simply the sum of the expected change in intensity (1.0 percent), projected admissions change (1.9 percent), and projected real case-mix growth (1.0 percent), or 3.9 percent. The share of direct labor services in the market basket (consisting of wages, salaries, and employee benefits) is 61.7 percent (based on the proposed revised and rebased hospital market basket discussed in section IV. of the preamble of this proposed rule).

Multiplying the expected change in total hospital service output (3.9 percent) by the ratio of historical service productivity change to total service growth of 0.30 to 0.35 and by the direct labor share percentage 61.6, provides our productivity standard of 0.9 to 0.7 percent. Because productivity gains hold down the rate of increase in hospitals' costs, this factor is applied as a negative offset to the market basket increase.

B. Intensity

We base our intensity standard on the combined effect of three separate factors: changes in the use of quality enhancing services, changes in the use of services due to shifts in within-DRG severity, and changes in the use of services due to reductions of cost-ineffective practices. For FY 2003, we recommend an adjustment of 1.0 percent. The basis of this recommendation is discussed below.

Following methods developed by CMS’ Office of the Actuary for deriving hospital output estimates from total hospital charges, we have developed Medicare-specific intensity measures based on a 5-year average using FYs 1997 through 2001 MedPAR billing data. Case-mix constant intensity is calculated as the change in total Medicare charges per discharge adjusted for changes in the average charge per unit of service as measured by the Consumer Price Index (CPI) for hospital and related services and changes in real case-mix.¹ The 5-year average percentage change in charge per discharge was 6.3 percent, the 5-year average annual change in the CPI for hospital and related services was 4.5 percent, and the 5-year average annual change in case-mix was −0.3 percent. Dividing the change in charge per discharge by the product of the real case-mix index change and the CPI for hospital and related services yields a 5-year average annual change in intensity of 2.0 percent. To account for the proportions of the overall annual intensity increases due to ineffective practice patterns and to the combination of quality-enhancing new technologies and within-DRG complexity, we assume that one-half of the annual increase is due to each of these factors. Our recommended adjustment excludes the estimated amount of the overall intensity increase due to ineffective practice patterns. Thus, we are recommending an intensity adjustment for FY 2003 of 1.0 percent.

¹ In the past, we have considered the upper bound of real case mix to be from 1.0 to 1.4 percent annually, with any increase beyond this bound assumed to be due to changes in coding practices. Because none of the annual changes in observed case mix change during the 5-year period from FY 1997 through FY 2001 exceeded 1.0 percent, it is all assumed to be real case mix change.

C. Change in Case-Mix

Our analysis takes into account projected changes in case-mix, adjusted for changes attributable to improved coding practices. For our FY 2003 update recommendation, we are projecting a 1.0 percent increase in the case-mix index. We define real case-mix change as actual changes in the mix (and resource requirements) of Medicare patients as opposed to changes in coding behavior that result in assignment of cases to higher weighted DRGs, but do not reflect greater resource requirements. We do not believe changes in coding behavior will impact the overall case-mix in FY 2003. As such, for FY 2003, we estimate that real case-mix is equal to projected change in case-mix. Thus, we are recommending a 0.0 percent adjustment for case-mix.

D. Effect of FY 2001 DRG Reclassification and Recalibration

We estimate that DRG reclassification and recalibration for FY 2001 resulted in a 0.3 percent change in the case-mix index when compared with the case-mix index that would have resulted if we had not made the reclassification and recalibration changes to the GROUPER. Therefore, we are recommending a −0.3 percent adjustment for the effect of FY 2001 DRG reclassification and recalibration.

E. Forecast Error Correction

We make a forecast error correction if the actual market basket changes differ from the forecasted market basket by 0.25 percentage points or more. There is a 2-year lag between the forecast and the measurement of forecast error. The estimated market basket percentage increase used to update the FY 2001 payment rates was 3.4 percent. Our most recent data indicates the actual FY 2001 increase was 4.1 percent. The resulting forecast error in the FY 2001 market basket rate of increase is 0.7 percentage points. This forecast error is a result of prices for wages, benefits, and utilities increasing more rapidly than expected. The effects of a labor shortage within the health services industry caused hospitals to increase wages greater than initially projected. Increases in actual benefits were faster than projected due to a greater than expected increase in health insurance premiums. Finally, market conditions for natural gas and electricity caused prices for those products to increase more rapidly than expected.

The following is a summary of the update range supported by our analyses:

HHS's FY 2003 Update Recommendation
Market basket | MB
Policy Adjustment Factors:
Productivity | −0.9 to −0.7
Intensity | 1.0
Subtotal | 0.1 to 0.3
Case-Mix Adjustment Factors:
Projected Case-Mix Change | 1.0
Real Across DRG Change | −1.0
Subtotal | 0.0
Effect of FY 2001 DRG Reclassification and Recalibration | −0.3
Forecast Error Correction | 0.7
Total Recommendation Update | MB + 0.5 to MB + 0.7

While the above analysis would suggest an update between market basket plus 0.5 percentage points and the market basket plus 0.7 percentage points, the Secretary is recommending, consistent with current law, an update of the market basket percentage increase minus 0.55 percentage points (or 2.75 percent) for hospitals in all areas.

We believe that a 2.75 percent update factor for FY 2003 will appropriately reflect current trends in health care delivery, including the recent decreases in the use of hospital inpatient services and the corresponding increase in the use of hospital outpatient and postacute care services. Also, consistent with current law, we are recommending that the hospital-specific rates applicable to SCHs and MDHs be increased by the same update, 2.75 percentage points.

Since the inception of the acute care hospital inpatient prospective payment system, hospitals have received a full market basket update only once, in FY 2001. The stabilization of overall hospital margins in recent years suggests that the restrictions on market basket increases have not resulted in inadequate hospital payments. Modest limits below full market basket updates could be linked to continued careful review of Medicare hospital margin data to ensure that margins do not worsen among certain hospital types with negative and declining Medicare margins.

III. MedPAC Recommendations for Assessing Payment Adequacy and Updating Payments in Traditional Medicare

In its FY 2002 Report to Congress, MedPAC developed a new approach for updating fee-for-service payments that breaks the process into two basic parts: assessing the adequacy of current payments; and accounting for the increase in efficient providers' costs in the coming year. MedPAC points out this new approach “is not fundamentally different from what the Commission has done in the past, but we expect formalizing the two parts of our process will lead to greater emphasis on the broad question of whether the amount of money in the system currently is right and less emphasis on the role of specific cost-influencing factors” (page 39).

In assessing payment adequacy, MedPAC reviews the relationship between costs and payments (conventionally expressed as a margin). On the payment side, MedPAC applied the annual payment updates specified in law through FY 2002 and then modeled the effects of other policy changes that have affected the level of payments. On the cost side, MedPAC estimated the increases in costs per unit of output over the same period using the change in cost per adjusted admission in the American Hospital Association's annual survey of hospitals for FY 2000, and the CMS projected increase in the FYs 2001 and 2002 market baskets (page 58). MedPAC estimated that the inpatient Medicare margin would be 10.8 percent in FY 2002 (with FY 2003 payment rules). This amount is down slightly from MedPAC's estimate of 11.9 percent in FY 1999. In addition to the inpatient Medicare margin, MedPAC measured the overall Medicare margin, incorporating almost all Medicare-related payments and costs to hospitals. This overall Medicare margin was estimated to be 3.8 percent. The report notes that “the Commission does not plan to specify a 'standard margin,' although we will take the need for a small positive margin into account as we assess the adequacy of various fee-for-service payments” (page 43).

In addition to considering the relationship between estimated payments and costs, MedPAC also considered the following three factors to assess whether current payments are adequate (page 43):

• Changes in access to or quality of care;

• Changes in the volume of services or number of providers; and

• Changes in providers access to capital.

MedPAC found no evidence that the hospital cost base is inappropriate and concluded that Medicare payment is adequate and no payment adequacy adjustment is needed for FY 2003.

MedPAC recommends gradually eliminating the differential in the standardized amounts for hospitals in large urban and other areas. MedPAC's data on margins and its analysis of costs suggest that a different standardized amount (the large urban standardized amount is 1.6 percent higher than the amount for other areas) is unwarranted. MedPAC estimates the FY 2002 Medicare inpatient margins will range from 5 percent for rural hospitals to 14 percent for hospitals in large urban areas. Because much of this difference is due to the greater proportion of IME and DSH payments going to hospitals in large urban areas, MedPAC removed DSH payments and the portion of the IME payment above the measured cost relationship between IME and hospitals' costs, and found that hospitals in large urban areas still have Medicare margins that are about 4 percentage points higher than other urban and rural hospitals (page 64).

MedPAC believes that “(e)liminating the differential would improve payment equity across geographic areas and also help to simplify the payment system” (page 63). For example, eliminating the standardized amount differential would also eliminate the need for hospitals to reclassify for a higher standardized amount through the MGCRB. Therefore, MedPAC recommends holding the update for hospitals in large urban areas to the legislated level of the market basket percentage increase minus 0.55 percent for FY 2003, while updating the other areas standardized amount by the full market basket percentage increase.

MedPAC accounts for providers' cost changes in the coming payment year primarily through a forecast of input price inflation, which estimates how much providers' costs would rise in the coming year if the quality and mix of inputs they use to furnish care and the types of patients they treat remain constant. MedPAC relies on CMS' market basket estimate to forecast input price inflation, but considers other factors that may affect providers' costs. These other factors are scientific and technological advances, changes in DRG case-mix complexity, site-of-service substitution, and other one-time factors.

In the past, MedPAC recommended specific adjustments to its update recommendation for each of these factors. In its March 2002 Report to Congress, MedPAC did not provide specific estimates for these factors, but stated “(a)fter considering all factors that might potentially affect the rate of growth in efficient providers' costs, we conclude that the appropriate adjustment for cost growth in fiscal year 2003 is the forecasted increase in the market basket, or 2.9 percent” (page 66). This market basket forecast was based on the December 2001 market basket estimated by CMS' Office of the Actuary, and does not reflect the proposed revisions and rebasing discussed in section IV. of the preamble of this proposed rule.

MedPAC's second recommendation related to updating payments under the hospital inpatient prospective payment system is that the Congress should increase the base rate for inpatient services covered by Medicare's prospective payment system in FY 2003 by the market basket percentage increase minus 0.55 percent for hospitals in large urban areas and by the market basket percentage increase for hospitals in all other areas. MedPAC focused on the operating update only because it applies to 92 percent of hospitals' Medicare costs. The report noted that, in its March 2000 report to Congress, MedPAC recommended combining the operating and capital payment systems into a single prospective payment system.

Response: As described above, we continue to use our detailed update framework to develop our recommended update for FY 2003. However, we believe MedPAC's new approach will be useful to focusing the policy discussion more directly on the overall adequacy of hospital payments. We look forward to continuing to work with MedPAC to refine and utilize both methodologies in an effort to produce analyses that provide the most helpful information for setting the annual updates.

We agree with MedPAC's recommendation that the current law update for FY 2003 of the market basket percentage increase minus 0.55 percentage points is appropriate for the operating system update. However, we are not recommending differential updates to gradually eliminate the higher standardized amount for hospitals in large urban areas, as recommended by MedPAC. We believe the stabilization of overall hospital margins in recent years suggests that modest limits below full market basket updates provide adequate payments. We agree, however, that certain hospital types that show clear evidence of negative and declining Medicare margins should be monitored closely.

Because the operating and capital prospective payment systems remain separate, CMS continues to use separate updates for operating and capital payments. The proposed update to the capital payment rate is discussed in section III. of the Addendum of this proposed rule.

[FR Doc. 02-11290 Filed 5-8-02; 8:45 am]

BILLING CODE 4120-01-P